REGULATORY INFORMATION SERVICE CENTER

Introduction to the Unified Agenda of Federal Regulatory and Deregulatory Actions

AGENCY: Regulatory Information Service Center.

ACTION: Introduction to the Regulatory Plan and the Unified Agenda of Federal Regulatory and Deregulatory Actions.

SUMMARY: The Regulatory Flexibility Act requires that agencies publish semiannual regulatory agendas in the Federal Register describing regulatory actions they are developing that may have a significant economic impact on a substantial number of small entities (5 U.S.C. 602). Executive Order 12866 “Regulatory Planning and Review,” signed September 30, 1993 (58 FR 51735), and incorporated in Executive Order 13563, “Improving Regulation and Regulatory Review” issued on January 18, 2011 (76 FR 3821) establish guidelines and procedures for agencies' agendas, including specific types of information for each entry.

The Unified Agenda of Federal Regulator and Deregulatory Actions (Unified Agenda) helps agencies fulfill these requirements. All Federal regulatory agencies have chosen to publish their regulatory agendas as part of the Unified Agenda. The complete 2014 Unified Agenda and Regulatory Plan, which contains the regulatory agendas for Federal agencies, is available to the public at http://reginfo.gov.

The fall 2014 Unified Agenda publication appearing in the Federal Register consists of The Regulatory Plan and agency regulatory flexibility agendas, in accordance with the publication requirements of the Regulatory Flexibility Act. Agency regulatory flexibility agendas contain only those Agenda entries for rules that are likely to have a significant economic impact on a substantial number of small entities and entries that have been selected for periodic review under section 610 of the Regulatory Flexibility Act.

The complete fall 2014 Unified Agenda contains the Regulatory Plans of 30 Federal agencies and the regulatory agendas of 31 other Federal agencies.

ADDRESSES: Regulatory Information Service Center (MVE), General Services Administration, 1800 F Street NW., 2219F, Washington, DC 20405.

FOR FURTHER INFORMATION CONTACT: For further information about specific regulatory actions, please refer to the agency contact listed for each entry.

To provide comment on or to obtain further information about this publication, contact: John C. Thomas, Executive Director, Regulatory Information Service Center (MVE), General Services Administration, 1800 F Street NW., 2219F, Washington, DC 20405, (202) 482-7340. You may also send comments to us by email at: risc@gsa.gov.

SUPPLEMENTARY INFORMATION:

TABLE OF CONTENTS

Introduction to the Regulatory Plan and the Unified Agenda of Federal Regulatory and Deregulatory Actions

I. What are The Regulatory Plan and the Unified Agenda?

II. Why are The Regulatory Plan and the Unified Agenda published?

III. How are The Regulatory Plan and the Unified Agenda organized?

IV. What Information appears for each entry?

V. Abbreviations

VI. How can users get copies of the Plan and the Agenda?

Introduction to the Fall 2014 Regulatory Plan

AGENCY REGULATORY PLANS

Cabinet Departments

Department of Agriculture

Department of Commerce

Department of Defense

Department of Education

Department of Energy

Department of Health and Human Services

Department of Homeland Security

Department of Housing and Urban Development

Department of the Interior

Department of Justice

Department of Labor

Department of Transportation

Department of the Treasury

Department of Veterans Affairs

Other Executive Agencies

Architectural and Transportation Barriers Compliance Board

Environmental Protection Agency

Equal Employment Opportunity Commission

General Services Administration

National Aeronautics and Space Administration

National Archives and Records Administration

Office of Personnel Management

Pension Benefit Guaranty Corporation

Small Business Administration

Social Security Administration

Independent Regulatory Agencies

Consumer Financial Protection Bureau

Consumer Product Safety Commission

Federal Trade Commission

National Indian Gaming Commission

Nuclear Regulatory Commission

AGENCY AGENDAS

Cabinet Departments

Department of Agriculture

Department of Commerce

Department of Defense

Department of Education

Department of Energy

Department of Health and Human Services

Department of Homeland Security

Department of the Interior

Department of Justice

Department of Labor

Department of Transportation

Other Executive Agencies

Architectural and Transportation Barriers Compliance Board

Environmental Protection Agency

General Services Administration

National Aeronautics and Space Administration

Small Business Administration

Joint Authority

Department of Defense/General Services Administration/National Aeronautics and Space Administration (Federal Acquisition Regulation)

Independent Regulatory Agencies

Commodity Futures Trading Commission

Consumer Financial Protection Bureau

Federal Communications Commission

Federal Reserve System

Nuclear Regulatory Commission

Securities and Exchange Commission

Surface Transportation Board

INTRODUCTION TO THE REGULATORY PLAN AND THE UNIFIED AGENDA OF FEDERAL REGULATORY AND DEREGULATORY ACTIONS

I. What are the Regulatory Plan and the Unified Agenda?

The Regulatory Plan serves as a defining statement of the Administration's regulatory and deregulatory policies and priorities. The Plan is part of the fall edition of the Unified Agenda. Each participating agency's regulatory plan contains: (1) A narrative statement of the agency's regulatory and deregulatory priorities, and, for the most part, (2) a description of the most important significant regulatory and deregulatory actions that the agency reasonably expects to issue in proposed or final form during the upcoming fiscal year. This edition includes the regulatory plans of 30 agencies.

The Unified Agenda provides information about regulations that the Government is considering or reviewing. The Unified Agenda has appeared in the Federal Register twice each year since 1983 and has been available online since 1995. The complete Unified Agenda is available to the public at http://reginfo.gov. The online Unified Agenda offers flexible search tools and access to the historic Unified Agenda database to 1995.

The fall 2014 Unified Agenda publication appearing in the Federal Register consists of The Regulatory Plan and agency regulatory flexibility agendas, in accordance with the publication requirements of the Regulatory Flexibility Act. Agency regulatory flexibility agendas contain only those Agenda entries for rules that are likely to have a significant economic impact on a substantial number of small entities and entries that have been selected for periodic review under section 610 of the Regulatory Flexibility Act. Printed entries display only the fields required by the Regulatory Flexibility Act. Complete agenda information for those entries appears, in a uniform format, in the online Unified Agenda at http://reginfo.gov.

These publication formats meet the publication mandates of the Regulatory Flexibility Act and Executive Order 12866 (incorporated in Executive Order 13563), as well as moved the Agenda process to the goal of online availability, resulting in a reduced cost in printing. The current online format does not reduce the amount of information available to the public. The complete online edition of the Unified Agenda includes regulatory agendas from 61 Federal agencies. Agencies of the United States Congress are not included.

The following agencies have no entries identified for inclusion in the printed regulatory flexibility agenda. An asterisk (*) indicates agencies that appear in The Regulatory Plan. The regulatory agendas of these agencies are available to the public at http://reginfo.gov.

Department of Housing and Urban Development*

Department of State

Department of Treasury*

Department of Veterans Affairs*

Advisory Council on Historic Preservation

Agency for International Development

Commission on Civil Rights

Committee for Purchase From People Who Are Blind or Severely Disabled

Corporation for National and Community Service

Court Services and Offender Supervision Agency for the District of Columbia

Equal Employment Opportunity Commission*

Institute of Museum and Library Services

National Archives and Records Administration*

National Endowment for the Arts

National Endowment for the Humanities

National Science Foundation

Office of Government Ethics

Office of Management and Budget

Office of Personnel Management*

Peace Corps

Pension Benefit Guaranty Corporation*

Railroad Retirement Board

Social Security Administration*

Consumer Financial Protection Bureau*

Consumer Product Safety Commission*

Farm Credit Administration

Federal Deposit Insurance Corporation

Federal Energy Regulatory Commission

Federal Housing Finance Agency

Federal Maritime Commission

Federal Trade Commission*

Gulf Coast Ecosystem Restoration CouncilNational Credit Union Administration

National Credit Union Administration

National Indian Gaming Commission*

National Labor Relations Board

National Transportation Safety Board

Postal Regulatory Commission

Recovery Accountability and Transparency Board

The Regulatory Information Service Center compiles the Unified Agenda for the Office of Information and Regulatory Affairs (OIRA), part of the Office of Management and Budget. OIRA is responsible for overseeing the Federal Government's regulatory, paperwork, and information resource management activities, including implementation of Executive Order 12866 (incorporated in Executive Order 13563). The Center also provides information about Federal regulatory activity to the President and his Executive Office, the Congress, agency officials, and the public.

The activities included in the Agenda are, in general, those that will have a regulatory action within the next 12 months. Agencies may choose to include activities that will have a longer timeframe than 12 months. Agency agendas also show actions or reviews completed or withdrawn since the last Unified Agenda. Executive Order 12866 does not require agencies to include regulations concerning military or foreign affairs functions or regulations related to agency organization, management, or personnel matters.

Agencies prepared entries for this publication to give the public notice of their plans to review, propose, and issue regulations. They have tried to predict their activities over the next 12 months as accurately as possible, but dates and schedules are subject to change. Agencies may withdraw some of the regulations now under development, and they may issue or propose other regulations not included in their agendas. Agency actions in the rulemaking process may occur before or after the dates they have listed. The Regulatory Plan and Unified Agenda do not create a legal obligation on agencies to adhere to schedules in this publication or to confine their regulatory activities to those regulations that appear within it.

II. Why Are The Regulatory Plan and the Unified Agenda published?

The Regulatory Plan and the Unified Agenda helps agencies comply with their obligations under the Regulatory Flexibility Act and various Executive orders and other statutes.

Regulatory Flexibility Act

The Regulatory Flexibility Act requires agencies to identify those rules that may have a significant economic impact on a substantial number of small entities (5 U.S.C. 602). Agencies meet that requirement by including the information in their submissions for the Unified Agenda. Agencies may also indicate those regulations that they are reviewing as part of their periodic review of existing rules under the Regulatory Flexibility Act (5 U.S.C. 610). Executive Order 13272 entitled “Proper Consideration of Small Entities in Agency Rulemaking,” signed August 13, 2002 (67 FR 53461), provides additional guidance on compliance with the Act.

Executive Order 12866

Executive Order 12866 entitled “Regulatory Planning and Review,” signed September 30, 1993 (58 FR 51735), requires covered agencies to prepare an agenda of all regulations under development or review. The Order also requires that certain agencies prepare annually a regulatory plan of their “most important significant regulatory actions,” which appears as part of the fall Unified Agenda. Executive Order 13497, signed January 30, 2009 (74 FR 6113), revoked the amendments to Executive Order 12866 that were contained in Executive Order 13258 and Executive Order 13422.

Executive Order 13563

Executive Order 13563 entitled “Improving Regulation and Regulatory Review,” issued on January 18, 2011, supplements and reaffirms the principles, structures, and definitions governing contemporary regulatory review that were established in Executive Order 12866, which includes the general principles of regulation and public participation, and orders integration and innovation in coordination across agencies; flexible approaches where relevant, feasible, and consistent with regulatory approaches; scientific integrity in any scientific or technological information and processes used to support the agencies' regulatory actions; and retrospective analysis of existing regulations.

Executive Order 13132

Executive Order 13132 entitled “Federalism,” signed August 4, 1999 (64 FR 43255), directs agencies to have an accountable process to ensure meaningful and timely input by State and local officials in the development of regulatory policies that have “federalism implications” as defined in the Order. Under the Order, an agency that is proposing a regulation with federalism implications, which either preempt State law or impose non-statutory unfunded substantial direct compliance costs on State and local governments, must consult with State and local officials early in the process of developing the regulation. In addition, the agency must provide to the Director of the Office of Management and Budget a federalism summary impact statement for such a regulation, which consists of a description of the extent of the agency's prior consultation with State and local officials, a summary of their concerns and the agency's position supporting the need to issue the regulation, and a statement of the extent to which those concerns have been met. As part of this effort, agencies include in their submissions for the Unified Agenda information on whether their regulatory actions may have an effect on the various levels of government and whether those actions have federalism implications.

Unfunded Mandates Reform Act of 1995

The Unfunded Mandates Reform Act of 1995 (Pub. L. 104-4, title II) requires agencies to prepare written assessments of the costs and benefits of significant regulatory actions “that may result in the expenditure by State, local, and tribal governments, in the aggregate, or by the private sector, of $100,000,000 or more . . . in any 1 year . . . . ” The requirement does not apply to independent regulatory agencies, nor does it apply to certain subject areas excluded by section 4 of the Act. Affected agencies identify in the Unified Agenda those regulatory actions they believe are subject to title II of the Act.

Executive Order 13211

Executive Order 13211 entitled “Actions Concerning Regulations That Significantly Affect Energy Supply, Distribution, or Use,” signed May 18, 2001 (66 FR 28355), directs agencies to provide, to the extent possible, information regarding the adverse effects that agency actions may have on the supply, distribution, and use of energy. Under the Order, the agency must prepare and submit a Statement of Energy Effects to the Administrator of the Office of Information and Regulatory Affairs, Office of Management and Budget, for “those matters identified as significant energy actions.” As part of this effort, agencies may optionally include in their submissions for the Unified Agenda information on whether they have prepared or plan to prepare a Statement of Energy Effects for their regulatory actions.

Small Business Regulatory Enforcement Fairness Act

The Small Business Regulatory Enforcement Fairness Act (Pub. L. 104-121, title II) established a procedure for congressional review of rules (5 U.S.C. 801 et seq.), which defers, unless exempted, the effective date of a “major” rule for at least 60 days from the publication of the final rule in the Federal Register. The Act specifies that a rule is “major” if it has resulted, or is likely to result, in an annual effect on the economy of $100 million or more or meets other criteria specified in that Act. The Act provides that the Administrator of OIRA will make the final determination as to whether a rule is major.

III. How Are The Regulatory Plan and the Unified Agenda organized?

The Regulatory Plan appears in part II in a daily edition of the Federal Register. The Plan is a single document beginning with an introduction, followed by a table of contents, followed by each agency's section of the Plan. Following the Plan in the Federal Register, as separate parts, are the regulatory flexibility agendas for each agency whose agenda includes entries for rules which are likely to have a significant economic impact on a substantial number of small entities or rules that have been selected for periodic review under section 610 of the Regulatory Flexibility Act. Each printed agenda appears as a separate part. The sections of the Plan and the parts of the Unified Agenda are organized alphabetically in four groups: Cabinet departments; other executive agencies; the Federal Acquisition Regulation, a joint authority (Agenda only); and independent regulatory agencies. Agencies may in turn be divided into subagencies. Each printed agency agenda has a table of contents listing the agency's printed entries that follow. Each agency's part of the Agenda contains a preamble providing information specific to that agency. Each printed agency agenda has a table of contents listing the agency's printed entries that follow.

Each agency's section of the Plan contains a narrative statement of regulatory priorities and, for most agencies, a description of the agency's most important significant regulatory and deregulatory actions. Each agency's part of the Agenda contains a preamble providing information specific to that agency plus descriptions of the agency's regulatory and deregulatory actions.

The online, complete Unified Agenda contains the preambles of all participating agencies. Unlike the printed edition, the online Agenda has no fixed ordering. In the online Agenda, users can select the particular agencies whose agendas they want to see. Users have broad flexibility to specify the characteristics of the entries of interest to them by choosing the desired responses to individual data fields. To see a listing of all of an agency's entries, a user can select the agency without specifying any particular characteristics of entries.

Each entry in the Agenda is associated with one of five rulemaking stages. The rulemaking stages are:

1. Prerule Stage—actions agencies will undertake to determine whether or how to initiate rulemaking. Such actions occur prior to a Notice of Proposed Rulemaking (NPRM) and may include Advance Notices of Proposed Rulemaking (ANPRMs) and reviews of existing regulations.

2. Proposed Rule Stage—actions for which agencies plan to publish a Notice of Proposed Rulemaking as the next step in their rulemaking process or for which the closing date of the NPRM Comment Period is the next step.

3. Final Rule Stage—actions for which agencies plan to publish a final rule or an interim final rule or to take other final action as the next step.

4. Long-Term Actions—items under development but for which the agency does not expect to have a regulatory action within the 12 months after publication of this edition of the Unified Agenda. Some of the entries in this section may contain abbreviated information.

5. Completed Actions—actions or reviews the agency has completed or withdrawn since publishing its last agenda. This section also includes items the agency began and completed between issues of the Agenda.

Long-Term Actions are rulemakings reported during the publication cycle that are outside of the required 12-month reporting period for which the Agenda was intended. Completed Actions in the publication cycle are rulemakings that are ending their lifecycle either by Withdrawal or completion of the rulemaking process. Therefore, the Long-Term and Completed RINs do not represent the ongoing, forward-looking nature intended for reporting developing rulemakings in the Agenda pursuant to Executive Order 12866, section 4(b) and 4(c). To further differentiate these two stages of rulemaking in the Unified Agenda from active rulemakings, Long-Term and Completed Actions are reported separately from active rulemakings, which can be any of the first three stages of rulemaking listed above. A separate search function is provided on http://reginfo.gov to search for Completed and Long-Term Actions apart from each other and active RINs.

A bullet (•) preceding the title of an entry indicates that the entry is appearing in the Unified Agenda for the first time.

In the printed edition, all entries are numbered sequentially from the beginning to the end of the publication. The sequence number preceding the title of each entry identifies the location of the entry in this edition. The sequence number is used as the reference in the printed table of contents. Sequence numbers are not used in the online Unified Agenda because the unique Regulation Identifier Number (RIN) is able to provide this cross-reference capability.

Editions of the Unified Agenda prior to fall 2007 contained several indexes, which identified entries with various characteristics. These included regulatory actions for which agencies believe that the Regulatory Flexibility Act may require a Regulatory Flexibility Analysis, actions selected for periodic review under section 610(c) of the Regulatory Flexibility Act, and actions that may have federalism implications as defined in Executive Order 13132 or other effects on levels of government. These indexes are no longer compiled, because users of the online Unified Agenda have the flexibility to search for entries with any combination of desired characteristics. The online edition retains the Unified Agenda's subject index based on the Federal Register Thesaurus of Indexing Terms. In addition, online users have the option of searching Agenda text fields for words or phrases.

IV. What information appears for each entry?

All entries in the online Unified Agenda contain uniform data elements including, at a minimum, the following information:

Title of the Regulation—a brief description of the subject of the regulation. In the printed edition, the notation “Section 610 Review” following the title indicates that the agency has selected the rule for its periodic review of existing rules under the Regulatory Flexibility Act (5 U.S.C. 610(c)). Some agencies have indicated completions of section 610 reviews or rulemaking actions resulting from completed section 610 reviews. In the online edition, these notations appear in a separate field.

Priority—an indication of the significance of the regulation. Agencies assign each entry to one of the following five categories of significance.

(1) Economically Significant

As defined in Executive Order 12866, a rulemaking action that will have an annual effect on the economy of $100 million or more or will adversely affect in a material way the economy, a sector of the economy, productivity, competition, jobs, the environment, public health or safety, or State, local, or tribal governments or communities. The definition of an “economically significant” rule is similar but not identical to the definition of a “major” rule under 5 U.S.C. 801 (Pub. L. 104-121). (See below.)

(2) Other Significant

A rulemaking that is not Economically Significant but is considered Significant by the agency. This category includes rules that the agency anticipates will be reviewed under Executive Order 12866 or rules that are a priority of the agency head. These rules may or may not be included in the agency's regulatory plan.

(3) Substantive, Nonsignificant

A rulemaking that has substantive impacts but is neither Significant, nor Routine and Frequent, nor Informational/Administrative/Other.

(4) Routine and Frequent

A rulemaking that is a specific case of a multiple recurring application of a regulatory program in the Code of Federal Regulations and that does not alter the body of the regulation.

(5) Informational/Administrative/Other

A rulemaking that is primarily informational or pertains to agency matters not central to accomplishing the agency's regulatory mandate but that the agency places in the Unified Agenda to inform the public of the activity.

Major—whether the rule is “major” under 5 U.S.C. 801 (Pub. L. 104-121) because it has resulted or is likely to result in an annual effect on the economy of $100 million or more or meets other criteria specified in that Act. The Act provides that the Administrator of the Office of Information and Regulatory Affairs will make the final determination as to whether a rule is major.

Unfunded Mandates—whether the rule is covered by section 202 of the Unfunded Mandates Reform Act of 1995 (Pub. L. 104-4). The Act requires that, before issuing an NPRM likely to result in a mandate that may result in expenditures by State, local, and tribal governments, in the aggregate, or by the private sector of more than $100 million in 1 year, agencies, other than independent regulatory agencies, shall prepare a written statement containing an assessment of the anticipated costs and benefits of the Federal mandate.

Legal Authority—the section(s) of the United States Code (U.S.C.) or Public Law (Pub. L.) or the Executive order (E.O.) that authorize(s) the regulatory action. Agencies may provide popular name references to laws in addition to these citations.

CFR Citation—the section(s) of the Code of Federal Regulations that will be affected by the action.

Legal Deadline—whether the action is subject to a statutory or judicial deadline, the date of that deadline, and whether the deadline pertains to an NPRM, a Final Action, or some other action.

Abstract—a brief description of the problem the regulation will address; the need for a Federal solution; to the extent available, alternatives that the agency is considering to address the problem; and potential costs and benefits of the action.

Timetable—the dates and citations (if available) for all past steps and a projected date for at least the next step for the regulatory action. A date displayed in the form 12/00/14 means the agency is predicting the month and year the action will take place but not the day it will occur. In some instances, agencies may indicate what the next action will be, but the date of that action is “To Be Determined.” “Next Action Undetermined” indicates the agency does not know what action it will take next.

Regulatory Flexibility Analysis Required—whether an analysis is required by the Regulatory Flexibility Act (5 U.S.C. 601 et seq.) because the rulemaking action is likely to have a significant economic impact on a substantial number of small entities as defined by the Act.

Small Entities Affected—the types of small entities (businesses, governmental jurisdictions, or organizations) on which the rulemaking action is likely to have an impact as defined by the Regulatory Flexibility Act. Some agencies have chosen to indicate likely effects on small entities even though they believe that a Regulatory Flexibility Analysis will not be required.

Government Levels Affected—whether the action is expected to affect levels of government and, if so, whether the governments are State, local, tribal, or Federal.

International Impacts—whether the regulation is expected to have international trade and investment effects, or otherwise may be of interest to the Nation's international trading partners.

Federalism—whether the action has “federalism implications” as defined in Executive Order 13132. This term refers to actions “that have substantial direct effects on the States, on the relationship between the national government and the States, or on the distribution of power and responsibilities among the various levels of government.” Independent regulatory agencies are not required to supply this information.

Included in the Regulatory Plan—whether the rulemaking was included in the agency's current regulatory plan published in fall 2014.

Agency Contact—the name and phone number of at least one person in the agency who is knowledgeable about the rulemaking action. The agency may also provide the title, address, fax number, email address, and TDD for each agency contact.

Some agencies have provided the following optional information:

RIN Information URL—the Internet address of a site that provides more information about the entry.

Public Comment URL—the Internet address of a site that will accept public comments on the entry. Alternatively, timely public comments may be submitted at the Governmentwide e-rulemaking site, http://www.regulations.gov.

Additional Information—any information an agency wishes to include that does not have a specific corresponding data element.

Compliance Cost to the Public—the estimated gross compliance cost of the action.

Affected Sectors—the industrial sectors that the action may most affect, either directly or indirectly. Affected sectors are identified by North American Industry Classification System (NAICS) codes.

Energy Effects—an indication of whether the agency has prepared or plans to prepare a Statement of Energy Effects for the action, as required by Executive Order 13211 “Actions Concerning Regulations That Significantly Affect Energy Supply, Distribution, or Use,” signed May 18, 2001 (66 FR 28355).

Related RINs—one or more past or current RIN(s) associated with activity related to this action, such as merged RINs, split RINs, new activity for previously completed RINs, or duplicate RINs.

Statement of Need—a description of the need for the regulatory action.

Summary of the Legal Basis—a description of the legal basis for the action, including whether any aspect of the action is required by statute or court order.

Alternatives—a description of the alternatives the agency has considered or will consider as required by section 4(c)(1)(B) of Executive Order 12866.

Anticipated Costs and Benefits—a description of preliminary estimates of the anticipated costs and benefits of the action.

Risks—a description of the magnitude of the risk the action addresses, the amount by which the agency expects the action to reduce this risk, and the relation of the risk and this risk reduction effort to other risks and risk reduction efforts within the agency's jurisdiction.

V. Abbreviations

The following abbreviations appear throughout this publication:

ANPRM—An Advance Notice of Proposed Rulemaking is a preliminary notice, published in the Federal Register, announcing that an agency is considering a regulatory action. An agency may issue an ANPRM before it develops a detailed proposed rule. An ANPRM describes the general area that may be subject to regulation and usually asks for public comment on the issues and options being discussed. An ANPRM is issued only when an agency believes it needs to gather more information before proceeding to a notice of proposed rulemaking.

CFR—The Code of Federal Regulations is an annual codification of the general and permanent regulations published in the Federal Register by the agencies of the Federal Government. The Code is divided into 50 titles, each title covering a broad area subject to Federal regulation. The CFR is keyed to and kept up to date by the daily issues of the Federal Register.

EO—An Executive order is a directive from the President to Executive agencies, issued under constitutional or statutory authority. Executive orders are published in the Federal Register and in title 3 of the Code of Federal Regulations.

FR—The Federal Register is a daily Federal Government publication that provides a uniform system for publishing Presidential documents, all proposed and final regulations, notices of meetings, and other official documents issued by Federal agencies.

FY—The Federal fiscal year runs from October 1 to September 30.

NPRM—A Notice of Proposed Rulemaking is the document an agency issues and publishes in the Federal Register that describes and solicits public comments on a proposed regulatory action. Under the Administrative Procedure Act (5 U.S.C. 553), an NPRM must include, at a minimum:

• A statement of the time, place, and nature of the public rulemaking proceeding;

• a reference to the legal authority under which the rule is proposed; and

• either the terms or substance of the proposed rule or a description of the subjects and issues involved.

Public Law (or Pub. L.)—A public law is a law passed by Congress and signed by the President or enacted over his veto. It has general applicability, unlike a private law that applies only to those persons or entities specifically designated. Public laws are numbered in sequence throughout the 2-year life of each Congress; for example, Pub. L. 112-4 is the fourth public law of the 112th Congress.

RFA—A Regulatory Flexibility Analysis is a description and analysis of the impact of a rule on small entities, including small businesses, small governmental jurisdictions, and certain small not-for-profit organizations. The Regulatory Flexibility Act (5 U.S.C. 601 et seq.) requires each agency to prepare an initial RFA for public comment when it is required to publish an NPRM and to make available a final RFA when the final rule is published, unless the agency head certifies that the rule would not have a significant economic impact on a substantial number of small entities.

RIN—The Regulation Identifier Number is assigned by the Regulatory Information Service Center to identify each regulatory action listed in the Regulatory Plan and the Unified Agenda, as directed by Executive Order 12866 (section 4(b)). Additionally, OMB has asked agencies to include RINs in the headings of their Rule and Proposed Rule documents when publishing them in the Federal Register, to make it easier for the public and agency officials to track the publication history of regulatory actions throughout their development.

Seq. No.—The sequence number identifies the location of an entry in the printed edition of the Regulatory Plan and the Unified Agenda. Note that a specific regulatory action will have the same RIN throughout its development but will generally have different sequence numbers if it appears in different printed editions of the Unified Agenda. Sequence numbers are not used in the online Unified Agenda.

U.S.C.—The United States Code is a consolidation and codification of all general and permanent laws of the United States. The U.S.C. is divided into 50 titles, each title covering a broad area of Federal law.

VI. How can users get copies of the plan and the agenda?

Copies of the Federal Register issue containing the printed edition of The Regulatory Plan and the Unified Agenda (agency regulatory flexibility agendas) are available from the Superintendent of Documents, U.S. Government Printing Office, P.O. Box 371954, Pittsburgh, PA 15250-7954. Telephone: (202) 512-1800 or 1-866-512-1800 (toll-free).

Copies of individual agency materials may be available directly from the agency or may be found on the agency's Web site. Please contact the particular agency for further information.

All editions of The Regulatory Plan and the Unified Agenda of Federal Regulatory and Deregulatory Actions since fall 1995 are available in electronic form at http://reginfo.gov, along with flexible search tools.

The Government Printing Office's GPO FDsys Web site contains copies of the Agendas and Regulatory Plans that have been printed in the Federal Register. These documents are available at http://www.fdsys.gov.

Dated: September 19, 2014.
John C. Thomas,
Executive Director.

INTRODUCTION TO THE 2014 REGULATORY PLAN

Executive Order 12866, issued in 1993, requires the production of a Unified Regulatory Agenda and Regulatory Plan. Executive Order 13563, issued in 2011, reaffirmed the requirements of Executive Order 12866.

Consistent with these Executive Orders, the Office of Information and Regulatory Affairs is providing the 2014 Unified Regulatory Agenda (Agenda) and the Regulatory Plan (Plan) for public review. The Agenda and Plan are preliminary statements of regulatory and deregulatory policies and priorities under consideration. The Agenda and Plan include “active rulemakings” that agencies could possibly conclude over the next year. As in previous years, however, this list may also include some rules that agencies will not end up issuing in the coming year.

The Plan provides a list of important regulatory actions that agencies are considering for issuance in proposed or final form during the 2015 fiscal year. In contrast, the Agenda is a more inclusive list, including numerous ministerial actions and routine rulemakings, as well as long-term initiatives that agencies do not plan to complete in the coming year but on which they are actively working.

A central purpose of the Agenda is to involve the public, including State, local, and tribal officials, in federal regulatory planning. The public examination of the Agenda and Plan will facilitate public participation in a regulatory system that, in the words of Executive Order 13563, protects “public health, welfare, safety, and our environment while promoting economic growth, innovation, competitiveness, and job creation.” We emphasize that rules listed on the Agenda must still undergo significant development and review before they are issued. No regulatory action can become effective until it has gone through the legally required processes, which generally include public notice and comment. Any proposed or final action must also satisfy the requirements of relevant statutes, Executive Orders, and Presidential Memoranda. Those requirements, public comments, and new information may or may not lead an agency to go forward with an action that is currently under contemplation.

Among other information, the Agenda also provides an initial classification of whether a rulemaking is “significant” or “economically significant” under the terms of Executive Orders 12866 and 13563. Whether a regulation is listed on the Agenda as “economically significant” within the meaning of Executive Order 12866 (generally, having an annual effect on the economy of $100 million or more) does not necessarily indicate whether it imposes high costs on the private sector. Economically significant actions may impose small costs or even no costs.

Regulations may count as economically significant because they confer large benefits or remove significant burdens. For example, the Department of Health and Human Services issues regulations on an annual basis, pursuant to statute, to govern annual changes in Medicare payments. These payment regulations effectively authorize transfers of billions of dollars to hospitals and other health care providers each year. Regulations might therefore count as economically significant not because they impose significant regulatory costs on the private sector, but because they involve transfer payments as required or authorized by law.

EOs 13563 and 13610: The Retrospective Review of Regulation

Executive Order 13563 reaffirms the principles, structures, and definitions in Executive Order 12866, which has long governed regulatory review. Executive Order 13563 explicitly points to the need for predictability and certainty, as well as for use of the least burdensome means to achieving regulatory ends. These Executive Orders include the requirement that, to the extent permitted by law, agencies should not proceed with rulemaking in the absence of a reasoned determination that the benefits justify the costs; they establish public participation, integration and innovation, flexible approaches, scientific integrity, and retrospective review as areas of emphasis in regulation. In particular, Executive Order 13563 explicitly draws attention to the need to measure and to improve “the actual results of regulatory requirements”—a clear reference to the importance of retrospective evaluation.

Executive Order 13563 addresses new regulations that are under development as well as retrospective review of existing regulations that are already in place. With respect to agencies' review of existing regulations, the Executive Order calls for careful reassessment based on empirical analysis. The prospective analysis required by Executive Order 13563 may depend on a degree of prediction and speculation about a rule's likely impacts, and the actual costs and benefits of a regulation may be lower or higher than what was anticipated when the rule was originally developed.

Executive Order 13610, Identifying and Reducing Regulatory Burdens, issued in 2012, institutionalizes the retrospective or lookback mechanism set out in Executive Order 13563 by requiring agencies to report to OMB and the public twice each year (January and July) on the status of their retrospective review efforts, to “describe progress, anticipated accomplishments, and proposed timelines for relevant actions.”

Executive Orders 13563 and 13610 recognize that circumstances may change in a way that requires reconsideration of regulatory requirements. Lookback analysis allows agencies to reevaluate existing rules and to streamline, modify, or eliminate those regulations that do not make sense in their current form. The agencies' lookback efforts so far during this Administration have yielded nearly $20 billion in near term savings for the American public, with significantly more to come.

The Administration is continuing to work with agencies to institutionalize retrospective review so that agencies regularly review existing rules on the books to ensure they remain effective, cost-justified, and based on the best available science. By institutionalizing retrospective review of regulations, the Administration will continue to examine what is working and what is not, and eliminate unjustified and outdated regulations.

Regulatory lookback is an ongoing exercise, and continues to be a high priority for the Administration. As part of that prioritization, the Administration requires that agencies regularly report about recent progress and coming initiatives. In accordance with Executive Order 13610 and Executive Order 13563, in July 2014, agencies submitted to OIRA the latest updates of their retrospective review plans. Federal agencies will again update their retrospective review plans this winter. We have also asked agencies to continue to emphasize regulatory lookbacks in their latest Regulatory Plans.

Reflecting that focus, the current agenda lists 83 rules that are characterized as retroactively reviewing existing programs. Below are some examples of agency plans to reevaluate current practices, in accordance with Executive Orders 13563 and 13610:

—The Department of Health and Human Services (HHS) is working on a rule to revise the requirements that Long-Term Care facilities must meet to participate in the Medicare and Medicaid programs. These proposed changes are necessary to reflect the substantial advances that have been made over the past several years in the theory and practice of service delivery and safety. These proposals are also an integral part of HHS's efforts to achieve broad-based improvements both in the quality of health care furnished through Federal programs, and in patient safety, while at the same time reducing procedural burdens on providers.

—The Department of Housing and Urban Development (HUD) is working on a final rule to streamline the inspection and home warranty requirements for Federal Housing Administration (FHA) single family mortgage insurance and, in doing so, would increase choice and lower the costs for FHA borrowers. First, HUD would remove regulations that require the use of an inspector from the FHA Inspector Roster as a condition for FHA mortgage insurance. This change is based on the recognition of the sufficiency and quality of inspections carried out by local jurisdictions, and HUD expects the rule will increase competition and choice of inspectors among lenders. Second, this rule would also remove the regulations requiring homeowners to purchase 10-year protection plans from FHA-approved warranty issuers in order to qualify for high loan-to-value FHA-insured mortgages. This change is based on the increased quality of construction materials and the standardization of building codes and building code enforcement, and HUD expects the rule will reduce burden on homeowners that do not want to purchase warranties and increase choice for the homeowners that still want to purchase warranties. In total, HUD estimates up to $29 million in warranty expenditures avoided, $100,000 in paperwork burden savings for the public, and $50,000 in administrative cost savings for HUD.

—The Department of Labor is working to revise existing Sex Discrimination Guidelines, which have not been substantively updated since 1973, and to replace them with regulations that align with current law and legal principles in order to address their application to current workplace practices and issues.

E.O. 13609: International Regulatory Cooperation

In addition to using regulatory lookback as a tool to make our regulatory system more efficient, the Administration has been focused on promoting international regulatory cooperation. International regulatory cooperation supports economic growth, job creation, innovation, trade and investment, while also protecting public health, safety, and welfare. In May 2012 President Obama issued Executive Order 13609, Promoting International Regulatory Cooperation, which emphasizes the importance of these efforts as a key tool for eliminating unnecessary differences in regulation between the United States and its major trading partners. Additionally, as part of the regulatory lookback initiative, Executive Order 13609 requires agencies to “consider reforms to existing significant regulations that address unnecessary differences in regulatory requirements between the United States and its major trading partners . . . when stakeholders provide adequate information to the agency establishing that the differences are unnecessary.”

Executive Order 13609 also directed agencies to submit a Regulatory Plan that includes “a summary of its international regulatory cooperation activities that are reasonably anticipated to lead to significant regulations, with an explanation of how these activities advance the purposes of Executive Order 13563,” and Executive Order 13609. Further, Executive Order 13609 requires agencies to “ensure that significant regulations that the agency identifies as having significant international impacts are designated as such” in the Regulatory Agenda. In furtherance of this focus on international regulatory cooperation, this summer, the Administration and Canada released the U.S.-Canada Regulatory Cooperation Council (RCC) Joint Forward Plan.¹ The Forward Plan represents a significant pivot point for the Administration's regulatory cooperation relationships with Canada, and outlines new Federal agency-level partnership arrangements to help institutionalize the way our regulators work together. The Forward Plan will help remove duplicative requirements, develop common standards, and identify potential areas where future regulation may unnecessarily differ. This kind of international cooperation on regulations between the United States and Canada will help eliminate barriers to doing business in the United States or with U.S. companies, grow the economy, and create jobs. The Forward Plan identifies 24 areas of cooperation where the United States and Canada will work together to implement over the next three to five years in order to modernize our thinking around international regulatory cooperation and develop a toolbox of strategies to address international regulatory issues as they arise. We expect that future Agendas will reflect strong evidence of this partnership.

¹ Available at: http://www.whitehouse.gov/sites/default/files/omb/oira/irc/us-canada-rcc-joint-forward-plan.pdf.

The Administration continues to foster a regulatory system that emphasizes that careful consideration of costs and benefits, public participation, integration and innovation, flexible approaches, and science. These requirements are meant to produce a regulatory system that draws on recent learning, that is driven by evidence, and that is suited to the distinctive circumstances of the twenty-first century.

Department of Agriculture
Sequence No. | Title | Regulation identifier No. | Rulemaking stage
1 | National Organic Program, Origin of Livestock, NOP-11-0009 | 0581-AD08 | Proposed Rule Stage.
2 | National Organic Program, Organic Pet Food Standards | 0581-AD20 | Proposed Rule Stage.
3 | National Organic Program, Organic Apiculture Practice Standard, NOP-12-0063 | 0581-AD31 | Proposed Rule Stage.
4 | National Organic Program—Organic Aquaculture Standards | 0581-AD34 | Proposed Rule Stage.
5 | Exemption of Producers and Handlers of Organic Products From Assessment Under a Commodity Promotion Law | 0581-AD37 | Proposed Rule Stage.
6 | Noninsured Crop Disaster Assistance Program | 0560-AI20 | Final Rule Stage.
7 | Conservation Compliance | 0560-AI26 | Final Rule Stage.
8 | Conservation Reserve Program (CRP) | 0560-AI30 | Final Rule Stage.
9 | Brucellosis and Bovine Tuberculosis; Update of General Provisions | 0579-AD65 | Proposed Rule Stage.
10 | Establishing a Performance Standard for Authorizing the Importation and Interstate Movement of Fruits and Vegetables | 0579-AD71 | Proposed Rule Stage.
11 | Viruses, Serums, Toxins, and Analogous Products; Single Label Claim for Veterinary Biological Products | 0579-AD64 | Final Rule Stage.
12 | User Fees for Agricultural Quarantine and Inspection Services | 0579-AD77 | Final Rule Stage.
13 | Emergency Supplemental Nutrition Assistance for Victims of Disasters Procedures | 0584-AE00 | Proposed Rule Stage.
14 | Child Nutrition Program Integrity | 0584-AE08 | Proposed Rule Stage.
15 | Child and Adult Care Food Program: Meal Pattern Revisions Related to the Healthy, Hunger-Free Kids Act of 2010 | 0584-AE18 | Proposed Rule Stage.
16 | Enhancing Retailer Eligibility Standards in SNAP | 0584-AE27 | Proposed Rule Stage.
17 | Supplemental Nutrition Assistance Program: Farm Bill of 2008 Retailer Sanctions | 0584-AD88 | Final Rule Stage.
18 | Child Nutrition Programs: Local School Wellness Policy Implementation Under the Healthy, Hunger-Free Kids Act of 2010 | 0584-AE25 | Final Rule Stage.
19 | SNAP: Employment and Training (E&T) Performance Measurement, Monitoring and Reporting Requirements | 0584-AE33 | Final Rule Stage.
20 | Requirements for the Disposition of Non-Ambulatory Disabled Veal Calves | 0583-AD54 | Proposed Rule Stage.
21 | Mandatory Inspection of Fish of the order Siluriformes and Products Derived From Such Fish | 0583-AD36 | Final Rule Stage.
22 | Electronic Export Application and Certification as a Reimbursable Service and Flexibility in the Requirements for Official Export Inspection Marks, Devices, and Certificates | 0583-AD41 | Final Rule Stage.
23 | Descriptive Designation for Needle- or Blade-Tenderized (Mechanically Tenderized) Beef Products | 0583-AD45 | Final Rule Stage.
24 | Records to be Kept by Official Establishments and Retail Stores That Grind Raw Beef Products | 0583-AD46 | Final Rule Stage.
25 | Forest Service Manual 2020—Ecological Restoration and Resilience Policy | 0596-AC82 | Final Rule Stage.
26 | Land Management Planning Rule Policy | 0596-AD06 | Final Rule Stage.
27 | Rural Energy for America Program | 0570-AA76 | Final Rule Stage.
28 | Business and Industry (B&I) Guaranteed Loan Program | 0570-AA85 | Final Rule Stage.
29 | Biorefinery, Renewable Chemical, and Biobased Product Manufacturing Assistance Program | 0570-AA93 | Final Rule Stage.
30 | Agricultural Conservation Easement Program | 0578-AA61 | Final Rule Stage.
31 | Environmental Quality Incentives Program (EQIP) Interim Rule | 0578-AA62 | Final Rule Stage.
32 | Conservation Stewardship Program Interim Rule | 0578-AA63 | Final Rule Stage.

Department of Commerce
Sequence No. | Title | Regulation identifier No. | Rulemaking stage
33 | Requirements for Importation of Fish and Fish Product under the U.S. Marine Mammal Protection Act | 0648-AY15 | Proposed Rule Stage.
34 | Designation of Critical Habitat for the North Atlantic Right Whale | 0648-AY54 | Proposed Rule Stage.
35 | Revision of Hawaiian Monk Seal Critical Habitat | 0648-BA81 | Proposed Rule Stage.
36 | Revision of the National Standard 1 Guidelines | 0648-BB92 | Proposed Rule Stage.
37 | Fishery Management Plan for Regulating Offshore Marine Aquaculture in the Gulf of Mexico | 0648-AS65 | Final Rule Stage.

Department of Defense
Sequence No. | Title | Regulation identifier No. | Rulemaking stage
38 | Limitations on Terms of Consumer Credit Extended to Service Members and Dependents | 0790-AJ10 | Proposed Rule Stage.
39 | Defense Industrial Base (DIB) Cyber Security/Information Assurance (CS/IA) Activities: Amendment | 0790-AJ14 | Proposed Rule Stage.
40 | Service Academies | 0790-AI19 | Final Rule Stage.
41 | Foreign Commercial Satellite Services (DFARS Case 2014-D010) | 0750-AI32 | Final Rule Stage.
42 | CHAMPUS/TRICARE: Pilot Program for Refills of Maintenance Medications for TRICARE For Life Beneficiaries Through the TRICARE Mail Order Program | 0720-AB60 | Final Rule Stage.

Department of Education
Sequence No. | Title | Regulation identifier No. | Rulemaking stage
43 | Pay As You Earn | 1840-AD18 | Proposed Rule Stage.
44 | Workforce Innovation and Opportunity Act | 1830-AA21 | Proposed Rule Stage.

Department of Energy
Sequence No. | Title | Regulation identifier No. | Rulemaking stage
45 | Energy Conservation Standards for General Service Lamps | 1904-AD09 | Prerule Stage.
46 | Energy Efficiency Standards for Manufactured Housing | 1904-AC11 | Proposed Rule Stage.
47 | Energy Conservation Standards for Residential Non-weatherized Gas Furnaces | 1904-AD20 | Proposed Rule Stage.

Department of Health and Human Services
Sequence No. | Title | Regulation identifier No. | Rulemaking stage
48 | Current Good Manufacturing Practice and Hazard Analysis and Risk-Based Preventive Controls for Food for Animals | 0910-AG10 | Proposed Rule Stage.
49 | Standards for the Growing, Harvesting, Packing, and Holding of Produce for Human Consumption | 0910-AG35 | Proposed Rule Stage.
50 | Current Good Manufacturing and Hazard Analysis, and Risk-Based Preventive Controls for Human Food | 0910-AG36 | Proposed Rule Stage.
51 | Reports of Distribution and Sales Information for Antimicrobial Active Ingredients Used in Food-Producing Animals | 0910-AG45 | Proposed Rule Stage.
52 | Foreign Supplier Verification Program | 0910-AG64 | Proposed Rule Stage.
53 | “Tobacco Products” Subject to the Federal Food, Drug, and Cosmetic Act, as Amended by the Family Smoking Prevention and Tobacco Control Act | 0910-AG38 | Final Rule Stage.
54 | Food Labeling: Calorie Labeling of Articles of Food Sold in Vending Machines | 0910-AG56 | Final Rule Stage.
55 | Food Labeling: Nutrition Labeling of Standard Menu Items in Restaurants and Similar Retail Food Establishments | 0910-AG57 | Final Rule Stage.
56 | Accreditation of Third-Party Auditors/Certification Bodies to Conduct Food Safety Audits and to Issue Certifications | 0910-AG66 | Final Rule Stage.
57 | Revision of Postmarketing Reporting Requirements Discontinuance or Interruption in Supply of Certain Products (Drug Shortages) | 0910-AG88 | Final Rule Stage.
58 | Supplemental Applications Proposing Labeling Changes for Approved Drugs and Biological Products | 0910-AG94 | Final Rule Stage.
59 | Veterinary Feed Directive | 0910-AG95 | Final Rule Stage.
60 | Reform of Requirements for Long-Term Care Facilities (CMS-3260-P) | 0938-AR61 | Proposed Rule Stage.
61 | Mental Health Parity and Addiction Equity Act of 2008; the Application to Medicaid Managed Care, CHIP, and Alternative Benefit Plans (CMS-2333-P) | 0938-AS24 | Proposed Rule Stage.
62 | Electronic Health Record (EHR) Incentive Programs—Stage 3 (CMS-3310-P) | 0938-AS26 | Proposed Rule Stage.
63 | CY 2016 Revisions to Payment Policies under the Physician Fee Schedule and Other Revisions to Medicare Part B (CMS-1631-P) | 0938-AS40 | Proposed Rule Stage.
64 | Hospital Inpatient Prospective Payment System for Acute Care Hospitals and the Long-Term Care Hospital Prospective Payment System and FY 2016 Rates (CMS-1632-P) | 0938-AS41 | Proposed Rule Stage.
65 | CY 2016 Hospital Outpatient PPS Policy Changes and Payment Rates and Ambulatory Surgical Center Payment System Policy Changes and Payment Rates (CMS-1633-P) | 0938-AS42 | Proposed Rule Stage.
66 | Eligibility Notices, Fair Hearing and Appeal Processes for Medicaid and Exchange Eligibility Appeals, and Other Eligibility and Enrollment Provisions (CMS-2334-F2) | 0938-AS27 | Final Rule Stage.
67 | Child Care and Development Fund Reforms to Support Child Development and Working Families | 0970-AC53 | Final Rule Stage.

Department of Homeland Security
Sequence No. | Title | Regulation identifier No. | Rulemaking stage
68 | Ammonium Nitrate Security Program | 1601-AA52 | Final Rule Stage.
69 | Asylum and Withholding Definitions | 1615-AA41 | Proposed Rule Stage.
70 | New Classification for Victims of Criminal Activity; Eligibility for the U Nonimmigrant Status | 1615-AA67 | Proposed Rule Stage.
71 | Exception to the Persecution Bar for Asylum, Refugee, and Temporary Protected Status, and Withholding of Removal | 1615-AB89 | Proposed Rule Stage.
72 | Administrative Appeals Office: Procedural Reforms to Improve Efficiency | 1615-AB98 | Proposed Rule Stage.
73 | Classification for Victims of Severe Forms of Trafficking in Persons; Eligibility for T Nonimmigrant Status | 1615-AA59 | Final Rule Stage.
74 | Application of Immigration Regulations to the Commonwealth of the Northern Mariana Islands | 1615-AB77 | Final Rule Stage.
75 | Special Immigrant Juvenile Petitions | 1615-AB81 | Final Rule Stage.
76 | Employment Authorization for Certain H-4 Dependent Spouses | 1615-AB92 | Final Rule Stage.
77 | Enhancing Opportunities for H-1B1, CW-1, and E-3 Nonimmigrants and EB-1 Immigrants | 1615-AC00 | Final Rule Stage.
78 | Vessel Requirements for Notices of Arrival and Departure, and Automatic Identification System | 1625-AA99 | Final Rule Stage.
79 | Inspection of Towing Vessels | 1625-AB06 | Final Rule Stage.
80 | Transportation Worker Identification Credential (TWIC); Card Reader Requirements | 1625-AB21 | Final Rule Stage.
81 | Amendments to Importer Security Filing and Additional Carrier Requirements | 1651-AA98 | Proposed Rule Stage.
82 | Air Cargo Advance Screening (ACAS) | 1651-AB04 | Proposed Rule Stage.
83 | Changes to the Visa Waiver Program To Implement the Electronic System for Travel Authorization (ESTA) Program | 1651-AA72 | Final Rule Stage.
84 | Implementation of the Guam-CNMI Visa Waiver Program | 1651-AA77 | Final Rule Stage.
85 | Definition of Form I-94 to Include Electronic Format | 1651-AA96 | Final Rule Stage.
86 | Security Training for Surface Mode Employees | 1652-AA55 | Proposed Rule Stage.
87 | Standardized Vetting, Adjudication, and Redress Services | 1652-AA61 | Proposed Rule Stage.
88 | Passenger Screening Using Advanced Imaging Technology | 1652-AA67 | Final Rule Stage.
89 | Adjustments to Limitations on Designated School Official Assignment and Study By F-2 and M-2 Nonimmigrants | 1653-AA63 | Final Rule Stage.

Department of Housing and Urban Development
Sequence No. | Title | Regulation identifier No. | Rulemaking stage
90 | Economic Opportunities for Low- and Very Low-Income Persons (FR-4893) | 2529-AA91 | Proposed Rule Stage.

Department of Justice
Sequence No. | Title | Regulation identifier No. | Rulemaking stage
91 | Implementation of the ADA Amendments Act of 2008 (Section 504 of the Rehabilitation Act of 1973) | 1190-AA60 | Proposed Rule Stage.
92 | Nondiscrimination on the Basis of Disability; Accessibility of Web Information and Services of Public Accommodations | 1190-AA61 | Proposed Rule Stage.
93 | Nondiscrimination on the Basis of Disability; Movie Captioning and Audio Description | 1190-AA63 | Proposed Rule Stage.
94 | Nondiscrimination on the Basis of Disability: Accessibility of Web Information and Services of State and Local Governments | 1190-AA65 | Proposed Rule Stage.
95 | Implementation of the ADA Amendments Act of 2008 (Title II and Title III of the ADA) | 1190-AA59 | Final Rule Stage.

Department of Labor
Sequence No. | Title | Regulation identifier No. | Rulemaking stage
96 | Workforce Innovation and Opportunity Act | 1205-AB73 | Proposed Rule Stage.
97 | Respirable Crystalline Silica | 1219-AB36 | Proposed Rule Stage.
98 | Criteria and Procedures for Proposed Assessment of Civil Penalties | 1219-AB72 | Proposed Rule Stage.
99 | Proximity Detection Systems for Mobile Machines in Underground Mines | 1219-AB78 | Proposed Rule Stage.
100 | Proximity Detection Systems for Continuous Mining Machines in Underground Coal Mines | 1219-AB65 | Final Rule Stage.
101 | Infectious Diseases | 1218-AC46 | Prerule Stage.
102 | Occupational Exposure to Crystalline Silica | 1218-AB70 | Proposed Rule Stage.
103 | Improve Tracking of Workplace Injuries and Illnesses | 1218-AC49 | Final Rule Stage.

Department of Transportation
Sequence No. | Title | Regulation identifier No. | Rulemaking stage
104 | Operation and Certification of Small Unmanned Aircraft Systems (sUAS) | 2120-AJ60 | Proposed Rule Stage.
105 | Slot Management and Transparency for LaGuardia Airport, John F. Kennedy International Airport, and Newark Liberty International Airport | 2120-AJ89 | Proposed Rule Stage.
106 | Drug and Alcohol Testing of Certain Maintenance Provider Employees Located Outside of the United States | 2120-AK09 | Proposed Rule Stage.
107 | Pilot Records Database (HR 5900) | 2120-AK31 | Proposed Rule Stage.
108 | Safety Management Systems for Certificate Holders | 2120-AJ86 | Final Rule Stage.
109 | National Goals and Performance Management Measures (MAP-21) | 2125-AF53 | Proposed Rule Stage.
110 | National Goals and Performance Management Measures (MAP-21) | 2125-AF54 | Proposed Rule Stage.
111 | Carrier Safety Fitness Determination | 2126-AB11 | Proposed Rule Stage.
112 | Electronic Logging Devices and Hours of Service Supporting Documents (MAP-21) | 2126-AB20 | Proposed Rule Stage.
113 | Commercial Driver's License Drug and Alcohol Clearinghouse (MAP-21) | 2126-AB18 | Final Rule Stage.
114 | Fuel Efficiency Standards for Medium- and Heavy-Duty Vehicles and Work Trucks: Phase 2 | 2127-AL52 | Proposed Rule Stage.
115 | Sound for Hybrid and Electric Vehicles | 2127-AK93 | Final Rule Stage.
116 | Electronic Stability Control Systems for Heavy Vehicles (MAP-21) | 2127-AK97 | Final Rule Stage.
117 | State Safety Oversight (MAP-21) | 2132-AB19 | Proposed Rule Stage.
118 | Pipeline Safety: Safety of On-Shore Liquid Hazardous Pipelines | 2137-AE66 | Proposed Rule Stage.
119 | Pipeline Safety: Gas Transmission (RRR) | 2137-AE72 | Proposed Rule Stage.
120 | Hazardous Materials: Enhanced Tank Car Standards and Operational Controls for High-Hazard Flammable Trains | 2137-AE91 | Final Rule Stage.

Department of Veterans Affairs
Sequence No. | Title | Regulation identifier No. | Rulemaking stage
121 | Expedited Senior Executive Removal Authority | 2900-AP30 | Final Rule Stage.

Environmental Protection Agency
Sequence No. | Title | Regulation identifier No. | Rulemaking stage
122 | Review of the National Ambient Air Quality Standards for Ozone | 2060-AP38 | Proposed Rule Stage.
123 | Review of the National Ambient Air Quality Standards for Lead | 2060-AQ44 | Proposed Rule Stage.
124 | Carbon Pollution Emission Guidelines for Existing Stationary Sources: EGUs in Indian Country and U.S. Territories | 2060-AR33 | Proposed Rule Stage.
125 | Greenhouse Gas Emissions and Fuel Efficiency Standards for Medium- and Heavy-Duty Engines and Vehicles—Phase 2 | 2060-AS16 | Proposed Rule Stage.
126 | Renewable Fuel 2015 Volume Standards | 2060-AS22 | Proposed Rule Stage.
127 | Pesticides; Certification of Pesticide Applicators | 2070-AJ20 | Proposed Rule Stage.
128 | Polychlorinated Biphenyls (PCBs); Reassessment of Use Authorizations | 2070-AJ38 | Proposed Rule Stage.
129 | Lead; Renovation, Repair, and Painting Program for Public and Commercial Buildings | 2070-AJ56 | Proposed Rule Stage.
130 | Revisions to the National Oil and Hazardous Substances Pollution Contingency Plan; Subpart J Product Schedule Listing Requirements | 2050-AE87 | Proposed Rule Stage.
131 | User Fee Schedule for Electronic Hazardous Waste Manifest | 2050-AG80 | Proposed Rule Stage.
132 | Modernization of the Accidental Release Prevention Regulations Under Clean Air Act | 2050-AG82 | Proposed Rule Stage.
133 | Petroleum Refinery Sector Risk and Technology Review and New Source Performance Standards | 2060-AQ75 | Final Rule Stage.
134 | Standards of Performance for Greenhouse Gas Emissions From New Stationary Sources: Electric Utility Generating Units | 2060-AQ91 | Final Rule Stage.
135 | Implementation of the 2008 National Ambient Air Quality Standards for Ozone: State Implementation Plan Requirements | 2060-AR34 | Final Rule Stage.
136 | Carbon Pollution Standards for Modified and Reconstructed Stationary Sources: Electric Utility Generating Units | 2060-AR88 | Final Rule Stage.
137 | Pesticides; Agricultural Worker Protection Standard Revisions | 2070-AJ22 | Final Rule Stage.
138 | Formaldehyde; Third-Party Certification Framework for the Formaldehyde Standards for Composite Wood Products | 2070-AJ44 | Final Rule Stage.
139 | Formaldehyde Emissions Standards for Composite Wood Products | 2070-AJ92 | Final Rule Stage.
140 | Standards for the Management of Coal Combustion Residuals Generated by Commercial Electric Power Producers | 2050-AE81 | Final Rule Stage.
141 | Revising Underground Storage Tank Regulations—Revisions to Existing Requirements and New Requirements for Secondary Containment and Operator Training | 2050-AG46 | Final Rule Stage.
142 | Effluent Limitations Guidelines and Standards for the Steam Electric Power Generating Point Source Category | 2040-AF14 | Final Rule Stage.
143 | Water Quality Standards Regulatory Revisions | 2040-AF16 | Final Rule Stage.
144 | Definition of “Waters of the United States” Under the Clean Water Act | 2040-AF30 | Final Rule Stage.

Equal Employment Opportunity Commission
Sequence No. | Title | Regulation identifier No. | Rulemaking stage
145 | Federal Sector Equal Employment Opportunity Process | 3046-AB00 | Prerule Stage.
146 | The Federal Sector's Obligation To Be a Model Employer of Individuals With Disabilities | 3046-AA94 | Proposed Rule Stage.
147 | Amendments to Regulations Under the Americans With Disabilities Act | 3046-AB01 | Proposed Rule Stage.
148 | Amendments to Regulations Under the Genetic Information Nondiscrimination Act of 2008 | 3046-AB02 | Proposed Rule Stage.

Social Security Administration
Sequence No. | Title | Regulation identifier No. | Rulemaking stage
149 | Revised Medical Criteria for Evaluating Digestive Disorders (3441P) | 0960-AG65 | Proposed Rule Stage.
150 | Revisions to Representative Code of Conduct (3835P) | 0960-AH63 | Proposed Rule Stage.
151 | Revised Medical Criteria for Evaluating Neurological Impairments (806F) | 0960-AF35 | Final Rule Stage.
152 | Revised Medical Criteria for Evaluating Hematological Disorders (974F) | 0960-AF88 | Final Rule Stage.
153 | Revised Medical Criteria for Evaluating Growth Disorders and Weight Loss in Children (3163F) | 0960-AG28 | Final Rule Stage.
154 | Use of Date of Written Statement as Filing Date (3431F) | 0960-AG58 | Final Rule Stage.
155 | Revised Medical Criteria for Evaluating Immune (HIV) System Disorders (3466F) | 0960-AG71 | Final Rule Stage.
156 | Revised Medical Criteria for Evaluating Cancer (Malignant Neoplastic Diseases) (3757F) | 0960-AH43 | Final Rule Stage.
157 | Submission of Evidence in Disability Claims (3802F) | 0960-AH53 | Final Rule Stage.
158 | Social Security Number Card Applications (3855I) | 0960-AH68 | Final Rule Stage.

Nuclear Regulatory Commission
Sequence No. | Title | Regulation identifier No. | Rulemaking stage
159 | Revision of Fee Schedules: Fee Recovery for FY 2015 [NRC-2014-0200] | 3150-AJ44 | Proposed Rule Stage.

BILLING CODE 6820-27-P

DEPARTMENT OF AGRICULTURE (USDA)

Statement of Regulatory Priorities

In FY 2015, USDA will focus on a number of high-priority regulations necessary to implement the Agricultural Act of 2014 (Farm Bill). This legislation, which was signed into law on February 7, 2014, provides authorization for services and programs that impact every American and millions of people around the world. The new Farm Bill builds on historic economic gains in rural America over the past five years, while achieving meaningful reform and billions of dollars in savings for the taxpayer. The new Farm Bill will allow USDA to continue record accomplishments on behalf of the American people, while providing new opportunity and creating jobs across rural America. It will enable USDA to further expand markets for agricultural products at home and abroad, strengthen conservation efforts, create new opportunities for local and regional food systems and grow the biobased economy. It will provide a dependable safety net for America's farmers, ranchers and growers. It will maintain important agricultural research and ensure access to safe and nutritious food for all Americans. USDA's regulatory efforts in the coming year will modify existing regulations and introduce new regulatory actions necessary to implement the 2014 Farm Bill and to achieve the following goals identified in the Department's Strategic Plan for 2010-2015:

• Assist rural communities to create prosperity so they are self-sustaining, re-populating, and economically thriving. USDA is the leading advocate for rural America. The Department supports rural communities and enhances quality of life for rural residents by improving their economic opportunities, community infrastructure, environmental health, and the sustainability of agricultural production. The common goal is to help create thriving rural communities with good jobs where people want to live and raise families where children have economic opportunities and a bright future.

• Ensure our national forests and private working lands are conserved, restored, and made more resilient to climate change, while enhancing our water resources. America's prosperity is inextricably linked to the health of our lands and natural resources. Forests, farms, ranches, and grasslands offer enormous environmental benefits as a source of clean air, clean and abundant water, and wildlife habitat. These lands generate economic value by supporting the vital agriculture and forestry sectors, attracting tourism and recreational visitors, sustaining green jobs, and producing ecosystem services, food, fiber, timber and non-timber products. They are also of immense social importance, enhancing rural quality of life, sustaining scenic and culturally important landscapes, and providing opportunities to engage in outdoor activity and reconnect with the land.

• Help America promote agricultural production and biotechnology exports as America works to increase food security. A productive agricultural sector is critical to increasing global food security. For many crops, a substantial portion of domestic production is bound for overseas markets. USDA helps American farmers and ranchers use efficient and sustainable production, biotechnology, and other emergent technologies to enhance food security around the world and find export markets for their products.

• Ensure that all of America's children have access to safe, nutritious, and balanced meals. A plentiful supply of safe and nutritious food is essential to the well-being of every family and the healthy development of every child in America. USDA provides nutrition assistance to children and low-income people who need it and works to improve the healthy eating habits of all Americans, especially children. In addition, the Department safeguards the quality and wholesomeness of meat, poultry, and processed egg products, and it addresses and prevents loss or damage from pests and disease outbreaks.

Important regulatory activities supporting the accomplishment of these goals in 2015 will include the following:

• Strengthening Food Safety Inspection. USDA will continue to develop science-based regulations that improve the safety of meat, poultry, and processed egg products in the least burdensome and most cost-effective manner. Existing regulations will be revised to address emerging food safety challenges, streamlined to remove excessively prescriptive requirements, and updated to be made consistent with Hazard Analysis and Critical Control Point principles. Among other actions, USDA will amend regulations so that information presented on food packaging is useful in assisting consumers with purchasing and preparation decisions. The agency will also use technology to streamline and improve the integrity of export certificates. To help small businesses comply with food safety regulatory requirements, FSIS will continue its collaboration with other USDA and State partners in its small business outreach program.

Improving Access to Nutrition Assistance and Dietary Behaviors. As changes are made to the nutrition assistance programs, USDA will work to ensure access to program benefits, strengthen program integrity, improve diets and healthy eating, and promote physical activity consistent with the national effort to reduce obesity. In support of these activities in 2014, the Food and Nutrition Service (FNS) plans to publish a proposed rule updating meal pattern revisions for the Child and Adult Care Food Program, as well as a proposal to enhance the eligibility standards for SNAP retailers to increase access to more healthful foods. FNS will continue to work to implement rules that minimize participant and vendor fraud in its nutrition assistance programs.

• Collaborating with Producers to Conserve Natural Resources. The Natural Resources Conservation Service (NRCS) is amending the Conservation Stewardship Program (CSP) and Environmental Quality Incentives Program (EQIP) regulations to incorporate programmatic changes as authorized by the Farm Bill. CSP promotes consultation at the local level to identify priority resource concerns in geographic areas within a State. CSP encourages producers to address environmental concerns while improving and conserving the quality and condition of natural resources in a comprehensive manner. EQIP provides assistance to landowners to address natural resource issues that impact soil, water and related natural resources, including grazing lands, wetlands, and wildlife habitat. The Farm Bill folded the former Wildlife Habitat Incentives Program (WHIP) into EQIP.

• Promoting Innovation through Partnerships. NRCS has a long history of providing science-based, technically sound, and proven conservation practices, advice, and alternatives to America's farmers and ranchers. Traditionally, NRCS has worked with USDA agencies, universities, and other nongovernmental organizations to identify and refine new cutting-edge technology through on-farm trials and research. Using this approach, NRCS continually reviews and revises conservation practices based on new research or changes in technology.

Through the Conservation Innovation Grants (CIG) component of EQIP, NRCS involves additional partners in identifying and demonstrating new approaches for possible NRCS adoption. CIG's purpose is to stimulate the adoption of innovative conservation approaches and technologies in agricultural production and leverage additional investments in conservation. Partners assist NRCS with meeting the CIG goals of identifying new conservation technologies and practices, conducting demonstrations and field tests, and integrating widely applicable technologies and practices into NRCS' toolkit of practices and activities to help agricultural producers better address natural resource concerns. NRCS is updating the CIG section of the EQIP regulation to be consistent with Farm Bill amendments.

• Protecting Productive Agricultural Lands and Wetlands. The Farm Bill combined several NRCS easement programs, including the Wetlands Reserve Program (WRP), the Farm and Ranch Lands Protection Program (FRPP), and the Grassland Reserve Program (GRP) into the new Agricultural Conservation Easement Program (ACEP). ACEP will require its own regulation to replace those of the repealed WRP, FRPP, and GRP programs. ACEP will have two components: an agricultural land easement component under which NRCS assists eligible entities to protect agricultural land by limiting non-agricultural land uses and a wetland reserve easement component under which NRCS provides technical and financial assistance directly to landowners to restore, protect and enhance wetlands through the purchase of wetlands reserve easements. NRCS will maintain the existing easements and contracts formed under the previous programs; however, they will all be considered part of ACEP enrollment.

• Addressing Conservation Concerns on a Regional Level. The Farm Bill established the Regional Conservation Partnership Program (RCPP) to promote the implementation of conservation activities through providing support for agreements between producers and partner groups. Producers receive technical and financial assistance through RCPP while NRCS and its partners help producers install and maintain conservation activities. These projects may focus on water quality and quantity, soil erosion, wildlife habitat, drought mitigation, flood control, and other regional priorities. Partners include producer associations, State or local governments, Indian tribes, non-governmental organizations, and institutions of higher education. RCPP projects affect multiple agricultural or nonindustrial private forest operations on a local, regional, State, or multistate level. The Farm Bill combined several regional conservation initiatives into this program. RCPP is implemented through an announcement of program funding through Grants.gov; however, NRCS is publishing updates in the CSP, EQIP and ACEP regulations to indicate that these are covered programs through which RCPP can operate.

• Establish Framework for Managing our Nation's Forests and Grasslands. The Forest Service will publish proposed guidance for implementation of the 2012 Land Management Planning Rule. This guidance will provide the detailed monitoring, assessment, and documentation requirements that the managers of our national forests and grasslands require to begin revising their land management plans under the 2012 Planning Rule. Currently 70 of the 120 Forest Service's Land Management Plans are expired and in need of revision.

• Making Marketing and Regulatory Programs More Focused. The Animal and Plant Health Inspection Service (APHIS) plans to amend its veterinary biologics regulations to provide for the use of a simpler, uniform label format to better meet the needs of veterinary biologics consumers. APHIS also plans to revise tuberculosis and brucellosis regulations to better reflect the distribution of these diseases and thereby minimize the impacts on livestock producers while continuing to address these livestock diseases. In the area of plant health, APHIS proposes to expand the streamlined method of considering the importation and interstate movement of fruits and vegetables. The Agricultural Marketing Service (AMS) will support the organic sector by updating the National List of Allowed and Prohibited Substances as advised by the National Organic Standards Board, streamlining organic regulatory enforcement actions, developing organic pet food standards, and proposing that all existing and replacement dairy animals from which milk or milk products are intended to be sold as organic must be managed organically from the last third of gestation.

• Promoting Biobased Products. USDA will continue to promote sustainable economic opportunities to create jobs in rural communities through the purchase and use of biobased products through the BioPreferred® program. USDA will finalize regulations to revise the BioPreferred® program guidelines to continue adding designated product categories to the preferred procurement program, including intermediates and feedstocks and finished products made of intermediates and feedstocks. The Federal preferred procurement and the certified label parts of the program are voluntary; both are designed to assist biobased businesses in securing additional sales.

Retrospective Review of Existing Regulations

Pursuant to section 6 of Executive Order 13563 “Improving Regulation and Regulatory Review (Jan. 18, 2011), the following initiatives are identified in the Department's Final Plan for Retrospective Analysis. The final agency plans, as well as periodic status updates for each initiative, are available online at http://www.whitehouse.gov/21stcenturygov/actions/21st-century-regulatory-system.

RIN | Title | Significantly reduce burdens on small businesses
0583-AC59 | Prior Labeling Approval System: Generic Label Approval | Yes.
0583-AD41 | Electronic Export Application and Certification Fee | Yes.
0583-AD32 | Modernization of Poultry Slaughter Inspection | Yes.
0570-AA76 | Rural Energy America Program | Yes.
0570-AA85 | Business and Industry Loan Guaranteed Program | Yes.
0575-AC91 | Community Facilities Loan and Grants | Yes.
0596-AD01 | National Environmental Policy Act (NEPA) Efficiencies | Yes.

Subsequent to EO 13563 and consistent with its goals as well as the importance of public participation, President Obama issued Executive Order 13610 on Identifying and Reducing Regulatory Burdens in May 2012. Executive Order 13610 directs agencies, in part, to give priority consideration to those initiatives that will produce cost savings or significant reductions in paperwork burdens. Accordingly, reducing the regulatory burden on the American people and our trading partners is a priority for USDA, and we will continually work to improve the effectiveness of our existing regulations. As a result of our ongoing regulatory review and burden reduction efforts, USDA has identified the following burden-reducing initiatives:

• Increase Use of Generic Approval and Regulations Consolidation. FSIS is finalizing a rule that will expand the circumstances in which the labels of meat and poultry products will be deemed to be generically approved by FSIS. The rule will reduce regulatory burdens and generate a discounted Agency cost savings of $3.3 million over 10 years (discounted at 7 percent).

• Implement Electronic Export Application for Meat and Poultry Products. FSIS is finalizing a rule to provide exporters a fee-based option for transmitting U.S. certifications to foreign importers and governments electronically. Automating the export application and certification process will facilitate the export of U.S. meat, poultry, and egg products by streamlining the processes that are used while ensuring that foreign regulatory requirements are met.

• Streamline Forest Service National Environmental Policy Act (NEPA) Compliance. The Forest Service, in cooperation with the Council on Environmental Quality, is promulgating rulemaking to establish three new Categorical Exclusions for simple restoration activities. These Categorical Exclusions will improve and streamline the NEPA process and reduce the paperwork burden, as it applies to Forest Service projects without reducing environmental protection.

• Increase Accessibility to the Rural Energy for America Program (REAP). Under REAP, Rural Development provides guaranteed loans and grants to support the purchase, construction, or retrofitting of a renewable energy system. This rulemaking will streamline the application process for grants, lessening the burden on the applicant. The rulemaking is expected to reduce the information collection.

• Reduced Duplication in Farm Programs. The Farm and Foreign Agricultural Services (FFAS) mission area is reducing the paperwork burden on program participants by consolidating the information collections required to participate in farm programs administered by the Farm Service Agency (FSA) and the Federal crop insurance program administered by the Risk Management Agency (RMA). As a result, producers will be able to spend less time reporting information to USDA. Additionally, FSA and RMA will be better able to share information, thus improving operational efficiency. FFAS is simplifying and standardizing, to the extent practical, acreage reporting processes, program dates, and data definitions across the various USDA programs and agencies. FFAS is making improvements to allow producers to use information from their farm-management and precision agriculture systems for reporting production, planted and harvested acreage, and other key information needed to participate in USDA programs. FFAS is also streamlining the collection of producer information by FSA and RMA with the agricultural production information collected by the National Agricultural Statistics Service. These process changes allow for program data that is common across agencies to be collected once and utilized or redistributed to agency programs in which the producer chooses to participate. FFAS will conduct a pilot project in spring 2015 to test the ability of FSA county offices to receive electronic acreage reports through a third-party service provider; the pilot will add additional States following the 2014 small “proof-of-concept” in Illinois.

Periodic status updates for these burden-reducing initiatives can be found online at: http://www.whitehouse.gov/21stcenturygov/actions/21st-century-regulatory-system.

In addition to regulatory review initiatives identified under Executive Order 13563 and the paper work burden reduction initiatives identified under the Executive Order 13610, USDA has plans to initiate the following additional streamlining initiatives in 2015.

• Simplify FSA NEPA Compliance. FSA proposed revisions to its regulations that implement NEPA to update, improve, and clarify requirements. It also proposed new categorical exclusions and removing obsolete provisions. FSA will revise the regulations with any additional improvements being made based on public comments to the proposed rule. Annual cost savings to FSA as a result of this rule could be $345,000 from conducting 314 fewer environmental assessments per year, while retaining strong environmental protection.

• Simplify Equipment Contracts for Rural Utilities Service (RUS) Loans. RUS is proposing a rule that would result in a new standard Equipment Contract Form for use by Telecommunications Program borrowers. This new standardized contract would ensure that certain standards and specifications are met, and this new form would replace the current process that requires all construction providers to use their own resources to develop a contract for each project.

• Consolidate Community Facilities Programs Loan and Grant Requirements. The Rural Housing Service (RHS) is proposing to consolidate seven of the regulations used to service Community Facilities direct loans and grants into one streamlined regulation. This rule will reduce the time burden on RHS staff and provide the public with a single document that clearly outlines the requirements for servicing Community Facilities direct loans and grants.

• Update Tuberculosis and Brucellosis Programs. Given the success USDA has had in nearly eradicating tuberculosis and brucellosis in ruminants, APHIS will propose rulemaking to update and consolidate its regulations regarding these diseases to better reflect the current distribution of these diseases and the changes in which cattle, bison, and captive cervid are produced in the United States.

Promoting International Regulatory Cooperation Under Executive Order 13609:

President Obama issued Executive Order 13609 on promoting international regulatory cooperation in May 2012. The Executive order charges the Regulatory Working Group, an interagency working group chaired by the Administrator of Office of Information and Regulatory Affairs (OIRA), with examining appropriate strategies and best practices for international regulatory cooperation. The Executive order also directs agencies to identify factors that should be taken into account in evaluating the effectiveness of regulatory approaches used by trading partners with whom the U.S. is engaged in regulatory cooperation. At this time, USDA is identifying international regulatory cooperation activities that are reasonably anticipated to lead to significant regulations, while working closely with the Administration to refine the guidelines implementing the Executive order. Apart from international regulatory cooperation, the Department has continued to identify regulations with international impacts, as it has done in the past. Such regulations are those that are expected to have international trade and investment effects or otherwise may be of interest to our international trading partners.

USDA is diligently working to carry out the President's Executive order mandate with regard to regulatory cooperation as new regulations are developed. Several agencies within the Department are also actively engaged in interagency and Departmental regulatory cooperation initiatives being pursued as part of the U.S.-Mexico High Level Regulatory Cooperation Council (HLRCC) and the U.S.-Canada Regulatory Cooperation Council (RCC), as well as other fora. Specific projects are being pursued by USDA agencies such as AMS, APHIS, and FSIS and address a variety of regulatory oversight processes and requirements related to meat, poultry, and animal and plant health. Projects related to electronic certification, equivalence, meat nomenclature, and the efficient and safe flow of plants, animals and food across our shared borders are all regulatory cooperation pursuits these agencies are undertaking in order to secure better alignment among our countries without compromising the high standards of safety we have in place in the U.S. relative to food safety and public health, as well as plant and animal health, that are so critical to American agriculture.

Major Regulatory Priorities

This following represents summary information on prospective priority regulations as called for in Executive Orders 12866 and 13563:

Food and Nutrition Service

Mission: FNS works to end hunger and obesity through the administration of federal nutrition assistance programs including WIC, Supplemental Nutrition Assistance Program (SNAP), and school meals.

Priorities: In addition to responding to provisions of legislation authorizing and modifying Federal nutrition assistance programs, FNS's 2015 regulatory plan supports USDA's Strategic Goal to “ensure that all of America's children have access to safe, nutritious and balanced meals” and its related objectives:

• Increase Access to Nutritious Food. This objective represents FNS's efforts to improve nutrition by providing access to program benefits (food consumed at home, school meals, commodities) and distributing State administrative funds to support program operations. To advance this objective, FNS plans to publish a final rule implementing the Healthy, Hunger-Free Kids Act of 2010's Community Eligibility Provision, which eliminates the burden of household applications and increases access to free school lunches and breakfasts for children in eligible high-poverty schools. FNS will also publish a proposed rule to codify procedures for providing temporary SNAP benefits during emergencies for victims of disasters.

• Improve Program Integrity. FNS also plans to publish a number of rules to increase efficiency, reduce the burden of program operations, and further reduce improper payments. Program integrity provisions will continue to be strengthened in the SNAP and Child Nutrition programs to ensure Federal taxpayer dollars are spent effectively. To support this objective, FNS plans to publish a final rule from the 2008 Farm Bill that increases the penalty for SNAP authorized stores that are involved in the trafficking of Program benefits. Additionally, FNS plans to publish a proposed rule to establish consistent, outcome-focused performance measures for the SNAP Employment and Training Program. For Child Nutrition, FNS plans to publish a proposed rule to strengthen oversight requirements and institution disqualification procedures, allow the imposition of fines by USDA or State agencies for egregious and/or repeated program violations, and address several deficiencies identified through program audits and reviews.

• Promote Healthy Diet and Physical Activity Behaviors. This objective represents FNS's efforts to ensure that program benefits meet appropriate standards to effectively improve nutrition for program participants, to improve the diets of its clients through nutrition education, and to support the national effort to reduce obesity by promoting healthy eating and physical activity. To implement provisions included in the Healthy Hunger Free Kids Act of 2010. FNS plans to publish a proposed rule that updates the meal patterns for the Child and Adult Care Food Program to align them with the latest Dietary Guidelines for Americans and final rules that establish professional standards for school food service and State child nutrition program directors, require schools to develop local wellness policies that promote the health of students and address the growing problem of childhood obesity. Additionally, FNS plans to publish a proposed rule to implement the 2014 Farm Bill governing the eligibility of retail food stores participating in SNAP that will improve SNAP participants' access to healthy food options.

Food Safety and Inspection Service

Mission: FSIS is responsible for ensuring that meat, poultry, and processed egg products in interstate and foreign commerce are wholesome, not adulterated, and are properly marked, labeled, and packaged.

Priorities: FSIS is committed to developing and issuing science-based regulations intended to ensure that meat, poultry, and processed egg products are wholesome and not adulterated or misbranded. FSIS regulatory actions support the objective to protect public health by ensuring that food is safe under USDA's goal to ensure access to safe food. To reduce the number of foodborne illnesses and increase program efficiencies, FSIS will continue to review its existing authorities and regulations to ensure that it can address emerging food safety challenges, to streamline excessively prescriptive regulations, and to revise or remove regulations that are inconsistent with the FSIS's Hazard Analysis and Critical Control Point (HACCP) regulations. FSIS is also working with the Food and Drug Administration (FDA) to improve coordination and increase the effectiveness of inspection activities. FSIS's priority initiatives are as follows:

• Implement Inspection of Certain Fish, Including Catfish and Catfish Products. FSIS plans to issue a final rule to implement a new inspection system for all fish of the order Siluriformes, as required by the 2014 Farm Bill. The rule will define inspection requirements for this type of fish and will take into account the conditions under which the fish is raised and transported to a processing establishment.

• Streamline Export Application Processes through the Public Health Information System (PHIS). To support its food safety inspection activities, FSIS is continuing to implement PHIS, a user-friendly and Web-based system that automates many of the Agency's business processes. PHIS also enables greater exchange of information between FSIS and other Federal agencies, such as U.S. Customs and Border Protection, which is involved alongside FSIS in tracking cross-border movement of import and export shipments of meat, poultry, and processed egg products. To facilitate the implementation of some PHIS components, FSIS is finalizing regulations to provide for electronic export application and certification processes.

• Update Nutrition Facts Panels for Meat and Poultry Products. FSIS will propose to amend its regulations so that the nutrition labeling requirements for meat and poultry products reflect recent scientific research and dietary recommendations and to improve the presentation of nutrition information to assist consumers in maintaining healthy dietary practices. These revisions will be consistent with the recent changes that the Food and Drug Administration proposed for conventional foods and will ensure that there is consistency in how nutrition information is presented across the food supply.

• Ensure Accurate Labeling of Mechanically Tenderized Beef. FSIS has concluded that without proper labeling, raw or partially cooked mechanically tenderized beef products could be mistakenly perceived by consumers to be whole, intact muscle cuts. The fact that a cut of beef has been needle or blade-tenderized is a characterizing feature of the product and, as such, is a material fact likely to affect consumers' purchase decisions and should affect their preparation of the product. FSIS has also concluded that the addition of validated cooking instruction is required to ensure that potential pathogens throughout the product are destroyed. Without thorough cooking, pathogens that may have been introduced to the interior of the product during the tenderization process may remain in the product. The Agency will finalize regulations requiring that raw, mechanically tenderized (needle or blade) beef products be labeled to indicate that they are “mechanically tenderized.”

• Improve the Efficiency of Product Recalls. FSIS is developing a final rule that will amend recordkeeping regulations to specify that all official establishments and retail stores that grind or chop raw beef products for sale in commerce must keep records that disclose the identity of the supplier of all source materials that they use in the preparation of each lot of raw ground or chopped product and identify the names of those source materials. FSIS investigators and public health officials frequently use records kept by all levels of the food distribution chain, including the retail level, to identify and trace back product that is the source of the illness to the suppliers that produced the source material for the product. Access to this information will improve FSIS's ability to conduct timely and effective consumer foodborne illness investigations and other public health activities throughout the stream of commerce.

• Improve Compliance with the Humane Methods of Slaughter Act. FSIS has concluded that prohibiting the slaughter of all non-ambulatory disabled veal calves will improve compliance with the Humane Methods of Slaughter Act of 1978 (7 U.S.C. 1901 et seq.) and will also improve the Agency's inspection efficiency by eliminating the time that FSIS inspection program personnel spend re-inspecting non-ambulatory disabled veal calves. FSIS plans to propose to amend its regulations on ante-mortem inspection to remove a provision that permits establishments to set apart and hold for treatment veal calves that are unable to rise from a recumbent position and walk because they are tired or cold (9 CFR 309.13(b)). Under the proposed rule, non-ambulatory disabled veal calves that are offered for slaughter will be condemned and promptly euthanized.

• FSIS Small Business Implications. The great majority of businesses regulated by FSIS are small businesses. FSIS conducts a small business outreach program that provides critical training, access to food safety experts, and information resources, such as compliance guidance and questions and answers on various topics, in forms that are uniform, easily comprehended, and consistent. FSIS collaborates in this effort with other USDA agencies and cooperating State partners. For example, FSIS makes plant owners and operators aware of loan programs available through USDA's Rural Business and Cooperative programs to help them in upgrading their facilities. FSIS employees will meet with small and very small plant operators to learn more about their specific needs and explore how FSIS can tailor regulations to better meet the needs of small and very small establishments, while maintaining the highest level of food safety.

Animal and Plant Health Inspection Service

Mission: A major part of the mission of APHIS is to protect the health and value of American agricultural and natural resources. APHIS conducts programs to prevent the introduction of exotic pests and diseases into the United States and conducts surveillance, monitoring, control, and eradication programs for pests and diseases in this country. These activities enhance agricultural productivity and competitiveness and contribute to the national economy and the public health. APHIS also conducts programs to ensure the humane handling, care, treatment, and transportation of animals under the Animal Welfare Act.

Priorities: APHIS continues to pursue initiatives to update its regulations to make them more flexible and performance-based. For example, in the area of animal health, APHIS is preparing a final rule to amend its veterinary biologics regulations to provide for the use of a simpler, uniform label format that would allow biologics licensees and permittees to more clearly communicate product performance information to the end user. In addition, the rule would simplify the evaluation of efficacy studies and reduce the amount of time required by APHIS to evaluate study data, thus allowing manufacturers to market their products sooner. APHIS has also prepared a proposed rule that would revise and consolidate its regulations regarding bovine tuberculosis and brucellosis to better reflect the distribution of these diseases and the current nature of cattle, bison, and captive cervid production in the United States. In the area of plant health, APHIS has prepared a proposed rule that would establish performance standards and a notice-based process for approving the interstate movement of fruits and vegetables from Hawaii and the U.S. Territories and the importation of those articles from other countries. In addition, APHIS will revise agricultural quarantine and inspection user fees so that fees collected are commensurate with the cost of providing the activity.

Agricultural Marketing Service

Mission: AMS's mission is to facilitate the competitive and efficient marketing of agricultural products. AMS provides marketing services to producers, manufacturers, distributors, importers, exporters, and consumers of food products. AMS also manages the government's food purchases, supervises food quality grading, maintains food quality standards, supervises the Federal research and promotion programs, and oversees the country of origin labeling program as well as the National Organic Program (NOP).

Priorities: AMS intends to support the government's initiative to streamline regulatory actions by establishing a process to communicate fees for our voluntary user fee programs annually through publication of a Federal Register notice. AMS is also committed to ensuring the integrity of USDA organic products in the U.S. and throughout the world. In addition to its ongoing work to develop organic pet food, apiculture, and aquaculture standards, the Agency is moving forward with the following priority rulemakings that affect the organic industry:

• Research and Promotion Programs Organic Exemption. USDA intends to implement the 2014 Farm Bill provision to expand the organic exemption for research and promotion program assessments. This action would exempt organic operations with “100 percent organic” and “organic” products, including certain split operations, from paying research and promotion program assessments.

• Transitioning Dairy Animals into Organic Production. Members of the organic community, including dairy producers, organic interest groups, and the National Organic Standards Board have advocated for rulemaking on the allowance for transitioning dairy animals into organic production. Stakeholders have interpreted the current standard differently, creating inconsistencies across dairy producers. AMS has submitted a proposed rule for clearance on this issue. This proposed change to the organic standards is intended to level the playing field for organic dairy producers.

Farm Service Agency

Mission: FSA's mission is to deliver timely, effective programs and services to America's farmers and ranchers to support them in sustaining our Nation's vibrant agricultural economy, as well as to provide first-rate support for domestic and international food aid efforts. FSA has successfully expedited the implementation of several major regulatory priorities resulting from the 2014 Farm Bill, including new programs such as the Agriculture Risk Coverage Program, Price Loss Coverage Program, Margin Protection Program for Dairy, Dairy Product Donation Program, Cotton Transition Assistance Program, and improvements to existing programs such as disaster assistance programs, entity eligibility for Farm Loan Programs, and Microloans. FSA supports USDA's strategic goals by stabilizing farm income, providing credit to new or existing farmers and ranchers who are temporarily unable to obtain credit from commercial sources, and helping farm operations recover from the effects of disaster. FSA administers several conservation programs directed toward agricultural producers. The largest program is the Conservation Reserve Program, which protects up to 32 million acres of environmentally sensitive land.

Priorities: FSA is focused on continuing to implement the 2014 Farm Bill while providing the best possible service to producers while protecting the environment by updating and streamlining environmental compliance. FSA's priority initiatives are as follows:

• Noninsured Crop Disaster Assistance Program (NAP). FSA will revise its NAP regulations to implement the 2014 Farm Bill changes. The 2014 Farm Bill changes include enhanced protection under NAP, which is also known as NAP buy-up to allow producers to buy additional NAP coverage for an additional premium; revised NAP eligibility requirements for coverage on tilled native sod; added coverage for sweet sorghum and biomass sorghum; service fee waivers for beginning and socially disadvantaged farmers.

• Conservation Compliance. FSA, working in coordination with NRCS and RMA, will revise the USDA conservation compliance regulations to implement the 2014 Farm Bill changes. The 2014 Farm Bill changes linking eligibility for any premium subsidy paid by FCIC on a policy or plan of federally reinsured crop insurance to be in compliance with Highly Erodible Land Conservation and Wetlands Conservation provisions. Since enactment of the 1985 Farm Bill, eligibility for most commodity, disaster, and conservation programs has been linked to compliance with the Highly Erodible Land Conservation and Wetland Conservation provisions. The 2014 Farm Bill continues the requirement that producers adhere to conservation compliance guidelines to be eligible for most programs administered by FSA and NRCS.

• Marketing Assistance Loans (MAL) and Loan Deficiency Payments (LDP). FSA will revise its MAL and LDP regulations to implement the 2014 Farm Bill changes. The 2014 Farm Bill changes reauthorize MAL and LDP for all eligible commodities including cotton, honey, and sugar loans, for the 2014 through 2018 crop years. The MAL and LDP Programs allow producers to receive short-term loans against their crops so that producers can market their crops at a time that is convenient for them, rather than being forced to sell immediately after harvest to pay the bills. The MAL and LDP programs are continued with no changes to the loan rates except for cotton, and there are no other changes to the basic structure of the programs. The changes extend the program years and add clarity to the regulations. MALs, LDPs and sugar loans are Commodity Credit Corporation (CCC) programs administered by the Farm Service Agency (FSA).

• Farm Loan Programs (FLP) changes. FSA will revise its FLP regulations to implement the 2014 Farm Bill changes. The 2014 Farm Bill changes include expanding lending opportunities for thousands of farmers and ranchers to begin and continue operations, including greater flexibility in determining eligibility, raising loan limits, and emphasizing beginning and socially disadvantaged producers. Specific changes include: Eliminating loan term limits for guaranteed operating loans, modifying the definition of beginning farmers, allowing debt forgiveness on youth loans, increasing the guaranteed amount on conservation loans from 75 to 80 percent and 90 percent for beginning farmers and socially disadvantaged producers, changing the interest rate on Direct Farm Ownership loans that are made in conjunction with other lenders, and increasing the maximum loan amount for the down payment loan program from $225,000 to $300,000.

• Biomass Crop Assistance Program (BCAP). FSA will revise its BCAP regulations to implement the 2014 Farm Bill changes. The 2014 Farm Bill changes include extending BCAP through 2018 and revising BCAP to add some new payment amounts and eligibility restrictions. Specific changes include: revising eligible materials to remove bagasse, add materials used for research material, and require that all woody biomass be harvested directly from the land and reducing the payment for collection, harvest, storage, and transportation matching payments to $20 per dry ton. BCAP provides financial assistance to producers who establish and harvest biomass crops and requires at least 10 percent of payments to be matching payments.

• Conservation Reserve Program (CRP). FSA will revise its CRP regulations to implement the 2014 Farm Bill changes. The 2014 Farm Bill changes include extending the authority to enroll acreage in CRP through September 30, 2018, and requiring enrollment to be no more than 24 million acres beginning October 1, 2016. There are 25.6 million acres enrolled in CRP, of which 2 million expired on September 30, 2014.

• Streamline Environmental Compliance (NEPA). FSA will revise its regulations that implement NEPA. The changes improve the efficiency, transparency, and consistency of NEPA implementation. Changes include aligning the regulations to NEPA regulations and guidance from the President's Council on Environmental Quality, providing a single set of regulations that reflect the Agency's current structure, clarifying the types of actions that require an Environmental Assessment (EA), and adding to the list of actions that are categorically excluded from further environmental review because they have no significant effect on the human environment. FSA will develop any additional changes resulting from public comments to the proposed rule.

Forest Service

Mission: FS's mission is to sustain the health, productivity, and diversity of the Nation's forests and rangelands to meet the needs of present and future generations. This includes protecting and managing National Forest System lands; providing technical and financial assistance to States, communities, and private forest landowners, plus developing and providing scientific and technical assistance; and the exchange of scientific information to support international forest and range conservation. FS regulatory priorities support the Department's goal to ensure our National forests are conserved, restored, and made more resilient to climate change, while enhancing our water resources.

Priorities: FS is committed to developing and issuing science-based regulations intended to ensure public participation in the management of our Nation's national forests and grasslands, while also moving forward the Agency's ability to plan and conduct restoration projects on National Forest System lands. FS will continue to review its existing authorities and regulations to ensure that it can address emerging challenges, to streamline excessively burdensome business practices, and to revise or remove regulations that are inconsistent with the USDA's vision for restoring the health and function of the lands it is charged with managing. FS's priority initiatives are as follows:

• Implement Land Management Planning Framework. The Forest Service promulgated a new Land Management Planning Rule at 36 CFR part 219 in April 2012 that sets out the requirements for developing, amending, and revising land management plans for units of the National Forest System. The planning directives, once finalized, will be used to implement the planning framework which fosters collaboration with the public during land management planning, is science-based and responsive to change and promotes social, economic, and ecological sustainability.

• Strengthen Ecological Restoration Policies. This policy would recognize the adaptive capacity of ecosystems and includes the role of natural disturbances and uncertainty related to climate and other environmental change. The need for ecological restoration of National Forest System lands is widely recognized, and the Forest Service has conducted restoration-related activities across many programs for decades. “Restoration” is a common way of describing much of the Agency's work, and the concept is threaded throughout existing authorities, program directives, and collaborative efforts such as the National Fire Plan, a 10-Year comprehensive strategy and implementation plan, and the Healthy Forests Restoration Act. However, the Agency did not have a definition of “restoration” established in policy. The lack of a definition was identified as a barrier to collaborating with the public and partners to plan and accomplish restoration work.

Rural Development

Mission: Rural Development (RD) promotes a dynamic business environment in rural America that creates jobs, community infrastructure, and housing opportunities in partnership with the private sector and community-based organizations by providing financial assistance and business planning services and supporting projects that create or preserve quality jobs, advance energy efficiency and the bioeconomy, and strengthen local and regional food systems while focusing on the development of single- and multi-family housing and community infrastructure. RD financial resources are often leveraged with those of other public and private credit source lenders to meet business and credit needs in under-served areas. Recipients of these programs may include individuals, corporations, partnerships, cooperatives, public bodies, nonprofit corporations, Indian tribes, and private companies.

Priorities: RD regulatory priorities will facilitate sustainable renewable energy development and enhance the opportunities necessary for rural families to thrive economically. RD's rules will minimize program complexity and the related burden on the public while enhancing program delivery and Rural Business-Cooperative Service oversight.

• Increase Accessibility to the Rural Energy for America Program (REAP). Under REAP, Rural Development provides guaranteed loans and grants to support the purchase, construction, or retrofitting of a renewable energy system. This rulemaking will streamline the application process for grants, lessening the burden to the customer. The rulemaking is expected to reduce the information collection. REAP will also be revised to ensure a larger number of applicants will be made available through the issuing of smaller grants. As a result, funding will be distributed evenly across the applicant pool and encourage greater development of renewable energy.

• Broadband Access Loans. Increasing access to broadband service is a critical factor in improving the quality of life in rural America and in providing the foundation needed for creating jobs. The A 2014 Farm Bill revises program provisions particularly with regard to broadband speed and application priority. Revised regulations for the Broadband Access Loan Program are anticipated to be published in the Federal Register in the spring of 2015.

• Modify review of Single Family Housing Direct Loans. RD will publish the certified loan packager regulation to streamline oversight of the agency's vast network of committed Agency-certified packagers. This action will help low- and very low-income people become homeowners. It will also reduce the burden on program staff, enabling them to focus on implementation and delivery, and will ensure specialized support is available to them to complete the application for assistance, improving the quality of loan application packages.

Departmental Management

Mission: Departmental Management's mission is to provide management leadership to ensure that USDA administrative programs, policies, advice and counsel meet the needs of USDA programs, consistent with laws and mandates, and provide safe and efficient facilities and services to customers.

Priorities:

• Promote Biobased Products: In support of the Department's goal to increase prosperity in rural areas, USDA's Departmental Management plans to publish regulations to implement the requirement in the Agricultural Act of 2014 (Farm Bill) to establish eligibility criteria for forest and other traditional biobased products in the BioPreferred® program.

Aggregate Costs and Benefits

USDA will ensure that its regulations provide benefits that exceed costs, but are unable to provide an estimate of the aggregated impacts of its regulations. Problems with aggregation arise due to differing baselines, data gaps, and inconsistencies in methodology and the type of regulatory costs and benefits considered. Some benefits and costs associated with rules listed in the regulatory plan cannot currently be quantified as the rules are still being formulated. For 2015, USDA's focus will be to implement the changes to programs in such a way as to provide benefits while minimizing program complexity and regulatory burden for program participants.

USDA—Agricultural Marketing Service (AMS)

Proposed Rule Stage

1. National Organic Program, Origin of Livestock, NOP-11-0009

Priority: Other Significant.

Legal Authority: 7 U.S.C. 6501

CFR Citation: 7 CFR 205.

Legal Deadline: NPRM, Statutory, December 31, 2014.

The proposed action would eliminate the two-track system and require that upon transition, all existing and replacement dairy animals from which milk or milk products are intended to be sold, labeled, or represented as organic, must be managed organically from the last third of gestation.

Abstract: The current regulations provide two tracks for replacing dairy animals which are tied to how dairy farmers transition to organic production. Farmers who transition an entire distinct herd must thereafter replace dairy animals with livestock that has been under organic management from the last third of gestation. Farmers who do not transition an entire distinct herd may perpetually obtain replacement animals that have been managed organically for 12 months prior to marketing milk or milk products as organic. The proposed action would eliminate the two-track system and require that upon transition, all existing and replacement dairy animals from which milk or milk products are intended to be sold, labeled, or represented as organic must be managed organically from the last third of gestation.

Statement of Need: This action is being taken because of concerns raised by various parties, including the National Organic Standards Board (NOSB), about the dual tracks for dairy replacement animals. The proposed action would institute the same requirements across all producers.

Summary of Legal Basis: The National Organic Program regulations stipulate the requirements for dairy replacement animals in section 205.236(a)(2) Origin of Livestock. In addition, in response to the final ruling in the 2005 case, Harvey v. Johanns, the USDA committed to rulemaking to address the concerns about dairy replacement animals.

Alternatives: The program considered initiating the rulemaking with an ANPRM. It was determined that there is sufficient awareness of the expectations of the organic community to proceed with a proposed rule. As alternatives, we considered the status quo, however, this would continue the disparity between producers who can continually transition conventional dairy animals into organic production and producers who source dairy animals that are organic from the last third of gestation. We also considered an action that would restrict the source of breeder stock and movement of breeder stock after they are brought onto an organic operation; however, this would minimize the flexibility of producers to purchase breeder stock from any source as specified under the Organic Foods Production Act.

Anticipated Cost and Benefits:

Risks: Continuation of the two-track system jeopardizes the viability of the market for organic heifers. A potential risk associated with the rulemaking would be a temporary supply shortage of dairy replacement animals due to the increased demand.

Timetable:

Action | Date | FR Cite
NPRM | 12/00/14 |
Final Action | 05/00/16 |

Regulatory Flexibility Analysis Required: Yes.

Small Entities Affected: Businesses, Organizations.

Government Levels Affected: None.

Agency Contact: Melissa R. Bailey, Director, Standards Division, Department of Agriculture, Agricultural Marketing Service, 14th & Independence Avenue SW., Room 2646-South Building, Washington, DC 20250, Phone: 202 720-3252, Fax: 202 205-7808, Email: melissa.bailey@usda.gov.

RIN: 0581-AD08

USDA—AMS

2. National Organic Program, Organic Pet Food Standards

Priority: Other Significant.

Legal Authority: 7 U.S.C. 6501.

CFR Citation: 7 CFR 205.

Legal Deadline: NPRM, Statutory, April 30, 2015.

The National Organic Program (NOP) is establishing national standards governing the marketing of organically produced agricultural products.

Abstract: The National Organic Program (NOP) is establishing national standards governing the marketing of organically produced agricultural products. In 2004, the National Organic Standards Board (NOSB) initiated the development of organic pet food standards, which had not been incorporated into the NOP regulations, by forming a task force which included pet food manufacturers, organic consultants, etc. Collectively, these experts drafted organic pet food standards consistent with the Organic Foods Production Act of 1990, Food and Drug Administration requirements, and the Association of American Feed Control Officials (AAFCO) Model Regulations for Pet and Specialty Pet Food. The AAFCO regulations are scientifically based regulations for voluntary adoption by State jurisdictions to ensure the safety, quality, and effectiveness of feed. In November 2008, the NOSB approved a final recommendation for organic pet food standards incorporating the provisions drafted by the pet food task force.

Statement of Need: This action is necessary to ensure consistency in the composition and labeling of pet food products bearing organic claims. While the NOP has maintained that pet food may be certified in accordance with the existing USDA organic regulations, the requirements for processed products are intended for human foods and are not entirely applicable to pet food. The uncertainty about pet food composition and labeling requirements causes confusion in the marketplace with potentially negative impacts for the credibility of the organic label in general. This action responds to a 2008 recommendation of the National Organic Standards Board (NOSB) and industry requests for organic pet food standards.

Summary of Legal Basis: The Organic Foods Production Act of 1990 (OFPA) authorizes the Secretary of Agriculture to establish an organic certification program for producers and handlers of agricultural products that have been produced using organic methods (7 U.S.C. 6503(a)). The OFPA also authorizes the NOSB to provide recommendations to the Secretary regarding the implementation of the National Organic Program (7 U.S.C. 6518(k)(1)).

Alternatives: AMS has considered the implications of developing specific composition and labeling standards for organic pet food versus maintaining the status quo and not pursuing regulatory action. In addition, AMS is examining options regarding potential implementation periods. Finally, AMS considered the viability of composition requirements that vary from those recommended by the NOSB.

Anticipated Cost and Benefits: This proposed rule would facilitate the marketing of organic pet food by establishing clear, enforceable requirements for the composition and labeling of these products. This action will clarify how pet food may be produced, certified, and marketed as organic and the significance of organic claims on pet food. That standardization would provide certainty to pet food handlers and certifying agents for manufacturing and certifying pet foods, respectively, and bolster consumer confidence. AMS does not expect this action to result in significant costs for the $109 million organic pet food sector (2012 sales). This action may be an incentive for some handlers that are using organic claims on noncertified pet food products to pursue certification. AMS intends to solicit specific public comments to validate this expectation.

Risks: AMS does not anticipate risks to be associated with this action. The NOSB and industry participated in the development of organic pet food standards and have strongly encouraged their adoption since 2008. This action may provoke questions about the Agency's intent with regard to a separate 2013 NOSB recommendation that would, in effect, prohibit the use of certain amino acids in organic pet food. AMS is evaluating the impact of that action; however, that recent recommendation is not expected to affect this rulemaking.

Timetable:

Action | Date | FR Cite
NPRM | 04/00/15 |
Final Action | 08/00/16 |

Regulatory Flexibility Analysis Required: Yes.

Small Entities Affected: Businesses, Organizations.

Government Levels Affected: Federal, Local, Tribal.

Agency Contact: Melissa R. Bailey, Director, Standards Division, Department of Agriculture, Agricultural Marketing Service, 14th & Independence Avenue SW., Room 2646-South Building, Washington, DC 20250, Phone: 202 720-3252, Fax: 202 205-7808, Email: melissa.bailey@usda.gov.

RIN: 0581-AD20

USDA—AMS

3. National Organic Program, Organic Apiculture Practices Standard, NOP-12-0063

Priority: Other Significant.

Legal Authority: 7 U.S.C. 6501.

CFR Citation: 7 CFR 205.

Legal Deadline: NPRM, Statutory, July 31, 2015.

This action proposes to amend the USDA organic regulations to reflect an October 2010 recommendation submitted to the Secretary by the National Organic Standards Board (NOSB) concerning the production of organic apicultural (i.e. beekeeping) products.

Abstract: This action proposes to amend the USDA organic regulations to reflect an October 2010 recommendation submitted to the Secretary by the National Organic Standards Board (NOSB) concerning the production of organic apicultural (i.e. beekeeping) products. Instead of continuing to allow certifying agents to certify apiculture to the organic livestock standards, this action would establish certification standards specifically for organic bees and bee products.

Statement of Need: This action is necessary to establish uniform standards for certification of organic apiculture operations. Currently, certifying agents adapt the organic livestock standards to certify organic apiaries. This action is necessary to distinguish apiculture as a unique production system that merits separate organic standards and would address practices that are not covered in the general organic livestock requirements. This action is needed to ensure consistency across certifying agents in the inspection and certification of apiculture operations.

Summary of Legal Basis: Bees are regarded as “nonplant life” under definitions in the current Organic Foods Production Act (OFPA) and implementing regulations. Based on these definitions, apicultural products (bees and bee products) may currently be certified under the livestock provisions of the USDA organic regulations (7 CFR part 205).

Alternatives: AMS is considering variations in the implementation period needed for any existing organic honey producers to comply with a new proposed forage zone requirement. The agency is also considering an alternative to align with Canadian and EU apiculture which require land within the forage zone to be “organically managed,” rather than certified as crop or wild crop.

Anticipated Cost and Benefits: Issuing standards for management of bees and bee products will benefit the industry by bringing greater consistency across certifiers. The introduction of formal standards will encourage new producers to enter the market and increase consumer confidence in apiculture products marketed under the USDA organic seal. In terms of costs, accredited certifying agents that currently certify apiculture operations as livestock would be required to request to extend the scope (current possible scopes of accreditation are crops, livestock, handling, and wild crop) of their accreditation to include apiculture. AMS is currently evaluating how the new rule would impact the costs to existing organic producers.

Risks: AMS does not expect controversy as a result of this action. One provision that AMS anticipates public comment on during rulemaking pertains to a 1.8 mile forage zone radius around bee hives. Under the proposed standard, this forage zone would need to be comprised of certified organic cropland and/or certified wild crop harvest area. This provision may limit new producers in some parts of the world from entering the market. However, there is widespread recognition of the proposed requirements among certified operations, as many certifiers have started using the 2010 NOSB recommendation as guidance for certification of apiculture operations.

Timetable:

Action | Date | FR Cite
NPRM | 07/00/15 |
Final Action | 12/00/16 |

Regulatory Flexibility Analysis Required: Yes.

Small Entities Affected: Businesses, Governmental Jurisdictions, Organizations.

Government Levels Affected: Federal, Local, State, Tribal.

Agency Contact: Melissa R. Bailey, Director, Standards Division, Department of Agriculture, Agricultural Marketing Service, 14th & Independence Avenue SW., Room 2646-South Building, Washington, DC 20250, Phone: 202 720-3252, Fax: 202 205-7808, Email: melissa.bailey@usda.gov

RIN: 0581-AD31

USDA—AMS

4. • National Organic Program—Organic Aquaculture Standards

Priority: Economically Significant. Major under 5 U.S.C. 801.

Unfunded Mandates: Undetermined.

Legal Authority: 7 U.S.C. 6501 to 6522

CFR Citation: 7 CFR 205.

Legal Deadline: NPRM, Statutory, February 28, 2015.

This action will establish standards for organic farmed aquatic animals and their products to allow U.S. producers to compete in the organic seafood market. The Organic Foods Production Act authorizes the NOP to regulate organic claims on fish used for food. The USDA organic regulations do not include organic aquaculture standards. This action will open the market for U.S. organic aquaculture production and ensure that organic aquatic animal products sold in the U.S. meet a consistent standard.

Abstract: This action proposes to establish standards for organic production and certification of farmed aquatic animals and their products in the USDA organic regulations. This action would also add aquatic animals as a scope of certification and accreditation under the National Organic Program. This action is necessary to establish standards for organic farmed aquatic animals and their products which would allow U.S. producers to compete in the organic seafood market. This action is also necessary to address multiple recommendations provided by USDA by the National Organic Standards Board (NOSB). In 2007 through 2009, the NOSB made five recommendations to establish standards for the certification of organic farmed aquatic animals and their products. Finally, the U.S. currently has organic standards equivalence arrangements with Canada and the European Union (EU). Both Canada and the EU have recently established standards for organic aquaculture products. Because the U.S. does not have organic aquaculture standards, the U.S. is unable to include aquaculture in the scope of these arrangements. Establishing U.S. organic aquaculture may provide a basis for expanding those trade partnerships.

Statement of Need: In 2005, The Secretary of Agriculture appointed an Aquaculture Working Group to advise the National Organic Standards Board (NOSB) on drafting a recommendation on the production of organic farmed aquatic animals. The NOSB considered the Aquaculture Working Group's draft recommendations and provided USDA with a series of five recommendations from 2007-2009 for technical standards for the production and certification of organic farmed aquatic animals. Based on the NOSB recommendations, this action proposed to establish standards for organic production and certification of farmed aquatic animals and their products in the USDA organic regulations. This action would also add aquatic animals as an area of certification and accreditation under NOP.

Summary of Legal Basis: The Agricultural Marketing Service (AMS) National Organic Program (NOP) is authorized by the Organic Foods Production Act of 1990 (OFPA) to establish national standards governing the marketing of organically produced agricultural products (7 U.S.C. 6501-6522). The USDA organic regulations set the requirements for the organic certification of agricultural products (7 CFR Part 205). Participation under the NOP is voluntary. However, if organic producers or handlers choose to sell, represent, or label more than $5,000 in organic products, certification under the USDA organic regulations is required.

Alternatives: An alternative to providing organic aquatic animal standards would be to not publish such standards and allow aquatic animal products to continue to be sold as organic based on private standards or other countries standards. Organic seafood producers have expressed a strong interest in having USDA organic standards for fish and other aquatic animal products. U.S. aquaculture operations are generally hesitant to invest in organic aquaculture without published standards for organic aquatic animals and their products. Selecting such an alternative could result in failure for this sector of organic agriculture to develop in the United States.

Anticipated Cost and Benefits: The cost for existing conventional aquaculture operations to convert and participate in this voluntary marketing program will generally be incurred in the cost of changing management practices, increased feed costs, and obtaining organic certification. There will also be some costs to certifying agents who would need to add aquaculture to their areas of accreditation under the USDA organic regulations. These costs include application fees and expanded audits to ensure certifying agents meet the accreditation requirements needed for providing certification services to aquaculture operations. Certification of organic operations under the NOP is provided as a user-fee service by AMS-accredited private sector certifying agents and State agencies. AMS provides accreditation services to private and State agency certifiers on a cost-recovery, user-fee basis. AMS will not require additional appropriated funds to implement this program. By providing organic standards for organic aquatic animal products, producers will be able to sell certified organic aquatic animal products for up to 75-100 percent above the price of conventionally produced seafood. In addition, organic aquatic animal products imported into the U.S. from other countries will be required to meet a consistent, enforced standard. Organic consumers will be assured that organic aquatic animal products comply with the USDA organic regulations. The new standards will also provide the basis for expanding our organic standards equivalency agreements to include this additional area of organic products.

Risks: There are no known risks to providing these additional standards for certification of organic products.

Timetable:

Action | Date | FR Cite
NPRM | 02/00/15 |
Final Action | 07/00/16 |

Regulatory Flexibility Analysis Required: Yes.

Small Entities Affected: Businesses, Organizations.

Government Levels Affected: Federal.

Federalism: This action may have federalism implications as defined in EO 13132.

Agency Contact: Melissa R. Bailey, Director, Standards Division, Department of Agriculture, Agricultural Marketing Service, 14th & Independence Avenue SW., Room 2646-South Building, Washington, DC 20250, Phone: 202 720-3252, Fax: 202 205-7808, Email: melissa.bailey@usda.gov.

RIN: 0581-AD34

USDA—AMS

5. • Exemption of Producers and Handlers of Organic Products From Assessment Under a Commodity Promotion Law

Priority: Other Significant.

Unfunded Mandates: Undetermined.

Legal Authority: 7 U.S.C. 7401; Pub. L. 113-79.

CFR Citation: 7 CFR 900.

Legal Deadline: NPRM, Statutory, November 30, 2014.

This action would amend the general regulations that apply to the 29 marketing orders for fruits, vegetables, and specialty crops and the orders and/or rules and regulations of the 22 research and promotion programs under AMS oversight.

Abstract: As a result of this action, certified “organic” commodities (those comprising at least 95 percent organic components) would no longer be subject to assessment for promotion activities conducted under marketing order or research and promotion programs. In addition, certified organic commodities that are produced, handled, marketed, or imported by operations that also deal in conventional products would be eligible for exemptions. Currently, only products that are certified “100 percent organic” and that are produced and handled by entities that deal exclusively with organic products are exempt from assessments. This action is expected to reduce the assessment obligation for organic industry operators by as much as $13.7 million. Conversely, the impact on the marketing programs will be a loss of approximately $13.7 million in funds for generic commodity promotions.

Statement of Need: Section 501 of the Federal Agriculture Improvement and Reform Act of 1996 (7 U.S.C. 7401) (FAIR Act), as amended, currently exempts entities that produce and market solely 100 percent organic products from payment of assessments under commodity promotion laws. Section 10004 of the Agricultural Act of 2014 (Pub. L. 113-79) (Farm Bill) further amended the FAIR Act to provide exemptions for all certified organic products, including those produced and handled by operators that also deal in conventional products. This action is needed to bring existing Federal regulations governing commodity promotion activities into compliance with the FAIR Act, as amended by the Farm Bill.

Summary of Legal Basis: Section 10004 of the Agricultural Act of 2014 (Pub. L. 113-79) (Farm Bill) further amended the FAIR Act to provide exemptions for all certified organic products, including those produced and handled by operators that also deal in conventional products. This action is needed to bring existing Federal regulations governing commodity promotion activities into compliance with the FAIR Act, as amended by the Farm Bill.

Alternatives: Currently, only products that are certified “100 percent organic” and that are produced and handled by entities that deal exclusively with organic products are exempt from assessments. So the alternative, would be to continue in this manner.

Anticipated Cost and Benefits: This action is expected to reduce the assessment obligation for organic industry operators by as much as $13.7 million.

Risks: Conversely, the impact on the marketing programs will be a loss of approximately $13.7 million in funds for generic commodity promotions.

Timetable:

Action | Date | FR Cite
NPRM | 11/00/14 |
Final Action | 07/00/15 |

Regulatory Flexibility Analysis Required: Yes.

Small Entities Affected: Governmental Jurisdictions.

Government Levels Affected: Undetermined.

Agency Contact: Michael V. Durando, Chief, Marketing Order Administration Branch, Department of Agriculture, Agricultural Marketing Service, 1400 Independence Avenue SW., STOP 0237, Washington, DC 20250-0237, Phone: 202 720-2491, Fax: 202 720-8938.

RIN: 0581-AD37

USDA—Farm Service Agency (FSA)

Final Rule Stage

6. Noninsured Crop Disaster Assistance Program

Priority: Other Significant.

Legal Authority: 7 U.S.C. 7333.

CFR Citation: 7 CFR 1437.

Legal Deadline: None.

Abstract: The Commodity Credit Corporation (CCC) is amending regulations for the Noninsured Crop Disaster Assistance Program (NAP). NAP is administered for CCC by the Farm Service Agency (FSA). NAP provides producers of crops that are not eligible for crop insurance with a basic level of risk management coverage. NAP provides financial assistance to producers of non-insurable crops when low yield, loss of inventory, or prevented plantings occur due to a natural disaster. The rule includes changes to NAP required by the 2014 Farm Bill. The changes include revised NAP eligibility requirements for coverage on tilled native sod, and added coverage for sweet sorghum and biomass sorghum. Beginning and socially disadvantaged farmers will be eligible for service fee waivers. New “buy up” provisions will allow producers to buy additional NAP coverage for an additional premium. While the rule does not have a statutory deadline, the 2014 Farm Bill requires changes to the NAP program beginning with the 2015 coverage year, which begins as early as May 2014. In addition to the 2014 Farm Bill changes, the rule also makes the following changes:

• Adds NAP coverage for organic crops.

• Expands NAP coverage for mollusks, a common aquaculture crop. Specifically, it removes the current requirement that eligible mollusk inventory be seeded and raised in containers or similar devices designed to protect the aquaculture species.

Statement of Need: This rule is needed to update the FSA regulations to implement the 2014 Farm Bill changes.

Summary of Legal Basis: The Agricultural Act of 2014 (Pub. L. 113-79).

Alternatives: There are no alternatives to this rule, the changes are legislatively mandated.

Anticipated Cost and Benefits: A cost benefit analysis was prepared for this rule and will be made available when the rule is published.

Risks: None.

Timetable:

Action | Date | FR Cite
Interim Final Rule | 12/00/14 |

Regulatory Flexibility Analysis Required: No.

Government Levels Affected: None.

URL For Public Comments: regulations.gov.

Agency Contact: Deirdre Holder, Director, Regulatory Review Group, Department of Agriculture, Farm Service Agency, 1400 Independence Avenue SW., Washington, DC 20250-0572, Phone: 202 205-5851, Fax: 202 720-5233, Email: deirdre.holder@wdc.usda.gov.

RIN: 0560-AI20

USDA—FSA

7. • Conservation Compliance

Priority: Other Significant.

Legal Authority: 7 U.S.C. 1501 et seq.; 16 U.S.C. 3811 and 3812; 16 U.S.C. 3821 and 3822.

CFR Citation: 7 CFR 12.

Legal Deadline: None.

Abstract: The interim rule implements mandatory changes to the conservation compliance regulations in 7 CFR part 12 as required by the Agricultural Act of 2014 (the 2014 Farm Bill). The current regulations require participants in most USDA programs to comply with conservation compliance measures on any land that is highly erodible or that is considered a wetland. The 2014 Farm Bill expands current conservation compliance requirements to apply to producers who obtain subsidized Federal crop insurance under the Federal Crop Insurance Act. It also slightly modifies the existing wetlands “Mitigation Banking” program to remove the requirement that USDA hold easements in the mitigation program.

Statement of Need: This rule is needed to update the FSA regulations to implement the 2014 Farm Bill changes.

Summary of Legal Basis: The Agricultural Act of 2014 (Pub. L. 113-79).

Alternatives: There are no alternatives to this rule; the changes are legislatively mandated.

Anticipated Cost and Benefits: A cost benefit analysis was prepared for this rule and will be made available when the rule is published.

Risks: None.

Timetable:

Action | Date | FR Cite
Interim Final Rule | 02/00/15 |

Regulatory Flexibility Analysis Required: No.

Small Entities Affected: Businesses.

Government Levels Affected: None.

URL For Public Comments: regulations.gov.

Agency Contact: Deirdre Holder, Director, Regulatory Review Group, Department of Agriculture, Farm Service Agency, 1400 Independence Avenue SW., Washington, DC 20250-0572, Phone: 202 205-5851, Fax: 202 720-5233, Email: deirdre.holder@wdc.usda.gov.

RIN: 0560-AI26

USDA—FSA

8. • Conservation Reserve Program (CRP)

Priority: Other Significant.

Legal Authority: 16 U.S.C. 3831 to 3835.

CFR Citation: 7 CFR 1410.

Legal Deadline: None.

Abstract: The rule implements changes to CRP required by the 2014 Farm Bill. CRP assists producers in conserving and improving soil, water, and wildlife resources by converting highly erodible and other environmentally sensitive acreage to a long-term vegetative cover. The core scope of CRP will not change. The changes required by the 2014 Farm Bill include providing an “early out” for contract cancellations in 2015, removing the requirement for a payment reduction for emergency haying and grazing, and allowing non-cropland (grasslands) in CRP. CRP is a Commodity Credit Corporation (CCC) program administered by the Farm Service Agency (FSA).

Statement of Need: This rule is needed to update the FSA regulations to implement the 2014 Farm Bill changes.

Summary of Legal Basis: The Agricultural Act of 2014 (Pub. L. 113-79).

Alternatives: There are no alternatives to the rule; the changes are legislatively mandated.

Anticipated Cost and Benefits: A cost-benefit analysis will be prepared for the rule and will be made available when the rule is published.

Risks: None.

Timetable:

Action | Date | FR Cite
Interim Final Rule | 04/00/15 |

Regulatory Flexibility Analysis Required: No.

Small Entities Affected: Businesses.

Government Levels Affected: None.

URL For Public Comments: regulations.gov.

Agency Contact: Deirdre Holder, Director, Regulatory Review Group, Department of Agriculture, Farm Service Agency, 1400 Independence Avenue SW., Washington, DC 20250-0572, Phone: 202 205-5851, Fax: 202 720-5233, Email: deirdre.holder@wdc.usda.gov.

RIN: 0560-AI30

USDA—Animal and Plant Health Inspection Service (APHIS)

Proposed Rule Stage

9. Brucellosis and Bovine Tuberculosis; Update of General Provisions

Priority: Other Significant.

Legal Authority: 7 U.S.C. 1622; 7 U.S.C. 8301 to 8317; 15 U.S.C. 1828; 21 U.S.C. 136 and 136a; 31 U.S.C. 9701.

CFR Citation: 9 CFR 50 and 51; 9 CFR 71; 9 CFR 76 to 78; 9 CFR 86; 9 CFR 93; 9 CFR 161.

Legal Deadline: None.

Abstract: This rulemaking would consolidate the regulations governing bovine tuberculosis (TB), currently found in 9 CFR part 77, and those governing brucellosis, currently found in 9 CFR part 78. As part of this consolidation, we are proposing to transition the TB and brucellosis programs away from a State status system based on disease prevalence. Instead, States and tribes would implement an animal health plan that identifies sources of the diseases within the State or tribe and specifies mitigations to address the risk posed by these sources. The consolidated regulations would also set forth standards for surveillance, epidemiological investigations, and affected herd management that must be incorporated into each animal health plan, with certain limited exceptions; conditions for the interstate movement of cattle, bison, and captive cervids; and conditions for APHIS approval of tests for bovine TB or brucellosis. Finally, the rulemaking would revise the import requirements for cattle and bison to make these requirements clearer and ensure that they more effectively mitigate the risk of introduction of the diseases into the United States.

Statement of Need: The current regulations were issued during a time when the prevalence rates for the disease in domestic, cattle, bison, and captive cervids were much higher than they are today. As a result, the regulations specify measures that are necessary to prevent these diseases from spreading through the interstate movement of infected animals. The regulations are effective in this regard, but do not address reservoirs of tuberculosis and brucellosis that exist in certain States. Moreover, the regulations presuppose one method of dealing with infected herds—whole-herd depopulation—and do not take into consideration the development of other methods, such as test-and-remove protocols, that are equally effective but less costly for APHIS and producers. Finally, our current regulations governing the importation of cattle and bison do not always address the risk that such animals may pose of spreading brucellosis or bovine tuberculosis, and need to be updated to allow APHIS to take appropriate measures when prevalence rates for bovine tuberculosis or brucellosis increase or decrease in foreign regions.

Summary of Legal Basis: Under the Animal Health Protection Act (7 U.S.C. 8301 et seq.), the Secretary of Agriculture has the authority to issue orders and promulgate regulations to prevent the introduction into the United States and the dissemination within the United States of any pest or disease of livestock.

Alternatives: One alternative would be to leave the current regulations unchanged. As noted above, the current regulations are effective in preventing the interstate movement of infected animals, but do not address reservoirs of brucellosis and tuberculosis that exist in certain States and thus do not address the root cause of such infection. They also are written in a prescriptive manner which does not allow States to take into consideration scientific developments and other emerging information in determining how best to deal with infected animals and herds. Finally, APHIS' current regulations governing the importation of cattle and bison do not always address the risk that such animals may pose of spreading bovine tuberculosis or brucellosis.

A second alternative considered was to limit the scope of the regulatory changes to the Agency's domestic tuberculosis and brucellosis program. However, in recent years, when tuberculosis-affected animals have been discovered at slaughtering facilities within the United States, these animals have usually been of foreign origin. This has led us to reexamine the current import regulations. As a result of this reevaluation, we have determined that the import regulations need to be revised to assure that they more effectively mitigate the risk of introduction of these diseases into the United States.

Anticipated Cost and Benefits: Certain additional costs may be incurred by producers as a result of this rule. For example, the proposed rule would impose new interstate movement restrictions on rodeo, event, and exhibited cattle and bison and impose additional costs for producers of such cattle and bison. These new testing requirements could cost, in aggregate, between $651,000 and $1 million. Also, the proposed additional restrictions for the movement of captive cervids could result in additional costs for producers. Adhering to these new requirements may have a total cost to the captive cervid industry of between about $157,000 and $485,000 annually. States and tribes would incur costs associated with this proposed rule, in particular in developing animal health plans for bovine tuberculosis and brucellosis. The proposed animal health plans for brucellosis and bovine tuberculosis would build significantly on existing operations with respect to these diseases. We anticipate that all 50 States and as many as 3 tribes would develop animal health plans. Based on our estimates of plan development costs, the total cost of the development of these 53 animal health plans could be between about $750,000 and $2.9 million. We expect that under current circumstances, four or five States are likely to develop recognized management area plans as proposed in this rule as part of their animal health plans. Based on our estimates of recognized management area plan development costs, the cost of developing recognized management area plans by these States could total between $56,000 and $274,000. While direct effects of this proposed rule for producers should be small, whether the entity affected is small or large, consolidation of the brucellosis and bovine tuberculosis regulations is expected to benefit the affected livestock industries. Disease management would be more focused, flexible and responsive, reducing the number of producers incurring costs when disease concerns arise in an area. Also, the competitiveness of the United States in international markets depends on its reputation for producing healthy animals. The proposed rule would enhance this reputation through its comprehensive approach to the control of identified reservoirs of bovine tuberculosis or brucellosis in wildlife populations in certain parts of the United States and more stringent import regulations consistent with domestic restrictions. We expect that the benefits would justify the costs.

Risks: If we do not issue this proposed rule, reservoirs of brucellosis and tuberculosis that exist in certain States will not be adequately evaluated and addressed. Additionally, our current regulations regarding the importation of cattle and bison do not always address the risk that such animals may pose of spreading brucellosis or bovine tuberculosis.

Timetable:

Action | Date | FR Cite
NPRM | 01/00/15 |
NPRM Comment Period End | 03/00/15 |

Regulatory Flexibility Analysis Required: Yes.

Small Entities Affected: Businesses, Governmental Jurisdictions.

Government Levels Affected: Local, State, Tribal.

Additional Information: Additional information about APHIS and its programs is available on the Internet at http://www.aphis.usda.gov.

Agency Contact: Langston Hull, National Center for Import and Export, VS, Department of Agriculture, Animal and Plant Health Inspection Service, 4700 River Road, Unit 39, Riverdale, MD 20737, Phone: 301 851-3300.

C. William Hench, Senior Staff Veterinarian, Ruminant Health Programs, National Center for Animal Health Programs, VS, Department of Agriculture, Animal and Plant Health Inspection Service, 2150 Centre Avenue, Building B-3E20, Ft. Collins, CO 80526, Phone: 970 494-7378.

RIN: 0579-AD65

USDA—APHIS

10. Establishing a Performance Standard for Authorizing the Importation and Interstate Movement of Fruits and Vegetables

Priority: Other Significant.

Legal Authority: 7 U.S.C. 450; 7 U.S.C. 7701 to 7772; 7 U.S.C. 7781 to 7786; 21 U.S.C. 136 and 136a.

CFR Citation: 7 CFR 318 and 319.

Legal Deadline: None.

Abstract: This rulemaking would amend our regulations governing the importations of fruits and vegetables by broadening our existing performance standard to provide for consideration of all new fruits and vegetables for importation into the United States using a notice-based process. Rather than authorizing new imports through proposed and final rules and specifying import conditions in the regulations, the notice-based process uses Federal Register notices to make risk analyses available to the public for review and comment, with authorized commodities and their conditions of entry subsequently being listed on the Internet. It would also remove the region- or commodity-specific phytosanitary requirements currently found in these regulations. Likewise, we are proposing an equivalent revision of the performance standard in our regulations governing the interstate movements of fruits and vegetables from Hawaii and the U.S. territories (Guam, Northern Mariana Islands, Puerto Rico, and the U.S. Virgin Islands) and the removal of commodity-specific phytosanitary requirements from those regulations. This proposal would allow for the consideration of requests to authorize the importation or interstate movement of new fruits and vegetables in a manner that enables a more flexible and responsive regulatory approach to evolving pest situations in both the United States and exporting countries. It would not, however, alter the science-based process in which the risk associated with importation or interstate movement of a given fruit or vegetable is evaluated or the manner in which risks associated with the importation or interstate movement of a fruit or vegetable are mitigated.

Statement of Need: The revised regulations are needed to streamline the administrative process involved in consideration of fruits and vegetables currently not authorized for interstate movement or importation, while continuing to provide opportunity for public comment and engagement on the science and risk-based analysis associated with such imports and interstate movements. The proposal would also enable us to adapt our import requirements more quickly in the event of any changes to a country's pest or disease status or as a result of new scientific information or treatment options.

Summary of Legal Basis: Under section 7701 of the Plant Protection Act (PPA), given that the smooth movement of enterable plants and plant products into, out of, or within the United States is vital to the U.S. economy, it is the responsibility of the Secretary of Agriculture to facilitate exports, imports, and interstate commerce in agricultural products and other commodities that pose a risk of harboring plant pests or noxious weeds in ways that will reduce, to the extent practicable, as determined by the Secretary, the risk of dissemination of plant pests or noxious weeds. Decisions regarding exports, imports, and interstate commerce are required to be based on sound science.

Alternatives: We considered taking no action at this time and leaving the regulations as they are currently written. We decided against this alternative because leaving the regulations unchanged would not address the needs identified immediately above.

Anticipated Cost and Benefits: Consumers and businesses would benefit from the more timely access to fruits and vegetables for which entry or movement would currently require rulemaking. This benefit would be reduced to the extent that certain businesses would face increased competition for the subject fruits and vegetables sooner due to their more timely approval. APHIS has not identified other costs that may be incurred because of the proposed rule.

Risks: The performance-based process more closely links APHIS' decision to authorize importation of a fruit or vegetable with the pest risk assessment and brings us in line with other countries that authorize importation of a fruit or vegetable with the pest risk assessment. Some countries have viewed the rulemakings for fruits and vegetables that follow completion of the pest risk assessment as a non-technical trade barrier and may have slowed the approval of U.S. exports (including, but not limited to, fruits and vegetables) into their markets, or placed additional restrictions on existing exports from the United States.

Timetable:

Action | Date | FR Cite
NPRM | 09/09/14 | 79 FR 53346
NPRM Comment Period End | 11/10/14 |
Final Rule | 04/00/15 |

Regulatory Flexibility Analysis Required: Yes.

Small Entities Affected: Businesses.

Government Levels Affected: Federal.

International Impacts: This regulatory action will be likely to have international trade and investment effects, or otherwise be of international interest.

Additional Information: Additional information about APHIS and its programs is available on the Internet at http://www.aphis.usda.gov.

Agency Contact: Matthew Rhoads, Associate Executive Director, Plant Health Programs, PPQ, Department of Agriculture, Animal and Plant Health Inspection Service, 4700 River Road, Unit 131, Riverdale, MD 20737-1231, Phone: 301 851-2133.

RIN: 0579-AD71

USDA—APHIS

Final Rule Stage

11. Viruses, Serums, Toxins, and Analogous Products; Single Label Claim for Veterinary Biological Products

Priority: Other Significant.

Legal Authority: 21 U.S.C. 151 to 159

CFR Citation: 9 CFR 112.

Legal Deadline: None.

Abstract: This rulemaking will amend the Virus-Serum-Toxin Act regulations to replace the current label format, which reflects any of four different levels of effectiveness, with a single, uniform label format. It will also require biologics licensees to provide a standardized summary, with confidential business information removed, of the efficacy and safety data submitted to the Animal and Plant Health Inspection Service in support of the issuance of a full product license or conditional license. A single label format along with publicly available safety and efficacy data will help biologics producers to more clearly communicate product performance to their customers.

Statement of Need: The intent of this proposal is to address a request made by our stakeholders and to more clearly communicate product performance information to the user by requiring a uniform label format and a summary of efficacy and safety data (with confidential business information removed).

Summary of Legal Basis: APHIS administers and enforces the Virus-Serum-Toxin Act, as amended (21 U.S.C. 151 to 159). The regulations issued pursuant to the Act are intended to ensure that veterinary biological products are pure, safe, potent, and efficacious when used according to label instructions.

Alternatives: We could retain the current APHIS labeling guidance, but maintaining the status quo would not address the concern reported by stakeholders concerning the interpretation of product performance.

Anticipated Cost and Benefits: APHIS anticipates that the only costs associated with the proposed labeling format would be one-time costs incurred by licensees and permittees in having labels for existing licensed products updated in accordance with the proposed new format. A simpler, uniform label format would allow biologics licensees and permittees to more clearly communicate product performance information to the end user. In addition, the rule would simplify the evaluation of efficacy studies and reduce the amount of time required by APHIS to evaluate study data, thus allowing manufacturers to market their products sooner.

Risks: APHIS has not identified any risks associated with this proposed action.

Timetable:

Action | Date | FR Cite
Notice | 05/24/11 | 76 FR 30093
Comment Period End | 07/25/11 |
NPRM | 04/21/14 | 79 FR 22048
NPRM Comment Period End | 06/20/14 |
Final Action | 05/00/15 |

Regulatory Flexibility Analysis Required: Undetermined.

Small Entities Affected: Businesses.

Government Levels Affected: None.

Additional Information: Additional information about APHIS and its programs is available on the Internet at http://www.aphis.usda.gov.

Agency Contact: Donna L Malloy, Operational Support Section, Center for Veterinary Biologics, Policy, Evaluation, and Licensing, VS, Department of Agriculture, Animal and Plant Health Inspection Service, 4700 River Road, Unit 148, Riverdale, MD 20737-1231, Phone: 301 851-3426.

RIN: 0579-AD64

USDA—APHIS

12. User Fees for Agricultural Quarantine and Inspection Services

Priority: Economically Significant. Major under 5 U.S.C. 801.

Legal Authority: 7 U.S.C. 7701 to 7772; 7 U.S.C. 7781 to 7786; 7 U.S.C. 8301 to 8317; 21 U.S.C. 136 and 136a; 49 U.S.C. 80503

CFR Citation: 7 CFR 354.

Legal Deadline: None.

Abstract: This rulemaking will amend the user fee regulations by adding new fee categories and adjusting current fees charged for certain agricultural quarantine and inspection services that are provided in connection with certain commercial vessels, commercial trucks, commercial railroad cars, commercial aircraft, and international passengers arriving at ports in the customs territory of the United States. It will also adjust the fee caps associated with commercial vessels, commercial trucks, and commercial railcars. Based on the conclusions of a third party assessment of the user fee program and on other considerations, we have determined that revised user fee categories and revised user fees are necessary to recover the costs of the current level of activity, to account for actual and projected increases in the cost of doing business, and to more accurately align fees with the costs associated with each fee service.

Statement of Need: Regarding certain agricultural quarantine and inspection services that are provided in connection with certain commercial vessels, commercial trucks, commercial railroad cars, commercial aircraft, and international passengers arriving at ports in the customs territory of the United States, we have determined that revised user fee categories and revised user fees are necessary to recover the costs of the current level of activity, to account for actual and projected increases in the cost of doing business, and to more accurately align fees with the costs associated with each fee service.

Summary of Legal Basis: Section 2509(a) of the Food, Agriculture, Conservation, and Trade (FACT) Act of 1990 (21 U.S.C. 136a) authorizes APHIS to collect user fees for certain agricultural quarantine and inspection (AQI) services. The FACT Act was amended on April 4, 1996, and May 13, 2002. The FACT Act, as amended, authorizes APHIS to collect user fees for AQI services provided in connection with the arrival, at a port in the customs territory of the United States, of commercial vessels, commercial trucks, commercial railroad cars, commercial aircraft, and international passengers. According to the FACT Act, as amended, these user fees should recover the costs of:

• Providing the AQI services for the conveyances and the passengers listed above;

• Providing preclearance or preinspection at a site outside the customs territory of the United States to international passengers, commercial vessels, commercial trucks, commercial railroad cars, and commercial aircraft;

• Administering the user fee program; and

• Maintaining a reasonable reserve.

In addition, the FACT Act, as amended, contains the following requirement:

• The fees should be commensurate with the costs with respect to the class of persons or entities paying the fees. This is intended to avoid cross-subsidization of AQI services.

Alternatives: APHIS focused on three alternatives composed of different combinations of paying classes. The first or preferred alternative is the proposed rule; the second alternative differed from the first by not including user fees for recipients of AQI treatment services; and under the third alternative, recipients of commodity import permits and pest import permits would pay user fees, in addition to the classes that would pay fees under the proposed rule. The latter two alternatives were rejected.

Anticipated Cost and Benefits: The proposed changes in user fees would ensure that the program can continue to protect America's agricultural industries and natural resource base against invasive species and diseases while more closely aligning, by class, the cost of AQI services provided and user fee revenue received.

Risks: AQI services benefit U.S. agricultural and natural resources by protecting them from the inadvertent introduction of foreign pests and diseases that may enter the country and the threat of intentional introduction of pests or pathogens as a means of agroterrorism. In the extreme, failure to maintain the nation's biosecurity could disrupt American agricultural production, erode confidence in the U.S. food supply, and destabilize the U.S. economy.

Timetable:

Action | Date | FR Cite
NPRM | 04/25/14 | 79 FR 22895
NPRM Comment Period End | 06/24/14 |
NPRM Comment Period Reopened | 07/01/14 | 79 FR 37231
NPRM Comment Period Reopened End | 07/24/14 |
Final Rule | 12/00/14 |

Regulatory Flexibility Analysis Required: Undetermined.

Small Entities Affected: Businesses.

Government Levels Affected: Federal.

International Impacts: This regulatory action will be likely to have international trade and investment effects, or otherwise be of international interest.

Additional Information: Additional information about APHIS and its programs is available on the Internet at http://www.aphis.usda.gov.

Agency Contact: William E Thomas, Senior Agriculturist, Office of the Deputy Administrator, PPQ, Department of Agriculture, Animal and Plant Health Inspection Service, 4700 River Road, Unit 130, Riverdale, MD 20737, Phone: 301 851-2306.

Kris Caraher, Branch Chief, Review and Analysis, Financial Management Division, MRPBS, Department of Agriculture, Animal and Plant Health Inspection Service, 4700 River Road, Unit 55, Riverdale, MD 20737, Phone: 301 851-2834.

RIN: 0579-AD77

USDA—FOOD AND NUTRITION SERVICE (FNS)

Proposed Rule Stage

13. Emergency Supplemental Nutrition Assistance for Victims of Disasters Procedures

Priority: Other Significant.

Legal Authority: Food and Nutrition Act of 2008

CFR Citation: 7 CFR 280.

Legal Deadline: None.

Abstract: The Food and Nutrition Act of 2008 (FNA) provides authority for the Secretary of Agriculture to establish temporary emergency standards of eligibility for the duration of an emergency for households who are victims of a disaster that disrupts commercial channels of food distribution. FNS plans to publish a Proposed Rule for D-SNAP that will codify longstanding policies disseminated through previous guidance.

Statement of Need: A 2007 Office of Inspector General (OIG) report (Audit 27099-49-Te: Disaster Food Stamp Program for Hurricanes Katrina and Rita—Louisiana, Mississippi, and Texas—Final Report) found some deficits in the design and review of State D-SNAP plans of operation and inadequate controls to prevent recipient fraud and duplicate participation. OIG attributed the deficits, in part, to a lack of detailed procedures in regulations and, in response, recommended that FNS amend D-SNAP policy on those specific topics and promulgate D-SNAP regulations.

Summary of Legal Basis: The Food and Nutrition Act of 2008 (FNA) provides authority for the Secretary of Agriculture to establish temporary emergency standards of eligibility for the duration of an emergency for households who are victims of a disaster which disrupts commercial channels of food distribution.

Alternatives: None identified; this Proposed Rule primarily will codify long-standing D-SNAP procedures.

Anticipated Cost and Benefits: As the Proposed Rule primarily will codify longstanding D-SNAP procedures, FNS anticipates that this rule will not result in any significant costs.

Risks: No risks are anticipated as the proposed rule will codify longstanding procedures.

Timetable:

Action | Date | FR Cite
NPRM | 03/00/15 |
NPRM Comment Period End | 05/00/15 |

Regulatory Flexibility Analysis Required: No.

Government Levels Affected: Local, State.

Agency Contact: Charles H. Watford, Regulatory Review Specialist, Department of Agriculture, Food and Nutrition Service, 3101 Park Center Drive, Alexandria, VA 22302, Phone: 703 605-0800, Email: charles.watford@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AE00

USDA—FNS

14. Child Nutrition Program Integrity

Priority: Other Significant.

Legal Authority: Pub. L. 111-296.

CFR Citation: 7 CFR 210; 7 CFR 215; 7 CFR 220; 7 CFR 225; 7 CFR 226; 7 CFR 235.

Legal Deadline: None.

Abstract: This rule proposes to codify three provisions of the Healthy, Hunger-Free Kids Act of 2010 (the Act). Section 303 of the Act requires the Secretary to establish criteria for imposing fines against schools, school food authorities, or State agencies that fail to correct severe mismanagement of the program, fail to correct repeat violations of program requirements, or disregard a program requirement of which they had been informed. Section 322 of the Act requires the Secretary to establish procedures for the termination and disqualification of organizations participating in the Summer Food Service Program (SFSP). Section 362 of the Act requires that any school, institution, service institution, facility, or individual that has been terminated from any program authorized under the Richard B. Russell National School Lunch Act or the Child Nutrition Act of 1966, and appears on either the SFSP or the Child and Adult Care Food Program's (CACFP's) disqualified list, may not be approved to participate in or administer any other programs authorized under those two Acts.

Statement of Need: There are currently no regulations imposing fines on schools, school food authorities, or State agencies for program violations and mismanagement. This rule will: (1) Establish criteria for imposing fines against schools, school food authorities, or State agencies that fail to correct severe mismanagement of the program or repeated violations of program requirements; (2) establish procedures for the termination and disqualification of organizations participating in the Summer Food Service Program (SFSP); and (3) require that any school, institutions, or individual that has been terminated from any Federal Child Nutrition Program and appears on either the SFSP or the Child and Adult Care Food Program's (CACFP's) disqualified list may not be approved to participate in or administer any other Child Nutrition Program.

Summary of Legal Basis: This rule codifies Sections 303, 322, and 362 of the Healthy, Hunger-Free Kids Act of 2010 (Pub. L. 111-296).

Alternatives: None identified; this rule implements statutory requirements.

Anticipated Cost and Benefits: This rule is expected to help promote program integrity in all of the child nutrition programs. FNS anticipates that these provisions will have no significant costs and no major increase in regulatory burden to States.

Risks: None identified.

Timetable:

Action | Date | FR Cite
NPRM | 01/00/15 |
NPRM Comment Period End | 03/00/15 |

Regulatory Flexibility Analysis Required: No.

Government Levels Affected: Local, State.

Federalism: This action may have federalism implications as defined in EO 13132.

Agency Contact: James F Herbert, Regulatory Review Specialist, Department of Agriculture, Food and Nutrition Service, 3101 Park Center Drive, Alexandria, VA 22302, Phone: 703 305-2572, Email: james.herbert@fns.usda.gov.

Lynnette M Thomas, Chief, Planning and Regulatory Affairs Branch, Department of Agriculture, Food and Nutrition Service, 3101 Park Center Drive, Alexandria, VA 22302, Phone: 703 605-4782, Email: lynnette.thomas@fns.usda.gov.

RIN: 0584-AE08

USDA—FNS

15. Child and Adult Care Food Program: Meal Pattern Revisions Related to the Healthy, Hunger-Free Kids Act of 2010

Priority: Other Significant.

Legal Authority: Pub. L. 111-296

CFR Citation: 7 CFR 210; 7 CFR 215; 7 CFR 220; 7 CFR 226.

Legal Deadline: None.

Abstract: This proposal would implement section 221 of the Healthy, Hunger-Free Kids Act of 2010 (Pub. L. 111-296; the Act) which requires USDA to review and update, no less frequently than once every 10 years, requirements for meals served under the Child and Adult Care Food Program (CACFP) to ensure that meals are consistent with the most recent Dietary Guidelines for Americans and relevant nutrition science.

Statement of Need: Section 221 of the Healthy, Hunger-Free Kids Act of 2010 (Pub. L. 111-296, the Act) requires USDA to review and update, no less frequently than once every 10 years, requirements for meals served under the Child and Adult Care Food Program (CACFP) to ensure that meals are consistent with the most recent Dietary Guidelines for Americans and relevant nutrition science. The Act also clarifies the purpose of the program, restricts the use of food as a punishment or reward, outlines requirements for milk and milk substitution, and introduces requirements for the availability of water. This rule will establish the criteria and procedures for implementing these provisions of the Act.

Summary of Legal Basis: Section 221 of the Healthy, Hunger-Free Kids Act of 2010 (Pub. L. 111-296).

Alternatives: There are several instances throughout this rule and its associated Regulatory Impact Analysis that offer alternatives for review and comment to the various criteria and procedures discussed in this proposed rule.

Anticipated Cost and Benefits: This rule is expected to improve the nutritional quality of meals served and the overall health of children participating in the CACFP. Most CACFP meals are served to children from low-income households. At this time, we cannot estimate the financial impact the proposed rule will have on State agencies, sponsoring organizations, and child care institutions, but we expect that there will be a small cost increase associated with the implementation of improved meal pattern requirements. A regulatory impact analysis will be conducted to determine these cost implications.

Risks: None identified.

Timetable:

Action | Date | FR Cite
NPRM | 11/00/14 |
NPRM Comment Period End | 01/00/15 |

Regulatory Flexibility Analysis Required: Yes.

Small Entities Affected: Governmental Jurisdictions.

Government Levels Affected: Local, State.

Agency Contact: James F. Herbert, Regulatory Review Specialist, Department of Agriculture, Food and Nutrition Service, 3101 Park Center Drive, Alexandria, VA 22302, Phone: 703 305-2572, Email: james.herbert@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AE18

USDA—FNS

16. Enhancing Retailer Eligibility Standards In SNAP

Priority: Other Significant.

Legal Authority: Sec 3, U.S.C. 2012; sec 9, U.S.C. 2018

CFR Citation: 7 CFR 271.2; 7 CFR 278.1.

Legal Deadline: None.

Abstract: This rulemaking will address the criteria used to authorize redemption of SNAP benefits (especially by restaurant-type operations).

Statement of Need: The 2014 Farm Bill amended the Food and Nutrition Act of 2008 to increase the requirement that certain SNAP authorized retail food stores have available on a continual basis at least three varieties of items in each of four staple food categories to a mandatory minimum of seven. The 2014 Farm Bill also amended the Act to increase for certain SNAP authorized retail food stores the minimum number of categories in which perishable foods are required from two to three. This rule would codify these mandatory requirements. Further, using existing authority in the Act and feedback from an expansive Request for Information, the rulemaking also proposes changes to address depth of stock, redefine staple and accessory foods, and amend the definition of retail food store to clarify when a retailer is a restaurant rather than a retail food store.

Summary of Legal Basis: Section 3(k) of the Food and Nutrition Act of 2008 (the Act) generally (with limited exception) (1) requires that food purchased with SNAP benefits be meant for home consumption and (2) forbids the purchase of hot foods with SNAP benefits. The intent of those statutory requirements can be circumvented by selling cold foods, which may be purchased with SNAP benefits, and offering onsite heating or cooking of those same foods, either for free or at an additional cost. In addition, Section 9 of the Act provides for approval of retail food stores and wholesale food concerns based on their ability to effectuate the purposes of the Program.

Alternatives: Because this proposed rule is under development, alternatives are not yet articulated.

Anticipated Cost and Benefits: The proposed changes will allow FNS to improve access to healthy food choices for SNAP participants and to ensure that participating retailers effectuate the purposes of the Program. FNS anticipates that these provisions will have no significant costs to States.

Risks: None identified.

Timetable:

Action | Date | FR Cite
NPRM | 08/00/15 |

Regulatory Flexibility Analysis Required: No.

Government Levels Affected: State.

Agency Contact: Charles H. Watford, Regulatory Review Specialist, Department of Agriculture, Food and Nutrition Service, 3101 Park Center Drive, Alexandria, VA 22302, Phone: 703 605-0800, Email: charles.watford@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AE27

USDA—FNS

Final Rule Stage

17. Supplemental Nutrition Assistance Program: Farm Bill of 2008 Retailer Sanctions

Priority: Economically Significant. Major under 5 U.S.C. 801.

Legal Authority: Pub. L. 110-246

CFR Citation: 7 CFR 276.

Legal Deadline: None.

Abstract: This final rule would implement provisions under section 4132 of the Food, Conservation, and Energy Act of 2008, giving the Department of Agriculture's Food and Nutrition Service (FNS) the authority to assess a civil penalty and to disqualify a retail or wholesale food store authorized to participate in SNAP.

Statement of Need: This final rule implements the provisions of the 2008 Farm Bill that provide the U.S. Department of Agriculture greater flexibility in assessing sanctions against retail food stores and wholesale food concerns found in violation of the Supplemental Nutrition Assistance Program rules. This rule updates SNAP retailer sanction regulations to include authority granted in the 2008 Farm Bill to allow the Food and Nutrition Service (FNS) to impose a civil penalty in addition to disqualification, raise the allowable penalties per violation and provide greater flexibility to the Department for minor violations.

Summary of Legal Basis: Section 4132, Food, Conservation, and Energy Act of 2008 (Pub. L. 110-246).

Alternatives: For the new trafficking civil penalty, FNS considered alternatives for assessing a civil penalty in addition to permanent disqualification for stores sanctioned for trafficking.

Anticipated Cost and Benefits: The changes to the retailer sanction regulations will improve program integrity by increasing the deterrent effect of sanctions on the small number of authorized firms that commit program violations.

Risks: The risk that retail or wholesale food stores will violate SNAP rules, or continue to violate SNAP rules, is expected to be reduced by refining program sanctions for participating retailers and wholesalers.

Timetable:

Action | Date | FR Cite
NPRM | 08/14/12 | 77 FR 48461
NPRM Comment Period End | 10/15/12 |
Final Action | 01/00/15 |

Regulatory Flexibility Analysis Required: No.

Government Levels Affected: State.

Additional Information: Note: This RIN replaces the previously issued RIN 0584-AD78.

Agency Contact: Charles H. Watford, Regulatory Review Specialist, Department of Agriculture, Food and Nutrition Service, 3101 Park Center Drive, Alexandria, VA 22302, Phone: 703 605-0800, Email: charles.watford@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AD88

USDA—FNS

18. Child Nutrition Programs: Local School Wellness Policy Implementation Under the Healthy, Hunger-Free Kids Act of 2010

Priority: Other Significant.

Legal Authority: Pub. L. 111-296

CFR Citation: 7 CFR 210; 7 CFR 220.

Legal Deadline: None.

Abstract: This final rule codifies a provision of the Healthy, Hunger-Free Kids Act (Pub. L. 111-296; the Act) under 7 CFR parts 210 and 220. Section 204 of the Act requires each local educational agency (LEA) to establish, for all schools under its jurisdiction, a local school wellness policy. The Act requires that the wellness policy include goals for nutrition, nutrition education, physical activity, and other school-based activities that promote student wellness. In addition, the Act requires that local educational agencies ensure stakeholder participation in development of their local school wellness policies, and periodically assess compliance with the policies, and disclose information about the policies to the public.

Statement of Need: Schools play a critical role in promoting student health, preventing childhood obesity, and combating problems associated with poor nutrition and physical inactivity. To formalize and encourage this role, section 204 of the Child Nutrition and WIC Reauthorization Act of 2004 (Pub. L. 108-265), required each local educational agency (LEA) participating in the National School Lunch Program (NSLP) and/or the School Breakfast Program (SBP) to establish a local school wellness policy by School Year 2006. Subsequently, section 204 of the Healthy, Hunger-Free Kids Act of 2010 (HHFKA, Pub. L. 111-296, December 13, 2010) added a new section 9A to the Richard B. Russell National School Lunch Act (NSLA) (42 U.S.C. 1758b) which expands the scope of wellness policies; brings additional stakeholders into the development, implementation, and review of local school wellness policies; and requires public updates on the content and implementation of the wellness policies.

Summary of Legal Basis: Section 204 of the Child Nutrition and WIC Reauthorization Act of 2004 (Pub. L. 108-265); Section 204 of the Healthy, Hunger-Free Kids Act of 2010 (HHFKA, Pub. L. 111-296).

Alternatives: Alternatives to some of the policy provisions were outlined in the proposed rule and will be discussed in the final rule.

Anticipated Cost and Benefits: The rule strengthens local school wellness policy requirements. As described in the Regulatory Impact Analysis, we expect this to improve health outcomes for students, though we are not able to quantify these benefits. Minimal administrative expenses are estimated in relation to additional reporting and recordkeeping requirements.

Risks: None identified.

Timetable:

Action | Date | FR Cite
NPRM | 02/26/14 | 79 FR 10693
NPRM Comment Period End | 04/28/14 |
Final Action | 04/00/15 |

Regulatory Flexibility Analysis Required:: Yes.

Small Entities Affected: Governmental Jurisdictions.

Government Levels Affected: Local, State.

Agency Contact: James F. Herbert, Regulatory Review Specialist, Department of Agriculture, Food and Nutrition Service, 3101 Park Center Drive, Alexandria, VA 22302, Phone: 703 305-2572, Email: james.herbert@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AE25

USDA—FNS

19. • SNAP: Employment and Training (E&T) Performance Measurement, Monitoring and Reporting Requirements

Priority: Other Significant.

Legal Authority: Pub. L. 113-79

CFR Citation: 7 CFR 273.

Legal Deadline: None.

Abstract: This rule will implement the E&T provisions of section 4022 of The Agricultural Act of 2014. The provisions of the Agricultural Act of 2014 require reporting measures for States' E&T programs.

Statement of Need: Section 4022 of Agricultural Act of 2014 states that “Not later than 18 months after the date of enactment of this Act, the Secretary shall issue interim final regulations implementing the amendments made by subsection (a)(2).” This interim rule will address the amendments in subsection (a)(2). This rule will also address the USDA Office of Inspector General (OIG) audit entitled “Food Stamp Employment and Training Program” (OIG #27601-16-AT), released March 31, 2008, that recommended FNS establish performance measures for the SNAP E&T Program. This rule will bring closure to that audit recommendation.

Summary of Legal Basis: Section 4022 of Agricultural Act of 2014.

Alternatives: Alternatives will be identified in the interim final rule.

Anticipated Cost and Benefits: Costs and Benefits will be identified in the interim final rule.

Risks: Risks, if applicable, will be identified in the interim final rule.

Timetable:

Action | Date | FR Cite
Interim Final Rule | 04/00/15 |

Regulatory Flexibility Analysis Required: No.

Government Levels Affected: Local, State.

Agency Contact: Charles H. Watford, Regulatory Review Specialist, Department of Agriculture, Food and Nutrition Service, 3101 Park Center Drive, Alexandria, VA 22302, Phone: 703 605-0800, Email: charles.watford@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AE33

USDA—Food Safety and Inspection Service (FSIS)

Proposed Rule Stage

20. Requirements for the Disposition of Non-Ambulatory Disabled Veal Calves

Priority: Other Significant. Major status under 5 U.S.C. 801 is undetermined.

Legal Authority: Federal Meat Inspection Act (21 U.S.C. 601 et seq.)

CFR Citation: 9 CFR 309.

Legal Deadline: None.

Abstract: FSIS is proposing to amend the ante-mortem inspection regulations to remove a provision that permits establishments to set apart and hold for treatment veal calves that are unable to rise from a recumbent position and walk because they are tired or cold (9 CFR 309.13(b)). The regulations permit such calves to proceed to slaughter if they are able to rise and walk after being warmed or rested. FSIS is proposing to require that non-ambulatory disabled (NAD) veal calves that are offered for slaughter be condemned and promptly euthanized. The existing regulations require that NAD mature cattle be condemned on ante-mortem inspection and that they be promptly euthanized (9 CFR 309.3(e)). FSIS believes that prohibiting the slaughter of all NAD veal calves would improve compliance with the Humane Methods of Slaughter Act of 1978 (HMSA), and the humane slaughter implementing regulations. It would also improve the Agency's inspection efficiency by eliminating the time that FSIS inspection program personnel (IPP) spend assessing and supervising the treatment of NAD veal calves.

Statement of Need: Removing the provision from 9 CFR 309.13(b) would eliminate uncertainty as to what is to be done with veal calves that are non-ambulatory disabled because they are tired or cold, or because they are injured or sick, thereby ensuring the appropriate disposition of these animals. In addition, removing the provision in 9 CFR 309.13(b) would improve inspection efficiency by eliminating the time that FSIS IPP spend assessing the treatment of non-ambulatory disabled veal calves.

Summary of Legal Basis: 21 U.S.C. 603 (a) and (b).

Alternatives: The Agency considered two alternatives to the proposed amendment: The status quo and prohibiting the slaughter of non-ambulatory disabled “bob veal,” which are calves generally less than one week old.

Anticipated Cost and Benefits: If the proposed rule is adopted, non-ambulatory disabled veal calves will not be re-inspected during ante-mortem inspection. The veal calves that are condemned during ante-mortem inspection will be euthanized. The estimated annual cost to the veal industry would range between $2,368 and $161,405.

The expected benefits of this proposed rule are not quantifiable. However, the proposed rule will ensure the humane disposition of the non-ambulatory disabled veal calves. It will also increase the efficiency and effective implementation of inspection and humane handling requirements at official establishments.

Risks: None.

Timetable:

Action | Date | FR Cite
NPRM | 04/00/15 |

Regulatory Flexibility Analysis Required: No.

Government Levels Affected: None.

Agency Contact: Dr. Daniel L. Engeljohn, Assistant Administrator, Office of Policy and Program Development, Department of Agriculture, Food Safety and Inspection Service, 1400 Independence Avenue SW, 349-E JWB, Washington, DC 20250, Phone: 202 205-0495, Fax: 202 720-2025, Email: daniel.engeljohn@fsis.usda.gov.

RIN: 0583-AD54

USDA—FSIS

Final Rule Stage

21. Mandatory Inspection of Fish of the Order Siluriformes and Products Derived From Such Fish

Priority: Economically Significant. Major under 5 U.S.C. 801.

Legal Authority: Federal Meat Inspection Act (FMIA) (21 U.S.C. 601 to 695); Pub. L. 110-246, sec 11016; Pub. L. 113-79, sec 12106

CFR Citation: 9 CFR ch III, subchapter F (new).

Legal Deadline: Final, Statutory, Final Regulations not later than 60 days after enactment of the Agricultural Act of 2014 (Pub. L. 113-79). The Agriculture Act of 2014 directs the Department to publish final regulations not later than 60 days after the date of enactment.

Abstract: The 2008 Farm Bill (Pub. L. 110-246, sec. 11016), amended the Federal Meat Inspection Act (FMIA) to make “catfish” a species amenable to the FMIA and, therefore, subject to FSIS inspection. In addition, the 2008 Farm Bill gave FSIS the authority to define the term “catfish.” On February 24, 2011, FSIS published a proposed rule that outlined a mandatory catfish inspection program and presented two options for defining “catfish.” The 2014 Farm Bill (Pub. L. 113-79, sec. 12106), amended the FMIA to remove the term “catfish” and to make “all fish of the order Siluriformes” subject to FSIS jurisdiction and inspection. As a result, FSIS inspection of Siluriformes is mandated by law and non-discretionary.

Statement of Need: The 2008 and 2014 Farm Bills amended the Federal Meat Inspection Act, making all fish of the order Siluriformes amenable species to the FMIA, requiring FSIS inspection.

Summary of Legal Basis: 21 U.S.C. 601 to 695, Public Law 110-246, section 11016, Public Law 113-79, section 12106.

Alternatives: The option of no rulemaking is unavailable.

Anticipated Cost and Benefits: FSIS anticipates benefits from uniform standards and the more extensive and intensive inspection service it will provide. The requirements for imported Siluriformes will be equivalent to those applied to domestically raised and processed fish of this type.

Risks: In the final rule, the Agency will consider any risks to public health or other pertinent risks associated with the production, processing, and distribution of catfish and catfish products.

Timetable:

Action | Date | FR Cite
NPRM | 02/24/11 | 76 FR 10434
NPRM Comment Period End | 06/24/11 |
Final Action | 12/00/14 |

Regulatory Flexibility Analysis Required: Yes.

Small Entities Affected: Businesses.

Government Levels Affected: None.

International Impacts: This regulatory action will be likely to have international trade and investment effects, or otherwise be of international interest.

Agency Contact: Dr. Daniel L. Engeljohn, Assistant Administrator, Office of Policy and Program Development, Department of Agriculture, Food Safety and Inspection Service, 1400 Independence Avenue SW, 349-E JWB, Washington, DC 20250, Phone: 202 205-0495, Fax: 202 720-2025, Email: daniel.engeljohn@fsis.usda.gov.

RIN: 0583-AD36

USDA—FSIS

22. Electronic Export Application and Certification as a Reimbursable Service and Flexibility in the Requirements for Official Export Inspection Marks, Devices, and Certificates

Priority: Other Significant.

Legal Authority: Federal Meat Inspection Act (FMIA) (21 U.S.C. 601 to 695); Poultry Products Inspection Act (PPIA) (21 U.S.C. 451 to 470); Egg Products Inspection Act (EPIA) (21 U.S.C. 1031 to 1056); Agricultural Marketing Act (AMA) (7 U.S.C. 1622(h)

CFR Citation: 9 CFR 312.8; 9 CFR 322.1 and 322.2; 9 CFR 350.7; 9 CFR 362.5; 9 CFR 381.104 to 381.106; 9 CFR 590.407; 9 CFR 592.20 and 592.500.

Legal Deadline: None.

Abstract: FSIS is developing final regulations to amend the meat, poultry, and egg product inspection regulations to provide for an electronic export application and certification system. The electronic export application and certification system will be a component of the Agency's Public Health Information System (PHIS). The export component of PHIS will be available as an alternative to the paper-based application and certification process. FSIS intends to charge users for the use of the system. FSIS is establishing a formula for calculating the fee. FSIS is also providing establishments that export meat, poultry, and egg products with flexibility in the official export inspection marks, devices, and certificates. In addition, FSIS is amending the egg product export regulations to parallel the meat and poultry export regulations.

Statement of Need: These regulations will facilitate the electronic processing of export applications and certificates through the Public Health Information System (PHIS), a computerized, Web-based inspection information system. This rule will provide the electronic export system as a reimbursable certification service charged to the exporter.

Summary of Legal Basis: 21 U.S.C. 601 to 695; 21 U.S.C. 451 to 470; 21 U.S.C. 1031 to 1056; 7 U.S.C. 1622(h).

Alternatives: The electronic export applications and certification system is being proposed as a voluntary service; therefore, exporters have the option of continuing to use the current paper-based system. Therefore, no alternatives were considered.

Anticipated Cost and Benefits: FSIS is charging exporters an application fee for the electronic export system. Automating the export application and certification process will facilitate the exportation of U.S. meat, poultry, and egg products by streamlining and automating the processes that are in use, while ensuring that foreign regulatory requirements are met. The cost to an exporter would depend on the number of electronic applications submitted. An exporter that submits only a few applications per year would not be likely to experience a significant economic impact. Under this rate, inspection personnel workload will be reduced through the elimination of the physical handling and processing of applications and certificates. When an electronic government-to-government system interface or data exchange is used, fraudulent transactions, such as false alterations and reproductions, will be significantly reduced, if not eliminated. The electronic export system is designed to ensure authenticity, integrity, and confidentiality. Exporters will be provided with a more efficient and effective application and certification process. The egg product export regulations provide the same export requirements across all products regulated by FSIS and consistency in the export application and certification process. The total annual paperwork burden to the egg processing industry to fill out the paper-based export application is approximately $32,340 per year for a total of 924 hours a year. The average establishment burden would be 11 hours, and $385.00 per establishment.

Risks: None.

Timetable:

Action | Date | FR Cite
NPRM | 01/23/12 | 77 FR 3159
NPRM Comment Period End | 03/23/12 |
Final Action | 02/00/15 |

Regulatory Flexibility Analysis Required: No.

Small Entities Affected: Businesses.

Government Levels Affected: None.

International Impacts: This regulatory action will be likely to have international trade and investment effects, or otherwise be of international interest.

Agency Contact: Rita Kishore, Acting Director, Import/Export Coordinator and Policy Development Staff, Department of Agriculture, Food Safety and Inspection Service, 1400 Independence Avenue SW, Office of Policy and Program Development, Room 2147, South Building, Washington, DC 20250, Phone: 202 720-6508, Fax: 202 720-7990, Email: rita.kishore@fsis.usda.gov.

RIN: 0583-AD41

USDA—FSIS

23. Descriptive Designation for Needle- or Blade-Tenderized (Mechanically Tenderized) Beef Products

Priority: Other Significant.

Legal Authority: 21 U.S.C. 601 to 695

CFR Citation: 9 CFR 317.2(e)(3).

Legal Deadline: None.

Abstract: FSIS has proposed regulations to require the use of the descriptive designation “mechanically tenderized” on the labels of raw or partially cooked needle- or blade-tenderized beef products, including beef products injected with marinade or solution, unless such products are destined to be fully cooked at an official establishment. Beef products that have been needle- or blade-tenderized are referred to as “mechanically tenderized” products. This rule would require that the product name for such beef products include the descriptive designation “mechanically tenderized,” and an accurate description of the beef component. The rule would also require that the print for all words in the descriptive designation as the product name appear in the same style, color, and size, and on a single-color contrasting background. In addition, this rule would require that labels of raw and partially-cooked needle- or blade-tenderized beef products destined for household consumers, hotels, restaurants, or similar institutions include validated cooking instructions stating that these products need to be cooked to a specified minimum internal temperature, and whether they need to be held at that minimum internal temperature for a specified time before consumption, i.e., dwell time or rest time, to ensure that they are thoroughly cooked.

Statement of Need: FSIS has concluded that without proper labeling, raw or partially cooked mechanically tenderized beef products could be mistakenly perceived by consumers to be whole, intact muscle cuts. The fact that a cut of beef has been needle- or blade-tenderized is a characterizing feature of the product and, as such, a material fact that is likely to affect consumers' purchase decisions and that should affect their preparation of the product. FSIS has also concluded that the addition of validated cooking instruction is necessary to ensure that potential pathogens throughout the product are destroyed. Without thorough cooking, pathogens that may have been introduced to the interior of the product during the tenderization process may remain in the product.

Summary of Legal Basis: 21 U.S.C. 601 to 695.

Alternatives: The Agency considered two options: Option 1, extend labeling requirements to include vacuum-tumbled beef products and enzyme-formed beef products; and Option 2, extend the proposed labeling requirements to all needle- or blade-tenderized meat and poultry products.

Anticipated Cost and Benefits: The proposed rule estimated the one-time cost to produce labels for mechanically tenderized beef at $1.05 million. The annualized cost is $140,000 at 7 percent for 10 years ($120,000 and when annualized at 3 percent for 10 years). The proposed rule estimated an additional one-time total cost to produce labels for mechanically tenderized beef at $1.57 million or $209,000 when annualized at 7 percent for 10 years ($179,000 when annualized at 3 percent for 10 years), if this proposed rule becomes final before the added-solution rule is finalized. The proposed rule estimated the expected number of E. coli O157:H7 illnesses prevented would be 453 per year, with a range of 133 to 1,497, if the predicted percentages of beef steaks and roasts are cooked to an internal temperature of 160 °F (or 145 °F and 3 minutes of dwell time). These prevented illnesses amount to $1,486,000 per year in benefits with a range of $436,000 to $4,912,000. Therefore, the expected annualized net benefits are $296,000 to $4,772,000, with a primary estimate of $1,346,000. If, however, this rule is in effect before the added solutions rule, the expected annualized net benefits are then $1,137,000, with a range of $87,000 to $4,563,000, plus the unquantifiable benefits of increased consumer information and market efficiency, minus an unquantified consumer surplus loss and an unquantified cost associated with food service establishments changing their standard operating procedures.

Risks: FSIS estimates that approximately 1,965 illnesses annually are attributed to mechanically tenderized beef, either with or without added solutions. If all the servings are cooked to a minimum of 160 degrees F then the number of illnesses drops to 78. This number of illnesses is due to a data set for all STEC and not just O157 data. FSIS estimates that 1,887 out of 1,965 would be prevented annually if mechanically tenderized meat were cooked to 160 degrees F.

Timetable:

Action | Date | FR Cite
NPRM | 06/10/13 | 78 FR 34589
NPRM Comment Period End | 08/09/13 |
NPRM Comment Period Extended | 08/09/13 | 78 FR 48631
NPRM Comment Period Reopened | 12/03/13 | 78 FR 72597
Final Action | 12/00/14 |

Regulatory Flexibility Analysis Required: No.

Government Levels Affected: None.

Agency Contact: Rosalyn Murphy-Jenkins, Director, Labeling and Program Delivery Staff (LPDS), Department of Agriculture, Food Safety and Inspection Service, Office of Policy and Program Development, Patriots Plaza 3, 1400 Independence Avenue SW., Room 8-148, Mailstop 5273, Washington, DC 20250-5273, Phone: 301 504-0879, Fax: 202 245-4792, Email: rosalyn.murphy-jenkins@fsis.usda.gov.

RIN: 0583-AD45

USDA—FSIS

24. Record To Be Kept by Official Establishments and Retail Stores That Grind Raw Beef Products

Priority: Other Significant.

Legal Authority: 21 U.S.C. 601 et seq.

CFR Citation: 9 CFR 320.

Legal Deadline: None.

Abstract: FSIS proposed to amend its recordkeeping regulations to specify that all official establishments and retail stores that grind raw beef products for sale in commerce must keep records that disclose the identity of the supplier of all source materials that they use in the preparation of each lot of raw ground product, and identify the names of those source materials.

Statement of Need: Under the authority of the Federal Meat Inspection Act (FMIA) (21 U.S.C. 601 et seq.) and its implementing regulations, FSIS investigates complaints and reports of consumer foodborne illness possibly associated with FSIS-regulated meat products. Many such investigations into consumer foodborne illnesses involve those caused by the consumption of raw beef ground, by official establishments or retail stores. FSIS investigators and public health officials frequently use records kept by all levels of the food distribution chain, including the retail level, to identify and traceback product that is the source of the illness to the suppliers that produced the source material for the product. The Agency, however, has often been thwarted in its effort to traceback ground beef products, some associated with consumer illness, to the suppliers that provided source materials for the products. In some situations, official establishments and retail stores have not kept records necessary to allow traceback and traceforward activities to occur. Without such necessary records, FSIS's ability to conduct timely and effective consumer foodborne illness investigations and other public health activities throughout the stream of commerce is also affected, thereby placing the consuming public at risk. Therefore, for FSIS to be able to conduct traceback and traceforward investigations, foodborne illnesses investigations, or to monitor product recalls, the records kept by official establishments and retail stores that grind raw beef products must disclose the identity of the supplier and the names of the sources of all materials that they use in the preparation of each lot of raw ground beef product.

Summary of Legal Basis: Under 21 U.S.C. 642, official establishments and retail stores that grind raw beef products for sale in commerce are persons, firms, or corporations that must keep such records and correctly disclose all transactions involved in their businesses subject to the Act. This is because they engage in the business of preparing products of an amenable species for use as human food, and they engage in the business of buying or selling (as meat brokers, wholesalers or otherwise) in commerce products of carcasses of an amenable species. These businesses must also provide access to, and inspection of, these records by FSIS personnel. Further, under 9 CFR 320.1(a), every person, firm, or corporation required by section 642 of the FMIA to keep records must keep those records that will fully and correctly disclose all transactions involved in his or its business subject to the Act. Records specifically required to be kept under section 320.1(b) include, but are not limited to, bills of sale; invoices; bills of lading; and receiving and shipping papers. With respect to each transaction, the records must provide the name or description of the livestock or article; the net weight of the livestock or article; the number of outside containers; the name and address of the buyer or seller of the livestock or animal; and the date and method of shipment.

Alternatives: FSIS considered two alternatives to the proposed requirements: The status quo and a voluntary recordkeeping program.

Anticipated Cost and Benefits: Costs occur because about 76,093 retail stores and official establishments will need to develop and maintain records, and make those records available for the Agency's review. Using the best available data, FSIS believes that industry recordkeeping costs would be approximately $1.46 million. Agency costs of approximately $0.01 million would result from record reviews at official establishments and retail stores, as well as travel time to and from retail stores. Annual benefits from this rule come from estimated averted Shiga toxin-producing E.coli illnesses and averted cases of Salmonellosis. Non-monetized benefits will accrue to industry due to an expected smaller volume of recalls, given everything else being equal, and due to the reduced industry vulnerability to reputation-damaging food safety events. Avoiding loss of business reputation is an indirect benefit. The Government will benefit in that the rule will enable it to operate in a more efficient manner in identifying and tracking recalls of adulterated raw ground beef products. Consumers will benefit from a reduction in foodborne illnesses due to quicker recalls, correction of process failures at establishments producing ground beef, and improved guidance and industry practices.

Risks: None.

Timetable:

Action | Date | FR Cite
NPRM | 07/22/14 | 79 FR 42464
NPRM Comment Period End | 10/22/14 |
Final Action | 07/00/15 |

Regulatory Flexibility Analysis Required: No.

Government Levels Affected: None.

Agency Contact: Victoria Levine, Program Analyst, Issuances Staff (IS), Department of Agriculture, Food Safety and Inspection Service, Office of Policy and Program Development, 1400 Independence Avenue SW., Room 6079, South Building, Washington, DC 20250-3700, Phone: 202 720-5627, Fax: 202 690-0486, Email: victoria.levine@fsis.usda.gov.

RIN: 0583-AD46

USDA—FOREST SERVICE (FS)

Final Rule Stage

25. Forest Service Manual 2020—Ecological Restoration and Resilience Policy

Priority: Other Significant.

Legal Authority: FSM 2020

CFR Citation: None.

Legal Deadline: None.

Abstract: This policy establishes a common definition for ecological restoration and resilience that is consistent with the 2012 Land Planning rule. The directive provides additional guidance in implementing the definition throughout Forest Service program areas by incorporating it into the Forest Service Manual. Restoration objectives span a number of initiatives in various program areas, including the invasive species strategy; recovery of areas affected by high-severity fires, hurricanes, and other catastrophic disturbances; fish habitat restoration and remediation; riparian area restoration; conservation of threatened and endangered species; and restoration of impaired watersheds and large-scale watershed restoration projects. The restoration policy allows agency employees to more effectively communicate Forest Service work in meeting restoration needs at the local, regional, and national levels. Currently an internal Forest Service interim policy for this final directive has been implemented in the field units, without any issues. This final directive brings the Forest Service policy into alignment with current ecological restoration science and with congressional and Forest Service authorizations and initiatives.

Statement of Need: There is a critical need for ecological restoration on National Forest System lands and the concept of restoration is threaded throughout existing agency authorities and collaborative efforts such as the National Fire Plan. However, without a definition in Forest Services' Directive System there has not been consistent interpretation and application. This established policy was necessary for consistency and for the landscape to better weather disturbances, especially under future environmental conditions.

Summary of Legal Basis: The Forest Service amended the Forest Service Manual (FSM) to add a new title: FSM 2020 Ecological Restoration and Resilience. This final directive reinforced adaptive management, use of science, and collaboration in planning and decision making. These foundational land management policies, including use of restoration to achieve desired conditions, underwent formal public review during revision of the Planning Rule (36 CFR 219) and amendment of associated directives (FSM 1900, 1920).

Alternatives: No alternatives were considered as an established policy is necessary for agency consistency.

Anticipated Cost and Benefits: This final directive had no monetary effect to the agency or the public. The final directive helped agency employees and partners to more effectively communicate restoration needs and accomplishments at the local, regional, and national levels.

Risks: There is no risk identified with this rulemaking.

Timetable:

Action | Date | FR Cite
Proposed Directive | 09/12/13 | 78 FR 56202
Proposed Directive Comment Period End | 11/12/13 |
Final Directive | 02/00/15 |

Regulatory Flexibility Analysis Required: No.

Small Entities Affected: No.

Government Levels Affected: None.

Agency Contact: LaRenda C. King, Assistant Director, Directives and Regulations, Department of Agriculture, Forest Service, ATTN: ORMS, D&R Branch, 1400 Independence Avenue SW., Washington, DC 20250-0003, Phone: 202 205-6560, Email: larendacking@fs.fed.us.

RIN: 0596-AC82

USDA—FS

26. Land Management Planning Rule Policy

Priority: Other Significant.

Legal Authority: 5 U.S.C. 302; 16 U.S.C. 1604; 16 U.S.C. 1613

CFR Citation: 36 CFR 219.

Legal Deadline: None.

Abstract: The Forest Service issued proposed planning directives on February 27, 2013 (RIN # 0596-AD06), which would provide guidance to agency staff on implementation of the recently revised land management planning regulation at 36 CFR 219 (RIN 0596-AC94) (the “2012 Planning Rule”), which was effective May 9, 2012. A 60-day period, extended for an additional 15 days, for the public to comment on the proposed directives concluded on May 24, 2013. The proposed directives have been revised, based on public comment, and the agency seeks to publish a Notice of Availability of the final Directives.

The National Forest Management Act (NFMA) requires that the Forest Service develop land management plans for each unit of the National Forest System, and the agency maintain regulations (Planning Rule) that guide the development and content of such plans. In addition to formal regulations, the agency uses its system of directives to provide more detailed guidance on how to meet the requirements of the Planning Rule.

Statement of Need: The existing direction in the Forest Service Manual 1920 and the Forest Service Handbook 1909.12 regarding Land Management Planning needs to be updated to support implementation of the 2012 Planning Rule (36 CFR 219). This brings the planning directives in line with the new planning rule and clarifies substantive and procedural requirements to implement the rule. The updated directives implements a planning framework that fosters collaboration with the public during land management planning, and is science-based, responsive to change, and promotes social, economic, and ecological sustainability.

Summary of Legal Basis: The Forest Service promulgated a new land management planning regulation at 36 CFR 219 (the “2012 Planning Rule”). The final Planning rule and record of decision was published on April 9, 2012 (77 FR 21162).

Alternatives: The Forest Service finalized the directives to bring the Forest Services' internal directives in-line with the CFR.

Anticipated Cost and Benefits: No new costs to the agency or the public are associated with these directives. The amended directives results in more effective and efficient planning within the Agency's capability.

Risks: There are no risks to the public or to the Forest Service associated with this rulemaking.

Timetable:

Action | Date | FR Cite
Proposed Directive | 02/27/13 | 78 FR 13316
Comment Period End | 04/29/13 |
Final Directive | 02/00/15 |

Regulatory Flexibility Analysis Required: No.

Small Entities Affected: No.

Government Levels Affected: None.

Agency Contact: LaRenda C. King, Assistant Director, Directives and Regulations, Department of Agriculture, Forest Service, ATTN: ORMS, D&R Branch, 1400 Independence Avenue SW., Washington, DC 20250-0003, Phone: 202 205-6560, Email: larendacking@fs.fed.us.

RIN: 0596-AD06

USDA—Rural Business-Cooperative Service (RBS)

Final Rule Stage

27. Rural Energy for America Program

Priority: Economically Significant. Major status under 5 U.S.C. 801 is undetermined.

Legal Authority: 7 U.S.C. 8107

CFR Citation: 7 CFR 4280-B.

Legal Deadline: None.

Abstract: The Agency published a proposed rule for the Rural Energy for America Program (REAP) on April 12, 2013 (78 FR 22044). The agency is authorized under section 9007 of the Food, Conservation, and Energy Act of 2008 (as amended by the Agricultural Act of 2014) to provide grants for energy audits and renewable energy development assistance; grants for renewable energy system feasibility studies; and financial assistance for energy efficiency improvements and renewable energy systems. The 2014 Farm Bill directs that at least 20 percent of funds be used for grants of $20,000 or less, and up to 4 percent of mandatory funds for energy audits and Renewable Energy Development Assistance Grants. Eligible entities for energy audits and renewable energy development assistance include units of State, tribal, or local government; an instrumentality of a State, tribal, or local government; land grant or other institutions of higher education; rural electric cooperatives; RCID Councils or public power entities. Eligible entities for financial assistance for energy efficiency improvements and renewable energy systems include agricultural producers and rural small businesses. The agency identified REAP as one of the Department's periodic retrospective review of regulations under Executive Order 13563, and has proposed a tiered application approach that reduces applicant burden for technical reports and streamlines the narrative portion of the application.

Statement of Need: The agency needs to incorporate amendments from the Agricultural Act of 2014. Prior to the Agricultural Act of 2014, the agency modified the program to reduce the applicant burden and improve program delivery. In order to make these changes to 7 CFR 4280, subpart B, a final rule needs to be published.

Summary of Legal Basis: REAP was authorized by the 2002 Farm Bill, and continued by the 2014 Farm Bill which made available $50,000,000 in mandatory funding for 2014, and each year thereafter through 2018, and authorized for appropriations $20,000,000 in discretionary funding for each fiscal year 2014 through 2018. The program provides for grants and guaranteed loans for renewable energy systems and energy efficiency improvements, and grants for energy audit and renewable energy development assistance. The purpose of the program is to reduce the energy consumption and increase renewable energy production.

Alternatives: The alternatives are to: (1) Continue operating the program under the 7 CFR 4280, subpart B as it currently is written; (2) revise 7 CFR 4280, subpart B based on public comments received on the interim rule and issue a final rule.

Anticipated Cost and Benefits: Benefits of the rule may include a reduction in energy consumption, an increase in renewable energy production and reduced burden for certain loan and grant applications.

Risks: There are no associated risks to the public health, safety or the environment.

Timetable:

Action | Date | FR Cite
Interim Final Rule | 04/14/11 | 76 FR 21109
Interim Final Rule Effective | 04/14/11 |
Interim Final Rule Comment Period End | 06/13/11 |
NPRM | 04/12/13 | 78 FR 22044
Final Action | 11/00/14 |

Regulatory Flexibility Analysis Required: No.

Small Entities Affected: Businesses.

Government Levels Affected: None.

Agency Contact: Kelley Oehler, Branch Chief, Department of Agriculture, Rural Business-Cooperative Service, STOP 3225, 1400 Independence Avenue SW., Washington, DC 20250-3225, Phone: 202 720-6819, Fax: 202 720-2213, Email: kelley.oehler@wdc.usda.gov.

RIN: 0570-AA76

USDA—RBS

28. Business and Industry (B&I) Guaranteed Loan Program

Priority: Other Significant.

Legal Authority: Consolidated Farm and Rural Development Act

CFR Citation: 7 CFR 4287; 7 CFR 4279.

Legal Deadline: None.

Abstract: The Agency published a proposed rule for the Business and Industry Guaranteed Loan Program on September 15, 2014 (78 FR 22044), which, when finalized, would revise the 1996 B&I regulations. While there have been some minor modifications to the B&I Guaranteed Loan Program regulations since 1996, this action is in response to the implement 2014 Farm Bill provisions and makes needed refinements to the regulation. These changes are design to enhance the program, improve efficiency, correct minor inconsistencies, clarify the regulations, and ultimately reduce delinquencies. The Agency held several lender meetings throughout the country to see how changes to the program could benefit lenders who utilize the program. The proposed changes being considered may result in a lower the subsidy rate. The rule, when finalized, is intended to increase lending activity, expand business opportunities, and create more jobs in rural areas, particularly in areas that have historically experienced economic distress.

Statement of Need: With the passage of the 2014 Farm Bill, there is the need to conform certain portions of the B&I Guaranteed Loan Program regulations with requirements found in the 2014 Farm Bill, such as the addition of cooperative equity security guarantees, the locally and regionally grown agricultural food products initiative, and exceptions to the rural area definition. In addition, with the passage of time, the Agency proposed revisions intended to improve program delivery and administration, leverage program resources, better align the regulation with the program's goals and purposes, clarify the regulations, and reduce delinquencies and defaults. These proposed revisions may also improve program subsidy costs. A reduction in program subsidy costs may increase funding availability for additional projects, further improving the economic conditions of rural America. This may result in increased lending activity, the expansion of business opportunities, and the creation of more jobs in rural areas.

Summary of Legal Basis: Consolidated Farm and Rural Development Act, as amended by the 2008 and 2014 Farm Bill.

Alternatives: The only alternative would be the status quo, which is not an acceptable alternative.

Anticipated Cost and Benefits: The benefits of the proposed rule include a possible reduction in loan losses, a lower subsidy rate, and streamline program delivery. The program changes have a cumulative effect of lowering the program cost; however, the amount of the change in cost cannot be estimated with any reasonable precision.

Risks: There are no associated risks to the public health, safety or the environment.

Timetable:

Action | Date | FR Cite
Proposed Rule | 09/15/14 | 79 FR 55316
Final Rule | 09/00/15 |

Regulatory Flexibility Analysis Required: No.

Government Levels Affected: None.

Agency Contact: Brenda Griffin, Loan Specialist, B&I Processing Division, Department of Agriculture, Rural Business-Cooperative Service, 1400 Independence Avenue SW., Washington, DC 20250, Phone: 202 720-6802, Fax: 202 720-6003, Email: brenda.griffin@wdc.usda.gov.

RIN: 0570-AA85

USDA—RBS

29. • Biorefinery, Renewable Chemical, and Biobased Product Manufacturing Assistance Program

Priority: Other Significant. Major status under 5 U.S.C. 801 is undetermined.

Legal Authority: 7 U.S.C. 8103

CFR Citation: 7 CFR 4279 subpart C; 7 CFR 4287 subpart D.

Legal Deadline: None.

Abstract: The Biorefinery Assistance Program was authorized under the 2008 Farm Bill. The 2014 Farm Bill continues the authority established by the 2008 Farm Bill but made changes to the program that require revisions to existing regulations. The 2014 Farm Bill changed the program's name to the Biorefinery, Renewable Chemical, and Biobased Product Manufacturing Assistance Program and mandated that the program provide loan guarantees for the development, construction, and retrofitting of commercial-scale biorefineries as well as biobased product manufacturing facilities. Increasing production of homegrown renewable fuels, chemicals, and biobased products has grown; so has the need to develop and produce them. Rural Business—Cooperative Service (RBS) offers opportunities to producers to develop and manufacture such products through the Biorefinery, Renewable Chemical, and Biobased Product Manfacturing Assistance Program. RBS published the Biorefinery Assistance Program proposed rule in the Federal Register on April 18, 2010, (75 FR 20044) and an interim rule on February 14, 2011, both with 60-day comment periods. Comments were received from biofuel and bio-products producers, banking and investment institutions, attorneys, and research and development companies. In addition to the program changes required by the 2014 Farm Bill, RBS needs to address the comments received to the February 14, 2011, interim rule. The Biorefinery, Renewable Chemical, and Biobased Product Manufacturing Assistance Program focuses on accelerating the commercialization of production of advanced biofuels and renewable chemicals, as well as biobased product manufacturing.

Statement of Need: The 2014 Farm Bill made changes to the program that require revisions to the program rule, and RBS needs to address the comments received on the interim rule published on February 14, 2011.

Summary of Legal Basis: The Biorefinery Assistance Program was authorized under the 2008 Farm Bill. The 2014 Farm Bill continues the authority and provides $100 million for the program in fiscal year 2014 and $50 million in both fiscal years 2015 and 2016, of which not more than 15 percent can be used for Biobased Product Manufacturing.

Alternatives: The alternatives are: (1) Implement the Section 9003 provisions of the Farm Bill immediately through publishing a subsequent interim rule. This alternative will require the Department to exercise the Hardin memo exemption to implement the Farm Bill amendments; however, it will also enable Rural Development to respond to the comments received to the interim rule published in 2011 and incorporate updates into the subsequent interim rule. Option 1 is the agency's preferred alternative. (2) Implement the Section 9003 Farm Bill provisions immediately by publishing a final rule. This alternative will also require the Department to exercise the Hardin memo exemption the Farm Bill amendments; however, this alternative precludes stakeholder and public comment to the new rule. (3) Implement the Section 9003 Farm Bill provisions by publishing a proposed rule. This alternative is the Department's traditional rulemaking process and enables public comment, but would delay implementation of the program and utilization of funding into fiscal year 2015 (or beyond) and may increase the risk of a rescission of fiscal year 2014 funds.

Anticipated Cost and Benefits: Benefits include increase in renewable energy/advance biofuel, renewable chemical, and biobased manufacturing.

Risks: There are no associated risks to the public health, safety or the environment.

Timetable:

Action | Date | FR Cite
Interim Final Rule | 03/00/15 |
Interim Final Rule Effective | 04/00/15 |
Interim Final Rule Comment Period End | 05/00/15 |

Regulatory Flexibility Analysis Required: No.

Small Entities Affected: Businesses, Governmental Jurisdictions, Organizations.

Government Levels Affected: None.

Agency Contact: Todd Hubbell, Loan Specialist, Specialty Lenders Division, Department of Agriculture, Rural Business—Cooperative Service, STOP 3225, 1400 Independence Avenue SW., Washington, DC 20250-3225, Phone: 202 690-2516, Email: todd.hubbell@wdc.usda.gov.

RIN: 0570-AA93

USDA—NATURAL RESOURCES CONSERVATION SERVICE (NRCS)

Final Rule Stage

30. • Agricultural Conservation Easement Program

Priority: Other Significant.

Legal Authority: Pub. L. 113-79

CFR Citation: Not Yet Determined.

Legal Deadline: Other, Statutory, November 4, 2014, 270 days from enactment of Public Law 113-79.

Abstract: The Agricultural Act of 2014 (the 2014 Act) consolidated the Wetlands Reserve Program (WRP), the Farm and Ranch Lands Protection Program (FRPP), and the Grassland Reserve Program (GRP) into a single Agricultural Conservation Easement Program (ACEP). The consolidated easement program has two components—an agricultural land easement component and a wetland reserve easement component. The agricultural land easement component is patterned after the former FRPP with GRP's land eligibility components merged into it. The wetland reserve easement component is patterned after WRP. Land previously enrolled in the three contributing programs is considered enrolled in the new ACEP.

Statement of Need: The Agricultural Act of 2014 (2014 Act) consolidated several of the Title XII (of the Food Security Act of 1985) conservation easement programs and provided for the continued operations of former programs. NRCS is promulgating a consolidated conservation easement regulation to reflect the 2014 Act's consolidation of the WRP, FRPP, and GRP programs.

Summary of Legal Basis: NRCS seeks to publish an interim rule to implement the consolidated conservation easement program. This regulation action is pursuant to section 1246 of the Food Security Act of 1985, as amended by the 2014 Act, which requires regulations necessary to implement Title II of the 2014 Act through an interim rule with request for comments.

Alternatives: NRCS determined that rulemaking was the appropriate mechanism through which to implement the 2014 Act consolidation of the three source conservation easement programs. Additionally, NRCS determined that the Agency needs standard criteria for implementing the program and program participants need predictability when initiating an application and conveying an easement. The regulation aims to establish a comprehensive framework for working with program participants to implement ACEP. Upon consideration of public comment, NRCS will promulgate final program regulations.

Anticipated Cost and Benefits: The 2014 Act has consolidated three conservation easement programs into a single conservation easement program with two components. The program will be implemented under the general supervision and direction of the Chief of NRCS, who is a Vice President of the Commodity Credit Corporation (CCC). Through ACEP, NRCS will continue to purchase wetland reserve easements directly and will contribute funds to eligible entities for their purchase of agricultural land easements that protect working farm and grazing lands. Participation in the program is voluntary.

The primary benefits associated with this rulemaking are:

• Provides an opportunity for public comment in program regulations.

• Provides a regulatory framework for NRCS to implement a consolidated conservation easement program.

• Provides transparency to the public potential applicants on NRCS program requirements.

The primary costs imposed by this regulation are:

• The costs incurred by private landowners are negative or zero since this is a voluntary program and they are compensated for the rights that they transfer.

• Other costs incurred by society through market changes are localized or negligible.

Risks: N/A.

Timetable:

Action | Date | FR Cite
Interim Final Rule | 12/00/14 |
Final Rule | 07/00/15 |

Regulatory Flexibility Analysis Required: No.

Small Entities Affected: No.

Government Levels Affected: None.

Agency Contact: Leslie Deavers, Acting Farm Bill Coordinator, Department of Agriculture, Natural Resources Conservation Service, 1400 Independence Avenue, Washington, DC 20250, Phone: 202 720-5484, Email: leslie.deavers@wdc.usda.gov.

RIN: 0578-AA61

USDA—NRCS

31. • Environmental Quality Incentives Program (EQIP) Interim Rule

Priority: Other Significant.

Legal Authority: 15 U.S.C. 714b and 714c; 16 U.S.C. 3839AA-3839-8

CFR Citation: 7 CFR 1466.

Legal Deadline: Other, Statutory, November 4, 2014, 270 days from enactment of Public Law 113-79.

Abstract: NRCS promulgated the current EQIP regulation on January 15, 2009 through an interim rule. The interim rule incorporated programmatic changes authorized by the Food, Conservation, and Energy Act of 2008 (the 2008 Act). NRCS published a correction to the interim rule on March 12, 2009, and an amendment to the interim rule on May 29, 2009. NRCS has implemented EQIP in FY 2009 through FY 2013 under the current regulation. The Agricultural Act of 2014 (2014 Act) amended Chapter 4 of Subtitle D of Title XII of the Food Security Act of 1985 by making the following changes to EQIP program requirements: (1) Eliminates requirement that contract must remain in place for a minimum of 1 year after last practice implemented, but keeps requirement that the contract term is not to exceed 10 years, (2) Consolidates elements of Wildlife Habitat Incentives Program (WHIP), and repeals WHIP authority, (3) Replaces rolling 6-year payment limitation with payment limitation for FY 2014-FY 2018, 4) Requires Conservation Innovation Grants (CIG) reporting no later than December 31, 2014 and every 2 years thereafter, (4) Establishes payment limitation established at $450,000 and eliminates waiver authority, (5) Modifies the special rule for foregone income payments for certain associated management practices and resource concern priorities, (6) Makes advance payments are available up to 50 percent for eligible historically underserved participants to purchase material or contract services instead of the previous 30 percent, (7) Provides flexibility for repayment of advance payment if not expended within 90 days, and (8) Requires that for each fiscal year from of the FY 2014 to FY 2018, at least five percent of available EQIP funds shall be targeted for wildlife related conservation practices. The 2014 Act further identifies EQIP as a contributing program authorized to accomplish the purposes of the Regional Conservation Partnership Program (RCPP) (Subtitle I of Title XII of the Food Security Act of 1985, as amended). RCPP replaces the Agricultural Water Enhancement Program (AWEP), Chesapeake Bay Watershed Program (CBWP), Cooperative Conservation Partnership Initiative (CCPI), and the Great Lakes Basin Program for soil erosion and sediment control. Like the programs it replaces, RCPP will operate through regulations in place for contributing programs. The other contributing programs include the Conservation Stewardship Program, the Healthy Forests Reserve Program, and the new Agricultural Conservation Easement Program (ACEP). NRCS seeks to publish an interim rule to incorporate the 2014 Act changes to EQIP program administration. This regulation action is pursuant to Section 1246 of the Food Security Act of 1985, as amended by section 2608 of the 2014 Act, which requires regulations necessary to implement Title II of the 2014 Act be promulgated through the interim rule process.

Statement of Need: The Agricultural Act of 2014 (the 2014 Act) consolidated several of the Title XII conservation programs and provided for the continued operations of former programs. NRCS is updating the EQIP regulation to incorporate the 2014 Act changes, including consolidation of the purposes formerly addressed through the Wildlife Habitat Incentives Program (WHIP).

Summary of Legal Basis: The 2014 Act has reauthorized and amended the Environmental Quality Incentives Program (EQIP). EQIP was first added to the Food Security Act of 1985 (1985 Act) (16 U.S.C. 3801 et seq.) by the Federal Agriculture Improvement and Reform Act of 1996 (1996 Act) (16 U.S.C. 3839aa). The program is implemented under the general supervision and direction of the Chief of NRCS, who is a Vice President of the Commodity Credit Corporation (CCC).

Alternatives: NRCS considered only making the changes mandated by the 2014 Farm Bill. This alternative would have missed opportunities to improve the implementation of the program.

Anticipated Cost and Benefits: Through EQIP, NRCS provides assistance to farmers and ranchers to conserve and enhance soil, water, air, and related natural resources on their land. Eligible lands include cropland, grassland, rangeland, pasture, wetlands, nonindustrial private forest land, and other agricultural land on which agricultural or forest-related products, or livestock are produced and natural resource concerns may be addressed. Participation in the program is voluntary.

The primary benefits associated with this rulemaking are:

• Provides continued consistency for the NRCS to implement EQIP.

• Provides transparency to potential applicants on NRCS program requirements.

The primary costs imposed by this regulation:

• All program participants must follow the same requirements, even though they are very different types of agricultural operations in different resource contexts.

• Most program participants are required to contribute at least 25 percent of the resources needed to implement program practices. However, such costs are standard for such financial assistance programs.

Risks: N/A.

Timetable:

Action | Date | FR Cite
Interim Final Rule | 11/00/14 |
Final Rule | 07/00/15 |

Regulatory Flexibility Analysis Required: No.

Small Entities Affected: No.

Government Levels Affected: None.

Agency Contact: Leslie Deavers, Acting Farm Bill Coordinator, Department of Agriculture, Natural Resources Conservation Service, 1400 Independence Avenue, Washington, DC 20250, Phone: 202 720-5484, Email: leslie.deavers@wdc.usda.gov.

RIN: 0578-AA62

USDA—NRCS

32. Conservation Stewardship Program Interim Rule

Priority: Other Significant.

Legal Authority: 16 U.S.C. 3838d to 3838g.

CFR Citation: 7 CFR 1470.

Legal Deadline: None.

Abstract: NRCS seeks to publish an interim rule to incorporate the 2014 Act changes to Conservation Stewardship Program (CSP) program administration. This regulation action is pursuant to Section 1246 of the Food Security Act of 1985, as amended by the 2014 Act, which requires regulations necessary to implement Title II of the 2014 Act through an interim rule with request for comments. Background: The Food, Conservation, and Energy Act of 2008 Act (2008 Act) amended the Food Security Act of 1985 (1985 Act) to establish CSP and authorize the program in fiscal years 2009 through 2013. The Agriculture Act of 2014 (the 2014 Act) re-authorizes and revises CSP. The purpose of CSP is to encourage producers to address priority resource concerns and improve and conserve the quality and condition of the natural resources in a comprehensive manner by: (1) Undertaking additional conservation activities; and (2) improving, maintaining, and managing existing conservation activities. The Secretary of Agriculture delegated authority to the Chief, Natural Resources Conservation Service (NRCS), to administer CSP. Through CSP, NRCS provides financial and technical assistance to eligible producers to conserve and enhance soil, water, air, and related natural resources on their land. Eligible lands include private or tribal cropland, grassland, pastureland, rangeland, non-industrial private forest lands and other land in agricultural areas (including cropped woodland, marshes, and agricultural land or capable of being used for the production of livestock) on which resource concerns related to agricultural production could be addressed. Participation in the program is voluntary. CSP encourages land stewards to improve their conservation performance by installing and adopting additional activities, and improving, maintaining, and managing existing activities on eligible land. NRCS makes funding for CSP available nationwide on a continuous application basis.

Statement of Need: The Agricultural Act of 2014 (the 2014 Act) amended several of the Title XII conservation programs and provided for the continued operations of former programs. NRCS is updating the CSP regulation to incorporate the 2014 Act changes.

Summary of Legal Basis: The 2014 Act has reauthorized and amended the Conservation Stewardship Program (CSP). CSP was first added to the Food Security Act of 1985 (1985 Act) (16 U.S.C. 3801 et seq.) by the Food, Conservation, and Energy Act of 2008. The program is implemented under the general supervision and direction of the Chief of NRCS, who is a Vice President of the Commodity Credit Corporation (CCC).

Alternatives: NRCS considered only making the changes mandated by the 2014 Farm Bill. This alternative would have missed opportunities to improve the implementation of the program. NRCS would consider alternatives suggested during the public comment period.

Anticipated Cost and Benefits: CSP is a voluntary program that encourages agricultural and forestry producers to address priority resource concerns by: (1) Undertaking additional conservation activities, and (2) improving and maintaining existing conservation systems. CSP provides financial and technical assistance to help land stewards conserve and enhance soil, water, air, and related natural resources on their land.

CSP is available to all producers, regardless of operation size or crops produced, in all 50 States, the District of Columbia, and the Caribbean and Pacific Island areas. Eligible lands include cropland, grassland, prairie land, improved pastureland, rangeland, nonindustrial private forest land, and agricultural land under the jurisdiction of an Indian tribe. Applicants may include individuals, legal entities, joint operations, or Indian tribes.

CSP pays participants for conservation performance the higher the performance, the higher the payment. It provides two possible types of payments. An annual payment is available for installing new conservation activities and maintaining existing practices. A supplemental payment is available to participants who also adopt a resource conserving crop rotation.

Through five-year contracts, NRCS makes payments as soon as practical after October 1 of each fiscal year for contract activities installed and maintained in the previous year. A person or legal entity may have more than one CSP contract but, for all CSP contracts combined, may not receive more than $40,000 in any year or more than $200,000 during any five-year period.

The primary benefits associated with this rulemaking are:

• Provides continued consistency for the NRCS to implement CSP.

• Provides transparency to potential applicants on NRCS program requirements.

The primary costs imposed by this regulation are that all program participants must follow the same basic programmatic requirements, even though they are very different types of agricultural operations in different resource contexts.

The 2014 Act further identifies CSP as a contributing program authorized to accomplish the purposes of the Regional Conservation Partnership Program (RCPP) (subtitle I of title XII of the Food Security Act of 1985, as amended). RCPP replaces the Agricultural Water Enhancement Program (AWEP), Chesapeake Bay Watershed Program (CBWP), Cooperative Conservation Partnership Initiative (CCPI), and the Great Lakes Basin Program for soil erosion and sediment control. Like the programs it replaces, RCPP will operate through regulations in place for contributing programs. The other contributing programs include the Environmental Quality Incentives Program, the Healthy Forests Reserve Program, and the new Agricultural Conservation Easement Program (ACEP).

Risks: N/A.

Timetable:

Action | Date | FR Cite
Interim Final Rule | 11/05/14 | 79 FR 65835
Interim Final Rule Effective | 11/05/14 |
Interim Final Rule Comment Period End | 01/05/15 |
Final Rule | 07/00/15 |

Regulatory Flexibility Analysis Required: No.

Small Entities Affected: No.

Government Levels Affected: None.

Agency Contact: Leslie Deavers, Acting Farm Bill Coordinator, Department of Agriculture, Natural Resources Conservation Service, 1400 Independence Avenue, Washington, DC 20250, Phone: 202 720-5484, Email: leslie.deavers@wdc.usda.gov.

RIN: 0578-AA63

BILLING CODE 3410-90-S

DEPARTMENT OF COMMERCE (DOC)

Statement of Regulatory and Deregulatory Priorities

Established in 1903, the Department of Commerce (Commerce) is one of the oldest Cabinet-level agencies in the Federal Government. Commerce's mission is to create the conditions for economic growth and opportunity by promoting innovation, entrepreneurship, competitiveness, and environmental stewardship. Commerce has 12 operating units, which are responsible for managing a diverse portfolio of programs and services, ranging from trade promotion and economic development assistance to broadband and the National Weather Service.

Commerce touches Americans daily, in many ways—making possible the daily weather reports and survey research; facilitating technology that all of us use in the workplace and in the home each day; supporting the development, gathering, and transmission of information essential to competitive business; enabling the diversity of companies and goods found in America's and the world's marketplace; and supporting environmental and economic health for the communities in which Americans live.

Commerce has a clear and compelling vision for itself, for its role in the Federal Government, and for its roles supporting the American people, now and in the future. To achieve this vision, Commerce works in partnership with businesses, universities, communities, and workers to:

• Innovate by creating new ideas through cutting-edge science and technology from advances in nanotechnology, to ocean exploration, to broadband deployment, and by protecting American innovations through the patent and trademark system;

• Support entrepreneurship and commercialization by enabling community development and strengthening minority businesses and small manufacturers;

• Maintain U.S. economic competitiveness in the global marketplace by promoting exports, ensuring a level playing field for U.S. businesses, and ensuring that technology transfer is consistent with our nation's economic and security interests;

• Provide effective management and stewardship of our nation's resources and assets to ensure sustainable economic opportunities; and

• Make informed policy decisions and enable better understanding of the economy by providing accurate economic and demographic data.

Commerce is a vital resource base, a tireless advocate, and Cabinet-level voice for job creation.

The Regulatory Plan tracks the most important regulations that implement these policy and program priorities, several of which involve regulation of the private sector by Commerce.

Responding to the Administration's Regulatory Philosophy and Principles

The vast majority of the Commerce's programs and activities do not involve regulation. Of Commerce's 12 primary operating units, only the National Oceanic and Atmospheric Administration (NOAA) will be planning actions that are considered the “most important” significant preregulatory or regulatory actions for FY 2015. During the next year, NOAA plans to publish five rulemaking actions that are designated as Regulatory Plan actions. The Bureau of Industry and Security (BIS) may also publish rulemaking actions designated as Regulatory Plan actions. Further information on these actions is provided below.

Commerce has a long-standing policy to prohibit the issuance of any regulation that discriminates on the basis of race, religion, gender, or any other suspect category and requires that all regulations be written so as to be understandable to those affected by them. The Secretary also requires that Commerce afford the public the maximum possible opportunity to participate in Departmental rulemakings, even where public participation is not required by law.

National Oceanic and Atmospheric Administration

NOAA establishes and administers Federal policy for the conservation and management of the Nation's oceanic, coastal, and atmospheric resources. It provides a variety of essential environmental and climate services vital to public safety and to the Nation's economy, such as weather forecasts, drought forecasts, and storm warnings. It is a source of objective information on the state of the environment. NOAA plays the lead role in achieving Commerce's goal of promoting stewardship by providing assessments of the global environment.

Recognizing that economic growth must go hand-in-hand with environmental stewardship, Commerce, through NOAA, conducts programs designed to provide a better understanding of the connections between environmental health, economics, and national security. Commerce's emphasis on “sustainable fisheries” is designed to boost long-term economic growth in a vital sector of the U.S. economy while conserving the resources in the public trust and minimizing any economic dislocation necessary to ensure long-term economic growth. Commerce is where business and environmental interests intersect, and the classic debate on the use of natural resources is transformed into a “win-win” situation for the environment and the economy.

Three of NOAA's major components, the National Marine Fisheries Services (NMFS), the National Ocean Service (NOS), and the National Environmental Satellite, Data, and Information Service (NESDIS), exercise regulatory authority.

NMFS oversees the management and conservation of the Nation's marine fisheries, protects threatened and endangered marine and anadromous species and marine mammals, and promotes economic development of the U.S. fishing industry. NOS assists the coastal States in their management of land and ocean resources in their coastal zones, including estuarine research reserves; manages the national marine sanctuaries; monitors marine pollution; and directs the national program for deep-seabed minerals and ocean thermal energy. NESDIS administers the civilian weather satellite program and licenses private organizations to operate commercial land-remote sensing satellite systems.

Commerce, through NOAA, has a unique role in promoting stewardship of the global environment through effective management of the Nation's marine and coastal resources and in monitoring and predicting changes in the Earth's environment, thus linking trade, development, and technology with environmental issues. NOAA has the primary Federal responsibility for providing sound scientific observations, assessments, and forecasts of environmental phenomena on which resource management, adaptation, and other societal decisions can be made.

In the environmental stewardship area, NOAA's goals include: Rebuilding and maintaining strong U.S. fisheries by using market-based tools and ecosystem approaches to management; increasing the populations of depleted, threatened, or endangered species and marine mammals by implementing recovery plans that provide for their recovery while still allowing for economic and recreational opportunities; promoting healthy coastal ecosystems by ensuring that economic development is managed in ways that maintain biodiversity and long-term productivity for sustained use; and modernizing navigation and positioning services. In the environmental assessment and prediction area, goals include: Understanding climate change science and impacts, and communicating that understanding to government and private sector stakeholders enabling them to adapt; continually improving the National Weather Service; implementing reliable seasonal and interannual climate forecasts to guide economic planning; providing science-based policy advice on options to deal with very long-term (decadal to centennial) changes in the environment; and advancing and improving short-term warning and forecast services for the entire environment.

Magnuson-Stevens Fishery Conservation and Management Act

Magnuson-Stevens Fishery Conservation and Management Act (Magnuson-Stevens Act) rulemakings concern the conservation and management of fishery resources in the U.S. Exclusive Economic Zone (generally 3-200 nautical miles). Among the several hundred rulemakings that NOAA plans to issue in FY 2015, a number of the preregulatory and regulatory actions will be significant. The exact number of such rulemakings is unknown, since they are usually initiated by the actions of eight regional Fishery Management Councils (FMCs) that are responsible for preparing fishery management plans (FMPs) and FMP amendments, and for drafting implementing regulations for each managed fishery. NOAA issues regulations to implement FMPs and FMP amendments. Once a rulemaking is triggered by an FMC, the Magnuson-Stevens Act places stringent deadlines upon NOAA by which it must exercise its rulemaking responsibilities. FMPs and FMP amendments for Atlantic highly migratory species, such as bluefin tuna, swordfish, and sharks, are developed directly by NOAA, not by FMCs.

FMPs address a variety of issues including maximizing fishing opportunities on healthy stocks, rebuilding overfished stocks, and addressing gear conflicts. One of the problems that FMPs may address is preventing overcapitalization (preventing excess fishing capacity) of fisheries. This may be resolved by market-based systems such as catch shares, which permit shareholders to harvest a quantity of fish and which can be traded on the open market. Harvest limits based on the best available scientific information, whether as a total fishing limit for a species in a fishery or as a share assigned to each vessel participant, enable stressed stocks to rebuild. Other measures include staggering fishing seasons or limiting gear types to avoid gear conflicts on the fishing grounds and establishing seasonal and area closures to protect fishery stocks.

The FMCs provide a forum for public debate and, using the best scientific information available, make the judgments needed to determine optimum yield on a fishery-by-fishery basis. Optional management measures are examined and selected in accordance with the national standards set forth in the Magnuson-Stevens Act. This process, including the selection of the preferred management measures, constitutes the development, in simplified form, of an FMP. The FMP, together with draft implementing regulations and supporting documentation, is submitted to NMFS for review against the national standards set forth in the Magnuson-Stevens Act, in other provisions of the Act, and other applicable laws. The same process applies to amending an existing approved FMP.

Marine Mammal Protection Act

The Marine Mammal Protection Act of 1972 (MMPA) provides the authority for the conservation and management of marine mammals under U.S. jurisdiction. It expressly prohibits, with certain exceptions, the take of marine mammals. The MMPA allows NMFS to permit the collection of wild animals for scientific research or public display or to enhance the survival of a species or stock. NMFS initiates rulemakings under the MMPA to establish a management regime to reduce marine mammal mortalities and injuries as a result of interactions with fisheries. The MMPA also established the Marine Mammal Commission, which makes recommendations to the Secretaries of the Departments of Commerce and the Interior and other Federal officials on protecting and conserving marine mammals. The Act underwent significant changes in 1994 to allow for takings incidental to commercial fishing operations, to provide certain exemptions for subsistence and scientific uses, and to require the preparation of stock assessments for all marine mammal stocks in waters under U.S. jurisdiction.

Endangered Species Act

The Endangered Species Act of 1973 (ESA) provides for the conservation of species that are determined to be “endangered” or “threatened,” and the conservation of the ecosystems on which these species depend. The ESA authorizes both NMFS and the Fish and Wildlife Service (FWS) to jointly administer the provisions of the MMPA. NMFS manages marine and “anadromous” species, and FWS manages land and freshwater species. Together, NMFS and FWS work to protect critically imperiled species from extinction. Of the approximately 1,300 listed species found in part or entirely in the United States and its waters, NMFS has jurisdiction over approximately 60 species. NMFS' rulemaking actions are focused on determining whether any species under its responsibility is an endangered or threatened species and whether those species must be added to the list of protected species. NMFS is also responsible for designating, reviewing, and revising critical habitat for any listed species. In addition, under the ESA's procedural framework, Federal agencies consult with NMFS on any proposed action authorized, funded, or carried out by that agency that may affect one of the listed species or designated critical habitat, or is likely to jeopardize proposed species or adversely modify proposed critical habitat that is under NMFS' jurisdiction.

NOAA's Regulatory Plan Actions

While most of the rulemakings undertaken by NOAA do not rise to the level necessary to be included in Commerce's regulatory plan, NMFS is undertaking five actions that rise to the level of “most important” of Commerce's significant regulatory actions and thus are included in this year's regulatory plan. A description of the five regulatory plan actions is provided below.

1. Revisions to the General section and Standards 1, 3, and 7 of the National Standard Guidelines (0648-BB92): This action would propose revisions to the National Standard 1 (NS1) guidelines. National Standard 1 of the Magnuson-Stevens Fishery Conservation and Management Act states that “conservation and management measures shall prevent overfishing while achieving, on a continuing basis, the optimum yield from each fishery for the United States fishing industry.” The National Marine Fisheries Service last revised the NS1 Guidelines in 2009 to reflect the requirements enacted by the Magnuson-Stevens Fishery Conservation and Management Reauthorization Act of 2006 for annual catch limits and accountability measures to end and prevent overfishing. Since 2007, the National Marine Fisheries Service (NMFS) and the Regional Fishery Management Councils have been implementing the new annual catch limit and accountability measures requirements. Based on experience gained from implementing annual catch limits and accountability measures, NMFS has developed new perspectives and identified issues regarding the application of the NS1 guidelines that may warrant them to be revised to more fully meet the intended goal of preventing overfishing while achieving, on a continuing basis, the optimum yield from each fishery. The focus of this action is to improve the NS1 guidelines.

2. Proposed Rule To Designate Critical Habitat for North Atlantic Right Whale (0648-AY54): The National Marine Fisheries Service (NMFS) proposes to revise critical habitat for the North Atlantic right whale. This proposal would modify the critical habitat previously designated in 1994.

3. Fishery Management Plan for Regulating Offshore Marine Aquaculture in the Gulf of Mexico (0648-AS65): The purpose of this fishery management plan is to develop a regional permitting process for regulating and promoting environmentally sound and economically sustainable aquaculture in the Gulf of Mexico exclusive economic zone. This fishery management plan consists of ten actions, each with an associated range of management alternatives, which would facilitate the permitting of an estimated 5 to 20 offshore aquaculture operations in the Gulf of Mexico over the next 10 years, with an estimated annual production of up to 64 million pounds. By establishing a regional permitting process for aquaculture, the Gulf of Mexico Fishery Management Council will be positioned to achieve their primary goal of increasing maximum sustainable yield and optimum yield of federal fisheries in the Gulf of Mexico by supplementing harvest of wild caught species with cultured product. This rulemaking would outline a regulatory permitting process for aquaculture in the Gulf of Mexico, including: (1) Required permits; (2) duration of permits; (3) species allowed; (4) designation of sites for aquaculture; (5) reporting requirements; and (6) regulations to aid in enforcement.

4. Requirements for Importation of Fish and Fish Products Under the U.S. Marine Mammal Protection Act (0648-AY15): With this action, the National Marine Fisheries Service is developing procedures to implement the provisions of section 101(a)(2) of the Marine Mammal Protection Act for imports of fish and fish products. Those provisions require the Secretary of Treasury to ban imports of fish and fish products from fisheries with bycatch of marine mammals in excess of U.S. standards. The provisions further require the Secretary of Commerce to insist on reasonable proof from exporting nations of the effects on marine mammals of bycatch incidental to fisheries that harvest the fish and fish products to be imported.

5. Revised Proposed Rule To Designate Critical Habitat for the Hawaiian Monk Seal (0648-BA81): The National Marine Fisheries Service (NMFS) is developing a rule to designate critical habitat for the Hawaiian monk seal in the main and Northwestern Hawaiian Islands. In response to a 2008 petition from the Center for Biological Diversity, Kahea, and the Ocean Conservancy to revise Hawaiian monk seal critical habitat, NMFS published a proposed rule in June 2011 to revise Hawaiian monk seal critical habitat by adding critical habitat in the main Hawaiian Islands and extending critical habitat in the Northwestern Hawaiian Islands. Proposed critical habitat includes both marine and terrestrial habitats (e.g., foraging areas to 500 meter depth, pupping beaches, etc.). To address public comments on the proposed rule, NOAA Fisheries is augmenting its prior economic analysis to better describe the anticipated costs of the designation. NOAA Fisheries is analyzing new tracking data to assess monk seal habitat use in the main Hawaiian Islands.

At this time, NOAA is unable to determine the aggregate cost of the identified Regulatory Plan actions as several of these actions are currently under development.

Bureau of Industry and Security

The Bureau of Industry and Security (BIS) advances U.S. national security, foreign policy, and economic objectives by maintaining and strengthening adaptable, efficient, and effective export control and treaty compliance systems as well as by administering programs to prioritize certain contracts to promote the national defense and to protect and enhance the defense industrial base.

In August 2009, the President directed a broad-based interagency review of the U.S. export control system with the goal of strengthening national security and the competitiveness of key U.S. manufacturing and technology sectors by focusing on the current threats and adapting to the changing economic and technological landscape. In August 2010, the President outlined an approach under which agencies that administer export controls will apply new criteria for determining what items need to be controlled and a common set of policies for determining when an export license is required. The control list criteria are to be based on transparent rules, which will reduce the uncertainty faced by our Allies, U.S. industry and its foreign customers, and will allow the Government to erect higher walls around the most sensitive export items in order to enhance national security.

Under the President's approach, agencies will apply the criteria and revise the lists of munitions and dual-use items that are controlled for export so that they:

Distinguish the types of items that should be subject to stricter or more permissive levels of control for different destinations, end-uses, and end-users;

Create a “bright line” between the two current control lists to clarify jurisdictional determinations and reduce Government and industry uncertainty about whether particular items are subject to the control of the State Department or the Commerce Department; and

Are structurally aligned so that they potentially can be combined into a single list of controlled items.

BIS' current regulatory plan action is designed to implement the initial phase of the President's directive, which will add to BIS' export control purview, military related items that the President determines no longer warrant control under rules administered by the State Department.

Major Programs and Activities

BIS administers four sets of regulations. The Export Administration Regulations (EAR) regulate exports and reexports to protect national security, foreign policy, and short supply interests. The EAR also regulates participation of U.S. persons in certain boycotts administered by foreign Governments. The National Defense Industrial Base Regulations provide for prioritization of certain contracts and allocations of resources to promote the national defense, require reporting of foreign Government-imposed offsets in defense sales, and address the effect of imports on the defense industrial base. The Chemical Weapons Convention Regulations implement declaration, reporting, and on-site inspection requirements in the private sector necessary to meet United States treaty obligations under the Chemical Weapons Convention treaty. The Additional Protocol Regulations implement similar requirements with respect to an agreement between the United States and the International Atomic Energy Agency.

BIS also has an enforcement component with nine offices with enforcement responsibilities covering the United States. BIS export control officers are also stationed at several U.S. embassies and consulates abroad. BIS works with other U.S. Government agencies to promote coordinated U.S. Government efforts in export controls and other programs. BIS participates in U.S. Government efforts to strengthen multilateral export control regimes and to promote effective export controls through cooperation with other Governments.

BIS' Regulatory Plan Actions

As the agency responsible for leading the administration and enforcement of U.S. export controls on dual-use and other items warranting controls but not under the provisions of export control regulations administered by other departments, BIS plays a central role in the Administration's efforts to fundamentally reform the export control system. Changing what we control, how we control it and how we enforce and manage our controls will help strengthen our national security by focusing our efforts on controlling the most critical products and technologies, and by enhancing the competitiveness of key U.S. manufacturing and technology sectors.

In FY 2011, BIS took several steps to implement the President's Export Control Reform Initiative (ECRI). BIS published a final rule (76 FR 35275, June 16, 2011) implementing a license exception that authorizes exports, reexports and transfers to destinations that do not pose a national security concern, provided certain safeguards against diversion to other destinations are taken. BIS also proposed several rules to control under the EAR items that the President has determined do not warrant control under the International Traffic in Arms Regulations (ITAR), administered by the Department of State rule (76 FR 41957), and its United States Munitions List (USML).

In FY 2012, BIS followed up on its FY 2011 successes with the ECRI and proposed rules that would move items currently controlled in nine categories of the USML to control under the Commerce Control List (CCL), administered by BIS. In addition, BIS proposed a rule to ease the implementation process for transitioning items and re-proposed a revised key definition from the July 15 Rule, “specially designed,” that had received extensive public comment. In FY 2013, after State Department notification to Congress of the transfer of items from the USML, BIS expects to be able to publish a final rule incorporating many of the proposed changes and revisions based on public responses to the proposals.

In FY 2013, BIS activities crossed an important milestone with publication of two final rules that began to put ECRI policies into place. An Initial Implementation rule (73 FR 22660, April 16, 2013) sets in place the structure under which items the President determines no longer warrant control on the United States Munitions List will be controlled on the Commerce Control List. It also revises license exceptions and regulatory definitions, including the definition of “specially designed” to more make those exceptions and definitions clearer and to more close align them with the International Traffic in Arms Regulations, and adds to the CCL certain military aircraft, gas turbine engines and related items. A second final rule (78 FR 40892, July 8 2012) followed on by adding to the CCL military vehicles, vessels of war submersible vessels, and auxiliary military equipment that President determined no longer warrant control on the USML.

In FY 2014, BIS continued its emphasis on the ECRI by publishing three final rules adding to the Commerce Control List, items the President determined no long warrant control on the United States Munitions List (including a rule returning jurisdiction over Commercial Satellites to the Department of Commerce), as follows:

January 2—Control of Military Training Equipment, Energetic Materials, Personal Protective Equipment, Shelters, Articles Related to Launch Vehicles, Missiles, Rockets, Military Explosives and Related Items;

May 13—Revisions to the Export Administration Regulations (EAR): Control of Spacecraft Systems and Related Items the President Determines No Longer Warrant Control Under the United States Munitions List (USML); and

July 1—Revisions to the Export Administration Regulations (EAR): Control of Military Electronic Equipment and Other Items the President Determines No Longer Warrant Control Under the United States Munitions List

BIS expects to publish additional ECRI final rules in FY 2015.

Promoting International Regulatory Cooperation

As the President noted in Executive Order 13609, “international regulatory cooperation, consistent with domestic law and prerogatives and U.S. trade policy, can be an important means of promoting” public health, welfare, safety, and our environment as well as economic growth, innovation, competitiveness, and job creation. Accordingly, in EO 13609, the President requires each executive agency to include in its Regulatory Plan a summary of its international regulatory cooperation activities that are reasonably anticipated to lead to significant regulations.

The Department of Commerce engages with numerous international bodies in various forums to promote the Department's priorities and foster regulations that do not “impair the ability of American business to export and compete internationally.” EO 13609(a). For example, the United States Patent and Trademark Office is working with the European Patent Office to develop a new classification system for both offices' use. The Bureau of Industry and Security, along with the Department of State and Department of Defense, engages with other countries in the Wassenaar Arrangement, through which the international community develops a common list of items that should be subject to export controls because they are conventional arms or items that have both military and civil uses. Other multilateral export control regimes include the Missile Technology Control Regime, the Nuclear Suppliers Group, and the Australia Group, which lists items controlled for chemical and biological weapon nonproliferation purposes. In addition, the National Oceanic and Atmospheric Administration works with other countries' regulatory bodies through regional fishery management organizations to develop fair and internationally-agreed-to fishery standards for the High Seas.

BIS is also engaged, in partnership with the Departments of State and Defense, in revising the regulatory framework for export control, through the President's Export Control Reform Initiative (ECRI). Through this effort, the United States Government is moving certain items currently controlled by the United States Military List (USML) to the Commerce Control List (CCL) in BIS' Export Administration Regulations. The objective of ECRI is to improve interoperability of U.S. military forces with those of allied countries, strengthen the U.S. industrial base by, among other things, reducing incentives for foreign manufacturers to design out and avoid U.S.-origin content and services, and allow export control officials to focus Government resources on transactions that pose greater concern. Once fully implemented, the new export control framework also will benefit companies in the United States seeking to export items through more flexible and less burdensome export controls.

Retrospective Review of Existing Regulations

Pursuant to section 6 of Executive Order 13563 “Improving Regulation and Regulatory Review” (Jan. 18, 2011), the Department has identified several rulemakings as being associated with retrospective review and analysis in the Department's final retrospective review of regulations plan. Accordingly, the Agency is reviewing these rules to determine whether action under E.O. 13563 is appropriate. Some of these entries on this list may be completed actions, which do not appear in The Regulatory Plan. However, more information can be found about these completed rulemakings in past publications of the Unified Agenda on Reginfo.gov in the Completed Actions section for the Agency. These rulemakings can also be found on Regulations.gov. The final Agency retrospective analysis plan can be found at: http://open.commerce.gov/sites/default/files/Commerce%20Plan%20for%20Retrospective%20Analysis%20of%20Existing%20Rules%20-%202011-08-22%20Final.pdf

DOC—National Oceanic and Atmospheric Administration (NOAA)

Proposed Rule Stage

33. Requirements for Importation of Fish and Fish Product Under the U.S. Marine Mammal Protection Act

Priority: Other Significant.

Legal Authority: 16 U.S.C. 1371 et seq.

CFR Citation: 50 CFR 216.

Legal Deadline: None.

Abstract: With this action, NMFS is developing procedures to implement the provisions of section 101(a)(2) of the Marine Mammal Protection Act for imports of fish and fish products. Those provisions require the Secretary of Treasury to ban imports of fish and fish products from fisheries with bycatch of marine mammals in excess of U.S. standards. The provisions further require the Secretary of Commerce to insist on reasonable proof from exporting nations of the effects on marine mammals of bycatch incidental to fisheries that harvest the fish and fish products to be imported. Implementation of this rule may have trade implications. However, the impacts will be limited primarily to foreign entities, with no anticipated impacts to U.S. fishermen.

Statement of Need: The Marine Mammal Protection Act requires that the United States prohibit imports of fish caught in a manner that results in bycatch of marine mammals in excess of U.S. standards.

Summary of Legal Basis: Marine Mammal Protection Act.

Alternatives: An alternative to this rulemaking that would facilitate marine mammal conservation overseas would be through cooperation and assistance programs. While the U.S. has developed effective bycatch mitigation techniques and applied these in many fisheries, there is no guarantee that these methods will be freely adopted in foreign fisheries. Technical and financial assistance for the development and implementation of marine mammal bycatch mitigation measures would not be precluded by this rulemaking, but market access incentives will increase the likelihood of action by harvesting nations exporting to the U.S.

Anticipated Cost and Benefits: Potential benefits of this rulemaking include: an incentive for exporting nations to adopt and implement marine mammal conservation standards comparable to the U.S. as a condition for access to the U.S. seafood market, establishing a review process for determining the effectiveness of mitigation measures adopted by foreign nations; decreasing the likelihood that marine mammal stocks will be further depleted; and increasing the availability of information on marine mammal distribution and abundance and the threats posed by fisheries interactions. Anticipated costs include: increased administrative costs of monitoring trade and making determinations about foreign fisheries bycatch of marine mammals; increased costs on seafood importers related to certifying import eligibility, and increased requests for international cooperation and assistance and attendant costs to implement mitigation measures.

Risks: Prohibiting imports from seafood exporting nations that cause bycatch of marine mammals in excess of U.S. standards will diminish the risk of further declines in marine mammal stocks that are affected by foreign fisheries.

Timetable:

Action | Date | FR Cite
ANPRM | 04/30/10 | 75 FR 22731
Reopening ANPR comment period | 07/01/10 | 75 FR 38070
NPRM | 02/00/15 |
Final Action | 08/00/15 |

Regulatory Flexibility Analysis Required: Yes.

Small Entities Affected: Businesses.

Government Levels Affected: None.

International Impacts: This regulatory action will be likely to have international trade and investment effects, or otherwise be of international interest.

Agency Contact: Rodney Mcinnis, Director, Office of International Affairs, Department of Commerce, National Oceanic and Atmospheric Administration, 1315 East-West Hwy, Silver Spring, MD 20910, Phone: 562 980-4005, Email: rod.mcinnis@noaa.gov.

Related RIN: Related to 0648-AX36

RIN: 0648-AY15

DOC—NOAA

34. Designation of Critical Habitat for the North Atlantic Right Whale

Priority: Other Significant.

Legal Authority: 16 U.S.C. 1361 et seq.; 16 U.S.C. 1531 to 1543.

CFR Citation: 50 CFR 226; 50 CFR 229.

Legal Deadline: None.

Abstract: National Marine Fisheries Service proposes to revise critical habitat for the North Atlantic right whale. This proposal would result in modifying the critical habitat that was designated in 1994.

Statement of Need: Under section 4 of the Endangered Species Act, NOAA Fisheries is required to designate critical habitat for newly listed species and revise as new information becomes available.

Summary of Legal Basis: Endangered Species Act

Alternatives: Critical habitat is defined as (i) the specific areas within the geographical area occupied by the species, at the time it is listed, on which are found those physical or biological features (I) essential to the conservation of the species and (II) which may require special management considerations or protection; and (ii) specific areas outside the geographical area occupied by the species at the time it is listed, upon a determination by the Secretary that such areas are essential for the conservation of the species. In developing this rule, NOAA Fisheries is analyzing best available information regarding where these areas occur and performing economic impact analysis to inform designation.

Anticipated Cost and Benefits: Because this rule is presently in the beginning stages of development, no analysis has been completed at this time to assess costs and benefits.

Risks: Loss of critical habitat for a species listed as protected under the ESA and Marine Mammals Protection Act, as well as potential loss of right whales due to habitat loss.

Timetable:

Action | Date | FR Cite
NPRM | 01/00/15 |

2

Regulatory Flexibility Analysis Required: Yes.

Small Entities Affected: Businesses.

Government Levels Affected: None.

Agency Contact: Donna Wieting, Fishery Biologist, Office of Protected Resources, Department of Commerce, National Oceanic and Atmospheric Administration, National Marine Fisheries Service, 1315 East-West Highway, Silver Spring, MD 20910, Phone: 301 713-2322.

RIN: 0648-AY54

DOC—NOAA

35. Revision of Hawaiian Monk Seal Critical Habitat

Priority: Other Significant.

Legal Authority: 16 U.S.C. 1533

CFR Citation: 50 CFR 226.

Legal Deadline: None.

Abstract: National Oceanic and Atmospheric Administration (NOAA) Fisheries is developing a revised proposed rule to designate critical habitat for the Hawaiian monk seal in the main and Northwestern Hawaiian Islands. In response to a 2008 petition from the Center for Biological Diversity, Kahea, and the Ocean Conservancy to revise Hawaiian monk seal critical habitat, NOAA Fisheries published a proposed rule in June 2011 to revise Hawaiian monk seal critical habitat by adding critical habitat in the main Hawaiian Islands and extending critical habitat in the Northwestern Hawaiian Islands. Proposed critical habitat includes both marine and terrestrial habitats (e.g., foraging areas to 500 meter depth, pupping beaches, etc.). To address public comments on the proposed rule, NOAA Fisheries is augmenting its prior economic analysis to better describe the anticipated costs of the designation. NOAA Fisheries is analyzing new tracking data to assess monk seal habitat use in the main Hawaiian Islands.

Statement of Need: Hawaiian monk seal critical habitat was last designated in 1988. Since the 1988 designation, new information regarding Hawaiian monk seal habitat use has become available. A revision to this designation would allow NMFS to more accurately define those features and areas that are important to support Hawaiian monk seal conservation by modifying existing critical habitat in the Northwestern Hawaiian Islands and proposing critical habitat in the main Hawaiian Islands. NMFS published a proposed rule to designate critical habitat in 2011. The agency has made changes to the 2011 proposed rule in response to public comment, and now plans to release a second, revised proposed rule to provide an opportunity for the public to comment on these changes.

Summary of Legal Basis: Endangered Species Act.

Alternatives: In the 2011 proposed rule, NMFS considered the alternative of not revising critical habitat for the Hawaiian monk seal, the alternative of designating all potential critical habitat areas, and the alternative of designating a subset of all potential critical habitat areas, excluding those areas where the benefits of exclusion outweigh the benefits of designation in accordance with 4(b)(2) of the Endangered Species Act. Under the preferred alternative NMFS proposed for designation 10 specific areas in the Northwestern Hawaiian Islands and 6 specific areas in the main Hawaiian Islands which support terrestrial pupping and haul-out areas as well as marine foraging areas. Within four of the main Hawaiian Islands specific areas, NMFS proposed exclusions to reduce the impacts to national security.

Anticipated Cost and Benefits: The economic analysis is currently being revised to reflect changes in response to public comments received. The primary benefit of designation is the protection afforded under section 7 of the Endangered Species Act, requiring all Federal agencies to insure their actions are not likely to destroy or adversely modify designated critical habitat. In addition to these protections, the designation may also result in other forms of benefits including, but not limited to: Educational awareness and outreach benefits, benefits to tourism and recreation, and improved or sustained habitat quality. The designation of critical habitat typically does not impose additional costs in occupied habitat, where Federal agencies are already required to consult with NMFS as a consequence of the listed species being present. However, in unoccupied habitat the rule may impose administrative costs on Federal agencies as well as costs on Federal agencies and third parties stemming from project modifications to mitigate impacts to critical habitat.

Risks: The Endangered Species Act requires designation of critical habitat following the listing of a species. If critical habitat is not designated, the species will not be protected to the extent provided for in the Endangered Species Act, posing a risk to the species continued existence and recovery.

Timetable:

Action | Date | FR Cite
NPRM | 06/02/11 | 76 FR 32026
Notice of Public Meetings | 07/14/11 | 76 FR 41446
Other | 06/25/12 | 77 FR 37867
Second NPRM | 02/00/15 |

Regulatory Flexibility Analysis Required: Yes.

Small Entities Affected: Businesses, Governmental Jurisdictions, Organizations.

Government Levels Affected: Federal, Local, State.

Agency Contact: Donna Wieting, Fishery Biologist, Office of Protected Resources, Department of Commerce, National Oceanic and Atmospheric Administration, National Marine Fisheries Service, 1315 East-West Highway, Silver Spring, MD 20910, Phone: 301 713-2322.

Related RIN: Related to 0648-AX23

RIN: 0648-BA81

DOC—NOAA

36. Revision of the National Standard 1 Guidelines

Priority: Other Significant.

Legal Authority: 16 U.S.C. 1801 et seq.; Pub. L. 94-265.

CFR Citation: 50 CFR 600.

Legal Deadline: None.

Abstract: This action would propose revisions to the National Standard 1 (NS1) guidelines. National Standard 1 of the Magnuson-Stevens Fishery Conservation and Management Act states that conservation and management measures shall prevent overfishing while achieving, on a continuing basis, the optimum yield from each fishery for the United States fishing industry. National Oceanic and Atmospheric Administration Fisheries last revised the NS1 Guidelines in 2009 to reflect the requirements enacted by the Magnuson-Stevens Fishery Conservation and Management Reauthorization Act of 2006 for annual catch limits and accountability measures to end and prevent overfishing. Since 2007, the National Marine Fisheries Service and the Regional Fishery Management Councils have been implementing the new annual catch limit and accountability measures requirements. Based on experience gained from implementing annual catch limits and accountability measures, NMFS has developed new perspectives and identified issues regarding the application of the NS1 guidelines that may warrant them to be revised to more fully meet the intended goal of preventing overfishing while achieving, on a continuing basis, the optimum yield from each fishery. The focus of this action is to improve the NS1 guidelines.

Statement of Need: Since 2007, fisheries management within the U.S. has experienced many changes, in particular the implementation of annual catch limits and accountability measures under all fishery management plans. Based on this experience, the NMFS believes the National Standard guidelines can be improved to enhance the utility of the guidelines for managers and the public. The objective of the proposed revisions is to improve and streamline the guidelines, address concerns raised during the implementation of annual catch limits and accountability measures, and provide flexibility within current statutory limits to address fishery management issues.

Summary of Legal Basis: Magnuson-Stevens Fishery Conservation and Management Act.

Alternatives: The rule attempts to improve fisheries management by proposing alternatives that clarify guidance in the following topic areas: (1) Identifying fishery management objectives; (2) identifying whether stocks require conservation and management; (3) managing data limited stocks; (4) stock complexes; (5) aggregate maximum sustainable yield estimates; (6) depleted stocks; (7) multi-year overfishing determinations; (8) optimum yield; (9) acceptable biological catch control rules; (10) accountability measures; (11) establishing annual catch limits and accountability measures mechanisms in Fishery Management Plans; and (12) flexibility in rebuilding stocks.

Anticipated Cost and Benefits: The changes to the guidelines would not establish any new requirements and thus are technical in nature. As such, the changes would allow, but do not require the Fishery Management Councils or the Secretary of Commerce, to make changes to their Fishery Management Plans. Because changes to the guidelines would not directly alter the behavior of any entities that operate in federally managed fisheries, no direct economic effects are expected to result from this action. The potential benefits of revising the National Standard guidelines include: improving and streamlining the guidance, providing additional clarity, and providing flexibility to address fishery management issues.

Risks: NMFS anticipates that a revision to the National Standard guidelines would enhance the utility of the guidelines. NMFS does not foresee any risks associated with revising the National Standard guidelines.

Timetable:

Action | Date | FR Cite
ANPRM | 05/03/12 | 77 FR 26238
ANPRM Comment Period Extended | 07/03/12 | 77 FR 39459
NPRM | 12/00/14 |

Regulatory Flexibility Analysis Required: No.

Small Entities Affected: No.

Government Levels Affected: Federal.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

Related RIN: Related to 0648-AV60

RIN: 0648-BB92

DOC—NOAA

Final Rule Stage

37. Fishery Management Plan for Regulating Offshore Marine Aquaculture in the Gulf of Mexico

Priority: Other Significant.

Legal Authority: 16 U.S.C. 1801 et seq.

CFR Citation: 50 CFR 622.

Legal Deadline: None.

Abstract: The purpose of this fishery management plan is to develop a regional permitting process for regulating and promoting environmentally sound and economically sustainable aquaculture in the Gulf of Mexico exclusive economic zone. This fishery management plan consists of ten actions, each with an associated range of management alternatives, which would facilitate the permitting of an estimated 5 to 20 offshore aquaculture operations in the Gulf of Mexico over the next 10 years, with an estimated annual production of up to 64 million pounds. By establishing a regional permitting process for aquaculture, the Gulf of Mexico Fishery Management Council will be positioned to achieve their primary goal of increasing maximum sustainable yield and optimum yield of federal fisheries in the Gulf of Mexico by supplementing harvest of wild caught species with cultured product. This rulemaking would outline a regulatory permitting process for aquaculture in the Gulf of Mexico, including: (1) Required permits; (2) duration of permits; (3) species allowed; (4) designation of sites for aquaculture; (5) reporting requirements; and (6) regulations to aid in enforcement.

Statement of Need: Demand for protein is increasing in the United States and commercial wild-capture fisheries will not likely be adequate to meet this growing demand. Aquaculture is one method to meet current and future demands for seafood. Supplementing the harvest of domestic fisheries with cultured product will help the U.S. meet consumers' growing demand for seafood and may reduce the Nation's dependence on seafood imports. Currently, the U.S. imports over 80 percent of the seafood consumed in the country, and the annual U.S seafood trade deficit is at an all time high of over $9 billion.

Summary of Legal Basis: Magnuson-Stevens Fishery Conservation and Management Act, 16 U.S.C. 1801 et seq.

Alternatives: The Council's Aquaculture FMP includes 10 actions, each with an associated range of alternatives. These actions and alternatives are collectively intended to establish a regional permitting process for offshore aquaculture. Management actions in the FMP include: (1) Aquaculture permit requirements, eligibility, and transferability; (2) duration aquaculture permits are effective; (3) aquaculture application requirements, operational requirements, and restrictions; (4) species allowed for aquaculture; (5) allowable aquaculture systems; (6) marine aquaculture siting requirements and conditions; (7) restricted access zones for aquaculture facilities; (8) recordkeeping and reporting requirements; (9) biological reference points and status determination criteria; and (10) framework procedures for modifying biological reference points and regulatory measures.

Anticipated Cost and Benefits: Environmental and social/economic costs and benefits are described in detail in the Council's Aquaculture FMP. Potential benefits include: establishing a rigorous review process for reviewing and approving/denying aquaculture permits; increasing optimum yield by supplementing the harvest of wild domestic fisheries with cultured products; and reducing the Nation's dependence on imported seafood. Anticipated costs include increased administration and oversight of an aquaculture permitting process, and potential negative environmental impacts to wild marine resources. Approval of an aquaculture permitting system may also benefit fishing communities by creating new jobs.

Risks: Currently, 90% of seafood consumed in the United States is imported. Offshore aquaculture operations will aid in meeting the increasing demand for seafood and improve U.S. food security.

Timetable:

Action | Date | FR Cite
Notice of Availability | 06/04/09 | 74 FR 26829
NPRM | 08/28/14 | 79 FR 26829
Final Action | 05/00/15 |

Regulatory Flexibility Analysis Required: Yes.

Small Entities Affected: Businesses.

Government Levels Affected: None.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-AS65

BILLING CODE 3510-12-P

DEPARTMENT OF DEFENSE

Statement of Regulatory Priorities

Background

The Department of Defense (DoD) is the largest Federal department, consisting of three Military departments (Army, Navy, and Air Force), nine Unified Combatant Commands, 17 Defense Agencies, and ten DoD Field Activities. It has 1,357,218 military personnel and 853,102 civilians assigned as of June 30, 2014, and over 200 large and medium installations in the continental United States, U. S. territories, and foreign countries. The overall size, composition, and dispersion of DoD, coupled with an innovative regulatory program, presents a challenge to the management of the Defense regulatory efforts under Executive Order 12866 “Regulatory Planning and Review” of September 30, 1993.

Because of its diversified nature, DoD is affected by the regulations issued by regulatory agencies such as the Departments of Commerce, Energy, Health and Human Services, Housing and Urban Development, Labor, State, Transportation, and the Environmental Protection Agency. In order to develop the best possible regulations that embody the principles and objectives embedded in E.O. 12866, there must be coordination of proposed regulations among the regulatory agencies and the affected DoD components. Coordinating the proposed regulations in advance throughout an organization as large as DoD is a straightforward, yet formidable, undertaking.

DoD issues regulations that have an effect on the public and can be significant as defined in E.O. 12866. In addition, some of DoD's regulations may affect other agencies. DoD, as an integral part of its program, not only receives coordinating actions from other agencies, but coordinates with the agencies that are affected by its regulations as well.

Overall Priorities

The Department needs to function at a reasonable cost, while ensuring that it does not impose ineffective and unnecessarily burdensome regulations on the public. The rulemaking process should be responsive, efficient, cost-effective, and both fair and perceived as fair. This is being done in DoD while reacting to the contradictory pressures of providing more services with fewer resources. The Department of Defense, as a matter of overall priority for its regulatory program, fully incorporates the provisions of the President's priorities and objectives under Executive Order (E.O.) 12866.

International Regulatory Cooperation

As the President noted in Executive Order 13609, “international regulatory cooperation, consistent with domestic law and prerogatives and U.S. trade policy, can be an important means of promoting” public health, welfare, safety, and our environment as well as economic growth, innovation, competitiveness, and job creation. Accordingly, in Executive Order 13609, the President requires each executive agency to include in its Regulatory Plan a summary of its international regulatory cooperation activities that are reasonably anticipated to lead to significant regulations.

The Department of Defense, along with the Department of State and the Department of Commerce, engages with other countries in the Wassenaar Arrangement, through which the international community develops a common list of items that should be subject to export controls.

Retrospective Review of Existing Regulations

Pursuant to section 6 of Executive Order 13563 “Improving Regulation and Regulatory Review (January 18, 2011), the following Regulatory Identifier Numbers (RINs) have been identified as associated with retrospective review and analysis in the Department's final retrospective review of regulations plan. All are of particular interest to small businesses. Some of these entries on this list may be completed actions, which do not appear in The Regulatory Plan. However, more information can be found about these completed rulemakings in past publications of the Unified Agenda on Reginfo.gov in the Completed Actions section for that agency. These rulemakings can also be found on Regulations.gov. The final agency plan and all updates to the plan can be found at: http://www.regulations.gov/#!docketDetail;D=DOD-2011-OS-0036.

RIN | Rule title (* expected to significantly reduce burdens on small businesses)
0701-AA76 | Air Force Freedom of Information Act Program.
0701-AA77 | Air Force Privacy Act Program.
0703-AA87 | United States Navy Regulations and Official Records.
0703-AA90 | Guidelines for Archaeological Investigation Permits and Other Research on Sunken Military Craft and Terrestrial Military Craft Under the Jurisdiction of the Department of the Navy.
0703-AA91 | Unofficial Use of the Seal, Emblem, Names, or Initials of the Marine Corps.
0703-AA92 | Professional Conduct of Attorneys Practicing Under the Cognizance and Supervision of the Judge Advocate General.
0710-AA66 | Civil Monetary Penalty Inflation Adjustment Rule.
0710-AA60 | Nationwide Permit Program Regulations.*
0750-AG47 | Safeguarding Unclassified Controlled Technical Information (DFARS Case 2011-D039).
0750-AG62 | Patents, Data, and Copyrights (DFARS Case 2010-D001).
0750-AH11 | Only One Offer (DFARS Case 2011-D013).
0750-AH19 | Accelerated Payments to Small Business (DFARS Case 2011-D008).
0750-AH54 | Performance-Based Payments (DFARS Case 2011-D045).
0750-AH70 | Defense Trade Cooperation Treaty With Australia and the United Kingdom (DFARS Case 2012-D034).
0750-AH86 | Forward Pricing Rate Proposal Adequacy Checklist (DFARS Case 2012-D035).
0750-AH87 | System for Award Management Name Changes, Phase 1 Implementation (DFARS Case 2012-D053).
0750-AH90 0750-AH94 0750-AH95 0750-AI02 0750-AI10 0750-AI19 0750-AI27 | Clauses With Alternates.
0750-AI03 | Approval of Rental Waiver Requests (DFARS Case 2013-D006).
0750-AI07 | Storage, Treatment, and Disposal of Toxic or Hazardous Materials—Statutory Update (DFARS Case 2013-D013).
0750-AI18 | Photovoltaic Devices (DFARS Case 2014-D006).
0750-AI34 | State Sponsors of Terrorism (DFARS Case 2014-D014).
0790-AI24 | DoD Freedom of Information Act (FOIA) Program Regulation.
0790-AI30 | Defense Contract Management Agency (DCMA) Privacy Program.
0790-AI42 | Personnel Security Program.
0790-AI51 | DoD Freedom of Information Act (FOIA) Program; Amendment.
0790-AI54 | Defense Support of Civilian Law Enforcement Agencies.
0790-AI63 | Alternative Dispute Resolution.
0790-AI71 | National Industrial Security Program (NISP): Procedures for Government Activities Relating to Foreign Ownership, Control or Influence (FOCI).
0790-AI73 | Withholding of Unclassified Technical Data From Public Disclosure.
0790-AI75 | Presentation of DoD-Related Scientific and Technical Papers at Meetings.
0790-AI77 | Provision of Early Intervention and Special Education Services to Eligible DoD Dependents.
0790-AI84 | National Defense Science and Engineering Graduate (NDSEG) Fellowships.
0790-AI86 | Defense Logistics Agency Privacy Program.
0790-AI87 | Defense Logistics Agency Freedom of Information Act Program.
0790-AI88 | Shelter for the Homeless.
0790-AI90 | DoD Assistance to Non-Government, Entertainment-Oriented Media Productions.
0790-AI92 | Inspector General; Privacy Act; Implementation.
0790-AJ00 | Civilian Employment and Reemployment Rights of Applicants for, and Service Members and Former Service Members, of the Uniformed Services.
0790-AJ03 | DoD Privacy Program.
0790-AJ04 | Unlawful Discrimination (On the Basis of Race, Color, National Origin, or Age in Programs or Activities Receiving Federal Financial Assistance From the DoD).
0790-AJ05 | End Use Certificates (EUCs).
0790-AJ06 | Voluntary Education Programs.
0790-AJ07 | Historical Research in the Files of the Office of the Secretary of Defense (OSD).
0790-AJ10 | Enhancement of Protections on Consumer Credit for Members of the Armed Forces and Their Dependents.
0790-AJ20 | DoD Privacy Program Pursuant to Executive Order 13563, DoD also removed 32 CFR part 513, “Indebtedness of Military Personnel,” because the part is obsolete and the governing policy is now codified at 32 CFR part 112.

Administration Priorities

1. Rulemakings That Are Expected To Have High Net Benefits Well in Excess of Costs

The Department plans to—

• Finalize the DFARS rule to implement section 806 of the National Defense Authorization Act (NDAA) for Fiscal Year (FY) 2011, as amended by section 806 of the NDAA for FY 2013. Section 806 requires the evaluation of offerors' supply chain risks for information technology purchases relating to national security systems. This rule enables agencies to exclude sources that are identified as having a supply chain risk in order to minimize the potential risk for purchased supplies and services to maliciously introduce unwanted functions and degrade the integrity and operation of sensitive information technology systems.

• Finalize the DFARS rule to provide guidance to contractors for the submittal of forward pricing rate proposals to ensure the adequacy of forward pricing rate proposals submitted to the Government. The rule provides guidance to contractors to ensure that forward pricing rate proposals are thorough, accurate, and complete.

• Finalize the DFARS rule to implement section 1602 of the NDAA for FY 2014. Section 1602 prohibits award of a contract for commercial satellite services from certain foreign entities if the Secretary of Defense reasonably believes that the foreign entity is one in which the government of a foreign country has an ownership interest that enables the government to affect satellite operations. There is a potential risk to national security if DoD uses commercial satellite services for DoD communications and the government of a covered foreign country has an ownership interest that enables the government to affect satellite operations. Likewise, if launch or other satellite services under the contract are occurring in a covered country, the government of that country could impact the ability of the foreign entity to adequately provide those services.

2. Rulemakings of Particular Interest to Small Businesses

The Department plans to—

• Finalize the DFARS rule to delete text in DFARS part 219 that implemented 10 U.S.C. 2323 because 10 U.S.C. 2323 has expired. Removal of the obsolete implementing coverage for 10 U.S.C. 2323 will bring DFARS up to date and provide accurate and indisputable regulations affecting the small business and vendor communities. 10 U.S.C. 2323 had provided the underlying statutory authority for DoD's Small Disadvantaged Business (SDB) Program and served as the basis for DoD's use of certain solicitation techniques to further its SDB participation rate. Notwithstanding removal of this statutory authority from the DFARS, DoD's fundamental procurement policies continue to provide strong support for SDB participation as evidenced by DoD meeting or exceeding the annual Governmentwide statutory SDB prime contracting goals since 2001.

• Through “Policy for Domestic, Municipal, and Industrial Water Supply Uses of Reservoir Projects Operated by the Department of the Army, U.S. Army Corps of Engineers,” (RIN 0710-AA72), update and clarify the policies governing the use of storage in U.S. Army Corps of Engineers reservoir projects for domestic, municipal, and industrial water supply.

3. Rulemakings That Streamline Regulations, Reduce Unjustified Burdens, and Minimize Burdens on Small Businesses

The Department plans to—

• Finalize the DFARS rule to implement section 802 of the NDAA for FY 2012 to allow a covered litigation support contractor access to technical, proprietary, or confidential data for the sole purpose of providing litigation support. DFARS Case 2012-D029, Disclosure to Litigation Support to Contractors, pertains.

• Finalize the DFARS rule to require scientific and technical reports be submitted in electronic format. This rule, DFARS Case 2014-D0001, will streamline the submission process by no longer requiring the electronically initiated report to be printed for submission.

4. Rules To Be Modified, Streamlined, Expanded, or Repealed To Make the Agency's Regulatory Program More Effective or Less Burdensome in Achieving the Regulatory Objectives

• DFARS Cases 2013-D005, Clauses with Alternates—Foreign Acquisition, 2013-D025, Clauses with Alternates—Taxes, and 2014-D004, Clauses with Alternates—Special Contracting Methods, Major System Acquisition, and Service Contract—Propose a new convention for prescribing clauses with alternates to provide alternate clauses in full text. This will facilitate selection of alternate clauses using automated contract writing systems. The inclusion of the full text of the alternate clauses in the regulation for use in solicitations and contracts should make the terms of the alternate clauses clearer to offerors and contractors by clarifying paragraph substitutions. As a result, inapplicable paragraphs from the basic clause that are superseded by the alternate will not be included in solicitations or contracts, reducing the potential for confusion.

• Finalize the rule for DFARS, DFARS Case 2014-D014, State Sponsors of Terrorism, to clarify and relocate coverage relating to state sponsors of terrorism, add an explicit representation, and conform the terminology to replace the term “terrorist country” with the more accurate term “country that is a state sponsor of terrorism.” DFARS subpart 209.1 text is being relocated to subpart 225.7. Subpart 225.7 is a better location because the prohibition is based on ownership or control of an offeror by the government of specified countries, rather than the responsibility of the individual offeror. Correspondingly, the provision at 252.209-7001 is being removed and replaced by a newly proposed provision 252.225-70XX.

5. Rulemakings That Have a Significant International Impact

• Finalize the rule to revise the DFARS to improve awareness, compliance, and enforcement of DoD policies on combating trafficking in persons. The rule will further improve stability, productivity, and certainty in the contingency operations that DoD supports and ensure that DoD contractors do not benefit from the use of coerced labor.

Specific DoD Priorities

For this regulatory plan, there are six specific DoD priorities, all of which reflect the established regulatory principles. DoD has focused its regulatory resources on the most serious environmental, health, and safety risks. Perhaps most significant is that each of the priorities described below promulgates regulations to offset the resource impacts of Federal decisions on the public or to improve the quality of public life, such as those regulations concerning acquisition, health affairs, education, and cyber security.

1. Defense Procurement and Acquisition Policy

The Department of Defense continuously reviews the DFARS and continues to lead Government efforts to—

• Revise the DFARS to improve presentation and clarity of the regulations by (1) initiating a new convention to construct clauses with alternates in a manner whereby the alternate clauses are included in full text making the terms of the alternates clearer by clarifying paragraph substitutions and (2) streamline the DFARS by screening the text to identify any DoD procedural guidance that does not have a significant effect beyond the internal operating procedures of DoD or have a significant cost or administrative impact on contractors or offerors, which should be more correctly relocated from the DFARS to the DFARS Procedures, Guidance, and Information (PGI).

• Employ methods to facilitate and improve efficiency of the contracting process such as (1) employing a checklist to assist contractors in providing initial submission of FPRA proposals that are thorough, accurate, and complete and (2) requiring scientific and technical reports to be submitted electronically.

2. Health Affairs, Department of Defense

The Department of Defense is able to meet its dual mission of wartime readiness and peacetime health care by operating an extensive network of medical treatment facilities. This network includes DoD's own military treatment facilities supplemented by civilian health care providers, facilities, and services under contract to DoD through the TRICARE program. TRICARE is a major health care program designed to improve the management and integration of DoD's health care delivery system. The program's goal is to increase access to health care services, improve health care quality, and control health care costs.

The Defense Health Agency plans to publish the following rule:

• Final Rule: CHAMPUS/TRICARE: Pilot Program for Refills of Maintenance Medications for TRICARE Life Beneficiaries through the TRICARE Mail Order Program. This final rule implements section 716 of the National Defense Authorization Act for Fiscal Year 2013 (Pub. L. 112-239), which establishes a 5-year pilot program that would generally require TRICARE for Life beneficiaries to obtain all refill prescriptions for covered maintenance medications from the TRICARE mail order program or military treatment facility pharmacies. Covered maintenance medications are those that involve recurring prescriptions for chronic conditions, but do not include medications to treat acute conditions. Beneficiaries may opt out of the pilot program after one year of participation. This rule includes procedures to assist beneficiaries in transferring covered prescriptions to the mail order pharmacy program. The interim final rule was published December 11, 2013 (78 FR 75245) with an effective date of February 14, 2014. DoD anticipates publishing a final rule in the first quarter of FY 2015.

3. Personnel and Readiness, Department of Defense

The Department of Defense plans to publish a rule regarding Service Academies:

• Final Rule: Service Academies. This rule establishes policy, assigns responsibilities, and prescribes procedures for Department of Defense oversight of the Service Academies. Administrative costs are negligible, and benefits are clear, concise rules that enable the Secretary of Defense to ensure that the Service Academies are efficiently operated and meet the needs of the armed forces. The proposed rule was published October 18, 2007 (72 FR 59053), and included policy that has since changed. The final rule, particularly the explanation of separation policy, will reflect recent changes in the “Don't Ask, Don't Tell” policy. It will also incorporate changes resulting from interagency coordination. DoD anticipates publishing the final rule in the first or second quarter of FY 2015.

4. Military Community and Family Policy, Department of Defense

The Department of Defense has proposed a revision to the regulation implementing the Military Lending Act, which prescribes limitations on the terms of consumer credit extended to Service members and dependents:

• Proposed Rule: Limitations on Terms of Consumer Credit Extended to Service Members and Dependents. In this proposed rule, the Department of Defense (Department) proposes to amend its regulation that implements the Military Lending Act, herein referred to as the “MLA”. Among other protections for Service members, the MLA limits the amount of interest that a creditor may charge on “consumer credit” to a maximum annual percentage rate of 36 percent. The Department proposed to amend its existing regulation primarily for the purpose of extending the protections of the MLA to a broader range of closed-end and open-end credit products, rather than the limited credit products currently defined as consumer credit. In addition, the Department proposed to amend its existing regulation to amend the provisions governing a tool a creditor may use in assessing whether a consumer is a “covered borrower,” modify the disclosures that a creditor must provide to a covered borrower implement the enforcement provisions of the MLA, as amended, among other purposes. The revisions to this rule are part of DoD's retrospective plan under Executive Order 13563 completed in August 2011.

5. Chief Information Officer, Department of Defense

The Department of Defense plans to amend the voluntary cyber security information sharing program between DoD and eligible cleared defense contractors:

• Proposed Rule: Defense Industrial Base (DIB) Voluntary Cyber Security/Information Assurance (CS/IA) Activities. The Department proposes to amend the DoD-DIB CS/IA Voluntary Activities regulation (32 CFR part 236) in response to section 941 National Defense Authorization Act (NDAA) for Fiscal Year (FY) 2013, which requires the Secretary of Defense to establish procedures that require each cleared defense contractor (CDC) to report to DoD when a network or information system has a cyber-intrusion. The revised rule also expands eligibility to participate in the DIB CS/IA voluntary cyber threat information sharing program to all CDCs. DoD anticipates publishing a proposed rule in the first or second quarter of FY 2015.

DOD—OFFICE OF THE SECRETARY (OS)

Proposed Rule Stage

38. Limitations on Terms of Consumer Credit Extended to Service Members and Dependents

Priority: Economically Significant. Major under 5 U.S.C. 801.

Legal Authority: 10 U.S.C. 987

CFR Citation: 32 CFR 232.

Legal Deadline: None.

Abstract: The Department of Defense (“Department”) proposes to amend its regulation that implements the Military Lending Act, herein referred to as the “MLA.” Among other protections for servicemembers, the MLA limits the amount of interest that a creditor may charge on “consumer credit” to a maximum annual percentage rate of 36 percent. The Department is proposing to amend its existing regulation primarily for the purpose of extending the protections of the MLA to a broader range of closed-end and open-end credit products, rather than the limited credit products currently defined as consumer credit. In addition, the Department is proposing to amend its existing regulation to amend the provisions governing a tool a creditor may use in assessing whether a consumer is a “covered borrower,” modify the disclosures that a creditor must provide to a covered borrower, implement the enforcement provisions of the MLA, as amended, and for other purposes. The revisions to this rule are part of DoD's retrospective plan under Executive Order 13563 completed in August 2011. DoD's full plan can be accessed at: http://exchange.regulations.gov/exchange/topic/eo-13563.

Statement of Need: This regulation identifies the negative impact of high-cost consumer credit lending on servicemembers and their dependents quality of life and on general troop readiness. Servicemembers are younger than the population as a whole with 43 percent 25 years old or less. Thirty-five percent of enlisted servicemembers in the grades E1-E4 are married and 20 percent of them have children. This is compared with approximately 12 percent of their contemporaries in the U.S. population 18 through 24 who are married (2012 U.S. Census Bureau). The majority of recruits come to the military from high school with little financial literacy education.

The initial indoctrination provided to servicemembers is critical providing basic requirements for their professional and personal responsibilities and their successful adjustment to military life. Part of this training is in personal finance which is an integral part of their personal and often professional success. The Department of Defense (the Department) continues to provide them messages to save, invest, and manage their money wisely throughout their career.

A major concern of the Department has been the debt accumulation of some servicemembers and the continued financial turmoil caused by their use of credit particularly high-cost credit. The regulation has provided limitation on the use of credit posing the most significant concerns (short-term high-cost credit secured by pay, vehicle title, or tax return). Other forms of high-cost credit outside of the definitions in the regulation have been developed since the regulation was initially released in 2007 and the proposed changes to the regulation have been developed in part to extend protections to servicemembers and their families to cover these new developments.

The Department views the support provided to military families as essential to sustaining force readiness and military capability. From this perspective it is not sufficient for the Department to train servicemembers on how best to use their financial resources. Financial protections are an important part of fulfilling the Departments compact with servicemembers and their families and most importantly of sustaining force readiness and military capability.

Summary of Legal Basis: Public Law 109-364 the John Warner National Defense Authorization Act for Fiscal Year 2007 670 Limitations on Terms of Consumer Credit Extended to Servicemembers and Dependents (October 17 2006). Section 670 of Public Law 109-364 which was codified as 10 U.S.C. 987 requires the Secretary of Defense to prescribe regulations to carry out the new section.

Alternatives: No other regulatory alternatives are available. Education represents a non-regulatory alternative that is an important aspect of the overall protection provided servicemembers and their families. However education has not been proven to change behavior and has not been sufficient to prepare many of servicemembers to avoid financial products and services that can cause them financial harm. This regulation works in tandem with on-going efforts to educate Service members and prepare them to manage their finances.

Anticipated Cost and Benefits: Increased costs to the creditors as a result of the Regulation have been articulated in the Paperwork Reduction Act Submission as part of the EO 12866 review. The Department anticipates that its regulation, if adopted as proposed, might impose costs of approximately $96 million during the first year, as creditors adapt their systems to comply with the requirements of the MLA and the Department's regulation. However, after the first year and on an ongoing basis, the annual effect on the economy is expected to be between approximately $7 million net (quantitative) costs and $117 million net (quantitative) benefits. The potentially anticipated net benefits of the proposed regulation are attributable to the cost savings to the Department that would result from the reduction in involuntary separations of Service members due to financial distress; at some points in the range of estimates the Department has used to assess the proposal, these savings are estimated to exceed the compliance costs that would be borne by creditors.

Risks: The Regulation currently covers payday loans, vehicle-title loans, and tax refund anticipation loans (RALs). Some other credit products with favorable terms as well as terms that can increase the interest rate well beyond the limits prescribed by 10 U.S.C. 987 were not initially covered by the regulation. However access to payday and vehicle title loans has changed to include variations that are no longer covered by the regulation and there are other high-cost credit products that have become more of an issue for servicemembers and their families who have over extended their credit.

The regulation continues to complement other actions taken by the Department to include initial and follow-on financial education financial awareness campaigns savings campaigns free financial counseling at military installations and available 24 hours 7 days per week through Military OneSource. To complement these efforts Military Aid Societies provide grants and no-interest loans and a growing number of financial institutions located on military installations are providing low-cost small-dollar loans.

Timetable:

Action | Date | FR Cite
ANPRM | 06/17/13 | 78 FR 36134
ANPRM Comment Period End | 08/01/13 |
NPRM | 09/29/14 | 79 FR 58601
NPRM Comment Period End | 11/28/14 |
Final Action | 05/00/15 |

Regulatory Flexibility Analysis Required: No.

Small Entities Affected: No.

Government Levels Affected: None.

Agency Contact: Marcus Beauregard, Department of Defense, Office of the Secretary, 4000 Defense Pentagon, Washington, DC 20301-4000, Phone: 571 372-5357.

RIN: 0790-AJ10

DOD—OS

39. Defense Industrial Base (DIB) Cyber Security/Information Assurance (CS/IA) Activities: Amendment

Priority: Other Significant.

Legal Authority: EO 12829

CFR Citation: 32 CFR 236.

Legal Deadline: None.

Abstract: This rule amends the DoD-DIB CS/IA Voluntary Activities regulation in response to section 941 National Defense Authorization Act (NDAA) for Fiscal Year (FY) 2013 which requires the Secretary of Defense to establish procedures that require each cleared defense contractor (CDC) to report when a network or information system that meets the criteria reports cyber intrusions.

Statement of Need: The Department of Defense (DoD) will amend the DoD-DIB CS/IA Voluntary Activities (32 CFR part 236) regulation to incorporate changes as required by section 941 NDAA for FY 2013 to include mandated cyber intrusion incident reporting by all cleared defense contractors (CDCs).

Summary of Legal Basis: This regulation is proposed under the authorities of section 941 NDAA for FY 2013.

Alternatives: DoD analyzed the requirements in section 941 NDAA for FY 2013 and determined that implementation must be accomplished through the rulemaking process. This will allow the public to comment on the implementation strategy.

Anticipated Cost and Benefits: Implementing the amended rule to meet the requirements of section 941 NDAA for FY 2013 affects approximately 8,700 CDCs. Each company will require DoD approved, medium assured certificates to submit the mandatory cyber incident reporting to the DoD-access controlled Web site. The cost per certificate is $175. In addition, it is estimated that the average burden per reported incident is 7 hours, which includes identifying the cyber incident details, gathering and maintaining the data needed, reviewing the collection of information to be reported, and completing the report. Note, these costs are the same as those associated with 32 CFR part 236 (DoD-DIB CS/IA Voluntary Activities), but are now applicable across a larger population of defense contractors. The benefit of this amended rule is satisfying the legal mandate from section 941 NDAA for FY 2013 as well as informing the Department of incidents that impact DoD programs and information. DoD needs to have the ability to assess the strategic and operational impacts of cyber incidents and determine appropriate mitigation activities.

Risks: There will likely be significant public interest in DoD's implementation of section 941 NDAA for FY 2013. DoD will need to assure the public that DoD will provide for the reasonable protection of trade secrets, commercial or financial information, and information that can be used to identify a specific person that may be evident through the cyber incident reporting and media analysis.

Timetable:

Action | Date | FR Cite
NPRM | 03/00/15 |

Regulatory Flexibility Analysis Required: No.

Government Levels Affected: None.

Agency Contact: Vicki Michetti, Department of Defense, Office of the Secretary, 6000 Defense Pentagon, Washington, DC 20301-6000, Phone: 703 604-3177, Email: vicki.d.michetti.civ@mail.mil.

RIN: 0790-AJ14

DOD—OS

Final Rule Stage

40. Service Academies

Priority: Other Significant.

Legal Authority: 10 U.S.C. 403; 10 U.S.C. 603; 10 U.S.C. 903

CFR Citation: 32 CFR 217

Legal Deadline: None.

Abstract: The Department is revising and updating policy guidance and oversight of the military service academies. This rule implements 10 U.S.C. 403, 603, and 903 for the establishment and operation of the United States Military Academy, the United States Naval Academy, and the United States Air Force Academy. The proposed rule was published October 18, 2007 (72 FR 59053), and included policy that has since changed. The final rule, particularly the explanation of separation policy, will reflect recent changes in the Don't Ask, Don't Tell policy.

Statement of Need: The Department of Defense revises and updates the current rule providing the policy guidance and oversight of the military service academies. This rule implements 10 U.S.C. 403, 603, and 903 for the establishment and operation of the United States Military Academy, the United States Naval Academy, and the United States Air Force Academy.

Summary of Legal Basis: 10 U.S.C. chapters 403, 603, 903.

Alternatives: None. The Federal statute directs the Department of Defense to develop policy, assign responsibilities, and prescribe procedures for operations and oversight of the service academies.

Anticipated Cost and Benefits: Administrative costs are negligible and benefits would be clear, concise rules that enable the Secretary of Defense to ensure that the service academies are efficiently operated and meet the needs of the Armed Forces.

Risks: None.

Timetable:

Action | Date | FR Cite
NPRM | 10/18/07 | 72 FR 59053
NPRM Comment Period End | 12/17/07 |
Final Action | 02/00/15 |

Regulatory Flexibility Analysis Required: No.

Small Entities Affected: No.

Government Levels Affected: None.

Additional Information: DoD Instruction 1322.22.

Agency Contact: Paul Nosek, Department of Defense, Office of the Secretary, 4000 Defense Pentagon, Washington, DC 20301-4000, Phone: 703 695-5529.

RIN: 0790-AI19

DOD—Defense Acquisition Regulations Council (DARC)

Final Rule Stage

41. Foreign Commercial Satellite Services (DFARS Case 2014-D010)

Priority: Other Significant.

Legal Authority: 41 U.S.C. 1303; Pub. L. 113-66, sec 1602

CFR Citation: 48 CFR 204; 48 CFR 212; 48 CFR 225; 48 CFR 252.

Legal Deadline: Other, Statutory, December 26, 2013, 10 U.S.C. 2279, as added by sec 1602 of the NDAA for FY 2014 (Pub. L. 113-66), which was effective on enactment 12/26/13.

Abstract: DoD issued an interim rule amending the Defense Federal Acquisition Regulation Supplement (DFARS) to implement section 1602 of the National Defense Authorization Act for Fiscal Year 2014, which prohibits award of a contract for commercial satellite services to a foreign entity if the Secretary of Defense believes that the foreign entity (1) is an entity in which the government of a covered foreign country has an ownership interest that enables the government to affect satellite operations; or (2) plans to, or is expected to, provide or use launch or other satellite services under the contract from a covered foreign country. This rule is not expected to have a significant economic impact on a substantial number of small entities.

Statement of Need: This action is necessary because 10 U.S.C. 2279 as added by section 1602 of the National Defense Authorization Act for FY 2014 (Pub. L. 113-66) became effective upon enactment on December 26 2013. 10 U.S.C. 2279 restricts the acquisition of commercial satellite services from certain foreign entities. The statute prohibits the award of contracts for commercial satellite services to a foreign entity that (1) is an entity in which the government of a covered foreign country (i.e., the Peoples Republic of China, North Korea, Cuba, Iran, Sudan, or Syria) has an ownership interest that enables the government to affect satellite operations; or (2) plans to or is expected to provide or use launch or other satellite services under the contract from a covered foreign country.

Summary of Legal Basis: This rule is proposed under the authority of title 10 U.S.C. 2279 as added by section 1602 of the National Defense Authorization Act for FY 2014 (Pub. L. 113-66).

Alternatives: DoD was not able to identify any alternatives that meet the statutory requirements of 10 U.S.C. 2279 and the objectives of this rule.

Anticipated Cost and Benefits: Benefits associated with this rule outweigh the cost of compliance. The rule reduces the potential risk to national security by prohibiting the acquisition of commercial satellite services from certain foreign entities as in those case where the foreign entity is either (1) an entity in which the government of a covered foreign country has an ownership interest that enables the government to affect satellite operations; or (2) plans to or is expected to provide or use launch or other satellite services under the contract from a covered foreign country. The rule requires an annual representation as to whether the offeror is or is not a foreign entity subject to the prohibitions of the statute or is or is not offering commercial satellite services provided by such a foreign entity. DoD estimates that the total estimated annual public burden for the collection of this information is negligible (approximately $4275.00) based on Federal Procurement Data System data for FY 2013. There were 380 unique contractors that received contract or orders for PSC D304 (ADP Telecommunications and Transmission Services) of which commercial satellite services are a subset so 380 is an estimate at the highest end of the possible range of respondents. We estimate that these respondent will spend an average of 0.25 hours to complete and submit one response per year. Additionally DoD estimates that the rule will not have a significant impact on small entities unless they are offering commercial satellite services provided by a foreign entity that is subject to the restrictions of this rule. According to the FPDS data for fiscal year 2013, 111 small entities were awarded contracts or orders for services in PSC D304 (ADP Telecommunications and Transmission Services) of which commercial satellite services are a subset.

Risks: Until this statute is implemented in the DFARS there is risk that contracting officers may acquire commercial satellite services in violation of the law increasing the risk to the U.S. military operations and lost opportunities for the U.S. industrial base.

Timetable:

Action | Date | FR Cite
Interim Final Rule | 08/05/14 | 79 FR 45662
Interim Final Rule Effective | 08/05/14 |
Interim Final Rule Comment Period End | 10/06/14 |
Final Action | 03/00/15 |

Regulatory Flexibility Analysis Required: No.

Small Entities Affected: No.

Government Levels Affected: Federal.

International Impacts: This regulatory action will be likely to have international trade and investment effects, or otherwise be of international interest.

Agency Contact: Manuel Quinones, Department of Defense, Defense Acquisition Regulations Council, 4800 Mark Center Drive, Suite 15D07-2, Alexandria, VA 22350, Phone: 571 372-6088, Email: manuel.quinones.civ@mail.mil.

RIN: 0750-AI32

DOD—Office of Assistant Secretary for Health Affairs (DODOASHA)

Final Rule Stage

42. Champus/TRICARE: Pilot Program for Refills of Maintenance

Medications for TRICARE for Life Beneficiaries Through the TRICARE Mail Order Program

Priority: Economically Significant. Major under 5 U.S.C. 801.

Legal Authority: 5 U.S.C. 301; 10 U.S.C. ch 55

CFR Citation: 32 CFR 199.

Legal Deadline: None.

Abstract: This interim final rule implements section 716 of the National Defense Authorization Act for Fiscal Year 2013 (Pub. L. 112-239), which establishes a 5-year pilot program that would generally require TRICARE for Life beneficiaries to obtain all refill prescriptions for covered maintenance medications from the TRICARE mail order program or military treatment facility pharmacies. Covered maintenance medications are those that involve recurring prescriptions for chronic conditions, but do not include medications to treat acute conditions. Beneficiaries may opt out of the pilot program after 1 year of participation. This rule includes procedures to assist beneficiaries in transferring covered prescriptions to the mail-order pharmacy program. This regulation is being issued as an interim final rule in order to comply with the express statutory intent that the program begin in calendar year 2013.

Statement of Need: The Department of Defense (DoD) proposed rule establishes processes for the new program of refills of maintenance medications for TRICARE for Life beneficiaries through military treatment facility pharmacies and the mail order pharmacy program.

Summary of Legal Basis: This regulation is proposed under 5 U.S.C. 301; 10 U.S.C. chapter 55; 32 CFR 199.21.

Alternatives: The rule fulfills a statutory requirement, therefore there are no alternatives.

Anticipated Cost and Benefits: The effect of the statutory requirement, implemented by this rule, is to shift a volume of prescriptions from retail pharmacies to the most cost-effective point-of-service venues of military treatment facility pharmacies and the mail order pharmacy program. This will produce savings to the Department of approximately $104 million per year, and savings to beneficiaries of approximately $34 million per year in reduced copayments.

Risks: Loss of savings to both the Department and beneficiaries. No risk to the public.

Timetable:

Action | Date | FR Cite
Interim Final Rule | 12/11/13 | 78 FR 75245
Interim Final Rule Comment Period End | 02/10/14
Interim Final Rule Effective | 02/14/14
Final Action | 01/00/15

Regulatory Flexibility Analysis Required: No.

Small Entities Affected: Businesses.

Government Levels Affected: None.

Agency Contact: George Jones, Department of Defense, Office of Assistant Secretary for Health Affairs, Defense Pentagon, Washington, DC 20301, Phone: 703 681-2890.

RIN: 0720-AB60

BILLING CODE 5001-06-P

DEPARTMENT OF EDUCATION

Statement of Regulatory Priorities

I. Introduction

The U.S. Department of Education (Department) supports States, local communities, institutions of higher education, and others in improving education nationwide and in helping to ensure that all Americans receive a high-quality education. We provide leadership and financial assistance pertaining to education at all levels to a wide range of stakeholders and individuals, including State educational and other agencies, local school districts, providers of early learning programs, elementary and secondary schools, institutions of higher education, career and technical schools, nonprofit organizations, postsecondary students, members of the public, families, and many others. These efforts are helping to ensure that all children and students from pre-kindergarten through grade 12 will be ready for, and succeed in, postsecondary education and that students attending postsecondary institutions are prepared for a profession or career.

We also vigorously monitor and enforce the implementation of Federal civil rights laws in educational programs and activities that receive Federal financial assistance, and support innovative programs, research and evaluation activities, technical assistance, and the dissemination of research and evaluation findings to improve the quality of education.

Overall, the laws, regulations, and programs that the Department administers will affect nearly every American during his or her life. Indeed, in the 2014-2015 school year, about 55 million students will attend an estimated 130,000 elementary and secondary schools in approximately 13,600 districts, and about 21 million students will enroll in degree-granting postsecondary schools. All of these students may benefit from some degree of financial assistance or support from the Department.

In developing and implementing regulations, guidance, technical assistance, and monitoring related to our programs, we are committed to working closely with affected persons and groups. Specifically, we work with a broad range of interested parties and the general public, including families, students, and educators; State, local, and tribal governments; and neighborhood groups, community-based early learning programs, elementary and secondary schools, colleges, rehabilitation service providers, adult education providers, professional associations, advocacy organizations, businesses, and labor organizations.

If we determine that it is necessary to develop regulations, we seek public participation at the key stages in the rulemaking process. We invite the public to submit comments on all proposed regulations through the Internet or by regular mail. We also continue to seek greater public participation in our rulemaking activities through the use of transparent and interactive rulemaking procedures and new technologies.

To facilitate the public's involvement, we participate in the Federal Docketing Management System (FDMS), an electronic single Government-wide access point (www.regulations.gov) that enables the public to submit comments on different types of Federal regulatory documents and read and respond to comments submitted by other members of the public during the public comment period. This system provides the public with the opportunity to submit comments electronically on any notice of proposed rulemaking or interim final regulations open for comment, as well as read and print any supporting regulatory documents.

We are continuing to streamline information collections, reduce the burden on information providers involved in our programs, and make information easily accessible to the public.

II. Regulatory Priorities

A. The Higher Education Act of 1965, as Amended

Gainful Employment. On March 25, 2014, the Secretary issued a notice of proposed rulemaking for the Federal Student Aid programs authorized under title IV of the Higher Education Act of 1965, as amended (HEA). Specifically, the proposed regulations would amend the regulations on institutional eligibility under the HEA and the Student Assistance General Provisions to establish measures for determining whether certain postsecondary educational programs prepare students for gainful employment in a recognized occupation, the conditions under which these educational programs remain eligible for the title IV Federal Student Aid programs, and requirements for reporting and disclosure of relevant information. The public comment period for the proposed regulations closed on May 27, 2014, and the Department published final regulations on October 31, 2014.

Pay As You Earn. On June 9, 2014, the President issued a memorandum directing the Secretary to propose regulations by June 9, 2015, that will allow additional students who borrowed Federal Direct Loans to cap their Federal student loan payments at 10 percent of their income. The memorandum further directed the Secretary to issue final regulations after considering all public comments with the goal of making the repayment option available to borrowers by December 31, 2015. On September 3, 2014, we published a notice announcing our intention to establish a negotiated rulemaking committee to prepare proposed regulations governing the Federal William D. Ford Direct Loan Program. We also invited public comments regarding additional issues that should be considered for action by the negotiating committee.

Teacher Preparation. On April 25, 2014, the President directed the Department to propose a plan to strengthen America's teacher preparation programs for public comment and to publish a final rule within the next year. The Administration seeks to encourage and support States in developing systems that recognize excellence and provide all programs with information to help them improve, while holding them accountable for how well they prepare teachers to succeed in today's classrooms and throughout their careers. Specifically, the Department is preparing to issue proposed regulations under title II of the HEA that require States to provide more meaningful data in their State report cards on the performance of each teacher preparation program located in the State and to amend the regulations governing the Teacher Education Assistance for College and Higher Education (TEACH) Grant Program to update, clarify, and improve the current regulations and align them with data reported by States under title II.

B. Elementary and Secondary Education Act of 1965, as Amended

In 2010, the Administration released the “Blueprint for Reform: The Reauthorization of the Elementary and Secondary Education Act”, the President's plan for revising the Elementary and Secondary Education Act of 1965 (ESEA) and replacing the No Child Left Behind Act of 2001 (NCLB). The blueprint can be found at the following Web site: http://www2.ed.gov/policy/elsec/leg/blueprint/index.html.

Additionally, as we continue to work with Congress on reauthorizing the ESEA, we continue to provide flexibility on certain provisions of current law for States that are willing to embrace reform. The mechanisms we are using will ensure continued accountability and commitment to high-quality education for all students while providing States with increased flexibility to implement State and local reforms to improve student achievement.

C. Carl D. Perkins Career and Technical Education Act of 2006

In 2012, we released “Investing in America's Future: A Blueprint for Transforming Career and Technical Education”, our plan for reauthorizing the Carl D. Perkins Career and Technical Education Act of 2006 (2006 Perkins Act). The Blueprint can be found at the following Web site: http://www2.ed.gov/about/offices/list/ovae/pi/cte/transforming-career-technical-education.pdf.

The 2006 Perkins Act made important changes in Federal support for career and technical education (CTE), such as the introduction of a requirement that all States offer “programs of study.” These changes helped to improve the learning experiences of CTE students but did not go far enough to systemically create better outcomes for students and employers who are competing in a 21st-century global economy. The Administration's Blueprint would usher in a new era of rigorous, relevant, and results-driven CTE shaped by four core principles: (1) Alignment; (2) Collaboration; (3) Accountability; and (4) Innovation. The Administration's Blueprint proposal reflects a commitment to promoting equity and quality across these alignment, collaboration, accountability, and innovation efforts in order to ensure that more students have access to high-quality CTE programs.

D. Individuals With Disabilities Education Act

On September 18, 2013, the Secretary issued a notice of proposed rulemaking to amend regulations under Part B of the Individuals with Disabilities Education Act (IDEA) regarding local maintenance of effort (MOE) to ensure that all parties involved in implementing, monitoring, and auditing local educational agency (LEA) compliance with MOE requirements understand the rules. The Secretary intends to issue final regulations to amend the existing regulations that will clarify existing policy and make other related changes regarding: (1) The compliance standard; (2) the eligibility standard; (3) the level of fiscal effort required of an LEA in the year after it fails to maintain that effort; and (4) the consequence for a failure to maintain local effort.

E. Workforce Innovation and Opportunity Act

President Obama signed the Workforce Innovation and Opportunity Act (WIOA) into law on July 22, 2014. WIOA replaced the Workforce Investment Act of 1998 (WIA), including the Adult Education and Family Literacy Act (AEFLA), and amended the Wagner-Peyser Act and the Rehabilitation Act of 1973 (Rehabilitation Act). WIOA promotes the integration of the workforce development system's four “core programs”, including AEFLA and the vocational rehabilitation program under Title I of the Rehabilitation Act), into the revamped workforce development system under Title I of WIOA. In collaboration with the Department of Labor (DOL), the Department must issue an NPRM by January 18, 2015, and final regulations by January 22, 2016. The Department is working with DOL to meet this statutory deadline. The Department will also regulate on the programs it administers under the Rehabilitation Act and AEFLA that were changed by WIOA.

III. Retrospective Review of Existing Regulations

Pursuant to section 6 of Executive Order 13563, “Improving Regulation and Regulatory Review” (signed by the President on Jan. 18, 2011), the following Regulatory Identifier Numbers (RINs) have been identified as associated with retrospective review and analysis in the Department's final retrospective review of regulations plan. Some of the entries on this list may be completed actions that do not appear in The Regulatory Plan. However, more information can be found about these completed rulemakings in past publications of the Unified Agenda on Reginfo.gov in the Completed Actions section. These rulemakings can also be found on Regulations.gov. The final agency plan can be found at: www.ed.gov.

RIN | Title of Rulemaking | Do we expect this rulemaking to significantly reduce burden on small businesses?
1810-AB16 | Title I—Improving the Academic Achievement of the Disadvantaged | No.
1820-AB65 | Assistance to States for the Education of Children with Disabilities—Maintenance of Effort | No.
1820-AB66 | American Indian Vocational Rehabilitation Services Program | No.
1820-AB68 | Workforce Innovation and Opportunity Act (OSERS) | Undetermined.
1830-AA21 | Workforce Innovation and Opportunity Act (OCTAE) | Undetermined.
1840-AD08 | Titles III and V of the Higher Education Act, as Amended | No.
1840-AD14 | Negotiated Rulemaking Under Title IV of the HEA | No.
1840-AD15 | Gainful Employment | No.
1840-AD16 | Violence Against Women Act | No.
1840-AD17 | William D. Ford Federal Direct Loan Program | No.

IV. Principles for Regulating

Over the next year, we may need to issue other regulations because of new legislation or programmatic changes. In doing so, we will follow the Principles for Regulating, which determine when and how we will regulate. Through consistent application of those principles, we have eliminated unnecessary regulations and identified situations in which major programs could be implemented without regulations or with limited regulatory action.

In deciding when to regulate, we consider the following:

• Whether regulations are essential to promote quality and equality of opportunity in education.

• Whether a demonstrated problem cannot be resolved without regulation.

• Whether regulations are necessary to provide a legally binding interpretation to resolve ambiguity.

• Whether entities or situations subject to regulation are similar enough that a uniform approach through regulation would be meaningful and do more good than harm.

• Whether regulations are needed to protect the Federal interest, that is, to ensure that Federal funds are used for their intended purpose and to eliminate fraud, waste, and abuse.

In deciding how to regulate, we are mindful of the following principles:

• Regulate no more than necessary.

• Minimize burden to the extent possible, and promote multiple approaches to meeting statutory requirements if possible.

• Encourage coordination of federally funded activities with State and local reform activities.

• Ensure that the benefits justify the costs of regulating.

• To the extent possible, establish performance objectives rather than specify compliance behavior.

• Encourage flexibility, to the extent possible and as needed to enable institutional forces to achieve desired results.

ED—OFFICE OF POSTSECONDARY EDUCATION (OPE)

Proposed Rule Stage

43. • Pay as you Earn

Priority: Other Significant. Major under 5 U.S.C. 801.

Legal Authority: Not Yet Determined

CFR Citation: Not Yet Determined.

Legal Deadline: None.

Abstract: On June 9 2014, the President issued a memorandum (79 FR 33843) directing the Secretary to propose regulations by June 9, 2015, that will allow additional students who borrowed Federal Direct Loans to cap their Federal student loan payments at 10 percent of their income. The memorandum further directed the Secretary to issue final regulations after considering all public comments with the goal of making the repayment option available to borrowers by December 31, 2015.

Statement of Need: The President has issued a memorandum directing the Secretary to propose regulations by June 9, 2015, that will allow additional student borrowers Federal Direct Loans to cap their Federal student loan payments at 10 percent of their income. The memorandum further directed the Secretary to issue final regulations after considering all public comments with the goal of making the repayment option available to borrowers by December 31, 2015.

Summary of Legal Basis: The President directed the Secretary to propose regulations that will allow additional student borrowers Federal Direct Loans to cap their Federal student loan payments at 10 percent of their income.

Alternatives: These will be discussed in the notice of proposed rulemaking.

Anticipated Cost and Benefits: These will be discussed in the notice of proposed rulemaking.

Risks: These will be discussed in the notice of proposed rulemaking.

Timetable:

Action | Date | FR Cite
Notice of Intent to Establish Negotiated Rulemaking Committee | 09/03/14 | 79 FR 52273
NPRM | 06/00/15 |

Regulatory Flexibility Analysis Required: Undetermined.

Government Levels Affected: Undetermined.

Federalism: Undetermined.

URL For Public Comments: www.regulations.gov.

Agency Contact: Wendy Macias, Department of Education, Office of Postsecondary Education, Room 8017, 1990 K Street NW., Washington, DC 20006, Phone: 202 502-7526, Email: wendy.macias@ed.gov.

RIN: 1840-AD18

ED—OFFICE OF CAREER, TECHNICAL, AND ADULT EDUCATION (OCTAE)

Proposed Rule Stage

44. • Workforce Innovation and Opportunity Act

Priority: Economically Significant. Major status under 5 U.S.C. 801 is undetermined.

Legal Authority: Pub. L. 113-128

CFR Citation: Not Yet Determined.

Legal Deadline: NPRM, Statutory, January 18, 2015, No later than 180 days after enactment. Final, Statutory, January 22, 2016, 18 months after enactment.

Abstract: WIOA was signed into law on July 22, 2014. It replaced the Workforce Investment Act of 1998, including the Adult Education and Family Literacy Act (AEFLA), and amended the Wagner-Peyser Act and the Rehabilitation Act of 1973. WIOA promotes the integration of the workforce development system's four core programs. In collaboration with the Department of Labor (DOL), the Department must issue an NPRM by January 18, 2015 and final regulations by January 22, 2016. To meet this statutory timeline, the Department will work with DOL on various issues. The Department will also regulate on the programs it administers under the Rehabilitation Act and the AEFLA that were changed by WIOA.

Statement of Need: WIOA replaces the Workforce Investment Act of 1998, including the AEFLA, and amends the Wagner-Peyser Act and the Rehabilitation Act of 1973. In collaboration with the Department of Labor (DOL), the Department must issue proposed regulations on the integration of the workforce development system's four core programs, and will also regulate on the programs it administers under the Rehabilitation Act and the AEFLA that were changed by WIOA.

Summary of Legal Basis: The Department will issue proposed regulations on the integration of the workforce development system's four core programs, and on the programs it administers under that were changed by WIOA.

Alternatives: These will be discussed in the NPRM Regulations.

Anticipated Cost and Benefits: These will be discussed in the NPRM Regulations.

Risks: These will be discussed in the NPRM Regulations.

Timetable:

Action | Date | FR Cite
NPRM | 01/00/15

Regulatory Flexibility Analysis Required: Undetermined.

Government Levels Affected: Undetermined.

Federalism: Undetermined.

URL For Public Comments: www.regulations.gov.

Agency Contact: Mary Louise Dirrigl, Department of Education, Office of Special Education and Rehabilitative Services, Room 5156, PCP, 550 12th Street SW., Washington, DC 20202, Phone: 202 245-7324.

Cheryl Keenan, Department of Education, Office of Career, Technical, and Adult Education, 550 12th Street SW., Washington, DC 20202, Phone: 202 245-7810.

RIN: 1830-AA21.

BILLING CODE 4001-01-P

DEPARTMENT OF ENERGY

Statement of Regulatory and Deregulatory Priorities

The Department of Energy (Department or DOE) makes vital contributions to the Nation's welfare through its activities focused on improving national security, energy supply, energy efficiency, environmental remediation, and energy research. The Department's mission is to:

• Promote dependable, affordable and environmentally sound production and distribution of energy;

• Advance energy efficiency and conservation;

• Provide responsible stewardship of the Nation's nuclear weapons;

• Provide a responsible resolution to the environmental legacy of nuclear weapons production; and

• Strengthen U.S. scientific discovery, economic competitiveness, and improve quality of life through innovations in science and technology.

The Department's regulatory activities are essential to achieving its critical mission and to implementing major initiatives of the President's National Energy Policy. Among other things, the Regulatory Plan and the Unified Agenda contain the rulemakings the Department will be engaged in during the coming year to fulfill the Department's commitment to meeting deadlines for issuance of energy conservation standards and related test procedures. The Regulatory Plan and Unified Agenda also reflect the Department's continuing commitment to cut costs, reduce regulatory burden, and increase responsiveness to the public.

Retrospective Review of Existing Regulations

Pursuant to section 6 of Executive Order 13563 “Improving Regulation and Regulatory Review” (Jan. 18, 2011), several regulations have been identified as associated with retrospective review and analysis in the Department's final retrospective review of regulations plan. Some of these entries on this list may be completed actions, which do not appear in the Regulatory Plan. However, more information can be found about these completed rulemakings in past publications of the Unified Agenda on Reginfo.gov in the Completed Actions section for that agency. These rulemakings can also be found on Regulations.gov. The final agency plan can be found at http://www.whitehouse.gov/sites/default/files/other/2011-regulatory-action-plans/departmentofenergyregulatoryreformplanaugust2011.pdf.

Energy Efficiency Program for Consumer Products and Commercial Equipment

The Energy Policy and Conservation Act (EPCA) requires DOE to set appliance efficiency standards at levels that achieve the maximum improvement in energy efficiency that is technologically feasible and economically justified. The Department continues to follow its schedule for setting new appliance efficiency standards. These rulemakings are expected to save American consumers billions of dollars in energy costs.

The overall plan for implementing the schedule is contained in the Report to Congress under section 141 of EPACT 2005, which was released on January 31, 2006. This plan was last updated in the August 2014 report to Congress and now includes the requirements of the Energy Independence and Security Act of 2007 (EISA 2007) and the American Energy Manufacturing Technical Corrections Act (AEMTCA). The reports to Congress are posted at: http://www.eere.energy.gov/buildings/appliance_standards/schedule_setting.html.

Estimate of Combined Aggregate Costs and Benefits

In FY 2014, the Department published final rules that adopted new or amended energy conservation standards for seven different products, including metal halide lamp fixtures, external power supplies, commercial refrigeration equipment, walk-in coolers and freezers, through the wall air conditioners and heat pumps, electric motors, and furnace fans. These standards when combined with the other final rules adopting standards since January 2009, are expected to save consumers hundreds of billions of dollars on their utility bills through 2030.

DOE believes that the three rulemakings that make up the Regulatory Plan will also substantially benefit the Nation. However, because of their current stage in the rulemaking process, DOE has not yet proposed candidate standard levels for these products and cannot provide an estimate of combined aggregate costs and benefits for these actions. DOE will, however, in compliance with all applicable law, issue standards that provide the maximum energy savings that are technologically feasible and economically justified. Estimates of energy savings will be provided when DOE issues the notice of proposed rulemakings for manufactured housing, general service lamps, and non-weatherized gas furnaces.

DOE—ENERGY EFFICIENCY AND RENEWABLE ENERGY (EE)

Prerule Stage

45. Energy Conservation Standards for General Service Lamps

Priority: Other Significant. Major status under 5 U.S.C. 801 is undetermined.

Unfunded Mandates: Undetermined.

Legal Authority: 42 U.S.C. 6295(i)(6)(A) and (B)

CFR Citation: 10 CFR 430.

Legal Deadline: Final, Statutory, January 1, 2017.

Abstract: Amendments to Energy Policy and Conservation Act (EPCA) in the Energy Independence and Security Act of 2007 (EISA) direct DOE to conduct two rulemaking cycles to evaluate energy conservation standards for GSLs, the first of which must be initiated no later than January 1, 2014. EISA specifically states that the scope of the rulemaking is not limited to incandescent lamp technologies. EISA also states that DOE must consider in the first rulemaking cycle the minimum backstop requirement of 45 lumens per watt for GSLs effective January 1, 2020, established by EISA. This rulemaking constitutes DOE's first rulemaking cycle.

Statement of Need: EPCA requires minimum energy efficiency standards for certain appliances and commercial equipment.

Summary of Legal Basis: Title III of the Energy Policy and Conservation Act of 1975 (EPCA or the Act) Public Law 94163 (42 U.S.C. 62916309 as codified) established the Energy Conservation Program for Consumer Products Other Than Automobiles. Pursuant to EPCA any new or amended energy conservation standard that the U.S. Department of Energy (DOE) prescribes for certain products such as general service lamps shall be designed to achieve the maximum improvement in energy efficiency that is technologically feasible and economically justified (42 U.S.C. 6295(o)(2)(A)) and result in a significant conservation of energy (42 U.S.C. 6295(o)(3)(B)).

Alternatives: The statute requires DOE to conduct rulemakings to review standards and to revise standards to achieve the maximum improvement in energy efficiency that the Secretary determines is technologically feasible and economically justified. In making this determination DOE conducts a thorough analysis of the alternative standard levels including the existing standard based on the criteria specified by the statute.

Anticipated Cost and Benefits: Because DOE has not yet proposed energy efficiency standards, DOE cannot provide an estimate of combined aggregate costs and benefits for these actions. DOE will, however, in compliance with all applicable law, issue standards that provide for increased energy efficiency that are economically justified. Estimates of energy savings will be provided when DOE issues the notice of proposed rulemaking action.

Risks:

Timetable:

Action | Date | FR Cite
Framework Document Availibility; Public Meeting | 12/09/13 | 78 FR 73737
Framework Document Comment Period Extended | 01/23/14 | 79 FR 3742
Framework Document Comment Period End | 02/07/14
Preliminary Analysis | 12/00/14
NPRM | 02/00/16

Regulatory Flexibility Analysis Required: Undetermined.

Government Levels Affected: Undetermined.

Federalism: Undetermined.

URL For More Information: www1.eere.energy.gov/buildings/appliance_standards/rulemaking.aspx?ruleid=83.

URL For Public Comments: www.regulations.gov/#!docketDetail;D=EERE-2013-BT-STD-0051.

Agency Contact: Lucy DeButts, Office of Buildings Technologies Program, EE-5B, Department of Energy, Energy Efficiency and Renewable Energy, 1000 Independence Avenue SW., Washington, DC 20585, Phone: 202 287-1604, Email: lucy.debutts@ee.doe.gov.

RIN: 1904-AD09

DOE—EE

Proposed Rule Stage

46. Energy Efficiency Standards for Manufactured Housing

Priority: Economically Significant. Major under 5 U.S.C. 801.

Unfunded Mandates: This action may affect the private sector under Pub. L. 104-4.

Legal Authority: 42 U.S.C. 17071

CFR Citation: 10 CFR 460.

Legal Deadline: Final, Statutory, December 19, 2011.

Abstract: Section 413 of EISA requires that DOE establish standards for energy efficiency in manufactured housing. See 42 U.S.C. 17071(a)(1). DOE is directed to base the energy efficiency standards on the most recent version of the International Energy Conservation Code (IECC), except where DOE finds that the IECC is not cost effective, or a more stringent standard would be more cost effective, based on the impact of the IECC on the purchase price of manufactured housing and on total life-cycle construction and operating costs. On June 13, 2014, DOE published a notice of intent to establish a negotiated rulemaking working group for the manufactured housing rulemaking under the Appliance Standards and Rulemaking Federal Advisory Committee (ASRAC) in accordance with the Federal Advisory Committee Act (FACA) and the Negotiated Rulemaking Act (NRA) to negotiate proposed Federal standards for the energy efficiency of manufactured homes (79 FR 33873). The purpose of the working group is to discuss and, if possible, reach consensus on a proposed rule for the energy efficiency of manufactured homes.

Statement of Need: EISA requires DOE to establish minimum energy efficiency standards for manufactured housing.

Summary of Legal Basis: Section 413 of EISA 2007, 42 U.S.C. 17071, directs DOE to develop and publish energy standards for manufactured housing.

Alternatives: The statute requires DOE to conduct a rulemaking to establish standards based on the most recent version of the International Energy Conservation Code (IECC), except in cases in which the Secretary finds that the IECC is not cost effective or a more stringent standard would be more cost effective based on the impact of the IECC on the purchase price of manufactured housing and on total lifecycle construction and operating costs.

Anticipated Cost and Benefits: Because DOE has not yet proposed energy efficiency standards, DOE cannot provide an estimate of combined aggregate costs and benefits for these actions. DOE will, however, in compliance with all applicable law, issue standards that provide for increased energy efficiency that are economically justified. Estimates of energy savings will be provided when DOE issues the notice of proposed rulemaking.

Timetable:

Action | Date | FR Cite
ANPRM | 02/22/10 | 75 FR 7556
ANPRM Comment Period End | 03/24/10 |
Request for Information | 06/25/13 | 78 FR 37995
NPRM | 11/00/14 |
Extension of Term; Notice of Public Meeting | 10/01/14 | 79 FR 59154
NPRM | 02/00/15

Regulatory Flexibility Analysis Required: Undetermined.

Government Levels Affected: None.

URL For More Information: www1.eere.energy.gov/buildings/appliance_standards/rulemaking.aspx?ruleid=97.

URL For Public Comments: www.regulations.gov/#!docketDetail;D=EERE-2009-BT-BC-0021.

Agency Contact: Joseph Hagerman, Office of Building Technologies, EE-2J, Department of Energy, Energy Efficiency and Renewable Energy, 1000 Independence Ave. SW., Washington, DC 20585, Phone: 202 586-4549, Email: joseph.hagerman@ee.doe.gov.

RIN: 1904-AC11

DOE—EE

47. Energy Conservation Standards for Residential Non-weatherized Gas Furnaces

Priority: Economically Significant. Major under 5 U.S.C. 801.

Unfunded Mandates: Undetermined.

Legal Authority: 42 U.S.C. 6295(f)(4)(e); 42 U.S.C. 6295(m)(1); 42 U.S.C. 6295(gg)(3)

CFR Citation: 10 CFR 430.

Legal Deadline: NPRM, Judicial, April 24, 2015, One year after issuance of the proposed rule. Final, Judicial, April 24, 2016.

Abstract: The Energy Policy and Conservation Act of 1975 (EPCA), as amended, prescribes energy conservation standards for various consumer products and certain commercial and industrial equipment, including residential furnaces. EPCA also requires the DOE to periodically determine whether more-stringent amended standards would be technologically feasible and economically justified and would save a significant amount of energy. DOE is amending its energy conservation standards for residential non-weatherized gas furnaces and mobile home gas furnaces in partial fulfillment of a court-ordered remand of DOE's 2011 rulemaking for these products.

Statement of Need: EPCA requires minimum energy efficiency standards for certain appliances and commercial equipment, including residential furnaces.

Summary of Legal Basis: Title III of the Energy Policy and Conservation Act of 1975 (EPCA or the Act), Public Law 94-163 (42 U.S.C. 6291-6309, as codified), established the Energy Conservation Program for Consumer Products Other Than Automobiles. Pursuant to EPCA, any new or amended energy conservation standard that the U.S. Department of Energy (DOE) prescribes for certain products, such as residential furnaces, shall be designed to achieve the maximum improvement in energy efficiency that is technologically feasible and economically justified (42 U.S.C. 6295(o)(2)(A)) and result in a significant conservation of energy (42 U.S.C. 6295(o)(3)(B)).

Alternatives: The statute requires DOE to conduct rulemakings to review standards and to revise standards to achieve the maximum improvement in energy efficiency that the Secretary determines is technologically feasible and economically justified. In making this determination, DOE conducts a thorough analysis of the alternative standard levels, including the existing standard, based on the criteria specified by the statute.

Anticipated Cost and Benefits: Because DOE has not yet proposed energy efficiency standards, DOE cannot provide an estimate of combined aggregate costs and benefits for these actions. DOE will, however, in compliance with all applicable laws, issue standards that provide for increased energy efficiency that are economically justified. Estimates of energy savings will be provided when DOE issues the notice of proposed rulemaking.

Risks:

Timetable:

Action | Date | FR Cite
Notice of Public Meeting | 10/30/14 | 79 FR 64517
NPRM | 12/00/14 |
Final Action | 12/00/15 |

Regulatory Flexibility Analysis Required: Undetermined.

Government Levels Affected: Local, State.

Federalism: Undetermined.

URL For More Information: www1.eere.energy.gov/buildings/appliance_standards/product.aspx/productid/72.

URL For Public Comments: www.regulations.gov.

Agency Contact: John Cymbalsky, Office of Building Technologies Program, EE-5B, Department of Energy, Energy Efficiency and Renewable Energy, 1000 Independence Avenue SW., Washington, DC 20585, Phone: 202 287-1692, Email: john.cymbalsky@ee.doe.gov.

RIN: 1904-AD20

BILLING CODE 6450-01-P

DEPARTMENT OF HEALTH AND HUMAN SERVICES

Statement of Regulatory Priorities for Fiscal Year 2015

As the Federal agency with lead responsibility for protecting the health of all Americans and for providing supportive services for vulnerable populations, the Department of Health and Human Services (HHS) implements programs that strengthen the health care system; advance scientific knowledge and innovation; improve the health, safety, and well-being of the American people; and strengthen the Nation's health and human services infrastructure.

The Department's regulatory priorities for Fiscal Year 2015 reflect this complex mission through planned rulemakings structured to: Further increase access to health care for all Americans, especially by strengthening the Medicare, Medicaid and Children's Health Insurance programs; build from previous experiences to safeguard the Nation's food supply; provide consumers with information to help them make healthy choices; and marshal the best research and technology available to streamline and modernize the health care delivery and medical-product availability systems. The following overview highlights forthcoming rulemakings exemplifying these priorities.

Encouraging Delivery System Reforms To Ensure Consumer Access to High Quality, Affordable Care

The Affordable Care Act expands access to health insurance through improvements in Medicaid, the establishment of Affordable Insurance Exchanges, and coordination between Medicaid, the Children's Health Insurance Program, and the Exchanges. A forthcoming final rule will bring to completion regulatory provisions that support our efforts to assist States in implementing Medicaid eligibility determinations, appeals, enrollment changes, and other State health subsidy programs stemming from the Affordable Care Act. The intent of the rule is to afford each State substantial discretion in the design and operation of that State's exchange, with standardization provided only where directed by the Act or where there are compelling practical, efficiency or consumer-protection reasons.

A forthcoming proposed rule would establish policies related to “Stage 3” of the Medicare/Medicaid Electronic Health Record (EHR) Incentive Programs. The rule is necessary to further implement provisions of the American Recovery and Reinvestment Act that provide incentive payments to eligible providers, hospitals, and critical access hospitals participating in Medicare and Medicaid programs that adopt certified EHR technology. The proposal will offer for comment specific criteria that these providers and facilities would need to meet in order to successfully demonstrate “meaningful use,” focusing on advanced use of EHR technology to promote improved outcomes for patients.

The Mental Health Parity and Addiction Equity Act (MHPAEA) requires parity between mental health or substance use disorder benefits and medical/surgical benefits, with respect to financial requirements and treatment limitations under group health plans. A new proposed rule would build on the 2013 final rule implementing MHPAEA by proposing standards for Medicaid alternative benefit plans, Medicaid managed care organizations, and the Children's Health Insurance Program.

Another proposed rule would revise the requirements that long-term care facilities must meet to participate in the Medicare and Medicaid programs. The proposed changes are necessary to reflect advances in the theory and practice of service delivery and safety for patients in long-term care settings. The proposals are also an integral part of our efforts to achieve broad-based improvements both in the quality of health care furnished through Federal programs, and in patient safety, while at the same time reducing procedural burdens on providers.

In addition, nine Medicare payment rules will be updated to better reflect the current state of medical practice and to respond to feedback from providers seeking financial predictability and flexibility to better serve patients.

Streamlining Regulations Through Retrospective Review

Consistent with the President's Executive Order 13563, “Improving Regulation and Regulatory Review,” the Department remains committed to reducing regulatory burden on States, health care providers and suppliers, and other regulated entities by updating current rules to align them with emerging health and safety standards, and by eliminating outdated procedural provisions.

For example, CMS will continue its retrospective review efforts by finalizing an April 2014, proposal to amend the fire safety standards for hospitals, long-term care facilities, ambulatory surgery centers, and a variety of other inpatient care settings. Further, this rule will adopt the most recent edition of the Life Safety Code (LSC) and eliminate references in our regulations to all earlier editions, which will give clear guidance to providers and institutions for these important safety standards.

Similarly, a forthcoming final rule from the Administration for Children and Families (ACF) will provide the first comprehensive update of Child Care and Development Fund (CCDF) regulations since 1998. The CCDF is a Federal program that provides formula grants to States, territories, and tribes. The program provides financial assistance to low-income families to access child care so that they can work or attend a job-training or educational program. It also provides funding to improve the quality of child care and increase the supply and availability of child care for all families, including those who receive no direct assistance through CCDF.

Another ACF effort would modify existing Head Start performance standards to take into account increased knowledge in the early childhood field since the standards were last updated more than 15 years ago. Changes would strengthen requirements on curriculum and assessment, supervision, health and safety, and governance. The notice of proposed rulemaking would also streamline existing regulations to eliminate unnecessary or duplicative requirements.

Additionally, the Department, in collaboration with the President's Office of Science and Technology Policy will propose revisions to existing rules governing research on human subjects, often referred to as the Common Rule. This rule would apply to institutions and researchers supported by HHS as well as researchers throughout much of the Federal Government who are conducting research involving human subjects. The proposed revisions will aim to better protect human subjects while facilitating research, and also reducing burden, delay, and ambiguity for investigators.

Helping Consumers Identify Healthy Choices in the Marketplace

Since 1980, the prevalence of obesity among children and adolescents has almost tripled. Obesity has both immediate and long-term effects on the health and quality of life of those affected, increasing their risk for chronic diseases, including heart disease, type 2 diabetes, certain cancers, stroke, and arthritis—as well as increasing medical costs for the individual and the health system. Building on the momentum of the First Lady's “Let's Move” initiative, HHS has mobilized skills and expertise from across the Department to address this epidemic with research, public education, and public health strategies.

Adding to this effort, the Food and Drug Administration (FDA) plans to issue four final rules designed to provide more useful, easy to understand dietary information tools that will help millions of American families identify healthy choices in the marketplace. These rules, each benefiting from input received in extended public comment periods, will:

• Require restaurants and similar retail food establishments with 20 or more locations to list calorie content information for standard menu items on restaurant menus and drive-through menu boards. Other nutrient information—total calories, fat, saturated fat, cholesterol, sodium, total carbohydrates, sugars, fiber, and total protein—would have to be made available in writing upon request;

• Require vending machine operators who own or operate 20 or more vending machines to disclose calorie content for some items. The Department anticipates that such information will ensure that patrons of chain restaurants and vending machines have access to essential nutrition information;

• Revise the nutrition and supplement facts labels on packaged food, which has not been updated since 1993 when mandatory nutrition labeling of food was first required. The aim of the proposed revision is to provide updated and easier to read nutrition information on the label to help consumers maintain healthy dietary practices; and

• Update the serving-size information provided within the food label, providing current nutrition information based on the amount of food that is typically eaten as a serving, to assist consumers in maintaining healthy dietary practices.

Implementing the Food Safety Modernization Act

FDA will maintain the agency's ongoing effort to promulgate rules required under the Food Safety Modernization Act (FSMA), working with public and private partners to build a new system of food safety oversight. Responding to extensive feedback from stakeholders, the agency recently issued for further public comment supplemental proposals structured to:

• Establish preventive controls in the manufacture and distribution of human foods and of animal feeds. These regulations constitute the heart of the FSMA food safety program by instituting uniform practices for the manufacture and distribution of food products, to ensure that those products are safe for consumption and will not cause or spread disease.

• Ensure that produce sold in the United States meets rigorous safety standards. The regulation would set enforceable, science-based standards for the safe production and harvesting of fresh produce at the farm and the packing house, to minimize the risk of adverse health consequences.

• Require food importers to establish a verification program to improve the safety of food imported into the United States. Specifically, FDA will outline proposed standards that foreign food suppliers must meet to ensure that imported food is produced in a manner that is as safe as food produced in the United States.

Reducing Tobacco Use

In 2009, Congress enacted the Family Smoking Prevention and Tobacco Control Act, authorizing FDA to regulate the manufacture, marketing, and distribution of tobacco products, to protect the public health and to reduce tobacco use by minors. In the coming fiscal year, benefiting from public scrutiny of an April 2014, regulatory proposal, FDA plans to issue a final rule that will clarify which products containing tobacco, in addition to cigarettes, are subject to the Agency's oversight. This rule would also allow FDA to establish regulatory standards on the sale and distribution of tobacco products, such as age-related access restrictions on advertising and promotion, as appropriate, to protect public health.

Modernizing Medical-Product Safety and Availability

In 2012, Congress provided new authorities under the Food and Drug Administration Safety and Innovation Act to support its mission of safeguarding the quality of medical products available to the public while ensuring the availability of innovative products. FDA is implementing this new authority with a focus on protecting the quality of medical products in the global drug supply chain; improving the availability of needed drugs and devices; and promoting better-informed decisions by health professionals and patients.

For example, the Agency plans to issue a final rule this year to require manufacturers of certain drugs, such as drugs used for cancer treatments, anesthesia drugs, and other drugs that are critical to the treatment of serious diseases and life-threatening conditions, to report discontinuances or interruptions in the manufacturing of these products. This rule will help FDA address and potentially prevent drug shortages, and it will help inform providers and public health officials earlier about potential drug shortages.

Another forthcoming final rule will update FDA's regulations to reflect the increased use of generic drugs in the current marketplace, and will describe approaches for brand name and generic drug manufacturers to update product labeling. This rule will revise and clarify procedures for updates to product labeling to reflect certain types of newly acquired safety information through submission of a “changes being effected” supplement.

Reducing Gun Violence

As part of the President's continuing efforts to reduce gun violence, HHS will issue a final rule to remove unnecessary legal barriers under the HIPAA Privacy Rule that may prevent States from reporting certain information to the National Instant Criminal Background Check System (NICS). The NICS helps to ensure that guns are not sold to those prohibited by law from having them, including felons, those convicted of domestic violence, and individuals involuntarily committed to a mental institution. However, the background check system is only as effective as the information that is available to it. The rule will give States and certain covered entities added flexibility to ensure accurate but limited information is reported to the NICS, which would not include clinical, diagnostic, or other mental health information. Instead, certain covered entities would be permitted to disclose the minimum necessary identifying information about individuals who have been involuntarily committed to a mental institution or otherwise have been determined by a lawful authority to be a danger to themselves or others.

HHS—FOOD AND DRUG ADMINISTRATION (FDA)

Proposed Rule Stage

48. Current Good Manufacturing Practice and Hazard Analysis and Risk-Based Preventive Controls for Food for Animals

Priority: Economically Significant. Major under 5 U.S.C. 801.

Unfunded Mandates: This action may affect the private sector under Pub. L. 104-4.

Legal Authority: 21 U.S.C. 321; 21 U.S.C. 331; 21 U.S.C. 342; 21 U.S.C. 350c; 21 U.S.C. 350d note; 21 U.S.C. 350g; 21 U.S.C. 350g note; 21 U.S.C. 371; 21 U.S.C. 374; 42 U.S.C. 264; 42 U.S.C. 243; 42 U.S.C. 271;

CFR Citation: 21 CFR 507.

Legal Deadline: Final, Statutory, July 2012. Final, Judicial, August 30, 2015.

The FDA Food Safety Modernization Act (FSMA) mandates that FDA promulgate final regulations to establish preventive controls not later than 18 months after the date of enactment of FSMA. Certain requirements regarding standards for pet food and other animal feeds mandated by the FDA Amendment Act of 2007 will be subsumed in the FSMA rulemaking. Per consent decree, FDA will submit the final rule to the Federal Register for publication by 08/30/2015.

Abstract: This rule establishes requirements for good manufacturing practice, and requires that certain facilities establish and implement hazard analysis and risk-based preventive controls for animal food, including ingredients and mixed animal feed. This action is intended to provide greater assurance that food for all animals, including pets, is safe.

Statement of Need: Regulatory oversight of the animal food industry has traditionally been limited and focused on a few known safety issues so there could be problems that remain unaddressed potentially affecting animal health. The massive pet food recall due to adulteration with melamine and cyanuric acid in 2007 is an example. Actions taken by two protein suppliers in China affected a large number of pet food manufacturers in the United States and created a nationwide problem. By the time the cause of the problem was identified melamine- and cyanuric-acid contaminated ingredients had resulted in the adulteration of millions of individual servings of pet food sickening and killing pets. Salmonella contaminated pet food has been the cause of illness in humans: In 2007 people became ill handling pet food contaminated with a rare Salmonella serotype; over 200 people in the United Kingdom and United States became ill from handling Salmonella contaminated frozen mice (used for pet food) that came from a U.S. facility; and people were infected with Salmonella in 2012 that originated from contaminated dog and cat food. Other animal food recalls have resulted from contamination with aflatoxins, dioxins excessive vitamin D, and insufficient thiamine. Congress passed FSMA which the President signed into law on January 4, 2011 (Pub. L. 111-353). Section 103 of FSMA amended the Federal Food Drug and Cosmetic Act (FD&C Act) by adding section 418 (21 U.S.C. 350g) Hazard Analysis and Risk-Based Preventive Controls. In enacting FSMA Congress sought to improve the safety of food in the United States by taking a risk-based approach to food safety emphasizing prevention. Section 418 of the FD&C Act requires owners, operators, or agents in charge of food facilities to develop and implement a written hazard analysis and preventive controls to significantly minimize or prevent the occurrence of hazards and help prevent adulteration of food.

Summary of Legal Basis: FDA's authority for issuing this rule is provided in FSMA (Pub. L. 111-353), which amended the FD&C Act by establishing section 418, which directed FDA to publish implementing regulations. FSMA also amended section 301 of the FD&C Act to add 301(uu) that states the operation of a facility that manufactures, processes, packs, or holds food for sale in the United States, if the owner, operator, or agent in charge of such facility is not in compliance with section 418 of the FD&C Act, is a prohibited act. FDA is also issuing this rule under the certain provisions of section 402 of the FD&C Act (21 U.S.C. 342) regarding adulterated food. In addition, section 701(a) of the FD&C Act (21 U.S.C. 371(a)) authorizes the Agency to issue regulations for the efficient enforcement of the Act. To the extent the regulations are related to communicable disease, FDA's legal authority also derives from sections 311, 361, and 368 of the Public Health Services Act (42 U.S.C. 243, 264, and 271). Finally, FDA is acting under the direction of section 1002(a) of title X of FDAAA of 2007 (21 U.S.C. 2102) which requires the Secretary to establish processing standards for pet food.

Alternatives: The Food Safety Modernization Act requires FDA to promulgate regulations to establish hazard analyses and risk-based preventive controls.

Anticipated Cost and Benefits: The benefits of the proposed rule would be fewer cases of contaminated animal food. Discovering contaminated food ingredients before they are used in a finished product would reduce the number of recalls of contaminated animal food products. Benefits would include reduced medical treatment costs for animals, reduced loss of market value of livestock, reduced loss of animal companionship, and reduced loss in value of animal food. More stringent requirements for animal food manufacturing would maintain public confidence in the safety of animal food, and protect animal and human health. FDA lacks sufficient data to quantify the benefits of the proposed rule. The compliance costs of the proposed rule would result from the additional labor and capital required to perform the hazard analyses, write and implement the preventive controls, monitor and verify the preventive controls, take corrective actions if preventive controls fail to prevent food from becoming contaminated, and implement the current good manufacturing practice regulations.

Risks: FDA is proposing this rule to provide greater assurance that food intended for animals is safe, and will not cause illness or injury to animals. This rule would implement a risk-based, preventive controls food safety system intended to prevent animal food containing hazards, which may cause illness or injury to animals or humans, from entering the food supply. The rule would apply to domestic and imported animal food (including raw materials and ingredients). Fewer cases of animal food contamination would reduce the risk of serious illness and death to animals.

Timetable:

Action | Date | FR Cite
NPRM | 10/29/13 | 78 FR 64736
NPRM Comment Period Extension | 02/03/14 | 79 FR 6111
NPRM Comment Period End | 02/26/14 |
NPRM Comment Period Extension End | 03/31/14 |
Supplemental NPRM | 09/29/14 | 79 FR 58475
Supplemental NPRM Comment Period End | 12/15/14 |
Final Rule | 08/00/15 |

Regulatory Flexibility Analysis Required: Yes.

Small Entities Affected: Businesses.

Government Levels Affected: State.

Federalism: This action may have federalism implications as defined in EO 13132.

Agency Contact: Kim Young, Deputy Director, Division of Compliance, Department of Health and Human Services, Food and Drug Administration, Center for Veterinary Medicine, Room 106 (MPN-4, HFV-230), 7519 Standish Place, Rockville, MD 20855, Phone: 240 276-9207, Email: kim.young@fda.hhs.gov.

RIN: 0910-AG10

HHS—FDA

49. Standards for the Growing, Harvesting, Packing, and Holding of Produce for Human Consumption

Priority: Economically Significant. Major under 5 U.S.C. 801.

Unfunded Mandates: This action may affect the private sector under Pub. L. 104-4.

Legal Authority: 21 U.S.C. 342; 21 U.S.C. 350h; 21 U.S.C. 371; 42 U.S.C. 264; Pub. L. 111-353 (signed on January 4, 2011)

CFR Citation: 21 CFR 112.

Legal Deadline: Final, Judicial, October 2015.

Abstract: This rule will establish science-based minimum standards for the safe production and harvesting of those types of fruits and vegetables that are raw agricultural commodities for which the Secretary has determined that such standards minimize the risk of serious adverse health consequences or death. The purpose of the rule is to reduce the risk of illness associated with fresh produce.

Statement of Need: FDA is taking this action to meet the requirements of the FSMA and to address the food safety challenges associated with fresh produce and, thereby, protect the public health. Data indicate that between 1973 and 1997, outbreaks of foodborne illness in the U.S. associated with fresh produce increased in absolute numbers and as a proportion of all reported foodborne illness outbreaks. The Agency issued general good agricultural practice guidelines for fresh fruits and vegetables over a decade ago. Incorporating prevention-oriented public health principles, and incorporating what we have learned in the past decade into a regulation is a critical step in establishing standards for the production and harvesting of produce, and reducing the foodborne illness attributed to fresh produce.

Summary of Legal Basis: FDA is relying on the amendments to the Federal Food, Drug, and Cosmetic Act (the FD&C Act), provided by section 105 of the Food Safety Modernization Act (codified primarily in section 419 of the FD&C Act (21 U.S.C. 350h)). FDA's legal basis also derives in part from sections 402(a)(3), 402(a)(4), and 701(a) of the FD&C Act (21 U.S.C. 342(a)(3), 342(a)(4), and 371(a)). FDA also intends to rely on section 361 of the Public Health Service Act (PHS Act) (42 U.S.C. 264), which gives FDA authority to promulgate regulations to control the spread of communicable disease.

Alternatives: Section 105 of the Food Safety Modernization Act requires FDA to conduct this rulemaking.

Anticipated Cost and Benefits: FDA estimates that the costs to more than 300,000 domestic and foreign producers and packers of fresh produce from the proposal would include one-time costs (e.g., new tools and equipment) and recurring costs (e.g., monitoring, training, recordkeeping). FDA anticipates that the benefits would be a reduction in foodborne illness and deaths associated with fresh produce. The monetized annual benefits of this rule are estimated to be $1 billion, and the monetized annual costs are estimated to be $460 million, domestically.

Risks: This regulation would directly and materially advance the Federal Government's substantial interest in reducing the risks for illness and death associated with foodborne infections associated with the consumption of fresh produce. Less restrictive and less comprehensive approaches have not been sufficiently effective in reducing the problems addressed by this regulation. FDA anticipates that the regulation would lead to a significant decrease in foodborne illness associated with fresh produce consumed in the United States.

Timetable:

Action | Date | FR Cite
NPRM | 01/16/13 | 78 FR 3503
NPRM Comment Period End | 05/16/13 |
NPRM Comment Period Extended | 04/26/13 | 78 FR 24692
NPRM Comment Period Extended End | 09/16/13 |
NPRM Comment Period Extended | 08/09/13 | 78 FR 48637
NPRM Comment Period Extended End | 11/15/13 |
Notice of Intent To Prepare an Environmental Impact Statement for the Proposed Rule | 08/19/13 | 78 FR 50358
Notice of Intent To Prepare Environmental Impact Statement for the Proposed Rule Comment Period End | 11/15/13 |
NPRM Comment Period Extended | 11/20/13 | 78 FR 69605
NPRM Comment Period Extended End | 11/22/13 |
Environmental Impact Statement for the Proposed Rule; Comment Period Extended | 03/11/14 | 79 FR 13593
Environmental Impact Statement for the Proposed Rule; Comment Period Extended End | 04/18/14 |
Supplemental NPRM | 09/29/14 | 79 FR 58433
Supplemental NPRM Comment Period End | 12/15/14 |
Final Rule | 10/00/15 |

Regulatory Flexibility Analysis Required: Yes.

Small Entities Affected: Businesses.

Government Levels Affected: None

Agency Contact: Samir Assar, Supervisory Consumer Safety Officer, Department of Health and Human Services, Food and Drug Administration, Center for Food Safety and Applied Nutrition, Office of Food Safety, 5100 Paint Branch Parkway, College Park, MD 20740, Phone: 240 402-1636, Email: samir.assar@fda.hhs.gov.

RIN: 0910-AG35

HHS—FDA

50. Current Good Manufacturing and Hazard Analysis, and Risk-Based Preventive Controls for Human Food

Priority: Economically Significant. Major under 5 U.S.C. 801.

Unfunded Mandates: This action may affect the private sector under Pub. L. 104-4.

Legal Authority: 21 U.S.C. 342; 21 U.S.C. 371; 42 U.S.C. 264; Pub. L. 111-353 (signed on Jan. 4, 2011)

CFR Citation: 21 CFR 117.

Legal Deadline: Final, Statutory, July 4, 2012, Final rule must be published no later than 18 months after the date of enactment of the FDA Food Safety Modernization Act.

Abstract: This rule would require a food facility to have and implement preventive controls to significantly minimize or prevent the occurrence of hazards that could affect food manufactured, processed, packed, or held by the facility. This action is intended to prevent or, at a minimum, quickly identify foodborne pathogens before they get into the food supply.

Statement of Need: FDA is taking this action to meet the requirements of FSMA and to better address changes that have occurred in the food industry and thereby protect public health. High-profile outbreaks of foodborne illness over the last decade and data showing that such illnesses strike one in six Americans each year have caused a widespread recognition that we need a new modern food safety system that prevents food safety problems in the first place not a system that just reacts once they happen. Section 103 of FSMA amended the Federal Food Drug and Cosmetic Act (FD&C Act) by adding section 418 (21 U.S.C. 350g) Hazard Analysis and Risk Based Preventive Controls. In enacting FSMA Congress sought to improve the safety of food in the United States by taking a risk-based approach to food safety emphasizing prevention. Section 418 of the FD&C Act requires owners operators or agents in charge of food facilities to develop and implement a written plan that describes and documents how their facility will implement the hazard analysis and preventive controls required by this section. In addition to containing new provisions requiring hazard analysis and risk-based preventive controls this rule would also revise the existing Current Good Manufacturing Practice (CGMP) requirements found in 21 CFR part 110 that were last updated in 1986.

Summary of Legal Basis: FDA is relying on section 103 of the FSMA. FDA is also relying on sections 402(a)(3), (a)(4) and 701(a) of the Federal Food, Drug, and Cosmetic Act (the FD&C Act) (21 U.S.C. 342(a)(3), (a)(4), and 371(a)). Under section 402(a)(3) of the FD&C Act, a food is adulterated if it consists in whole, or in part, of any filthy, putrid, or decomposed substance, or if it is otherwise unfit for food. Under section 402(a)(4), a food is adulterated if it has been prepared, packed, or held under unsanitary conditions whereby it may have become contaminated with filth, or may have been rendered injurious to health. Under section 701(a) of the FD&C Act, FDA is authorized to issue regulations for the efficient enforcement of the FD&C Act. FDA's legal basis also derives from section 361 of the Public Health Service Act (PHS Act) (42 U.S.C. 264), which gives FDA authority to promulgate regulations to control the spread of communicable disease.

Alternatives: An alternative to this rulemaking is not to update the CGMP regulations, and instead issue separate regulations to implement the FDA Food Safety Modernization Act.

Anticipated Cost and Benefits: FDA estimates that the costs from the proposal to domestic and foreign producers and packers of processed foods would include new one-time costs (e.g., adoption of written food safety plans, setting up training programs, implementing allergen controls, and purchasing new tools and equipment) and recurring costs (e.g., auditing and monitoring suppliers of sensitive raw materials and ingredients, training employees, and completing and maintaining records used throughout the facility). FDA anticipates that the benefits would be a reduced risk of foodborne illness and death from processed foods, and a reduction in the number of safety-related recalls.

Risks: This regulation will directly and materially advance the Federal Government's substantial interest in reducing the risks for illness and death associated with foodborne infections. Less restrictive and less comprehensive approaches have not been effective in reducing the problems addressed by this regulation. The regulation will lead to a significant decrease in foodborne illness in the U.S.

Timetable:

Action | Date | FR Cite
NPRM | 01/16/13 | 78 FR 3646
NPRM Comment Period End | 05/16/13 |
NPRM Comment Period Extended | 04/26/13 | 78 FR 24691
NPRM Comment Period Extended End | 09/16/13 |
NPRM Comment Period Extended | 08/09/13 | 78 FR 48636
NPRM Comment Period Extended End | 11/15/13 |
NPRM Comment Period Extended | 11/20/13 | 78 FR 69604
NPRM Comment Period Extended End | 11/22/13 |
Supplemental NPRM | 09/29/14 | 79 FR 58523
Supplemental NPRM Comment Period End | 12/15/14 |
Final Rule | 08/00/15 |

Regulatory Flexibility Analysis Required: Yes.

Small Entities Affected: Businesses.

Government Levels Affected: None.

Additional Information: Includes Retrospective Review under E.O. 13563.

Agency Contact: Jenny Scott, Senior Advisor, Department of Health and Human Services, Food and Drug Administration, Office of Food Safety, 5100 Paint Branch Parkway, College Park, MD 20740, Phone: 240 402-1488, Email: jenny.scott@fda.hhs.gov.

RIN: 0910-AG36

HHS—FDA

51. Reports of Distribution and Sales Information for Antimicrobial Active Ingredients Used in Food-Producing Animals

Priority: Other Significant.

Legal Authority: 21 U.S.C. 360b(l)(3)

CFR Citation: 21 CFR 514.80.

Legal Deadline: None.

Abstract: This proposed rule would require that the sponsor of each approved or conditionally approved antimicrobial new animal drug product submit an annual report to the Food and Drug Administration (FDA or Agency) on the amount of each antimicrobial active ingredient in the drug product that is sold or distributed for use in food-producing animals, including any distributor-labeled product. In addition to codifying these requirements, FDA is exploring other requirements for the collection of additional drug distribution data.

Statement of Need: Section 105 of the Animal Drug User Fee Amendments of 2008 (ADUFA) amended section 512 of the Federal Food, Drug, and Cosmetic Act (FD&C Act) to require that the sponsor of each approved or conditionally appoved new animal drug product that contains an antimicrobial active ingredient submit an annual report to FDA on the amount of each antimicrobial active ingredient in the drug product that is sold or distributed for use in food-producing animals, including information on any distributor-labeled product. This legislation was enacted to assist FDA in its continuing analysis of the interactions (including drug resistance), efficacy, and safety of antibiotics approved for use in both humans and food-producing animals (H. Rpt. 110-804). This proposed rulemaking is to codify these requirements. In addition, FDA is exploring the establishment of other reporting requirements to provide for the collection of additional drug distribution data, including reporting sales and distribution data by species.

Summary of Legal Basis: Section 105 of ADUFA (Pub. L. 110-316; 122 Stat. 3509) amended section 512 of the FD&C Act (21 U.S.C. 360b) to require that sponsors of approved or conditionally approved applications for new animal drugs containing an antimicrobial active ingredient submit an annual report to the Food and Drug Administration on the amount of each such ingredient in the drug that is sold or distributed for use in food-producing animals, including information on any distributor-labeled product. FDA is also issuing this rule under its authority under section 512(l) of the FD&C Act to collect information relating to approved new animal drugs.

Alternatives: This rulemaking codifies the congressional mandate of ADUFA section 105. The annual reporting required under ADUFA section 105 is necessary to address potential problems concerning the safety and effectiveness of antimicrobial new animal drugs. Less frequent data collection would hinder this purpose.

Anticipated Cost and Benefits: Sponsors of antimicrobial drugs sold for use in food-producing animals currently report sales and distribution data to the Agency under section 105 of ADUFA; this rulemaking will codify in FDA's regulations a current statutory requirement. There may be a minimal additional labor cost if any other reporting requirement is proposed. Additional data beyond the reporting requirements specified in ADUFA section 105 will help the Agency better understand how the use of medically important antimicrobial drugs in food-producing animals may relate to antimicrobial resistance.

Risks: Section 105 of ADUFA was enacted to address the problem of antimicrobial resistance, and to help ensure that FDA has the necessary information to examine safety concerns related to the use of antibiotics in food-producing animals. 154 Congressional Record H7534.

Timetable:

Action | Date | FR Cite
ANPRM | 07/27/12 | 77 FR 44177
ANPRM Comment Period End | 09/25/12 |
ANPRM Comment Period Extended | 09/26/12 | 77 FR 59156
ANPRM Comment Period End | 11/26/12 |
NPRM | 05/00/15 |

Regulatory Flexibility Analysis Required: Undetermined.

Small Entities Affected: Businesses.

Government Levels Affected: None.

Agency Contact: Sujaya Dessai, Supervisory Veterinary Medical Officer, Department of Health and Human Services, Food and Drug Administration, Center for Veterinary Medicine, MPN-4, Room 2620, HFV-212, 7529 Standish Place, Rockville, MD 20855, Phone: 240 276-9075, Email: sujaya.dessai@fda.hhs.gov.

RIN: 0910-AG45

HHS—FDA

52. Foreign Supplier Verification Program

Priority: Economically Significant. Major under 5 U.S.C. 801.

Unfunded Mandates: This action may affect the private sector under Pub. L. 104-4.

Legal Authority: 21 U.S.C. 384a; title III, sec 301 of FDA Food Safety Modernization Act, Pub. L. 111-353, establishing sec 805 of the Federal Food, Drug, and Cosmetic Act (FD&C Act)

CFR Citation: Not Yet Determined.

Legal Deadline: Final, Statutory, January 4, 2012.

Abstract: This rule describes what a food importer must do to verify that its foreign suppliers produce food that is as safe as food produced in the United States. FDA is taking this action to improve the safety of food that is imported into the United States.

Statement of Need: The proposed rule is needed to help improve the safety of food that is imported into the United States. Imported food products have increased dramatically over the last several decades. Data indicate that about 15 percent of the U.S. food supply is imported. FSMA provides the Agency with additional tools and authorities to help ensure that imported foods are safe for U.S. consumers. Included among these tools and authorities is a requirement that importers perform risk-based foreign supplier verification activities to verify that the food they import is produced in compliance with U.S. requirements, as applicable, and is not adulterated or misbranded. This proposed rule on the content of foreign supplier verification programs (FSVPs) sets forth the proposed steps that food importers would be required to take to fulfill their responsibility to help ensure the safety of the food they bring into this country.

Summary of Legal Basis: Section 805(c) of the FD&C Act (21 U.S.C. 384a(c)) directs FDA, not later than 1 year after the date of enactment of FSMA, to issue regulations on the content of FSVPs. Section 805(c)(4) states that verification activities under such programs may include monitoring records for shipments, lot-by-lot certification of compliance, annual onsite inspections, checking the hazard analysis and risk-based preventive control plans of foreign suppliers, and periodically testing and sampling shipments of imported products. Section 301(b) of FSMA amends section 301 of the FD&C Act (21 U.S.C. 331) by adding section 301(zz), which designates as a prohibited act the importation or offering for importation of a food if the importer (as defined in section 805) does not have in place an FSVP in compliance with section 805. In addition, section 301(c) of FSMA amends section 801(a) of the FD&C Act (21 U.S.C. 381(a)) by stating that an article of food being imported or offered for import into the United States shall be refused admission if it appears, from an examination of a sample of such an article or otherwise, that the importer is in violation of section 805.

Alternatives: We are considering a range of alternative approaches to the requirements for foreign supplier verification activities. These might include: (1) establishing a general requirement that importers determine and conduct whatever verification activity would adequately address the risks associated with the foods they import; (2) allowing importers to choose from a list of possible verification mechanisms, such as the activities listed in section 805(c)(4) of the FD&C Act; (3) requiring importers to conduct particular verification activities for certain types of foods or risks (e.g., for high-risk foods), but allowing flexibility in verification activities for other types of foods or risks; and (4) specifying use of a particular verification activity for each particular kind of food or risk. To the extent possible while still ensuring that verification activities are adequate to ensure that foreign suppliers are producing food in accordance with U.S. requirements, we will seek to give importers the flexibility to choose verification procedures that are appropriate to adequately address the risks associated with the importation of a particular food, and accounted for in the proposed rules that contain these requirements.

Anticipated Cost and Benefits: We are still estimating the cost and benefits for this proposed rule. However, the available information suggests that, if finalized, the costs will be significant. Our preliminary analysis of FY10 OASIS data suggests that this rule will cover about 60,000 importers, 240,000 unique combinations of importers and foreign suppliers, and 540,000 unique combinations of importers, products, and foreign suppliers. These numbers imply that provisions that require activity for each importer, each unique combination of importer and foreign supplier, or each unique combination of importer, product, and foreign supplier will generate significant costs. An example of a provision linked to combinations of importers and foreign suppliers would be a requirement to conduct a verification activity, such as an onsite audit, under certain conditions. The cost of onsite audits will depend, in part, on whether foreign suppliers can provide the same onsite audit results to different importers, or whether every importer will need to take some action with respect to each of their foreign suppliers. The benefits of this proposed rule will consist of the reduction of adverse health events linked to imported food that could result from increased compliance with applicable requirements, and are accounted for in the proposed rules that contain those requirements and are accounted for in the proposed rules that contain those requirements.

Risks: As stated above, about 15 percent of the U.S. food supply is imported, and many of these imported foods are high-risk commodities. According to recent data from the Centers for Disease Control and Prevention, each year, about 48 million Americans get sick, 128,000 are hospitalized, and 3,000 die from foodborne diseases. We expect that the adoption of FSVPs by food importers will benefit the public health by helping to ensure that imported food is produced in compliance with other applicable food safety regulations.

Timetable:

Action | Date | FR Cite
NPRM | 07/29/13 | 78 FR 45729
NPRM Comment Period End | 11/26/13 |
NPRM Comment Period Extended | 11/20/13 | 78 FR 69602
NPRM Comment Period Extended End | 01/27/14 |
Supplemental NPRM | 09/29/14 | 79 FR 58573
Supplemental NPRM Comment Period End | 12/15/14 |
Final Rule | 10/00/15 |

Regulatory Flexibility Analysis Required: Yes.

Small Entities Affected: Businesses.

Government Levels Affected: None.

International Impacts: This regulatory action will be likely to have international trade and investment effects, or otherwise be of international interest.

Agency Contact: Brian L. Pendleton, Senior Policy Advisor, Department of Health and Human Services, Food and Drug Administration, Office of Policy, WO 32, Room 4245, 10903 New Hampshire Avenue, Silver Spring, MD 20993-0002, Phone: 301 796-4614, Fax: 301 847-8616, Email: brian.pendleton@fda.hhs.gov.

RIN: 0910-AG64

HHS—FDA

Final Rule Stage

53. “Tobacco Products” Subject to the Federal Food, Drug, and Cosmetic Act, as Amended by the Family Smoking Prevention and Tobacco Control Act

Priority: Economically Significant. Major under 5 U.S.C. 801.

Unfunded Mandates: This action may affect the private sector under Pub. L. 104-4.

Legal Authority: 21 U.S.C. 301 et seq.; The Federal Food, Drug, and Cosmetic Act; Pub. L. 111-31; The Family Smoking Prevention and Tobacco Control Act

CFR Citation: Not Yet Determined.

Legal Deadline: None.

Abstract: The Family Smoking Prevention and Tobacco Control Act (Tobacco Control Act) provides the Food and Drug Administration (FDA) authority to regulate cigarettes, cigarette tobacco, roll-your-own tobacco, and smokeless tobacco. The Federal Food, Drug, and Cosmetic Act (FD&C Act), as amended by the Tobacco Control Act, permits FDA to issue regulations deeming other tobacco products to be subject to the FD&C Act. This rule would deem additional products meeting the statutory definition of “tobacco product” to be subject to the FD&C Act, and would specify additional restrictions.

Statement of Need: Currently, the Tobacco Control Act provides FDA with immediate authority to regulate cigarettes, cigarette tobacco, roll-your-own tobacco, and smokeless tobacco. The Tobacco Control Act also permits FDA to issue regulations deeming other tobacco products that meet the statutory definition of “tobacco product” to also be subject to the FD&C Act. This regulation is necessary to afford FDA the authority to regulate additional products which include hookah, electronic cigarettes, cigars, pipe tobacco, other novel tobacco products, and future tobacco products.

Summary of Legal Basis: Section 901 of the FD&C Act, as amended by the Tobacco Control Act, permits FDA to issue regulations deeming other tobacco products to be subject to the FD&C Act. Section 906(d) provides FDA with the authority to propose restrictions on the sale and distribution of tobacco products, including restrictions on the access to, and the advertising and promotion of, tobacco products if FDA determines that such regulation would be appropriate for the protection of the public health.

Alternatives: In addition to the benefits and costs of both options for the proposed rule, FDA assessed the benefits and costs of several alternatives to the proposed rule: e.g., deeming only, but exempt newly-deemed products from certain requirements; exempt certain classes of products from certain requirements; deeming only, with no additional provisions; and changes to the compliance periods.

Anticipated Cost and Benefits: The proposed rule consists of two coproposals, option 1 and option 2. The proposed option 1 deems all products meeting the statutory definition of “tobacco product” except accessories of a proposed deemed tobacco product to be subject to chapter IX of the FD&C Act. Option 1 also proposes additional provisions that would apply to proposed deemed products as well as to certain other tobacco products. Option 2 is the same as option 1 except that it exempts premium cigars. We expect that asserting our authority over these tobacco products will enable us to take further regulatory action in the future as appropriate; those actions will have their own costs and benefits. The proposed rule would generate some direct benefits by providing information to consumers about the risks and characteristics of tobacco products which may result in consumers reducing their use of cigars and other tobacco products. Other potential benefits follow from premarket requirements which could prevent more harmful products from appearing on the market and worsening the health effects of tobacco product use. The proposed rule would impose costs in the form of registration submission labeling and other requirements; other likely costs are not quantifiable based on current data.

Risks: Adolescence is the peak time for tobacco use initiation and experimentation. In recent years, new and emerging tobacco products, sometimes referred to as “novel tobacco products,” have been developed and are becoming an increasing concern to public health due, in part, to their appeal to youth and young adults. Non-regulated tobacco products come in many forms, including electronic cigarettes, nicotine gels, and certain dissolvable tobacco products (i.e., those dissolvable products that do not currently meet the definition of smokeless tobacco under 21 U.S.C. 387(18) because they do not contain cut, ground, powdered, or leaf tobacco, and instead contain nicotine extracted from tobacco), and these products are widely available. This deeming rule is necessary to provide FDA with authority to regulate these products (e.g., registration, product and ingredient listing, user fees for certain products, premarket requirements, and adulteration and misbranding provisions). In addition, the additonal restrictions that FDA seeks to promulgate for the proposed deemed products will protect youth by restricting minors' access to these products and will increase consumer understanding of the impact of these products on public health. This rule is consistent with other approaches that the Agency has taken to address the tobacco epidemic and is particularly necessary, given that consumer use may be gravitating to the proposed deemed products.

Timetable:

Action | Date | FR Cite
NPRM | 04/25/14 | 79 FR 23142
NPRM Comment Period End | 07/09/14 |
NPRM Comment Period Extended | 06/24/14 | 79 FR 35711
NPRM Comment Period End | 08/08/14 |
Final Action | 06/00/15 |

Regulatory Flexibility Analysis Required: Yes.

Small Entities Affected: Businesses.

Government Levels Affected: Undetermined.

Federalism: Undetermined.

International Impacts: This regulatory action will be likely to have international trade and investment effects, or otherwise be of international interest.

Agency Contact: Gerie Voss, Senior Regulatory Counsel, Department of Health and Human Services, Food and Drug Administration, Center for Tobacco Products, Document Control Center, Building 71, Room G335, 10903 New Hampshire Avenue, Silver Spring, MD 20993, Phone: 877 287-1373, Fax: 301 595-1426, Email: ctpregulations@fda.hhs.gov.

RIN: 0910-AG38

HHS—FDA

54. Food Labeling: Calorie Labeling of Articles of Food Sold in Vending Machines

Priority: Economically Significant. Major under 5 U.S.C. 801.

Legal Authority: 21 U.S.C. 321; 21 U.S.C. 343; 21 U.S.C. 371

CFR Citation: Not Yet Determined.

Legal Deadline: None.

Abstract: FDA published a proposed rule to establish requirements for nutrition labeling of certain food items sold in certain vending machines. FDA also proposed the terms and conditions for vending machine operators registering to voluntarily be subject to the requirements. FDA is issuing a final rule, and taking this action to carry out section 4205 of the Patient Protection and Affordable Care Act.

Statement of Need: This rulemaking was mandated by section 4205 of the Patient Protection and Affordable Care Act (Affordable Care Act).

Summary of Legal Basis: On March 23, 2010, the Affordable Care Act (Pub. L. 111-148) was signed into law. Section 4205 amended 403(q)(5) of the Federal Food, Drug, and Cosmetic Act (FD&C Act) by, among other things, creating new clause (H) to require that vending machine operators, who own or operate 20 or more machines, disclose calories for certain food items. FDA has the authority to issue this rule under sections 403(q)(5)(H) and 701(a) of the FD&C Act (21 U.S.C. 343(q)(5)(H), and 371(a)). Section 701(a) of the FD&C Act vests the Secretary of Health and Human Services, and, by delegation, the Food and Drug Administration (FDA) with the authority to issue regulations for the efficient enforcement of the FD&C Act.

Alternatives: Section 4205 of the Affordable Care Act requires the Secretary (and by delegation, the FDA) to establish by regulation requirements for calorie labeling of articles of food sold from covered vending machines. Therefore, there are no alternatives to rulemaking. FDA has analyzed alternatives that may reduce the burden of the rulemaking, including analyzing the benefits and costs of: restricting the flexibility of the format for calorie disclosure, lengthening the compliance time, and extending the coverage of the rule to bulk vending machines without selection buttons.

Anticipated Cost and Benefits: Any vending machine operator operating fewer than 20 machines may voluntarily choose to be covered by the national standard. It is anticipated that vending machine operators that own or operate 20 or more vending machines will bear costs associated with adding calorie information to vending machines. FDA initially estimated that the total cost of complying with section 4205 of the Affordable Care Act and this rulemaking would be approximately $25.8 million initially, with a recurring cost of approximately $24 million.

Because comprehensive national data for the effects of vending machine labeling do not exist, FDA did not quantify the benefits associated with section 4205 of the Affordable Care Act and this rulemaking in the proposed rule. Some studies have shown that some consumers consume fewer calories when calorie content information is displayed at the point of purchase. Consumers will benefit from having this important nutrition information to assist them in making healthier choices when consuming food away from home. Given the very high costs associated with obesity and its associated health risks, FDA estimated that if 0.02 percent of the adult obese population reduces energy intake by at least 100 calories per week, then the benefits of section 4205 of the Affordable Care Act and this rulemaking would be at least as large as the costs.

Risks: Americans now consume an estimated one-third of their total calories from foods prepared outside the home, and spend almost half of their food dollars on such foods. This rule will provide consumers with information about the nutritional content of food to enable them to make healthier food choices, and may help mitigate the trend of increasing obesity in America.

Timetable:

Action | Date | FR Cite
NPRM | 04/06/11 | 76 FR 19238
NPRM Comment Period End | 07/05/11 |
Final Action | 11/00/14 |

Regulatory Flexibility Analysis Required: Yes.

Small Entities Affected: Businesses, Governmental Jurisdictions.

Government Levels Affected: Federal, Local, State.

Federalism: This action may have federalism implications as defined in EO 13132.

Agency Contact: Daniel Reese, Food Technologist, Department of Health and Human Services, Food and Drug Administration, Center for Food Safety and Applied Nutrition (HFS-820), 5100 Paint Branch Parkway, College Park, MD 20740, Phone: 240 402-2126, Email: daniel.reese@fda.hhs.gov.

RIN: 0910-AG56

HHS—FDA

55. Food Labeling: Nutrition Labeling of Standard Menu Items in Restaurants and Similar Retail Food Establishments

Priority: Economically Significant. Major under 5 U.S.C. 801.

Unfunded Mandates: This action may affect the private sector under Pub. L. 104-4.

Legal Authority: 21 U.S.C. 321; 21 U.S.C. 343; 21 U.S.C. 371

CFR Citation: Not Yet Determined.

Legal Deadline: None.

Abstract: FDA published a proposed rule in the Federal Register to establish requirements for nutrition labeling of standard menu items in chain restaurants and similar retail food establishments. FDA also proposed the terms and conditions for restaurants and similar retail food establishments registering to voluntarily be subject to the Federal requirements. FDA is issuing a final rule, and taking this action to carry out section 4205 of the Patient Protection and Affordable Care Act.

Statement of Need: This rulemaking was mandated by section 4205 of the Patient Protection and Affordable Care Act (Affordable Care Act).

Summary of Legal Basis: On March 23, 2010, the Affordable Care Act (Pub. L. 111-148) was signed into law. Section 4205 of the Affordable Care Act amended 403(q)(5) of the Federal Food, Drug, and Cosmetic Act (FD&C Act) by, among other things, creating new clause (H) to require that certain chain restaurants and similar retail food establishments with 20 or more locations disclose certain nutrient information for standard menu items. FDA has the authority to issue this rule under sections 403(a)(1), 403(q)(5)(H), and 701(a) of the FD&C Act (21 U.S.C. 343(a)(1), 343(q)(5)(H), and 371(a)). Section 701(a) of the FD&C Act vests the Secretary of Health and Human Services, and, by delegation, the Food and Drug Administration (FDA) with the authority to issue regulations for the efficient enforcement of the FD&C Act.

Alternatives: Section 4205 of the Affordable Care Act requires the Secretary, and by delegation the FDA, to establish by regulation requirements for nutrition labeling of standard menu items for covered restaurants and similar retail food establishments. Therefore, there are no alternatives to rulemaking. FDA has analyzed alternatives that may reduce the burden of this rulemaking, including analyzing the benefits and costs of expanding and contracting the set of establishments covered by this rule, and shortening or lengthening the compliance time relative to the rulemaking.

Anticipated Cost and Benefits: Chain restaurants and similar retail food establishments covered by the Federal law operating in local jurisdictions that impose different nutrition labeling requirements will benefit from having a uniform national standard. Any restaurant or similar retail food establishment with fewer than 20 locations may voluntarily choose to be covered by the national standard. It is anticipated that chain restaurants with 20 or more locations will bear costs for adding nutrition information to menus and menu boards. FDA initially estimated that the total cost of section 4205 and this rulemaking would be approximately $80 million, annualized over 10 years, with a low annualized estimate of approximately $33 million and a high annualized estimate of approximately $125 million over 10 years. These costs (which are subject to change in the final rule) included an initial cost of approximately $320 million with an annually recurring cost of $45 million.

Because comprehensive national data for the effects of menu labeling do not exist, FDA did not quantify the benefits associated with section 4205 of the Affordable Care Act and this rulemaking. Some studies have shown that some consumers consume fewer calories when menus have information about calorie content displayed. Consumers will benefit from having important nutrition information for the approximately 30 percent of calories consumed away from home. Given the very high costs associated with obesity and its associated health risks, FDA estimated that if 0.6 percent of the adult obese population reduces energy intake by at least 100 calories per week, then the benefits of section 4205 of the Affordable Care Act and this rule would be at least as large as the costs.

Risks: Americans now consume an estimated one-third of their total calories on foods prepared outside the home, and spend almost half of their food dollars on such foods. Unlike packaged foods that are labeled with nutrition information, foods in restaurants, for the most part, do not have nutrition information that is readily available when ordered. Dietary intake data have shown that obese Americans consume over 100 calories per meal more when eating food away from home, rather than food at home. This rule will provide consumers information about the nutritional content of food to enable them to make healthier food choices, and may help mitigate the trend of increasing obesity in America.

Timetable:

Action | Date | FR Cite
NPRM | 04/06/11 | 76 FR 19192
NPRM Comment Period End | 07/05/11 |
Final Action | 11/00/14 |

Regulatory Flexibility Analysis Required: Yes.

Small Entities Affected: Businesses, Governmental Jurisdictions.

Government Levels Affected: Federal, Local, State.

Federalism: This action may have federalism implications as defined in EO 13132.

Agency Contact: Daniel Reese, Food Technologist, Department of Health and Human Services, Food and Drug Administration, Center for Food Safety and Applied Nutrition (HFS-820), 5100 Paint Branch Parkway, College Park, MD 20740, Phone: 240 402-2126, Email: daniel.reese@fda.hhs.gov.

RIN: 0910-AG57

HHS—FDA

56. Accreditation of Third-Party Auditors/Certification Bodies To Conduct Food Safety Audits and To Issue Certifications

Priority: Other Significant.

Legal Authority: 21 U.S.C. 384d; Pub. L. 111-353; sec 307 FDA Food Safety Modernization Act; other sections of FDA Food Safety Modernization Act, as appropriate; 21 U.S.C. 371; 21 U.S.C. 381; 21 U.S.C. 384b; . . .

CFR Citation: 21 CFR 1.

Legal Deadline: Final, Statutory, July 2012, Promulgate implementing regulations.

Final, Judicial, October 31, 2015.

Per Public Law 111-353, section 307, promulgate, within 18 months of enactment, certain implementing regulations for accreditation of third-party auditors to conduct food safety audits. Per consent decree, FDA will submit the final rule to the Federal Register for publication by 10/31/15.

Abstract: This rule establishes regulations for accreditation of third-party auditors to conduct food safety audits. FDA is taking this action to improve the safety of food that is imported into the United States.

Statement of Need: The use of accredited third-party auditors to certify food imports will assist in ensuring the safety of food from foreign origin entering U.S. commerce. Accredited third-party auditors auditing foreign facilities can increase FDA's information about foreign facilities that FDA may not have adequate resources to inspect in a particular year. FDA will establish identified standards creating overall uniformity to complete the task. Audits that result in issuance of facility certificates will provide FDA information about the compliance status of the facility. Additionally, auditors will be required to submit audit reports that may be reviewed by FDA for purposes of compliance assessment and work planning.

Summary of Legal Basis: Section 808 of the FD&C Act directs FDA to establish, not later than 2 years after the date of enactment, a system for the recognition of accreditation bodies that accredit third-party auditors, who, in turn, certify that their eligible entities meet the requirements. If within 2 years after the date of the establishment of the system, FDA has not identified and recognized an accreditation body, FDA may directly accredit third party auditors.

Alternatives: FSMA described in detail the framework for, and requirements of, the accredited third-party auditor program. Alternatives include certain oversight activities required of recognized accreditation bodies that accredit third-party auditors, as distinguished from third-party auditors directly accredited by FDA. Another alternative relates to the nature of the required standards and the degree to which those standards are prescriptive or flexible.

Anticipated Cost and Benefits: The benefits of the proposed rule would be less unsafe or misbranded food entering U.S. commerce. Additional benefits include the increased flow of credible information to FDA regarding the compliance status of foreign firms and their foods that are ultimately offered for import into the United States, which information, in turn, would inform FDA's work planning for inspection of foreign food facilities and might result in a signal of possible problems with a particular firm or its products, and with sufficient signals, might raise questions about the rigor of the food safety regulatory system of the country of origin. The compliance costs of the proposed rule would result from the additional labor and capital required of accreditation bodies seeking FDA recognition and of third-party auditors seeking accreditation to the extent that will involve the assembling of information for an application unique to the FDA third-party program. The compliance costs associated with certification will be accounted for separately under the costs associated with participation in the voluntary qualified importer program, and the costs associated with mandatory certification for high-risk food imports. The third-party program is funded through revenue neutral-user fees, which will be developed by FDA through rulemaking. User fee costs will be accounted for in that rulemaking.

Risks: FDA is proposing this rule to provide greater assurance the food offered for import into the United States is safe and will not cause injury or illness to animals or humans. The rule would implement a program for accrediting third-party auditors to conduct food safety audits of foreign food entities, including registered foreign food facilities, and based on the findings of the regulatory audit, to issue certifications to foreign food entities found to be in compliance with FDA requirements. The certifications could be used by importers seeking to participate in the Voluntary Qualified Importer Program for expedited review and entry of product, and would be a means to provide assurance of compliance as required by FDA based on risk-related considerations. The rule would apply to any foreign or domestic accreditation body seeking FDA recognition, any foreign or domestic third-party auditor seeking accreditation, any registered foreign food facility or other foreign food entity subject to a food safety audit (including a regulatory audit conducted for purposes of certification), and any importer seeking to participate in the Voluntary Qualified Importer Program. Fewer instances of unsafe or misbranded food entering U.S. commerce would reduce the risk of serious illness and death to humans and animals.

Timetable:

Action | Date | FR Cite
NPRM | 07/29/13 | 78 FR 45781
NPRM Comment Period End | 11/26/13 |
NPRM Comment Period Extended | 11/20/13 | 78 FR 69603
NPRM Comment Period Extended End | 01/27/14 |
Final Action | 10/00/15 |

Regulatory Flexibility Analysis Required: No.

Government Levels Affected: Undetermined.

International Impacts: This regulatory action will be likely to have international trade and investment effects, or otherwise be of international interest.

Agency Contact: Charlotte A. Christin, Acting Director, Division of Dietary Supplement Programs, Department of Health and Human Services, Food and Drug Administration, Division of Dietary Supplement Programs, Center for Food Safety and Applied Nutrition, 4D042, College Park, MD 20740, Phone: 240 402-3708, Email: charlotte.christin@fda.hhs.gov.

RIN: 0910-AG66

HHS—FDA

57. Revision of Postmarketing Reporting Requirements Discontinuance or Interruption in Supply of Certain Products (Drug Shortages)

Priority: Economically Significant. Major under 5 U.S.C. 801.

Legal Authority: secs 506c, 506c-1, 506d, and 506f of the FDA&C Act, as amended by title X (Drug Shortages) of FDASIA, Pub. L. 112-144, July 9, 2012

CFR Citation: 21 CFR 314.81; 21 CFR 314.91.

Legal Deadline: NPRM, Statutory, January 9, 2014, Not later than 18 months after the date of enactment of FDASIA, FDA must adopt the final regulation implementing section 506C as amended.

Section 1001 of FDASIA states that not later than 18 months after the date of enactment of FDASIA, the Secretary shall adopt a final regulation implementing section 506(c) as amended.

Abstract: This rule would require manufacturers of certain drug products to report discontinuances or interruptions in the manufacturing of these products 6 months prior to the discontinuance or interruption, or if that is not possible, as soon as practicable. Manufacturers must notify FDA of a discontinuance or interruption in the manufacture of drugs that are life-supporting, life-sustaining, or intended for use in the prevention or treatment of a debilitating disease or condition.

Statement of Need: The Food and Drug Administration Safety and Innovation Act (FDASIA), Public Law 112-144 (July 9, 2012), amends the FD&C Act to require manufacturers of certain drug products to report to FDA discontinuances or interruptions in the production of these products that are likely to meaningfully disrupt supply 6 months prior to the discontinuance or interruption, or if that is not possible, as soon as practicable. FDASIA also amends the FD&C Act to include other provisions related to drug shortages. Drug shortages have a significant impact on patient access to critical medications, and the number of drug shortages has risen steadily since 2005 to a high of 251 shortages in 2011. Notification to FDA of a shortage or an issue that may lead to a shortage is critical—FDA was able to prevent more than 100 shortages in the first 3 quarters of 2012 due to early notification. This rule will implement the FDASIA drug shortages provisions, allowing FDA to more quickly and efficiently respond to shortages, thereby improving patient access to critical medications, and promoting public health.

Summary of Legal Basis: Sections 506(c), 506(c)-1, 506(d), 506(e), and 506(f) of the FD&C Act, as amended by title X (Drug Shortages) of FDASIA.

Alternatives: The principal alternatives assessed were to provide guidance on voluntary notification to FDA, or to continue to rely on the requirements under the current interim final rule on notification. These alternatives would not meet the statutory requirement to issue the final regulation required by title X, section 1001 of FDASIA.

Anticipated Cost and Benefits: The rule would increase the modest reporting costs associated with notifying FDA of discontinuances or interruptions in the production of certain drug products. The rule would generate benefits in the form of the value of public health gains through more rapid and effective FDA responses to potential, or actual drug shortages that otherwise would limit patient access to critical medications.

Risks: Drug shortages can significantly impede patient access to critical, sometimes life-saving, medications. Drug shortages, therefore, can pose a serious risk to public health and patient safety. This rule will require early notification of potential shortages, enabling FDA to more quickly and effectively respond to potential or actual drug shortages that otherwise would limit patient access to critical medications.

Timetable:

Action | Date | FR Cite
NPRM | 11/04/13 | 78 FR 65904
NPRM Comment Period End | 01/03/14 |
Final Action | 01/00/15 |

Regulatory Flexibility Analysis Required: Undetermined.

Government Levels Affected: None.

Agency Contact: Valerie Jensen, Associate Director, CDER Drug Shortage Staff, Department of Health and Human Services, Food and Drug Administration, Center for Drug Evaluation and Research, WO Building 22, Room 6202, 10903 New Hampshire Avenue, Silver Spring, MD 20903, Phone: 301 796-0737.

RIN: 0910-AG88

HHS—FDA

58. Supplemental Applications Proposing Labeling Changes for Approved Drugs and Biological Products

Priority: Other Significant.

Legal Authority: 21 U.S.C. 321; 21 U.S.C. 331; 21 U.S.C. 352; 21 U.S.C. 353; 21 U.S.C. 355; 21 U.S.C. 371; 42 U.S.C. 262; . . .

CFR Citation: 21 CFR 314.70; 21 CFR 314.97; 21 CFR 314.150; 21 CFR 601.12.

Legal Deadline: None.

Abstract: This rule would amend the regulations regarding new drug applications (NDAs), abbreviated new drug applications (ANDAs), and biologics license applications (BLAs) to revise and clarify procedures for changes to the labeling of an approved drug to reflect certain types of newly acquired information in advance of FDA's review of such change.

Statement of Need: In the current marketplace, approximately 80 percent of drugs dispensed are generic drugs approved in ANDAs. ANDA holders, like NDA holders and BLA holders, are required to promptly review all adverse drug experience information obtained or otherwise received, and comply with applicable reporting and recordkeeping requirements. However, under current FDA regulations, ANDA holders are not permitted to use the CBE supplement process in the same manner as NDA holders and BLA holders to independently update product labeling with certain newly acquired safety information. This regulatory difference recently has been determined to mean that an individual can bring a product liability action for “failure to warn” against an NDA holder, but generally not an ANDA holder. This may alter the incentives for generic drug manufacturers to comply with current requirements to conduct robust postmarketing surveillance, evaluation, and reporting, and to ensure that their product labeling is accurate and up-to-date. Accordingly, there is a need for ANDA holders to be able to independently update product labeling to reflect certain newly acquired safety information as part of the ANDA holder's independent responsibility to ensure that its product labeling is accurate and up-to-date.

Summary of Legal Basis: The FD&C Act (21 U.S.C. 301 et seq.) and the PHS Act (42 U.S.C. 201 et seq.) provide FDA with authority over the labeling for drugs and biological products, and authorize the Agency to enact regulations to facilitate FDA's review and approval of applications regarding the labeling for those products. FDA's authority to extend the CBE supplement process for certain safety-related labeling changes to ANDA holders arises from the same authority under which FDA's regulations relating to NDA holders and BLA holders were issued.

Alternatives: FDA is considering several alternatives described in comments submitted to the public docket established for the proposed rule.

Anticipated Cost and Benefits: FDA is reviewing comments submitted to the public docket and evaluating the anticipated costs and benefits that would be associated with a final rule.

Risks: This rule is intended to remove obstacles to the prompt communication of safety-related labeling changes that meet the regulatory criteria for a CBE supplement. The rule may encourage generic drug companies to participate more actively with FDA in ensuring the timeliness, accuracy, and completeness of drug safety labeling in accordance with current regulatory requirements. FDA's posting of information on its Web site regarding the safety-related labeling changes proposed in pending CBE supplements would enhance transparency, and facilitate access by health care providers and the public so that such information may be used to inform treatment decisions.

Timetable:

Action | Date | FR Cite
NPRM | 11/13/13 | 78 FR 67985
NPRM Comment Period End | 01/13/14 |
NPRM Comment Period Extended | 12/27/13 | 78 FR 78796
NPRM Comment Period End | 03/13/14 |
Final Rule | 09/00/15 |

Regulatory Flexibility Analysis Required: Yes.

Small Entities Affected: Businesses.

Government Levels Affected: Undetermined.

Agency Contact: Janice L. Weiner, Senior Regulatory Counsel, Department of Health and Human Services, Food and Drug Administration, Center for Drug Evaluation and Research, WO 51, Room 6268, 10903 New Hampshire Avenue, Silver Spring, MD 20993-0002, Phone: 301 796-3601, Fax: 301 847-8440, Email: janice.weiner@fda.hhs.gov.

RIN: 0910-AG94

HHS—FDA

59. Veterinary Feed Directive

Priority: Other Significant.

Legal Authority: 21 U.S.C. 354; 21 U.S.C. 360b; 21 U.S.C. 360ccc; 21 U.S.C. 360ccc-1; 21 U.S.C. 371

CFR Citation: 21 CFR 514; 21 CFR 558.

Legal Deadline: None.

Abstract: The Animal Drug Availability Act created a new category of products called veterinary feed directive (VFD) drugs. This rulemaking is intended to provide for the increased efficiency of the VFD program.

Statement of Need: Before 1996, two options existed for regulating the distribution of animal drugs, including drugs in animal feed: (1) Over-the-counter (OTC); and (2) prescription (Rx). In 1996, the Animal Drug Availability Act (ADAA) created a new category of products called veterinary feed directive (VFD) drugs. VFD drugs are new animal drugs intended for use in or on animal feed, which are limited to use under the professional supervision of a licensed veterinarian in the course of the veterinarian's professional practice. In order for animal feed containing a VFD drug to be used in animals, a licensed veterinarian must first issue an order, called a veterinary feed directive (or VFD), providing for such use. The Food and Drug Administration (FDA, the Agency) finalized its regulation to implement the VFD-related provisions of the ADAA in December 2000. Since that time, FDA has received informal comments that the VFD process is overly burdensome. As a result, FDA began exploring ways to improve the VFD program's efficiency. To that end, FDA published an advanced notice of proposed rulemaking on March 29, 2010 (75 FR 15387), and draft text of a proposed regulation, which it published April 13, 2012 (77 FR 22247). The proposed revisions to the VFD process are also intended to support the Agency's initiative to transition certain new animal drug products containing medically important antimicrobial drugs from an OTC status to a status that requires veterinary oversight. The proposed rule, if finalized, will make the following changes to the VFD regulations at section 558.6 (21 CFR 558.6): (1) Reorganize the VFD regulations to make them more user-friendly. This proposal will replace the six subsections of the existing regulations with three subsections that better identify what is expected from each party involved in the VFD process; (2) provide increased flexibility for licensed veterinarians and animal producers to align with the most recent practice standards, technological and medical advances, and practical considerations, to assure the safe and effective use of VFD drugs; (3) provide for the continued availability through the current feed mill distribution system of those Category I drugs that move to VFD dispensing status. This will prevent potential shortages of antimicrobial drugs needed by food animal producers for judicious therapeutic uses on their farms and ranches; and (4) lower the recordkeeping burden for all involved parties to align with other feed manufacturing recordkeeping requirements, thus eliminating the need for two separate filing systems.

Summary of Legal Basis: FDA's authority for issuing this rule is provided in the ADAA (Pub. L. 104-250), which amended the Federal Food, Drug, & Cosmetic Act (FD&C Act) by establishing section 504.

Alternatives: An alternative to the proposed rule that would ease the burden on VFD drug manufacturers would be to allow additional time to comply with the proposed labeling requirements for currently approved VFD drugs, for example, 1 or more years after the final rule becomes effective. This would not affect any new VFD drug approvals after the effective date of the final rule, and it could provide a transition period for current VFD manufacturers to coordinate the labeling changes to the specimen labeling, representative labeling, the VFD form itself, and advertising within the usual frequency of label changes.

Anticipated Cost and Benefits: The estimated one-time costs to industry from this proposed rule, if finalized, are the costs to review the rule and prepare a compliance plan. In addition, FDA estimates that the government will incur costs associated with reviewing the VFD drug labeling supplements that are expected to be submitted by the existing VFD drug manufacturers. The expected benefit of this proposal is a general improvement in the efficiency of the VFD process. Additionally, the reduction in veterinarian labor costs due to this rule is expected to result in an annual cost savings.

Risks: As FDA continues to implement the judicious use principles for medically important antimicrobial drugs based on the framework set forth in Guidance for Industry #209, which published April 13, 2012, it is critical that the Agency makes the VFD program as efficient as possible for stakeholders while maintaining adequate protection for human and animal health. The provisions included in this proposed rule are based on stakeholder input received in response to multiple opportunities for public comment, and represent FDA's best effort to strike the appropriate balance between protection of human and animal health and programmatic efficiency.

Timetable:

Action | Date | FR Cite
ANPRM | 03/29/10 | 75 FR 15387
ANPRM Comment Period End | 06/28/10 |
NPRM | 12/12/13 | 78 FR 75515
NPRM Comment Period End | 03/12/14 |
Final Rule | 04/00/15 |

Regulatory Flexibility Analysis Required: Yes.

Small Entities Affected: Businesses.

Government Levels Affected: None.

Agency Contact: Sujaya Dessai, Supervisory Veterinary Medical Officer, Department of Health and Human Services, Food and Drug Administration, Center for Veterinary Medicine, MPN-4, Room 2620, HFV-212, 7529 Standish Place, Rockville, MD 20855, Phone: 240 276-9075, Email: sujaya.dessai@fda.hhs.gov.

RIN: 0910-AG95

HHS—CENTERS FOR MEDICARE & MEDICAID SERVICES (CMS)

Proposed Rule Stage

60. Reform of Requirements for Long-Term Care Facilities (CMS-3260-P) (Rulemaking Resulting From a Section 610 Review)

Priority: Economically Significant. Major under 5 U.S.C. 801.

Unfunded Mandates: This action may affect the private sector under Pub. L. 104-4.

Legal Authority: Pub. L. 111-148, sec 6102; 42 U.S.C. 263a; 42 U.S.C. 1302, 1395hh, 1395rr

CFR Citation: 42 CFR 405; 42 CFR 431; 42 CFR 447; 42 CFR 482; 42 CFR 483; 42 CFR 485; 42 CFR 488.

Legal Deadline: None.

Abstract: This proposed rule would revise the requirements that Long-Term Care facilities must meet to participate in the Medicare and Medicaid programs. These proposed changes are necessary to reflect the substantial advances that have been made over the past several years in the theory and practice of service delivery and safety. These proposals are also an integral part of our efforts to achieve broad-based improvements both in the quality of health care furnished through Federal programs, and in patient safety, while at the same time reducing procedural burdens on providers.

Statement of Need: CMS has not comprehensively reviewed the entire set of requirements for participation it imposes on facilities in many years. Over the years, the Agency and its stakeholders have identified problematic requirements. Accordingly, we conducted a review of the requirements in an effort to improve the quality of life, care, and services in facilities; optimize resident safety; reflect current professional standards; and improve the logical flow of the regulations. Based on our analysis, we decided to pursue those regulatory revisions that would reflect the advances that have been made in health care delivery and that would improve resident safety.

Summary of Legal Basis: The Medicare requirements for participation for long-term care facilities were published in the Federal Register on February 2, 1989. These regulations have been revised and added to since that time, principally as a result of legislation or a need to address a specific issue; however, they have not been comprehensively reviewed and updated since September 26, 1991, despite substantial changes in service delivery in this setting. Additionally, we are proposing to add the statutory authority citations for sections 1128I(b) and (c) of the Act to include the compliance and ethics program and Quality Assurance and Performance Improvement (QAPI) requirements under section 6102 of the Affordable Care Act.

Alternatives: The requirements for long-term care facilities have not been comprehensively updated in many years, but the effective and efficient delivery of health care services has changed substantially in that time. We could choose not to make any regulatory changes; however, we believe the changes we are proposing are necessary to ensure the requirements are consistent with current standards of practice and continue to meet statutory obligations. They will ensure that residents receive care that maintains or enhances quality of life and attains or maintains the resident's highest practicable physical, mental, and psychosocial well-being.

Anticipated Cost and Benefits: This proposed rule would implement comprehensive changes intended to update the current requirements for long-term care facilities and create new efficiencies and flexibilities for facilities. In addition, these changes will support improved resident quality of life and quality of care. Many of the quality of life improvements we are proposing are grounded in the concepts of person-centered care and culture change. These changes not only result in improved quality of life for the resident, but can result in improvements in the caregiver's quality of work life and in savings to the facility. Savings can be accrued through reduced turnover, decreased use of agency labor and decreased worker compensation costs. Facilities may also benefit from improved bed occupancy rates. As we move toward publication, estimates of the cost and benefits of these important initiatives will be included in the rule.

Risks: None. The proposed requirements in this rule would update the existing requirements for long-term care facilities to reflect current standards of practice. In addition, proposed changes would provide added flexibility to providers, improve efficiency and effectiveness, enhance resident quality of care and quality of life, and potentially improve clinical outcomes.

Timetable:

Action | Date | FR Cite
NPRM | 03/00/15 |

Regulatory Flexibility Analysis Required: Yes.

Small Entities Affected: Businesses, Governmental Jurisdictions.

Government Levels Affected: State.

Additional Information: Includes Retrospective Review under E.O. 13563.

Agency Contact: Ronisha Davis, Health Insurance Specialist, Department of Health and Human Services, Centers for Medicare & Medicaid Services, Center for Clinical Standards and Quality, Mail Stop S3-02-01, 7500 Security Blvd., Baltimore, MD 21244, Phone: 410 786-6882, Email: ronisha.davis@cms.hhs.gov.

RIN: 0938-AR61.

HHS—CMS

61. Mental Health Parity and Addiction Equity Act of 2008; The Application to Medicaid Managed Care, Chip, And Alternative Benefit Plans (CMS-2333-P)

Priority: Economically Significant. Major under 5 U.S.C. 801.

Unfunded Mandates: Undetermined.

Legal Authority: 42 U.S.C. 1302; Pub. L. 110-343; Pub. L. 111-148, Sec 2001

CFR Citation: 42 CFR 438; 42 CFR 440; 42 CFR 456; 42 CFR 457.

Legal Deadline: None.

Abstract: This proposed rule would address the requirements under the Paul Wellstone and Pete Domenici Mental Health Parity and Addiction Equity Act of 2008 (MHPAEA) to Medicaid Alternative Benefit Plans (ABPs), Children's Health Insurance Program (CHIP), and Medicaid managed care organizations (MCOs).

Statement of Need: A final rule implementing MHPAEA was published in the Federal Register on November 13, 2013. These final MHPAEA provisions do not apply to Medicaid MCOs, ABPs, or CHIP State plans. This rule proposes to address how MHPAEA requirements, including those implemented in the November 13, 2013, final rule, apply to MCOs, ABPs, and CHIP.

Summary of Legal Basis: There are several statutes that are directly related to MHPAEA application to Medicaid. These include the MHPAEA, sections 511 and 512 of the Tax Extenders and Alternative Minimum Tax Relief Act of 2008, the Employee Retirement Income Security Act of 1974 (ERISA), the Public Health Service Act (PHS Act), and the Internal Revenue Code of 1986 (Code). Section 2103(c) of the Social Security Act (the Act) added paragraph (6), which incorporates, by reference, provisions added to section 2705 of the Public Health Service Act (PHSA) to apply MHPAEA to CHIP. Finally, the Affordable Care Act expanded the application of MHPAEA to benefits in Medicaid ABPs.

Alternatives: None. A rule is needed to address the provisions of MHPAEA as they apply to Medicaid benchmark and benchmark-equivalent, CHIP, and MCOs.

Anticipated Cost and Benefits: As we move toward publication, estimates of the cost and benefits of these provisions will be included in the rule.

Risks: None. This rule approaches the application of MHPAEA to Medicaid MCOs, ABPs, and CHIP by building upon the policies set forth in the final MHPAEA regulation. Our goal is to align as much as possible with the approach taken in the final MHPAEA regulation in order to avoid confusion or conflict, while remaining true to the intent of the MHPAEA statute and the Medicaid program and CHIP.

Timetable:

Action | Date | FR Cite
NPRM | 03/00/15 |

Regulatory Flexibility Analysis Required: Undetermined.

Small Entities Affected: Businesses, Governmental Jurisdictions, Organizations.

Government Levels Affected: Federal, Local, State, Tribal.

Federalism: Undetermined.

Agency Contact: John O'Brien, Health Insurance Specialist, Department of Health and Human Services, Centers for Medicare & Medicaid Services, Center for Medicaid and CHIP Services, MS: S2-14-26, 7500 Security Blvd., Baltimore, MD 21244, Phone: 410 786-5529, Email: john.o'brien3@cms.hhs.gov.

RIN: 0938-AS24

HHS—CMS

62. Electronic Health Record (EHR) Incentive Programs—Stage 3 (CMS-3310-P)

Priority: Economically Significant. Major under 5 U.S.C. 801.

Unfunded Mandates: Undetermined.

Legal Authority: Pub. L. 111-5, title IV of Division B

CFR Citation: 45 CFR 170; 42 CFR 412; 42 CFR 413; 42 CFR 495.

Legal Deadline: None.

Abstract: This proposed rule would establish policies related to Stage 3 of meaningful use for the Medicare and Medicaid EHR Incentive Programs. Stage 3 will focus on improving health care outcomes and further advance interoperability.

Statement of Need: This rule is necessary to implement the provisions of the American Recovery and Reinvestment Act (ARRA) that provide incentive payments to eligible professionals (EPs), eligible hospitals, and critical access hospitals (CAHs) participating in Medicare and Medicaid programs that adopt and meaningfully use certified EHR technology. The rule specifies applicable criteria for demonstrating Stage 3 of meaningful use.

Summary of Legal Basis: ARRA amended titles XVIII and XIX of the Social Security Act (the Act) to authorize incentive payments to EPs, eligible hospitals, CAHs, and Medicare Advantage (MA) Organizations to promote the adoption and meaningful use of certified EHR technology.

Alternatives: None. In this proposed rule, CMS will implement Stage 3, another stage of the Medicare and Medicaid EHR Incentive Program as required by ARRA. We are proposing the Stage 3 criteria that EP's, eligible hospitals, and CAHs must meet in order to successfully demonstrate meaningful use under the Medicare and Medicaid EHR Incentive Programs, focusing on advanced use of EHR technology to promote improved outcomes for patients. Stage 3 will also propose changes to the reporting period, timelines, and structure of the program, including providing a single definition of meaningful use. These changes will provide a flexible, yet, clearer framework to ensure future sustainability of the EHR program and reduce confusion stemming from multiple stage requirements.

Anticipated Cost and Benefits:

We expect that benefits to the program will accrue in the form of savings to Medicare through the Medicare payment adjustments. Expected qualitative benefits, such as improved quality of care and better health outcomes are unable to be quantified at this time, but we believe that savings will likely result from reductions in the cost of providing care.

Risks: CMS anticipates many positive effects of adopting EHR on health care providers, apart from the incentive payments to be provided under this proposed rule. We believe there are benefits that can be obtained by eligible hospitals and EPs, including: Reductions in medical recordkeeping costs, reductions in repeat tests, decreases in length of stay, and reduced errors. When used effectively, EHRs can enable providers to deliver health care more efficiently. For example, EHRs can reduce the duplication of diagnostic tests, prompt providers to prescribe cost effective generic medications, remind patients about preventive care, reduce unnecessary office visits, and assist in managing complex care.

We are working with the Office of the National Coordinator for Health Information Technology to ensure that the Stage 3 meaningful use definition coordinates with the standards and certification requirements being proposed and that there is sufficient time to upgrade and implement these changes. Stage 2 has been extended so that Stage 3 will not begin until 2017.

Timetable:

Action | Date | FR Cite
NPRM | 02/00/15

Regulatory Flexibility Analysis Required: Undetermined.

Small Entities Affected: Businesses, Governmental Jurisdictions.

Government Levels Affected: State.

Federalism: Undetermined.

Agency Contact: Elizabeth S. Holland, Director, HIT Initiatives Group, Department of Health and Human Services, Centers for Medicare & Medicaid Services, Mail Stop S2-26-17, 7500 Security Boulevard, Baltimore, MD 21244, Phone: 410-786-1309, Email: elizabeth.holland@cms.hhs.gov.

RIN: 0938-AS26

HHS—CMS

63. • CY 2016 Revisions to Payment Policies Under the Physician Fee Schedule and Other Revisions to Medicare Part B (CMS-1631-P)

Priority: Economically Significant. Major under 5 U.S.C. 801.

Unfunded Mandates: Undetermined.

Legal Authority: Social Security Act, secs 1102, 1871, 1848

CFR Citation: Not Yet Determined.

Legal Deadline: Final, Statutory, November 1, 2015.

Abstract: This annual proposed rule would revise payment polices under the Medicare physician fee schedule, and make other policy changes to payment under Medicare Part B. These changes would apply to services furnished beginning January 1, 2016.

Statement of Need: The statute requires that we establish each year, by regulation, payment amounts for all physicians' services furnished in all fee schedule areas. This rule would implement changes affecting Medicare Part B payment to physicians and other Part B suppliers. The final rule has a statutory publication date of November 1, 2015, and an implementation date of January 1, 2016.

Summary of Legal Basis: Section 1848 of the Social Security Act (the Act) establishes the payment for physician services provided under Medicare. Section 1848 of the Act imposes an annual deadline of no later than November 1 for publication of the final rule or final physician fee schedule.

Alternatives: None. This implements a statutory requirement.

Anticipated Cost and Benefits: Total expenditures will be adjusted for CY 2016.

Risks: If this regulation is not published timely, physician services will not be paid appropriately, beginning January 1, 2016.

Timetable:

Action | Date | FR Cite
NPRM | 06/00/15 |

Regulatory Flexibility Analysis Required: Yes.

Small Entities Affected: Businesses.

Government Levels Affected: Undetermined.

Federalism: Undetermined.

Agency Contact: Kathy Bryant, Director, Division of Practitioner Services, Department of Health and Human Services, Centers for Medicare & Medicaid Services, Mail Stop C4-01-27, 7500 Security Boulevard, Baltimore, MD 21244, Phone: 410 786-3448, Email: kathy.bryant@cms.hhs.gov.

RIN: 0938-AS40

HHS—CMS

64. • Hospital Inpatient Prospective Payment System for Acute Care Hospitals and the Long-Term Care Hospital Prospective Payment System and FY 2016 Rates (CMS-1632-P)

Priority: Economically Significant. Major under 5 U.S.C. 801.

Unfunded Mandates: Undetermined.

Legal Authority: sec 1886(d) of the Social Security Act

CFR Citation: Not Yet Determined.

Legal Deadline: NPRM, Statutory, April 1, 2015.

Final, Statutory, August 1, 2015.

Abstract: This annual proposed rule would revise the Medicare hospital inpatient and long-term care hospital prospective payment systems for operating and capital-related costs. This proposed rule would implement changes arising from our continuing experience with these systems.

Statement of Need: CMS annually revises the Medicare hospital inpatient prospective payment systems (IPPS) for operating and capital-related costs to implement changes arising from our continuing experience with these systems. In addition, we describe the proposed changes to the amounts and factors used to determine the rates for Medicare hospital inpatient services for operating costs and capital-related costs. Also, CMS annually updates the payment rates for the Medicare prospective payment system (PPS) for inpatient hospital services provided by long-term care hospitals (LTCHs). The rule solicits comments on the proposed IPPS and LTCH payment rates and new policies. CMS will issue a final rule containing the payment rates for the FY 2016 IPPS and LTCHs at least 60 days before October 1, 2015.

Summary of Legal Basis: The Social Security Act (the Act) sets forth a system of payment for the operating costs of acute care hospital inpatient stays under Medicare Part A (Hospital Insurance) based on prospectively set rates. The Act requires the Secretary to pay for the capital-related costs of hospital inpatient and long-term care stays under a PPS. Under these systems, Medicare payment for hospital inpatient and long-term care operating and capital-related costs is made at predetermined, specific rates for each hospital discharge. These changes would be applicable to services furnished on or after October 1, 2015.

Alternatives: None. This implements a statutory requirement.

Anticipated Cost and Benefits: Total expenditures will be adjusted for FY 2016.

Risks: If this regulation is not published timely, inpatient hospital and LTCH services will not be paid appropriately beginning October 1, 2015.

Timetable:

Action | Date | FR Cite
NPRM | 04/00/15 |

Regulatory Flexibility Analysis Required: Yes.

Small Entities Affected: Businesses.

Government Levels Affected: Federal.

Agency Contact: Donald Thompson, Deputy Director, Division of Acute Care, Department of Health and Human Services, Centers for Medicare & Medicaid Services, Center for Medicare, MS: C4-01-26, 7500 Security Boulevard, Baltimore, MD 21244, Phone: 410 786-6504, Email: donald.thompson@cms.hhs.gov.

RIN: 0938-AS41

HHS—CMS

65. • CY 2016 Hospital Outpatient PPS Policy Changes and Payment Rates and Ambulatory Surgical Center Payment System Policy Changes and Payment Rates (CMS-1633-P)

Priority: Economically Significant. Major under 5 U.S.C. 801.

Unfunded Mandates: Undetermined.

Legal Authority: sec 1833 of the Social Security Act

CFR Citation: Not Yet Determined.

Legal Deadline: Final, Statutory, November 1, 2015.

Abstract: This annual proposed rule would revise the Medicare hospital outpatient prospective payment system to implement statutory requirements and changes arising from our continuing experience with this system. The proposed rule describes changes to the amounts and factors used to determine payment rates for services. In addition, the rule proposes changes to the ambulatory surgical center payment system list of services and rates.

Statement of Need: Medicare pays over 4,000 hospitals for outpatient department services under the hospital outpatient prospective payment system (OPPS). The OPPS is based on groups of clinically similar services called ambulatory payment classification groups (APCs). CMS annually revises the APC payment amounts based on the most recent claims data, proposes new payment policies, and updates the payments for inflation using the hospital operating market basket. Medicare pays roughly 5,000 Ambulatory Surgical Centers (ASCs) under the ASC payment system. CMS annually revises the payment under the ASC payment system, proposes new policies, and updates payments for inflation. CMS will issue a final rule containing the payment rates for the 2016 OPPS and ASC payment system at least 60 days before January 1, 2016.

Summary of Legal Basis: Section 1833 of the Social Security Act establishes Medicare payment for hospital outpatient services and ASC services. The rule revises the Medicare hospital OPPS and ASC payment system to implement applicable statutory requirements. In addition, the rule describes changes to the outpatient APC system, relative payment weights, outlier adjustments, and other amounts and factors used to determine the payment rates for Medicare hospital outpatient services paid under the prospective payment system as well as changes to the rates and services paid under the ASC payment system. These changes would be applicable to services furnished on or after January 1, 2016.

Alternatives: None. This is a statutory requirement.

Anticipated Cost and Benefits: Total expenditures will be adjusted for CY 2016.

Risks: If this regulation is not published timely, outpatient hospital and ASC services will not be paid appropriately beginning January 1, 2016.

Timetable:

Action | Date | FR Cite
NPRM | 07/00/15 |

Regulatory Flexibility Analysis Required: Yes.

Small Entities Affected: Businesses.

Government Levels Affected: Federal.

Federalism: Undetermined.

Agency Contact: Marjorie Baldo, Health Insurance Specialist, Department of Health and Human Services, Centers for Medicare & Medicaid Services, Center for Medicare, MS: C4-03-06, 7500 Security Boulevard, Baltimore, MD 21244, Phone: 410 786-4617, Email: marjorie.baldo@cms.hhs.gov.

RIN: 0938-AS42

HHS—CMS

Final Rule Stage

66. Eligibility Notices, Fair Hearing and Appeal Processes for Medicaid and Exchange Eligibility Appeals, and Other Eligibility and Enrollment Provisions (CMS-2334-F2)

Priority: Economically Significant. Major under 5 U.S.C. 801.

Legal Authority: Pub. L. 111-148, secs 1411, 1413, 1557, 1943, 2102, 2201, 2004, 2303, et al

CFR Citation: 42 CFR 430; 42 CFR 431; 42 CFR 433; 42 CFR 435; 42 CFR 457.

Legal Deadline: None.

Abstract: The Affordable Care Act expands access to health insurance through improvements in Medicaid; the establishment of Affordable Insurance Exchanges; and coordination between Medicaid, the Children's Health Insurance Program (CHIP), and Exchanges. This rule finalizes the remaining provisions proposed in the January 19, 2013, proposed rule, but not finalized in the July 15, 2013, final rule to continue our efforts to assist states in implementing Medicaid eligibility, appeals, and enrollment changes, and other State health subsidy programs.

Statement of Need: This final rule will implement provisions of the Affordable Care Act and the Children's Health Insurance Program Reauthorization Act of 2009 (CHIPRA). This rule reflects new statutory eligibility provisions; changes to provide States more flexibility to coordinate Medicaid and CHIP eligibility notices, appeals, and other related administrative procedures with similar procedures used by other health coverage programs authorized under the Affordable Care Act; modernizes and streamlines existing rules, eliminates obsolete rules, and updates provisions to reflect Medicaid eligibility pathways; implements other CHIPRA eligibility-related provisions, including eligibility for newborns whose mothers were eligible for and receiving Medicaid or CHIP coverage at the time of birth. With publication of this final rule, we desire to make our implementing regulations available to States and the public as soon as possible to facilitate continued efficient operation of the State flexibility authorized under section 1937 of the Act.

Summary of Legal Basis: The Affordable Care Act extends and simplifies Medicaid eligibility. In the July 15, 2013, Federal Register, we issued the “Medicaid and Children's Health Insurance Programs: Essential Health Benefits in Alternative Benefit Plans, Eligibility Notices, Fair Hearing and Appeal Processes, and Premiums and Cost Sharing; Exchanges: Eligibility and Enrollment” final rule that finalized certain key Medicaid and CHIP eligibility provisions included in the January 22, 2013, proposed rule. In this final rule, we are addressing the remaining provisions of the January 22, 2013, proposed rule.

Alternatives: The majority of Medicaid and CHIP eligibility provisions proposed in this rule serve to implement the Affordable Care Act. All of the provisions in this final rule are a result of the passage of the Affordable Care Act and are largely self-implementing. Therefore, alternatives considered for this final rule were constrained due to the statutory provisions.

Anticipated Cost and Benefits: The March 23, 2012 Medicaid eligibility final rule detailed the impact of the Medicaid eligibility changes related to implementation of the Affordable Care Act. The majority of provisions included in this final rule were described in detail in that rule, but in summary, we estimate a total savings of $465 million over 5 years, including $280 million in cost savings to the Federal Government and $185 million in savings to States.

Risks: None. Delaying publication of this final rule delays states from moving forward with implementing changes to Medicaid and CHIP, and aligning operations between Medicaid, CHIP and the Exchanges.

Timetable:

Action | Date | FR Cite
Final Action | 11/00/14 |

Regulatory Flexibility Analysis Required: No.

Small Entities Affected: No.

Government Levels Affected: Federal, Local, State, Tribal.

Agency Contact: Sarah DeLone, Health Insurance Specialist, Department of Health and Human Services, Centers for Medicare & Medicaid Services, Mail Stop S2-01-16, 7500 Security Boulevard, Baltimore, MD 21244, Phone: 410 786-0615, Email: sarah.delone@cms.hhs.gov.

Related RIN: Related to 0938-AR04.

RIN: 0938-AS27

HHS—ADMINISTRATION FOR CHILDREN AND FAMILIES (ACF)

Final Rule Stage

67. Child Care and Development Fund Reforms To Support Child Development and Working Families

Priority: Other Significant.

Legal Authority: Sec 658E and other provisions of the Child Care and Development Block Grant Act of 1990, as amended

CFR Citation: 45 CFR 98.

Legal Deadline: None.

Abstract: This rule would provide the first comprehensive update of Child Care and Development Fund (CCDF) regulations since 1998. It would make changes in four key areas: (1) Improving health and safety; (2) improving the quality of child care; (3) establishing family-friendly policies; and (4) strengthening program integrity. The rule seeks to retain much of the flexibility afforded to States, territories, and tribes consistent with the nature of a block grant.

Statement of Need: The CCDF program has far-reaching implications for America's poorest children. It provides child care assistance to 1.6 million children from nearly 1 million low-income working families and families who are attending school or job training. Half of the children served are living at or below poverty level. In addition, children who receive CCDF are cared for alongside children who do not receive CCDF, by approximately 570,000 participating child care providers, some of whom lack basic assurances needed to ensure children are safe, healthy, and learning. Since 1996, a body of research has demonstrated the importance of the early years on brain development and has shown that high-quality, consistent child care can positively impact later success in school and life. This is especially true for low-income children who face a school readiness and achievement gap and can benefit the most from high-quality early learning environments. In light of this research, many States, territories, and tribes, working collaboratively with the Federal Government, have taken important steps over the last 15 years to make the CCDF program more child-focused and family-friendly; however, implementation of these evidence-informed practices is uneven across the country and critical gaps remain. This regulatory action is needed in order to increase accountability in the CCDF program by ensuring that all children receiving federally funded child care assistance are in safe, quality programs that both support their parent's labor market participation, and help children develop the tools and skills they need to reach their full potential. A major focus of this final rule is to raise the bar on quality by establishing a floor of health and safety standards for child care paid for with Federal funds. National surveys have demonstrated that most parents logically assume that their child care providers have had a background check, have had training in child health and safety, and are regularly monitored. However, State policies surrounding the training and oversight of child care providers vary widely. In some States, many children receiving CCDF subsidies are cared for by providers that have little to no oversight with respect to compliance with basic standards designed to safeguard children's well-being, such as first-aid and safe sleep practices. This can leave children in unsafe conditions, even as their care is being funded with public dollars. In addition, the final rule empowers all parents who choose child care, regardless of whether they receive a Federal subsidy, with better information to make the best choices for their children. This includes providing parents with information about the quality of child care providers and making information about providers' compliance with health and safety regulations more transparent so that parents can be aware of the safety track record of providers when it's time to choose child care.

Summary of Legal Basis: This final regulation is being issued under the authority granted to the Secretary of Health and Human Services by the CCDBG Act (42 U.S.C. 9858 et seq.) and section 418 of the Social Security Act (42 U.S.C. 618).

Alternatives: The Administration for Children and Families considered a range of approaches to improve early childhood care and education, including administrative and regulatory action. ACF has taken administrative actions to recommend that States adopt stronger health and safety requirements and provided technical assistance to States. Despite these efforts to assist States in making voluntary reforms, unacceptable health and safety lapses remain. An alternative to this rule would be to take no regulatory action or to limit the nature of the required standards and the degree to which those standards are prescriptive. ACF believes this rulemaking is the preferable alternative to ensure children's health and safety and promote their learning and development.

Anticipated Cost and Benefits: Changes in this final rule directly benefit children and parents who use CCDF assistance to pay for child care. The 1.6 million children who are in child care funded by CCDF would have stronger protections for their health and safety, which addresses every parent's paramount concern. All children in the care of a participating CCDF provider will be safer because that provider is more knowledgeable about health and safety issues. In addition, the families of the 12 million children who are served in child care will benefit from having clear, accessible information about the safety compliance records and quality indicators of providers available to them as they make critical choices about where their children will be cared for while they work. Provisions also will benefit child care providers by encouraging States to invest in high quality child care providers and professional development and to take into account quality when they determine child care payment rates. A primary reason for revising the CCDF regulations is to better reflect current State and local practices to improve the quality of child care. Therefore, there are a significant number of States, territories, and tribes that have already implemented many of these policies. The cost of implementing the changes in this final rule will vary depending on a State's specific situation. ACF does not believe the costs of this final regulatory action would be economically significant and that the tremendous benefits to low-income children justify costs associated with this final rule.

Risks: Not applicable.

Timetable:

Action | Date | FR Cite
NPRM | 05/20/13 | 78 FR 29422
NPRM Comment Period End | 08/05/13 |
Final Action | 12/00/14 |

Regulatory Flexibility Analysis Required: No.

Small Entities Affected: No.

Government Levels Affected: State, Tribal.

Agency Contact: Andrew Williams, Policy Division Director, Department of Health and Human Services, Administration for Children and Families, Office of Child Care, 370 L'Enfant Promenade SW., Washington, DC 20447, Phone: 202 401-4795, Fax: 202 690-5600, Email: andrew.williams@acf.hhs.gov.

RIN: 0970-AC53

BILLING CODE 4150-24-P

DEPARTMENT OF HOMELAND SECURITY (DHS)

Fall 2014 Statement of Regulatory Priorities

The Department of Homeland Security (DHS or Department) was created in 2003 pursuant to the Homeland Security Act of 2002, Public Law 107-296. DHS has a vital mission: To secure the Nation from the many threats we face. This requires the dedication of more than 225,000 employees in jobs that range from aviation and border security to emergency response, from cybersecurity analyst to chemical facility inspector. Our duties are wide-ranging, but our goal is clear—keeping America safe.

Our mission gives us six main areas of responsibility:

1. Prevent Terrorism and Enhance Security,

2. Secure and Manage Our Borders,

3. Enforce and Administer our Immigration Laws,

4. Safeguard and Secure Cyberspace,

5. Ensure Resilience to Disasters, and

6. Mature and Strengthen DHS

In achieving these goals, we are continually strengthening our partnerships with communities, first responders, law enforcement, and government agencies—at the State, local, tribal, Federal, and international levels. We are accelerating the deployment of science, technology, and innovation in order to make America more secure, and we are becoming leaner, smarter, and more efficient, ensuring that every security resource is used as effectively as possible. For a further discussion of our main areas of responsibility, see the DHS Web site at http://www.dhs.gov/our-mission.

The regulations we have summarized below in the Department's fall 2014 regulatory plan and in the agenda support the Department's responsibility areas listed above. These regulations will improve the Department's ability to accomplish its mission.

The regulations we have identified in this year's fall regulatory plan continue to address legislative initiatives including, but not limited to, the following acts: The Implementing Recommendations of the 9/11 Commission Act of 2007 (9/11 Act), Public Law 110-53 (Aug. 3, 2007); the Consolidated Natural Resources Act of 2008 (CNRA), Public Law 110-229 (May 8, 2008); the Security and Accountability for Every Port Act of 2006 (SAFE Port Act), Public Law 109-347 (Oct. 13, 2006); and the Consolidated Security, Disaster Assistance, and Continuing Appropriations Act, 2009, Public Law 110-329 (Sep. 30, 2008).

DHS strives for organizational excellence and uses a centralized and unified approach in managing its regulatory resources. The Office of the General Counsel manages the Department's regulatory program, including the agenda and regulatory plan. In addition, DHS senior leadership reviews each significant regulatory project to ensure that the project fosters and supports the Department's mission.

The Department is committed to ensuring that all of its regulatory initiatives are aligned with its guiding principles to protect civil rights and civil liberties, integrate our actions, build coalitions and partnerships, develop human resources, innovate, and be accountable to the American public.

DHS is also committed to the principles described in Executive Orders 13563 and 12866 (as amended). Both Executive Orders direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

Finally, the Department values public involvement in the development of its regulatory plan, agenda, and regulations, and takes particular concern with the impact its rules have on small businesses. DHS and each of its components continue to emphasize the use of plain language in our notices and rulemaking documents to promote a better understanding of regulations and increased public participation in the Department's rulemakings.

Retrospective Review of Existing Regulations

Pursuant to Executive Order 13563 “Improving Regulation and Regulatory Review” (Jan. 18, 2011), DHS identified the following regulatory actions as associated with retrospective review and analysis. Some of the regulatory actions on the below list may be completed actions, which do not appear in The Regulatory Plan. You can find more information about these completed rulemakings in past publications of the Unified Agenda (search the Completed Actions sections) on www.reginfo.gov. Some of the entries on this list, however, are active rulemakings. You can find entries for these rulemakings on www.regulations.gov.

RIN | Rule
1601-AA58 | Professional Conduct for Practitioners Rules and Procedures, and Representation and Appearances.
1615-AB92 | Employment Authorization for Certain H-4 Spouses.
1615-AB95 | Immigration Benefits Business Transformation: Nonimmigrants; Student and Exchange Visitor Program.
1615-AC00 | Enhancing Opportunities for H-1B1, CW-1, and E-3 Nonimmigrants and EB-1 Immigrants.
1625-AB38 | Update to Maritime Security.
1625-AB80 | Revision to Transportation Worker Identification Credential (TWIC) Requirements for Mariners.
1651-AA96 | Definition of Form I-94 to Include Electronic Format.
1651-AB05 | Freedom of Information Act (FOIA) Procedures.
1652-AA61 | Standardized Vetting, Adjudication, and Redress Services.
1653-AA44 | Amendment to Accommodate Process Changes with SEVIS II Implementation.
1653-AA63 | Adjustments to Limitations on Designated School Official Assignment and Study By F-2 and M-2 Nonimmigrants.
1660-AA77 | Change in Submission Requirements for State Mitigation Plans.

Promoting International Regulatory Cooperation

Pursuant to Sections 3 and 4(b) of Executive Order 13609 “Promoting International Regulatory Cooperation” (May 1, 2012), DHS has identified the following regulatory actions that have significant international impacts. Some of the regulatory actions on the below list may be completed actions. You can find more information about these completed rulemakings in past publications of the Unified Agenda (search the Completed Actions sections) on www.reginfo.gov. Some of the entries on this list, however, are active rulemakings. You can find entries for these rulemakings on www.regulations.gov.

RIN | Rule
1625-AB38 | Updates to Maritime Security.
1651-AA70 | Importer Security Filing and Additional Carrier Requirements.
1651-AA72 | Changes to the Visa Waiver Program To Implement the Electronic System for Travel Authorization (ESTA) Program.
1651-AA98 | Amendments to Importer Security Filing and Additional Carrier Requirements.
1651-AA96 | Definition of Form I-94 to Include Electronic Format.

DHS participates in some international regulatory cooperation activities that are reasonably anticipated to lead to significant regulations. For example, the U.S. Coast Guard is the primary U.S. representative to the International Maritime Organization (IMO) and plays a major leadership role in establishing international standards in the global maritime community. IMO's work to establish international standards for maritime safety, security, and environmental protection closely aligns with the U.S. Coast Guard regulations. As an IMO member nation, the U.S. is obliged to incorporate IMO treaty provisions not already part of U.S. domestic policy into regulations for those vessels affected by the international standards. Consequently, the U.S. Coast Guard initiates rulemakings to harmonize with IMO international standards such as treaty provisions and the codes, conventions, resolutions, and circulars that supplement them.

Also, President Obama and Prime Minister Harper created the Canada-U.S. Regulatory Cooperation Council (RCC) in February 2011. The RCC is an initiative between both federal governments aimed at pursuing greater alignment in regulation, increasing mutual recognition of regulatory practices and establishing smarter, more effective and less burdensome regulations in specific sectors. The Canada-U.S. RCC initiative arose out of the recognition that high level, focused, and sustained effort would be required to reach a more substantive level of regulatory cooperation. Since its creation in early 2011, the U.S. Coast Guard has participated in stakeholder consultations with their Transport Canada counterparts and the public, drafted items for inclusion in the RCC Action Plan, and detailed work plans for each included Action Plan item.

The fall 2014 regulatory plan for DHS includes regulations from DHS components—including U.S. Citizenship and Immigration Services (USCIS), the U.S. Coast Guard (Coast Guard), U.S. Customs and Border Protection (CBP), the U.S. Immigration and Customs Enforcement (ICE), and the Transportation Security Administration (TSA), which have active regulatory programs. In addition, it includes regulations from the Department's major offices and directorates such as the National Protection and Programs Directorate (NPPD). Below is a discussion of the fall 2014 regulatory plan for DHS regulatory components, offices, and directorates.

United States Citizenship and Immigration Services

U.S. Citizenship and Immigration Services (USCIS) administers immigration benefits and services while protecting and securing our homeland. USCIS has a strong commitment to welcoming individuals who seek entry through the U.S. immigration system, providing clear and useful information regarding the immigration process, promoting the values of citizenship, and assisting those in need of humanitarian protection. Based on a comprehensive review of the planned USCIS regulatory agenda, USCIS will promulgate several rulemakings to directly support these commitments and goals.

Regulations to Facilitate Retention of High-Skilled Workers

Employment Authorization for Certain H-4 Dependent Spouses. On May 12, 2014, USCIS published a proposed rule intended to encourage professionals with high-demand skills to remain in the country and help spur innovation and growth of U.S. businesses. In the proposed rule, USCIS proposed to extend eligibility for employment authorization to H-4 dependent spouses of principal H-1B nonimmigrants who have begun the process of seeking lawful permanent resident status through employment and have extended their authorized period of admission or “stay” in the United States under section 104(c) or 106(a) of Public Law 106-313, also known as the American Competitiveness in the Twenty-First Century Act of 2000. USCIS plans to issue a final rule in the coming year.

Enhancing Opportunities for High-Skilled Workers. Also on May 12, 2014, USCIS published a proposed rule intended to encourage and facilitate the employment and retention of certain high-skilled and transitional workers. In the proposed rule, USCIS proposed to amend its regulations relating to the nonimmigrant classifications for specialty occupation professionals from Chile and Singapore (H-1B1) and from Australia (E-3), to include these classifications in the list of classes of aliens authorized for employment incident to status with a specific employer, to extend automatic employment authorization extensions with pending extension of stay requests, and to update filing procedures. USCIS also proposed to amend regulations regarding continued employment authorization for nonimmigrant workers in the Commonwealth of the Northern Mariana Islands (CNMI)-only Transitional Worker (CW-1) classification. Finally, USCIS also proposed to amend regulations related to the immigration classification for employment-based first preference (EB-1) outstanding professors or researchers to allow the submission of comparable evidence. USCIS plans to issue a final rule in the coming year.

Improvements to the Immigration System

Requirements for Filing Motions and Administrative Appeals. USCIS will propose to revise the procedural regulations governing appeals and motions to reopen or reconsider before its Administrative Appeals Office, and to require that applicants and petitioners exhaust administrative remedies before seeking judicial review of an unfavorable decision. The changes proposed by the rule will streamline the procedures before the Administrative Appeals Office and improve the efficiency of the adjudication process.

Regulations Related to the Commonwealth of Northern Mariana Islands. This final rule amends DHS and Department of Justice (DOJ) regulations to comply with the Consolidated Natural Resources Act of 2008 (CNRA). The CNRA extends the immigration laws of the United States to the Consolidated Northern Mariana Islands (CNMI). In 2009, USCIS issued an interim final rule to implement conforming amendments to the DHS and DOJ regulations. This joint DHS-DOJ final rule titled “Application of Immigration Regulations to the CNMI” would finalize the 2009 interim final rule.

Regulatory Changes Involving Humanitarian Benefits

Asylum and Withholding Definitions. USCIS plans a regulatory proposal to amend the regulations that govern asylum eligibility and refugee status determinations. The amendments are expected to revise the portions of the existing regulations that deal with determinations of whether suffered or feared persecution is on account of a protected ground, the requirements for establishing that the government is unable or unwilling to protect the applicant, and the definition of membership in a particular social group. This proposal would provide greater clarity and consistency in this important area of the law.

Exception to the Persecution Bar for Asylum, Refugee, or Temporary Protected Status, and Withholding of Removal. In a joint rulemaking, DHS and DOJ will propose amendments to existing DHS and DOJ regulations to resolve ambiguity in the statutory language precluding eligibility for asylum, refugee resettlement, temporary protected status, and withholding or removal of an applicant who ordered, incited, assisted, or otherwise participated in the persecution of others. The proposed rule would provide a limited exception for persecutory actions taken by the applicant under duress and would clarify the required level of the applicant's knowledge of the persecution.

“T” and “U” Nonimmigrants. USCIS plans additional regulatory initiatives related to T nonimmigrants (victims of trafficking) and U nonimmigrants (victims of criminal activity). Through these regulatory initiatives, USCIS hopes to provide greater consistency in eligibility and application requirements for these vulnerable groups, their advocates, and the community. These rulemakings will contain provisions to adjust documentary requirements for this vulnerable population and provide greater clarity to the law enforcement community.

Special Immigrant Juvenile Petitions. This final rule makes procedural changes and resolves interpretive issues following statutory amendments. The Secretary may grant Special Immigrant Juvenile classification to aliens whose reunification with one or both parents is not viable due to abuse, neglect, abandonment, or a similar basis found under State law. Such classification can regularize immigration status for these aliens and allow for adjustment of status to lawful permanent resident.

United States Coast Guard

The U.S. Coast Guard (Coast Guard) is a military, multi-mission, maritime service of the United States and the only military organization within DHS. It is the principal federal agency responsible for maritime safety, security, and stewardship and delivers daily value to the Nation through multi-mission resources, authorities, and capabilities.

Effective governance in the maritime domain hinges upon an integrated approach to safety, security, and stewardship. The Coast Guard's policies and capabilities are integrated and interdependent, delivering results through a network of enduring partnerships. The Coast Guard's ability to field versatile capabilities and highly-trained personnel is one of the U.S. Government's most significant and important strengths in the maritime environment.

America is a maritime nation, and our security, resilience, and economic prosperity are intrinsically linked to the oceans. Safety, efficient waterways, and freedom of transit on the high seas are essential to our well-being. The Coast Guard is leaning forward, poised to meet the demands of the modern maritime environment. The Coast Guard creates value for the public through solid prevention and response efforts. Activities involving oversight and regulation, enforcement, maritime presence, and public and private partnership foster increased maritime safety, security, and stewardship.

The statutory responsibilities of the Coast Guard include ensuring marine safety and security, preserving maritime mobility, protecting the marine environment, enforcing U.S. laws and international treaties, and performing search and rescue. The Coast Guard supports the Department's overarching goals of mobilizing and organizing our Nation to secure the homeland from terrorist attacks, natural disasters, and other emergencies. The rulemaking projects identified for the Coast Guard in the Unified Agenda, and the rules appearing in the fall 2014 Regulatory Plan below, contribute to the fulfillment of those responsibilities and reflect our regulatory policies.

Vessel Requirements for Notices of Arrival and Departure, and Automatic Identification System. The Coast Guard intends to expand the applicability of notice of arrival and departure (NOAD) and automatic identification system (AIS) requirements to include more commercial vessels. This rule, once final, would expand the applicability of notice of arrival (NOA) requirements to include additional vessels, establish a separate requirement for certain vessels to submit notices of departure (NOD), set forth a mandatory method for electronic submission of NOA and NOD, and modify related reporting content, timeframes, and procedures. This rule would also extend the applicability of AIS requirements beyond Vessel Traffic Service (VTS) areas and require additional commercial vessels install and use AIS. These changes are intended to improve navigation safety, enhance our ability to identify and track vessels, and heighten the Coast Guard's overall maritime domain awareness, thus helping the Coast Guard address threats to maritime transportation safety and security and mitigate the possible harm from such threats.

Inspection of Towing Vessels. The Coast Guard has proposed regulations governing the inspection of towing vessels, including an optional towing safety management system (TSMS). The regulations for this large class of vessels would establish operations, lifesaving, fire protection, machinery and electrical systems and equipment, and construction and arrangement standards for towing vessels. This rulemaking would also set standards for the optional TSMS and related third-party organizations, as well as procedures for obtaining a certificate of inspection under either the TSMS or Coast Guard annual-inspection option. This rulemaking would implement section 415 of the Coast Guard and Maritime Transportation Act of 2004. The intent of this rulemaking, which would establish a new subchapter dedicated to towing vessels, is to promote safer work practices and reduce towing vessel casualties.

Transportation Worker Identification Credential (TWIC)—Reader Requirements. In accordance with the Maritime Transportation Safety Act of 2002 (MTSA) and the Security and Accountability For Every Port Act of 2006 (SAFE Port Act), the Coast Guard is establishing rules requiring electronic TWIC readers at high-risk vessels and facilities. These rules would ensure that prior to being granted unescorted access to a designated secure area at a high-risk vessel or facility: (1) The individual will have his or her TWIC electronically authenticated; (2) the status of the individual's credential will be electronically validated against an up-to-date list maintained by the TSA; and (3) the individual's identity will be electronically confirmed by comparing his or her fingerprint with a biometric template stored on the credential. By promulgating these rules, the Coast Guard seeks to improve security at the highest risk vessels and facilities with broader use of electronic inspection of biometric credentials.

United States Customs and Border Protection

U.S. Customs and Border Protection (CBP) is the federal agency principally responsible for the security of our Nation's borders, both at and between the ports of entry and at official crossings into the United States. CBP must accomplish its border security and enforcement mission without stifling the flow of legitimate trade and travel. The primary mission of CBP is its homeland security mission, that is, to prevent terrorists and terrorist weapons from entering the United States. An important aspect of this priority mission involves improving security at our borders and ports of entry, but it also means extending our zone of security beyond our physical borders.

CBP is also responsible for administering laws concerning the importation into the United States of goods, and enforcing the laws concerning the entry of persons into the United States. This includes regulating and facilitating international trade; collecting import duties; enforcing U.S. trade, immigration and other laws of the United States at our borders; inspecting imports, overseeing the activities of persons and businesses engaged in importing; enforcing the laws concerning smuggling and trafficking in contraband; apprehending individuals attempting to enter the United States illegally; protecting our agriculture and economic interests from harmful pests and diseases; servicing all people, vehicles and cargo entering the United States; maintaining export controls; and protecting U.S. businesses from theft of their intellectual property.

In carrying out its priority mission, CBP's goal is to facilitate the processing of legitimate trade and people efficiently without compromising security. Consistent with its primary mission of homeland security, CBP intends to issue several rules during the next fiscal year that are intended to improve security at our borders and ports of entry. CBP is also automating some procedures that increase efficiencies and reduce the costs and burdens to travelers. We have highlighted some of these rules below.

Electronic System for Travel Authorization (ESTA). During the next fiscal year, CBP intends to issue a final rule that will finalize two Electronic System for Travel Authorization (ESTA) rulemakings, the 2008 ESTA interim final rule and the 2010 ESTA fee interim final rule. On June 9, 2008, CBP published an interim final rule implementing the ESTA for aliens who wish to enter the United States under the Visa Waiver Program (VWP) at air or sea ports of entry. This rule was intended to fulfill the requirements of section 711 of the Implementing Recommendations of the 9/11 Commission Act of 2007 (9/11 Act). The rule established ESTA and required that each alien traveling to the United States under the VWP must obtain electronic travel authorization via the ESTA System in advance of such travel. VWP travelers may obtain the required ESTA authorization by electronically submitting to CBP biographic and other information that was previously submitted to CBP via the I-94W Nonimmigrant Alien Arrival/Departure Form (I-94W). ESTA became mandatory on January 12, 2009. Therefore, VWP travelers must either obtain travel authorization in advance of travel under ESTA or obtain a visa prior to traveling to the United States. On August 9, 2010, CBP published an interim final rule amending the ESTA regulations to require ESTA applicants to pay a congressionally mandated fee which is the sum of two amounts, a $10.00 travel promotion fee for an approved ESTA and a $4.00 operational fee for the use of ESTA set by the Secretary of Homeland Security to at least ensure the recovery of the full costs of providing and administering the ESTA system.

Importer Security Filing and Additional Carrier Requirements. On November 25, 2008, CBP published an interim final rule amending CBP regulations to require carriers and importers to provide to CBP, via a CBP approved electronic data interchange system, information necessary to enable CBP to identity high-risk shipments to prevent smuggling and ensure cargo safety and security. This rule, which became effective on January 26, 2009, improves CBP risk assessment and targeting capabilities, facilitates the prompt release of legitimate cargo following its arrival in the United States, and assists CBP in increasing the security of the global trading system. To increase the accuracy and reliability of the advance information, CBP intends to publish a notice of proposed rulemaking during the next fiscal year that proposes some changes to the current importer security filing regulations.

Air Cargo Advance Screening (ACAS). The Trade Act of 2002, as amended, authorizes the Secretary of Homeland Security to promulgate regulations providing for the transmission to CBP through an electronic data interchange system, of information pertaining to cargo to be brought into the United States or to be sent from the United States, prior to the arrival or departure of the cargo. The cargo information required is that which the Secretary determines to be reasonably necessary to ensure cargo safety and security. CBP's current Trade Act regulations pertaining to air cargo require the electronic submission of various advance data to CBP no later than either the time of departure of the aircraft for the United States (from specified locations) or four hours prior to arrival in the United States for all other locations. CBP intends to propose amendments to these regulations to implement the Air Cargo Advance Screening (ACAS) program. To improve CBP's risk assessment and targeting capabilities and to enable CBP to target, and identify risky cargo prior to departure of the aircraft to the United States, ACAS would require the submission of certain of the advance electronic information for air cargo as early as practicable but no later than prior to loading the cargo onto an aircraft destined to or transiting through the United States at the last foreign port of departure. CBP, in conjunction with TSA, has been operating ACAS as a voluntary pilot program since 2010 and would like to implement ACAS as a regulatory program.

Implementation of the Guam-Commonwealth of the Northern Mariana Islands (CNMI) Visa Waiver Program. CBP published an interim final rule in November 2008 amending the DHS regulations to replace the current Guam Visa Waiver Program with a new Guam-Commonwealth of the Northern Mariana Islands (CNMI) Visa Waiver Program. This rule implements portions of the Consolidated National Resources Act of 2008 (CNRA), which extends the immigration laws of the United States to the CNMI and among others things, provides for a visa waiver program for travel to Guam and the CNMI. The amended regulations set forth the requirements for nonimmigrant visitors who seek admission for business or pleasure and solely for entry into and stay on Guam or the CNMI without a visa. The rule also establishes six ports of entry in the CNMI for purposes of administering and enforcing the Guam-CNMI Visa Waiver Program. CBP intends to issue a final rule during the next fiscal year.

Definition of Form I-94 to Include Electronic Format. DHS issues the Form I-94 to certain aliens and uses the Form I-94 for various purposes such as documenting status in the United States, the approved length of stay, and departure. DHS generally issues the Form I-94 to aliens at the time they lawfully enter the United States. On March 27, 2013, CBP published an interim final rule amending existing regulations to add a new definition of the term “Form I-94.” The new definition includes the collection of arrival/departure and admission or parole information by DHS, whether in paper or electronic format. The definition also clarified various terms that are associated with the use of the Form I-94 to accommodate an electronic version of the Form I-94. The rule also added a valid, unexpired nonimmigrant DHS admission or parole stamp in a foreign passport to the list of documents designated as evidence of alien registration. These revisions enabled DHS to transition to an automated process whereby DHS creates a Form I-94 in an electronic format based on passenger, passport and visa information that DHS obtains electronically from air and sea carriers and the Department of State as well as through the inspection process. CBP intends to publish a final rule during the next fiscal year.

In addition to the regulations that CBP issues to promote DHS's mission, CBP also issues regulations related to the mission of the Department of the Treasury. Under section 403(1) of the Homeland Security Act of 2002, the former-U.S. Customs Service, including functions of the Secretary of the Treasury relating thereto, transferred to the Secretary of Homeland Security. As part of the initial organization of DHS, the Customs Service inspection and trade functions were combined with the immigration and agricultural inspection functions and the Border Patrol and transferred into CBP. It is noted that certain regulatory authority of the U.S. Customs Service relating to customs revenue function was retained by the Department of the Treasury (see the Department of the Treasury Regulatory Plan). In addition to its plans to continue issuing regulations to enhance border security, CBP, during fiscal year 2015, expects to continue to issue regulatory documents that will facilitate legitimate trade and implement trade benefit program. CBP regulations regarding the customs revenue function are discussed in the Regulatory Plan of the Department of the Treasury.

Federal Emergency Management Agency

The Federal Emergency Management Agency (FEMA) does not have any significant regulatory actions planned for fiscal year 2015.

Federal Law Enforcement Training Center

The Federal Law Enforcement Training Center (FLETC) does not have any significant regulatory actions planned for fiscal year 2015.

United States Immigration and Customs Enforcement

ICE is the principal criminal investigative arm of the Department of Homeland Security and one of the three Department components charged with the civil enforcement of the Nation's immigration laws. Its primary mission is to protect national security, public safety, and the integrity of our borders through the criminal and civil enforcement of Federal law governing border control, customs, trade, and immigration. During fiscal year 2015, ICE will focus rulemaking efforts on implementing and planning improvements in the area of student and exchange visitor programs and to advance initiatives related to F-1 and M-1 nonimmigrant students.

Adjustments to Limitations on Designated School Official Assignment and Study by F-2 and M-2 Nonimmigrants. On November 21, 2013, DHS published a notice of proposed rulemaking to revise the regulatory cap on the number of designated school officials (DSOs) that may be nominated for the oversight of each school's campus(es) where F-1 and/or M-1 students are enrolled. Currently, schools are limited to ten DSOs per school or per campus in a multi-campus school. In addition, the proposed rule sought to modify the regulatory restrictions placed on the dependents of an F-1 or M-1 student, to permit F-2 and M-2 nonimmigrants to enroll in less than a full course of study at a school certified by the ICE Student and Exchange Visitor Program (SEVP). ICE intends to issue a final rule in FY 2015. ICE believes that, in many circumstances, elimination of a DSO limit may improve the capability of DSOs to meet their liaison, reporting, and oversight responsibilities. In addition, ICE recognizes that there is increasing global competition to attract the best and brightest international students to study in our schools. Allowing a more flexible approach to permit F-2 and M-2 spouses and children to engage in less than a full course of study at SEVP-certified schools will provide a greater incentive for international students to travel to the United States for their education.

National Protection and Programs Directorate

The National Protection and Programs Directorate's (NPPD) vision is a safe, secure, and resilient infrastructure where the American way of life can thrive. NPPD leads the national effort to protect and enhance the resilience of the nation's physical and cyber infrastructure.

Ammonium Nitrate Security Program. Recognizing both the economic importance of ammonium nitrate and the fact that ammonium nitrate is susceptible to use by terrorists in explosive devices, Congress, in section 563 of the Fiscal Year 2008 DHS Appropriations Act, granted DHS the authority to “regulate the sale and transfer of ammonium nitrate by an ammonium nitrate facility . . . to prevent the misappropriation or use of ammonium nitrate in an act of terrorism.” The statute directs DHS to promulgate regulations requiring potential buyers and sellers of ammonium nitrate to register with DHS, in order to obtain ammonium nitrate registration numbers from DHS. The statute also requires DHS to screen each applicant against the Terrorist Screening Database. The statute also requires sellers of ammonium nitrate to verify the identities of those individuals seeking to purchase ammonium nitrate; to record certain information about each sale or transfer of ammonium nitrate; and to report thefts and losses of ammonium nitrate to federal authorities.

On October 29, 2008, DHS published an Advance Notice of Proposed Rulemaking (ANPRM) for a Secure Handling of Ammonium Nitrate Program. DHS reviewed the public comments and, on August 3, 2011, published a notice of proposed rulemaking (NPRM). DHS received comment on the NPRM until December 1, 2011, and is now reviewing and adjudicating the public comments in order to develop a final rule. The final rule is intended to aid the Federal Government in its efforts to protect against the misappropriation of ammonium nitrate for use in acts of terrorism and to limit terrorists' abilities to threaten the Nation's critical infrastructure and key resources. By protecting the Nation's supply of ammonium nitrate through the implementation of this rule, it will be more difficult for terrorists to obtain ammonium nitrate materials for use in terrorist acts.

Transportation Security Administration

The Transportation Security Administration (TSA) protects the Nation's transportation systems to ensure freedom of movement for people and commerce. TSA is committed to continuously setting the standard for excellence in transportation security through its people, processes, and technology as we work to meet the immediate and long-term needs of the transportation sector.

In fiscal year 2014, responding to new legislative mandates in the Bipartisan Budget Act of 2013, Pub. L. 113-67 (Dec. 26, 2013) TSA published two statutorily-required regulations: One that restructured the fee imposed on passengers (known as the September 11th Security Fee) and another that repealed TSA's authority to impose a fee on air carriers (known as the Aviation Security Infrastructure Fee).

In fiscal year 2015, TSA will promote the DHS mission by emphasizing regulatory efforts that allow TSA to better identify, detect, and protect against threats against various modes of the transportation system, while facilitating the efficient movement of the traveling public, transportation workers, and cargo.

Passenger Screening Using Advanced Imaging Technology (AIT). TSA intends to issue a final rule to amend its civil aviation regulations to address whether screening and inspection of an individual, conducted to control access to the sterile area of an airport or to an aircraft, may include the use of advanced imaging technology (AIT). TSA published an NPRM on March 26, 2012, to comply with the decision rendered by the U.S. Court of Appeals for the District Columbia Circuit in Electronic Privacy Information Center (EPIC) v. U.S. Department of Homeland Security on July 15, 2011. 653 F.3d 1 (D.C. Cir. 2011). The Court directed TSA to conduct notice and comment rulemaking on the use of AIT in the primary screening of passengers.

Security Training for Surface Mode Employees. TSA will propose regulations to enhance the security of several non-aviation modes of transportation. In particular, TSA will propose regulations requiring freight railroad carriers, public transportation agencies (including rail mass transit and bus systems), passenger railroad carriers, and over-the-road bus operators to conduct security training for front line employees. This regulation would implement sections 1408 (Public Transportation), 1517 (Freight Railroads), and 1534(a) (Over-the-Road-Buses) of the Implementing Recommendations of the 9/11 Commission Act of 2007 (9/11 Act). In compliance with the definitions of frontline employees in the pertinent provisions of the 9/11 Act, the notice of proposed rulemaking (NPRM) would propose to define which employees are required to undergo training. This NPRM would also propose definitions for transportation of security-sensitive materials as required by section 1501 of the 9/11 Act.

Standardized Vetting, Adjudication, and Redress Process and Fees. TSA is developing a proposed rule to revise and standardize the procedures, adjudication criteria, and fees for most of the security threat assessments (STAs) of individuals that TSA conducts. TSA is considering a proposal that would include procedures for conducting STAs for transportation workers from almost all modes of transportation, including those covered under the 9/11 Act. In addition, TSA will propose equitable fees to cover the cost of the STAs and credentials for some personnel. TSA plans to identify new efficiencies in processing STAs and ways to streamline existing regulations by simplifying language and removing redundancies. As part of this proposed rule, TSA will propose revisions to the Alien Flight Student Program (AFSP) regulations. TSA published an interim final rule for the AFSP on September 20, 2004. TSA regulations require aliens seeking to train at Federal Aviation Administration-regulated flight schools to complete an application and undergo an STA prior to beginning flight training. There are four categories under which students currently fall; the nature of the STA depends on the student's category. TSA is considering changes to the AFSP that would improve equity among fee payers and enable the implementation of new technologies to support vetting.

United States Secret Service

The United States Secret Service does not have any significant regulatory actions planned for fiscal year 2015.

DHS Regulatory Plan for Fiscal Year 2015

A more detailed description of the priority regulations that comprise DHS's fall 2014 regulatory plan follows.

DHS—OFFICE OF THE SECRETARY (OS)

Final Rule Stage

68. Ammonium Nitrate Security Program

Priority: Economically Significant. Major under 5 U.S.C. 801.

Unfunded Mandates: This action may affect the private sector under Pub. L. 104-4.

Legal Authority: Pub. L. 110-161, 2008 Consolidated Appropriations Act, sec. 563, subtitle J--Secure Handling of Ammonium Nitrate

CFR Citation: 6 CFR 31

Legal Deadline: NPRM, Statutory, May 26, 2008, Publication of Notice of Proposed Rulemaking. Final, Statutory, December 26, 2008, Publication of Final Rule.

Abstract: This rulemaking will implement the December 2007 amendment to the Homeland Security Act entitled “Secure Handling of Ammonium Nitrate.” The amendment requires the Department of Homeland Security to “regulate the sale and transfer of ammonium nitrate by an ammonium nitrate facility . . . to prevent the misappropriation or use of ammonium nitrate in an act of terrorism.”

Statement of Need: Pursuant to section 563 of the 2008 Consolidated Appropriations Act, subtitle J—Secure Handling of Ammonium Nitrate, Public Law 110-161, the Department of Homeland Security is required to promulgate a rulemaking to create a registration regime for certain buyers and sellers of ammonium nitrate. This rule would create that regime, and would aid the Federal Government in its efforts to protect against the misappropriation of ammonium nitrate for use in acts of terrorism. By protecting against such misappropriation, this rule could limit terrorists' abilities to threaten the public and to threaten the Nation's critical infrastructure and key resources. By securing the Nation's supply of ammonium nitrate, it should be much more difficult for terrorists to obtain ammonium nitrate materials for use in improvised explosive devices. As a result, there is a direct value in the deterrence of a catastrophic terrorist attack using ammonium nitrate, such as the Oklahoma City attack that killed over 160 and injured 853 people.

Summary of Legal Basis: Section 563 of the 2008 Consolidated Appropriations Act, subtitle J—Secure Handling of Ammonium Nitrate, Public Law 110-161, authorizes and requires this rulemaking.

Alternatives: The Department considered several alternatives when developing the Ammonium Nitrate Security Program proposed rule. The alternatives considered were: (a) Register individuals applying for an AN registered user number using a paper application (via facsimile or the U.S. mail) rather than through in person application at a local cooperative extension office or only through a Web-based portal; (b) verify AN purchasers through both an Internet-based verification portal and call center rather than only a verification portal or call center; (c) communicate with applicants for an AN registered user number through U.S. Mail rather than only through email or a secure Web-based portal; (d) establish a specific capability within the Department to receive, process, and respond to reports of theft or loss rather than leverage a similar capability which already exists with the Bureau of Alcohol, Tobacco, Firearms and Explosives (ATF); (e) require AN facilities to maintain records electronically in a central database provided by the Department rather than providing flexibility to the AN facility to maintain their own records either in paper or electronically; (f) require agents to register with the Department prior to the sale or transfer of ammonium nitrate involving an agent rather than allow oral confirmation of the agent with the AN purchaser on whose behalf the agent is working; and (g) exempt explosives from this regulation rather than not exempting them. As part of its notice of proposed rulemaking, the Department sought public comment on the numerous alternative ways in which the Department could carry out the requirements of the Secure Handling of Ammonium Nitrate provisions of the Homeland Security Act.

Anticipated Cost and Benefits: In its proposed rule, the Department estimated the number of entities that purchase ammonium nitrate to range from 64,950 to 106,200. These purchasers include farms, fertilizer mixers, farm supply wholesalers and cooperatives (co-ops), golf courses, landscaping services, explosives distributors, mines, retail garden centers, and lab supply wholesalers. The Department estimated the number of entities that sell ammonium nitrate to be between 2,486 and 6,236, many of which are also purchasers. These sellers include ammonium nitrate fertilizer and explosive manufacturers, fertilizer mixers, farm supply wholesalers and co-ops, retail garden centers, explosives distributors, fertilizer applicator services, and lab supply wholesalers. Individuals or firms that provide transportation services within the distribution chain may be categorized as sellers, agents, or facilities depending upon their business relationship with the other parties to the transaction. The total number of potentially regulated farms and other businesses ranges from 64,986 to 106,236 (including overlap between the categories). The cost of the proposed rule ranges from $300 million to $1,041 million over 10 years at a 7 percent discount rate. The primary estimate is the mean which is $670.6 million. For comparison, at a 3 percent discount rate, the cost of the program ranges from $364 million to $1.3 billion with a primary (mean) estimate of $814 million. The average annualized cost for the program ranges from $43 million to $148 million (with a mean of $96 million), also employing a 7 percent discount rate. Because the value of the benefits of reducing risk of a terrorist attack is a function of both the probability of an attack and the value of the consequence, it is difficult to identify the particular risk reduction associated with the implementation of this rule. These elements and related qualitative benefits include point of sale identification requirements and requiring individuals to be screened against the Terrorist Screening Database (TSDB), resulting in known bad actors being denied the ability to purchase ammonium nitrate. The Department of Homeland Security aims to prevent terrorist attacks within the United States and to reduce the vulnerability of the United States to terrorism. By preventing the misappropriation or use of ammonium nitrate in acts of terrorism, this rulemaking will support the Department's efforts to prevent terrorist attacks and reduce the Nation's vulnerability to terrorist attacks. This rulemaking is complementary to other Department programs seeking to reduce the risks posed by terrorism, including the Chemical Facility Anti-Terrorism Standards program (which seeks in part to prevent terrorists from gaining access to dangerous chemicals) and the Transportation Worker Identification Credential program (which seeks in part to prevent terrorists from gaining access to certain critical infrastructure), among other programs.

Risks: Explosives containing ammonium nitrate are commonly used in terrorist attacks. Such attacks have been carried out both domestically and internationally. The 1995 Murrah Federal Building attack in Oklahoma City claimed the lives of 167 individuals and demonstrated firsthand to America how ammonium nitrate could be misused by terrorists. In addition to the Murrah Building attack, the Provisional Irish Republican Army used ammonium nitrate as part of its London, England, bombing campaign in the early 1980s. More recently, ammonium nitrate was used in the 1998 East African Embassy bombings and in the November 2003 bombings in Istanbul, Turkey. Additionally, since the events of 9/11, stores of ammonium nitrate have been confiscated during raids on terrorist sites around the world, including sites in Canada, England, India, and the Philippines.

Timetable:

Action | Date | FR Cite
ANPRM | 10/29/08 | 73 FR 64280
Correction | 11/05/08 | 73 FR 65783
ANPRM Comment Period End | 12/29/08
NPRM | 08/03/11 | 76 FR 46908
Notice of Public Meetings | 10/07/11 | 76 FR 62311
Notice of Public Meetings | 11/14/11 | 76 FR 70366
NPRM Comment Period End | 12/01/11
Final Rule | 04/00/15

Regulatory Flexibility Analysis Required: Yes.

Small Entities Affected: Businesses.

Government Levels Affected: Federal, Local, State.

Federalism: This action may have federalism implications as defined in EO 13132.

URL for More Information: www.regulations.gov.

URL for Public Comments: www.regulations.gov.

Agency Contact: Jon MacLaren, Chief, Rulemaking Section, Department of Homeland Security, National Protection and Programs Directorate, Infrastructure Security Compliance Division (NPPD/ISCD), 245 Murray Lane, Mail Stop 0610, Arlington, VA 20598-0610, Phone: 703 235-5263, Fax: 703 603-4712, Email: jon.m.maclaren@hq.dhs.gov.

RIN: 1601-AA52

DHS—U.S. CITIZENSHIP AND IMMIGRATION SERVICES (USCIS)

Proposed Rule Stage

69. Asylum and Withholding Definitions

Priority: Other Significant.

Legal Authority: 8 U.S.C. 1103; 8 U.S.C. 1158; 8 U.S.C. 1226; 8 U.S.C. 1252; 8 U.S.C. 1282

CFR Citation: 8 CFR 2; 8 CFR 208.

Legal Deadline: None.

Abstract: This rule proposes to amend Department of Homeland Security regulations that govern eligibility for asylum and withholding of removal. The amendments focus on portions of the regulations that deal with the definitions of membership in a particular social group, the requirements for failure of State protection, and determinations about whether persecution is inflicted on account of a protected ground. This rule codifies long-standing concepts of the definitions. It clarifies that gender can be a basis for membership in a particular social group. It also clarifies that a person who has suffered or fears domestic violence may under certain circumstances be eligible for asylum on that basis. After the Board of Immigration Appeals published a decision on this issue in 1999, Matter of R-A-, Int. Dec. 3403 (BIA 1999), it became clear that the governing regulatory standards required clarification. The Department of Justice began this regulatory initiative by publishing a proposed rule addressing these issues in 2000.

Statement of Need: This rule provides guidance on a number of key interpretive issues of the refugee definition used by adjudicators deciding asylum and withholding of removal (withholding) claims. The interpretive issues include whether persecution is inflicted on account of a protected ground, the requirements for establishing the failure of State protection, and the parameters for defining membership in a particular social group. This rule will aid in the adjudication of claims made by applicants whose claims fall outside of the rubric of the protected grounds of race, religion, nationality, or political opinion. One example of such claims which often fall within the particular social group ground concerns people who have suffered or fear domestic violence. This rule is expected to consolidate issues raised in a proposed rule in 2000 and to address issues that have developed since the publication of the proposed rule. This rule should provide greater stability and clarity in this important area of the law. This rule will also provide guidance to the following adjudicators: USCIS asylum officers, Department of Justice Executive Office for Immigration Review (EOIR) immigration judges, and members of the EOIR Board of Immigration Appeals (BIA).

Summary of Legal Basis: The purpose of this rule is to provide guidance on certain issues that have arisen in the context of asylum and withholding adjudications. The 1951 Geneva Convention relating to the Status of Refugees contains the internationally accepted definition of a refugee. United States immigration law incorporates an almost identical definition of a refugee as a person outside his or her country of origin “who is unable or unwilling to return to, and is unable or unwilling to avail himself or herself of the protection of, that country because of persecution or a well-founded fear of persecution on account of race, religion, nationality, membership in a particular social group, or political opinion.” Section 101(a)(42) of the Immigration and Nationality Act.

Alternatives: A sizable body of interpretive case law has developed around the meaning of the refugee definition. Historically, much of this case law has addressed more traditional asylum and withholding claims based on the protected grounds of race, religion, nationality, or political opinion. In recent years, however, the United States increasingly has encountered asylum and withholding applications with more varied bases, related, for example, to an applicant's gender or sexual orientation. Many of these new types of claims are based on the ground of “membership in a particular social group,” which is the least well-defined of the five protected grounds within the refugee definition.

On December 7, 2000, DOJ published a proposed rule in the Federal Register providing guidance on the definitions of “persecution” and “membership in a particular social group.” Before DHS publishes a new proposed rule, DHS will consider how the nexus between persecution and a protected ground might be further conceptualized; how membership in a particular social group might be defined and evaluated; and what constitutes a State's inability or unwillingness to protect the applicant where the persecution arises from a non-State actor. The alternative to publishing this rule would be to allow the standards governing this area of law to continue to develop piecemeal through administrative and judicial precedent. This approach has resulted in inconsistent and confusing standards, and the Department has therefore determined that promulgation of the new proposed rule is necessary.

Anticipated Cost and Benefits: By providing a clear framework for key asylum and withholding issues, we anticipate that adjudicators will have clear guidance, increasing administrative efficiency and consistency in adjudicating these cases. The rule will also promote a more consistent and predictable body of administrative and judicial precedent governing these types of cases. We anticipate that this will enable applicants to better assess their potential eligibility for asylum, and to present their claims more efficiently when they believe that they may qualify, thus reducing the resources spent on adjudicating claims that do not qualify. In addition, a more consistent and predictable body of law on these issues will likely result in fewer appeals, both administrative and judicial, and reduce associated litigation costs. The Department has no way of accurately predicting how this rule will impact the number of asylum applications filed in the United States. Based on anecdotal evidence and on the reported experience of other nations that have adopted standards under which the results are similar to those we anticipate for this rule, we do not believe this rule will cause a change in the number of asylum applications filed.

Risks: The failure to promulgate a final rule in this area presents significant risk of further inconsistency and confusion in the law. The Government's interests in fair, efficient, and consistent adjudications would be compromised.

Timetable:

Action | Date | FR Cite
NPRM | 12/07/00 | 65 FR 76588
NPRM Comment Period End | 01/22/01
NPRM | 05/00/15

Regulatory Flexibility Analysis Required: No.

Small Entities Affected: No.

Government Levels Affected: None.

Additional Information: CIS No. 2092-00.

Transferred from RIN 1115-AF92

URL for More Information: www.regulations.gov.

URL for Public Comments: www.regulations.gov.

Agency Contact: Ted Kim, Deputy Chief, Asylum Division, Office of Refugee, Asylum, and International Operations, Department of Homeland Security, U.S. Citizenship and Immigration Services, 20 Massachusetts Avenue NW., Suite 6030, Washington, DC 20259, Phone: 202 272-1614, Fax: 202 272-1994, Email: ted.h.kim@uscis.dhs.gov.

RIN: 1615-AA41

DHS—USCIS

70. New Classification for Victims of Criminal Activity; Eligibility for the U Nonimmigrant Status

Priority: Other Significant.

Legal Authority: 5 U.S.C. 552; 5 U.S.C. 552a; 8 U.S.C. 1101; 8 U.S.C. 1101 (note); 8 U.S.C. 1102; Pub. L. 113-4

CFR Citation: 8 CFR 103; 8 CFR 204; 8 CFR 212; 8 CFR 214; 8 CFR 299.

Legal Deadline: None.

Abstract: This rule proposes new application and eligibility requirements for U nonimmigrant status. The U classification is for non-U.S. citizen/lawful permanent resident victims of certain crimes who cooperate with an investigation or prosecution of those crimes. There is a limit of 10,000 principals per fiscal year. This rule would propose to establish new procedures to be followed to petition for the U nonimmigrant classifications. Specifically, the rule would address the essential elements that must be demonstrated to receive the nonimmigrant classification, procedures that must be followed to file a petition and evidentiary guidance to assist in the petitioning process. Eligible victims would be allowed to remain in the United States if granted U nonimmigrant status. The Trafficking Victims Protection Reauthorization Act of 2008, Public Law 110-457, and the Violence Against Women Reauthorization Act (VAWA) of 2013, Public Law 113-4, made amendments to the U nonimmigrant status provisions of the Immigration and Nationality Act. The Department of Homeland Security had issued an interim final rule in 2007.

Statement of Need: This regulation is necessary to allow alien victims of certain crimes to petition for U nonimmigrant status. U nonimmigrant status is available to eligible victims of certain qualifying criminal activity who: (1) Has suffered substantial physical or mental abuse as a result of the qualifying criminal activity; (2) the alien possesses information about the crime; (3) the alien has been, is being, or is likely to be helpful in the investigation or prosecution of the crime; and (4) the criminal activity took place in the United States, including military installations and Indian country, or the territories or possessions of the United States. This rule addresses the eligibility requirements that must be met for classification as a U nonimmigrant alien and implements statutory amendments to these requirements, streamlines the procedures to petition for U nonimmigrant status, and provides evidentiary guidance to assist in the petition process.

Summary of Legal Basis: Congress created the U nonimmigrant classification in the Battered Immigrant Women Protection Act of 2000 (BIWPA) to provide immigration relief for alien victims of certain qualifying criminal activity and who are helpful to law enforcement in the investigation or prosecution of these crimes.

Alternatives: To provide victims with immigration benefits and services and keeping in mind the purpose of the U visa as a law enforcement tool, DHS is considering and using suggestions from stakeholders in developing this regulation. These suggestions came in the form of public comment from the 2007 interim final rule as well as USCIS' 6 years of experience with the U nonimmigrant status program, including regular meetings and outreach events with stakeholders and law enforcement.

Anticipated Cost and Benefits: DHS estimated the total annual cost of the interim rule to petitioners to be $6.2 million in the interim final rule published in 2007. This cost included the biometric services fee, the opportunity cost of time needed to submit the required forms, the opportunity cost of time required and cost of traveling to visit a USCIS Application Support Center. DHS is currently in the process of updating our cost estimates since U nonimmigrant visa petitioners are no longer required to pay the biometric services fee. The anticipated benefits of these expenditures include assistance to victims of qualifying criminal activity and their families and increases in arrests and prosecutions of criminals nationwide. Additional benefits include heightened awareness by law enforcement of victimization of aliens in their community, and streamlining the petitioning process so that victims may benefit from this immigration relief.

Risks: There is a statutory cap of 10,000 principal U nonimmigrant visas that may be granted per fiscal year at 8 U.S.C. 1184(p)(2). Eligible petitioners who are not granted principal U-1 nonimmigrant status due solely to the numerical limit will be placed on a waiting list maintained by U.S. Citizenship and Immigration Services (USCIS). To protect U-1 petitioners and their families, USCIS will use various means to prevent the removal of U-1 petitioners and their eligible family members on the waiting list, including exercising its authority to allow deferred action, parole, and stays of removal, in cooperation with other DHS components.

Timetable:

Action | Date | FR Cite
Interim Final Rule | 09/17/07 | 72 FR 53013
Interim Final Rule Effective | 10/17/07
Interim Final Rule Comment Period End | 11/17/07
NPRM | 10/00/15

Regulatory Flexibility Analysis Required: No.

Small Entities Affected: No.

Government Levels Affected: Federal, Local, State.

Additional Information: Transferred from RIN 1115-AG39.

URL For More Information: www.regulations.gov.

URL For Public Comments: www.regulations.gov.

Agency Contact: Maureen A. Dunn, Chief, Family Immigration and Victim Protection Division, Department of Homeland Security, U.S. Citizenship and Immigration Services, Office of Policy and Strategy, 20 Massachusetts Avenue NW., Suite 1200, Washington, DC 20529, Phone: 202 272-1470, Fax: 202 272-1480, Email: maureen.a.dunn@uscis.dhs.gov.

RIN: 1615-AA67

DHS—USCIS

71. Exception to the Persecution Bar for Asylum, Refugee, and Temporary Protected Status, and Withholding of Removal

Priority: Other Significant.

Legal Authority: 8 U.S.C. 1101; 8 U.S.C. 1103; 8 U.S.C. 1158; 8 U.S.C. 1226; Pub. L. 107-26; Pub. L. 110-229.

CFR Citation: 8 CFR 1; 8 CFR 207; 8 CFR 208; 8 CFR 240; 8 CFR 244; 8 CFR 1001; 8 CFR 1208; 8 CFR 1240.

Legal Deadline: None.

Abstract: This joint rule proposes amendments to Department of Homeland Security (DHS) and Department of Justice (DOJ) regulations to describe the circumstances under which an applicant will continue to be eligible for asylum, refugee, or temporary protected status, special rule cancellation of removal under the Nicaraguan Adjustment and Central American Relief Act, and withholding of removal, even if DHS or DOJ has determined that the applicant's actions contributed, in some way, to the persecution of others when the applicant's actions were taken when the applicant was under duress.

Statement of Need: This rule resolves ambiguity in the statutory language precluding eligibility for asylum, refugee, and temporary protected status of an applicant who ordered, incited, assisted, or otherwise participated in the persecution of others. The proposed amendment would provide a limited exception for actions taken by the applicant under duress and clarify the required levels of the applicant's knowledge of the persecution.

Summary of Legal Basis: In Negusie v. Holder, 129 S. Ct. 1159 (2009), the Supreme Court addressed whether the persecutor bar should apply where an alien's actions were taken under duress. DHS believes that this is an appropriate subject for rulemaking and proposes to amend the applicable regulations to set out its interpretation of the statute. In developing this regulatory initiative, DHS has carefully considered the purpose and history behind enactment of the persecutor bar, including its international law origins and the criminal law concepts upon which they are based.

Alternatives: DHS did consider the alternative of not publishing a rulemaking on these issues. To leave this important area of the law without an administrative interpretation would confuse adjudicators and the public.

Anticipated Cost and Benefits: The programs affected by this rule exist so that the United States may respond effectively to global humanitarian situations and assist people who are in need. USCIS provides a number of humanitarian programs and protection to assist individuals in need of shelter or aid from disasters, oppression, emergency medical issues, and other urgent circumstances. This rule will advance the humanitarian goals of the asylum/refugee program, and other specialized programs. The main benefits of such goals tend to be intangible and difficult to quantify in economic and monetary terms. These forms of relief have not been available to individuals who engaged in persecution of others under duress. This rule will allow an exception to this bar from protection for applicants who can meet the appropriate evidentiary standard. Consequently, this rule may result in a small increase in the number of applicants for humanitarian programs. To the extent a small increase in applicants occurs, there could be additional fee costs incurred by these applicants.

Risks: If DHS were not to publish a regulation, the public would face a lengthy period of confusion on these issues. There could also be inconsistent interpretations of the statutory language, leading to significant litigation and delay for the affected public.

Timetable:

Action | Date | FR Cite
NPRM | 10/00/15

Regulatory Flexibility Analysis Required: No.

Small Entities Affected: No.

Government Levels Affected: None.

Agency Contact: Ronald W. Whitney, Deputy Chief, Refugee and Asylum Law Division, Department of Homeland Security, U.S. Citizenship and Immigration Services, Office of Chief Counsel, 20 Massachusetts Avenue NW., Washington, DC 20529, Phone: 415 293-1244, Fax: 415 293-1269, Email: ronald.w.whitney@uscis.dhs.gov.

RIN: 1615-AB89

DHS—USCIS

72. Administrative Appeals Office: Procedural Reforms To Improve Efficiency

Priority: Other Significant.

Legal Authority: 5 U.S.C. 552; 5 U.S.C. 552a; 8 U.S.C. 1101; 8 U.S.C. 1103; 8 U.S.C. 1304; 6 U.S.C. 112.

CFR Citation: 8 CFR 103; 8 CFR 204; 8 CFR 205; 8 CFR 210; 8 CFR 214; 8 CFR 245a; 8 CFR 320; 8 CFR 105 (new); . . .

Legal Deadline: None.

Abstract: This proposed rule revises the requirements and procedures for the filing of motions and appeals before the Department of Homeland Security (DHS), U.S. Citizenship and Immigration Services (USCIS), and its Administrative Appeals Office. The proposed changes are intended to streamline the existing processes for filing motions and appeals and will reduce delays in the review and appellate process. This rule also proposes additional changes necessitated by the establishment of DHS and its components.

Statement of Need: This rule proposes to make numerous changes to streamline the current appeal and motion processes which: (1) Will result in cost savings to the Government, applicants, and petitioners; and (2) will provide for a more efficient use of USCIS officer and clerical staff time, as well as more uniformity with Board of Immigration Appeals appeal and motion processes.

Summary of Legal Basis: 5 U.S.C. 301; 5 U.S.C. 552; 5 U.S.C. 552a; 8 U.S.C. 1101 and notes 1102, 1103, 1151, 1153, 1154, 1182, 1184, 1185 note (sec. 7209 of Pub. L. 108-458; title VII of Pub. L. 110-229), 1186a, 1187, 1221,1223, 1225 to 1227, 1255a, and 1255a note, 1281, 1282, 1301 to 1305, 1324a, 1356, 1372, 1379, 1409(c), 1443 to 1444, 1448, 1452, 1455, 1641, 1731 to 1732; 31 U.S.C. 9701; 48 U.S.C. 1901, 1931 note; section 643, Public Law 104-208, 110, Stat. 3009-708; section 141 of the Compacts of Free Association with the Federated States of Micronesia and the Republic of the Marshall Islands, and with the Government of Palau; title VII of Public Law 110-229; Public Law 107-296, 116 Stat. 2135 (6 U.S.C. 1 et seq.); Public Law 82-414, 66 Stat. 173, 238, 254, 264; title VII of Public Law 110-229; Executive Order 12356.

Alternatives: The alternative to this rule would be to continue under the current process without change.

Anticipated Cost and Benefits: As a result of streamlining the appeal and motion process, DHS anticipates quantitative and qualitative benefits to DHS and the public. We also anticipate cost savings to DHS and applicants as a result of the proposed changes.

Risks:

Timetable:

Action | Date | FR Cite
NPRM | 10/00/15

Regulatory Flexibility Analysis Required: Yes.

Small Entities Affected: Governmental Jurisdictions.

Government Levels Affected: None.

Additional Information: Previously 1615-AB29 (CIS 2311-04), which was withdrawn in 2007.

URL For More Information: www.regulations.gov.

URL For Public Comments: www.regulations.gov.

Agency Contact: William K. Renwick, Supervisory Citizenship and Immigration Appeals Officer, Department of Homeland Security, U.S. Citizenship and Immigration Services, Administrative Appeals Office, Washington, DC 20529-2090, Phone: 703 224-4501, Email: william.k.renwick@uscis.dhs.gov.

Related RIN: Duplicate of 1615-AB29

RIN: 1615-AB98

DHS—USCIS

Final Rule Stage

73. Classification for Victims of Severe Forms of Trafficking in Persons; Eligibility for T Nonimmigrant Status

Priority: Other Significant.

Legal Authority: 5 U.S.C. 552; 5 U.S.C. 552a; 8 U.S.C. 1101 to 1104; 8 U.S.C. 1182; 8 U.S.C. 1184; 8 U.S.C. 1187; 8 U.S.C. 1201; 8 U.S.C. 1224 to 1227; 8 U.S.C. 1252 to 1252a; 22 U.S.C. 7101; 22 U.S.C. 7105; Pub. L. 113-4

CFR Citation: 8 CFR 103; 8 CFR 212; 8 CFR 214; 8 CFR 274a; 8 CFR 299.

Legal Deadline: None.

Abstract: The T nonimmigrant classification was created by the Victims of Trafficking and Violence Protection Act of 2000, Public Law 106-386. The classification was designed for eligible victims of severe forms of trafficking in persons who aid law enforcement with their investigation or prosecution of the traffickers, and who can establish that they would suffer extreme hardship involving unusual and severe harm if they were removed from the United States. The rule streamlines application procedures and responsibilities for the Department of Homeland Security (DHS) and provides guidance to the public on how to meet certain requirements to obtain T nonimmigrant status. Several reauthorizations, including the Violence Against Women Reauthorization Act of 2013, Public Law 113-4, have made amendments to the T nonimmigrant status provisions of the Immigration and Nationality Act. This rule implements those amendments.

Statement of Need: This rule addresses the essential elements that must be demonstrated for classification as a T nonimmigrant alien and implements statutory amendments to these elements, streamlines the procedures to be followed by applicants to apply for T nonimmigrant status, and evidentiary guidance to assist in the application process.

Summary of Legal Basis: Section 107(e) of the Victims of Trafficking and Violence Protection Act of 2000 Public Law 106-386, as amended, established the T classification to provide immigration relief for certain eligible victims of severe forms of trafficking in persons who assist law enforcement authorities in investigating and prosecuting the perpetrators of these crimes.

Alternatives: To provide victims with immigration benefits and services, keeping in mind the purpose of the T visa also being a law enforcement tool, DHS is considering and using suggestions from stakeholders in developing this regulation. These suggestions came in the form of public comment to the 2002 interim final rule, as well as from over 10 years of experience with the T nonimmigrant status program, including regular meetings with stakeholders and regular outreach events.

Anticipated Cost and Benefits: Applicants for T nonimmigrant status do not pay application or biometric fees. The anticipated benefits of these expenditures include: Assistance to trafficked victims and their families, prosecution of traffickers in persons, and the elimination of abuses caused by trafficking activities. Benefits which may be attributed to the implementation of this rule are expected to be: (1) An increase in the number of cases brought forward for investigation and/or prosecution; (2) heightened awareness by the law enforcement community of trafficking in persons; and (3) streamlining the application process for victims.

Risks: There is a 5,000-person limit to the number of individuals who can be granted T-1 status per fiscal year. Eligible applicants who are not granted T-1 status due solely to the numerical limit will be placed on a waiting list maintained by U.S. Citizenship and Immigration Services (USCIS). To protect T-1 applicants and their families, USCIS will use various means to prevent the removal of T-1 applicants on the waiting list, and their family members who are eligible for derivative T status, including its existing authority to grant deferred action, parole, and stays of removal, in cooperation with other DHS components.

Timetable:

Action | Date | FR Cite
Interim Final Rule | 01/31/02 | 67 FR 4784
Interim Final Rule Effective | 03/04/02
Interim Final Rule Comment Period End | 04/01/02
Interim Final Rule | 04/00/15

Regulatory Flexibility Analysis Required: No.

Small Entities Affected: No.

Government Levels Affected: Federal, Local, State.

Additional Information: Transferred from RIN 1115-AG19.

Agency Contact: Maureen A. Dunn, Chief, Family Immigration and Victim Protection Division, Department of Homeland Security, U.S. Citizenship and Immigration Services, Office of Policy and Strategy, 20 Massachusetts Avenue NW., Suite 1200, Washington, DC 20529, Phone: 202 272-1470, Fax: 202 272-1480, Email: maureen.a.dunn@uscis.dhs.gov.

RIN: 1615-AA59

DHS—USCIS

74. Application of Immigration Regulations to the Commonwealth of the Northern Mariana Islands

Priority: Other Significant.

Legal Authority: Pub. L. 110-229; 8 U.S.C. 1101 and note; 8 U.S.C. 1102; 8 U.S.C. 1103; 8 U.S.C. 1182 and note; 8 U.S.C. 1184; 8 U.S.C. 1187; 8 U.S.C. 1223; 8 U.S.C. 1225; 8 U.S.C. 1226; 8 U.S.C. 1227; 8 U.S.C. 1255; 8 U.S.C. 1185 note; 8 U.S.C. 48; U.S.C. 1806; 8 U.S.C. 1186a; 8 U.S.C. 1187; 8 U.S.C. 1221; 8 U.S.C. 1281; 8 U.S.C. 1282; 8 U.S.C. 1301 to 1305 and 1372; Pub. L. 104-208; Pub. L. 106-386; Compacts of Free Association with the Federated States of Micronesia and the Republic of the Marshall Islands, and with the Government of Palau, sec 141; 48 U.S.C. 1901 note and 1931 note; Pub. L. 105-100; Pub. L. 105-277; 8 U.S.C. 1324a

CFR Citation: 8 CFR 212.4(k)(1) and (2); 8 CFR 214.16(a), (b), (c) and (d); 8 CFR 245.1(d)(1)(v) and (vi); 8 CFR 274a.12(b)(24); 8 CFR 1245.1(d)(1)(v), (vi), and (vii); 8 CFR part 2

Legal Deadline: Final, Statutory, November 28, 2009, Consolidated Natural Resources Act (CNRA) of 2008. Public Law 110-229, the Consolidated Natural Resources Act of 2008 (CNRA), was enacted on May 8, 2008. Title VII of this statute extended the provisions of the Immigration and Nationality Act (INA) to the Commonwealth of the Northern Mariana Islands (CNMI).

Abstract: This final rule amends the Department of Homeland Security (DHS) and the Department of Justice (DOJ) regulations to comply with the CNRA. The CNRA extends the immigration laws of the United States to the CNMI. This rule finalizes the interim rule and implements conforming amendments to their respective regulations.

Statement of Need: This rule finalizes the interim rule to conform existing regulations with the CNRA. Some of the changes implemented under the CNRA affect existing regulations governing both DHS immigration policy and procedures and proceedings before the immigration judges and the Board. Accordingly, it is necessary to make amendments both to the DHS regulations and to the DOJ regulations. The Secretary and the Attorney General are making conforming amendments to their respective regulations in this single rulemaking document.

Summary of Legal Basis: Congress extended the immigration laws of the United States to the CNMI. The stated purpose of the CNRA is to ensure effective border control procedures, to properly address national security and homeland security concerns by extending U.S. immigration law to the CNMI (phasing-out the CNMI's nonresident contract worker program while minimizing to the greatest extent practicable the potential adverse economic and fiscal effects of that phase-out), to maximize the CNMI's potential for future economic and business growth, and to assure worker protections from the potential for abuse and exploitation.

Alternatives:

Anticipated Cost and Benefits: Costs: The interim rule established basic provisions necessary for the application of the INA to the CNMI and updated definitions and existing DHS and DOJ regulations in areas that were confusing or in conflict with how they are to be applied to implement the INA in the CNMI. As such, that rule made no changes that had identifiable direct or indirect economic impacts that could be quantified. Benefits: This final rule makes regulatory changes in order to lessen the adverse impacts of the CNRA on employers and employees in the CNMI and assist the CNMI in its transition to the INA.

Risks:

Timetable:

Action | Date | FR Cite
Interim Final Rule | 10/28/09 | 74 FR 55725
Interim Final Rule Comment Period End | 11/27/09
Correction | 12/22/09 | 74 FR 67969
Final Action | 03/00/15

Regulatory Flexibility Analysis Required: No.

Small Entities Affected: No.

Government Levels Affected: None.

Additional Information: CIS 2460-08.

URL For More Information: www.regulations.gov.

URL For Public Comments: www.regulations.gov.

Agency Contact: Kevin J. Cummings, Chief, Business and Foreign Workers Division, Department of Homeland Security, U.S. Citizenship and Immigration Services, Office of Policy and Strategy, 20 Massachusetts Avenue NW., Washington, DC 20529-2140, Phone: 202 272-1470, Fax: 202 272-1480, Email: kevin.j.cummings@uscis.dhs.gov.

Related RIN: Related to 1615-AB76, Related to 1615-AB75

RIN: 1615-AB77

DHS—USCIS

75. Special Immigrant Juvenile Petitions

Priority: Other Significant.

Legal Authority: 8 U.S.C. 1101; 8 U.S.C. 1103; 8 U.S.C. 1151; 8 U.S.C. 1153; 8 U.S.C. 1154.

CFR Citation: 8 CFR 204; 8 CFR 205; 8 CFR 245.

Legal Deadline: None.

Abstract: The Department of Homeland Security (DHS) proposes to amend its regulations governing the Special Immigrant Juvenile (SIJ) classification and related applications for adjustment of status to permanent resident. The Secretary may grant SIJ classification to aliens whose reunification with one or both parents is not viable due to abuse, neglect, abandonment, or a similar basis found under State law. This proposed rule would require a petitioner to be under the age of 21 only at the time of filing for SIJ classification. This proposed rule would require that juvenile court dependency be in effect at the time of filing for SIJ classification and continue through the time of adjudication unless the age of the juvenile prevents such continued dependency. Aliens granted SIJ classification are eligible immediately to apply for adjustment of status to that of permanent resident. The Department received comments on the proposed rule in 2011 and intends to issue a final rule in the coming year.

Statement of Need: SIJ classification is available to eligible alien children who: (1) Are present in the United States; (2) have been declared dependent on a juvenile court or an individual or entity appointed by a State or juvenile court; (3) cannot reunify with one or both of the alien's parents due to abuse, abandonment, neglect, or a similar basis under State law; (4) it is not in the best interest to be returned to the home country. DHS must also consent to the grant of SIJ classification. This rule would address the eligibility requirements that must be met for SIJ classification and related adjustment of status, implement statutory amendments to these requirements, and provide procedural and evidentiary guidance to assist in the petition process.

Summary of Legal Basis: Congress established the SIJ classification in the Immigration Act of 1990 (IMMACT). The 1998 Appropriations Act amended the SIJ classification by linking eligibility to aliens declared dependent on a juvenile court due to abuse, abandonment, or neglect and creating consent functions. The Trafficking Victims Protection Reauthorization Act of 2008 made many changes to the SIJ classification including: (1) Creating a requirement that the alien's reunification with one or both parents not be viable due to abuse, abandonment, neglect, or a similar basis under State law; (2) expanding the aliens who may be eligible to include those placed by a juvenile court with an individual or entity; (3) modifying the consent functions; (4) providing age-out protection; and (5) creating a timeframe for adjudications.

Alternatives: To provide victims with immigration benefits and services, keeping in mind the humanitarian purpose of the SIJ classification and the vulnerable nature of alien children who have been abused, abandoned or neglected, DHS is considering and using suggestions from stakeholders in developing this regulation. These suggestions came in the form of public comment from the 2011 proposed rule.

Anticipated Cost and Benefits: In the 2011 proposed rule, DHS estimated there would be no additional regulatory compliance costs for petitioning individuals or any program costs for the government as a result of the proposed amendments. Qualitatively, DHS estimated that the proposed rule would codify the practices and procedures currently implemented via internal policy directives issued by USCIS, thereby establishing clear guidance for petitioners. DHS is currently in the process of updating our final cost and benefit estimates.

Risks: The failure to promulgate a final rule in this area presents significant risk of further inconsistency and confusion in the law. The Government's interests in fair, efficient, and consistent adjudications would be compromised.

Timetable:

Action | Date | FR Cite
NPRM | 09/06/11 | 76 FR 54978
NPRM Comment Period End | 11/07/11 |
Final Rule | 07/00/15 |

Regulatory Flexibility Analysis Required: No.

Small Entities Affected: No.

Government Levels Affected: Federal, State.

URL for More Information: www.regulations.gov.

URL for Public Comments: www.regulations.gov.

Agency Contact: Maureen A. Dunn, Chief, Family Immigration and Victim Protection Division, Department of Homeland Security, U.S. Citizenship and Immigration Services, Office of Policy and Strategy, 20 Massachusetts Avenue NW., Suite 1200, Washington, DC 20529, Phone: 202 272-1470, Fax: 202 272-1480, Email: maureen.a.dunn@uscis.dhs.gov.

RIN: 1615-AB81

DHS—USCIS

76. Employment Authorization for Certain H-4 Dependent Spouses

Priority: Other Significant.

Legal Authority: 8 U.S.C. 1101; 8 U.S.C. 1102; 8 U.S.C. 1103; 8 U.S.C. 1182; 8 U.S.C. 1184; 8 U.S.C. 1186a; 8 U.S.C. 1187; 8 U.S.C. 1221; 8 U.S.C. 1281; 8 U.S.C. 1282; 8 U.S.C. 1301 to 1305 and 1372; Pub. L. 104-208, sec 643; Pub. L. 106-386; Compacts of Free Association with the Federated States of Micronesia and the Republic of the Marshall Islands, and with the Government of Palau, sec 141; 48 U.S.C. 1901 note and 1931 note; 48 U.S.C. 1806; 8 U.S.C. 1324a; Pub. L. 110-229.

CFR Citation: 8 CFR 274a.12(c)(26); 8 CFR part 2; 8 CFR 214.2(h)(9)(iv).

Legal Deadline: None.

Abstract: The Department of Homeland Security (DHS) proposes to amend its regulations by extending the availability of employment authorization to certain H-4 dependent spouses of principal H-1B nonimmigrants who have begun the process of seeking lawful permanent resident status through employment. Allowing the eligible class of H-4 dependent spouses to work encourages professionals with high demand skills to remain in the country and help spur the innovation and growth of U.S. companies.

Statement of Need: Under current regulations, DHS does not list H-4 dependents (spouses and unmarried children under 21) of H-1B nonimmigrant workers among the classes of aliens eligible to work in the United States. See 8 CFR 274a.12. The lack of employment authorization for H-4 dependent spouses often gives rise to personal and economic hardship for the families of H-1B nonimmigrants the longer they remain in the United States. In many cases, for those H-1B nonimmigrants and their families who wish to remain permanently in the United States, the timeframe required for an H-1B nonimmigrant to acquire lawful permanent residence through his or her employment may be many years. As a result, retention of highly educated and highly skilled nonimmigrant workers in the United States can become problematic for employers. Retaining highly skilled persons who intend to acquire lawful permanent residence is important to the United States given the contributions of these individuals to the U.S. economy, including advances in entrepreneurial and research and development endeavors, which correlate highly with overall economic growth and job creation. In this rule, DHS proposes to extend employment authorization to certain H-4 dependent spouses of H-1B nonimmigrants. DHS believes that this rule would further encourage H-1B skilled workers to remain in the United States, continue contributing to the U.S. economy, and not abandon their efforts to become lawful permanent residents, to the detriment of their U.S. employer, because their H-4 nonimmigrant spouses are unable to obtain work authorization. This rule would also remove the disincentive for many H-1B families to start the immigrant process due to the lengthy waiting periods associated with acquiring status as a lawful permanent resident of the United States.

Summary of Legal Basis: Sections 103(a), and 274A(h)(3) of the Immigration and Nationality Act (INA) generally authorize the Secretary to provide for employment authorization for aliens in the United States. In addition, section 214(a)(1) of the INA authorizes the Secretary to prescribe regulations setting terms and conditions of admission of nonimmigrants.

Alternatives: In enacting the American Competitiveness in the Twenty-First Century Act of 2000 (AC21), Congress was especially concerned with avoiding the disruption to U.S. businesses caused by the required departure of H-1B nonimmigrant workers (for whom the businesses intended to file employment-based immigrant visa petitions) upon the expiration of workers' maximum 6-year period of authorized stay. See S. Rep. No. 106-260, at 15 (2000). DHS rejected this alternative as overbroad, since such an alternative would offer eligibility for employment authorization to those spouses of nonimmigrant workers who have not taken steps to demonstrate a desire to continue to remain in and contribute to the U.S. economy by seeking lawful permanent residence.

Anticipated Cost and Benefits: The changes would impact spouses of H-1B workers who have been admitted or have extended their stay under the provisions of AC21 or who have an approved Immigrant Petition for Alien Worker, Form I-140. This population would include H-4 dependent spouses of H-1B nonimmigrants if the H-1B nonimmigrants are either the beneficiaries of an approved Immigrant Petition for Alien Worker, Form I-140, or have been granted an extension of their authorized period of admission in the United States under the AC21, amended by the 21st Century Department of Justice Appropriations Authorization Act. The costs of the rule stem from filing fees and the opportunity costs of time associated with filing an Application for Employment Authorization for those eligible H-4 spouses who decide to seek employment while residing in the United States. Allowing certain H-4 spouses the opportunity to work results in a negligible increase to the overall domestic labor force. The benefits of this rule would accrue to U.S. employers and the U.S. economy by increasing the likelihood of retaining highly-skilled persons who intend to adjust to lawful permanent resident status. This is important when considering the contributions of these individuals to the U.S. economy, including advances in entrepreneurial and research and development endeavors, which are highly correlated with overall economic growth and job creation. In addition, the amendments bring U.S. immigration laws more in line with other countries that seek to attract skilled foreign workers.

Risks:

Timetable:

Action | Date | FR Cite
NPRM | 05/12/14 | 79 FR 26886
NPRM Comment Period End | 07/11/14
Final Action | 12/00/14

Regulatory Flexibility Analysis Required: No.

Small Entities Affected: No.

Government Levels Affected: None.

International Impacts: This regulatory action will be likely to have international trade and investment effects, or otherwise be of international interest.

Additional Information: Includes Retrospective Review under E.O. 13563.

Agency Contact: Kevin J. Cummings, Chief, Business and Foreign Workers Division, Department of Homeland Security, U.S. Citizenship and Immigration Services, Office of Policy and Strategy, 20 Massachusetts Avenue NW., Washington, DC 20529-2140, Phone: 202 272-1470, Fax: 202 272-1480, Email: kevin.j.cummings@uscis.dhs.gov.

RIN: 1615-AB92

DHS—USCIS

77. Enhancing Opportunities for H-1B1, CW-1, and E-3 Nonimmigrants and EB-1 Immigrants

Priority: Other Significant.

Legal Authority: 8 U.S.C. 1101; 8 U.S.C. 1103; 8 U.S.C. 1151; 8 U.S.C. 1153; 8 U.S.C. 1154; 8 U.S.C. 1182; 8 U.S.C. 1184; 8 U.S.C. 1186a; 8 U.S.C. 1255; 8 U.S.C. 1641; 8 U.S.C. 1187; 8 U.S.C. 1221; 8 U.S.C. 1281; 8 U.S.C. 1282; 8 U.S.C. 1301-1305 and 1372; Pub. L. 104-208, sec 643; Pub. L. 106-386; Compacts of Free Association with the Federated States of Micronesia and the Republic of Marshall Islands, and with the Government of Palau, sec 141; 48 U.S.C. 1901 note and 1931 note; Pub. L. 110-229; 8 U.S.C. 1258; 8 U.S.C. 1324a; 48 U.S.C. 1806; 8 U.S.C. 1102

CFR Citation: 8 CFR 204.5(i)(3)(ii)-(iv); 8 CFR 214.1(c)(1); 8 CFR 248.3(a); 8 CFR 274a.12(b)(9), (b)(20), (b)(23)-(25); 8 CFR part 2.

Legal Deadline: None.

Abstract: The Department of Homeland Security (DHS) is updating the regulations to include nonimmigrant high-skilled specialty occupation professionals from Chile and Singapore (H-1B1) and from Australia (E-3) in the list of classes of aliens authorized for employment incident to status with a specific employer, to clarify that H-1B1 and principal E-3 nonimmigrants are allowed to work without having to separately apply to DHS for employment authorization. DHS is also amending the regulations to provide authorization for continued employment with the same employer if the employer has timely filed for an extension of the nonimmigrant's stay. DHS is also providing for this same continued work authorization for Commonwealth of the Northern Mariana Islands (CNMI)-Only Transitional Worker (CW-1) nonimmigrants if a Petition for a CNMI-Only Nonimmigrant Transitional Worker, Form I-129CW, is timely filed to apply for an extension of stay. In addition, DHS is updating the regulations describing the filing procedures for extensions of stay and change of status requests to include the principal E-3 and H-1B1 nonimmigrant classifications. These changes harmonize the regulations for E-3, H-1B1, and CW-1 nonimmigrant classifications with existing regulations for other, similarly situated nonimmigrant classifications. Finally, DHS is expanding the current list of evidentiary criteria for employment-based first preference (EB-1) outstanding professors and researchers to allow the submission of evidence comparable to the other forms of evidence already listed in the regulations. This harmonizes the regulations for EB-1 outstanding professors and researchers with other employment-based immigrant categories that already allow for submission of comparable evidence. DHS is amending the regulations to benefit these high-skilled workers and CW-1 transitional workers by removing unnecessary hurdles that place such workers at a disadvantage when compared to similarly situated workers in other visa classifications.

Statement of Need: The proposal would improve the programs serving the E-3, H-1B1, and CW-1 nonimmigrant classifications and the EB-1 immigrant classification for outstanding professors and researchers. The proposed changes harmonize the regulations governing these classifications with regulations governing similar visa classifications by removing unnecessary hurdles that place E-3, H-1B1, CW-1 and certain EB-1 workers at a disadvantage.

Summary of Legal Basis: The Homeland Security Act of 2002, Public Law 107-296, section 102, 116 Stat. 2135 (Nov. 25, 2002), 6 U.S.C. 112, and the Immigration and Nationality Act of 1952 (INA), charge the Secretary of Homeland Security (Secretary) with administration and enforcement of the immigration and nationality laws. See INA section 103, 8 U.S.C. 1103.

Alternatives: A number of the changes are part of DHS's Retrospective Review Plan for Existing Regulations. During development of DHS's Retrospective Review Plan, DHS received a comment from the public requesting specific changes to the DHS regulations that govern continued work authorization for E-3 and H-1B1 nonimmigrants when an extension of status petition is timely filed, and to expand the types of evidence allowable in support of immigrant petitions for outstanding researchers or professors. This rule is responsive to that comment, and with the retrospective review principles of Executive Order 13563.

Anticipated Cost and Benefits: The E-3 and H-1B1 provisions do not impose any additional costs on petitioning employers, individuals or government entities, including the Federal government. The regulatory amendments provide equity for E-3 and H-1B1 nonimmigrants relative to other employment-based nonimmigrants listed in 8 CFR 274a.12.(b)(20). Additionally, this provision may allow employers of E-3 or H-1B1 nonimmigrant workers to avoid the cost of lost productivity resulting from interruptions of work while an extension of stay petition is pending. Additionally, the regulatory changes that clarify principal E-3 and H-1B1 nonimmigrant classifications are employment authorized incident to status with a specific employer, and that these nonimmigrant classifications that must file a petition with USCIS to make an extension of stay or change of status request simply codify current practice and impose no additional costs. Likewise, the regulatory amendments governing CW-1 nonimmigrants would not impose any additional costs for petitioning employers or for CW-1 nonimmigrant workers. The benefits of the rule are to provide equity for CW-1 nonimmigrant workers whose extension of stay request is filed by the same employer relative to other CW-1 nonimmigrant workers. Additionally, this provision mitigates any potential distortion in the labor market for employers of CW-1 nonimmigrant workers created by current inconsistent regulatory provisions which currently offer an incentive to file for extensions of stay with new employers rather than current employers. The portion of the rule addressing the evidentiary requirements for the EB-1 outstanding professor and researcher employment-based immigrant classification allows for the submission of comparable evidence (achievements not listed in the criteria such as important patents or prestigious, peer-reviewed funding grants) for that listed in 8 CFR 204.5(i)(3)(i)(A) through (F) to establish that the EB-1 professor or researcher is recognized internationally as outstanding in his or her academic field. Harmonizing the evidentiary requirements for EB-1 outstanding professors and researchers with other comparable employment-based immigrant classifications provides equity for EB-1 outstanding professors and researchers relative to those other employment-based visa categories.

Risks:

Timetable:

Action | Date | FR Cite
NPRM | 05/12/14 | 79 FR 26870
NPRM Comment Period End | 07/11/14
Final Action | 04/00/15

Regulatory Flexibility Analysis Required: No.

Small Entities Affected: Businesses, Organizations.

Government Levels Affected: None.

International Impacts: This regulatory action will be likely to have international trade and investment effects, or otherwise be of international interest.

Additional Information: Includes Retrospective Review under Executive Order 13563.

Agency Contact: Kevin J. Cummings, Chief, Business and Foreign Workers Division, Department of Homeland Security, U.S. Citizenship and Immigration Services, Office of Policy and Strategy, 20 Massachusetts Avenue NW., Washington, DC 20529-2140, Phone: 202 272-1470, Fax: 202 272-1480, Email: kevin.j.cummings@uscis.dhs.gov.

RIN: 1615-AC00

DHS—U.S. COAST GUARD (USCG)

Final Rule Stage

78. Vessel Requirements for Notices of Arrival and Departure, and Automatic Identification System

Priority: Other Significant.

Legal Authority: 33 U.S.C. 1223; 33 U.S.C. 1225; 33 U.S.C. 1231; 46 U.S.C. 3716; 46 U.S.C. 8502; 46 U.S.C. 701; sec 102 of Pub. L. 107-295; EO 12234

CFR Citation: 33 CFR 62; 33 CFR 66; 33 CFR 160; 33 CFR 161; 33 CFR 164; 33 CFR 165; 33 CFR 101; 33 CFR 110; 33 CFR 117; 33 CFR 151; 46 CFR 4; 46 CFR 148.

Legal Deadline: None.

Abstract: This rulemaking would expand the applicability for Notice of Arrival and Departure (NOAD) and Automatic Identification System (AIS) requirements. These expanded requirements would better enable the Coast Guard to correlate vessel AIS data with NOAD data, enhance our ability to identify and track vessels, detect anomalies, improve navigation safety, and heighten our overall maritime domain awareness. The NOAD portion of this rulemaking could expand the applicability of the NOAD regulations by changing the minimum size of vessels covered below the current 300 gross tons, require a notice of departure when a vessel is departing for a foreign port or place, and mandate electronic submission of NOAD notices to the National Vessel Movement Center. The AIS portion of this rulemaking would expand current AIS carriage requirements for the population identified in the Safety of Life at Sea (SOLAS) Convention and the Marine Transportation Marine Transportation Security Act (MTSA) of 2002.

Statement of Need: There is no central mechanism in place to capture vessel, crew, passenger, or specific cargo information on vessels less than or equal to 300 gross tons (GT) intending to arrive at or depart from U.S. ports unless they are arriving with certain dangerous cargo (CDC) or at a port in the 7th Coast Guard District; nor is there a requirement for vessels to submit notification of departure information. The lack of NOAD information of this large and diverse population of vessels represents a substantial gap in our maritime domain awareness (MDA). We can minimize this gap and enhance MDA by expanding NOAD applicability to vessels greater than 300 GT, all foreign commercial vessels and all U.S. commercial vessels coming from a foreign port, and further enhance (and corroborate) MDA by tracking those vessels (and others) with AIS. This information is necessary in order to expand our MDA and provide the Nation maritime safety and security.

Summary of Legal Basis: This rulemaking is based on congressional authority provided in the Ports and Waterways Safety Act (see 33 U.S.C. 1223(a)(5), 1225, 1226, and 1231) and section 102 of the Maritime Transportation Security Act of 2002 (codified at 46 U.S.C. 70114).

Alternatives: Our goal is to extend our MDA and to identify anomalies by correlating vessel NOAD data with AIS data. NOAD and AIS information from a greater number of vessels, as proposed in this rulemaking, would expand our MDA. We considered expanding NOAD and AIS to even more vessels, but we determined that we needed additional legislative authority to expand AIS beyond what we propose in this rulemaking, and that it was best to combine additional NOAD expansion with future AIS expansion. Although not in conjunction with a proposed rule, the Coast Guard sought comment regarding expansion of AIS carriage to other waters and other vessels not subject to the current requirements (68 FR 39369, July 1, 2003; USCG 2003-14878; see also 68 FR 39355). Those comments were reviewed and considered in drafting this rule and are available in this docket. To fulfill our statutory obligations, the Coast Guard needs to receive AIS reports and NOADs from vessels identified in this rulemaking that currently are not required to provide this information. Policy or other nonbinding statements by the Coast Guard addressed to the owners of these vessels would not produce the information required to sufficiently enhance our MDA to produce the information required to fulfill our Agency obligations.

Anticipated Cost and Benefits: This rulemaking will enhance the Coast Guard's regulatory program by making it more effective in achieving the regulatory objectives, which, in this case, is improved MDA. We provide flexibility in the type of AIS system that can be used, allowing for reduced cost burden. This rule is also streamlined to correspond with Customs and Border Protection's APIS requirements, thereby reducing unjustified burdens. We are further developing estimates of cost and benefit that were published in 2008. In the 2008 NPRM, we estimated that both segments of the proposed rule would affect approximately 42,607 vessels. The total number of domestic vessels affected is approximately 17,323 and the total number of foreign vessels affected is approximately 25,284. We estimated that the 10-year total present discounted value or cost of the proposed rule to U.S. vessel owners is between $132.2 and $163.7 million (7 and 3 percent discount rates, respectively, 2006 dollars) over the period of analysis. The Coast Guard believes that this rule, through a combination of NOAD and AIS, would strengthen and enhance maritime security. The combination of NOAD and AIS would create a synergistic effect between the two requirements. Ancillary or secondary benefits exist in the form of avoided injuries, fatalities, and barrels of oil not spilled into the marine environment. In the 2008 NPRM, we estimated that the total discounted benefit (injuries and fatalities) derived from 68 marine casualty cases analyzed over an 8-year data period from 1996 to 2003 for the AIS portion of the proposed rule is between $24.7 and $30.6 million using $6.3 million for the value of statistical life (VSL) at 7 percent and 3 percent discount rates, respectively. Just based on barrels of oil not spilled, we expect the AIS portion of the proposed rule to prevent 22 barrels of oil from being spilled annually. The Coast Guard may revise costs and benefits for the final rule to reflect changes resulting from public comments.

Risks: Considering the economic utility of U.S. ports, waterways, and coastal approaches, it is clear that a terrorist incident against our U.S. Maritime Transportation System (MTS) would have a direct impact on U.S. users and consumers and could potentially have a disastrous impact on global shipping, international trade, and the world economy. By improving the ability of the Coast Guard both to identify potential terrorists coming to the United States while the terrorists are far from our shores and to coordinate appropriate responses and intercepts before the vessel reaches a U.S. port, this rulemaking would contribute significantly to the expansion of MDA, and consequently is instrumental in addressing the threat posed by terrorist actions against the MTS.

Timetable:

Action | Date | FR Cite
NPRM | 12/16/08 | 73 FR 76295
Notice of Public Meeting | 01/21/09 | 74 FR 3534
Notice of Second Public Meeting | 03/02/09 | 74 FR 9071
NPRM Comment Period End | 04/15/09
Notice of Second Public Meeting Comment Period End | 04/15/09
Final Rule | 12/00/14

Regulatory Flexibility Analysis Required: Yes.

Small Entities Affected: Businesses.

Government Levels Affected: None.

Additional Information: We have indicated in past notices and rulemaking documents, and it remains the case, that we have worked to coordinate implementation of AIS MTSA requirements with the development of our ability to take advantage of AIS data (68 FR 39355 and 39370, Jul. 1, 2003).

Docket ID USCG-2005-21869.

URL for More Information: www.regulations.gov.

URL for Public Comments: www.regulations.gov.

Agency Contact:, LCDR Michael D. Lendvay, Program Manager, Office of Commercial Vessel, Foreign and Offshore Vessel Activities Div. (CG-CVC-2), Department of Homeland Security, U.S. Coast Guard, 2703 Martin Luther King Jr. Avenue SE., STOP 7501, Washington, DC 20593-7501, Phone: 202 372-1218, Email: michael.d.lendvay@uscg.mil.

Jorge Arroyo, Project Manager, Office of Navigation Systems (CG-NAV-1), Department of Homeland Security, U.S. Coast Guard, 2703 Martin Luther King Jr. Avenue SE., STOP 7418, Washington, DC 20593-7418, Phone: 202 372-1563, Email: jorge.arroyo@uscg.mil.

Related RIN: Related to 1625-AA93, Related to 1625-AB28

RIN: 1625-AA99

DHS—USCG

79. Inspection of Towing Vessels

Priority: Other Significant.

Legal Authority: 46 U.S.C. 3103; 46 U.S.C. 3301; 46 U.S.C. 3306; 46 U.S.C. 3308; 46 U.S.C. 3316; 46 U.S.C. 3703; 46 U.S.C. 8104; 46 U.S.C. 8904; DHS Delegation No 0170.1

CFR Citation: 46 CFR 2; 46 CFR 15; 46 CFR 136 to 144.

Legal Deadline: NPRM, Statutory, January 13, 2011. Final, Statutory, October 15, 2011. On October 15, 2010, the Coast Guard Authorization Act of 2010 was enacted as Public Law 111-281. It requires that a proposed rule be issued within 90 days after enactment and that a final rule be issued within 1 year of enactment.

Abstract: This rulemaking would implement a program of inspection for certification of towing vessels, which were previously uninspected. It would prescribe standards for safety management systems and third-party auditors and surveyors, along with standards for construction, operation, vessel systems, safety equipment, and recordkeeping.

Statement of Need: This rulemaking would implement section 415 of the Coast Guard and Maritime Transportation Act of 2004. The intent of the proposed rule is to promote safer work practices and reduce casualties on towing vessels by ensuring that towing vessels adhere to prescribed safety standards. This proposed rule was developed in cooperation with the Towing Vessel Safety Advisory Committee. It would establish a new subchapter dedicated to towing vessels, covering vessel equipment, systems, operational standards, and inspection requirements.

Summary of Legal Basis: Proposed new subchapter authority: 46 U.S.C. 3103, 3301, 3306, 3308, 3316, 8104, 8904; 33 CFR 1.05; DHS Delegation 0170.1. The Coast Guard and Maritime Transportation Act of 2004 (CGMTA 2004), Public Law 108-293, 118 Stat. 1028, (Aug. 9, 2004), established new authorities for towing vessels as follows: section 415 added towing vessels, as defined in section 2101 of title 46, United States Code (U.S.C.), as a class of vessels that are subject to safety inspections under chapter 33 of that title (Id. at 1047). Section 415 also added new section 3306(j) of title 46, authorizing the Secretary of Homeland Security to establish, by regulation, a safety management system appropriate for the characteristics, methods of operation, and nature of service of towing vessels (Id.). Section 409 added new section 8904(c) of title 46, U.S.C., authorizing the Secretary to establish, by regulation, “maximum hours of service (including recording and recordkeeping of that service) of individuals engaged on a towing vessel that is at least 26 feet in length measured from end to end over the deck (excluding the sheer).” (Id. at 1044-45.)

Alternatives: We considered the following alternatives for the notice of proposed rulemaking (NPRM): One regulatory alternative would be the addition of towing vessels to one or more existing subchapters that deal with other inspected vessels, such as cargo and miscellaneous vessels (subchapter I), offshore supply vessels (subchapter L), or small passenger vessels (subchapter T). We do not believe, however, that this approach would recognize the often “unique” nature and characteristics of the towing industry in general and towing vessels in particular. The same approach could be adopted for use of a safety management system by requiring compliance with title 33, Code of Federal Regulations, part 96 (Rules for the Safe Operation of Vessels and Safety Management Systems). Adoption of these requirements, without an alternative safety management system, would also not be “appropriate for the characteristics, methods of operation, and nature of service of towing vessels.” The Coast Guard has had extensive public involvement (four public meetings, over 100 separate comments submitted to the docket, as well as extensive ongoing dialogue with members of the Towing Safety Advisory Committee (TSAC)) regarding development of these regulations. Adoption of one of the alternatives discussed above would likely receive little public or industry support, especially considering the TSAC efforts toward development of standards to be incorporated into a separate subchapter dealing specifically with the inspection of towing vessels. An approach that would seem to be more in keeping with the intent of Congress would be the adoption of certain existing standards from those applied to other inspected vessels. In some cases, these existing standards would be appropriately modified and tailored to the nature and operation of certain categories of towing vessels. The adopted standards would come from inspected vessels that have demonstrated “good marine practice” within the maritime community. These regulations would be incorporated into a subchapter specifically addressing the inspection for certification of towing vessels. The law requiring the inspection for certification of towing vessels is a statutory mandate, compelling the Coast Guard to develop regulations appropriate for the nature of towing vessels and their specific industry.

Anticipated Cost and Benefits: We estimate that owners and operators of towing vessels would incur additional annualized costs in the range of $14.3 million to $17.1 million at 7 percent discounted from this rulemaking. The cost of this rulemaking would involve provisions for safety management systems, standards for construction, operation, vessel systems, safety equipment, and recordkeeping. Our cost assessment includes existing and new vessels. The Coast Guard developed the requirements in the proposed rule by researching both the human factors and equipment failures that caused towing vessel accidents. We believe that the proposed rule would address a wide range of causes of towing vessel accidents and supports the main goal of improving safety in the towing industry. The primary benefit of the proposed rule is an increase in vessel safety and a resulting decrease in the risk of towing vessel accidents and their consequences. We estimate an annualized benefit of $28.5 million from this rule.

Risks: This regulatory action would reduce the risk of towing vessel accidents and their consequences. Towing vessel accidents result in fatalities, injuries, property damage, pollution, and delays.

Timetable:

Action | Date | FR Cite
NPRM | 08/11/11 | 76 FR 49976
Notice of Public Meetings | 09/09/11 | 76 FR 55847
NPRM Comment Period End | 12/09/11
Final Rule | 08/00/15

Regulatory Flexibility Analysis Required: Yes.

Small Entities Affected: Businesses, Governmental Jurisdictions, Organizations.

Government Levels Affected: State.

Additional Information: Docket ID USCG-2006-24412.

URL for More Information: www.regulations.gov.

URL for Public Comments: www.regulations.gov.

Agency Contact: LCDR William Nabach, Project Manager, Office of Design & Engineering Standards, CG-OES-2, Department of Homeland Security, U.S. Coast Guard, 2703 Martin Luther King Jr. Avenue SE., STOP 7509, Washington, DC 20593-7509, Phone: 202 372-1386, Email: william.a.nabach@uscg.mil.

RIN: 1625-AB06

DHS—USCG

80. Transportation Worker Identification Credential (TWIC); Card Reader Requirements

Priority: Other Significant.

Legal Authority: 33 U.S.C. 1226; 33 U.S.C. 1231; 46 U.S.C. 701; 50 U.S.C. 191; 50 U.S.C. 192; EO 12656

CFR Citation: 33 CFR, subchapter H.

Legal Deadline: Final, Statutory, August 20, 2010, SAFE Port Act, codified at 46 U.S.C. 70105(k). The final rule is required 2 years after the commencement of the pilot program. The final rule is required 2 years after the commencement of the pilot program.

Abstract: The Coast Guard is establishing electronic card reader requirements for maritime facilities and vessels to be used in combination with TSA's Transportation Worker Identification Credential (TWIC). Congress enacted several statutory requirements within the Security and Accountability for Every (SAFE) Port Act of 2006 to guide regulations pertaining to TWIC readers, including the need to evaluate TSA's final pilot program report as part of the TWIC reader rulemaking. During the rulemaking process, we will take into account the final pilot data and the various conditions in which TWIC readers may be employed. For example, we will consider the types of vessels and facilities that will use TWIC readers, locations of secure and restricted areas, operational constraints, and need for accessibility. Recordkeeping requirements, amendments to security plans, and the requirement for data exchanges (i.e., Canceled Card List) between TSA and vessel or facility owners/operators will also be addressed in this rulemaking.

Statement of Need: The Maritime Transportation Security Act (MTSA) of 2002 explicitly required the issuance of a biometric transportation security card to all U.S. merchant mariners and to workers requiring unescorted access to secure areas of MTSA-regulated facilities and vessels. On May 22, 2006, the Transportation Security Administration (TSA) and the Coast Guard published a notice of proposed rulemaking (NPRM) to carry out this statute, proposing a Transportation Worker Identification Credential (TWIC) Program where TSA conducts security threat assessments and issues identification credentials, while the Coast Guard requires integration of the TWIC into the access control systems of vessels, facilities, and Outer Continental Shelf facilities. Based on comments received during the public comment period, TSA and the Coast Guard split the TWIC rule. The final TWIC rule, published in January of 2007, addressed the issuance of the TWIC and use of the TWIC as a visual identification credential at access control points. In an ANPRM, published in March of 2009, and a NPRM, published in April of 2013, the Coast Guard proposed a risk-based approach to TWIC reader requirements and included proposals to classify MTSA-regulated vessels and facilities into one of three risk groups, based on specific factors related to TSI consequence, and apply TWIC reader requirements for vessels and facilities in conjunction with their relative risk-group placement. This rulemaking is necessary to comply with the SAFE Port Act and to complete the implementation of the TWIC Program in our ports. By requiring electronic card readers at vessels and facilities, the Coast Guard will further enhance port security and improve access control measures.

Summary of Legal Basis: The statutory authorities for the Coast Guard to prescribe, change, revise, or amend these regulations are provided under 33 U.S.C. 1226, 1231; 46 U.S.C. chapter 701; 50 U.S.C. 191, 192; Executive Order 12656, 3 CFR 1988 Comp., p. 585; 33 CFR 1.05-1, 6.04-11, 6.14, 6.16, and 6.19; Department of Homeland Security Delegation No. 0170.1.

Alternatives: The implementation of TWIC reader requirements is mandated by the SAFE Port Act. We considered several alternatives in the formulation of this proposal. These alternatives were based on risk analysis of different combinations of facility and vessel populations facing TWIC reader requirements. The preferred alternative selected allowed the Coast Guard to target the highest risk entities while minimizing the overall burden.

Anticipated Cost and Benefits: The main cost drivers of this rule are the acquisition and installation of TWIC readers and the maintenance of the affected entity's TWIC reader system. Initial costs, which we would distribute over a phased-in implementation period, consist predominantly of the costs to purchase, install, and integrate approved TWIC readers into their current physical access control system. Recurring annual costs will be driven by costs associated with canceled card list updates, opportunity costs associated with delays and replacement of TWICs that cannot be read, and maintenance of the affected entity's TWIC reader system. As reported in the NPRM Regulatory Analysis, the total 10-year total industry and government cost for the TWIC is $234.3 million undiscounted and $186.1 discounted at 7 percent. We estimate the annualized cost of this rule to industry to be $26.5 million at a 7 percent discount rate. The benefits of the rulemaking include the enhancement of the security of vessel ports and other facilities by ensuring that only individuals who hold valid TWICs are granted unescorted access to secure areas at those locations.

Risks: USCG used risk-based decision-making to develop this rulemaking. Based on this analysis, the Coast Guard has proposed requiring higher-risk vessels and facilities to meet the requirements for electronic TWIC inspection, while continuing to allow lower-risk vessels and facilities to use TWIC as a visual identification credential.

Timetable:

Action | Date | FR Cite
ANPRM | 03/27/09 | 74 FR 13360
Notice of Public Meeting | 04/15/09 | 74 FR 17444
ANPRM Comment Period End | 05/26/09
Notice of Public Meeting Comment Period End | 05/26/09
NPRM | 03/22/13 | 78 FR 20558
NPRM Comment Period Extended | 05/10/13 | 78 FR 27335
NPRM Comment Period Extended End | 06/20/13
Final Rule | 04/00/15

Regulatory Flexibility Analysis Required: Yes.

Small Entities Affected: Businesses, Governmental Jurisdictions.

Government Levels Affected: None.

Additional Information: Docket ID USCG-2007-28915.

URL for More Information: www.regulations.gov.

URL for Public Comments: www.regulations.gov.

Agency Contact: LT Mason Wilcox, Project Manager, Department of Homeland Security, U.S. Coast Guard, Commandant (CG-FAC-2), 2703 Martin Luther King Jr Ave. SE., STOP 7501, Washington, DC 20593-7501, Phone: 202 372-1123, Email: mason.c.wilcox@uscg.mil.

Related RIN: Related to 1625-AB02

RIN: 1625-AB21

DHS—U.S. CUSTOMS AND BORDER PROTECTION (USCBP)

Proposed Rule Stage

81. Amendments to Importer Security Filing and Additional Carrier Requirements

Priority: Other Significant. Major status under 5 U.S.C. 801 is undetermined.

Legal Authority: Pub. L. 109-347, sec 203; 5 U.S.C. 301; 19 U.S.C. 66; 19 U.S.C. 1431; 19 U.S.C. 1433; 19 U.S.C. 1434; 19 U.S.C. 1624; 19 U.S.C. 2071 (note); 46 U.S.C. 60105

CFR Citation: 19 CFR 4.7c; 19 CFR 149.1

Legal Deadline: None.

Abstract: The Importer Security Filing (ISF) regulations require carriers and importers to provide to CBP, via a CBP-approved electronic data interchange system, information necessary to assist CBP in identifying high-risk shipments to prevent smuggling and ensure cargo safety and security. Importers and carriers must currently submit specified information before the cargo is brought into the United States by vessel in accordance with specified time frames. To increase the accuracy and reliability of the advance information, this rule will propose changes to the ISF regulations.

Statement of Need: Since 2009 CBP has collected advance data elements from importers and carriers carrying cargo to the United States by vessel. CBP uses these data to target incoming cargo and prevent dangerous or otherwise illegal cargo from arriving in the United States. To increase the accuracy and reliability of this information CBP intends to publish a notice of proposed rulemaking that proposes some changes to the current importer security filing regulations. This rule is needed to provide CBP with additional data that are needed to conduct security screening and to ensure that the party with the best access to the data is the party responsible for providing this information to CBP.

Summary of Legal Basis:

Alternatives:

Anticipated Cost and Benefits: CBP anticipates that this rule will result in a cost to ISF importers to submit the additional data to CBP and a security benefit resulting from improved targeting.

Risks:

Timetable:

Action | Date | FR Cite
NPRM | 10/00/15

Regulatory Flexibility Analysis Required: Undetermined.

Government Levels Affected: None.

International Impacts: This regulatory action will be likely to have international trade and investment effects, or otherwise be of international interest.

URL for More Information: www.regulations.gov.

URL for Public Comments: www.regulations.gov.

Agency Contact: Craig Clark, Program Manager, Vessel Manifest & Importer Security Filing, Office of Cargo and Conveyance Security, Department of Homeland Security, U.S. Customs and Border Protection, 1300 Pennsylvania Avenue NW., Washington, DC 20229, Phone: 202 344-3052, Email: craig.clark@cbp.dhs.gov.

Related RIN: Related to 1651-AA70

RIN: 1651-AA98

DHS—USCBP

82. • Air Cargo Advance Screening (ACAS)

Priority: Other Significant.

Legal Authority: Not Yet Determined.

CFR Citation: Not Yet Determined.

Legal Deadline: None.

Abstract: U.S. Customs and Border Protection (CBP) is proposing to amend the implementing regulations of the Trade Act of 2002 regarding the submission of advance electronic information for air cargo and other provisions to provide for the Air Cargo Advance Screening (ACAS) program. ACAS would require the submission of certain advance electronic information for air cargo. This will allow CBP to better target and identify dangerous cargo and ensure that any risk associated with such cargo is mitigated before the aircraft departs for the United States. CBP, in conjunction with TSA, has been operating ACAS as a voluntary pilot program since 2010 and would like to implement ACAS as a regulatory program.

Statement of Need: DHS has identified an elevated risk associated with cargo being transported to the United States by air. This rule will help address this risk by giving DHS the data it needs to improve targeting of the cargo prior to takeoff.

Summary of Legal Basis:

Alternatives:

Anticipated Cost and Benefits: Costs of this program to carriers include one-time costs to upgrade systems to facilitate transmission of these data to CBP and recurring per transmission costs. Benefits of the program include improved security that will result from having these data further in advance.

Risks:

Timetable:

Action | Date | FR Cite
NPRM | 08/00/15 |

Regulatory Flexibility Analysis Required: Undetermined.

Government Levels Affected: Undetermined.

International Impacts: This regulatory action will be likely to have international trade and investment effects, or otherwise be of international interest.

Agency Contact: Regina Kang, Cargo and Conveyance Security, Office of Field Operations, Department of Homeland Security, U.S. Customs and Border Protection, 1300 Pennsylvania Avenue NW., Washington, DC 20229, Phone: 202 344-2368, Email: regina.kang@cbp.dhs.gov.

RIN: 1651-AB04

DHS—USCBP

Final Rule Stage

83. Changes to the Visa Waiver Program to Implement the Electronic System for Travel Authorization (ESTA) Program

Priority: Economically Significant. Major under 5 U.S.C. 801.

Legal Authority: 8 U.S.C. 1103; 8 U.S.C. 1187.

CFR Citation: 8 CFR 217.5.

Legal Deadline: None.

Abstract: On June 9, 2008, CBP issued an interim final rule which implemented the Electronic System for Travel Authorization (ESTA) for aliens who travel to the United States under the Visa Waiver Program (VWP) at air or sea ports of entry. Under the rule, VWP travelers must provide certain biographical information to CBP electronically before departing for the United States. This advance information allows CBP to determine before their departure whether these travelers are eligible to travel to the United States under the VWP and whether such travel poses a security risk. The interim final rule also fulfilled the requirements of section 711 of the Implementing recommendations of the 9/11 Commission Act of 2007 (9/11 Act). In addition to fulfilling a statutory mandate, the rule served the two goals of promoting border security and legitimate travel to the United States. By modernizing the VWP, the ESTA increases national security and provides for greater efficiencies in the screening of international travelers by allowing for vetting of subjects of potential interest well before boarding, thereby reducing traveler delays at the ports of entry. CBP requested comments on all aspects of the interim final rule and plans to issue a final rule after completion of the comment analysis.

Statement of Need: The rule fulfills the requirements of section 711 of the 9/11 Act to develop and implement a fully automated electronic travel authorization system in advance of travel for VWP travelers. The advance information allows CBP to determine before their departure whether VWP travelers are eligible to travel to the United States and to determine whether such travel poses a law enforcement or security risk. In addition to fulfilling a statutory mandate, the rule serves the twin goals of promoting border security and legitimate travel to the United States. ESTA increases national security by allowing for vetting of subjects of potential interest before they depart for the United States. It promotes legitimate travel to the United States by providing for greater efficiencies in the screening of travelers thereby reducing traveler delays upon arrival at U.S. ports of entry.

Summary of Legal Basis: The ESTA program is based on congressional authority provided under section 711 of the Implementing Recommendations of the 9/11 Commission Act of 2007 (Pub. L. 110-53) and section 217 of the Immigration and Nationality Act (INA), 8 U.S.C. 1187.

Alternatives: When developing the interim final rule, CBP considered three alternatives to this rule: (1) The ESTA requirements in the rule, but with a $1.50 fee per each travel authorization (more costly) (2) The ESTA requirements in the rule, but with only the name of the passenger and the admissibility questions on the I-94W form (less burdensome) (3) The ESTA requirements in the rule, but only for the countries entering the VWP after 2009 (no new requirements for VWP, reduced burden for newly entering countries). CBP determined that the rule provides the greatest level of enhanced security and efficiency at an acceptable cost to traveling public and potentially affected air carriers.

Anticipated Cost and Benefits: The purpose of ESTA is to allow DHS and CBP to establish the eligibility of certain foreign travelers to travel to the United States under the VWP, and whether the alien's proposed travel to the United States poses a law enforcement or security risk. Upon review of such information, DHS will determine whether the alien is eligible to travel to the United States under the VWP. Costs to Air & Sea Carriers: CBP estimated that 8 U.S.-based air carriers and 11 sea carriers will be affected by the rule. An additional 35 foreign-based air carriers and 5 sea carriers will be affected. CBP concluded that costs to air and sea carriers to support the requirements of the ESTA program could cost $137 million to $1.1 billion over the next 10 years depending on the level of effort required to integrate their systems with ESTA, how many passengers they need to assist in applying for travel authorizations, and the discount rate applied to annual costs. Costs to Travelers: ESTA will present new costs and burdens to travelers in VWP countries who were not previously required to submit any information to the U.S. Government in advance of travel to the United States. Travelers from Roadmap countries who become VWP countries will also incur costs and burdens, though these are much less than obtaining a nonimmigrant visa (category B1/B2), which is currently required for short-term pleasure or business to travel to the United States. CBP estimated that the total quantified costs to travelers will range from $1.1 billion to $3.5 billion depending on the number of travelers, the value of time, and the discount rate. Annualized costs are estimated to range from $133 million to $366 million. Benefits: As set forth in section 711 of the 9/11 Act, it was the intent of Congress to modernize and strengthen the security of the Visa Waiver Program under section 217 of the Immigration and Nationality Act (INA, 8 U.S.C. 1187) by simultaneously enhancing program security requirements and extending visa-free travel privileges to citizens and eligible nationals of eligible foreign countries that are partners in the war on terrorism. By requiring passenger data in advance of travel, CBP may be able to determine, before the alien departs for the United States, the eligibility of citizens and eligible nationals from VWP countries to travel to the United States under the VWP, and whether such travel poses a law enforcement or security risk. In addition to fulfilling a statutory mandate, the rule serves the twin goals of promoting border security and legitimate travel to the United States. By modernizing the VWP, ESTA is intended to both increase national security and provide for greater efficiencies in the screening of international travelers by allowing for the screening of subjects of potential interest well before boarding, thereby reducing traveler delays based on potentially lengthy processes at U.S. ports of entry. CBP concluded that the total benefits to travelers could total $1.1 billion to $3.3 billion over the period of analysis. Annualized benefits could range from $134 million to $345 million. In addition to these benefits to travelers, CBP and the carriers should also experience the benefit of not having to administer the I-94W except in limited situations. While CBP has not conducted an analysis of the potential savings, it should accrue benefits from not having to produce, ship, and store blank forms. CBP should also be able to accrue savings related to data entry and archiving. Carriers should realize some savings as well, though carriers will still have to administer the Customs Declaration forms for all passengers aboard the aircraft and vessel.

Risks:

Timetable:

Action | Date | FR Cite
Interim Final Action | 06/09/08 | 73 FR 32440
Interim Final Rule Effective | 08/08/08 |
Interim Final Rule Comment Period End | 08/08/08 |
Notice—Announcing Date Rule Becomes Mandatory | 11/13/08 | 73 FR 67354
Final Action | 03/00/15 |

Regulatory Flexibility Analysis Required: No.

Government Levels Affected: None.

International Impacts: This regulatory action will be likely to have international trade and investment effects, or otherwise be of international interest.

Additional Information: http://www.cbp.gov/xp/cgov/travel/id_visa/esta/.

URL For More Information: www.regulations.gov.

URL For Public Comments: www.regulations.gov.

Agency Contact: Suzanne Shepherd, Director, Electronic System for Travel Authorization, Department of Homeland Security, U.S. Customs and Border Protection, 1300 Pennsylvania Avenue NW., Washington, DC 20229, Phone: 202 344-2073, Email: suzanne.m.shepherd@cbp.dhs.gov.

Related RIN: Related to 1651-AA83

RIN: 1651-AA72

DHS—USCBP

84. Implementation of the Guam-Cnmi Visa Waiver Program (Section 610 Review)

Priority: Other Significant. Major under 5 U.S.C. 801.

Legal Authority: Pub. L. 110-229, sec. 702.

CFR Citation: 8 CFR 100.4; 8 CFR 212.1; 8 CFR 233.5; 8 CFR 235.5; 19 CFR 4.7b; 19 CFR 122.49a.

Legal Deadline: Final, Statutory, November 4, 2008, Pub. L. 110-229.

Abstract: The IFR (or the final rule planned for the coming year) rule amends Department of Homeland Security (DHS) regulations to implement section 702 of the Consolidated Natural Resources Act of 2008 (CNRA). This law extends the immigration laws of the United States to the Commonwealth of the Northern Mariana Islands (CNMI) and provides for a joint visa waiver program for travel to Guam and the CNMI. This rule implements section 702 of the CNRA by amending the regulations to replace the current Guam Visa Waiver Program with a new Guam-CNMI Visa Waiver Program. The amended regulations set forth the requirements for nonimmigrant visitors who seek admission for business or pleasure and solely for entry into and stay on Guam or the CNMI without a visa. This rule also establishes six ports of entry in the CNMI for purposes of administering and enforcing the Guam-CNMI Visa Waiver Program. Section 702 of the Consolidated Natural Resources Act of 2008 (CNRA), subject to a transition period, extends the immigration laws of the United States to the Commonwealth of the Northern Mariana Islands (CNMI) and provides for a visa waiver program for travel to Guam and/or the CNMI. On January 16, 2009, the Department of Homeland Security (DHS), Customs and Border Protection (CBP), issued an interim final rule in the Federal Register replacing the then-existing Guam Visa Waiver Program with the Guam-CNMI Visa Waiver Program and setting forth the requirements for nonimmigrant visitors seeking admission into Guam and/or the CNMI under the Guam-CNMI Visa Waiver Program. As of November 28, 2009, the Guam-CNMI Visa Waiver Program is operational. This program allows nonimmigrant visitors from eligible countries to seek admission for business or pleasure for entry into Guam and/or the CNMI without a visa for a period of authorized stay not to exceed 45 days. This rulemaking would finalize the January 2009 interim final rule.

Statement of Need: Previously, aliens who were citizens of eligible countries could apply for admission to Guam at a Guam port of entry as nonimmigrant visitors for a period of 15 days or less, for business or pleasure, without first obtaining a nonimmigrant visa, provided that they are otherwise eligible for admission. Section 702(b) of the CNRA supersedes the Guam visa waiver program by providing for a visa waiver program for Guam and the Commonwealth of the Northern Mariana Islands (Guam-CNMI Visa Waiver Program). Section 702(b) required DHS to promulgate regulations within 180 days of enactment of the CNRA to allow nonimmigrant visitors from eligible countries to apply for admission into Guam and the CNMI, for business or pleasure, without a visa, for a period of authorized stay of no longer than 45 days. Under the interim final rule, a visitor seeking admission under the Guam-CNMI Visa Waiver Program must be a national of an eligible country and must meet the requirements enumerated in the current Guam visa waiver program as well as additional requirements that bring the Guam-CNMI Visa Waiver Program into soft alignment with the U.S. Visa Waiver Program provided for in 8 CFR 217. The country eligibility requirements take into account the intent of the CNRA and ensure that the regulations meet current border security needs. The country eligibility requirements are designed to: (1) ensure effective border control procedures, (2) properly address national security and homeland security concerns in extending U.S. immigration law to the CNMI, and (3) maximize the CNMI's potential for future economic and business growth. This interim rule also provided that visitors from the People's Republic of China and Russia have provided a significant economic benefit to the CNMI. However, nationals from those countries cannot, at this time, seek admission under the Guam-CNMI Visa Waiver Program due to security concerns. Pursuant to section 702(a) of the CNRA, which extends the immigration laws of the United States to the CNMI, this rule also establishes six ports of entry in the CNMI to enable the Secretary of Homeland Security (the Secretary) to administer and enforce the Guam-CNMI Visa Waiver Program.

Summary of Legal Basis: The Guam-CNMI Visa Waiver Program is based on congressional authority provided under 702(b) of the Consolidated Natural Resources Act of 2008 (CNRA).

Alternatives: None.

Anticipated Cost and Benefits: CBP is currently evaluating the costs and benefits associated with finalizing the interim final rule. The most significant change for admission to the CNMI as a result of the rule was for visitors from those countries who are not included in either the existing U.S. Visa Waiver Program or the Guam-CNMI Visa Waiver Program established by the rule. These visitors must apply for U.S. visas, which require in-person interviews at U.S. embassies or consulates and higher fees than the CNMI assessed for its visitor entry permits. These are losses associated with the reduced visits from foreign travelers who no longer visited the CNMI upon implementation of this rule. The anticipated benefits of the rule were enhanced security that would result from the federalization of the immigration functions in the CNMI.

Risks: No risks.

Timetable:

Action | Date | FR Cite
Interim Final Rule | 01/16/09 | 74 FR 2824
Interim Final Rule Effective | 01/16/09 |
Interim Final Rule Comment Period End | 03/17/09 |
Technical Amendment; Change of Implementation Date | 05/28/09 | 74 FR 25387
Final Action | 08/00/15 |

Regulatory Flexibility Analysis Required: No.

Government Levels Affected: None.

International Impacts: This regulatory action will be likely to have international trade and investment effects, or otherwise be of international interest.

URL for More Information: www.regulations.gov.

URL for Public Comments: www.regulations.gov.

Agency Contact: Paul Minton, CBP Officer (Program Manager), Department of Homeland Security, U.S. Customs and Border Protection, 1300 Pennsylvania Avenue NW., Washington, DC 20229, Phone: 202 344-2723, Email: paul.a.minton@cbp.dhs.gov.

Related RIN: Related to 1651-AA81

RIN: 1651-AA77

DHS—USCBP

85. Definition of Form I-94 To Include Electronic Format.

Priority: Other Significant.

Legal Authority: 8 U.S.C. 1101; 8 U.S.C. 1103; 8 U.S.C. 1201; 8 U.S.C. 1301; 8 U.S.C. 1303 to 1305; 5 U.S.C. 301; Pub. L. 107-296, 116 stat 2135; 6 U.S.C. 1 et seq..

CFR Citation: 8 CFR 1.4; 8 CFR 264.1(b).

Legal Deadline: None.

Abstract: The Form I-94 is issued to certain aliens upon arrival in the United States or when changing status in the United States. The Form I-94 is used to document arrival and departure and provides evidence of the terms of admission or parole. CBP is transitioning to an automated process whereby it will create a Form I-94 in an electronic format based on passenger, passport, and visa information currently obtained electronically from air and sea carriers and the Department of State as well as through the inspection process. Prior to this rule, the Form I-94 was solely a paper form that was completed by the alien upon arrival. After the implementation of the Advance Passenger Information System (APIS) following 9/11, CBP began collecting information on aliens traveling by air or sea to the United States electronically from carriers in advance of arrival. For aliens arriving in the United States by air or sea, CBP obtains almost all of the information contained on the paper Form I-94 electronically and in advance via APIS. The few fields on the Form I-94 that are not collected via APIS are either already collected by the Department of State and transmitted to CBP or can be collected by the CBP officer from the individual at the time of inspection. This means that CBP no longer needs to collect Form I-94 information as a matter of course directly from aliens traveling to the United States by air or sea. At this time, the automated process will apply only to aliens arriving at air and sea ports of entry.

Statement of Need: This rule makes the necessary changes to the regulations to enable CBP to transition to an automated process whereby CBP will create an electronic Form I-94 based on the information in its databases.

Summary of Legal Basis: Section 103(a) of the Immigration and Nationality Act (INA) generally authorizes the Secretary of Homeland Security to establish such regulations and prescribe such forms of reports, entries, and other papers necessary to carry out his or her authority to administer and enforce the immigration and nationality laws and to guard the borders of the United States against illegal entry of aliens.

Alternatives: CBP considered two alternatives to this rule: eliminating the paper Form I-94 in the air and sea environments entirely and providing the paper Form I-94 to all travelers who are not B-1/B-2 travelers. Eliminating the paper Form I-94 option for refugees, applicants for asylum, parolees, and those travelers who request one would not result in a significant cost savings to CBP and would harm travelers who have an immediate need for an electronic Form I-94 or who face obstacles to accessing their electronic Form I-94. A second alternative to the rule is to provide a paper Form I-94 to any travelers who are not B-1/B-2 travelers. Under this alternative, travelers would receive and complete the paper Form I- 94 during their inspection when they arrive in the United States. The electronic Form I-94 would still be automatically created during the inspection, but the CBP officer would need to verify that the information appearing on the form matches the information in CBP's systems. In addition, CBP would need to write the Form I-94 number on each paper Form I-94 so that their paper form matches the electronic record. As noted in the analysis, 25.1 percent of aliens are non-B-1/B-2 travelers. Filling out and processing this many paper Forms I-94 at airports and seaports would increase processing times considerably. At the same time, it would only provide a small savings to the individual traveler.

Anticipated Cost and Benefits: With the implementation of this rule, CBP will no longer collect Form I-94 information as a matter of course directly from aliens traveling to the United States by air or sea. Instead, CBP will create an electronic Form I-94 for foreign travelers based on the information in its databases. This rule makes the necessary changes to the regulations to enable CBP to transition to an automated process. Both CBP and aliens would bear costs as a result of this rule. CBP would bear costs to link its data systems and to build a Web site so aliens can access their electronic Forms I-94. CBP estimates that the total cost for CBP to link data systems, develop a secure Web site, and fully automate the Form I-94 fully will equal about $1.3 million in calendar year 2012. CBP will incur costs of $0.09 million in subsequent years to operate and maintain these systems. Aliens arriving as diplomats and students would bear costs when logging into the Web site and printing electronic I-94s. The temporary workers and aliens in the ”Other/Unknown” category bear costs when logging into the Web site, traveling to a location with public internet access, and printing a paper copy of their electronic Form I-94. Using the primary estimate for a traveler's value of time, aliens would bear costs between $36.6 million and $46.4 million from 2013 to 2016. Total costs for this rule for 2013 would range from $34.2 million to $40.1 million, with a primary estimate of costs equal to $36.7 million. CBP, carriers, and foreign travelers would accrue benefits as a result of this rule. CBP would save contract and printing costs of $15.6 million per year of our analysis. Carriers would save a total of $1.3 million in printing costs per year. All aliens would save the eight-minute time burden for filling out the paper Form I-94 and certain aliens who lose the Form I-94 would save the $330 fee and 25-minute time burden for filling out the Form I-102. Using the primary estimate for a traveler's value of time, aliens would obtain benefits between $112.6 million and $141.6 million from 2013 to 2016. Total benefits for this rule for 2013 would range from $110.7 million to $155.6 million, with a primary estimate of benefits equal to $129.5 million. Overall, this rule results in substantial cost savings (benefits) for foreign travelers, carriers, and CBP. CBP anticipates a net benefit in 2013 of between $59.7 million and $98.7 million for foreign travelers, $1.3 million for carriers, and $15.5 million for CBP. Net benefits to U.S. entities (carriers and CBP) in 2013 total $16.8 million. CBP anticipates the total net benefits to both domestic and foreign entities in 2013 range from $76.5 million to $115.5 million. In our primary analysis, the total net benefits are $92.8 million in 2013. For the primary estimate, annualized net benefits range from $78.1 million to $80.0 million, depending on the discount rate used. More information on costs and benefits can be found in the interim final rule.

Risks: N/A.

Timetable:

Action | Date | FR Cite
Interim Final Rule | 03/27/13 | 78 FR 18457
Interim Final Rule Comment Period End | 04/26/13
Interim Final Rule Effective | 04/26/13
Final Action | 03/00/15

Regulatory Flexibility Analysis Required: No.

Government Levels Affected: None.

International Impacts: This regulatory action will be likely to have international trade and investment effects, or otherwise be of international interest.

Additional Information: Includes Retrospective Review under E.O. 13563.

URL for More Information: www.regulations.gov.

URL for Public Comments: www.regulations.gov.

Agency Contact: Suzanne Shepherd, Director, Electronic System for Travel Authorization, Department of Homeland Security, U.S. Customs and Border Protection, 1300 Pennsylvania Avenue NW., Washington, DC 20229, Phone: 202 344-2073, Email: suzanne.m.shepherd@cbp.dhs.gov.

RIN: 1651-AA96

DHS—TRANSPORTATION SECURITY ADMINISTRATION (TSA)

Proposed Rule Stage

86. Security Training for Surface Mode Employees

Priority: Economically Significant. Major under 5 U.S.C. 801.

Legal Authority: 49 U.S.C. 114; Pub. L. 110-53, secs 1408, 1517, and 1534.

CFR Citation: 49 CFR 1520; 49 CFR 1570; 49 CFR 1580; 49 CFR 1582 (new); 49 CFR 1584 (new).

Legal Deadline: Final, Statutory, November 1, 2007, Interim Rule for public transportation agencies is due 90 days after date of enactment.

Final, Statutory, August 3, 2008, Rule for public transportation agencies is due 1 year after date of enactment.

Final, Statutory, February 3, 2008, Rule for railroads and over-the-road buses are due 6 months after date of enactment.

According to section 1408 of Public Law 110-53, Implementing Recommendations of the 9/11 Commission Act of 2007 (Aug. 3, 2007; 121 Stat. 266), interim final regulations for public transportation agencies are due 90 days after the date of enactment (Nov. 1, 2007), and final regulations are due 1 year after the date of enactment of this Act. According to section 1517 of the same Act, final regulations for railroads and over-the-road buses are due no later than 6 months after the date of enactment.

Abstract: The Transportation Security Administration (TSA) intends to propose a new regulation to address the security of freight railroads, public transportation, passenger railroads, and over-the-road buses in accordance with the Implementing Recommendations of the 9/11 Commission Act of 2007 (9/11 Act). As required by the 9/11 Act, the rulemaking will propose that certain railroads, public transportation agencies, and over-the-road bus companies provide security training to their frontline employees in the areas of security awareness, operational security, and incident prevention and response. The rulemaking will also propose extending security coordinator and reporting security incident requirements applicable to rail operators under current 49 CFR part 1580 to the non-rail transportation components of covered public transportation agencies and over-the-road buses. The regulation will take into consideration any current security training requirements or best practices and will propose definitions for transportation of security-sensitive materials, as required by the 9/11 Act.

Statement of Need: Employee training is an important and effective tool for averting or mitigating potential terrorist attacks by terrorists or others with malicious intent who may target surface transportation and plan or perpetrate actions that may cause significant injuries, loss of life, or economic disruption.

Summary of Legal Basis:, 49 U.S.C. 114; sections 1408, 1517, and 1534 of Public Law 110-53, Implementing Recommendations of the 9/11 Commission Act of 2007 (Aug. 3, 2007; 121 Stat. 266).

Alternatives:, TSA is required by statute to publish regulations requiring security training programs for these owner/operators. As part of its notice of proposed rulemaking, TSA will seek public comment on the alternative ways in which the final rule could carry out the requirements of the statute.

Anticipated Cost and Benefits:, TSA is in the process of determining the costs and benefits of this rulemaking.

Risks:, The Department of Homeland Security aims to prevent terrorist attacks within the United States and to reduce the vulnerability of the United States to terrorism. By providing for security training for personnel, TSA intends in this rulemaking to reduce the risk of a terrorist attack on this transportation sector.

Timetable:

Action | Date | FR Cite
NPRM | 10/00/15

Regulatory Flexibility Analysis Required: Yes.

Small Entities Affected: Businesses.

Government Levels Affected: Local.

URL For Public Comments: www.regulations.gov.

Agency Contact: Chandru (Jack) Kalro, Deputy Director, Surface Division, Department of Homeland Security, Transportation Security Administration, Office of Security Policy and Industry Engagement, 601 South 12th Street, Arlington, VA 20598-6028, Phone: 571 227-1145, Fax: 571 227-2935, Email: jack.kalro@tsa.dhs.gov.

Monica Grasso Ph.D., Manager, Economic Analysis Branch-Cross Modal Division, Department of Homeland Security, Transportation Security Administration, Office of Security Policy and Industry Engagement, 601 South 12th Street, Arlington, VA 20598-6028, Phone: 571 227-3329, Email: monica.grasso@tsa.dhs.gov.

David Kasminoff, Senior Counsel, Regulations and Security Standards Division, Department of Homeland Security, Transportation Security Administration, Office of the Chief Counsel, 601 South 12th Street, Arlington, VA 20598-6002, Phone: 571 227-3583, Fax: 571 227-1378, Email: david.kasminoff@tsa.dhs.gov.

Related RIN:, Related to 1652-AA56, Merged with 1652-AA57, Merged with 1652-AA59

RIN: 1652-AA55

DHS—TSA

87. Standardized Vetting, Adjudication, and Redress Services

Priority: Economically Significant. Major under 5 U.S.C. 801.

Unfunded Mandates: Undetermined.

Legal Authority: 49 U.S.C. 114, 5103A, 44903 and 44936; 46 U.S.C. 70105; 6 U.S.C. 469; Pub. L. 110-53, secs 1411, 1414, 1520, 1522 and 1602.

CFR Citation: Not Yet Determined.

Legal Deadline: None.

Abstract: The Transportation Security Administration (TSA) intends to propose new regulations to revise and standardize the procedures, adjudication criteria, and fees for most of the security threat assessments (STA) of individuals for which TSA is responsible. The scope of the rulemaking will include transportation workers who are required to undergo an STA, including surface, maritime, and aviation workers. TSA will propose fees to cover the cost of all STAs. TSA plans to improve efficiencies in processing STAs and streamline existing regulations by simplifying language and removing redundancies. As part of this proposed interim final rule (IFR), TSA will propose revisions to the Alien Flight Student Program (AFSP) regulations. TSA published an interim final rule for AFSP on September 20, 2004. TSA regulations require aliens seeking to train at Federal Aviation Administration-regulated flight schools to complete an application and undergo an STA prior to beginning flight training. There are four categories under which students currently fall; the nature of the STA depends on the student's category. TSA is considering changes to the AFSP that would improve the equity among fee payers and enable the implementation of new technologies to support vetting.

Statement of Need: TSA proposes to meet the requirements of 6 U.S.C. 469, which requires TSA to fund security threat assessment and credentialing activities through user fees. The proposed rulemaking should reduce reliance on appropriations for certain vetting services; minimize redundant background checks; and increase transportation security by enhancing identification and immigration verification standards.

Summary of Legal Basis: 49 U.S.C. 114(f): Under the Aviation and Transportation Security Act (ATSA) (Pub. L. 170-71, Nov. 19, 2001, 115 Stat. 597), TSA assumed responsibility to assess security in all modes of transportation and minimize threats to national and transportation security. TSA is required to vet certain aviation workers pursuant to 49 U.S.C. 44903 and 44936. TSA is required to vet individuals with unescorted access to maritime facilities pursuant to the Maritime Transportation Security Act (MTSA) (Pub. L. 107-295, sec. 102, Nov. 25, 2002, 116 Stat. 2064), codified at 46 U.S.C. 70105. Pursuant to the Uniting and Strengthening America by Providing Appropriate Tools Required to Intercept and Obstruct Terrorism Act (USA PATRIOT Act) (Pub. L. 107-56, Oct. 25, 2001, 115 Stat. 272), TSA vets individuals seeking hazardous materials endorsements (HME) for commercial drivers licensed by the States. In 6 U.S.C. 469, Congress directed TSA to fund vetting and credentialing programs in the field of transportation through user fees.

Alternatives: TSA considered a number of viable alternatives to the proposed regulation. These alternatives are discussed in detail in the proposed rule and regulatory impact analysis.

Anticipated Cost and Benefits: TSA is in the process determining the costs and benefits of this proposed rulemaking.

Risks:

Timetable:

Action | Date | FR Cite
NPRM | 08/00/15

Regulatory Flexibility Analysis Required: Yes.

Small Entities Affected: Businesses.

Government Levels Affected: Undetermined.

Federalism: Undetermined.

Additional Information: Includes Retrospective Review under Executive Order 13563.

URL for More Information: www.regulations.gov.

URL for Public Comments: www.regulations.gov.

Agency Contact: Chang Ellison, Branch Manager, Program Initiatives Branch, Department of Homeland Security, Transportation Security Administration, Office of Intelligence and Analysis, TSA-10, HQ E6, 601 South 12th Street, Arlington, VA 20598-6010, Phone: 571 227-3604, Email: chang.ellison@tsa.dhs.gov.

Monica Grasso Ph.D., Manager, Economic Analysis Branch-Cross Modal Division, Department of Homeland Security, Transportation Security Administration, Office of Security Policy and Industry Engagement, 601 South 12th Street, Arlington, VA 20598-6028, Phone: 571 227-3329, Email: monica.grasso@tsa.dhs.gov.

John Vergelli, Senior Counsel, Regulations and Security Standards Division, Department of Homeland Security, Transportation Security Administration, Office of the Chief Counsel, 601 South 12th Street, Arlington, VA 20598-6002, Phone: 571 227-4416, Fax: 571 227-1378, Email: john.vergelli@tsa.dhs.gov.

Related RIN: Related to 1652-AA35

RIN: 1652-AA61

DHS—TSA

Final Rule Stage

88. Passenger Screening Using Advanced Imaging Technology

Priority: Economically Significant. Major under 5 U.S.C. 801.

Legal Authority: 49 U.S.C. 44925.

CFR Citation: 49 CFR 1540.107.

Legal Deadline: None.

Abstract: The Transportation Security Administration (TSA) intends to issue a final rule to address whether screening and inspection of an individual, conducted to control access to the sterile area of an airport or to an aircraft, may include the use of advanced imaging technology (AIT). The notice of proposed rulemaking (NPRM) was published on March 26, 2012, to comply with the decision rendered by the U.S. Court of Appeals for the District of Columbia Circuit in Electronic Privacy Information Center (EPIC) v. U.S. Department of Homeland Security on July 15, 2011. 653 F.3d 1 (D.C. Cir. 2011). The Court directed TSA to conduct notice and comment rulemaking on the use of AIT in the primary screening of passengers.

Statement of Need: TSA is issuing this rulemaking to respond to the decision of the U.S. Court of Appeals for the District of Columbia Circuit in EPIC v. DHS 653 F.3d 1 (D.C. Cir. 2011).

Summary of Legal Basis: In its decision in EPIC v. DHS 653 F.3d 1 (D.C. Cir. 2011), the Court of Appeals for the District of Columbia Circuit found that TSA failed to justify its failure to conduct notice and comment rulemaking and remanded to TSA for further proceedings.

Alternatives: As alternatives to the preferred regulatory proposal presented in the NPRM, TSA examined three other options. These alternatives include a continuation of the screening environment prior to 2008 (no action), increased use of physical pat-down searches that supplements primary screening with walk through metal detectors (WTMDs), and increased use of explosive trace detection (ETD) screening that supplements primary screening with WTMDs. These alternatives, and the reasons why TSA rejected them in favor of the proposed rule, are discussed in detail in chapter 3 of the AIT NPRM regulatory evaluation.

Anticipated Cost and Benefits: TSA reports that the net cost of AIT deployment from 2008-2011 has been $841.2 million (undiscounted) and that TSA has borne over 99 percent of all costs related to AIT deployment. TSA projects that from 2012-2015 net AIT related costs will be approximately $1.5 billion (undiscounted), $1.4 billion at a three percent discount rate, and $1.3 billion at a seven percent discount rate. During 2012-2015, TSA estimates it will also incur over 98 percent of AIT-related costs with equipment and personnel costs being the largest categories of expenditures. The operations described in this rule produce benefits by reducing security risks through the deployment of AIT that is capable of detecting both metallic and non-metallic weapons and explosives. Terrorists continue to test security measures in an attempt to find and exploit vulnerabilities. The threat to aviation security has evolved to include the use of non-metallic explosives. AIT is a proven technology based on laboratory testing and field experience and is an essential component of TSA's security screening because it provides the best opportunity to detect metallic and nonmetallic anomalies concealed under clothing. More information about costs and benefits can be found in the Notice of Proposed Rulemaking.

Risks: DHS aims to prevent terrorist attacks and to reduce the vulnerability of the United States to terrorism. By screening passengers with AIT, TSA will reduce the risk that a terrorist will smuggle a non-metallic threat on board an aircraft.

Timetable:

Action | Date | FR Cite
NPRM | 03/26/13 | 78 FR 18287
NPRM Comment Period End | 06/24/13 |
Final Rule | 07/00/15 |

Regulatory Flexibility Analysis Required: No.

Small Entities Affected: No.

Government Levels Affected: None.

URL for Public Comments: www.regulations.gov.

Agency Contact: Chawanna Carrington, Project Manager, Passenger Screening Program, Department of Homeland Security, Transportation Security Administration, Office of Security Capabilities, 601 South 12th Street, Arlington, VA 20598-6016, Phone: 571 227-2958, Fax: 571 227-1931, Email: chawanna.carrington@tsa.dhs.gov.

Monica Grasso Ph.D., Manager, Economic Analysis Branch-Cross Modal Division, Department of Homeland Security, Transportation Security Administration, Office of Security Policy and Industry Engagement, 601 South 12th Street, Arlington, VA 20598-6028, Phone: 571 227-3329, Email: monica.grasso@tsa.dhs.gov.

Linda L. Kent, Asst. Chief Counsel for Regulations and Security Standards, Department of Homeland Security, Transportation Security Administration, Office of the Chief Counsel, 601 South 12th Street, Arlington, VA 20598-6002, Phone: 571 227-2675, Fax: 571 227-1381, Email: linda.kent@tsa.dhs.gov.

RIN: 1652-AA67

DHS—U.S. IMMIGRATION AND CUSTOMS ENFORCEMENT (USICE)

Final Rule Stage

89. Adjustments to Limitations on Designated School Official Assignment and Study by F-2 and M-2 Nonimmigrants

Priority: Other Significant.

Legal Authority: 8 U.S.C. 1101 to 1103; 8 U.S.C. 1182; 8 U.S.C. 1184

CFR Citation: 8 CFR 214.2(f)(15); 8 CFR 214.3(a); 8 CFR 214.

Legal Deadline: None.

Abstract: This final rule will revise 8 CFR parts 214.2 and 214.3. As proposed, it would provide additional flexibility to schools in determining the number of designated school officials (DSOs) to nominate for the oversight of the school's campuses where F-1 and M-1 nonimmigrant students are enrolled. Current regulation limits the number of DSOs to 10 per school, or 10 per campus in a multi-campus school. Second, as proposed, the rule would permit F-2 and M-2 spouses and children accompanying academic and vocational nonimmigrant students with F-1 or M-1 nonimmigrant status to enroll in study at an SEVP-certified school so long as any study remains less than a full course of study.

Statement of Need: The rule would improve management of international student programs and increase opportunities for study by spouses and children of nonimmigrant students. The rule would grant school officials more flexibility in determining the number of designated school officials (DSOs) to nominate for the oversight of campuses. The rule would also provide greater incentive for international students to study in the United States by permitting accompanying spouses and children of academic and vocational nonimmigrant students with F-1 or M-1 nonimmigrant status to enroll in less than a full course of study at an SEVP-certified school.

Summary of Legal Basis:

Alternatives:

Anticipated Cost and Benefits: The anticipated costs of the rule derive from the existing requirement for reporting to DHS additional DSOs and any training that new DSOs would undertake. The primary benefits of the NPRM are providing flexibility to schools in the number of DSOs allowed and providing greater incentive for international students to study in the United States by permitting accompanying spouses and children of academic and vocational nonimmigrant students in F-1 or M-1 status to enroll in study at an SEVP-certified school so long as they are not engaged in a full course of study.

Risks:

Timetable:

Action | Date | FR Cite
NPRM | 11/21/13 | 78 FR 69778
NPRM Comment Period End | 01/21/14 |
Final Rule | 02/00/15 |

Regulatory Flexibility Analysis Required: No.

Government Levels Affected: None.

International Impacts: This regulatory action will be likely to have international trade and investment effects, or otherwise be of international interest.

URL for More Information: www.regulations.gov.

URL for Public Comments: www.regulations.gov.

Agency Contact: Katherine H. Westerlund, Acting Unit Chief, SEVP Policy, Student and Exchange Visitor Program, Department of Homeland Security, U.S. Immigration and Customs Enforcement, Potomac Center North, 500 12th Street, SW., STOP 5600, Washington, DC 20536-5600, Phone: 703 603-3414, Email: katherine.h.westerlund@ice.dhs.gov.

Related RIN: Previously reported as 1615-AA19

RIN: 1653-AA63

BILLING CODE 9110-9B-P

DEPARTMENT OF HOUSING AND URBAN DEVELOPMENT

Statement of Regulatory Priorities

The Regulatory Plan for the Department of Housing and Urban Development (HUD) for Fiscal Year (FY) 2015, together with HUD's Fall Semiannual Agenda of Regulations, highlights the most significant regulatory initiatives that HUD seeks to complete during the upcoming fiscal year. As described by Secretary Castro during his confirmation hearings, HUD is a critical federal agency because it directly impacts American families, from enforcing fair housing rights to revitalizing distressed areas, from assisting veterans and finding permanent housing, to helping communities rebuild after a natural disaster hits, HUD impacts small towns, big cities, rural communities and tribal communities across the country.¹ Through its programs, HUD works to strengthen the housing market and protect consumers; meet the need for quality affordable rental homes; utilize housing as a platform for improving quality of life; and build inclusive and sustainable communities free from discrimination.

¹ Senate Banking, Housing and Urban Affairs Committee Confirmation Hearing on the Nomination of Julian Castro to be Housing and Urban Development Secretary and Laura S. Wertheimer to be the Federal Housing Finance Agency Inspector General, 113th Cong. (June 17, 2014) (Statement of Julián Castro).

As discussed in HUD's 2010-2015, Strategic Plan, a central feature of HUD's mission is nurturing opportunities for job growth and business expansion in American communities, particularly those that are economically distressed. HUD's experience is that job growth and business expansion are essential to creating viable communities that provide residents opportunities that enhance their quality of life. Economic development, however, must be tailored to the assets and needs of the community in a way that maintains and enhances affordability and local character. HUD utilizes several tools to achieve this goal, including the providing tax incentives and Federal financial assistance that assist communities to carry out a wide range of community development activities directed toward neighborhood revitalization, economic development, and improved community facilities and services. Another tool that HUD has to support job growth and economic activity is Section 3 of the Housing and Urban Development Act of 1968, as amended, which ensures that employment and other economic opportunities generated by Federal financial assistance for housing and community development programs are, to the greatest extent feasible, directed toward low- and very low-income persons, particularly those who are recipients of government assistance for housing.

Consistent with its 2010-2015 Strategic Plan, HUD's Regulatory Plan for FY2015 focuses on strengthening, through regulation, Section 3 to update and better align it with the statutory changes to HUD's housing and community development programs since HUD issued the regulation in 1994. This effort will also provide recipients of HUD financial assistance more discretion when carrying out their Section 3 responsibilities while simultaneously increasing their accountability to HUD and the communities that they serve.

Priority: Enhancing Economic Development and Job Creation Through Section 3

The purpose of Section 3 is to ensure that the employment and other economic opportunities generated by Federal financial assistance, to the greatest extent feasible, be directed to low-and very low-income persons, particularly those who are recipients of government assistance for housing. In this regard, the statute recognizes that the employment and other economic opportunities generated by projects and activities that receive Federal housing and community development assistance offer an effective means of empowering low- and very low-income persons and to business concerns that provide economic opportunities to these persons. Notwithstanding, HUD's Section 3 regulations have not been updated since 1994. In the 20 years that have passed since HUD promulgated its Section 3 regulations, significant legislation has been enacted that affects HUD programs that are subject Section 3. These legislative changes are not adequately addressed by HUD's current Section 3 regulations.

In addition, recipients of Section 3 covered HUD financial assistance, community advocates, representatives from national housing organizations, Section 3 residents and businesses, and other interested parties have expressed, in HUD's organized listening sessions, that the existing regulations are not sufficiently explicit about specific actions that could be undertaken to achieve compliance; that the existing regulations do not clearly describe the extent to which recipients may require subrecipients, contractors, and subcontractors to comply with Section 3; and actions that recipients may take to impose meaningful sanctions for noncompliance by their subrecipients, contractors, and subcontractors. Finally, HUD's Office of Inspector General (OIG) conducted an audit in 2013 to assess HUD's oversight of Section 3 in response to concerns about economic opportunities that were provided (or should have been provided) as a result of the expenditure of financial assistance under the American Reinvestment and Recovery Act (Recovery Act) (Public Law 111-5, approved February 17, 2009).

As a result, HUD proposes to update and clarify its Section 3 regulations to better fulfill the purpose of Section 3 and maximize the employment and contracting opportunities available to the low and very low-income residents of communities enjoying the benefit of Federal financial assistance in support of economic development and to business concerns that provide economic opportunities to these persons.

Regulatory Action: Creating Economic Opportunities for Low- and Very Low-Income Persons and Eligible Businesses Through Strengthened “Section 3” Requirements

Section 3 of the Housing and Urban Development Act of 1968, as amended by the Housing and Community Development Act of 1992, contributes to the establishment of stronger, more sustainable communities by ensuring that employment and other economic opportunities generated by Federal financial assistance for housing and community development programs are, to the greatest extent feasible, directed toward low- and very low-income persons, particularly those who are recipients of government assistance for housing and to business concerns that provide economic opportunities to these persons. HUD is statutorily charged with the authority and responsibility to implement and enforce Section 3. HUD's regulations implementing the requirements of Section 3 have not been updated since 1994. This proposed rule would update HUD's Section 3 regulations to address new programs established since 1994 that are subject to the Section 3 requirements, and revise the regulations to both better promote compliance with the requirements of Section 3 by recipients of Section 3 covered financial assistance, while also recognizing barriers to compliance that may exist, and overall strengthening HUD's oversight of Section 3.

Aggregate Costs and Benefits

Executive Order 12866, as amended, requires the agency to provide its best estimate of the combined aggregate costs and benefits of all regulations included in the agency's Regulatory Plan that will be made effective in calendar year 2015. HUD expects that the neither the total economic costs nor the total efficiency gains will exceed $100 million.

Priority Regulations in HUD's FY 2015 Regulatory Plan

HUD—OFFICE OF THE SECRETARY

Proposed Rule Stage

Creating Economic Opportunities for Low- and Very Low-Income Persons and Eligible Businesses Through Strengthened “Section 3” Requirements

Priority: Significant.

Legal Authority: 12 U.S.C. 1701u; 42 U.S.C. 1450; 42 U.S.C. 3301; 42 U.S.C. 3535(d).

CFR Citation: 24 CFR 135.

Legal Deadline: None.

Abstract: This proposed rule would revise HUD's regulations found at 24 CFR part 135, which ensure that employment, training, and contracting opportunities generated by certain HUD financial assistance shall, to the greatest extent feasible, and consistent with existing Federal, State, and local laws and regulations, be directed to low- and very low-income persons, particularly those who are recipients of Government assistance for housing and to business concerns that provide economic opportunities to these persons. Part 135 was last revised to incorporate the statutory amendments of the Housing and Community Development Act of 1992. This proposed rule would update part 135 to: (1) Reflect certain changes in the design and implementation of HUD programs that are subject to the section 3 regulations; (2) clarify the obligations of covered recipient agencies; and (3) simplify the Department's section 3 complaint processing procedures.

Statement of Need: Section 3 requirements have been governed by an interim regulation since 1994 and the Department is obligated to promulgate final regulations. Equally important, HUD programs subject to Section 3 have undergone significant legislative change. This includes, reforms made to HUD's Indian housing programs by the Native American Housing Assistance and Self-Determination Act of 1996 (NAHASDA) (Public Law 104-330, approved October 26, 1996); public housing reforms made by the Quality Housing and Work Responsibility Act of 1998 (QHWRA) (Public Law 105-276, approved by October 21, 1998); reforms made to HUD's supportive housing programs by the Section 202 Supportive Housing for the Elderly Act of 2010 (Public Law 111-372, approved January 4, 2011), and the Frank Melville Supportive Housing Investment Act of 2010 (Public Law 111-347, approved January 4, 2011); and more recently reforms made to HUD's public housing by the Rental Assistance Demonstration program authorized by the act appropriating 2012 funding for HUD, the Consolidated and Further Continuing Appropriations Act, 2012 (Public Law 112-55, approved November 18, 2011). HUD proposes to clarify and strengthen its Section 3 regulations to incorporate new programs established since 1994 that are subject to Section 3 requirements, revise the existing regulation to enhance compliance by recipients of covered HUD assistance, and mitigate barriers to achieving compliance.

In August 2010, HUD hosted a Section 3 Listening Forum ² that brought together recipients of Section 3 covered HUD financial assistance, community advocates, representatives from national housing organizations, Section 3 residents and businesses, and other interested parties to highlight best practices and to discuss barriers to implementation across the country. The forum offered recipients of Section 3 covered financial assistance the opportunity to identify challenges they were facing in complying with Section 3. Participants stated that the existing regulations are not sufficiently explicit about specific actions that could be undertaken to achieve compliance; that the existing regulations do not clearly describe the extent to which recipients may require subrecipients, contractors, and subcontractors to comply with Section 3; and actions that recipients may take to impose meaningful sanctions for noncompliance by their subrecipients, contractors, and subcontractors.

² https://nhlp.org/files/09%20Section%203%20Barriers%20and%20best%20practices%208%2024%2010%20Final%20with%20attachment.pdf

In addition, HUD's Office of Inspector General (OIG) conducted an audit in 2013 to assess HUD's oversight of Section 3 in response to concerns about economic opportunities that were provided (or should have been provided) as a result of the expenditure of financial assistance under the American Reinvestment and Recovery Act (Recovery Act) (Public Law 111-5, approved February 17, 2009). HUD's OIG concluded that HUD did not enforce the reporting requirements of Section 3 for recipients of FY 2009 Recovery Act Public Housing Capital funds from HUD.³ HUD's OIG made several recommendations to address its findings including developing procedures to take administrative measures against recipients that fail to comply with Section 3 requirements and publishing a Section 3 final rule.

³ See: http://www.hudoig.gov/reports-publications/audit-reports/hud-did-not-enforce-reporting-requirements-of-section-3-of.

Alternatives: Efforts have been made to improve HUD's Section 3 efforts independent of regulatory change, by increased reporting compliance, use of Notices of Financial Assistance (NOFA) competitions for Section 3 coordinators, and a business registry. These initiatives have been helpful, but as HUD's Office of Inspector General ⁴ noted, regulatory change is important and necessary to clarify areas of confusion without subjecting recipients who operated in good faith to legal problems.

⁴ http://www.hudoig.gov/reports-publications/audit-reports/hud-did-not-enforce-reporting-requirements-of-section-3-of

Anticipated Costs and Benefits: The proposed rule will enhance employment opportunities for Section 3 residents and contracting opportunities for Section 3 businesses. In doing so, the proposed rule imposes additional recordkeeping, verification, procurement, monitoring, and complaint processing requirements on covered recipients. Additional administrative work will be one of the outcomes of an invigorated effort to provide economic opportunities to the greatest extent feasible. HUD has estimated that total reporting and record keeping burden would be $6.5 million the first year the rule goes into effect and $2.2 million annually in succeeding years.

Section 3 does not create additional jobs. Instead, a more rigorous targeting of economic opportunity will direct (transfer) positions and contracts to those eligible under Section 3. A reasonable estimate of the impact would be protection for an additional 1,400 Section 3 jobs annually from increased oversight and clarification of program standards. Finally, as tenant incomes rise, the federal rental subsidy for those tenants would decline. Such an effect would constitute a transfer from tenants to the U.S. government and could be as large as $19 million annually.

This rule will not have any impact on the level of funding for the impacted programs. Funding is determined independently by congressional appropriations. It will, however, affect the allocation of resources.

Risks: This rule poses no risk to public health, safety, or the environment.

Timetable:

Action | Date | FR CITE
NPRM | 12/00/2014 |

Regulatory Flexibility Analysis Required: No.

Small Entities Affected: No.

Government Levels Affected: None.

# Federalism Affected: No.

# Energy Affected: No.

International Impacts: No.

Agency Contact:Agency Contact: Sara K. Pratt, Deputy Assistant Secretary for Enforcement and Programs, Department of Housing and Urban Development, 451 7th Street SW., Washington, DC 20410, Phone: 202 402-6978.

RIN: 2529-AA91

HUD—Office of Fair Housing and Equal Opportunity (FHEO)

Proposed Rule Stage

90. Economic Opportunities for Low- and Very Low-Income Persons (FR-4893)

Priority: Other Significant.

Legal Authority: 12 U.S.C. 1701u; 42 U.S.C. 1450; 42 U.S.C. 3301; 42 U.S.C. 3535(d)

CFR Citation: 24 CFR 135.

Legal Deadline: None.

Abstract: This proposed rule would revise HUD's regulations found at 24 CFR part 135, which ensure that employment, training, and contracting opportunities generated by certain HUD financial assistance shall, to the greatest extent feasible, and consistent with existing Federal, State, and local laws and regulations, be directed to low- and very low-income persons, particularly those who are recipients of Government assistance for housing and to business concerns that provide economic opportunities to these persons. Part 135 was last revised to incorporate the statutory amendments of the Housing and Community Development Act of 1992. This proposed rule would update part 135 to: (1) Reflect certain changes in the design and implementation of HUD programs that are subject to the section 3 regulations; (2) clarify the obligations of covered recipient agencies; and (3) simplify the Department's section 3 complaint processing procedures.

Statement of Need: Section 3 requirements have been governed by an interim regulation since 1994 and the Department is obligated to promulgate final regulations. Equally important, HUD programs subject to Section 3 have undergone significant legislative change. This includes, reforms made to HUD's Indian housing programs by the Native American Housing Assistance and Self-Determination Act of 1996 (NAHASDA) (Public Law 104-330, approved October 26, 1996); public housing reforms made by the Quality Housing and Work Responsibility Act of 1998 (QHWRA) (Public Law 105-276, approved by October 21, 1998); reforms made to HUD's supportive housing programs by the Section 202 Supportive Housing for the Elderly Act of 2010 (Public Law 111-372, approved January 4, 2011), and the Frank Melville Supportive Housing Investment Act of 2010 (Public Law 111-347, approved January 4, 2011); and more recently reforms made to HUD's public housing by the Rental Assistance Demonstration program authorized by the act appropriating 2012 funding for HUD, the Consolidated and Further Continuing Appropriations Act, 2012 (Public Law 112-55, approved November 18, 2011). HUD proposes to clarify and strengthen its Section 3 regulations to incorporate new programs established since 1994 that are subject to Section 3 requirements, revise the existing regulation to enhance compliance by recipients of covered HUD assistance, and mitigate barriers to achieving compliance.

In August 2010, HUD hosted a Section 3 Listening Forum ⁵ that brought together recipients of Section 3 covered HUD financial assistance, community advocates, representatives from national housing organizations, Section 3 residents and businesses, and other interested parties to highlight best practices and to discuss barriers to implementation across the country. The forum offered recipients of Section 3 covered financial assistance the opportunity to identify challenges they were facing in complying with Section 3. Participants stated that the existing regulations are not sufficiently explicit about specific actions that could be undertaken to achieve compliance; that the existing regulations do not clearly describe the extent to which recipients may require subrecipients, contractors, and subcontractors to comply with Section 3; and actions that recipients may take to impose meaningful sanctions for noncompliance by their subrecipients, contractors, and subcontractors.

⁵ https://nhlp.org/files/09%20Section%203%20Barriers%20and%20best%20practices%208%2024%2010%20Final%20with%20attachment.pdf.

In addition, HUD's Office of Inspector General (OIG) conducted an audit in 2013 to assess HUD's oversight of Section 3 in response to concerns about economic opportunities that were provided (or should have been provided) as a result of the expenditure of financial assistance under the American Reinvestment and Recovery Act (Recovery Act) (Public Law 111-5, approved February 17, 2009). HUD's OIG concluded that HUD did not enforce the reporting requirements of Section 3 for recipients of FY 2009 Recovery Act Public Housing Capital funds from HUD ⁶. HUD's OIG made several recommendations to address its findings including developing procedures to take administrative measures against recipients that fail to comply with Section 3 requirements and publishing a Section 3 final rule.

⁶ See: http://www.hudoig.gov/reports-publications/audit-reports/hud-did-not-enforce-reporting-requirements-of-section-3-of.

Summary of Legal Basis: Section 3 was enacted as a part of the Housing and Urban Development Act of 1968 (Public Law 90-448, approved August 1, 1968) to bring economic opportunities, generated by the expenditure of certain HUD financial assistance, to the greatest extent feasible, to low- and very low-income persons residing in communities where the financial assistance is expended. Section 3 recognizes that HUD funds are often one of the largest sources of funds expended in low-income communities and, where such funds are spent on activities such as construction and rehabilitation of housing and other public facilities, the expenditure results in new jobs and other opportunities. By directing new economic opportunities to residents and businesses in the community in which the funds are expended, the expenditure can have the double benefit of creating new or rehabilitated housing or other facilities in such communities while also creating jobs for the residents of these communities. Section 3 was amended by the Housing and Community Development Act of 1992 (Public Law 102-550, approved October 28, 1992), which required the Secretary of HUD to promulgate regulations to implement Section 3, codified at 12 U.S.C. 1701u. HUD's Section 3 regulations were promulgated through an interim rule published on June 30, 1994, at 59 FR 33880, and are codified in 24 CFR part 135. This proposed rule would update HUD's Section 3 regulations to address new programs established since 1994 that are subject to the Section 3 requirements, and revise the regulations to both better promote compliance with the requirements of Section 3 by recipients of Section 3 covered financial assistance, while also recognizing barriers to compliance that may exist, and overall strengthening HUD's oversight of Section 3.

Alternatives: Efforts have been made to improve HUD's Section 3 efforts independent of regulatory change, by increased reporting compliance, use of Notices of Financial Assistance (NOFA) competitions for Section 3 coordinators, and a business registry. These initiatives have been helpful, but as HUD's Office of Inspector General ⁷ noted, regulatory change is important and necessary to clarify areas of confusion without subjecting recipients who operated in good faith to legal problems.

⁷ http://www.hudoig.gov/reports-publications/audit-reports/hud-did-not-enforce-reporting-requirements-of-section-3-of.

Anticipated Cost and Benefits: The proposed rule will enhance employment opportunities for Section 3 residents and contracting opportunities for Section 3 businesses. In doing so, the proposed rule imposes additional recordkeeping, verification, procurement, monitoring, and complaint processing requirements on covered recipients. Additional administrative work will be one of the outcomes of an invigorated effort to provide economic opportunities to the greatest extent feasible. HUD has estimated that total reporting and record keeping burden would be $6.5 million the first year the rule goes into effect and $2.2 million annually in succeeding years.

Section 3 does not create additional jobs. Instead, a more rigorous targeting of economic opportunity will direct (transfer) positions and contracts to those eligible under Section 3. A reasonable estimate of the impact would be protections for an additional 1,400 Section 3 jobs annually from increased oversight and clarification of program standards. Finally, as tenant incomes rise, the federal rental subsidy for those tenants would decline. Such an effect would constitute a transfer from tenants to the U.S. government and could be as large as $19 million annually.

This rule will not have any impact on the level of funding for the impacted programs. Funding is determined independently by congressional appropriations. It will, however, affect the allocation of resources.

Risks: This rule poses no risk to public health, safety, or the environment.

Timetable:

Action | Date | FR Cite
NPRM | 12/00/14

Regulatory Flexibility Analysis Required: No.

Small Entities Affected: No.

Government Levels Affected: None.

Agency Contact: Sara K. Pratt, Deputy Assistant Secretary for Enforcement and Programs, Department of Housing and Urban Development, 451 7th Street SW., Washington, DC 20410, Phone: 202 402-6978.

RIN: 2529-AA91

BILLING CODE 4210-67-P

DEPARTMENT OF THE INTERIOR (DOI)

Statement of Regulatory Priorities

The Department of the Interior (DOI) is the principal Federal steward of our Nation's public lands and resources, including many of our cultural treasures. DOI serves as trustee to Native Americans and Alaska native trust assets and is responsible for relations with the island territories under United States jurisdiction. The Department manages more than 500 million acres of Federal lands, including 401 park units, 560 wildlife refuges, and approximately 1.7 billion submerged offshore acres. These areas include natural resources that are essential for America's industry—oil and gas, coal, and minerals such as gold and uranium. On public lands and the Outer Continental Shelf, Interior provides access for renewable and conventional energy development and manages the protection and restoration of surface-mined lands.

The Department protects and recovers endangered species; protects natural, historic, and cultural resources; manages water projects that are a lifeline and economic engine for many communities in the West; manages forests and fights wildfires; manages Federal energy resources; regulates surface coal mining operations; reclaims abandoned coal mines; educates children in Indian schools; and provides recreational opportunities for over 400 million visitors annually in the Nation's national parks, public lands, national wildlife refuges, and recreation areas.

DOI will continue to review and update its regulations and policies to ensure that they are effective and efficient, and that they promote accountability and sustainability. DOI will emphasize regulations and policies that:

• Promote environmentally responsible, safe, and balanced development of renewable and conventional energy on our public lands and the Outer Continental Shelf (OCS);

• Use the best available science to ensure that public resources are protected, conserved, and used wisely;

• Preserve America's natural treasures for future generations;

• Improve the nation-to-nation relationship with American Indian tribes and promote tribal self-determination and self-governance;

• Promote partnerships with States, tribes, local governments, other groups, and individuals to achieve common goals; and

• Promote transparency, fairness, accountability, and the highest ethical standards while maintaining performance goals.

Major Regulatory Areas

The Department's bureaus implement congressionally mandated programs through their regulations. Some of these regulatory programs include:

• Developing onshore and offshore energy, including renewable, mineral, oil and gas, and other energy resources;

• Regulating surface coal mining and reclamation operations on public and private lands;

• Managing migratory birds and preserving marine mammals and endangered species;

• Managing dedicated lands, such as national parks, wildlife refuges, National Landscape Conservation System lands, and American Indian trust lands;

• Managing public lands open to multiple use;

• Managing revenues from American Indian and Federal minerals;

• Fulfilling trust and other responsibilities pertaining to American Indians and Alaska Natives;

• Managing natural resource damage assessments; and

• Managing assistance programs.

Regulatory Policy

DOI's regulatory programs seek to operate programs transparently, efficiently, and cooperatively while maximizing protection of our land, resources, and environment in a fiscally responsible way by:

(1) Protecting Natural, Cultural, and Heritage Resources.

The Department's mission includes protecting and providing access to our Nation's natural and cultural heritage and honoring our trust responsibilities to tribes. We are committed to this mission and to applying laws and regulations fairly and effectively. Our priorities include protecting public health and safety, restoring and maintaining public lands, protecting threatened and endangered species, ameliorating land- and resource-management problems on public lands, and ensuring accountability and compliance with Federal laws and regulations.

(2) Sustainably Using Energy, Water, and Natural Resources.

Since the beginning of the Obama Administration, the Department has focused on renewable energy issues and has established priorities for environmentally responsible development of renewable energy on public lands and the OCS. Industry has responded by investing in the development of wind farms off the Atlantic seacoast and solar, wind, and geothermal energy facilities throughout the West. Power generation from these new energy sources produces virtually no greenhouse gases and, when done in an environmentally responsible manner, harnesses with minimum impact abundant renewable energy. The Department will continue its intra- and inter-departmental efforts to move forward with the environmentally responsible review and permitting of renewable energy projects on public lands, and will identify how its regulatory processes can be improved to facilitate the responsible development of these resources.

In implementing these priorities through its regulations, the Department will create jobs and contribute to a healthy economy while protecting our signature landscapes, natural resources, wildlife, and cultural resources.

(3) Empowering People and Communities.

The Department strongly encourages public participation in the regulatory process and will continue to actively engage the public in the implementation of priority initiatives. Throughout the Department, individual bureaus and offices are ensuring that the American people have an active role in managing our Nation's public lands and resources.

For example, every year FWS establishes migratory bird hunting seasons in partnership with flyway councils composed of State fish and wildlife agencies. FWS also holds a series of public meetings to give other interested parties, including hunters and other groups, opportunities to participate in establishing the upcoming season's regulations. Similarly, BLM uses Resource Advisory Councils to advise on management of public lands and resources. These citizen-based groups allow individuals from all backgrounds and interests to have a voice in management of public lands.

Retrospective Review of Regulations

President Obama's Executive Order 13563 directs agencies to make the regulatory system work better for the American public. Regulations should “. . . protect public health, welfare, safety, and our environment while promoting economic growth, innovation, competitiveness, and job creation.” DOI's plan for retrospective regulatory review identifies specific efforts to relieve regulatory burdens, add jobs to the economy, and make regulations work better for the American public while protecting our environment and resources. The DOI plan seeks to strengthen and maintain a culture of retrospective review by consolidating all regulatory review requirements into DOI's annual regulatory plan.

The Department routinely meets with stakeholders to solicit feedback and gather input on how to incorporate performance based standards. DOI has received helpful public input through this process and will continue to participate in this effort with relevant interagency partners as part of its retrospective regulatory review.

Under section 6 of Executive Order 13563 “Improving Regulation and Regulatory Review” (Jan. 18, 2011), the following Regulation Identifier Numbers (RINs) were identified as associated with retrospective review and analysis in the Department's final retrospective review of regulations plan, which can be viewed at http://www.doi.gov/open/regsreview.

Bureau | Title & RIN | Description | Reduces burdens on small business?
Office of Natural Resources Revenue | Oil and Gas Royalty Valuation 1012-AA13 | DOI is exploring a simplified market-based approach to arrive at the value of oil and gas for royalty purposes that could dramatically reduce accounting and paperwork requirements and costs on industry and better ensure proper royalty valuation by creating a more transparent royalty calculation method | Yes.
Fish and Wildlife Service | ESA Section 7 Consultation Process; Incidental Take Statements 1018-AX85 | Court decisions over the last decade have prompted us, along with the National Marine Fisheries Service (NOAA, Commerce), to consider clarifying our regulations concerning incidental take statements during section 7 consultation under the Endangered Species Act. A proposed rule published on September 4, 2013. The proposed changes address use of surrogates to express the limit of exempted take and how to determine when deferral of an incidental take exemption is appropriate. This is a joint rulemaking with NOAA | No.
Fish and Wildlife Service | Regulations Governing Designation of Critical Habitat Under Section 4 of the ESA 1018-AX86 | The proposed rule would revise requirements for designating critical habitat under the Endangered Species Act. The proposed revisions would make minor edits to the scope and purpose, add and remove some definitions, and clarify the criteria for designating critical habitat. A number of factors, including litigation and experience in interpreting and applying the statutory definition of critical habitat, have highlighted the need to clarify or revise the current regulations. This is a joint rulemaking with NOAA | No.
Fish and Wildlife Service | Policy Regarding Implementation of Section 4(b)(2) of the Endangered Species Act 1018-AX87 | This draft policy would explain how we consider partnerships and conservation plans; habitat conservation plans; and tribal, military, and Federal lands in the exclusion process. This draft policy is meant to complement our proposed regulatory amendments regarding exclusions from critical habitat and to clarify expectations regarding critical habitat. The policy would provide a credible, predictable, and simplified critical-habitat-exclusion process and foster clarity and consistency in designation of critical habitat. We will seek public review and comment on the proposed policy. This is a joint policy with NOAA | No.
Fish and Wildlife Service | ESA Section 7 Consultation Regulations; Definition of “Destruction or Adverse Modification” of Critical Habitat 1018-AX88 | The proposed rule would amend the existing regulations governing section 7 consultation under the Endangered Species Act to revise the definition of “destruction or adverse modification” of critical habitat. The current regulatory definition has been invalidated by the courts for being inconsistent with the language of the Endangered Species Act. The revised definition will provide the Services and Federal agencies with greater clarity in how to ensure that any action they authorize, fund, or carry out is not likely to result in the destruction or adverse modification of critical habitat, consistent with section 7(a)(2) of the ESA. This is a joint rulemaking with NOAA | No.
Bureau of Indian Affairs | Procedures for Establishing that an Indian Group Exists as an Indian Tribe 1076-AF18 | The Department is examining its regulations governing the process and criteria by which Indian groups are federally acknowledged as Indian tribes to determine how regulatory changes could increase transparency, timeliness, efficiency, and flexibility, while maintaining the integrity of the acknowledgment process | No.

DOI bureaus work to make our regulations easier to comply with and understand. Our regulatory process ensures that bureaus share ideas on how to reduce regulatory burdens while meeting the requirements of the laws they enforce and improving their stewardship of the environment and resources. Results include:

• Effective stewardship of our Nation's resources in a way that is responsive to the needs of small businesses;

• Increased benefits per dollar spent by careful evaluation of the economic effects of planned rules; and

• Improved compliance and transparency by use of plain language in our regulations and guidance documents.

Bureaus and Offices Within DOI

The following sections give an overview of some of the major regulatory priorities of DOI bureaus and offices.

Bureau of Indian Affairs

The Bureau of Indian Affairs (BIA) provides services to approximately 1.9 million Indians and Alaska Natives, and maintains a government-to-government relationship with the 566 federally recognized Indian tribes. The Bureau also administers and manages 55 million acres of surface land and 57 million acres of subsurface minerals held in trust by the United States for Indians and Indian tribes. BIA's mission is to enhance the quality of life, promote economic opportunity, and protect and improve the trust assets of American Indians, Indian tribes, and Alaska Natives, as well as to provide quality education opportunities to students in Indian schools.

In the coming year, BIA will continue its focus on improved management of trust responsibilities with each regulatory review and revision. The Bureau will also continue to promote economic development in Indian communities by ensuring the regulations support, rather than hinder, productive land management.

In addition, BIA will focus on updating Indian education regulations and on other regulatory changes to increase transparency in support of the President's Open Government Initiative.

In the coming year, BIA's regulatory priorities are to:

• Develop regulations to meet the Indian trust reform goals for rights-of-ways across Indian land.

• Develop regulatory changes necessary for improved Indian education.

BIA is reviewing regulations that require the Bureau of Indian Education to follow 23 different State adequate yearly progress standards; the review will determine whether a uniform standard would better meet the needs of students at Bureau-funded schools. With regard to undergraduate education, the Bureau of Indian Education is reviewing regulations that address grants to tribally controlled community colleges and other Indian education regulations. These reviews will identify provisions that need to be updated to comply with applicable statutes and ensure that the proper regulatory framework is in place to support students in Bureau-funded schools.

• Develop regulatory changes to reform the process for Federal acknowledgment of Indian tribes.

Over the years, BIA has received significant comments from American Indian groups and members of Congress on the Federal acknowledgment process. Most of these comments criticize the current process as cumbersome, overly restrictive, and lacking transparency. BIA is reviewing the Federal acknowledgment regulations to determine how regulatory changes may streamline the acknowledgment process and clarify criteria by which an Indian group is examined.

• Revise regulations to reflect updated statutory provisions and increase transparency.

BIA is making a concentrated effort to improve the readability and precision of its regulations. Because trust beneficiaries often turn to the regulations for guidance on how a given BIA process works, BIA is ensuring that each revised regulation is written as clearly as possible and accurately reflects the current organization of the Bureau. The Bureau is also simplifying language and eliminating obsolete provisions. In the coming year, the Bureau also plans to revise regulations regarding rights-of-way (25 CFR 169); Indian Reservation Roads (25 CFR 170); and certain regulations specific to the Osage Nation.

Bureau of Land Management

BLM manages the 245-million-acre National System of Public Lands, located primarily in the western States, including Alaska, and the 700-million-acre subsurface mineral estate located throughout the Nation. In doing so, BLM manages such varied uses as energy and mineral development, outdoor recreation, livestock grazing, and forestry and woodlands products. BLM's complex multiple-use mission affects the lives of millions of Americans, including those who live near and visit the public lands, as well as those who benefit from the commodities, such as minerals, energy, or timber, produced from the lands' rich resources. In undertaking its management responsibilities, BLM seeks to conserve our public lands' natural and cultural resources and sustain the health and productivity of the public lands for the use and enjoyment of present and future generations. In the coming year, BLM's highest regulatory priorities include:

• Revising outdated hydraulic fracturing regulations.

BLM's existing regulations applicable to hydraulic fracturing were promulgated over 20 years ago and do not reflect modern technology. In seeking to modernize its requirements and ensure the protection of our Nation's public lands, BLM will finalize a rule that will disclose to the public chemicals used in hydraulic fracturing on public land and Indian land, strengthen regulations related to well-bore integrity, and address issues related to recovered fluids.

• Creating a competitive process for offering lands for solar and wind energy development.

BLM recently published a proposed rule that would establish an efficient competitive process for leasing public lands for solar and wind energy development. The amended regulations would establish competitive bidding procedures for lands within designated solar and wind energy development leasing areas, define qualifications for potential bidders, and structure the financial arrangements necessary for the process. The rule would enhance BLM's ability to capture fair market value for the use of public lands, ensure fair access to leasing opportunities for renewable energy development, and foster the growth and development of the renewable energy sector of the economy.

• Preventing waste of produced gas and ensuring fair return to the taxpayer.

BLM's current requirements regarding venting and flaring from oil and gas operations are over three decades old. The agency is currently preparing a proposed rule to address emissions reductions and minimize waste through improved standards for venting, flaring, and fugitive losses of methane from oil and gas production facilities on Federal and Indian lands.

• Seeking public input on managing waste mine methane.

BLM issued an advance notice of proposed rulemaking (ANPRM) requesting information from the public that might assist the bureau in the establishment of a program to capture, use, or destroy waste mine methane from Federal coal leases and Federal leases for other solid minerals. The BLM is currently reviewing the information received through that process to identify potential appropriate regulatory approaches to reduce the waste of methane from mining operations on public lands.

• Ensuring a fair return to the American taxpayer for oil shale development.

BLM is preparing a final rule that would ensure responsible development of federal oil shale resources and evaluate necessary safeguards to protect scarce water resources and important wildlife habitat while ensuring a fair royalty to the American people.

Bureau of Ocean Energy Management (BOEM)

The Bureau of Ocean Energy Management (BOEM) promotes energy independence, environmental protection, and economic development through responsible, science-based management of offshore conventional and renewable energy resources. It is dedicated to fostering the development of both conventional and renewable energy and mineral resources on the Outer Continental Shelf (OCS) in an efficient and effective manner, balancing the need for economic growth with the protection of the environment. BOEM thoughtfully considers and balances the potential environmental impacts involved in exploring and extracting these resources. BOEM's near-term regulatory agenda will focus on a number of issues, including:

• Expanding renewable energy resources.

As part of President Obama's comprehensive plan to expand domestic clean energy sources, BOEM has held multiple offshore renewable energy lease sales along the Atlantic coast. These lease sales are the result of years of collaboration, data gathering and analysis, and outreach and have resulted in the identification of areas that are rich with potential wind resources but also minimize conflicts with other important OCS uses. . Based on the experiences to date in the offshore renewable energy program, BOEM is evaluating lessons learned and identifying opportunities for improvement in the program. As a part of this effort, BOEM is conducting a comprehensive review of our renewable energy regulations and highlighting areas for potential revision. For example, the Bureau recently completed a rulemaking to provide additional time for renewable energy developers to submit certain plans, after BOEM determined that the previous timelines for submission were proving to be unreasonable. This change provides an appropriate balance between ensuring diligent progress on our renewable energy leases and accounting for the needs of the renewable energy development community.

Two proposed rulemakings address recommendations submitted to BOEM by the Transportation Research Board of the National Academies and its stakeholders. Specifically, these include recommendations to: develop and incorporate state of the art wind turbine design standards and to clarify the role of Certified Verification Agents as part of the process of designing, fabricating, and installing offshore wind energy facilities for the OCS.

• Promoting safe drilling activities on the Arctic Outer Continental Shelf

BOEM, jointly with the Bureau of Safety and Environmental Enforcement (BSEE), is developing proposed rules to promote safe, responsible, and effective drilling activities on the Alaska Outer Continental Shelf, while also ensuring the protection of Alaska's coastal communities and the marine environment.

• Protecting the Environment.

In a continuing effort to ensure that the effects of any future potential oil spills can be minimized and fully mitigated, BOEM is amending its regulations to raise the limits of liability associated with future spills. BOEM has teamed with the U.S. Coast Guard and the Department of Justice in developing new regulations to ensure that necessary resources will be made available to address potential contingencies of any future oil spill and associated damages.

• Updating BOEM's Air Quality Program.

BOEM's original air quality rules date largely from 1980 and have not been updated substantially since that time. From 1990 to 2012, DOI has exercised jurisdiction for air quality only for OCS sources operating in the Gulf of Mexico. In fiscal year 2012, Congress expanded DOI's authority by transferring to it responsibility for monitoring OCS air quality off the North Slope Borough of the State of Alaska, including the Beaufort Sea, the Chukchi Sea, and part of the Hope Basin. BOEM is in the process of updating its regulations to reflect changes that have occurred over the past thirty-four years and the new regulatory jurisdiction. In its development of proposed regulations, BOEM will continue to consult and coordinate its efforts with the U.S. Fish and Wildlife Service, the National Park Service and the Environmental Protection Agency.

• Modernizing Oil and Gas Leasing Regulations.

BOEM is developing a final rule to update and streamline the existing OCS leasing regulations to better reflect modern policy priorities, including incentivizing diligent development, as well as to reflect changes in applicable laws that have occurred over the past several years. The final rule reorganizes leasing requirements to communicate more effectively and clearly the leasing process as it has evolved, and to better delineate the roles, responsibilities and associated liabilities of all parties having an economic interest in leases or facilities on the OCS.

• Protecting OCS Sand, Gravel, and Shell Resources.

In light of the continuing need to provide resources to protect the coast from natural disasters like Hurricane Sandy, BOEM is developing policies and goals to formally address the use of OCS sand, gravel, or shell resources funded by the Federal government. These policies are intended to ensure that necessary sand and gravel resources remain available to help communities that have been harmed by hurricanes and other disasters, so that beaches and other natural resources can effectively be restored, without adversely impacting the development of transmission lines and pipelines needed for energy development projects. Taken together, these policies will ensure that the development of renewable and conventional energy resources continues to take place in areas adjacent to key sand and gravel resource zones and that sand and gravel resources continue to be available for construction projects, shore protection, beach replenishment, or wetlands restoration purposes.

• Promoting Effective Financial Assurance and Risk Management.

BOEM has the responsibility to ensure that lessees and operators on the OCS do not engage in activities that could generate an undue risk of financial loss to the government. BOEM formally established a program office to review these issues, and issued an advance notice of proposed rulemaking seeking feedback on potential regulatory approaches to promote effective financial assurance and risk management. Agency staff will continue to work with industry and others to determine how to improve the regulatory regime to better align with the realities of aging offshore infrastructure, hazard risks, and increasing costs of decommissioning.

Bureau of Safety and Environmental Enforcement

BSEE's mission is to regulate safety, emergency preparedness, environmental responsibility and appropriate development and conservation of offshore oil and natural gas resources. BSEE's regulatory priorities are guided by the BSEE FY 2012-2015 Strategic Plan, which includes two strategic goals to focus the Bureau's priorities in fulfillment of its mission:

• Regulate, enforce, and respond to OCS development using the full range of authorities, policies, and tools to compel safety and environmental responsibility and appropriate development of offshore oil and natural gas resources.

• Build and sustain the organizational, technical, and intellectual capacity within and across BSEE's key functions—capacity that keeps pace with OCS industry technology improvements, innovates in regulation and enforcement, and reduces risk through systemic assessment and regulatory and enforcement actions.

BSEE has identified the following four areas of regulatory priorities: (1) Safety; (2) Oil Spill Response; (3) Arctic; and (4) Managing and Mitigating Risk via Improved Technology. Other regulatory topics under development include decommissioning costs, pipelines, and renewable energy.

• Safety

BSEE will be requesting comments on regulatory options for improving aviation safety, crane safety, and safety management systems.

• Oil Spill Response

BSEE will update regulations for offshore oil spill response planning and preparedness. This rule will incorporate lessons learned from the Deepwater Horizon incident, improved preparedness capability standards, and applicable research findings.

• Arctic

BSEE is working with BOEM on a joint proposed rule to promote safe, responsible, and effective drilling activities on the Arctic OCS while ensuring protection of the Arctic's communities and marine environment.

• Managing and Mitigating Risk via Improved Technology

BSEE will develop a proposed rule containing requirements on blowout preventers and critical reforms in the areas of well design, well control, casing, cementing, real-time monitoring, and subsea containment. This proposed rule will address and implement multiple recommendations resulting from various investigations from the Deepwater Horizon incident.

Additionally, BSEE will finalize revisions of its rule on production safety systems and life cycle analysis. This rule will expand the use of life cycle management of critical equipment. The rule addresses issues such as subsurface safety devices, safety device testing, and expands the requirements for operating production systems on the OCS.

Office of Natural Resources Revenue

ONRR will continue to collect, account for, and disburse revenues from Federal offshore energy and mineral leases and from onshore mineral leases on Federal and Indian lands. The program operates nationwide and is primarily responsible for timely and accurate collection, distribution, and accounting for revenues associated with mineral and energy production. ONRR's regulatory plan is as follows:

• Simplify valuation regulations

ONRR plans to simplify the regulations at title 30 of the Code of Federal Regulations (CFR) part 1206 for establishing the value for royalty purposes of (1) oil and natural gas produced from Federal leases; and (2) coal produced from Federal and Indian leases. Additionally, the proposed rules would consolidate sections of the regulations common to all minerals, such as definitions and instructions regarding how a payor should request a valuation determination. ONRR published Advance Notices of Proposed Rulemaking (ANPRMs) to initiate the rulemaking process and to obtain input from interested parties.

• Clarify and simplify issuing notices of noncompliance and civil penalties

This rule would amend ONRR civil penalty regulations to: (1) Codify application of those regulations to solid minerals and geothermal leases as the Omnibus Appropriations Act of 2009 authorizes; (2) adjust Federal Oil and Gas Royalty Management Act civil penalty amounts for inflation as the Federal Civil Penalty Inflation Adjustment Act requires; (3) clarify and simplify the existing regulations for issuing notices of noncompliance and civil penalties under 30 CFR part 1241; and (4) provide notice that ONRR will post its matrices for civil penalty assessments on the ONRR Web site.

• Clarify and simplify distribution and disbursement of qualified revenues from certain leases under the GOMESA

ONRR would amend the regulations on the distribution and disbursement of qualified revenues from certain leases on the Gulf of Mexico's Outer Continental Shelf, under the provisions of the Gulf of Mexico Energy Security Act of 2006. These proposed regulations set forth the formulas and methodologies for calculating and allocating revenues during the second phase of revenue sharing to: The States of Alabama, Louisiana, Mississippi, and Texas; their eligible Coastal Political Subdivisions; the Land and Water Conservation Fund; and the United States Treasury. Additionally, in this proposed rule, the Department of the Interior moves the Gulf of Mexico Energy Security Act of 2006's Phase I regulations from the Bureau of Ocean Energy Management's 30 CFR chapter V to ONRR's 30 CFR chapter XII, and proposes additional clarification and minor definition changes to the current revenue-sharing regulations.

• Clarify and simplify valuation regulations for Indian oil leases

ONRR would ensure that Indian lessors receive maximum revenues from their mineral resources, as required by statute and the Secretary's trust responsibility. The existing rule was published in 1988 with some amendments published in December 2007. Changes in the oil markets have raised concerns regarding the valuation methods for Indian oil. Generally, Indian leases have a provision that place the value of their oil at the highest price paid for a major portion of production of like-quality oil from the same field or area. Proposed changes that followed the 1988 rule were met with disagreement from Tribes and industry.

In 2011, the Secretary convened the Indian Oil Negotiated Rulemaking Committee (Committee), established under the Federal Advisory Committee Act, to address the major portion provision of the current Indian oil and gas rule. The Committee submitted its recommendations to ONRR in September 2013. Those recommendations form the basis of this proposed rule. By revising the method for valuing oil produced on Indian leases, the proposed rule provides clarity and certainty to all concerned parties while additionally assuring that Tribes and allottees receive, in a timely fashion, royalties that satisfy the major portion provision contained in most Indian leases.

Office of Surface Mining Reclamation and Enforcement

The Office of Surface Mining Reclamation and Enforcement (OSM) was created by the Surface Mining Control and Reclamation Act of 1977 (SMCRA). Under SMCRA, OSM has two principal functions—the regulation of surface coal mining and reclamation operations and the reclamation and restoration of abandoned coal mine lands. In enacting SMCRA, Congress directed OSM to “strike a balance between protection of the environment and agricultural productivity and the Nation's need for coal as an essential source of energy.” In response to its statutory mandate, OSM has sought to develop and maintain a stable regulatory program that is safe, cost-effective, and environmentally sound. A stable regulatory program ensures that the coal mining industry has clear guidelines for operation and reclamation, and that citizens know how the program is being implemented.

OSM's Federal regulatory program sets minimum requirements for obtaining a permit for surface and underground coal mining operations, sets performance standards for those operations, requires reclamation of lands and waters disturbed by mining, and requires enforcement to ensure that the standards are met. OSM is the primary regulatory authority for SMCRA enforcement until a State or Indian tribe develops its own regulatory program, which is no less effective than the Federal program. When a State or Indian tribe achieves “primacy,” it assumes direct responsibility for permitting, inspection, and enforcement activities under its federally approved regulatory program. The regulatory standards in Federal program states and in primacy states are essentially the same with only minor, non-substantive differences. Today, 24 States have primacy, including 23 of the 24 coal producing States. OSM's regulatory priorities for the coming year will focus on:

• Stream Protection.

Protect streams and related environmental resources from the adverse effects of surface coal mining operations. OSM plans to revise its regulations to improve the balance between environmental protection and the Nation's need for coal by better protecting streams from the adverse impacts of surface coal mining operations.

• Coal Combustion Residues.

Establish Federal standards for the beneficial use of coal combustion residues on active and abandoned coal mines.

U.S. Fish and Wildlife Service

The mission of the U.S. Fish and Wildlife Service (FWS) is to work with others to conserve, protect, and enhance fish, wildlife, and plants and their habitats for the continuing benefit of the American people. FWS also provides opportunities for Americans to enjoy the outdoors and our shared natural heritage.

FWS fulfills its responsibilities through a diverse array of programs that:

• Protect and recover endangered and threatened species;

• Monitor and manage migratory birds;

• Restore native aquatic populations and nationally significant fisheries;

• Enforce Federal wildlife laws and regulate international trade;

• Conserve and restore wildlife habitat such as wetlands;

• Help foreign governments conserve wildlife through international conservation efforts;

• Distribute Federal funds to States, territories, and tribes for fish and wildlife conservation projects; and

• Manage the more than 150-million-acre National Wildlife Refuge System, which protects and conserves fish and wildlife and their habitats and allows the public to engage in outdoor recreational activities.

During the next year, FWS regulatory priorities will include:

Regulations under the Endangered Species Act (ESA):

We will issue multiple rules to add species to, remove species from, and reclassify species on the Lists of Endangered and Threatened Wildlife and Plants and to designate critical habitat for certain listed species, and rules to transform the processes for listing species and designating critical habitat. We will improve the listing process by issuing rules to more clearly describe areas where listed species are protected and revise the process for submitting petitions to list, delist, or reclassify species. We will further the protection of native species and their ecosystems through a policy that will provide incentives for voluntary conservation actions taken for species prior to their listing under the ESA. We will issue rules to improve the process of critical habitat designation, including clarifying definitions of “critical habitat” and “destruction or adverse modification” of critical habitat, and a policy to explain how we consider various factors in determining exclusions to critical habitat under section 4(b)(2) of the ESA.

Regulations under the Migratory Bird Treaty Act (MBTA):

In carrying out our responsibility to manage migratory bird populations, we issue annual migratory bird hunting regulations, which establish the frameworks (outside limits) for States to establish season lengths, bag limits, and areas for migratory game bird hunting. To ensure proper administration of the MBTA, we will revise our regulations to prevent the wanton waste of migratory game birds to clarify that the hunting public must make reasonable efforts to retrieve birds that have been killed or injured. We will also revise our regulations regarding permits for certain take of eagles and eagle nests and propose regulations for the use of raptors other than eagles for abatement (the use of trained raptors to mitigate depredation problems caused by birds or other wildlife).

Regulations to administer the National Wildlife Refuge System (NWRS):

In carrying out our statutory responsibility to provide wildlife-dependent recreational opportunities on NWRS lands, we issue an annual rule to update the hunting and fishing regulations on specific refuges. To ensure protection of NWRS resources, we will issue a proposed rule to ensure that businesses conducting oil or gas operations on NWRS lands do so in a manner that prevents or minimizes damage to the lands, visitor values, and management objectives. We will also issue a policy for managing cultural resources (archaeological resources, historic and architectural properties, and areas or sites of traditional or religious significance to Native Americans) on NWRS lands.

Regulations to carry out the Wildlife and Sport Fish Restoration (WSFR) Act:

To strengthen our partnership with State conservation organizations, we are working on several rules to update and clarify our WSFR regulations. States rely on FWS to distribute finances, and the FWS relies on the States to implement eligible conservation projects. We will expand on existing regulations that prescribe processes that applicants and grantees must follow when applying for and managing grants from FWS. Among other rules, we will also revise our regulations under the Clean Vessel Act and Boating Infrastructure Grant programs to improve management and execution of those programs.

In accordance with section 3(a) of Executive Order 13609 (“Promoting International Regulatory Cooperation”), we will issue the following rulemaking actions:

Regulations to carry out the Convention on International Trade in Endangered Species of Wild Fauna and Flora (CITES):

We will update our CITES regulations to incorporate provisions resulting from the 16th Conference of the Parties to CITES. The revisions will help us more effectively promote species conservation and help U.S. importers and exporters of wildlife products understand how to conduct lawful international trade. We will also rewrite a substantial portion of our regulations for the importation, exportation, and transportation of wildlife by proposing changes to the port structure and inspection fees and making the regulations easier to understand.

To help protect African elephants, we will revise our regulations regarding ivory from African elephants to prohibit interstate commerce and export, except for antique specimens and certain other items. Import of sport-hunted trophies would still be allowed, but the number of trophies that could be imported by a hunter in a given year would be limited.

Finally, to protect native species and prevent the spread of injurious species, we will propose regulations to improve our process for making injurious wildlife determinations for foreign species under the Lacey Act to prevent the interstate transportation and commerce of injurious wildlife.

National Park Service

The NPS preserves unimpaired the natural and cultural resources and values within more than 400 units of the National Park System encompassing nearly 84 million acres of lands and waters for the enjoyment, education, and inspiration of this and future generations. NPS also cooperates with partners to extend the benefits of natural and resource conservation and outdoor recreation throughout the United States and the world.

To achieve this mission NPS adheres to the following guiding principles:

• Excellent Service: Providing the best possible service to park visitors and partners.

• Productive Partnerships: Collaborating with Federal, State, tribal, and local governments, private organizations, and businesses to work toward common goals.

• Citizen Involvement: Providing opportunities for citizens to participate in the decisions and actions of the National Park Service.

• Heritage Education: Educating park visitors and the general public about their history and common heritage.

• Outstanding Employees: Empowering a diverse workforce committed to excellence, integrity, and quality work.

• Employee Development: Providing developmental opportunities and training so employees have the “tools to do the job” safely and efficiently.

• Wise Decisions: Integrating social, economic, environmental, and ethical considerations into the decision-making process.

• Effective Management: Instilling a performance management philosophy that fosters creativity, focuses on results, and requires accountability at all levels.

• Research and Technology: Incorporating research findings and new technologies to improve work practices, products, and services.

NPS regulatory priorities for the coming year include:

• Managing Off-Road Vehicle Use

Rules for Fire Island National Seashore, Lake Meredith National Recreation Area, Glen Canyon National Recreation Area, and Cape Lookout National Seashore would allow for management of off-road vehicle (ORV) use, to protect and preserve natural and cultural resources, and provide a variety of visitor use experiences while minimizing conflicts among user groups. Further, the rules would designate ORV routes and establish operational requirements and restrictions.

• Managing Bicycling

New rules would authorize and manage bicycling at Cuyahoga Valley National Park, and Bryce Canyon National Park.

• Implementing the Native American Graves Protection and Repatriation Act

(1) A new rule would establish a process for disposition of Unclaimed Human Remains and Funerary Objects discovered after November 16, 1990, on Federal or Indian Lands.

(2) A rule revising the existing regulations would describe the NAGPRA process in plain language, eliminate ambiguity, clarify terms, and include Native Hawaiians in the process. The rule would eliminate unnecessary requirements for museums and would not add processes or collect additional information.

• Regulating non-Federal oil and gas activity on NPS land

The rule would account for new technology and industry practices, eliminate regulatory exemptions, update new legal requirements, remove caps on bond amounts, and allow the NPS to recover compliance costs associated with administering the regulations.

• Authorizing and managing service animals

The rule will define and differentiate service animals from pets, and will describe the circumstances under which service animals would be allowed in a park area. The rule will ensure NPS compliance with Section 504 of the Rehabilitation Act of 1973 (28 U.S.C. 794) and better align NPS regulations with the Americans with Disabilities Act of 1990 (42 U.S.C. 1211 et seq.) and the Department of Justice Service Animal regulations of 2011 (28 CFR 36.104).

• Preserving and managing paleontological resources

This rule would implement provisions of the Paleontological Resources Protection Act. The rule would preserve, manage, and protect paleontological resources on Federal lands and ensure that these resources are available for current and future generations to enjoy as part of America's national heritage. The rule would address management, collection, and curation of paleontological resources from Federal lands using scientific principles and expertise. Provisions of the rule will ensure that resources are collected in accordance with permits and curated in an approved repository. The rule would also protect confidential locality data, and authorize penalties for illegally collecting, damaging, altering, defacing, or selling paleontological resources.

• Collecting plants for traditional cultural practices

The rule would propose authorizing Park Superintendents to enter into agreements with federally recognized tribes to permit tribal members to collect limited quantities of plant resources in parks to be used for traditional cultural practices and activities.

Bureau of Reclamation

The Bureau of Reclamation's mission is to manage, develop, and protect water and related resources in an environmentally and economically sound manner in the interest of the American public. To accomplish this mission, we employ management, engineering, and science to achieve effective and environmentally sensitive solutions.

Reclamation projects provide: Irrigation water service, municipal and industrial water supply, hydroelectric power generation, water quality improvement, groundwater management, fish and wildlife enhancement, outdoor recreation, flood control, navigation, river regulation and control, system optimization, and related uses. We have continued to focus on increased security at our facilities.

Our regulatory program focus in fiscal year 2015 is to publish a proposed minor amendment to 43 CFR part 429 to bring it into compliance with the requirements of the recently published final rule, 43 CFR part 5, Commercial Filming and Similar Projects and Still Photography on Certain Areas under Department Jurisdiction. Publishing this rule will implement the provisions of Public Law 106-206, which directs the establishment of permits and reasonable fees for commercial filming and certain still photography activities on public lands.

BILLING CODE 4310-10-P

DEPARTMENT OF JUSTICE (DOJ)—FALL 2014

Statement of Regulatory Priorities

The mission of the Department of Justice is to enforce the law and defend the interests of the United States according to the law, to ensure public safety against foreign and domestic threats, to provide Federal leadership in preventing and controlling crime, to seek just punishment for those guilty of unlawful behavior, and to ensure the fair and impartial administration of justice for all Americans. In carrying out its mission, the Department is guided by four core values: (1) Equal justice under the law; (2) honesty and integrity; (3) commitment to excellence; and (4) respect for the worth and dignity of each human being. The Department of Justice is primarily a law enforcement agency, not a regulatory agency; it carries out its principal investigative, prosecutorial, and other enforcement activities through means other than the regulatory process.

The regulatory priorities of the Department include initiatives in the areas of civil rights, criminal law enforcement and immigration. These initiatives are summarized below. In addition, several other components of the Department carry out important responsibilities through the regulatory process. Although their regulatory efforts are not separately discussed in this overview of the regulatory priorities, those components have key roles in implementing the Department's anti-terrorism and law enforcement priorities.

Civil Rights Division

The Department is including five disability nondiscrimination rulemaking initiatives in its Regulatory Plan: (1) Implementation of the ADA Amendments Act of 2008 in the ADA regulations (titles II and III); (2) Implementation of the ADA Amendments Act of 2008 in the Department's section 504 regulations; (3) Nondiscrimination on the Basis of Disability by Public Accommodations: Movie Captioning and Audio Description; (4) Accessibility of Web Information and Services of State and Local Governments; and (5) Accessibility of Web Information and Services of Public Accommodations.

The Department's other disability nondiscrimination rulemaking initiatives, while important priorities for the Department's rulemaking agenda, will be included in the Department's long-term actions for fiscal year 2016. As will be discussed more fully below, these initiatives include: (1) Accessibility of Medical Equipment and Furniture; (2) Accessibility of Beds in Guestrooms with Mobility Features in Places of Lodging; (3) Next Generation 9-1-1 Services; and (4) Accessibility of Equipment and Furniture. The Department will also be revising its regulations for Coordination of Enforcement of Non-Discrimination in Federally Assisted Programs, as well as revising regulations implementing section 274B of the Immigration and Nationality Act.

ADA Amendments Act. In September 2008, Congress passed the ADA Amendments Act, which revises the definition of “disability” to more broadly encompass impairments that substantially limit a major life activity. On January 30, 2014, the Department published a Notice of Proposed Rulemaking (NPRM) proposing amendments to both its title II and title III ADA regulations in order to incorporate the statutory changes set forth in the ADA Amendments Act. The comment period closed on March 31, 2014. The Department expects to publish a final rule incorporating these changes into the ADA implementing regulations in the second quarter of fiscal year 2015. The Department also plans to propose amendments to its section 504 regulations to implement the ADA Amendments Act of 2008 in the third quarter of fiscal year 2015.

Captioning and Audio Description in Movie Theaters. Title III of the ADA requires public accommodations to take “such steps as may be necessary to ensure that no individual with a disability is treated differently because of the absence of auxiliary aids and services, unless the covered entity can demonstrate that taking such steps would cause a fundamental alteration or would result in an undue burden.” 42 U.S.C. 12182(b)(2)(A)(iii). Both open and closed captioning and audio recordings are examples of auxiliary aids and services that should be provided by places of public accommodations, 28 CFR 36.303(b)(1)-(2). The Department stated in the preamble to its 1991 rule that “[m]ovie theaters are not required . . . to present open-captioned films,” 28 CFR part 36, app. C (2011), but it did not address closed captioning and audio description in movie theaters. In the movie theater context, “closed captioning” refers to captions that only the patron requesting the closed captions can see because the captions are delivered to the patron at or near the patron's seat. Audio description is a technology that enables individuals who are blind or have low vision to enjoy movies by providing a spoken narration of key visual elements of a visually delivered medium, such as actions, settings, facial expressions, costumes, and scene changes.

Since 1991, there have been many technological advances in the area of closed captioning and audio description for first-run movies. In June 2008, the Department issued an NPRM to revise the ADA title III regulation, 73 FR 34466, in which the Department stated that it was considering options for requiring that movie theater owners or operators exhibit movies that are captioned or that provide video (narrative) description. The Department issued an ANPRM on July 26, 2010, to obtain more information regarding issues raised by commenters; to seek comment on technical questions that arose from the Department's research; and to learn more about the status of digital conversion. In addition, the Department sought information regarding whether other technologies or areas of interest (e.g., 3D) have developed or are in the process of development that would either replace or augment digital cinema or make any regulatory requirements for captioning and audio description more difficult or expensive to implement. The Department received approximately 1171 public comments in response to its movie captioning and video description ANPRM. On August 1, 2014, the Department published its NPRM proposing to revise the ADA title III regulation to require movie theaters to have the capability to exhibit movies with closed movie captioning and audio description (which was described in the ANPRM as video description) for all showings of movies that are available with closed movie captioning or audio description, to require theaters to provide notice to the public about the availability of these services, and to ensure that theaters have staff available who can provide information to patrons about the use of these services. In response to a request for an extension of the public comment period, the Department has issued a notice extending the comment period for 60 days until December 1, 2014.

Web site Accessibility. The Internet as it is known today did not exist when Congress enacted the ADA, yet today the World Wide Web plays a critical role in the daily personal, professional, civic, and business life of Americans. The ADA's expansive nondiscrimination mandate reaches goods and services provided by public accommodations and public entities using Internet Web sites. Being unable to access Web sites puts individuals at a great disadvantage in today's society, which is driven by a dynamic electronic marketplace and unprecedented access to information. On the economic front, electronic commerce, or “e-commerce,” often offers consumers a wider selection and lower prices than traditional, “brick-and-mortar” storefronts, with the added convenience of not having to leave one's home to obtain goods and services. For individuals with disabilities who experience barriers to their ability to travel or to leave their homes, the Internet may be their only way to access certain goods and services. Beyond goods and services, information available on the Internet has become a gateway to education, socializing, and entertainment.

The Internet is also dramatically changing the way that governmental entities serve the public. Public entities are increasingly providing their constituents access to government services and programs through their Web sites. Through Government Web sites, the public can obtain information or correspond with local officials without having to wait in line or be placed on hold. They can also pay fines, apply for benefits, renew State-issued identification, register to vote, file taxes, request copies of vital records, and complete numerous other everyday tasks. The availability of these services and information online not only makes life easier for the public but also often enables governmental entities to operate more efficiently and at a lower cost.

The ADA's promise to provide an equal opportunity for individuals with disabilities to participate in and benefit from all aspects of American civic and economic life will be achieved in today's technologically advanced society only if it is clear to State and local governments, businesses, educators, and other public accommodations that their Web sites must be accessible. Consequently, the Department is considering amending its regulations implementing title II and title III of the ADA to require public entities and public accommodations that provide products or services to the public through Internet Web sites to make their sites accessible to and usable by individuals with disabilities.

In particular, the Department's ANPRM on Web site accessibility sought public comment regarding what standards, if any, it should adopt for Web site accessibility, whether the Department should adopt coverage limitations for certain entities, like small businesses, and what resources and services are available to make existing Web sites accessible to individuals with disabilities. The Department also solicited comments on the costs of making Web sites accessible and on the existence of any other effective and reasonably feasible alternatives to making Web sites accessible. The Department received approximately 440 public comments and is in the process of reviewing these comments. The Department will be publishing separate NPRMs addressing Web site accessibility pursuant to titles II and III of the ADA. On July 9, 2014, the Department submitted its title II Web site Accessibility NPRM to OMB for E.O. 12866 review with a goal of publishing the NPRM before the end of the 2014 calendar year. The Department plans to follow with the publication of the title III NPRM in the third quarter of fiscal year 2015.

The final rulemaking initiatives from the 2010 ANPRMs are included in the Department's long-term priorities projected for fiscal year 2016:

Next Generation 9-1-1. This ANPRM sought information on possible revisions to the Department's regulation to ensure direct access to Next Generation 9-1-1 (NG 9-1-1) services for individuals with disabilities. In 1991, the Department of Justice published a regulation to implement title II of the Americans with Disabilities Act of 1990 (ADA). That regulation requires public safety answering points (PSAPs) to provide direct access to persons with disabilities who use analog telecommunication devices for the deaf (TTYs), 28 CFR 35.162. Since that rule was published, there have been major changes in the types of communications technology used by the general public and by people who have disabilities that affect their hearing or speech. Many individuals with disabilities now use the Internet and wireless text devices as their primary modes of telecommunications. At the same time, PSAPs are planning to shift from analog telecommunications technology to new Internet-Protocol (IP)-enabled NG 9-1-1 services that will provide voice and data (such as text, pictures, and video) capabilities. As PSAPs transition from the analog systems to the new technologies, it is essential that people with communication disabilities be able to use the new systems. Therefore, the Department published this ANPRM to begin to develop appropriate regulatory guidance for PSAPs that are making this transition. The Department is in the process of completing its review of the approximately 146 public comments it received in response to its NG 9-1-1 ANPRM and expects to publish an NPRM addressing accessibility of NG 9-1-1 in the first quarter of fiscal year 2016.

Equipment and Furniture. Both title II and title III of the ADA require covered entities to make reasonable modifications in their programs or services to facilitate participation by persons with disabilities. In addition, covered entities are required to ensure that people are not excluded from participation because facilities are inaccessible or because the entity has failed to provide auxiliary aids. The use of accessible equipment and furniture is often critical to an entity's ability to provide a person with a disability equal access to its services. Changes in technology have resulted in the development and improved availability of accessible equipment and furniture that benefit individuals with disabilities. The 2010 ADA Standards include accessibility requirements for some types of fixed equipment (e.g., ATMs, washing machines, dryers, tables, benches and vending machines) and the Department plans to look to these standards for guidance, where applicable, when it proposes accessibility standards for equipment and furniture that is not fixed. The ANPRM sought information about other categories of equipment, including beds in accessible guest rooms, and medical equipment and furniture. The Department received approximately 420 comments in response to its ANPRM and is in the process of reviewing these comments. The Department plans to publish in early fiscal year 2016 a separate NPRM pursuant to title III of the ADA on beds in accessible guest rooms and a more detailed ANPRM pursuant to titles II and III of the ADA that focuses solely on accessible medical equipment and furniture. The remaining items of equipment and furniture addressed in the 2010 ANPRM will be the subject of an NPRM that the Department anticipates publishing in mid-fiscal year 2016.

Coordination of Enforcement of Non-Discrimination in Federally Assisted Programs. In addition, the Department is planning to revise the co-ordination regulations implementing title VI of the Civil Rights Act, which have not been updated in over 30 years. Among other things, the updates will revise outdated provisions, streamline procedural steps, streamline and clarify provisions regarding information and data collection, promote opportunities to encourage public engagement, and incorporate current law regarding meaningful access for individuals who are limited English proficient.

Implementation of Section 247B of the Immigration and Nationality Act. The Department also proposes to revise regulations implementing section 274B of the Immigration and Nationality Act. The proposed revisions are appropriate to conform the regulations to the statutory text as amended, simplify and add definitions of statutory terms, update and clarify the procedures for filing and processing charges of discrimination, ensure effective investigations of unfair immigration-related employment practices, and update outdated references. The regulations will also be revised to reflect the new name of the office within the Department charged with enforcing this statute.

Bureau of Alcohol, Tobacco, Firearms and Explosives (ATF)

ATF issues regulations to enforce the Federal laws relating to the manufacture and commerce of firearms and explosives. ATF's mission and regulations are designed to, among other objectives, curb illegal traffic in, and criminal use of, firearms and explosives, and to assist State, local, and other Federal law enforcement agencies in reducing crime and violence. The Department is including one rulemaking initiative from ATF in its Regulatory Plan. The Department is planning to finalize a proposed rule to amend ATF's regulations regarding the making or transferring of a firearm under the National Firearms Act. As proposed, this rule would (1) add a definition for the term “responsible person”; (2) require each responsible person of a corporation, trust or legal entity to complete a specified form, and to submit photographs and fingerprints; and (3) modify the requirements regarding the certificate of the chief law enforcement officer.

ATF will continue, as a priority during fiscal year 2014, to seek modifications to its regulations governing commerce in firearms and explosives. ATF plans to issue regulations to finalize the current interim rules implementing the provisions of the Safe Explosives Act, title XI, subtitle C, of Public Law 107-296, the Homeland Security Act of 2002 (enacted Nov. 25, 2002). ATF also has begun a rulemaking process that will lead to promulgation of a revised set of regulations (27 CFR part 771) governing the procedure and practice for proposed denial of applications for explosives licenses or permits and proposed revocation of such licenses and permits. In addition, ATF also has several other rulemaking initiatives as part of the Department's rulemaking agenda.

Pursuant to Executive Order 13563 “Improving Regulation and Regulatory Review,” ATF has published a final rule to amend existing regulations and extend the term of import permits for firearms, ammunition, and defense articles from 1 year to 2 years. The additional time will allow importers sufficient time to complete the importation of an authorized commodity before the permit expires and eliminate the need for importers to submit new and duplicative import applications. ATF believes that extending the term of import permits will result in substantial cost and time savings for both ATF and industry.

Drug Enforcement Administration (DEA)

DEA is the primary agency responsible for coordinating the drug law enforcement activities of the United States and also assists in the implementation of the President's National Drug Control Strategy. DEA implements and enforces titles II and III of the Comprehensive Drug Abuse Prevention and Control Act of 1970 and the Controlled Substances Import and Export Act (21 U.S.C. 801-971), as amended, and collectively referred to as the Controlled Substances Act (CSA). DEA's mission is to enforce the CSA and its regulations and bring to the criminal and civil justice system those organizations and individuals involved in the growing, manufacture, or distribution of controlled substances and listed chemicals appearing in or destined for illicit traffic in the United States. DEA promulgates the CSA implementing regulations in title 21 of the Code of Federal Regulations (CFR), parts 1300 to 1321. The CSA and its implementing regulations are designed to prevent, detect, and eliminate the diversion of controlled substances and listed chemicals into the illicit market while providing for the legitimate medical, scientific, research, and industrial needs of the United States.

Pursuant to its statutory authority, DEA continuously evaluates new and emerging substances to determine whether such substances should be controlled under the CSA. During fiscal year 2015, in addition to initiating temporary scheduling actions to prevent imminent hazard to the public safety, DEA will also consider petitions to control or reschedule various substances. Among other regulatory reviews and initiatives, the DEA will initiate the notice of proposed rulemaking titled, “Transporting Controlled Substances Away from Principal Places of Business or Principal Places of Professional Practice on an As Needed and Random Basis.” In this rule, the DEA proposes to amend its regulations governing the registration, security, reporting, recordkeeping, and ordering requirements in circumstances where practitioners transport controlled substances for dispensing to patients on an as needed and random basis. Lastly, the DEA will finalize its Interim Final Rule for Electronic Prescriptions for Controlled Substances. By this final rule, the DEA would finalize its regulations to clarify: (1) the criteria by which DEA-registered practitioners may electronically issue controlled substance prescriptions; and (2) the criteria by which DEA-registered pharmacies may receive and archive these electronic prescriptions.

Bureau of Prisons

The Federal Bureau of Prisons issues regulations to enforce the Federal laws relating to its mission: to protect society by confining offenders in the controlled environments of prisons and community-based facilities that are safe, humane, cost-efficient, and appropriately secure, and that provide work and other self-improvement opportunities to assist offenders in becoming law-abiding citizens. During the next 12 months, in addition to other regulatory objectives aimed at accomplishing its mission, the Bureau will continue its ongoing efforts to: streamline regulations, eliminating unnecessary language and improving readability; improve disciplinary procedures through a revision of the subpart relating to the disciplinary process; reduce the introduction of contraband through various means, such as clarifying drug and alcohol surveillance testing programs; protect the public from continuing criminal activity committed within prison; and enhance the Bureau's ability to more closely monitor the communications of high-risk inmates.

Executive Office for Immigration Review (EOIR)

On March 1, 2003, pursuant to the Homeland Security Act of 2002 (HSA), the responsibility for immigration enforcement and border security and for providing immigration-related services and benefits, such as naturalization, immigrant petitions, and work authorization, was transferred from the Justice Department's former Immigration and Naturalization Service (INS) to the Department of Homeland Security (DHS). However, the immigration judges and the Board of Immigration Appeals (Board) in EOIR remain part of the Department of Justice. The immigration judges adjudicate approximately 400,000 cases each year to determine whether aliens should be ordered removed from the United States or should be granted some form of relief from removal. The Board has jurisdiction over appeals from the decisions of immigration judges, as well as other matters. Accordingly, the Attorney General has a continuing role in the conducting of removal hearings, the granting of relief from removal, and custody determinations regarding the detention of aliens pending completion of removal proceedings. The Attorney General also is responsible for civil litigation and criminal prosecutions relating to the immigration laws.

In several pending rulemaking actions, the Department is working to revise and update the regulations relating to removal proceedings in order to improve the efficiency and effectiveness of the hearings, including, but not limited to: a joint regulation with DHS to provide guidance on a number of issues central to the adjudication of applications for asylum and withholding of removal; a joint regulation with DHS to provide, with respect to applicants who are found to have engaged in persecution of others, a limited exception for actions taken by the applicant under duress; a joint regulation with DHS to implement procedures that address the specialized needs of unaccompanied alien children in removal proceedings pursuant to the William Wilberforce Trafficking Victims Protection Reauthorization Act of 2008; a proposed regulation to establish procedures for the filing and adjudication of motions to reopen removal, deportation, and exclusion proceedings based upon a claim of ineffective assistance of counsel; and a proposed regulation to improve the recognition and accreditation process for organizations and representatives that appear in immigration proceedings before EOIR. Finally, in response to Executive Order 13653, the Department is retrospectively reviewing EOIR's regulations to eliminate regulations that unnecessarily duplicate DHS's regulations and update outdated references to the pre-2002 immigration system.

Retrospective Review of Existing Regulations

Pursuant to section 6 of Executive Order 13563 “Improving Regulation and Regulatory Review” (Jan. 18, 2011), the following Regulatory Identifier Numbers (RINs) have been identified as associated with retrospective review and analysis in the Department's final retrospective review of regulations plan. Some of these entries on this list may be completed actions, which do not appear in The Regulatory Plan. However, more information can be found about these completed rulemakings in past publications of the Unified Agenda on Reginfo.gov in the Completed Actions section for that agency. These rulemakings can also be found on Regulations.gov. The final Justice Department plan can be found at: http://www.justice.gov/open/doj-rr-final-plan.pdf

RIN | Title | Description
1140-AA40 | Rules of Practice in Explosives License and Permit Proceedings | ATF has begun a rulemaking process that will lead to promulgation of a revised set of regulations governing the procedure and practice for disapproval of applications for explosives licenses or permits. This new set of regulations, 27 C.F.R. part 771 will replace the regulations previously codified at 27 C.F.R. part 71 (2002), many of which are outmoded and need to be revised.
1125-AA71 | Retrospective Regulatory Review Under E.O. 13563 of 8 CFR Parts 1003, 1103, 1211, 1212, 1215, 1216, 1235 | Advance notice of future rulemaking concerning appeals of DHS decisions (8 C.F.R. part 1103), documentary requirements for aliens (8 C.F.R. parts 1211 and 1212), control of aliens departing from the United States (8 C.F.R. part 1215), procedures governing conditional permanent resident status (8 C.F.R. part 1216), and inspection of individuals applying for admission to the United States (8 C.F.R. part 1235). A number of attorneys, firms, and organizations in immigration practice are small entities. EOIR believes this rule will improve the efficiency and fairness of adjudications before EOIR by, for example, eliminating duplication, ensuring consistency with the Department of Homeland Security's regulations in chapter I of title 8 of the CFR, and delineating more clearly the authority and jurisdiction of each agency.
1125-AA78 | Separate Representation for Custody and Bond Proceedings | This rule proposes to amend the Executive Office for Immigration Review (EOIR) regulations relating to the representation of aliens in custody and bond proceedings. Specifically, this rule proposes to allow a representative to enter an appearance in custody and bond proceedings before EOIR without committing to appear on behalf of the alien for all proceedings before the Immigration Court.
1117-NYD | Implementation of the International Trade Data System | DEA is continuing to consider possible changes to its existing regulations (e.g., 21 CFR 1312.14, 1312.24) to take account of the submission of import and export permits to U.S. Customs and Border Protection in electronic form.

Executive Order 13609—Promoting International Regulatory Cooperation

The Department is not currently engaged in international regulatory cooperation activities that are reasonably anticipated to lead to significant regulations.

Executive Order 13659

Executive Order 13659, “Streamlining the Export/Import Process for America's Businesses,” provided new directives for agencies to improve the technologies, policies, and other controls governing the movement of goods across our national borders. This includes additional steps to implement the International Trade Data System as an electronic information exchange capability, or “single window,” through which businesses will transmit data required by participating agencies for the importation or exportation of cargo.

At the Department of Justice, stakeholders must obtain pre-import and pre-export authorizations from the Drug Enforcement Administration (DEA) (relating to controlled substances and listed chemicals), or from the Bureau of Alcohol, Tobacco, Firearms and Explosives (ATF) (relating to firearms, ammunition, and explosives). The ITDS “single window” will work in conjunction with these pre-import and pre-export authorizations.

Pursuant to section 6 of E.O. 13659, DEA and ATF have consulted with CBP and are continuing to study whether some modifications or technical changes to their existing regulations are needed to achieve the goals of E.O. 13659.

DOJ—CIVIL RIGHTS DIVISION (CRT)

Proposed Rule Stage

91. Implementation of the ADA Amendments Act of 2008 (Section 504 of the Rehabilitation Act of 1973)

Priority: Other Significant.

Legal Authority: Pub. L. 110-325; 29 U.S.C. 794 (sec 504 of the Rehabilitation Act of 1973, as amended); E.O. 12250 (45 FR 72955; 11/04/1980)

CFR Citation: 28 CFR 39; 28 CFR 41; 28 CFR 42, subpart G.

Legal Deadline: None.

Abstract:

This rule would propose to amend the Department's regulations implementing section 504 of the Rehabilitation Act of 1973, as amended, 28 CFR part 39 and part 42, subpart G, and its regulation implementing Executive Order 12250, 28 CFR part 41, to reflect statutory amendments to the definition of disability applicable to section 504 of the Rehabilitation Act, which were enacted in the ADA Amendments Act of 2008, Public Law 110-325, 122 Stat. 3553 (Sep. 25, 2008). The ADA Amendments Act took effect on January 1, 2009.

The ADA Amendments Act revised 29 U.S.C. 705, to make the definition of disability used in the nondiscrimination provisions in title V of the Rehabilitation Act consistent with the amended ADA requirements. These amendments (1) add illustrative lists of “major life activities,” including “major bodily functions,” that provide more examples of covered activities and covered conditions than are now contained in agency regulations (sec. 3[2]); (2) clarify that a person who is “regarded as” having a disability does not have to be regarded as being substantially limited in a major life activity (sec. 3[3]); and (3) add rules of construction regarding the definition of disability that provide guidance in applying the term “substantially limits” and prohibit consideration of mitigating measures in determining whether a person has a disability (sec. 3[4]).

The Department anticipates that these changes will be published for comment in a proposed rule within the next 12 months. During the drafting of these revisions, the Department will also review the currently published rules to ensure that any other legal requirements under the Rehabilitation Act have been properly addressed in these regulations.

Statement of Need: This rule is necessary to bring the Department's prior section 504 regulations into compliance with the ADA Amendments Act of 2008, which became effective on January 1, 2009.

Summary of Legal Basis: The summary of the legal basis of authority for this regulation is set forth above in the abstract.

Alternatives: Because this NPRM implements statutory changes to the section 504 definition of disability, there are no appropriate alternatives to issuing this NPRM.

Anticipated Cost and Benefits: The Department's preliminary assessment in this early stage of the rulemaking process is that this rule will not be “economically significant,” that is, that the rule will not have an annual effect on the economy of $100 million, or adversely affect in a material way the economy, a sector of the economy, the environment, public health or safety or State, local or tribal Governments or communities. The Department's section 504 rule will incorporate the same changes made by the ADA Amendments Act to the definition of disability as are included in the proposed changes to the ADA title II and title III rules (1190-AA59), which will be published in the Federal Register in the near future. Therefore, we do not believe that the revisions to the Department's existing section 504 federally assisted regulations will have any additional economic impact, because public and private entities that receive federal financial assistance from the Department are also likely to be subject to titles II or III of the ADA. The Department expects to consider further the economic impact of the proposed rule on the Department's existing section 504 federally conducted regulations, but anticipates that the rule will not be economically significant within the meaning of Executive Order 12866. This is because the revisions to these regulations will only apply to the Department's programs and activities and how those programs and activities are operated so as to ensure compliance with the nondiscrimination requirements of section 504. In the NPRM, the Department will be soliciting public comment in response to its initial assessment of the impact of the proposed rule.

Risks:Failure to update the Department's section 504 regulations to conform to statutory changes will interfere with the Department's enforcement efforts and lead to confusion about the law's requirements among entities that receive Federal financial assistance from the Department or who participate in its federally conducted programs.

Timetable:

Action | Date | FR Cite
NPRM | 05/00/15 |

Regulatory Flexibility Analysis Required: No.

Small Entities Affected: Businesses, Governmental Jurisdictions.

Government Levels Affected: Local, State.

Federalism: Undetermined.

Agency Contact: Rebecca B. Bond, Chief, Department of Justice, Civil Rights Division, Disability Rights Section, 950 Pennsylvania Ave. NW., Washington, DC 20530, Phone: 800 514-0301.

RIN: 1190-AA60

DOJ—CRT

92. Nondiscrimination on the Basis of Disability; Accessibility of Web Information and Services of Public Accommodations

Priority: Economically Significant. Major under 5 U.S.C. 801.

Legal Authority: 42 U.S.C. 12101, et seq.

CFR Citation: 28 CFR 36.

Legal Deadline: None.

Abstract: The Department of Justice is considering proposed revisions to the regulation implementing title III of the Americans with Disabilities Act (ADA) in order to address the obligations of public accommodations to make goods, services, facilities, privileges, accommodations, or advantages they offer via the Internet, specifically at sites on the World Wide Web (Web), accessible to individuals with disabilities. The ADA requires that public accommodations provide individuals with disabilities with full and equal enjoyment of their goods, services, facilities, privileges, advantages, and accommodations. 42. U.S.C. 12182. The Internet as it is known today did not exist when Congress enacted the ADA. Today the Internet, most notably the sites on the Web, plays a critical role in the daily personal, professional, and business life of most Americans. Increasingly, private entities of all types are providing goods and services to the public through Web sites that operate as places of public accommodation under title III of the ADA. Many Web sites of public accommodations, however, render use by individuals with disabilities difficult or impossible due to barriers posed by Web sites designed without accessible features. Being unable to access Web sites puts individuals with disabilities at a great disadvantage in today's society, which is driven by a global marketplace and unprecedented access to information. On the economic front, electronic commerce, or “e-commerce,” often offers consumers a wider selection and lower prices than traditional “brick-and-mortar” storefronts, with the added convenience of not having to leave one's home to obtain goods and services. Beyond goods and services, information available on the Internet has become a gateway to education. Schools at all levels are increasingly offering programs and classroom instruction through Web sites. Many colleges and universities offer degree programs online; some universities exist exclusively on the Internet. The Internet also is changing the way individuals socialize and seek entertainment. Social networks and other online meeting places provide a unique way for individuals to meet and fraternize. These networks allow individuals to meet others with similar interests and connect with friends, business colleagues, elected officials, and businesses. They also provide an effective networking opportunity for entrepreneurs, artists, and others seeking to put their skills and talents to use. Web sites also bring a myriad of entertainment and information options for Internet users-from games and music to news and videos. The ADA's promise to provide an equal opportunity for individuals with disabilities to participate in and benefit from all aspects of American civic and economic life will be achieved in today's technologically advanced society only if it is clear to businesses, educators, and other public accommodations, that their Web sites must be accessible. Consequently, the Department is proposing to amend its title III regulation to expressly address the obligations of public accommodations to make the Web sites they use to provide their goods and services to the public accessible to and usable by individuals with disabilities under the legal framework established by the ADA. The proposed regulation will propose the scope of the obligation to provide accessibility when persons with disabilities attempt to access Web sites of public accommodations, as well as propose the technical standards necessary to comply with the ADA.

Statement of Need: Many people with disabilities use “assistive technology” to enable them to use computers and access the Internet. Individuals who are blind or have low vision who cannot see computer monitors may use screen readers—devices that speak the text that would normally appear on a monitor. People who have difficulty using a computer mouse can use voice recognition software to control their computers with verbal commands. People with other types of disabilities may use still other kinds of assistive technology. New and innovative assistive technologies are being introduced every day. Web sites that do not accommodate assistive technology, for example, can create unnecessary barriers for people with disabilities, just as buildings not designed to accommodate individuals with disabilities can prevent some individuals from entering and accessing services. Web designers may not realize how simple features built into a Web site will assist someone who, for instance, cannot see a computer monitor or use a mouse. In addition, in many cases, these Web sites do not provide captioning for videos or live events streamed over the Web, leaving persons who are deaf or hard of hearing unable to access the information that is being provided. Although the Department has been clear that the ADA applies to Web sites of private entities that meet the definition of “public accommodations,” inconsistent court decisions, differing standards for determining Web accessibility, and repeated calls for Department action indicate remaining uncertainty regarding the applicability of the ADA to Web sites of entities covered by title III. For these reasons, the Department plans to propose amendments to its regulation so as to make clear to entities covered by the ADA their obligations to make their Web sites accessible. Despite the need for action, the Department appreciates the need to move forward deliberatively. Any regulations the Department adopts must provide specific guidance to help ensure Web access to individuals with disabilities without hampering innovation and technological advancement on the Web.

Summary of Legal Basis: The ADA requires that public accommodations provide individuals with disabilities with full and equal enjoyment of their goods, services, facilities, privileges, advantages, and accommodations. 42. U.S.C. 12182. Increasingly, private entities of all types are providing goods and services to the public through Web sites that operate as places of public accommodation under title III of the ADA.

Alternatives: The Department intends to consider various alternatives for ensuring full access to Web sites of public accommodations, including alternative implementation schedules and technical requirements applicable to certain Web features or based on a covered entity's size. The Department will solicit public comment addressing its proposed alternatives.

Anticipated Cost and Benefits: The Department anticipates that this rule will be “economically significant.” The Department believes that revising its title III rule to clarify the obligations of public accommodations to provide accessible Web sites will significantly increase the opportunities of individuals with disabilities to access the variety of goods and services public accommodations offer on the Web, while increasing the number of customers that access the Web sites to procure the goods and services offered by these public accommodations. In drafting this NPRM, the Department will attempt to minimize the compliance costs to public accommodations, while ensuring the benefits of compliance to persons with disabilities. At this stage in the process, the Department is not yet able to provide a preliminary estimate of costs and benefits.

Risks: If the Department does not revise its ADA title III regulations to address Web site accessibility, persons with disabilities will continue to be unable to access the many goods and services of public accommodations available on the Web to individuals without disabilities.

Timetable:

Action | Date | FR Cite
ANPRM | 07/26/10 | 75 FR 43460
ANPRM Comment Period End | 01/24/11 |
NPRM | 06/00/15 |

Regulatory Flexibility Analysis Required: Undetermined.

Small Entities Affected: Businesses.

Government Levels Affected: None.

Additional Information: See also RIN 1190-AA65 which was split from this RIN of 1190-AA61.

Agency Contact: Rebecca B. Bond, Chief, Department of Justice, Civil Rights Division, Disability Rights Section, 950 Pennsylvania Ave. NW., Washington, DC 20530, Phone: 800 514-0301.

RIN: 1190-AA61

DOJ—CRT

93. Nondiscrimination on the Basis of Disability; Movie Captioning and Audio Description

Priority: Other Significant.

Legal Authority: 42 U.S.C. 12101, et seq.

CFR Citation: 28 CFR 36.

Legal Deadline: None.

Abstract: Following its advance notice of proposed rulemaking published on July 26, 2010, the Department plans to publish a proposed rule addressing the requirements for captioning and video description of movies exhibited in movie theatres under title III of the Americans with Disabilities Act of 1990 (ADA). Title III prohibits discrimination on the basis of disability in the activities of places of public accommodation (private entities whose operations affect commerce and that fall into one of twelve categories listed in the ADA). 42 U.S.C. 12181-12189. Title III makes it unlawful for places of public accommodation, such as movie theaters, to discriminate against individuals with disabilities in the full and equal enjoyment of the goods, services, facilities, privileges, advantages, or accommodations of a place of public accommodation (42 U.S.C. 12182[a]). Moreover, title III prohibits places of public accommodation from affording an unequal or lesser service to individuals or classes of individuals with disabilities than is offered to other individuals (42 U.S.C. 12182(b)(1)(A)(ii)). Title III requires places of public accommodation to take “such steps as may be necessary to ensure that no individual with a disability is excluded, denied services, segregated or otherwise treated differently because of the absence of auxiliary aids and services, such as captioning and video description, unless the entity can demonstrate that taking such steps would fundamentally alter the nature of the good, service, facility, privilege, advantage, or accommodation being offered or would result in an undue burden,” (42 U.S.C. 12182(b)(2)(A)(iii)).

Statement of Need: A significant-and increasing-proportion of Americans have hearing or vision disabilities that prevent them from fully and effectively understanding movies without captioning or audio description. For persons with hearing and vision disabilities, the unavailability of captioned or audio-described movies inhibits their ability to socialize and fully take part in family outings and deprives them of the opportunity to meaningfully participate in an important aspect of American culture. Many individuals with hearing or vision disabilities who commented on the Department's 2010 ANPRM remarked that they have not been able to enjoy a commercial movie unless they watched it on TV, or that when they took their children to the movies they could not understand what they were seeing or discuss what was happening with their children. Today, more and more movies are produced with captions and audio description. However, despite the underlying ADA obligation, the advancement of digital technology and the availability of captioned and audio-described films, many movie theaters are still not exhibiting captioned or audio-described movies, and when they do exhibit them, they are only for a few showings of a movie, and usually at off-times. Recently, a number of theater companies have committed to provide greater availability of captioning and audio description. In some cases, these have been nationwide commitments; in other cases it has only been in a particular State or locality. A uniform Federal ADA requirement for captioning and audio description is necessary to ensure that access to movies for persons with hearing and vision disabilities is not dictated by the individual's residence or the presence of litigation in their locality. In addition, the movie theater industry is in the process of converting its movie screens to use digital technology, and the Department believes that it will be extremely helpful to provide timely guidance on the ADA requirements for captioning and audio description so that the industry may factor this into its conversion efforts and minimize costs.

Summary of Legal Basis: The summary of the legal basis of authority for this regulation is set forth above in the abstract.

Alternatives: The Department will consider any public comments that propose achievable alternatives that will still accomplish the goal of providing access to movies for persons with hearing and vision disabilities. However, the Department believes that the baseline alternative of not providing such access would be inconsistent with the provisions of title III of the ADA.

Anticipated Cost and Benefits: The Department's preliminary analysis indicates that the proposed rule would not be “economically significant,” that is, that the rule will not have an annual effect on the economy of $100 million, or adversely affect in a material way the economy, a sector of the economy, the environment, public health or safety or State, local or tribal governments or communities. In the NPRM, the Department will be soliciting public comment in response to its preliminary analysis regarding the costs imposed by the rule.

Risks: Without the proposed changes to the Department's title III regulation, persons with hearing and vision disabilities will continue to be denied access to movies shown in movie theaters and movie theater owners and operators will not understand what they are required to do in order to provide auxiliary aids and services to patrons with hearing and vision disabilities.

Timetable:

Action | Date | FR Cite
ANPRM | 07/26/10 | 75 FR 43467
ANPRM Comment Period End | 01/24/11 |
NPRM | 08/01/14 | 79 FR 44975
NPRM Comment Period Extended | 09/08/14 | 79 FR 53146
NPRM Comment Period End | 09/30/14 |
NPRM Extended Comment Period End | 12/01/14 |
Final Action | 09/00/15 |

Regulatory Flexibility Analysis Required: Undetermined.

Small Entities Affected: Businesses.

Government Levels Affected: None.

Agency Contact: Rebecca B. Bond, Chief, Department of Justice, Civil Rights Division, Disability Rights Section, 950 Pennsylvania Ave. NW., Washington, DC 20530, Phone: 800 514-0301.

RIN: 1190-AA63

DOJ—CRT

94. Nondiscrimination on the Basis of Disability: Accessibility of Web

Information and Services of State and Local Governments

Priority: Economically Significant. Major status under 5 U.S.C. 801 is undetermined.

Legal Authority: 42 U.S.C. 12101 et seq.

CFR Citation: 28 CFR 35.

Legal Deadline: None.

Abstract: The Department published an ANPRM on July 26, 2010, RIN 1190-AA61, that addressed issues relating to proposed revisions of both the title II and title III ADA regulations in order to provide guidance on the obligations of covered entities to make programs, services and activities offered over the Web accessible to individuals with disabilities. The Department has now divided the rulemakings in the next step of the rulemaking process so as to proceed with separate notices of proposed rulemakings for title II and title III. The title III rulemaking on Web accessibility will continue under RIN 1190-AA61 and the title II rulemaking will continue under the new RIN 1190-AA65. This rulemaking will provide specific guidance to State and local governments in order to make services, programs, or activities offered to the public via the Web accessible to individuals with disabilities. The ADA requires that State and local governments provide qualified individuals with disabilities equal access to their programs, services, or activities unless doing so would fundamentally alter the nature of their programs, services, or activities or would impose an undue burden. 42. U.S.C. 12132. The Internet as it is known today did not exist when Congress enacted the ADA; yet today the Internet is dramatically changing the way that governmental entities serve the public. Taking advantage of new technology, citizens can now use State and local government Web sites to correspond online with local officials; obtain information about government services; renew library books or driver's licenses; pay fines; register to vote; obtain tax information and file tax returns; apply for jobs or benefits; and complete numerous other civic tasks. These Government Web sites are important because they allow programs and services to be offered in a more dynamic, interactive way in order to increase citizen participation; increase convenience and speed in obtaining information or services; reduce costs in providing information about Government services and administering programs; reduce the amount of paperwork; and expand the possibilities of reaching new sectors of the community or offering new programs or services. Many States and localities have begun to improve the accessibility of portions of their Web sites. However, full compliance with the ADA's promise to provide an equal opportunity for individuals with disabilities to participate in and benefit from all aspects of the programs, services, and activities provided by State and local governments in today's technologically advanced society will only occur if it is clear to public entities that their Web sites must be accessible. Consequently, the Department intends to publish a Notice of Proposed Rulemaking (NPRM) to amend its title II regulations to expressly address the obligations of public entities to make the Web sites they use to provide programs, activities, or services or information to the public accessible to and usable by individuals with disabilities under the legal framework established by the ADA. The proposed regulation will propose the scope of the obligation to provide accessibility when persons with disabilities access public Web sites, as well as propose the technical standards necessary to comply with the ADA.

Statement of Need: Many people with disabilities use “assistive technology” to enable them to use computers and access the Internet. Individuals who are blind or have low vision who cannot see computer monitors may use screen readers—devices that speak the text that would normally appear on a monitor. People who have difficulty using a computer mouse can use voice recognition software to control their computers with verbal commands. People with other types of disabilities may use still other kinds of assistive technology. New and innovative assistive technologies are being introduced every day.

Web sites that do not accommodate assistive technology, for example, can create unnecessary barriers for people with disabilities, just as buildings not designed to accommodate people with disabilities prevent some individuals from entering and accessing services. Web designers may not realize how simple features built into a Web site will assist someone who, for instance, cannot see a computer monitor or use a mouse. In addition, in many cases, these Web sites do not provide captioning for videos or live events streamed over the web, leaving persons who are deaf or hard of hearing unable to access the information that is being provided. Although an increasing number of State and local Governments are making efforts to provide accessible Web sites, because there are no specific ADA standards for Web site accessibility, these Web sites vary in actual usability.

Summary of Legal Basis: The ADA requires that State and local Governments provide qualified individuals with disabilities equal access to their programs, services, or activities unless doing so would fundamentally alter the nature of their programs, services, or activities or would impose an undue burden. 42. U.S.C. 12132.

Alternatives: The Department intends to consider various alternatives for ensuring full access to Web sites of State and local Governments and will solicit public comment addressing these alternatives.

Anticipated Cost and Benefits: The Department anticipates that this rule will be “economically significant,” that is, that the rule will have an annual effect on the economy of $100 million, or adversely affect in a material way the economy, a sector of the economy, the environment, public health or safety or State, local or tribal Governments or communities. However, the Department believes that revising its title II rule to clarify the obligations of State and local Governments to provide accessible Web sites will significantly increase the opportunities for citizens with disabilities to participate in, and benefit from, State and local Government programs, activities, and services. It will also ensure that individuals have access to important information that is provided over the Internet, including emergency information. The Department also believes that providing accessible Web sites will benefit State and local Governments as it will increase the numbers of citizens who can use these Web sites, and thus improve the efficiency of delivery of services to the public. In drafting this NPRM, the Department will attempt to minimize the compliance costs to State and local Governments while ensuring the benefits of compliance to persons with disabilities.

Risks: If the Department does not revise its ADA title II regulations to address Web site accessibility, persons with disabilities in many communities will continue to be unable to access their State and local governmental services in the same manner available to citizens without disabilities, and in some cases will not be able to access those services at all.

Timetable:

Action | Date | FR Cite
ANPRM | 07/26/10 | 75 FR 43460
ANPRM Comment Period End | 01/21/11 |
NPRM | 12/00/14 |

Regulatory Flexibility Analysis Required: Undetermined.

Small Entities Affected: Governmental Jurisdictions.

Government Levels Affected: Local, State.

Federalism: Undetermined.

Additional Information: Split from RIN 1190-AA61.

Agency Contact: Rebecca B. Bond, Chief, Department of Justice, Civil Rights Division, Disability Rights Section, 950 Pennsylvania Ave. NW., Washington, DC 20530, Phone: 800 514-0301.

RIN: 1190-AA65

DOJ—CRT

Final Rule Stage

95. Implementation of the ADA Amendments Act of 2008 (Title II and Title III of The ADA)

Priority: Other Significant.

Legal Authority: Pub. L. 110-325; 42 U.S.C. 12134(a); 42 U.S.C. 12186(b)

CFR Citation: 28 CFR 35; 28 CFR 36.

Legal Deadline: None.

Abstract: This rule would propose to amend the Department's regulations implementing title II and title III of the Americans with Disabilities Act (ADA), 28 CFR part 35 and 28 CFR part 36, to implement changes to the ADA enacted in the ADA Amendments Act of 2008, Public Law 110-325, 122 Stat. 3553 (Sept. 25, 2008). The ADA Amendments Act took effect on January 1, 2009.

The ADA Amendments Act amended the Americans with Disabilities Act, 42 U.S.C. 12101, et seq., to clarify terms within the definition of disability and to establish standards that must be applied to determine if a person has a covered disability. These changes are intended to mitigate the effects of the Supreme Court's decisions in Sutton v. United Airlines, 527 U.S. 471 (1999), and Toyota Motor Manufacturing v. Williams, 534, U.S. 184 (2002). Specifically, the ADA Amendments Act (1) adds illustrative lists of “major life activities,” including “major bodily functions,” that provide more examples of covered activities and covered conditions than are now contained in agency regulations (sec. 3[2]); (2) clarifies that a person who is “regarded as” having a disability does not have to be regarded as being substantially limited in a major life activity (sec. 3[3]); and (3) adds rules of construction regarding the definition of disability that provide guidance in applying the term “substantially limits” and prohibit consideration of mitigating measures in determining whether a person has a disability (sec. 3[4]).

Statement of Need: This rule is necessary to bring the Department's ADA regulations into compliance with the ADA Amendments Act of 2008, which became effective on January 1, 2009. In addition, this rule is necessary to make the Department's ADA title II and title III regulations consistent with the ADA title I regulations issued on March 25, 2011 by the Equal Employment Opportunity Commission (EEOC) incorporating the ADA Amendments Act definition of disability.

Summary of Legal Basis: The summary of the legal basis of authority for this regulation is set forth above in the abstract.

Alternatives: In order to ensure consistency in application of the ADA Amendments Act across titles I, II and III of the ADA, this rule is intended to be consistent with the language of the EEOC's rule implementing the ADA Amendments Act with respect to title I of the ADA (employment). The Department will, however, consider alternative regulatory language suggested by commenters so long as it maintains that consistency.

Anticipated Cost and Benefits:

The Department's preliminary analysis indicates that the proposed rule would not be “economically significant,” that is, the rule will not have an annual effect on the economy of $100 million, or adversely affect in a material way the economy, a sector of the economy, the environment, public health or safety or State, local or tribal governments or communities. According to the Department's preliminary analysis, it is anticipated that the rule will cost between $36.32 million and $61.8 million in the first year (the year with the highest costs). The Department estimates that in the first year of the implementation of the proposed rule, approximately 142,000 students will take advantage of additional testing accommodations than otherwise would have been able to without the changes made to the definition of disability to conform to the ADA Amendments Act. The Department believes that this will result in benefits for many of these individuals in the form of significantly higher earnings potential. The Department expects that the rule will also have significant non-quantifiable benefits to persons with newly covered disabilities in other contexts, such as benefits of non-exclusion from the programs, services and activities of State and local governments and public accommodations, and the benefits of access to reasonable modifications of policies, practices and procedures to meet their needs in a variety of contexts. In this NPRM, the Department will be soliciting public comment in response to its preliminary analysis.

Risks: The ADA authorizes the Attorney General to enforce the ADA and to promulgate regulations implementing the law's requirements. Failure to update the Department's regulations to conform to statutory changes and to be consistent with the EEOC regulations under title I of the ADA will interfere with the Department's enforcement efforts and lead to confusion about the law's requirements among entities covered by titles I, II and III of the ADA, as well as members of the public.

Timetable:

Action | Date | FR Cite
NPRM | 01/30/14 | 79 FR 4839
NPRM Comment Period End | 03/31/14
Final Action | 03/00/15

Regulatory Flexibility Analysis Required: No.

Small Entities Affected: Businesses, Governmental Jurisdictions.

Government Levels Affected: Local, State.

Agency Contact: Rebecca B. Bond, Chief, Department of Justice, Civil Rights Division, Disability Rights Section, 950 Pennsylvania Ave. NW., Washington, DC 20530, Phone: 800 514-0301.

RIN: 1190-AA59

BILLING CODE 4410-BP-P

U.S. DEPARTMENT OF LABOR

Fall 2014 Statement of Regulatory Priorities

Introduction

For over 100 years, the U.S. Department of Labor has been central to safeguarding and expanding the American Dream for America's working families. The Department's Fall 2014 Regulatory Agenda is driven by a commitment to the basic bargain of America—if you work hard and play by the rules and take responsibility for yourself and your family, you can succeed in and climb the rungs of the middle class. There are many components to Secretary Thomas E. Perez's opportunity agenda that are reflected in the Department's regulatory agenda:

• training more people, including veterans and people with disabilities, to have the skills they need for the in-demand jobs of the 21st century;

• ensuring that people have the peace of mind that comes with access to health care, retirement, and Federal workers' compensation benefits when they need them;

• safeguarding a fair day's pay for a fair day's work for all hardworking Americans, regardless of race, gender, religion, sexual orientation, or gender identity;

• giving workers a voice in their workplaces; and

• protecting the safety and health of workers so they do not have to risk their lives for a paycheck.

The values embodied in the Department's regulatory agenda are America's values. In developing the Department's regulatory agenda, with a focus on strengthening our economy, the Department has sought input and expertise from a broad cross section of American society, including business leaders, workers, labor organizations, academics and state and local officials. Expanding opportunity benefits all of us. When the middle class is strong, our nation is strong.

The Fall 2014 Regulatory Agenda reflects the Department's commitment to rebuilding this strength through expanding opportunity.

The Department's Regulatory Priorities

The Department of Labor 2014 Regulatory Plan highlights the most noteworthy and significant regulatory projects that will be undertaken by its regulatory agencies: the Employee Benefits Security Administration (EBSA), Employment and Training Administration (ETA), Mine Safety and Health Administration (MSHA), Office of Federal Contract Compliance Programs (OFCCP), Occupational Safety and Health Administration (OSHA), Office of Labor-Management Standards (OLMS), Office of Workers' Compensation Programs (OWCP), Veterans' Employment Service (VETS), and Wage and Hour Division (WHD). The initiatives and priorities listed in the regulatory plan exemplify the five components of the Secretary's opportunity agenda.

Training More People for Twenty-First Century Jobs

The Department's regulatory priorities reflect the Secretary's vision for a demand-driven workforce investment system that serves the needs of businesses and workers alike. For example:

• ETA seeks to develop and issue a Notice of Proposed Rulemaking (NPRM) that implements the important changes made to the public workforce system by the Workforce Innovation and Opportunity Act (WIOA) (Pub. L. 113-128), which was signed by the President on July 22, 2014, replacing the Workforce Investment Act of 1998 (WIA). This NPRM will help the Department implement WIOA, empowering the public workforce system and its partners to increase employment, retention, and earnings of participants, meet the skill requirements of employers, and enhance the productivity and competitiveness of the nation.¹

¹ Workforce Innovation and Opportunity Act (RIN: 1205-AB73).

• ETA also proposes to update the National Apprenticeship Act of 1937's equal opportunity regulations, which prohibit discrimination in registered apprenticeship on the basis of race, color, religion, national origin, and sex, and which require that program sponsors take affirmative action to provide equal opportunity. Most notably, the proposed rule would update equal opportunity standards to include age (40 and older) and disability among the list of protected bases. It would also strengthen the affirmative action provisions by detailing mandatory actions that sponsors must take, and by requiring affirmative action for individuals with disabilities.²

² Equal Employment Opportunity in Apprenticeship Amendment of Regulations (RIN: 1205-AB59).

Ensuring Access to Health Care, Retirement, and Workers' Compensation Benefits

The Department is pursuing a regulatory program that is designed to safeguard the retirement security of participants and beneficiaries by protecting their rights and benefits under pension plans and by encouraging, fostering, and promoting openness, transparency, and communication with respect to the management and operations of such plans. Examples include:

• EBSA's rulemaking to help assure workers' retirement security by reducing harmful conflicts of interest in the retirement savings marketplace so that the millions of plan sponsors, workers, and retirees get the impartial advice they have a right to expect when they rely on an adviser to help them invest their retirement savings. The regulation would clarify the circumstances under which a person will be considered a “fiduciary” when providing investment advice related to retirement plans, individual retirement accounts, and other employee benefit plans, and to participants, beneficiaries, and owners of such plans and accounts.³

³ Conflict of Interest Rule: Investment Advice (RIN: 1210-AB32).

• EBSA continues to pursue initiatives to encourage the offering of lifetime annuities or similar lifetime benefit distribution options for participants and beneficiaries of defined contribution plans. EBSA is developing a proposal relating to the presentation of a participant's accrued benefits (account balance) as a lifetime income stream of payments.⁴ EBSA is also developing proposed amendments to a safe harbor regulation that will provide plan fiduciaries with more certainty that they have discharged their obligations under section 404(a)(1)(B) of ERISA in selecting an annuity plan provider and contract for benefit distributions from an individual account retirement plan.⁵

⁴ Pension Benefit Statement (RIN 1210-AB20).

⁵ Selection of Annuity Providers—Safe Harbor for Individual Account Plans (RIN: 1201-AB58).

EBSA's regulatory program also includes initiatives involving Annual Funding Notices ⁶ and Standards for Brokerage Windows.⁷

⁶ (RIN: 1210-AB18).

⁷ (RIN: 1210-AB59).

In addition, EBSA will continue to issue guidance implementing the health reform provisions of the Affordable Care Act to help provide better quality health care for America's workers and their families. EBSA's regulations reduce discrimination in health coverage, promote better access to quality coverage, and protect the ability of individuals and businesses to keep their current health coverage. Many regulations are joint rulemakings with the Departments of Health and Human Services and the Treasury.

The Department also pursues regulations to ensure that Federal workers' compensation benefits programs are fairly administered:

• OWCP plans to propose several modifications and clarifications to the regulations implementing the Black Lung Benefits Act, including a rule that addresses claimants' and coal mine operators' responsibility to disclose medical evidence developed in connection with a claim for benefits. In addition, the proposed regulation would make several clarifications regarding reimbursement rates for medical treatment, the modification procedure, evidence-submission limits, and compensation payments.⁸

⁸ Black Lung Benefits Act: Medical Evidence and Benefit Payments (RIN: 1240-AA10).

Safeguarding Fair Pay for All Americans

The Department's regulatory agenda prioritizes ensuring that all Americans receive a fair day's pay for a fair day's work, and are not discriminated against with respect to hiring, employment, or benefits on the basis of race, gender, sexual orientation, or gender identity. For example, WHD recently published a Final Rule to implement Executive Order 13658, which the President signed in February 2014 to ensure that certain Federal contractors pay a minimum wage of at least $10.10 per hour beginning on January 1, 2015. Other notable proposals include:

• WHD plans to publish an NPRM proposing revisions to the Fair Labor Standards Act's (FLSA's) overtime exemptions as directed by a March 2014 Presidential Memorandum. The FLSA generally requires covered employers to pay their employees at least the Federal minimum wage for all hours worked, and one-and-one-half times their regular rate of pay for hours worked in excess of 40 in a workweek (“overtime”). However, there are a number of exemptions from the FLSA's minimum wage and overtime requirements, including an exemption for bona fide executive, administrative, or professional employees. The President's Memorandum directed the Secretary to modernize and streamline the existing overtime regulations for these “white collar” employees to ensure that hardworking middle-class workers are not denied overtime protections that Congress intended.⁹

⁹ Defining and Delimiting the Exemptions for Executive, Administrative, Professional, Outside Sales, and Computer Employees (RIN: 1235-AA11).

• WHD also plans to publish a Final Rule revising the definition of “spouse” in the Family and Medical Leave Act (FMLA) in light of the United States Supreme Court's decision in United States v. Windsor. This Department previously issued an NPRM proposing that eligible employees in legal same-sex marriages may take unpaid, job-protected leave to care for their spouse or family member, regardless of whether their state of residence recognizes their same-sex marriage.¹⁰

¹⁰ Family and Medical Leave Act of 1993, as amended (RIN: 1235-AA09).

• OFCCP's rulemaking implementing Executive Order 13672, signed by the President in July 2014 to amend Executive Order 11246, ensures that Federal contractors do not engage in hiring or employment discrimination based on sexual orientation or gender identity. The Executive Order required the Department to prepare regulations within 90 days of the date of the Order to insert “sexual orientation, gender identity” into identified paragraphs of section 2 of Executive Order 11246.¹¹

¹¹ Implementation of Executive Order 13672 Prohibiting Discrimination Based on Sexual Orientation and Gender Identity by Contractors and Subcontractors (RIN: 1250-AA07).

• OFCCP plans to issue a Final Rule pursuant to a Presidential Memorandum directing the Department to require Federal contractors and subcontractors to submit summary data on the compensation paid to their employees. The use of this sort of “Equal Pay Report” is one component of a larger strategy to address the reality that, despite five decades of extraordinary legal and social progress, working women still earn only 78 cents for every dollar that working men earn, and the amount is even less for African American women and Latinas. The new rule will enable OFCCP to direct its enforcement resources toward Federal contractors whose summary data indicate potential pay disparities, while reducing the likelihood of reviewing companies that are in compliance with anti-discrimination laws.¹²

¹² Requirement to Report Summary Data on Employee Compensation (RIN: 1250-AA03).

OFCCP also continues to pursue an initiative on Construction Contractor Affirmative Action Requirements.¹³

¹³ (RIN: 1250-AA01).

Giving Workers a Voice in Their Workplaces

The Department's regulatory program also promotes policies that give workers a voice in their workplaces, including by ensuring that workers have information that is critical to their effective participation in the workplace. Two key examples include:

• OFCCP plans to issue a Final Rule implementing Executive Order 13665, which the President signed on April 8, 2014, prohibiting discrimination by Federal contractors and subcontractors against certain of their employees for disclosing compensation information. This Executive Order was intended to address policies inhibiting workers' ability to advocate for themselves about their pay and prohibiting employee conversations about compensation. Such policies can serve as a significant barrier to Federal enforcement of the laws against compensation discrimination.¹⁴

¹⁴ Prohibitions Against Pay Secrecy Policies and Actions (RIN: 1250-AA06).

• OLMS plans to publish a Final Rule following an NPRM that proposed regulations to better implement the public disclosure objectives of the Labor-Management Reporting and Disclosure Act (LMRDA) in situations where an employer engages a consultant in order to persuade employees concerning their rights to organize and bargain collectively. Workers are better able to make an informed choice about representation when they have the necessary information about arrangements that have been made by their employer to persuade them whether or not to form, join, or assist a union. While the LMRDA requires employers to file reports of any agreement or arrangement with a consultant to persuade employees concerning their rights to organize and collectively bargain, the statute provides an exception for consultants giving or agreeing to give “advice” to the employer. The Department's NPRM reconsidered the current policy concerning the scope of the “advice” exception.¹⁵

¹⁵ Persuader Agreements: Employer and Labor Relations Consultant Reporting Under the LMRDA (RIN: 1245-AA03).

Protecting the Safety and Health of Workers

The Department's regulatory agenda prioritizes efforts to protect the safety and health of workers so they do not have to risk their lives for a paycheck. These efforts encompass protecting workers in all workplaces, including above- and below-ground coal and metal/nonmetal mines, in addition to efforts to ensure that benefits programs are available to workers and their families when they are injured on the job. Notable examples of these efforts include:

• OSHA continues to pursue regulations aimed at curbing lung cancer, silicosis, chronic obstructive pulmonary disease and kidney disease in America's workers by lowering worker exposure to crystalline silica, which kills hundreds and sickens thousands more each year. OSHA estimates that the proposed rule would ultimately save nearly 700 lives and prevent 1,600 new cases of silicosis annually. After publishing a proposed rule in September 2013, OSHA received over 1,700 comments from the public on the proposed rule, and over 200 stakeholders provided testimony during public hearings on the proposal. In the coming months, the agency will review and consider the evidence in the rulemaking record. Based upon this review, OSHA will determine an appropriate course of action with regard to workplace exposure to respirable crystalline silica.¹⁶ As a part of the Secretary's strategy for securing safe and healthy work environments, MSHA will utilize information provided by OSHA to undertake regulatory action related to silica exposure in mines.¹⁷

¹⁶ Occupational Exposure to Crystalline Silica (RIN: 1218-AB70).

¹⁷ Respirable Crystalline Silica Standard (RIN: 1219-AB36).

• OSHA is considering the need for regulatory action to address the risk to workers exposed to infectious diseases in healthcare and other related high-risk environments. Especially given recent events necessitating the careful treatment of individuals with life-threatening infectious diseases, OSHA is concerned about the risk posed to healthcare workers with the movement of healthcare delivery from the traditional hospital setting into more diverse and smaller workplace settings. The Agency initiated the Small Business Regulatory Enforcement Fairness Act (SBREFA) Panel process in the spring of 2014.¹⁸

¹⁸ Infectious Diseases (RIN: 1218-AC46).

• OSHA is developing a Final Rule exploring a requirement for employers to electronically submit data required by agency regulations governing the Recording and Reporting of Occupational Injuries. An updated and modernized reporting system would enable a more efficient and timely collection of data and would improve the accuracy and availability of relevant records and statistics, in addition to leveraging data already maintained electronically by many large employers.¹⁹

¹⁹ Improve Tracking of Workplace Injuries and Illnesses (RIN: 1218-AC49).

• MSHA plans to issue a Final Rule that would build upon a proposed rule to address the danger that miners face when working near continuous mining machines in underground coal mines. From 1984 through 2014, there have been 35 fatalities resulting from pinning, crushing or striking accidents involving continuous mining machines—the types of accidents that proximity detection technology can prevent. The proposed rule would reduce the potential for such hazards.²⁰ MSHA also plans to publish a proposed rule that would require underground mine operators to equip certain mobile machines with proximity detection systems.²¹

²⁰ Proximity Detection Systems for Continuous Mining Machines in Underground Coal Mines (RIN: 1219-AB65).

²¹ Proximity Detection Systems for Mobile Machines in Underground Mines (RIN: 1219-AB78).

OSHA's regulatory program also includes initiatives involving Injury and Illness Prevention Programs,²² Occupational Exposure to Beryllium,²³ Preventing Backover Injuries and Fatalities,²⁴ and various Whistleblower regulations.

²² (RIN: 1218-AC48).

²³ (RIN: 1218-AB76).

²⁴ (RIN: 1218-AC51).

Regulatory Review and Burden Reduction

On January 18, 2011, the President issued Executive Order (E.O.) 13563 entitled “Improving Regulation and Regulatory Review.” The E.O. aims to strike the right balance between protecting the health, welfare, safety, and the environment for all Americans—a goal at the core of the Labor Department's mission—while fostering economic growth, job creation, and competitiveness. The Department's Fall 2014 Regulatory Agenda also aims to achieve more efficient and less burdensome regulations through a retrospective review of the Labor Department regulations.

In August 2011, as part of a governmentwide response to E.O. 13563, the Department published its “Plan for Retrospective Analysis of Existing Rules.” This plan, and each subsequent update, can be found at www.dol.gov/regulations/. The Department's Fall 2014 Agenda includes 12 retrospective review projects, which are listed below pursuant to section 6 of E.O. 13563. More information about completed rulemakings no longer included in the plan can be found on Reginfo.gov.

Agency | Regulatory Identifier No. | Title of rulemaking | Whether it is expected to significantly reduce burdens on small businesses
EBSA | 1210-AB47 | Amendment of Abandoned Plan Program | Yes.
EBSA | 1210-AB63 | 21st Century Initiative to Modernize the Form 5500 Series and Implementing and Related Regulations | No.
ETA | 1205-AB59 | Equal Employment Opportunity in Apprenticeship and Training, Amendment of Regulations | To Be Determined.
ETA | 1205-AB62 | Implementation of Total Unemployment Rate Extended Benefits Trigger and Rounding Rule | No.
MSHA | 1219-AB72 | Criteria and Procedures for Proposed Assessment of Civil Penalties (Part 100) | To Be Determined.
OFCCP | 1250-AA05 | Sex Discrimination Guidelines | To Be Determined.
OSHA | 1218-AC34 | Bloodborne Pathogens | No.
OSHA | 1218-AC67 | Standard Improvement Project—Phase IV (SIP IV) | Yes.
OSHA | 1218-AC74 | Review/Lookback of OSHA Chemical Standards | To Be Determined.
OSHA | 1218-AC81 | Cranes and Derricks in Construction: Amendments | To Be Determined.
OSHA | 1218-AC82 | Process Safety Management and Flammable Liquids | To Be Determined.
OSHA | 1218-AC49 | Improve Tracking of Workplace Injuries and Illnesses | To Be Determined.

DOL—EMPLOYMENT AND TRAINING ADMINISTRATION (ETA)

Proposed Rule Stage

96. • Workforce Innovation and Opportunity Act

Priority: Other Significant. Major status under 5 U.S.C. 801 is undetermined.

Unfunded Mandates: Undetermined.

Legal Authority: sec 503(f) of the Workforce Innovation and Opportunity Act (Pub. L. 113-128)

CFR Citation: Not Yet Determined.

Legal Deadline: NPRM, Statutory, January 18, 2015, Public Law 113-128.

Final, Statutory, January 18, 2016.

Abstract: On July 22, 2014, the President signed the Workforce Innovation Opportunity Act (WIOA) (Pub. L. 113-128). WIOA repeals the Workforce Investment Act of 1998 (WIA). (29 U.S.C. 2801 et seq.) The Department of Labor must develop and issue a Notice of Proposed Rulemaking (NPRM) that proposes to implement the changes WIOA makes to the public workforce system in regulations. Through the NPRM, the Department will propose ways to carry out the purposes of WIOA to provide workforce investment activities, through State and local workforce development systems, that increase employment, retention, and earnings of participants, meet the skill requirements of employers, and enhance the productivity and competitiveness of the Nation.

Statement of Need: On July 22, 2014, the President signed the Workforce Innovation Opportunity Act (WIOA) (Pub. L. 113-128) into law. WIOA repeals the Workforce Investment Act of 1998 (WIA) (29 U.S.C. 2801 et seq.) As a result, the WIA regulations no longer reflect current law and we must change. Therefore, the Department of Labor seeks to develop and issue a Notice of Proposed Rulemaking (NPRM) that proposes to implement the WIOA.

Summary of Legal Basis: The Workforce Innovation Opportunity Act (WIOA) (Pub. L. 113-128), signed by the President on July 22, 2014. Section 503(f) of WIOA requires that the Department issue a Notice of Proposed Rulemaking (NPRM) and then Final Rule that implements the changes WIOA makes to the public workforce system in regulations.

Alternatives: Since Congress statutorily directed the Department of Labor to issue a Notice of Proposed Rulemaking (NPRM) and Final Rule that implements the changes WIOA makes to the public workforce system there is no alternative.

Anticipated Cost and Benefits: Undetermined.

Risks: Undetermined.

Timetable:

Action | Date | FR Cite
NPRM | 01/00/15

Regulatory Flexibility Analysis Required: Yes.

Small Entities Affected: Businesses, Governmental Jurisdictions, Organizations.

Government Levels Affected: Federal, Local, State, Tribal.

Federalism: This action may have federalism implications as defined in EO 13132.

Agency Contact: Portia Wu, Assistant Secretary for Employment and Training, Department of Labor, Employment and Training Administration, 200 Constitution Avenue NW., FP Building, Washington, DC 20210, Phone: 202 639-2700.

RIN: 1205-AB73

DOL—MINE SAFETY AND HEALTH ADMINISTRATION (MSHA)

Proposed Rule Stage

97. Respirable Crystalline Silica

Priority: Other Significant.

Legal Authority: 30 U.S.C. 811

CFR Citation: 30 CFR 58.

Legal Deadline: None.

Abstract: Current standards limit exposures to quartz (crystalline silica) in respirable dust. The metal and nonmetal mining industry standard is based on the 1973 American Conference of Governmental Industrial Hygienists (ACGIH) Threshold Limit Values formula: 10 mg/m3 divided by the percentage of quartz plus 2. Overexposure to crystalline silica can result in some miners developing silicosis, an irreversible but preventable lung disease, which ultimately may be fatal. The formula is designed to limit exposures to 0.1 mg/m3 (100 ug/m3) of silica. The National Institute for Occupational Safety and Health (NIOSH) recommends a 50 ug/m3 exposure limit for respirable crystalline silica. MSHA will publish a proposed rule to address miners' exposure to respirable crystalline silica.

Statement of Need: MSHA standards are outdated; current regulations may not protect workers from developing silicosis. Evidence indicates that miners continue to develop silicosis. MSHA's proposed regulatory action exemplifies the Agency's commitment to protecting the most vulnerable populations while assuring broad-based compliance. MSHA will regulate based on sound science to eliminate or reduce the hazards with the broadest and most serious consequences. MSHA intends to use OSHA's work on the health effects and risk assessment, adapting it as necessary for the mining industry.

Summary of Legal Basis: Promulgation of this standard is authorized by section 101 of the Federal Mine Safety and Health Act of 1977.

Alternatives: This rulemaking would improve health protection from that afforded by the existing standards. MSHA will consider alternative methods of addressing miners' exposures based on the capabilities of the sampling and analytical methods.

Anticipated Cost and Benefits: MSHA will prepare estimates of the anticipated costs and benefits associated with the proposed rule.

Risks: For over 70 years, toxicology information and epidemiological studies have shown that exposure to respirable crystalline silica presents potential health risks to miners. These potential adverse health effects include simple silicosis and progressive massive fibrosis (lung scarring). Evidence indicates that exposure to silica may cause cancer. MSHA believes that the health evidence forms a reasonable basis for reducing miners' exposures to respirable crystalline silica.

Timetable:

Action | Date | FR Cite
NPRM | 10/00/15

Regulatory Flexibility Analysis Required: Undetermined.

Small Entities Affected: Businesses, Governmental Jurisdictions.

Government Levels Affected: Local, State.

URL for More Information: www.msha.gov/regsinfo.htm.

URL for Public Comments: www.regulations.gov.

Agency Contact: Sheila McConnell, Acting Director, Office of Standards, Regulations, and Variances, Department of Labor, Mine Safety and Health Administration, 1100 Wilson Boulevard, Room 2350, Arlington, VA 22209, Phone: 202 693-9440, Fax: 202 693-9441, Email: mcconnell.sheila.a@dol.gov.

RIN: 1219-AB36

DOL—MSHA

98. Criteria and Procedures for Proposed Assessment of Civil Penalties

Priority: Other Significant.

Legal Authority: 30 U.S.C. 815; 30 U.S.C. 820; 30 U.S.C. 957

CFR Citation: 30 CFR 100.

Legal Deadline: None.

Abstract: Mine Safety and Health Administration (MSHA) revise the process for proposing civil penalties. The assessment of civil penalties is a key component in MSHA's strategy to enforce safety and health standards. The Congress intended that the imposition of civil penalties would induce mine operators to be proactive in their approach to mine safety and health, and take necessary action to prevent safety and health hazards before they occur. MSHA believes that the procedures for assessing civil penalties can be revised to improve the efficiency of the Agency's efforts and to facilitate the resolution of enforcement issues.

Statement of Need: Section 110(a) of the Federal Mine Safety and Health Act of 1977 (Mine Act) requires MSHA to assess a civil penalty for a violation of a mandatory health or safety standard or violation of any provision of the Mine Act. The mine operator has 30 days from receipt of the proposed assessment to contest it before the Federal Mine Safety and Health Review Commission (Commission), an independent adjudicatory agency established under the Mine Act. A proposed assessment that is not contested within 30 days becomes a final order of the Commission. A proposed assessment that is contested within 30 days proceeds to the Commission for adjudication. The proposed rule would promote consistency, objectivity, and efficiency in the proposed assessment of civil penalties. When issuing citations or orders, inspectors are required to evaluate safety and health conditions, and make decisions about the statutory criteria related to assessing penalties. The proposed changes in the measures of the evaluation criteria would result in fewer areas of disagreement and earlier resolution of enforcement issues. The proposal would require conforming changes to the Mine Citation/Order form (MSHA Form 7000-3).

Summary of Legal Basis: Section 104 of the Mine Act requires MSHA to issue citations or orders to mine operators for any violations of a mandatory health or safety standard, rule, order, or regulation promulgated under the Mine Act. Sections 105 and 110 of the Mine Act provide for assessment of these penalties.

Alternatives: The proposal would include several alternatives in the preamble and requests comments on them.

Anticipated Cost and Benefits: MSHA's proposed rule includes an estimate of the anticipated costs and benefits.

Risks: MSHA's existing procedures for assessing civil penalties can be revised to improve the efficiency of the Agency's efforts and to facilitate the resolution of enforcement issues. In the overwhelming majority of contested cases before the Commission, the issue is not whether a violation occurred. Rather, the parties disagree on the gravity of the violation, the degree of mine operator negligence, and other criterion. The proposed changes should result in fewer areas of disagreement and earlier resolution of enforcement issues, which should result in fewer contests of violations or proposed assessments.

Timetable:

Action | Date | FR Cite
NPRM | 07/31/14 | 79 FR 44494
NPRM Comment Period End | 09/29/14 |
NPRM Comment Period Extended | 09/16/14 | 79 FR 55408
NPRM Comment Period Extended End | 12/03/14 |
NPRM Notice of Public Hearings, Close of Comment Period | 11/07/14 | 79 FR 66345
NPRM Notice of Public Hearings, Close of Comment Period End | 01/09/15 |

Regulatory Flexibility Analysis Required: Undetermined.

Small Entities Affected: Businesses.

Government Levels Affected: None.

URL for More Information: www.msha.gov/regsinfo.htm.

URL for Public Comments: www.regulations.gov.

Agency Contact: Sheila McConnell, Acting Director, Office of Standards, Regulations, and Variances, Department of Labor, Mine Safety and Health Administration, 1100 Wilson Boulevard, Room 2350, Arlington, VA 22209, Phone: 202-693-9440, Fax: 202-693-9441, Email: mcconnell.sheila.a@dol.gov.

RIN: 1219-AB72

DOL—MSHA

99. Proximity Detection Systems for Mobile Machines in Underground Mines

Priority: Other Significant.

Legal Authority: 30 U.S.C. 811

CFR Citation: Not Yet Determined.

Legal Deadline: None.

Abstract: Mine Safety and Health Administration (MSHA) will develop a proposed rule to address the hazards that miners face when working near mobile equipment in underground mines. MSHA has concluded, from investigations of accidents involving mobile equipment and other reports, that action is needed to protect miner safety. Mobile equipment can pin, crush, or strike a miner working near the equipment. Proximity detection technology can prevent these types of accidents. The proposed rule would strengthen the protection for underground miners by reducing the potential of pinning, crushing, or striking hazards associated with working close to mobile equipment.

Statement of Need: Mining is one of the most hazardous industries in this country. Miners continue to be injured or killed resulting from pinning, crushing, or striking accidents involving mobile equipment. Equipment is available to help prevent accidents that cause debilitating injuries and accidental death.

Summary of Legal Basis: Promulgation of this standard is authorized by section 101(a) of the Federal Mine Safety and Health Act of 1977, as amended by the Mine Improvement and New Emergency Response Act of 2006.

Alternatives: No reasonable alternatives to this regulation would be as comprehensive or as effective in eliminating hazards and preventing injuries.

Anticipated Cost and Benefits: MSHA will develop a preliminary regulatory economic analysis to accompany the proposed rule.

Risks: The lack of proximity detection systems on mobile equipment in underground mines contributes to a higher incidence of debilitating injuries and accidental deaths.

Timetable:

Action | Date | FR Cite
Request for Information | 02/01/10 | 75 FR 5009
RFI Comment Period Ended | 04/02/10 |
NPRM | 01/00/15 |

Regulatory Flexibility Analysis Required: No.

Small Entities Affected: Businesses.

Government Levels Affected: None.

URL for More Information: www.msha.gov/regsinfo.htm.

URL for Public Comments: www.regulations.gov.

Agency Contact: Sheila McConnell, Acting Director, Office of Standards, Regulations, and Variances, Department of Labor, Mine Safety and Health Administration, 1100 Wilson Boulevard, Room 2350, Arlington, VA 22209, Phone: 202 693-9440, Fax: 202 693-9441, Email: mcconnell.sheila.a@dol.gov.

Related RIN: Related to 1219-AB65

RIN: 1219-AB78

DOL—MSHA

Final Rule Stage

100. Proximity Detection Systems for Continuous Mining Machines in Underground Coal Mines

Priority: Other Significant.

Legal Authority: 30 U.S.C. 811.

CFR Citation: 30 CFR 75.1732.

Legal Deadline: None.

Abstract: This final rule addresses hazards that miners face when working near continuous mining machines in underground coal mines. Mine Safety and Health Administration (MSHA) has concluded, from investigations of accidents involving continuous mining machines and other reports, that action is necessary to protect miners. Continuous mining machines can pin, crush, or strike a miner working near the equipment. Proximity detection technology can prevent these types of accidents. The final rule would strengthen the protection for underground coal miners by reducing the potential of pinning, crushing, or striking hazards associated with working close to continuous mining machines.

Statement of Need: Mining is one of the most hazardous industries in this country. Miners continue to be injured or killed resulting from pinning, crushing, or striking accidents involving mobile equipment. Equipment is available to help prevent accidents that cause debilitating injuries and accidental death.

Summary of Legal Basis: Promulgation of this standard is authorized by section 101(a) of the Federal Mine Safety and Health Act of 1977, as amended by the Mine Improvement and New Emergency Response Act of 2006.

Alternatives: No reasonable alternatives to this regulation would be as comprehensive or as effective in eliminating hazards and preventing injuries.

Anticipated Cost and Benefits: MSHA will develop a regulatory economic analysis to accompany the final rule.

Risks: The lack of proximity detection systems on continuous mining machines in underground coal mines contributes to a higher incidence of debilitating injuries and accidental deaths.

Timetable:

Action | Date | FR Cite
Request for Information (RFI) | 02/01/10 | 75 FR 5009
RFI Comment Period Ended | 04/02/10 |
NPRM | 08/31/11 | 76 FR 54163
Notice of Public Hearing | 10/12/11 | 76 FR 63238
NPRM Comment Period End | 11/14/11 |
Final Action | 12/00/14 |

Regulatory Flexibility Analysis Required: No.

Small Entities Affected: Businesses.

Government Levels Affected: None.

URL for More Information: www.msha.gov/reginfo.htm.

URL for Public Comments: www.regulations.gov.

Agency Contact: Sheila McConnell, Acting Director, Office of Standards and Variances, Department of Labor, Mine Safety and Health Administration, 1100 Wilson Boulevard, Room 2350, Arlington, VA 22209, Phone: 202 693-9440, Fax: 202 693-9441, Email: mcconnell.sheila.a@dol.gov.

Related RIN: Related to 1219-AB78

RIN: 1219-AB65

DOL—OCCUPATIONAL SAFETY AND HEALTH ADMINISTRATION (OSHA)

Prerule Stage

101. Infectious Diseases

Priority: Economically Significant. Major status under 5 U.S.C. 801 is undetermined.

Legal Authority: 5 U.S.C. 533; 29 U.S.C. 657 and 658; 29 U.S.C. 660; 29 U.S.C. 666; 29 U.S.C. 669; 29 U.S.C. 673; ...

CFR Citation: 29 CFR 1910.

Legal Deadline: None.

Abstract: Employees in health care and other high-risk environments face long-standing infectious disease hazards such as tuberculosis (TB), varicella disease (chickenpox, shingles), and measles (rubeola), as well as new and emerging infectious disease threats, such as Severe Acute Respiratory Syndrome (SARS) and pandemic influenza. Health care workers and workers in related occupations, or who are exposed in other high-risk environments, are at increased risk of contracting TB, SARS, Methicillin-resistant Staphylococcus aureus (MRSA), and other infectious diseases that can be transmitted through a variety of exposure routes. OSHA is concerned about the ability of employees to continue to provide health care and other critical services without unreasonably jeopardizing their health. OSHA is considering the need for a standard to ensure that employers establish a comprehensive infection control program and control measures to protect employees from infectious disease exposures to pathogens that can cause significant disease. Workplaces where such control measures might be necessary include: Health care, emergency response, correctional facilities, homeless shelters, drug treatment programs, and other occupational settings where employees can be at increased risk of exposure to potentially infectious people. A standard could also apply to laboratories, which handle materials that may be a source of pathogens, and to pathologists, coroners' offices, medical examiners, and mortuaries.

Statement of Need: In 2007, the healthcare and social assistance sector as a whole had 16.5 million employees. Healthcare workplaces can range from small private practices of physicians to hospitals that employ thousands of workers. In addition, healthcare is increasingly being provided in other settings such as nursing homes, free-standing surgical and outpatient centers, emergency care clinics, patients' homes, and prehospitalization emergency care settings. The Agency is particularly concerned by studies that indicate that transmission of infectious diseases to both patients and healthcare workers may be occurring as a result of incomplete adherence to recognized, but voluntary, infection control measures. Another concern is the movement of healthcare delivery from the traditional hospital setting, with its greater infrastructure and resources to effectively implement infection control measures, into more diverse and smaller workplace settings with less infrastructure and fewer resources, but with an expanding worker population.

Summary of Legal Basis: The Occupational Safety and Health Act of 1970 authorizes the Secretary of Labor to set mandatory occupational safety and health standards to assure safe and healthful working conditions for working men and women (29 U.S.C. 651).

Alternatives: The alternative to the proposed rulemaking would be to take no regulatory action.

Anticipated Cost and Benefits: The estimates of the costs and benefits are still under development.

Risks: Analysis of risks is still under development.

Timetable:

Action | Date | FR Cite
Request for Information (RFI) | 05/06/10 | 75 FR 24835
RFI Comment Period End | 08/04/10 |
Analyze Comments | 12/30/10 |
Stakeholder Meetings | 07/29/11 |
Initiate SBREFA | 06/04/14 |
Complete SBREFA | 12/00/14 |

Regulatory Flexibility Analysis Required: Yes.

Small Entities Affected: Businesses, Governmental Jurisdictions.

Government Levels Affected: Local, State.

Federalism: Undetermined.

Agency Contact: William Perry, Director, Directorate of Standards and Guidance, Department of Labor, Occupational Safety and Health Administration, 200 Constitution Avenue NW., Room N-3718, Washington, DC 20210, Phone: 202 693-1950, Fax: 202 693-1678, Email: perry.bill@dol.gov.

RIN: 1218-AC46

DOL—OSHA

Proposed Rule Stage

102. Occupational Exposure to Crystalline Silica

Priority: Economically Significant. Major under 5 U.S.C. 801.

Unfunded Mandates: This action may affect the private sector under Pub. L. 104-4.

Legal Authority: 29 U.S.C. 655(b); 29 U.S.C. 657

CFR Citation: 29 CFR 1910; 29 CFR 1915; 29 CFR 1917; 29 CFR 1918; 29 CFR 1926.

Legal Deadline: None.

Abstract: Crystalline silica is a significant component of the earth's crust, and many workers in a wide range of industries are exposed to it, usually in the form of respirable quartz or, less frequently, cristobalite. Chronic silicosis is a uniquely occupational disease resulting from exposure of employees over long periods of time (10 years or more). Exposure to high levels of respirable crystalline silica causes acute or accelerated forms of silicosis that are ultimately fatal. The current OSHA permissible exposure limit (PEL) for general industry is based on a formula proposed by the American Conference of Governmental Industrial Hygienists (ACGIH) in 1968 (PEL = 10mg/cubic meter/(% silica + 2), as respirable dust). The current PEL for construction and shipyards (derived from ACGIH's 1970 Threshold Limit Value) is based on particle counting technology, which is considered obsolete. NIOSH and ACGIH recommend 50μg/m3 and 25μg/m3 exposure limits, respectively, for respirable crystalline silica.

Both industry and worker groups have recognized that a comprehensive standard for crystalline silica is needed to provide for exposure monitoring, medical surveillance, and worker training. ASTM International has published recommended standards for addressing the hazards of crystalline silica. The Building Construction Trades Department of the AFL-CIO has also developed a recommended comprehensive program standard. These standards include provisions for methods of compliance, exposure monitoring, training, and medical surveillance.

The NPRM was published on September 12, 2013. OSHA received over 1,700 comments from the public on the proposed rule, and over 200 stakeholders provided testimony during public hearings on the proposal. In the coming months, the agency will review and consider the evidence in the rulemaking record. Based upon this review, OSHA will determine an appropriate course of action with regard to workplace exposure to respirable crystalline silica.

Statement of Need: Workers are exposed to crystalline silica dust in general industry, construction, and maritime industries. Industries that could be particularly affected by a standard for crystalline silica include: Foundries, industries that have abrasive blasting operations, paint manufacture, glass and concrete product manufacture, brick making, china and pottery manufacture, manufacture of plumbing fixtures, and many construction activities including highway repair, masonry, concrete work, rock drilling, and tuckpointing. The seriousness of the health hazards associated with silica exposure is demonstrated by the fatalities and disabling illnesses that continue to occur. From 2006 to 2010 silicosis was identified on 617 death certificates as an underlying or contributing cause of death. It is likely that many more cases have occurred where silicosis went undetected. In addition, the International Agency for Research on Cancer has designated crystalline silica as carcinogenic to humans, and the National Toxicology Program has concluded that respirable crystalline silica is a known human carcinogen. Exposure to crystalline silica has also been associated with an increased risk of developing tuberculosis and other nonmalignant respiratory diseases, as well as renal and autoimmune diseases. Exposure studies and OSHA enforcement data indicate that some workers continue to be exposed to levels of crystalline silica far in excess of current exposure limits. Congress has included compensation of silicosis victims on Federal nuclear testing sites in the Energy Employees' Occupational Illness Compensation Program Act of 2000. There is a particular need for the Agency to modernize its exposure limits for construction and shipyard workers.

Summary of Legal Basis: The legal basis for the proposed rule is a preliminary determination that workers are exposed to a significant risk of silicosis and other serious disease, and that rulemaking is needed to substantially reduce the risk. In addition, the proposed rule will recognize that the PELs for construction and maritime are outdated, and need to be revised to reflect current sampling and analytical technologies.

Alternatives: Over the past several years, the Agency has attempted to address this problem through a variety of non-regulatory approaches, including initiation of a Special Emphasis Program on silica in October 1997, sponsorship with NIOSH and MSHA of the National Conference to Eliminate Silicosis, and dissemination of guidance information on its Web site.

Anticipated Cost and Benefits: The scope of the proposed rulemaking and estimates of the costs and benefits are still under development.

Risks: A detailed risk analysis is under way.

Timetable:

Action | Date | FR Cite
Completed SBREFA Report | 12/19/03 |
Initiated Peer Review of Health Effects and Risk Assessment | 05/22/09 |
Completed Peer Review | 01/24/10 |
NPRM | 09/12/13 | 78 FR 56274
NPRM Comment Period Extended; Notice of Intention to Appear at Pub Hearing; Scheduling Pub Hearing | 10/31/13 | 78 FR 65242
NPRM Comment Period Extended | 01/29/14 | 79 FR 4641
Informal Public Hearing | 03/18/14 |
Post Hearing Briefs Ends | 08/18/14 |
Analyze Comments | 06/00/15 |

Regulatory Flexibility Analysis Required: Yes.

Small Entities Affected: Businesses.

Government Levels Affected: Federal, Local, State, Tribal.

Federalism: This action may have federalism implications as defined in E.O. 13132.

Agency Contact: William Perry, Director, Directorate of Standards and Guidance, Department of Labor, Occupational Safety and Health Administration, 200 Constitution Avenue NW., Room N-3718, Washington, DC 20210, Phone: 202 693-1950, Fax: 202 693-1678, Email: perry.bill@dol.gov.

RIN: 1218-AB70

DOL—OSHA

Final Rule Stage

103. Improve Tracking of Workplace Injuries and Illnesses

Priority: Other Significant.

Legal Authority: 29 U.S.C. 657

CFR Citation: 29 CFR 1904.

Legal Deadline: None.

Abstract: Occupational Safety and Health Administration (OSHA) is making changes to its reporting system for occupational injuries and illnesses. An updated and modernized reporting system would enable a more efficient and timely collection of data, and would improve the accuracy and availability of the relevant records and statistics. This rulemaking involves modification to 29 CFR part 1904.41 to expand OSHA's legal authority to collect and make available injury and illness information required under part 1904.

Statement of Need: The collection of establishment specific injury and illness data in electronic format on a timely basis is needed to help OSHA, employers, employees, researchers, and the public more effectively prevent workplace injuries and illnesses, as well as support President Obama's Open Government Initiative to increase the ability of the public to easily find, download, and use the resulting dataset generated and held by the Federal Government.

Summary of Legal Basis: The Occupational Safety and Health Act of 1970 authorizes the Secretary of Labor to develop and maintain an effective program of collection, compilation, and analysis of occupational safety and health statistics (29 U.S.C. 673).

Alternatives: The alternative to the proposed rulemaking would be to take no regulatory action.

Anticipated Cost and Benefits: The estimates of the costs and benefits are still under development.

Risks: Analysis of risks is still under development.

Timetable:

Action | Date | FR Cite
Stakeholder Meetings | 05/25/10 | 75 FR 24505
Comment Period End | 06/18/10 |
NPRM | 11/08/13 | 78 FR 67253
Notice of Public Meeting | 11/15/13 | 78 FR 68782
Public Meeting | 01/09/13 |
NPRM Comment Period Reopened | 08/14/14 | 79 FR 47605
NPRM Comment Period End | 10/14/14 |
Final Rule | 08/00/15 |

Regulatory Flexibility Analysis Required: No.

Government Levels Affected: None.

Agency Contact: Francis Yebesi, Acting Director, Directorate of Evaluation and Analysis, Department of Labor, Occupational Safety and Health Administration, 200 Constitution Avenue NW., FP Bld, Rm N-3641, Washington, DC 20210, Phone: 202 693-2400, Fax: 202 693-1641, Email: yebesi.francis@dol.gov.

RIN: 1218-AC49

BILLING CODE 4510-04-P

DEPARTMENT OF TRANSPORTATION (DOT)

Introduction: Department Overview and Summary of Regulatory Priorities

The Department of Transportation (DOT) consists of 9 operating administrations and the Office of the Secretary, each of which has statutory responsibility for a wide range of regulations. DOT regulates safety in the aviation, motor carrier, railroad, motor vehicle, commercial space, public transportation, and pipeline transportation areas. DOT also regulates aviation consumer and economic issues and provides financial assistance for programs involving highways, airports, public transportation, the maritime industry, railroads, and motor vehicle safety. In addition, the Department writes regulations to carry out a variety of statutes ranging from the Americans With Disabilities Act to the Uniform Time Act. Finally, DOT develops and implements a wide range of regulations that govern internal DOT programs such as acquisitions and grants, access for the disabled, environmental protection, energy conservation, information technology, occupational safety and health, property asset management, seismic safety, and the use of aircraft and vehicles.

The Department's Regulatory Priorities

The Department's regulatory priorities respond to the challenges and opportunities we face. Our mission generally is as follows:

The national objectives of general welfare, economic growth and stability, and the security of the United States require the development of transportation policies and programs that contribute to providing fast, safe, efficient, and convenient transportation at the lowest cost consistent with those and other national objectives, including the efficient use and conservation of the resources of the United States.

To help us achieve our mission, we have five goals in the Department's Strategic Plan for Fiscal Years 2012-2016:

• Safety: Improve safety by “reducing transportation-related fatalities and injuries.”

• State of Good Repair: Improve the condition of our Nation's transportation infrastructure.

• Economic Competitiveness: Foster “smart strategic investments that will serve the traveling public and facilitate freight movements.”

• Quality of Life: Foster through “coordinated, place-based policies and investments that increase transportation choices and access to transportation services.”

• Environmental Sustainability: Advance environmental sustainability “through strategies such as fuel economy standards for cars and trucks, more environmentally sound construction and operational practices, and by expanding opportunities for shifting freight from less fuel-efficient modes to more fuel-efficient modes.”

In identifying our regulatory priorities for the next year, the Department considered its mission and goals and focused on a number of factors, including the following:

• The relative risk being addressed.

• Requirements imposed by statute or other law.

• Actions on the National Transportation Safety Board “Most Wanted List”.

• The costs and benefits of the regulations.

• The advantages of nonregulatory alternatives.

• Opportunities for deregulatory action.

• The enforceability of any rule, including the effect on agency resources.

This regulatory plan identifies the Department's regulatory priorities—the 17 pending rulemakings chosen, from among the dozens of significant rulemakings listed in the Department's broader regulatory agenda, that the Department believes will merit special attention in the upcoming year. The rules included in the regulatory plan embody the Department's focus on our strategic goals.

The regulatory plan reflects the Department's primary focus on safety—a focus that extends across several modes of transportation. For example:

• The Federal Aviation Administration (FAA) will continue its efforts to implement safety management systems.

• The Federal Motor Carrier Safety Administration (FMCSA) continues its work to strengthen the requirements for Electronic Logging Devices and revise motor carrier safety fitness procedures.

• The National Highway Traffic Safety Administration (NHTSA) will continue its rulemaking efforts to reduce death and injury resulting from incidents involving motorcoaches.

Each of the rulemakings in the regulatory plan is described below in detail. In order to place them in context, we first review the Department's regulatory philosophy and our initiatives to educate and inform the public about transportation safety issues. We then describe the role of the Department's retrospective reviews and its regulatory process and other important regulatory initiatives of OST and of each of the Department's components. Since each transportation “mode” within the Department has its own area of focus, we summarize the regulatory priorities of each mode and of OST, which supervises and coordinates modal initiatives and has its own regulatory responsibilities, such as consumer protection in the aviation industry.

The Department's Regulatory Philosophy and Initiatives

The Department has adopted a regulatory philosophy that applies to all its rulemaking activities. This philosophy is articulated as follows: DOT regulations must be clear, simple, timely, fair, reasonable, and necessary. They will be issued only after an appropriate opportunity for public comment, which must provide an equal chance for all affected interests to participate, and after appropriate consultation with other governmental entities. The Department will fully consider the comments received. It will assess the risks addressed by the rules and their costs and benefits, including the cumulative effects. The Department will consider appropriate alternatives, including nonregulatory approaches. It will also make every effort to ensure that regulation does not impose unreasonable mandates.

The Department stresses the importance of conducting high-quality rulemakings in a timely manner and reducing the number of old rulemakings. To implement this, the Department has required the following actions: (1) Regular meetings of senior DOT officials to ensure effective policy leadership and timely decisions, (2) effective tracking and coordination of rulemakings, (3) regular reporting, (4) early briefings of interested officials, (5) regular training of staff, and (6) adequate allocations of resources. The Department has achieved significant success because of this effort. It allows the Department to use its resources more effectively and efficiently.

The Department's regulatory policies and procedures provide a comprehensive internal management and review process for new and existing regulations and ensure that the Secretary and other appropriate appointed officials review and concur in all significant DOT rules. DOT continually seeks to improve its regulatory process. A few examples include: The Department's development of regulatory process and related training courses for its employees; creation of an electronic rulemaking tracking and coordination system; the use of direct final rulemaking; the use of regulatory negotiation; a continually expanding and improved Internet page that provides important regulatory information, including “effects” reports and status reports (http://www.dot.gov/regulations); and the continued exploration and use of Internet blogs and other Web 2.0 technology to increase and enhance public participation in its rulemaking process.

In addition, the Department continues to engage in a wide variety of activities to help cement the partnerships between its agencies and its customers that will produce good results for transportation programs and safety. The Department's agencies also have established a number of continuing partnership mechanisms in the form of rulemaking advisory committees.

The Department's Retrospective Review of Existing Regulations

In accordance with Executive Order (E.O.) 13563 (Improving Regulation and Regulatory Review), the Department actively engaged in a special retrospective review of our existing rules to determine whether they need to be revised or revoked. This review was in addition to those reviews in accordance with section 610 of the Regulatory Flexibility Act, E.O. 12866, and the Department's Regulatory Policies and Procedures. As part of this effort, we also reviewed our processes for determining what rules to review and ensuring that the rules are effectively reviewed. As a result of the review, we identified many rules for expedited review and changes to our retrospective review process. Pursuant to section 6 of E.O. 13563, the following Regulatory Identifier Numbers (RINs) have been identified as associated with retrospective review and analysis in the Department's final retrospective review of regulations plan. Some of these entries on this list may be completed actions, which do not appear in The Regulatory Plan. If a retrospective review action has been completed it will no longer appear on the list below. However, more information can be found about these completed rulemakings on the Unified Agenda publications at Reginfo.gov in the Completed Actions section for that agency. These rulemakings can also be found on Regulations.gov. The final agency retrospective review plan can be found at http://www.dot.gov/regulations.

Retrospective Review of Existing Regulations
RIN | Rulemaking title | Significantly reduces costs on small businesses
1. 2105-AE29 | Transportation Services for Individuals with Disabilities: Over-the-Road Buses (RRR)
2. 2120-AJ90 | Effective Tether System (Tether Rule) (RRR)
3. 2120-AJ94 | Enhanced Flight Vision System (EFVS) (RRR)
4. 2120-AK24 | Fuel Tank and System Lightning Protection (RRR)
5. 2120-AK28 | Aviation Training Devices; Pilot Certification, Training, and Pilot Schools; Other Provisions (RRR)
6. 2120-AK32 | Acceptance Criteria for Portable Oxygen Concentrators Used Onboard Aircraft (RRR)
7. 2120-AK34 | Flammability Requirements for Transport Category Airplanes (RRR)
8. 2120-AK40 | Elimination of the Air Traffic Control Tower Operator Certificate for Controllers Who Hold a Federal Aviation Administration Credential With a Tower Rating (RRR)
9. 2120-AK44 | Reciprocal Waivers of Claims for Non-Party Customer Beneficiaries, Signature of Waivers of Claims by Commercial Space Transportation Customers. And Waiver of Claims and Assumption of Responsibility for Permitted Activities with No Customer (RRR)
10. 2125-AF62 | Acquisition of Right-of-Way (RRR) (MAP-21)
11. 2125-AF65 | Buy America (RRR)
12. 2126-AB46 | Inspection, Repair, and Maintenance; Driver-Vehicle Inspection Report (RRR)
13. 2126-AB47 | Electronic Signatures and Documents (E-Signatures) (RRR)
14. 2126-AB49 | Elimination of Redundant Maintenance Rule (RRR)
15. 2127-AK98 | Pedestrian Safety Global Technical Regulation (RRR)
16. 2127-AL03 | Part 571 FMVSS No. 205, Glazing Materials, GTR (RRR)
17. 2127-AL05 | Amend FMVSS No. 210 to Incorporate the Use of a New Force Application Device (RRR) | Y
18. 2127-AL17 | 49 CFR Part 595, Subpart C, Make Inoperative Exemptions, Vehicle Modifications to Accommodate People With Disabilities, from FMVSS No. 226 (RRR)
19. 2127-AL20 | Upgrade of LATCH Usability Requirements (MAP-21) (RRR)
20. 2127-AL24 | Rapid Tire Deflation Test in FMVSS No. 110 (RRR)
21. 2127-AL41 | FMVSS No. 571.108 License Plate Mounting Angle (RRR)
22. 2127-AL58 | Upgrade of Rear Impact Guard Requirements for Trailers and Semitrailers (RRR)
23. 2130-AC32 | Positive Train Control Systems: De Minimis Exception, Yard Movements, En Route Failures; Miscellaneous Grade Crossing/Signal and Train Control Amendments (RRR) | Y
24. 2130-AC40 | Qualification and Certification of Locomotive Engineers; Miscellaneous Revisions (RRR)
25. 2130-AC41 | Hours of Service Recordkeeping; Electronic Recordkeeping Amendments (RRR)
26. 2130-AC43 | Safety Glazing Standards; Miscellaneous Revisions (RRR)
27. 2130-AC44 | Revisions to Signal System Reporting Requirements (RRR)
28. 2137-AE38 | Hazardous Materials: Compatibility with the Regulations of the International Atomic Energy Agency (IAEA) (RRR)
29. 2137-AE62 | Hazardous Materials: Approval and Communication Requirements for the Safe Transportation of Air Bag Inflators, Air Bag Modules, and Seat-Belt Pretensioners (RRR)
30. 2137-AE72 | Pipeline Safety: Gas Transmission (RRR) | Y
31. 2137-AE80 | Hazardous Materials: Miscellaneous Pressure Vessel Requirements (DOT Spec Cylinders) (RRR) | Y
32. 2137-AE81 | Hazardous Materials: Reverse Logistics (RRR) | Y
33. 2137-AE85 | Pipeline Safety: Periodic Updates of Regulatory References to Technical Standards and Miscellaneous Amendments (RRR)
34. 2137-AE86 | Hazardous Materials: Requirements for the Safe Transportation of Bulk Explosives (RRR)
35. 2137-AE94 | Pipeline Safety: Operator Qualification, Cost Recovery, Accident and Incident Notification, and Other Changes (RRR) | Y
36. 2137-AF04 | Hazardous Materials: Miscellaneous Amendments (RRR)
37. 2137-AF05 | Hazardous Materials: Harmonization with International Standards (RRR)

International Regulatory Cooperation

E.O. 13609 (Promoting International Regulatory Cooperation) stresses that “[i]n an increasingly global economy, international regulatory cooperation, consistent with domestic law and prerogatives and U.S. trade policy, can be an important means of promoting the goals of” E.O. 13563 to “protect public health, welfare, safety, and our environment while promoting economic growth, innovation, competitiveness, and job creation.” DOT has long recognized the value of international regulatory cooperation and has engaged in a variety of activities with both foreign governments and international bodies. These activities have ranged from cooperation in the development of particular standards to discussions of necessary steps for rulemakings in general, such as risk assessments and cost-benefit analyses of possible standards. Since the issuance of E.O. 13609, we have increased our efforts in this area. For example, many of DOT's Operating Administrations are active in groundbreaking government-wide Regulatory Cooperation Councils (RCC) with Canada, Mexico, and the European Union. These RCC working groups are setting a precedent in developing and testing approaches to international coordination of rulemaking to reduce barriers to international trade. We also have been exploring innovative approaches to ease the development process.

Examples of the many cooperative efforts we are engaged in include the following: The FAA maintains ongoing efforts with foreign civil aviation authorities, including in particular the European Aviation Safety Agency and Transport Canada, to harmonize standards and practices where doing so will improve the safety of aviation and aviation-related activities. The FAA also plays an active role in the standard-setting work of the International Civil Aviation Organization (ICAO), particularly on the Air Navigation Commission and the Legal Committee. In doing so, the FAA works with other Nations to shape the standards and recommended practices adopted by ICAO. The FAA's rulemaking actions related to safety management systems are examples of the FAA's harmonization efforts.

NHTSA is actively engaged in international regulatory cooperative efforts on both a multilateral and a bilateral basis, exchanging information on best practices and otherwise seeking to leverage its resources for addressing vehicle issues in the U.S. As noted in Executive Order 13609: “(i)n meeting shared challenges involving health, safety, labor, security, environmental, and other issues, international regulatory cooperation can identify approaches that are at least as protective as those that are or would be adopted in the absence of such cooperation” and “can also reduce, eliminate, or prevent unnecessary differences in regulatory requirements.”

As the representative, for vehicle safety matters, of the United States, one of 33 contracting parties to the 1998 Agreement on the Harmonization of Vehicle Regulations, NHTSA is an active participant in the World Forum for Vehicle Regulations (WP.29) at the UN. Under that umbrella, NHTSA is currently working on the development of harmonized regulations for the safety of electric vehicles; hydrogen and fuel cell vehicles; advanced head restraints; pole side impact test procedures; pedestrian protection; the safety risks associated with quieter vehicles, such as electric and hybrid electric vehicles; and advancements in tires.

In recognition of the large cross-border market in motor vehicles and motor vehicle equipment, NHTSA is working bilaterally with Transport Canada under the Motor Vehicles Working Group of the U.S.-Canada Regulatory Cooperation Council (RCC) to facilitate implementation of the initial RCC Joint Action Plan. Under this Plan, NHTSA and Transport Canada are working on the development of international standards on quieter vehicles, electric vehicle safety, and hydrogen and fuel cell vehicles.

Building on the initial Joint Action Plan, the U.S. and Canada issued a Joint Forward Plan on August 29, 2014. The Forward Plan provides that, over the next six months, regulators will develop Regulatory Partnership Statements (RPSs) outlining the framework for how cooperative activities will be managed between agencies. In that same period, regulators will also develop and complete detailed work plans to begin to address the commitments in the Forward Plan. To facilitate future cooperation, the RCC will work over the next year on cross-cutting issues in areas such as: “sharing information with foreign governments, joint funding of new initiatives and our respective rulemaking processes.”

To broaden and deepen its cooperative efforts with the European Union, NHTSA is participating in ongoing negotiations regarding the Transatlantic Trade and Investment Partnership which is “aimed at providing greater compatibility and transparency in trade and investment regulation, while maintaining high levels of health, safety, and environmental protection.” NHTSA is seeking to build on existing levels of safety and lay the groundwork for future cooperation in addressing emerging safety issues and technologies.

PHMSA's hazardous material group works with ICAO, the UN Subcommittee of Experts on Dangerous Goods, and the International Maritime Organization. Through participation in these international bodies, PHMSA is able to advocate on behalf of U.S. safety and commercial interests to guide the development of international standards with which U.S. businesses have to comply when shipping in international commerce. PHMSA additionally participates in the RCC with Canada and has a Memorandum of Cooperation in place to ensure that cross-border shipments are not hampered by conflicting regulations. The pipeline group at PHMSA incorporates many standards by reference into the Pipeline Safety Regulations, and the development of these standards benefit from the participation of experts from around the world.

In the areas of airline consumer protection and civil rights regulation, OST is particularly conscientious in seeking international regulatory cooperation. For example, the Department participates in the standard-setting activities of ICAO and meets and works with other governments and international airline associations on the implementation of U.S. and foreign aviation rules.

For a number of years the Department has also provided information on which of its rulemaking actions have international effects. This information, updated monthly, is available at the Department's regulatory information Web site, http://www.dot.gov/regulations, under the heading “Reports on Rulemakings and Enforcement.” (The reports can be found under headings for “EU,” “NAFTA” (Canada and Mexico) and “Foreign.”) A list of our significant rulemakings that are expected to have international effects follows; the identifying RIN provided below can be used to find summary and other information about the rulemakings in the Department's Regulatory Agenda published along with this Plan:

DOT Significant Rulemakings With International Impacts
RIN | Rulemaking title
2105-AD90 | Stowage and Assistive Devices.
2105-AD91 | Accessibility of Airports.
2105-AE06 | E-Cigarette.
2120-AJ60 | Small Unmanned Aircraft.
2120-AJ69 | Prohibition Against Certain Flights Within the Territory and Airspace of Afghanistan.
2120-AJ89 | Slot Management and Transparency.
2120-AK09 | Drug & Alcohol Testing for Repair Stations.
2126-AA34 | Mexico-Domiciled Motor Carriers.
2126-AA35 | Safety Monitoring System and Compliance Initiative for Mexico-Domiciled Motor Carriers Operating in the United States.
2124-AA70 | Limitations on the Issuance of Commercial Driver Licenses with a Hazardous Materials Endorsement.
2126-AB56 | MAP-21 Enhancements and Other Updates to the Unified Registration System.
2127-AK76 | Tire Fuel Efficiency Part 2.
2127-AK93 | Quieter Vehicles Sound Alert.
2127-AK95 | Side Impact Test Procedure for CRS.
2133-AB74 | Cargo Preference.
2137-AE91 | Enhanced Rail Tank Car Standards.

As we identify rulemakings arising out of our ongoing regulatory cooperation activities that we reasonably anticipate will lead to significant regulations, we will add them to our Web site report and subsequent Agendas and Plans.

The Department's Regulatory Process

The Department will also continue its efforts to use advances in technology to improve its rulemaking management process. For example, the Department created an effective tracking system for significant rulemakings to ensure that either rules are completed in a timely manner or delays are identified and fixed. Through this tracking system, a monthly status report is generated. To make its efforts more transparent, the Department has made this report Internet accessible at http://www.dot.gov/regulations, as well as through a list-serve. By doing this, the Department is providing valuable information concerning our rulemaking activity and is providing information necessary for the public to evaluate the Department's progress in meeting its commitment to completing quality rulemakings in a timely manner.

The Department continues to place great emphasis on the need to complete high-quality rulemakings by involving senior departmental officials in regular meetings to resolve issues expeditiously.

Office of the Secretary of Transportation (OST)

The Office of the Secretary (OST) oversees the regulatory process for the Department. OST implements the Department's regulatory policies and procedures and is responsible for ensuring the involvement of top management in regulatory decisionmaking. Through the General Counsel's office, OST is also responsible for ensuring that the Department complies with the Administrative Procedure Act, Executive Order 12866 (Regulatory Planning and Review), Executive Order 13563, DOT's Regulatory Policies and Procedures, and other legal and policy requirements affecting rulemaking. Although OST's principal role concerns the review of the Department's significant rulemakings, this office has the lead role in the substance of such projects as those concerning aviation economic rules, the Americans with Disabilities Act, and rules that affect multiple elements of the Department.

OST provides guidance and training regarding compliance with regulatory requirements and process for personnel throughout the Department. OST also plays an instrumental role in the Department's efforts to improve our economic analyses; risk assessments; regulatory flexibility analyses; other related analyses; retrospective reviews of rules; and data quality, including peer reviews.

OST also leads and coordinates the Department's response to the Office of Management and Budget's (OMB) intergovernmental review of other agencies' significant rulemaking documents and to Administration and congressional proposals that concern the regulatory process. The General Counsel's office works closely with representatives of other agencies, OMB, the White House, and congressional staff to provide information on how various proposals would affect the ability of the Department to perform its safety, infrastructure, and other missions.

During Fiscal Year 2015, OST will continue to focus its efforts on enhancing airline passenger protections by requiring carriers to adopt various consumer service practices under the following rulemaking initiatives:

• Accessible In-Flight Entertainment

• Airline Pricing Transparency and Other Consumer Protection Issues

• Carrier-Supplied Medical Oxygen, Accessible In-Flight Entertainment Systems, Service Animals, and Accessible Lavatories on Single-Aisle Aircraft.

OST will also continue its efforts to help coordinate the activities of several operating administrations that advance various departmental efforts that support the Administration's initiatives on promoting safety, stimulating the economy and creating jobs, sustaining and building America's transportation infrastructure, and improving quality of life for the people and communities who use transportation systems subject to the Department's policies. It will also continue to oversee the Department's rulemaking actions to implement the “Moving Ahead for Progress in the 21st Century Act” (MAP-21).

Federal Aviation Administration (FAA)

The Federal Aviation Administration is charged with safely and efficiently operating and maintaining the most complex aviation system in the world. Destination 2025, an FAA initiative that captures the agency's vision of transforming the Nation's aviation system by 2025, has proven to be an effective tool for pushing the agency to think about longer-term aspirations; FAA has established a vision that defines the agency's priorities for the next five years. The changing technological and industry environment compels us to transform the agency. And the challenging fiscal environment we face only increases the need to prioritize our goals.

We have identified four major strategic initiatives where we will focus our efforts: (1) Risk-based Decision Making—Build on safety management principles to proactively address emerging safety risk by using consistent, data-informed approaches to make smarter, system-level, risk-based decisions; (2) NAS Initiative—Lay the foundation for the National Airspace System of the future by achieving prioritized NextGen benefits, enabling the safe and efficient integration of new user entrants including Unmanned Aircraft Systems (UAS) and Commercial Space flights, and deliver more efficient, streamlined air traffic management services; (3) Global Leadership—Improve safety, air traffic efficiency, and environmental sustainability across the globe through an integrated, data-driven approach that shapes global standards, enhances collaboration and harmonization, and better targets FAA resources and efforts; and (4) Workforce of the Future—Prepare FAA's human capital for the future, by identifying, recruiting, and training a workforce with the leadership, technical, and functional skills to ensure the U.S. has the world's safest and most productive aviation sector.

FAA activities that may lead to rulemaking in Fiscal Year 2015 include continuing to:

• Promote and expand safety information-sharing efforts, such as FAA-industry partnerships and data-driven safety programs that prioritize and address risks before they lead to accidents. Specifically, FAA will continue implementing Commercial Aviation Safety Team projects related to controlled flight into terrain, loss of control of an aircraft, uncontained engine failures, runway incursions, weather, pilot decision making, and cabin safety. Some of these projects may result in rulemaking and guidance materials.

• Respond to the FAA Modernization and Reform Act of 2012 (the Act) which directed the FAA to initiate a rulemaking proceeding to issue guidelines and regulations relating to ADS-B In technology and recommendations from an Aviation Rulemaking Committee on ADS-B-In capabilities in consideration of the FAA's evolving thinking on how to provide an integrated suite of communication, navigation, and surveillance (CNS) capabilities to achieve full NextGen performance.

• Respond to the Act which also recommended we complete the rulemaking for small Unmanned Aircraft Systems, and consider how to fully integrate UAS operations in the NAS, which will require future rulemaking.

• Respond to the Airline Safety and Federal Aviation Administration Extension Act of 2010 (H.R. 5900) which requires the FAA to develop and implement Safety Management Systems (SMS) where these systems will improve safety of aviation and aviation-related activities. An SMS proactively identifies potential hazards in the operating environment, analyzes the risks of those hazards, and encourages mitigation prior to an accident or incident. In its most general form, an SMS is a set of decision-making tools that can be used to plan, organize, direct, and control activities in a manner that enhances safety.

• Respond to the Small Airplane Revitalization Act of 2013 (H.R. 1848) which requires the FAA adopt the recommendations from Part 23 Reorganization Aviation Rulemaking Aviation Rulemaking Committee (ARC) for improving safety and reducing certification costs for general aviation. The ARC recommendations include a broad range of policy and regulatory changes that it believes could significantly improve the safety of general aviation aircraft while simultaneously reducing certification and modification costs for these aircraft. Among the ARC's recommendations is a suggestion that compliance with part 23 requirements be performance-based, focusing on the complexity and performance of an aircraft instead of the current regulations based on weight and type of propulsion. In announcing the ARC's recommendations, the Transportation Secretary said “Streamlining the design and certification process could provide a cost-efficient way to build simple airplanes that still incorporate the latest in safety initiatives. These changes have the potential to save money and maintain our safety standing—a win-win situation for manufacturers, pilots and the general aviation community as a whole.”

• Work cooperatively to harmonize the U.S. aviation regulations with those of other countries, without compromising rigorous safety standards, or our requirements to develop cost benefit analysis. The differences worldwide in certification standards, practice and procedures, and operating rules must be identified and minimized to reduce the regulatory burden on the international aviation system. The differences between the FAA regulations and the requirements of other nations impose a heavy burden on U.S. aircraft manufacturers and operators, some of which are small businesses. Standardization should help the U.S. aerospace industry remain internationally competitive. The FAA continues to publish regulations based on internal analysis, public comment, and recommendations of Aviation Rulemaking Committees that are the result of cooperative rulemaking between the U.S. and other countries.

• In response to Executive Order 13610 “Identifying and Reducing Regulatory Burdens,” we continue to find ways to make our regulatory program more effective or less burdensome; provide quantifiable monetary savings or quantifiable reductions in paperwork burdens, and modify and streamline regulations in light of changed circumstances. One example is our response to a petition for exemption from the Aircraft Owners and Pilots Association and Experimental Aircraft Association (AOPA-EAA) in which we will address through rulemaking to consider medical self-certification for certain noncommercial operations in lieu of airman medical certification.

FAA top regulatory priorities for Fiscal Year 2015 include:

• Operation and Certification of Small Unmanned Aircraft Systems (2120-AJ60) (Pub. L. 112-95 (Feb. 14, 2012))

• Pilot Records Database (2120-AK31) (Pub. L. 111-216 (Aug. 1, 2010))

• Drug and Alcohol Testing of Certain Maintenance Provider Employees Located Outside of the United States (2120-AK09) (Pub. L. 112-95 (Feb. 14, 2012))

• Congestion Management for LaGuardia Airport, John F. Kennedy International Airport, and Newark Liberty International Airport (2120-AJ89)

• Safety Management System for Certificate Holders Operating Under 14 CFR part 121 (2120-AJ86) (Pub. L. 111-216, sec 215 (Aug. 1, 2010))

The Operation and Certification of Small Unmanned Aircraft Systems rulemaking would:

• Adopt specific rules for the operation of small unmanned aircraft systems in the national airspace system; and

• Address the classification of small unmanned aircraft, certification of their pilots and visual observers, registration, approval of operations, and operational limits.

The Pilot Records Database rulemaking would:

• Implement a pilot records database into which the FAA, air carriers, and other persons that employ pilots would enter records; and

• Require air carriers operating under 14 CFR parts 121 and 135 access the pilot records database electronically and evaluate the available data for each individual pilot candidate before allowing that individual to serve as a required pilot flightcrew member.

The Drug and Alcohol Testing of Certain Maintenance Provider Employees Located Outside of the United States rulemaking would:

• Require certain air carriers to ensure that all employees of certificated repair stations, and certain other maintenance organizations that are located outside the United States, who perform safety-sensitive maintenance functions on aircraft operated by those air carriers, are subject to a drug and alcohol testing program; and

• Require the drug and alcohol testing program be determined acceptable by the FAA Administrator, and be consistent with the applicable laws of the country in which the repair station is located.

The Congestion Management rulemaking for LaGuardia Airport, John F. Kennedy International Airport, and Newark Liberty International Airport would:

• Replace the orders limiting scheduled operations at John F. Kennedy International Airport (JFK), limiting scheduled operations at Newark Liberty International Airport (EWR), and limiting scheduled and unscheduled operations at LaGuardia Airport (LGA); and

• Provide a longer-term and comprehensive approach to slot management at JFK, EWR, and LGA.

The Safety Management System for Certificate Holders Operating under 14 CFR part 121 rulemaking would:

• Require certain certificate holders to develop and implement an SMS;

• Establish a general framework from which a certificate holder can build its SMS; and Conform to International Civil Aviation Organization Annexes and adopt several National Transportation Safety Board recommendations.

Federal Highway Administration (FHWA)

The Federal Highway Administration (FHWA) carries out the Federal highway program in partnership with State and local agencies to meet the Nation's transportation needs. The FHWA's mission is to improve continually the quality and performance of our Nation's highway system and its intermodal connectors.

Consistent with this mission, the FHWA will continue:

• With ongoing regulatory initiatives in support of its surface transportation programs;

• To implement legislation in the most cost-effective way possible; and

• To pursue regulatory reform in areas where project development can be streamlined or accelerated, duplicative requirements can be consolidated, recordkeeping requirements can be reduced or simplified, and the decisionmaking authority of our State and local partners can be increased.

• MAP-21 authorizes the Federal surface transportation programs for highways, highway safety, and transit for the two-year period from 2012-2014. The FHWA has analyzed MAP-21 to identify congressionally directed rulemakings. These rulemakings will be the FHWA's top regulatory priorities for the coming year. Additionally, the FHWA is in the process of reviewing all FHWA regulations to ensure that they are consistent with MAP-21 and will update those regulations that are not consistent with the recently enacted legislation.

• During Fiscal Year 2015, FHWA will continue its focus on improving the quality and performance of our Nation's highway systems by creating national performance management measures and standards to be used by the States to meet the national transportation goals identified in section 1203 of MAP-21 under the following rulemaking initiatives:

• National Goals and Performance Management Measures (Safety) (RIN: 2125-AF49)

• National Goals and Performance Management Measures (Bridges and Pavement) (RIN: 2125-AF53)

• National Goals and Performance Management Measures (Congestion Reduction, CMAQ, Freight, and Performance of Interstate/Non-Interstate NHS) (RIN: 2125-AF54).

Federal Motor Carrier Safety Administration (FMCSA)

The mission of the Federal Motor Carrier Safety Administration (FMCSA) is to reduce crashes, injuries, and fatalities involving commercial trucks and buses. A strong regulatory program is a cornerstone of FMCSA's compliance and enforcement efforts to advance this safety mission. FMCSA develops new and more effective safety regulations based on three core priorities: Raising the safety bar for entry, maintaining high standards, and removing high-risk behavior. In addition to Agency-directed regulations, FMCSA develops regulations mandated by Congress, through legislation such as MAP-21 and the Safe, Accountable, Flexible, and Efficient Transportation Equity Act: A Legacy for Users (SAFETEA-LU). FMCSA regulations establish standards for motor carriers, commercial drivers, commercial motor vehicles, and State agencies receiving certain motor carrier safety grants and issuing commercial drivers' licenses.

FMCSA's regulatory plan for FY 2015 includes completion of a number of rulemakings that are high priorities for the Agency because they would have a positive impact on safety. Among the rulemakings included in the plan are: (1) Electronic Logging Devices (RIN 2126-AB20), (2) Carrier Safety Fitness Determination (RIN 2126-AB11), and (3) Commercial Driver's License Drug and Alcohol Clearinghouse (RIN 2126-AB18).

Together, these priority rules could help to substantially improve commercial motor vehicle (CMV) safety on our Nation's highways by improving FMCSA's ability to provide safety oversight of motor carriers and commercial drivers.

In FY 2015, FMCSA plans to issue a final rule on Electronic Logging Devices (RIN 2126-AB20) to establish: (1) Minimum performance and design standards for hours-of-service (HOS) electronic logging devices (ELDs); (2) requirements for the mandatory use of these devices by drivers currently required to prepare HOS records of duty status (RODS); (3) requirements concerning HOS supporting documents; and (4) measures to address concerns about harassment resulting from the mandatory use of ELDs.

In FY 2015, FMCSA will continue its work on the Compliance, Safety, Accountability (CSA) program. The CSA program improves the way FMCSA identifies and conducts carrier compliance and enforcement operations. CSA's goal is to improve large truck and bus safety by assessing a wider range of safety performance data from a larger segment of the motor carrier industry through an array of progressive compliance interventions. FMCSA anticipates that the impacts of CSA interventions and an associated rulemaking to put into place a new safety fitness determination standard will enable the Agency to prohibit “unfit” carriers from operating on the Nation's highways (the Carrier Safety Fitness Determination(RIN 2126-AB11)) and will contribute further to the Agency's overall goal of decreasing CMV-related fatalities and injuries.

Also in FY 2015, FMCSA plans to issue a final rule on the Commercial Driver's License Drug and Alcohol Clearinghouse (RIN 2126-AB18). The rule would establish a clearinghouse requiring employers and service agents to report information about current and prospective employees' drug and alcohol test results. It would also require employers and certain service agents to search the Clearinghouse for current and prospective employees' positive drug and alcohol test results as a condition of permitting those employees to perform safety-sensitive functions. This would provide FMCSA and employers the necessary tools to identify drivers who are prohibited from operating a CMV based on DOT drug and alcohol program violations and ensure that such drivers receive the required evaluation and treatment before resuming safety-sensitive functions.

National Highway Traffic Safety Administration

The statutory responsibilities of the National Highway Traffic Safety Administration (NHTSA) relating to motor vehicles include reducing the number of, and mitigating the effects of, motor vehicle crashes and related fatalities and injuries; providing safety performance information to aid prospective purchasers of vehicles, child restraints, and tires; and improving automotive fuel efficiency. NHTSA pursues policies that encourage the development of nonregulatory approaches when feasible in meeting its statutory mandates. It issues new standards and regulations or amendments to existing standards and regulations when appropriate. It ensures that regulatory alternatives reflect a careful assessment of the problem and a comprehensive analysis of the benefits, costs, and other impacts associated with the proposed regulatory action. Finally, it considers alternatives consistent with the Administration's regulatory principles.

NHTSA continues to focus on the high-priority safety issue of heavy vehicles and their occupants in Fiscal Year 2015, including combination truck tractors, large buses, and motorcoaches. The agency will continue work towards considering promulgation of a new Federal motor vehicle safety standard (FMVSS) for rollover structural integrity requirements for newly manufactured motorcoaches in accordance with NHTSA's 2007 Motorcoach Safety Plan, DOT's 2009 departmental Motorcoach Safety Action Plan as revised in 2012, and requirements of MAP-21. NHTSA will also issue a final rule to promulgate a new FMVSS for electronic stability control systems for motor coaches and truck tractors. This final rule is mandated by the MAP-21 Act. Together, these rulemaking actions will address multiple open recommendations issued by the National Transportation Safety Board related to motorcoach safety. NHTSA, in conjunction with the Environmental Protection Agency, will publish a notice of proposed rulemaking (NPRM) in Fiscal Year 2015 to address phase two of fuel efficiency standards for medium- and heavy-duty on-highway vehicles and work trucks for model years beyond 2018. This NPRM will be responsive to requirements of the Energy Independence and Security Act of 2007 as well as the President's Climate Action Plan.

In Fiscal Year 2015, NHTSA plans to issue a final rule that would establish a new FMVSS to provide a means of alerting blind and other pedestrians of motor vehicle operation. This rulemaking is mandated by the Pedestrian Safety Enhancement Act of 2010 to further enhance the safety of passenger vehicles and pedestrians. NHTSA will also continue work toward a NPRM on vehicle-to-vehicle (V2V) communications. V2V communications is currently perceived to become a foundational aspect of vehicle automation.

In addition to numerous programs that focus on the safe performance of motor vehicles, the Agency is engaged in a variety of programs to improve driver and occupant behavior. These programs emphasize the human aspects of motor vehicle safety and recognize the important role of the States in this common pursuit. NHTSA has identified two high-priority areas: Safety belt use and impaired driving. To address these issue areas, the Agency is focusing especially on three strategies—conducting highly visible, well-publicized enforcement; supporting prosecutors who handle impaired driving cases and expanding the use of DWI/Drug Courts, which hold offenders accountable for receiving and completing treatment for alcohol abuse and dependency; and adopting alcohol screening and brief intervention by medical and health care professionals. Other behavioral efforts encourage child safety-seat use; combat excessive speed and aggressive driving; improve motorcycle, bicycle, and pedestrian safety; and provide consumer information to the public.

Federal Railroad Administration (FRA)

FRA's current regulatory program reflects a number of pending proceedings to satisfy mandates resulting from the Rail Safety Improvement Act of 2008 (RSIA08), and the Passenger Rail Investment and Improvement Act of 2008 (PRIIA), as well as actions under its general safety rulemaking authority and actions supporting a high-performing passenger rail network. RSIA08 alone has required 21 rulemaking actions, 16 of which have been completed. FRA continues to prioritize its rulemakings according to the greatest effect on safety while promoting economic growth, innovation, competitiveness, and job creation, as well as expressed congressional interest, while working to complete as many mandated rulemakings as quickly as possible.

Through the Railroad Safety Advisory Committee (RSAC), FRA is working to complete RSIA08 actions, including developing requirements related to the creation and implementation of railroad risk reduction and system safety programs, and an RSAC working group has developed recommendations for the fatigue management provisions related to both proceedings. FRA is also in the process of producing two regulatory actions related to the transportation of crude oil and ethanol by rail, focusing on the securement of equipment and appropriate crew size requirements when transporting such commodities. FRA's crew size activity will also address other freight and passenger operations to ensure FRA will have appropriate oversight if a railroad chooses to alter its standard method of operation. In addition, FRA continues to prepare a final rule amending its regulations related to roadway workers and is developing other RSAC-supported actions that advance high-performing passenger rail such as proposed rules on standards for alternative compliance with FRA's Passenger Equipment Safety Standards.

Federal Transit Administration (FTA)

FTA helps communities support public transportation by making grants of Federal funding for transit vehicles, construction of transit facilities, and planning and operation of transit and other transit-related purposes. FTA regulatory activity implements the laws that apply to recipients' uses of Federal funding and the terms and conditions of FTA grant awards. FTA policy regarding regulations is to:

• Ensure the safety of public transportation systems.

• Provide maximum benefit to the mobility of the Nation's citizens and the connectivity of transportation infrastructure;

• Provide maximum local discretion;

• Ensure the most productive use of limited Federal resources;

• Protect taxpayer investments in public transportation;

• Incorporate principles of sound management into the grant management process.

As the needs for public transportation have changed over the years, the Federal transit programs have grown in number and complexity often requiring implementation through the rulemaking process. In fact, FTA is currently implementing many of its public transportation programs authorized under MAP-21 through the regulatory process. To that end, FTA's regulatory priorities include implementing certain requirements of the newly authorized Public Transportation Safety Program (49 U.S.C. 5329), such as the National Public Transportation Safety Plan, implementing requirements for Transit Asset Management Systems (49 U.S.C. 5326), amending the State Safety Oversight rule (49 CFR part 659). In addition FTA is finalizing its Emergency Relief rule, which implements FTA's new authority to assist transit agencies responding to major disasters.

Maritime Administration (MARAD)

The Maritime Administration (MARAD) administers Federal laws and programs to improve and strengthen the maritime transportation system to meet the economic, environmental, and security needs of the Nation. To that end, MARAD's efforts are focused upon ensuring a strong American presence in the domestic and international trades and to expanding maritime opportunities for American businesses and workers.

MARAD's regulatory objectives and priorities reflect the agency's responsibility for ensuring the availability of water transportation services for American shippers and consumers and, in times of war or national emergency, for the U.S. armed forces. Major program areas include the following: Maritime Security, Voluntary Intermodal Sealift Agreement, National Defense Reserve Fleet and the Ready Reserve Force, Cargo Preference, Maritime Guaranteed Loan Financing, United States Merchant Marine Academy, Mariner Education and Training Support, Deepwater Port Licensing, and Port and Intermodal Development. Additionally, MARAD administers the Small Shipyard Grants Program through which equipment and technical skills training are provided to America's maritime workforce, with the aim of helping businesses to compete in the global marketplace while creating well-paying jobs at home.

MARAD's primary regulatory activities in Fiscal Year 2015 will be to continue the update of existing regulations as part of the Department's Retrospective Regulatory Review effort, and to propose new regulations where appropriate.

Pipeline and Hazardous Materials Safety Administration (PHMSA)

The Pipeline and Hazardous Materials Safety Administration (PHMSA) has responsibility for rulemaking under two programs. Through the Associate Administrator for Hazardous Materials Safety, PHMSA administers regulatory programs under Federal hazardous materials transportation law and the Federal Water Pollution Control Act, as amended by the Oil Pollution Act of 1990. Through the Associate Administrator for Pipeline Safety, PHMSA administers regulatory programs under the Federal pipeline safety laws and the Federal Water Pollution Control Act, as amended by the Oil Pollution Act of 1990.

The Pipeline Safety, Regulatory Certainty, and Job Creation Act of 2011 included a number of rulemaking studies and mandates and additional enforcement authorities that continue to impact PHMSA's regulatory activities in Fiscal Year 2015.¹

¹ http://www.phmsa.dot.gov/pv_obj_cache/pv_obj_id_7FD46010F0497123865B976479CFF3952E990200/filename/Pipeline%20Reauthorization%20Bill%202011.pdf.

MAP-21 reauthorized the hazardous materials safety program and required several regulatory actions by PHMSA. MAP-21 placed a great deal of emphasis on the procedures for issuing special permits and the incorporation of special permits into regulations. Persons who offer for transportation or transport hazardous materials in commerce must follow the hazardous materials regulations. A special permit sets forth alternative requirements, or variances, to the requirements in the HMR. Federal hazardous materials transportation law authorizes PHMSA to issue such variances in a way that achieves a safety level that is at least equal to the safety level required under Federal hazmat law or is consistent with the public interest if a required safety level does not exist. A rulemaking was required within two years by MAP-21 to set out procedures and criteria for evaluating applications for special permits and approvals. In addition, MAP-21 required PHMSA to conduct a review of nearly 1,200 existing special permits and issue another rulemaking within three years to incorporate special permits that have been in continuous effect for a ten-year period into the HMR.

PHMSA will continue to work toward improving safety related to transportation of hazardous materials by all transportation modes, including pipeline, while promoting economic growth, innovation, competitiveness, and job creation. We will concentrate on the prevention of high-risk incidents identified through the findings of the National Transportation Safety Board (NTSB) and PHMSA's evaluation of transportation incident data. PHMSA will use all available Agency tools to assess data; evaluate alternative safety strategies, including regulatory strategies as necessary and appropriate; target enforcement efforts; and enhance outreach, public education, and training to promote safety outcomes.

PHMSA will continue to focus on the streamlining of its regulatory system and reducing regulatory burdens. PHMSA will evaluate existing rules to examine whether they remain justified; should be modified to account for changing circumstances and technologies; or should be streamlined or even repealed. PHMSA will continue to evaluate, analyze, and be responsive to petitions for rulemaking. PHMSA will review regulations, letters of interpretation, petitions for rulemaking, special permits, enforcement actions, approvals, and international standards to identify inconsistencies, outdated provisions, and barriers to regulatory compliance.

PHMSA aims to reduce the risks related to the transportation of hazardous materials by rail. Preventing tank car incidents and minimizing the consequences when an incident does occur are not only DOT priorities, but are also shared by the National Transportation Safety Board (NTSB), industry, and the general public. Expansion in United States energy production has led to significant challenges in the transportation system. Expansion in oil production has led to increasing volumes of product transported to refineries. With a growing domestic supply, rail transportation, in particular, has emerged as an alternative to transportation by pipeline or vessel. The growing reliance on trains to transport large volumes of flammable liquids raises risks that have been highlighted by the recent instances of trains carrying crude oil that have derailed. PHMSA and FRA issued a Notice of Proposed Rulemaking (79 FR 45016) designed to lessen the frequency and consequences of train accidents/incidents (train accidents) involving certain trains transporting a large volume of flammable liquids. In addition, PHMSA and FRA issued an Advanced Notice of Proposed Rulemaking (79 FR 45079) seeking comment on potential revisions to its regulations that would expand the applicability of comprehensive oil spill response plans (OSRPs) for crude oil trains. PHMSA will continue to usher these rules to completion and PHMSA may consider further regulatory changes to enhance rail safety through enhanced operational requirements; improvements in tank car standards; and revisions of the general requirements for rail transport.

PHMSA will be considering whether changes are needed to the regulations covering hazardous liquid onshore pipelines. In particular, PHMSA will be considering if other areas should be included as High Consequence Areas (HCAs) for integrity management (IM) protections, what the repair timeframes should be for areas outside the HCAs that are assessed as part of the IM program, whether leak detection standards are necessary, valve spacing requirements are needed on new construction or existing pipelines, and if PHMSA should extend regulation to certain pipelines currently exempt from regulation. The agency would also address the public safety and environmental aspects any new requirements, as well as the cost implications and regulatory burden.

Quantifiable Costs and Benefits of Rulemakings on the 2014 to 2015 DOT Regulatory Plan
[This chart does not account for non-quantifiable benefits, which are often substantial]
Agency/RIN Number | Title | Stage | Quantifiable costs discounted 2013 $ (millions) | Quantifiable benefits discounted 2013 $ (millions)
FAA
2120-AJ60 | Small Unmanned Aircraft Systems | NPRM 01/15 | TBD | TBD
2120-AJ86 | SMS for part 121 | FR 11/14 | $135.1 | $142.8
2120-AJ89 | NY Congestion Management | NPRM 11/14 | 48.2 | 67.8
2120-AK09 | Drug and Alcohol Testing | ANPRM: Analyzing Comments 02/15 | TBD | TBD
2120-AK31 | Pilot Records Database | NPRM 10/15 | TBD | TBD
Total for FAA |  |  | 183.3 | 210.6
FHWA
2125-AF53 | Performance Management 2 | NPRM 11/14 | TBD | TBD
2125-AF54 | Performance Management 3 | NPRM 03/15 | TBD | TBD
Total for FHWA |  |  | TBD | TBD
FMCSA
2126-AB11 | Carrier Safety Fitness Determination | NPRM 04/15 | 15 | 249
2126-AB18 | Commercial Driver's License Drug and Alcohol Clearinghouse | FR 10/15 | 186 | 187
2126-AB20 | Electronic On-Board Recorders and Hours of Service Supporting Documents | FR 09/15 | 1,578 | 2,033
Total for FMCSA |  |  | 1,745 | 2,361
NHTSA
2127-AK93 | Quieter Vehicles Sound Alert | FR 11/15 | 24.1 | 154.3
2127-AK97 | Electronic Stability Control Systems for Heavy Vehicles | FR 01/15 | 119.6 | 282.6-445.6
2127-AL52 | Fuel Efficiency Standards for Medium- and Heavy-Duty Vehicles and Work Trucks: Phase 2 | NPRM 03/15 | TBD | TBD
Total for NHTSA |  |  | 143.7 | 436.9-599.9
FTA
2132-AB19 | State Safety Oversight (MAP-21) | NPRM 01/15 | TBD | TBD
Total for FTA |  |  | TBD | TBD
PHMSA
2137-AE66 | Pipeline Safety: Safety of On-Shore Liquid Hazardous Pipelines | NPRM 01/15 | TBD | TBD
2137-AE72 | Pipeline Safety: Gas Transmission (RRR) | NPRM 01/15 | TBD | TBD
2137-AE91 | Hazardous Materials: Enhanced Tank Car Standards and Operational Controls for High-Hazard Flammable Trains | Final Rule 03/15 | 2,083 to 5,820 | 400 to 4,386
Total for PHMSA |  |  | 2,083 to 5,820 | 400 to 4,386
TOTAL FOR DOT |  |  | 4,155-7,892 | 3,408.5-7,394.5
Notes: Costs and benefits of rulemakings may be forecast over varying periods. Although the forecast periods will be the same for any given rulemaking, comparisons between proceedings should be made cautiously.
Costs and benefits are generally discounted at a 7 percent discount rate over the period analyzed.

The Department of Transportation generally assumes that there are economic benefits to avoiding a fatality of $9.2 million. That economic value is included as part of the benefits estimates shown in the chart. As noted above, we have not included the non-quantifiable benefits.

DOT—FEDERAL AVIATION ADMINISTRATION (FAA)

Proposed Rule Stage

104. + Operation and Certification of Small Unmanned Aircraft Systems (SUAS)

Priority: Other Significant.

Legal Authority: 49 U.S.C. 44701; Pub. L. 112-95

CFR Citation: 14 CFR 91.

Legal Deadline: Final, Statutory, August 14, 2014, Public Law 112-95, section 332(b) requires issuance of final rule 18 months after integration plan is submitted to Congress. Integration plan due Feb. 14, 2013.

Abstract: This rulemaking would adopt specific rules for the operation of small unmanned aircraft systems (sUAS) in the National Airspace System. These changes would address the classification of small unmanned aircraft, certification of their pilots and visual observers, registration, approval of operations, and operational limits in order to increase the safety and efficiency of the national airspace system.

Statement of Need: The FAA is proposing to amend its regulations to adopt specific rules for the operation of small unmanned aircraft systems (sUAS) in the National Airspace System (NAS). These changes would address the classification of sUAS, certification of sUAS pilots and visual observers, registration of sUAS, approval of sUAS operations, and sUAS operational limits. The NPRM also proposes regulations for all sUAS, including operating standards for model aircraft and low performance (e.g., toy) operations, to increase the safety and efficiency of the NAS. The FAA and sUAS community lack sufficient formal safety data regarding unmanned operations to support granting traditional, routine access to the NAS. This proposed rule would result in the regular collection of safety data from the user community and help the FAA develop new regulations and expand sUAS access to the NAS.

Summary of Legal Basis: This rulemaking is required by the FAA Modernization and Reform Act of 2012, Public Law 112-95, sec. 332(b). The FAA's authority to issue rules on aviation safety is found in Title 49 of the U.S. Code. Subtitle I, Section 106 describes the authority of the FAA Administrator, including the authority to issue, rescind, and revise regulations. Subtitle VII, Aviation Programs, describes in more detail the scope of the agency's authority. This rulemaking is promulgated under the authority described in Title 49 U.S. Code Transportation. Pursuant to Subtitle I, Chapter 1, Sections 106(f)(2)(iii) and (3)(A), the Administrator is authorized to promulgate regulations, rules, orders, circulars, bulletins, and other publications of the Administrator, and to issue, rescind and revise such regulations as are necessary to carry out those functions. Subtitle VII, Part A, Subpart III, Chapter 447 Safety Regulation. Pursuant to section 44701 (a)(5), the FAA is charged with promoting safe flight of civil aircraft by, among other things, prescribing regulations the FAA finds necessary for safety in air commerce and national security.

Alternatives: This rulemaking is required by the FAA Modernization and Reform Act of 2012, Public Law 112-95, sec. 332(b). The FAA's authority to issue rules on aviation safety is found in Title 49 of the U.S. Code. Subtitle I, Section 106 describes the authority of the FAA Administrator, including the authority to issue, rescind, and revise regulations. Subtitle VII, Aviation Programs, describes in more detail the scope of the agency's authority. This rulemaking is promulgated under the authority described in Title 49 U.S. Code Transportation. Pursuant to Subtitle I, Chapter 1, Sections 106(f)(2)(iii) and (3)(A), the Administrator is authorized to promulgate regulations, rules, orders, circulars, bulletins, and other publications of the Administrator, and to issue, rescind and revise such regulations as are necessary to carry out those functions. Subtitle VII, Part A, Subpart III, Chapter 447 Safety Regulation. Pursuant to section 44701 (a)(5), the FAA is charged with promoting safe flight of civil aircraft by, among other things, prescribing regulations the FAA finds necessary for safety in air commerce and national security.

Anticipated Cost and Benefits: Costs and benefits for this rulemaking are to be determined.

Risks: Commercial operations currently have no legal means to conduct operations. Due to the time and cost of traditional processes and without new regulations, commercial operations will not be able to operate until the necessary standards are developed by the UAS community.

Timetable:

Action | Date | FR Cite
NPRM | 01/00/15

Regulatory Flexibility Analysis Required: Yes.

Small Entities Affected: Businesses, Governmental Jurisdictions.

Government Levels Affected: None.

URL for More Information: www.regulations.gov.

URL for Public Comments: www.regulations.gov.

Agency Contact: Lance Nuckolls, Certification and General Aviation Operations, Department of Transportation, Federal Aviation Administration, 800 Independence Ave., SW, Washington, DC 20591, Phone: 202-267-8212, Email: lance.nuckolls@faa.gov.

RIN: 2120-AJ60

DOT—FAA

105. + Slot Management and Transparency for Laguardia Airport, John F. Kennedy International Airport, and Newark Liberty International Airport

Priority: Other Significant.

Legal Authority: 49 U.S.C. 40101, 40103, and 40105; 49 U.S.C. 41712; 15 U.S.C. 21

CFR Citation: 14 CFR 93.

Legal Deadline: None.

Abstract: This rulemaking would replace the current temporary orders limiting scheduled operations at LaGuardia Airport (LGA), John F. Kennedy International Airport (JFK), and Newark Liberty International Airport (EWR) with a more permanent rule to address the issues of congestion and delay at the New York area´s three major commercial airports, while also promoting fair access and competition. The rulemaking would help ensure that congestion and delays are managed by limiting scheduled and unscheduled operations. The rulemaking would also establish a secondary market for U.S. and foreign air carriers to buy, sell, trade, and lease slots amongst each other at each of the three airports. This would allow carriers serving or seeking to serve the New York area airports to exchange slots as their business models and strategic goals require.

Statement of Need: This rulemaking would replace the current temporary orders limiting scheduled operations at LaGuardia Airport, John F. Kennedy International Airport, and Newark Liberty International Airport with a more permanent rule to address the issues of congestion and delay at the New York area's three major commercial airports, while also promoting fair access and competition. The rulemaking would help ensure that congestion and delays are managed by limiting scheduled and unscheduled operations. The rulemaking would also establish a secondary market for U.S. and foreign air carriers to buy, sell, trade, and lease slots amongst each other at each of the three airports. This would allow carriers serving or seeking to serve the New York area airports to exchange slots as their business models and strategic goals require.

Summary of Legal Basis: This rulemaking is promulgated under the authority described in subtitle VII, part A, subpart I, sections 40101, 40103, 40105, and 41712. The Secretary of Transportation (Secretary) is the head of the DOT and has broad oversight of significant FAA decisions. See 49 U.S.C. 102 and 106. In addition, under 49 U.S.C. 41712, the Secretary has the authority to investigate and prohibit unfair and deceptive practices, and unfair methods of competition in air transportation, or the sale of air transportation. The FAA has broad authority under 49 U.S.C. 40103 to regulate the use of the navigable airspace of the United States. This section authorizes the FAA to develop plans and policy for the use of navigable airspace, and to assign the use the FAA deems necessary for safe and efficient utilization. It further directs the FAA to prescribe air traffic rules and regulations governing the efficient utilization of navigable airspace. Not only is the FAA required to ensure the efficient use of navigable airspace, but it must do so in a manner that does not effectively shut out potential operators at the airport, and in a manner that acknowledges competitive market forces. These authorities empower the DOT to ensure the efficient utilization of airspace by limiting the number of scheduled and unscheduled aircraft operations at JFK, EWR, and LGA, while balancing between promoting competition and recognizing historical investments in the airport, and the need to provide continuity. They also authorize the DOT to investigate the transfer of slots and to limit or prohibit anticompetitive transfers.

Alternatives: The FAA considered two alternatives. The first alternative was to simply extend the existing orders. This alternative was rejected because the FAA wanted to increase competition by making slots available to more operators. The FAA believes these operators are likely to be small entities. The second alternative was to remove the existing orders. This alternative results in unacceptable delay costs from the increase in operations.

Anticipated Cost and Benefits: The FAA estimates the quantitative costs to be $48.2 million and the quantitative benefits are estimated at $67.8 million, with the benefits exceeding the costs. This is a preliminary estimate that is subject to change based on further review and analysis.

Risks: There are no risks for this rulemaking.

Timetable:

Action | Date | FR Cite
NPRM | 11/00/14

Regulatory Flexibility Analysis Required: No.

Small Entities Affected: Businesses.

Government Levels Affected: None.

Additional Information: This rulemaking is associated with an RRR action.

URL For More Information: www.regulations.gov.

URL For Public Comments: www.regulations.gov.

Agency Contact: Molly W Smith, Federal Aviation Administration, Department of Transportation, Federal Aviation Administration, 800 Independence Ave., SW, Washington, DC 20591, Phone: 202-267-3344 Email: molly.w.smith@faa.gov.

RIN: 2120-AJ89

DOT—FAA

106. + Drug and Alcohol Testing of Certain Maintenance Provider Employees Located Outside of the United States

Priority: Other Significant.

Legal Authority: 14 CFR; 49 U.S.C. 106(g); 49 U.S.C. 40113; 49 U.S.C. 44701; 49 U.S.C. 44702; 49 U.S.C. 44707; 49 U.S.C. 44709; 49 U.S.C. 44717

CFR Citation: 14 CFR 145.

Legal Deadline: NPRM, Statutory, February 14, 2013, NPRM.

Abstract: This rulemaking is required by the FAA Modernization and Reauthorization Act of 2012. It would require controlled substance testing of some employees working in repair stations located outside the United States. The intended effect is to increase participation by companies outside of the United States in testing of employees who perform safety critical functions and testing standards similar to those used in the repair stations located in the United States. This action is necessary to increase the level of safety of the flying public.

Statement of Need: As a project identified under congressional mandate, the intended effect of this rulemaking would be to promote drug and alcohol testing standardization within the global aviation community in an effort to reach an increased level of safety for the flying public around the world.

Summary of Legal Basis: The FAA Modernization and Reform Act of 2012 provides the legal basis for this rulemaking. In February 2012 the U.S. Congress passed the FAA Modernization and Reform Act of 2012. Section 308(d)(2) of the Act requires that the FAA promulgate a proposed rule that requires all part 145 repair station employees responsible for safety-sensitive maintenance functions on part 121 commercial air carriers aircraft to be subject to an alcohol and controlled substances testing program determined acceptable by the Administrator and consistent with the applicable laws of the country in which the repair station is located.

Alternatives: Our alternatives would be to work with other aviation leaders (e.g. International Civil Aviation Organization—ICAO) and develop a collective initiative to foster a drug and alcohol-free worldwide environment. The FAA Modernization and Reform Act of 2012, does articulate the idea that the Secretaries of State and Transportation work with ICAO and establish international standards to test for drug and alcohol use of employees performing safety-sensitive maintenance functions on commercial air carrier aircraft.

Anticipated Cost and Benefits: Our alternatives would be to work with other aviation leaders (e.g. International Civil Aviation Organization—ICAO) and develop a collective initiative to foster a drug and alcohol-free worldwide environment. The FAA Modernization and Reform Act of 2012, does articulate the idea that the Secretaries of State and Transportation work with ICAO and establish international standards to test for drug and alcohol use of employees performing safety-sensitive maintenance functions on commercial air carrier aircraft.

Risks: International implications are the risks.

Timetable:

Action | Date | FR Cite
ANPRM | 03/17/14 | 79 FR 14621
Comment Period Extended | 05/01/14 | 79 FR 24631
ANPRM Comment Period End | 05/16/14
Comment Period End | 07/17/14
Analyzing Comments | 02/00/15

Regulatory Flexibility Analysis Required: Yes.

Small Entities Affected: Businesses, Governmental Jurisdictions.

Government Levels Affected: None.

International Impacts: This regulatory action will be likely to have international trade and investment effects, or otherwise be of international interest.

URL For More Information: www.regulations.gov.

URL For Public Comments: www.regulations.gov.

Agency Contact: Vicky Dunne, Department of Transportation, Federal Aviation Administration, 800 Independence Ave, SW, Washington, DC 20591, Phone: 202 267-8522, Email: vicky.dunne@faa.gov.

RIN: 2120-AK09

DOT—FAA

107. + Pilot Records Database (HR 5900)

Priority: Other Significant. Major status under 5 U.S.C. 801 is undetermined.

Legal Authority: 49 U.S.C. 106(g); 49 U.S.C. 1155; 49 U.S.C. 40103; 49 U.S.C. 40113; 49 U.S.C. 40119; 49 U.S.C. 40120; 49 U.S.C. 41706; 49 U.S.C. 44101; 49 U.S.C. 44111; 49 U.S.C. 44701 to 44705; 49 U.S.C. 44709 to 44713; 49 U.S.C. 44715 to 44717; 49 U.S.C. 44722; 49 U.S.C. 45101 to 45105; 49 U.S.C. 46105; 49 U.S.C. 46306; 49 U.S.C. 46315; 49 U.S.C. 46316; 49 U.S.C. 46504; 49 U.S.C. 46507; 49 U.S.C. 47122; 49 U.S.C. 47508; 49 U.S.C. 47528 to 47531

CFR Citation: 14 CFR 118; 14 CFR 121; 14 CFR 125; 14 CFR 135; 14 CFR 91.

Legal Deadline: None.

Abstract: This rulemaking would implement a Pilot Records Database as required by Public Law 111-216 (Aug. 1, 2010). Section 203 amends the Pilot Records Improvement Act (PRIA) by requiring the FAA to create a pilot records database that contains various types of pilot records. These records would be provided by the FAA, air carriers, and other persons who employ pilots. The FAA must maintain these records until it receives notice that a pilot is deceased. Air carriers would use this database to perform a record check on a pilot prior to making a hiring decision.

Statement of Need: This rule implements a Pilot Records Database as required by Public Law 111-216. Section 203 of Public Law 111-216 amends the Pilot Records Improvement Act (PRIA) by requiring the FAA to create a pilot records database that contains various types of pilot records. These records would be provided by the FAA, air carriers, and other persons who employ pilots. The FAA must maintain these records until it receives notice that a pilot is deceased. Air carriers would use this database to perform a record check on a pilot prior to making a hiring decision.

Summary of Legal Basis: The legal basis for this rule is section 203 of the Airline Safety and Federal Aviation Administration Extension Act of 2010, Public Law 111-216, 124 Statute 2348 (2010).

Alternatives: The ARC proposed a phased implementation as an alternative to PRDs statutory requirement to enter all historical records dating from August 1, 2005. Instead, within 60 days after the PRD launch date, air carriers and other persons would provide only the names, certificate numbers, and dates of birth of employees dating from the PRD launch date back to August 1, 2005. This information would be used to identify a pilot applicant's previous employer(s). The hiring air carrier would then make a paper PRIA request to those previous employers to obtain any records from before the launch date of PRD.

Anticipated Cost and Benefits: The Rulemaking Team believes that three methods of data entry would allow larger air carriers to take advantage of technology, thereby reducing costs, while allowing smaller air carriers the flexibility to enter data manually without the need for an information technology department and sophisticated computer knowledge.

Risks: Any risk mitigation technique used to counter this additional security threat would significantly add to the time and cost required for the FAA to properly manage the air carrier user accounts and likely delay air carrier access to the PRD data. Several options were explored that would simultaneously provide appropriate security controls to protect unauthorized access to sensitive data while not impeding the air carriers from ready access to the PRD data.

Timetable:

Action | Date | FR Cite
NPRM | 10/00/15 |

Regulatory Flexibility Analysis Required: Undetermined.

Government Levels Affected: None.

Additional Information: Costs and benefits are not yet determined.

URL For More Information: www.regulations.gov.

URL For Public Comments: www.regulations.gov.

Agency Contact: Bryan Brown, Department of Transportation, Federal Aviation Administration, 6424 S Denning Ave., Oklahoma City, OK 73169, Phone: 405 954-4513, Email: bryan.w.brown@faa.gov.

RIN: 2120-AK31

DOT—FAA

Final Rule Stage

108. + Safety Management Systems for Certificate Holders

Priority: Other Significant.

Legal Authority: 49 U.S.C. 106(g); 49 U.S.C. 40113; 49 U.S.C. 40119; 49 U.S.C. 41706; 49 U.S.C. 44101; 49 U.S.C. 44701; 49 U.S.C. 44702; 49 U.S.C. 44705; 49 U.S.C. 44709 to 44711; 49 U.S.C. 44713; 49 U.S.C. 44716; 49 U.S.C. 44717; 49 U.S.C. 44722; 49 U.S.C. 46105; Pub. L. 111-216, sec 215

CFR Citation: 14 CFR 121; 14 CFR 5.

Legal Deadline: Final, Statutory, July 30, 2012, Final Rule. NPRM, Statutory, October 29, 2010, NPRM. Congress passed Public Law 111-216 that instructs FAA to conduct a rulemaking to require all part 121 air carriers to implement a Safety Management System (SMS). This Act further states that the FAA shall consider at a minimum each of the following as part of the SMS rulemaking: (1) an Aviation Safety Action Program (ASAP); (2) a Flight Operations Quality Assurance Program (FOQA); (3) a Line Operations Safety Audit (LOSA); and (4) an Advance Qualifications Program.

Abstract: This rulemaking would require each certificate holder operating under 14 CFR part 121 to develop and implement a safety management system (SMS) to improve the safety of its aviation related activities. A safety management system is a comprehensive, process-oriented approach to managing safety throughout an organization. An SMS includes an organization-wide safety policy; formal methods for identifying hazards, controlling, and continually assessing risk and safety performance; and promotion of a safety culture. SMS stresses not only compliance with technical standards but increased emphasis on the overall safety performance of the organization. This rulemaking is required under Public Law 111-216, section 215.

Statement of Need: This final rule requires each air carrier operating under 14 CFR part 121 to develop and implement a safety management system (SMS) to improve the safety of its aviation-related activities. SMS is a comprehensive, process-oriented approach to managing safety throughout an organization. SMS includes an organization-wide safety policy; formal methods for identifying hazards; controlling, and continually assessing risk and safety performance; and promotion of a safety culture. SMS stresses not only compliance with technical standards but also increased emphasis on the overall safety performance of the organization.

Summary of Legal Basis: The Federal Aviation Administration's (FAA) authority to issue rules on aviation safety is found in title 49 of the United States Code. This rulemaking is promulgated under the authority described in 49 U.S.C. 44701(a)(5), which requires the Administrator to promulgate regulations and minimum standards for other practices, methods, and procedures necessary for safety in air commerce and national security. In addition, the Airline Safety and Federal Aviation Administration Extension Act of 2010 (the Act), Public Law 111-216, section 215 (August 1, 2010), required the FAA to conduct rulemaking to require all 14 CFR part 121 air carriers to implement a safety management system. The Act required the FAA to issue this final rule within 24 months of the passing of the Act (July 30, 2012).

Alternatives: To relieve the burden of this rule on small entities, the FAA considered extending the timeframe for development of SMS implementation plans. However, the FAA ultimately concluded that 1 year for the development and approval of implementation plans is appropriate. In making this determination, the FAA considered longer and shorter terms. However, it settled on 1 year based on information from the SMS Pilot Project, which showed that an average of 1 year was sufficient to develop and approve an implementation plan. As part of its analysis, the FAA noted that pilot project participants ultimately had differing levels of SMS implementation. However, because all pilot project participants had initially developed (and received FAA validation on) an implementation plan that provided for full SMS implementation, the FAA was able to use this data to estimate how long it would take a certificate holder to develop such a plan, and get the plan approved by the FAA.

Anticipated Cost and Benefits: The FAA estimates the quantitative costs to be $135.1 million, and the quantitative benefits to be $142.8 million, with benefits exceeding costs.

Risks: While the commercial air carrier accident rate in the United States has decreased substantially over the past 10 years, the FAA has identified a recent trend involving hazards that were revealed during accident investigations. The FAA's Office of Accident Investigation and Prevention identified 128 accidents involving part 121 air carriers from fiscal year (FY) 2001 through FY 2010 for which identified causal factors could have been mitigated if air carriers had implemented an SMS to identify hazards in their operations and developed methods to control the risk. This type of approach allows air carriers to anticipate and mitigate the likely causes of potential accidents. This is a significant improvement over current reactive safety action emphasis, which focuses on discovering and mitigating the cause of an accident only after that accident has occurred. In order to bring about this change in accident mitigation, as well as the other reasons discussed throughout this document, the FAA is requiring part 121 air carriers to develop and implement an SMS. SMS is a comprehensive, process-oriented approach to managing safety throughout an organization, and stresses not only compliance with technical standards, but increased emphasis on the overall safety performance of the organization. The potential reduction of risks would be averted causalities, aircraft damage, and accident investigation costs by identifying safety issues and spotting trends before they result in a near-miss, incident, or accident.

Timetable:

Action | Date | FR Cite
NPRM | 11/05/10 | 75 FR 68224
NPRM Comment Period Extended | 01/31/11 | 76 FR 5296
NPRM Comment Period End | 02/03/11 |
Comment Period Extended | 03/07/11
Final Rule | 11/00/14

Regulatory Flexibility Analysis Required: No.

Small Entities Affected: Businesses.

Government Levels Affected: Federal.

URL for More Information: www.regulations.gov.

URL for Public Comments: www.regulations.gov.

Agency Contact: Scott VanBuren, Office of Accident Investigation and Prevention, Department of Transportation, Federal Aviation Administration, 800 Independence Ave. SW., Washington, DC 20591, Phone: 202 494-8417, Email: scott.vanburen@faa.gov.

Related RIN: Split from 2120-AJ15

RIN: 2120-AJ86

DOT—FEDERAL HIGHWAY ADMINISTRATION (FHWA)

Proposed Rule Stage

109. + National Goals and Performance Management Measures (MAP-21)

Priority: Other Significant.

Legal Authority: sec 1203 Pub. L. 112-141; 49 CFR 1.85

CFR Citation: Not Yet Determined.

Legal Deadline: NPRM, Statutory, April 1, 2014, NPRM.

Section 1203 of MAP-21 requires the Secretary to promulgate a rulemaking within 18 months after the date of enactment.

Abstract: This rulemaking would create national performance management measures and standards to be used by the States to meet the national transportation goals identified in section 1203 of MAP-21. This rulemaking would also establish the process to be used by States to set performance targets that reflect their performance measures. The FHWA anticipates issuing up to three rulemakings in this area. This rulemaking, number two, will cover the bridges and pavement.

Statement of Need: The Moving Ahead for Progress in the 21st Century Act (MAP-21) transforms the Federal-aid highway program by establishing new requirements for performance management to ensure the most efficient investment of Federal transportation funds. Performance management refocuses attention on national transportation goals, increases the accountability and transparency of the Federal-aid highway program, and improves project decisionmaking through performance-based planning and programming. This rulemaking is the second of 3 that would propose the establishment of performance measures for State DOTs and MPOs to use to carry out Federal-aid highway programs and to assess performance in each of the 12 areas mandated by MAP-21. This rulemaking would establish performance measures for State DOTs to use to carry out the National Highway Performance Program (NHPP) and to assess: condition of pavements on the National Highways System (NHS) (excluding the Interstate System), condition of pavements on the Interstate System, and condition of bridges on the NHS. This rulemaking would also propose the definitions that will be applicable to the new 23 CFR 490; the process to be used by State DOTs and MPOs to establish performance targets that reflect the measures proposed in this rulemaking; a methodology to be used to assess State DOTs' compliance with the target achievement provision specified under 23 U.S.C. 119(e)(7); and the process to be followed by State DOTs to report on progress towards the achievement of pavement and bridge condition-related performance targets.

Summary of Legal Basis: Section 1203 of MAP-21 requires the Secretary of Transportation to establish performance measures and standards through a rulemaking to assess performance in 12 areas.

Alternatives: N/A.

Anticipated Cost and Benefits: Not yet determined.

Risks: N/A.

Timetable:

Action | Date | FR Cite
NPRM | 11/00/14

Regulatory Flexibility Analysis Required: No.

Small Entities Affected: No.

Government Levels Affected: Federal, State.

URL for More Information: www.regulations.gov.

URL for Public Comments: www.regulations.gov.

Agency Contact: Francine Shaw-Whitson, Department of Transportation, Federal Highway Administration, 1200 New Jersey Avenue SE., Washington, DC 20590, Phone: 202-366-8028, Email: Francine.Shaw-whitson@dot.gov.

RIN: 2125-AF53

DOT—FHWA

110. + National Goals and Performance Management Measures (MAP-21)

Priority: Other Significant.

Legal Authority: sec 1203, Pub. L. 112-141; 49 FR 1.85

CFR Citation: Not Yet Determined.

Legal Deadline: NPRM, Statutory, April 1, 2014, NPRM.

Section 1203 of MAP-21 requires the Secretary to promulgate a rulemaking within 18 months after the date of enactment.

Abstract: This rulemaking would create national performance management measures and standards to be used by the States to meet the national transportation goals identified in section 1203 of MAP-21. This rulemaking would also establish the process to be used by States to set performance targets that reflect their performance measures. The FHWA anticipates issuing up to three rulemakings in this area. This rulemaking covers Congestion Mitigation and Air Quality (CMAQ) and Freight issues.

Statement of Need: The Moving Ahead for Progress in the 21st Century Act (MAP-21) transforms the Federal-aid highway program by establishing new requirements for performance management to ensure the most efficient investment of Federal transportation funds. Performance management refocuses attention on national transportation goals, increases the accountability and transparency of the Federal-aid highway program, and improves project decisionmaking through performance-based planning and programming. This rulemaking is the third of 3 that would propose the establishment of performance measures for State DOTs and MPOs to use to carry out Federal-aid highway programs and to assess performance in each of the 12 areas mandated by MAP-21. This rulemaking would establish performance measures for State DOTs to use in the areas of Congestion Reduction, Congestion Mitigation and Air quality improvement program (CMAQ), Freight, and Performance of the Interstate/Non-Interstate National Highway System.

Summary of Legal Basis: Section 1203 of MAP-21 requires the Secretary of Transportation to establish performance measures and standards through a rulemaking to assess performance in 12 areas.

Alternatives: N/A.

Anticipated Cost and Benefits: Not yet determined.

Risks: N/A.

Timetable:

Action | Date | FR Cite
NPRM | 03/00/15

Regulatory Flexibility Analysis Required: No.

Small Entities Affected: No.

Government Levels Affected: Federal, State.

URL for More Information: www.regulations.gov.

URL for Public Comments: www.regulations.gov.

Agency Contact: Francine Shaw-Whitson, Department of Transportation, Federal Highway Administration, 1200 New Jersey Avenue SE., Washington, DC 20590, Phone: 202-366-8028, Email: Francine.Shaw-whitson@dot.gov.

RIN: 2125-AF54

DOT—FEDERAL MOTOR CARRIER SAFETY ADMINISTRATION (FMCSA)

Proposed Rule Stage

111. + Carrier Safety Fitness Determination

Priority: Economically Significant. Major under 5 U.S.C. 801.

Legal Authority: sec 4009 of TEA-21

CFR Citation: 49 CFR 385.

Legal Deadline: None.

Abstract: FMCSA proposes to amend the Federal Motor Carrier Safety Regulations (FMCSRs) to adopt revised methodologies that would result in a safety fitness determination (SFD). The proposed methodologies would determine when a motor carrier is not fit to operate commercial motor vehicles (CMVs) in or affecting interstate commerce based on (1) the carrier's performance in relation to five of the Agency's Behavioral Analysis and Safety Improvement Categories (BASICs); (2) an investigation; or (3) a combination of on-road safety data and investigation information. The intended effect of this action is to reduce crashes caused by CMV drivers and motor carriers, resulting in death, injuries, and property damage on U.S. highways, by more effectively using FMCSA data and resources to identify unfit motor carriers, and to remove them from the Nation's roadways.

Statement of Need: Because of the time and expense associated with the on-site compliance review, only a small fraction of carriers (approximately 12,000) receive a safety fitness determination each year. Since the current safety fitness determination process is based exclusively on the results of an on-site compliance review, the great majority of carriers subject to FMCSA jurisdiction do not receive a timely determination of their safety fitness. The proposed methodology for determining motor carrier safety fitness should correct the deficiencies of the current process. In correcting these deficiencies, FMCSA has made a concerted effort to develop a “transparent” method for the Safety Fitness Determination (SFD) that would allow each motor carrier to understand fully how FMCSA established that carrier's specific SFD.

Summary of Legal Basis: This rule is based primarily on the authority of 49 U.S.C. 31144, which directs the Secretary of Transportation to “determine whether an owner or operator is fit to operate a commercial motor vehicle” and to “maintain by regulation a procedure for determining the safety fitness of an owner or operator.” This statute was first enacted as part of the Motor Carrier Safety Act of 1984, section 215, Public Law 98-554, 98 Stat. 2844 (Oct. 30, 1984). The proposed rule also relies on the provisions of 49 U.S.C. 31133, which gives the Secretary “broad administrative powers to assist in the implementation” of the provisions of the Motor Carrier Safety Act now found in chapter 311 of title 49, U.S.C. These powers include, among others, authority to conduct inspections and investigations, compile statistics, require production of records and property, prescribe recordkeeping and reporting requirements, and to perform other acts considered appropriate. These powers are used to obtain the data used by the Safety Management System and by the proposed new methodology for safety fitness determinations. Under 49 CFR 1.73(g), the Secretary has delegated the authority to carry out the functions in subchapters I, III, and IV of chapter 311, title 49, U.S.C., to the FMCSA Administrator. Sections 31133 and 31144 are part of subchapter III of chapter 311.

Alternatives: The Agency has been considering several alternatives.

Anticipated Cost and Benefits: The Agency is continuing to review the estimated costs and benefits of the proposed rule.

Risks: A risk of incorrectly identifying a compliant carrier as non-compliant—and consequently subjecting the carrier to unnecessary expenses—has been analyzed and has been found to be negligible under the process being proposed.

Timetable:

Action | Date | FR Cite
NPRM | 04/00/15

Regulatory Flexibility Analysis Required: Yes.

Small Entities Affected: Businesses, Organizations.

Government Levels Affected: Undetermined.

URL for More Information: www.regulations.gov.

URL for Public Comments: www.regulations.gov.

Agency Contact: David Miller, Regulatory Development Division, Department of Transportation, Federal Motor Carrier Safety Administration, 1200 New Jersey Avenue SE., Washington, DC 20590, Phone: 202 366-5370, Email: fmcsaregs@dot.gov.

RIN: 2126-AB11

DOT—FMCSA

112. + Electronic Logging Devices and Hours of Service Supporting Documents (MAP-21)

Priority: Economically Significant. Major under 5 U.S.C. 801.

Unfunded Mandates: This action may affect the private sector under Pub. L. 104-4.

Legal Authority: 49 U.S.C. 31502; 31136(a); Pub. L. 103.311; 49 U.S.C. 31137(a)

CFR Citation: 49 CFR 350; 49 CFR 385; 49 CFR 396; 49 CFR 395

Legal Deadline: NPRM, Judicial, January 31, 2011, Notice of Proposed Rulemaking.

NPRM, Statutory, October 1, 2013, MAP-21 requires FMCSA to issue a final rule by October 1, 2013, a deadline that FMCSA will not be able to meet, due to the need for notice and comment on these proposals.

Abstract: This rulemaking would establish: (1) Minimum performance and design standards for hours-of-service (HOS) electronic logging devices (ELDs); (2) requirements for the mandatory use of these devices by drivers currently required to prepare HOS records of duty status (RODS); (3) requirements concerning HOS supporting documents; and (4) measures to address concerns about harassment resulting from the mandatory use of ELDs.

Statement of Need: This rulemaking action would improve commercial motor vehicle (CMV) safety and reduce the overall paperwork burden for both motor carriers and drivers by increasing the use of ELDs within the motor carrier industry, which would in turn improve compliance with the applicable Hours of Service (HOS) rules. Specifically, this rule would (1) Require new technical specifications for ELDs that address statutory requirements; (2) mandate ELDs for drivers currently using record of duty status; (3) clarify supporting document requirements so that motor carriers and drivers can comply efficiently with HOS regulations, and so that motor carriers can make the best use of ELDs and related support systems as their primary means of recording HOS information and ensure HOS compliance; and (4) adopt procedural and technical provisions aimed at ensuring that ELDs are not used to harass vehicle operators. The Agency published a Supplemental Notice of Proposed Rulemaking (SNPRM) on March 28, 2014, and the comment period ended on June 26, 2014.

Summary of Legal Basis: Section 113 of the Hazardous Materials Transportation Authorization Act of 1994, Public Law 103-311, 108 Stat. 1673, 16776-1677, August 26, 1994, (HMTAA) requires the Secretary to prescribe regulations to improve compliance by CMV drivers and motor carriers with HOS requirements and the effectiveness and efficiency of Federal and State enforcement officers reviewing such compliance. Specifically, the Act addresses requirements for supporting documents. Section 32301(b) of the Commercial Motor Vehicle Safety Enhancement Act, enacted as part of MAP-21 (Public Law 112-141, 126 Stat. 405, 786-788 (July 6, 2012), mandated that the Secretary adopt regulations requiring that CMVs involved in interstate commerce, operated by drivers who are required to keep RODS, be equipped with ELDs.

Alternatives: FMCSA is considering several alternatives to the proposal, including alternate populations.

Anticipated Cost and Benefits: FMCSA estimates costs of $1.6B and benefits of $2.0B for the rule, discounted at 7% in 2013 dollars.

Risks: FMCSA has not yet fully assessed the risks that might be associated with this activity.

Timetable:

Action | Date | FR Cite
NPRM | 02/01/11 | 76 FR 5537
NPRM Comment Period End | 02/28/11 |
NPRM Comment Period Extended | 03/10/11 | 76 FR 13121
NPRM Comment Period Extended End | 05/23/11 |
SNPRM | 03/28/14 | 79 FR 17656
SNPRM Comment Period End | 05/27/14 |
SNPRM Analyzing Comments | 03/00/15 |
Final Rule | 09/00/15 |

Regulatory Flexibility Analysis Required: Yes.

Small Entities Affected: Businesses.

Government Levels Affected: None.

International Impacts: This regulatory action will be likely to have international trade and investment effects, or otherwise be of international interest.

Additional Information: The Agency previously published an NPRM on this subject under RIN 2126-AA76, “Hours of Service of Drivers; Supporting Documents” (63 FR 19457, Apr. 20, 1998) and an SNPRM, “Hours of Service of Drivers: Supporting Documents” (69 FR 63997, Nov. 3, 2004). The Agency withdrew the SNPRM on October 25, 2007, 72 FR 60614. The previous proceeding can be found in docket No. FMCSA-1998-3706.

URL for More Information: www.regulations.gov.

URL for Public Comments: www.regulations.gov.

Agency Contact: Deborah M. Freund, Senior Transportation Specialist, Department of Transportation, Federal Motor Carrier Safety Administration, 1200 New Jersey Avenue SE., Washington, DC 20590, Phone: 202 366-5370, Email: deborah.freund@dot.gov.

Related RIN: Related to 2126-AA89, Related to 2126-AA76

RIN: 2126-AB20

DOT—FMCSA

Final Rule Stage

113. + Commercial Driver's License Drug and Alcohol Clearinghouse (MAP-21)

Priority: Economically Significant. Major under 5 U.S.C. 801.

Unfunded Mandates: Undetermined.

Legal Authority: 49 U.S.C. 31306

CFR Citation: 49 CFR 382.

Legal Deadline: Other, Statutory, October 1, 2014, Clearinghouse required to be established by 10/01/2014.

Abstract: This rulemaking would create a central database for verified positive controlled substances and alcohol test results for commercial driver´s license (CDL) holders and refusals by such drivers to submit to testing. This rulemaking would require employers of CDL holders and service agents to report positive test results and refusals to test into the Clearinghouse. Prospective employers, acting on an application for a CDL driver position with the applicant´s written consent to access the Clearinghouse, would query the Clearinghouse to determine if any specific information about the driver applicant is in the Clearinghouse before allowing the applicant to be hired and to drive CMVs. This rulemaking is intended to increase highway safety by ensuring CDL holders, who have tested positive or have refused to submit to testing, have completed the U.S. DOT´s return-to-duty process before driving CMVs in interstate or intrastate commerce. It is also intended to ensure that employers are meeting their drug and alcohol testing responsibilities. Additionally, provisions in this rulemaking would also be responsive to requirements of the Moving Ahead for Progress in the 21st Century (MAP-21) Act. MAP-21 requires creation of the Clearinghouse by 10/1/14.

Statement of Need: This rulemaking would improve the safety of the Nation's highways by ensuring that employers know when drivers test positive for drugs and/or alcohol, and are not qualified to drive. It would also ensure that drivers who have tested positive and have not completed the return-to-duty process are not driving, and ensure that all employers are meeting their drug and alcohol testing responsibilities.

Summary of Legal Basis: Section 32402 of the Moving Ahead for Progress in the 21st Century Act (MAP-21)) (Pub. L. 112-141, 126 Stat. 405) directs the Secretary of Transportation to establish a national clearinghouse for controlled substance and alcohol test results of commercial motor vehicle operators. In addition, FMCSA has general authority to promulgate safety standards, including those governing drivers' use of drugs or alcohol while operating a CMV. The Motor Carrier Safety Act of 1984 Public Law 98-554 (the 1984 Act) provides authority to regulate drivers, motor carriers, and vehicle equipment, and requires the Secretary of Transportation to prescribe minimum safety standards for CMVs. These standards include: (1) That CMVs are maintained, equipped loaded, and operated safely; (2) the responsibilities imposed on CMV operators do not impair their ability to operate the vehicles safely; (3) the physical condition of CMV operators is adequate to enable them to operate the vehicles safely; and (4) CMV operation does not have a deleterious effect on the physical condition of the operators 49 U.S.C. 31136(a).

Alternatives: To be determined.

Anticipated Cost and Benefits: The Agency estimates $187 million in annual benefits from increased crash reduction from the rule. This is against an estimated $155 million in total annual costs for employers to complete the annual and pre-employment queries and to designate C/TPAs, for SAPs to input information from drivers undergoing the return-to-duty process, for various entities to report and notify positive tests and to register and become familiar with the rule, for drivers to consent to release of records, and for FMCSA to maintain and operate the Clearinghouse, and for drivers to go through the return-to-duty process. Total net benefits of the rule thus are $32 million annually.

Risks: There is a risk of not knowing when a driver has not completed the return-to-duty process and enabling job-hopping within the industry.

Timetable:

Action | Date | FR Cite
NPRM | 02/20/14 | 79 FR 9703
NPRM Comment Period End | 04/21/14 |
NPRM Comment Period Extended | 04/22/14 | 79 FR 22467
NPRM Comment Period Extended End | 05/21/14 |
Final Rule | 09/00/15 |

Regulatory Flexibility Analysis Required: Yes.

Small Entities Affected: Businesses.

Government Levels Affected: Federal, Local, State, Tribal.

Federalism: This action may have federalism implications as defined in E.O. 13132.

Additional Information: MAP-21 included provisions for a Drug and Alcohol Test Clearinghouse that affect this rulemaking.

URL for More Information: www.regulations.gov.

URL For Public Comments: www.regulations.gov.

Agency Contact: Juan Moya, Department of Transportation, Federal Motor Carrier Safety Administration, 1200 New Jersey Avenue SE., Washington, DC 20590, Phone: 202 366-4844, Email: juan.moya@dot.gov.

RIN: 2126-AB18

DOT—NATIONAL HIGHWAY TRAFFIC SAFETY ADMINISTRATION (NHTSA)

Proposed Rule Stage

114. +Fuel Efficiency Standards for Medium-and Heavy-Duty Vehicles and Work Trucks: Phase 2

Priority: Economically Significant. Major under 5 U.S.C. 801.

Legal Authority: 49 U.S.C. 32902(k)(2); 49 CFR 1.95

CFR Citation: 49 CFR 523; 49 CFR 534; 49 CFR 534.

Legal Deadline: None.

Abstract: This rulemaking would address fuel efficiency standards for medium- and heavy-duty on-highway vehicles and work trucks for model years beyond 2018. This rulemaking would respond to requirements of the Energy Independence and Security Act of 2007 (EISA), title 1, subtitle A, sections 102 and 108, as they amend 49 U.S.C. 32902, which was signed into law December 19, 2007. The statute requires that NHTSA establish a medium- and heavy-duty on-highway vehicle and work truck fuel efficiency improvement program that achieves the maximum feasible improvement, including standards that are appropriate, cost-effective, and technologically feasible. The law requires that the new standards provide at least 4 full model years of regulatory lead-time and 3 full model years of regulatory stability (i.e., the standards must remain in effect for 3 years before they may be amended). This action would follow the first ever Greenhouse Gas Emissions Standards and Fuel Efficiency Standards for Medium- and Heavy-Duty Engines and Vehicles (Phase 1) (76 FR 57106, September 15, 2011). In June 2013, the President's Climate Action Plan called for the Department of Transportation to develop fuel efficiency standards and the Environmental Protection Agency to develop greenhouse gas emission standards in joint rulemaking within the President's second term. In February 2014, the President directed DOT and EPA to complete the second phase of Greenhouse Gas Emissions Standards and Fuel Efficiency Standards for Medium- and Heavy-Duty Engines and Vehicles during his second term.

Statement of Need: Setting fuel consumption standards for commercial medium-duty and heavy-duty on-highway vehicles and work trucks will reduce fuel consumption, and will thereby improve U.S. energy security by reducing dependence on foreign oil, which has been a national objective since the first oil price shocks in the 1970s. Net petroleum imports now account for approximately 60 percent of U.S. petroleum consumption. World crude oil production is highly concentrated, exacerbating the risks of supply disruptions and price shocks. Tight global oil markets led to prices over $100 per barrel in 2008, with gasoline reaching as high as $4 per gallon in many parts of the U.S., causing financial hardship for many families and businesses. The export of U.S. assets for oil imports continues to be an important component of the historically unprecedented U.S. trade deficits. Transportation accounts for about 72 percent of U.S. petroleum consumption. Medium-duty and heavy-duty vehicles account for about 17 percent of transportation oil use, which means that they alone account for about 12 percent of all U.S. oil consumption.

Summary of Legal Basis: This rulemaking would respond to requirements of the Energy Independence and Security Act of 2007 (EISA), title 1, subtitle A, sections 102 and 108, as they amend 49 U.S.C. 32902, which was signed into law December 19, 2007. In June 2013, the Presidents Climate Action Plan called for the Department of Transportation to develop fuel efficiency standards and the Environmental Protection Agency to develop greenhouse gas emission standards in joint rulemaking within the Presidents second term. In February 2014, the President directed DOT and EPA to complete the second phase of Greenhouse Gas Emissions Standards and Fuel Efficiency Standards for Medium- and Heavy-Duty Engines and Vehicles during his second term.

Alternatives: In Phase 1, NHTSA evaluated nine alternatives; (1) heavy-duty engines, only (2) Class 8 combination tractors and engines in Class 8 tractors, (3) heavy-duty engines and Class 7 and 8 tractors, (4) heavy-duty engines, Class 7 and 8 tractors, and Class 2b/3 pickup trucks and vans, (5) NPRM Preferred Alternative: heavy-duty engines, tractors, and Class 2b through 8 vehicles, (6) heavy-duty engines, tractors, Class 2b through 8 vehicles and trailers, (7) heavy-duty engines, tractors, Class 2b through 8 vehicles, and trailers plus advanced hybrid powertrain technology for Class 2b through 8 vocational vehicles, pickups and vans, (8) 15 percent less stringent that the NPRM Preferred Alternative, covering heavy-duty engines, tractors, and Class 2b through 8 vehicles, (9) 20 percent more stringent that the NPRM Preferred Alternative, covering heavy-duty engines, tractors, and Class 2b through 8 vehicles.

Anticipated Cost and Benefits: The costs and benefits associated with this rulemaking have not yet been quantified.

Risks: The agency believes there are no substantial risks to this rulemaking.

Timetable:

Action | Date | FR Cite
NPRM | 03/00/15 |

Regulatory Flexibility Analysis Required: Undetermined.

Government Levels Affected: None.

Energy Effects: Statement of Energy Effects planned as required by Executive Order 13211.

URL for More Information: www.regulations.gov.

URL for Public Comments: www.regulations.gov.

Agency Contact: James Tamm, Fuel Economy Division Chief, Department of Transportation, National Highway Traffic Safety Administration, 1200 New Jersey Ave. SE., Washington, DC 20590, Phone: 202-493-0515. Email: james.tamm@dot.gov.

RIN: 2127-AL52

DOT—NHTSA

Final Rule Stage

115. + Sound for Hybrid and Electric Vehicles

Priority: Other Significant.

Legal Authority: 49 U.S.C. 30111; 49 U.S.C. 30115; 49 U.S.C. 30117; 49 U.S.C. 30166; 49 U.S.C. 322; delegation of authority at 49 CFR 1.95

CFR Citation: 49 CFR 571; 49 CFR 585.

Legal Deadline: NPRM, Statutory, July 5, 2012, Initiate rulemaking. Final, Statutory, January 3, 2014, Final Rule. Legislation requires the Secretary of Transportation to initiate rulemaking by July 2012, and issue a final rule not later than January 2014.

Abstract: This rulemaking would respond to the Pedestrian Safety Enhancement Act of 2010, which directs the Secretary of Transportation to study and establish a motor vehicle safety standard that provides for a means of alerting blind, and other pedestrians of motor vehicle operation for hybrid and electric vehicles. The PRIA contains an estimate of 2,800 fewer injured pedestrians and pedalcyclists (35 equivalent lives saved) at a total estimated cost of $23.5 million at the 3 percent discount rate, and $22.9 million at the 7 percent discount rate, should the requirements of the NPRM be made final.

Statement of Need: The Pedestrian Safety Enhancement Act of 2010, signed into law on January 4, 2011, directs the Secretary to study and establish a motor vehicle safety standard that provides for a means of alerting blind and other pedestrians of motor vehicle operation. The agency's proposed safety standard, issued January 14, 2013, will require hybrid and electric passenger cars, light trucks and vans (LTVs), medium and heavy duty trucks, buses, low speed vehicles (LSVs), and motorcycles to meet specified sound requirements as required by the Act. This standard will ensure that blind, visually-impaired, and other pedestrians are able to detect and recognize nearby hybrid and electric vehicles. The proposal estimated that 2,800 total pedestrians injured will be avoided, due to this proposal's representation of 35 equivalent lives saved.

Summary of Legal Basis: Section 30111, title 49 of the U.S.C., states that the Secretary shall prescribe motor vehicle safety standards.

Alternatives: The Agency considered and sought public comment on alternatives including: (1) Taking no action; (2) requiring alert sounds based on recordings of internal combustion engine (ICE) vehicles; (3) specifying acoustic requirements for synthetic sounds that would closely resemble sounds produced by ICE vehicles; (4) setting requirements for alert sounds that possess aspects of both sounds produced by ICE vehicles and acoustic elements that contribute to detectability; and (5) using psychoacoustic principals to develop requirements for alert sounds that would have enhanced detectability, but would not necessarily have a reference to sounds produced by ICE vehicles.

Anticipated Cost and Benefits: In 2010 dollars at a 7 percent discount rate, the total costs are estimated to be $24.4 million and monetized benefits at $134.1 million, with net benefits estimated at $109.7 million.

Risks: The Agency believes that there are no significant risks associated with this rulemaking, and that only beneficial outcomes will occur.

Timetable:

Action | Date | FR Cite
NPRM | 01/14/13 | 78 FR 2797
NPRM Comment Period End | 03/15/13 |
Final Rule | 04/00/15 |

Regulatory Flexibility Analysis Required: No.

Small Entities Affected: Businesses.

Government Levels Affected: None.

International Impacts: This regulatory action will be likely to have international trade and investment effects, or otherwise be of international interest.

URL for More Information: www.regulations.gov.

URL for Public Comments: www.regulations.gov.

Agency Contact: Marisol Medri, Safety Engineer, Department of Transportation, National Highway Traffic Safety Administration, 1200 New Jersey Avenue SE., Washington, DC 20590, Phone: 202-366-6987, Email: marisol.medri@dot.gov.

RIN: 2127-AK93

DOT—NHTSA

116. +Electronic Stability Control Systems for Heavy Vehicles (MAP-21)

Priority: Economically Significant. Major under 5 U.S.C. 801.

Legal Authority: 49 U.S.C. 30111; 49 U.S.C. 30115; 49 U.S.C. 30117; 49 U.S.C. 30166; 49 U.S.C. 322; delegation of authority at 49 CFR 1.95

CFR Citation: 49 CFR 571.

Legal Deadline: Final, Statutory, October 1, 2014, Final Rule.

Abstract: This rulemaking would promulgate a new Federal standard that would require stability control systems on truck tractors and motorcoaches that address both rollover and loss-of-control crashes, after an extensive research program to evaluate the available technologies, an evaluation of the costs and benefits, and a review of manufacturer´s product plans. Rollover and loss-of-control crashes involving heavy vehicles is a serious safety issue that is responsible for 304 fatalities and 2,738 injuries annually. They are also a major cause of traffic tie-ups, resulting in millions of dollars of lost productivity, and excess energy consumption each year. Suppliers and truck and motorcoach manufacturers have developed stability control technology for heavy vehicles to mitigate these types of crashes. Our preliminary estimate produces an effectiveness range of 37 to 56 percent against single-vehicle tractor-trailer rollover crashes and 3 to 14 percent against loss-of-control crashes that result from skidding on the road surface. With these effectiveness estimates, annually, we estimate 29 to 66 lives would be saved, 517 to 979 MAIS 1 to 5 injuries would be reduced, and 810 to 1,693 crashes that involved property damage only would be eliminated. Additionally, it would save $10 to $26 million in property damage and travel delays. Based on the technology unit costs and affected vehicles, we estimate technology costs would be $55 to 107 million, annually. However, the costs savings from reducing travel delay and property damage would produce net benefits of $128 to $372 million. This rulemaking is responsive to requirements of the Moving Ahead for Progress in the 21st Century (MAP-21) Act.

Statement of Need: Rollover and loss-of-control crashes involving combination truck tractors and large buses is a serious safety issue that is responsible for 268 fatalities and 3,000 injuries annually. They are also a major cause of traffic tie-ups, resulting in millions of dollars of lost productivity, and excess energy consumption each year. This action is consistent with our detailed plans for improving motorcoach passenger protection, laid out in NHTSA's Approach to Motorcoach Safety 2007, and the Department of Transportation 2009 Motorcoach Action Plan (Docket No. NHTSA-2007-28793), as well as the agency's Vehicle Safety and Fuel Economy Rulemaking and Research Priority Plan 2011-2013 (Docket No. NHTSA-2009-0108), and is responsive to 3 recommendations issued by the National Transportation Safety Board.

Summary of Legal Basis: Section 30111, title 49 of the U.S.C., states that the Secretary shall prescribe motor vehicle safety standards.

Alternatives: The Agency considered two regulatory alternatives. First, we considered requiring truck tractors and large buses to be equipped with roll stability control (RSC) systems. The second alternative considered was requiring trailers to be equipped with RSC systems. When compared to the proposal, these alternatives provide fewer benefits because they are less effective at preventing rollover crashes and much less effective at preventing loss-of-control crashes.

Anticipated Cost and Benefits: According to the NPRM, the anticipated total costs are expected to be $113.6 million for the 150,000 truck tractors and 2,200 large buses produced in 2012. The agency estimates the proposal has the potential to save 49 to 60 fatalities, 649 to 858 injuries, and 1,807 to 2,329 crashes annually. The net cost per equivalent life saved at a 7 percent discount rate is estimated to range from $2.0 to $2.6 million, and for a 3 percent discount rate is $1.5 to $2.0 million. The net benefits are $155 to $222 million at a 7 percent discount rate, and $228 to $310 million at a 3 percent discount rate.

Risks: The Agency believes that there are no significant risks associated with this rulemaking, and that only beneficial outcomes will occur.

Timetable:

Action | Date | FR Cite
NPRM | 05/23/12 | 77 FR 30766
NPRM Comment Period End | 08/21/12 |
Final Rule | 01/00/15 |

Regulatory Flexibility Analysis Required: No.

Small Entities Affected: No.

Government Levels Affected: None.

URL for More Information: www.regulations.gov.

URL for Public Comments: www.regulations.gov.

Agency Contact: George Soodoo, Chief, Vehicle Safety Dynamics Division (NVS-122), Department of Transportation, National Highway Traffic Safety Administration, 1200 New Jersey Avenue SE., Washington, DC 20590, Phone: 202-366-2720, Fax: 202-366-4329, Email: george.soodoo@dot.gov.

RIN: 2127-AK97

DOT—FEDERAL TRANSIT ADMINISTRATION (FTA)

Proposed Rule Stage

117. +State Safety Oversight (MAP-21)

Priority: Other Significant. Major under 5 U.S.C. 801.

Legal Authority: Pub. L. 112 to 141, sec 20021

CFR Citation: 49 CFR 659.

Legal Deadline: None.

Abstract: This rulemaking will set standards for State safety oversight of rail transit systems and criteria for award of FTA grant funds to help the States develop and carry out their oversight programs.

Statement of Need: The Moving Ahead for Progress in the 21st Century Act (MAP-21, effective Oct. 1, 2012) made substantial changes to the program for State safety oversight of rail fixed guideway public transportation systems, and created a new program of Federal financial assistance to the States for the purpose of conducting their oversight of rail transit system safety. This rulemaking will flesh out the statutory changes to the program, and set the process for making grants of Federal funding to the States.

Summary of Legal Basis: 49 U.S.C. 5329(e)(9) requires the Secretary to issue regulations to carry out the State safety oversight program for rail fixed guideway public transportation systems.

Alternatives: This rulemaking will amend the regulations at 49 CFR part 659 that have been in place since 1995. The single most important change this rulemaking entails is the flexible, scalable Safety Management Systems (SMS) approach that the U.S. Dept. of Transportation is applying to help ensure safety in all modes of transportation-SMS can be tailored both to the size, complexity, and mode of operation for a transit system, and the State agency that is overseeing the safety of a rail transit system.

Anticipated Cost and Benefits: This rulemaking will not entail any significant change to the annualized monetary costs and benefits of the State safety oversight rules that have been in place since 1995. The costs and benefits will be assessed during the development of the NPRM, but it's critical to note that State safety oversight of rail transit systems will no longer be an unfunded mandate; for the first time, under MAP-21, Federal funding will be available to the States to assist them in conducting their oversight, and this rulemaking will set the process for making the FTA grants to the States.

Risks: This rulemaking will not regulate any entities other than States that have rail fixed guideway public transportation systems and the State safety oversight Agencies that conduct oversight of those rail transit systems. The Federal funding for State safety oversight will be apportioned by formula, based on the statutory criteria set forth in 49 U.S.C. 5329(e)(6)(B)(i), thus, this rulemaking poses no risks for the regulated communities other than the risks inherent in conducting the oversight of the safety of the rail transit systems for which they are responsible.

Timetable:

Action | Date | FR Cite
NPRM | 01/00/15 |

Regulatory Flexibility Analysis Required: Undetermined.

Government Levels Affected: Undetermined.

Federalism: Undetermined.

URL for More Information: www.regulations.gov.

URL for Public Comments: www.regulations.gov.

Agency Contact: Candace Key, Attorney Advisor, Department of Transportation, Federal Transit Administration, 1200 New Jersey Avenue SE., Washington, DC 20590, Phone: 202 366-9178, Email: candace.key@dot.gov.

RIN: 2132-AB19

DOT—PIPELINE AND HAZARDOUS MATERIALS SAFETY ADMINISTRATION (PHMSA)

Proposed Rule Stage

118. +Pipeline Safety: Safety of On-Shore Liquid Hazardous Pipelines

Priority: Other Significant. Major under 5 U.S.C. 801.

Legal Authority: 49 U.S.C. 60101 et seq.

CFR Citation: 49 CFR 195.

Legal Deadline: None.

Abstract: This rulemaking would address effective procedures that hazardous liquid operators can use to improve the protection of high consequence areas (HCA) and other vulnerable areas along their hazardous liquid onshore pipelines. PHMSA is considering whether changes are needed to the regulations covering hazardous liquid onshore pipelines, whether other areas should be included as HCAs for integrity management (IM) protections, what the repair timeframes should be for areas outside the HCAs that are assessed as part of the IM program, whether leak detection standards are necessary, valve spacing requirements are needed on new construction or existing pipelines, and PHMSA should extend regulation to certain pipelines currently exempt from regulation. The Agency would also address the public safety and environmental aspects of any new requirements, as well as the cost implications and regulatory burden.

Statement of Need: This NPRM responds to NTSB recommendations, a GAO recommendation, public safety community input, consideration of research and technology advancements and the review of recent incident and accident reports. Additionally, the Pipeline Safety, Regulatory Certainty, and Job Creation Act of 2011 (P.L. 112-90), includes several provisions and mandates that are relevant to the 49 CFR particularly section 195.452. If adopted, the proposals in this NPRM will better protect the public, property, and the environment by ensuring that additional pipelines are subject to improved regulation, thus increasing the detection and remediation of pipeline anomalies.

Summary of Legal Basis: Congress established the current framework for regulating the safety of hazardous liquid pipelines in the Hazardous Liquid Pipeline Safety Act (HLPSA) of 1979 (Pub. L. 96 to 129). Like its predecessor, the Natural Gas Pipeline Safety Act of 1968 (Pub. L. 90 to 481), the HLPSA provided the Secretary of Transportation (Secretary) with the authority to prescribe minimum Federal safety standards for hazardous liquid pipeline facilities. That authority, as amended in subsequent reauthorizations, is currently codified in the Pipeline Safety Laws (49 U.S.C. 60101 et seq.).

Alternatives: The various alternatives analyzed included no action “status quo” and individualized alternatives based on the proposed amendments.

Anticipated Cost and Benefits: The cost and benefits of this rule are to be determined.

Risks: The proposed rule will provide increased safety for the regulated entities and reduce pipeline safety risks.

Timetable:

Action | Date | FR Cite
ANPRM | 10/18/10 | 75 FR 63774
ANPRM Comment Period End | 01/18/11 |
ANPRM Comment Period Extended | 01/04/11 | 76 FR 303
ANPRM Extended Comment Period End | 02/18/11 |
NPRM | 04/00/15 |

Regulatory Flexibility Analysis Required: Yes.

Small Entities Affected: Businesses.

Government Levels Affected: None.

URL for More Information: www.regulations.gov.

URL for Public Comments: www.regulations.gov.

Agency Contact: John A Gale, Transportation Regulations Specialist, Department of Transportation, Pipeline and Hazardous Materials Safety Administration, 1200 New Jersey Avenue SE., Washington, DC 20590, Phone: 202-366-0434, Email: john.gale@dot.gov.

RIN: 2137-AE66

DOT—PHMSA

119. +Pipeline Safety: Gas Transmission (RRR)

Priority: Other Significant.

Legal Authority: 49 U.S.C. 60101 et seq.

CFR Citation: 49 CFR 192

Legal Deadline: None.

Abstract: In this rulemaking, PHMSA will be revisiting the requirements in the Pipeline Safety Regulations, addressing integrity management principles for gas transmission pipelines. In particular, PHMSA will be reviewing the definition of an HCA (including the concept of a potential impact radius), the repair criteria for both HCA and non-HCA areas, requiring the use of automatic and remote-controlled shut off valves, valve spacing, and whether applying the integrity management program requirements to additional areas would mitigate the need for class location requirements.

Statement of Need: PHMSA will be reviewing the definition of an HCA (including the concept of a potential impact radius), the repair criteria for both HCA and non-HCA areas, requiring the use of automatic and remote-controlled shut off valves, valve spacing, and whether applying the integrity management program requirements to additional areas would mitigate the need for class location requirements. This rulemaking is in direct response to Congressional mandates in the 2011 Pipeline Reauthorization Act, specifically; section 4 (e) Gas IM plus 6 months, section 5(IM), 8 (leak detection), 23 (b)(2) (exceedance of MAOP); section 29 (seismicity).

Summary of Legal Basis: Congress has authorized Federal regulation of the transportation of gas by pipeline under the Commerce Clause of the U.S. Constitution. Authorization is codified in the Pipeline Safety Laws (49 U.S.C.s 60101 et seq.), a series of statutes that are administered by the DOT and PHMSA. PHMSA has used that authority to promulgate comprehensive minimum safety standards for the transportation of gas by pipeline.

Alternatives: Alternatives analyzed included no change, and extension of the compliance deadlines associated with the major cost of the requirement area; namely, development and implementation of management-of-change processes that apply to all gas transmission pipelines beyond that which already applies to beyond IMP- and control center-related processes.

Anticipated Cost and Benefits: PHMSA does not expect the proposed rule to adversely affect the economy or any sector of the economy in terms of productivity and employment, the environment, public health, safety, or State, local, or tribal government. PHMSA has also determined, as required by the Regulatory Flexibility Act, that the rule would not have a significant economic impact on a substantial number of small entities in the United States. Additionally, PHMSA determined that the rule would not impose annual expenditures on State, local, or tribal governments in excess of $152 million, and thus does not require an Unfunded Mandates Reform Act analysis. However, the rule would impose annual expenditure in the private sector in excess of $152 million.

Risks: This proposed rule will strengthen current pipeline regulations and lower the safety risk of all regulated entities.

Timetable:

Action | Date | FR Cite
ANPRM | 08/25/11 | 76 FR 5308
ANPRM Comment Period Extended | 11/16/11 | 76 FR 70953
ANPRM Comment Period End | 12/02/11 |
End of ANPRM Comment Period Extended | 01/20/12 |
NPRM | 01/00/15 |

Regulatory Flexibility Analysis Required: No.

Small Entities Affected: No.

Government Levels Affected: None.

Additional Information: SB-Y IC-N SLT-N.

URL for More Information: www.regulations.gov.

URL for Public Comments: www.regulations.gov.

Agency Contact: Cameron H Satterthwaite, Transportation Regulations Specialist, Department of Transportation, Pipeline and Hazardous Materials Safety Administration, 1200 New Jersey Avenue SE., Washington, DC 20590, Phone: 202 366-8553, Email: cameron.satterthwaite@dot.gov.

RIN: 2137-AE72

DOT—PHMSA

Final Rule Stage

120. +Hazardous Materials: Enhanced Tank Car Standards and Operational Controls for High-Hazard Flammable Trains

Priority: Economically Significant. Major under 5 U.S.C. 801.

Unfunded Mandates: This action may affect the private sector under Pub. L. 104-4.

Legal Authority: 49 U.S.C. 5101 et seq.

CFR Citation: 49 CFR 171; 49 CFR 172; 49 CFR 173; 49 CFR 174; 49 CFR 179

Legal Deadline: None.

Abstract: This rulemaking would amend proposes new operational requirements for certain trains transporting a large volume of flammable materials, provide improvements in tank car standards, and revise the generalmaterials improvements in tank car standards and revision of the general requirements for offerors to ensure proper classification and characterization of mined gases and liquids. These new requirements are designed to lessen the consequences of derailments involving ethanol crude oil and certain trains transporting a large volume of flammable materials. The growing reliance on trains to transport large volumes of flammable materials poses a significant risk to life property and the environment. These significant risks have been highlighted by the recent derailments of trains carrying crude oil in Casselton, North Dakota; Aliceville, Alabama; and Lac-Mégantic, Quebec Canada. The proposed changes also address National Transportation Safety Board (NTSB) recommendations on accurate classification, enhanced tank cars, rail routing, oversight, and adequate response capabilities.

Statement of Need: This rulemaking is a crucial step by DOT to reduce the risks related to the transportation of hazardous materials by rail. Preventing tank car incidents and minimizing the consequences when an incident does occur are not only DOT priorities, but are also shared by the National Transportation Safety Board (NTSB), industry, and the general public. These same groups also question the survivability of general service tank cars built to the current regulatory requirements. To this end, PHMSA will consider regulatory amendments to enhance the standards for tank cars, most notably, DOT Specification 111 tank cars used to transport certain hazardous materials and explore additional operational requirements to enhance the safe transportation of hazardous materials by rail.

Summary of Legal Basis: The authority of 49 U.S.C. 5103(b), which authorizes the Secretary of Transportation to “prescribe regulations for the safe transportation, including security, of hazardous materials in intrastate, interstate, and foreign commerce.”

Alternatives: PHMSA and FRA are committed to a comprehensive approach to addressing the risk and consequences of derailments involving hazardous materials by addressing not only survivability of rail car designs, but the operational practices of rail carriers. Obtaining information and comments in an NPRM provided the greatest opportunity for public participation in the development of regulatory amendments, and promote greater exchange of information and perspectives among the various stakeholders to promote future regulatory action on these issues.

Anticipated Cost and Benefits:The NPRM requested comments on both the path forward and the economic impacts. We are evaluating comments prior to developing the final rule, and once the final rule is drafted the costs and benefits will be detailed.

Risks:DOT conducted research on long-standing safety concerns regarding the survivability of the DOT Specification 111 tank cars designed to current HMR requirements, and used for the transportation of flammable liquids. The research found that special consideration is necessary for the transportation of flammable liquids in DOT Specification 111 tank cars, especially when a train is configured as a unit train. Through the research, DOT identified and ranked several enhancements to the current specifications that would increase tank car survivability. The highest-ranked options are low cost and the most effective at preventing loss of containment and catastrophic failure of a DOT Specification 111 tank car during a derailment.

Timetable:

Action | Date | FR Cite
ANPRM | 09/06/13 | 78 FR 54849
ANPRM Comment Period End | 11/05/13 |
ANPRM Comment Period Extended | 11/05/13 | 78 FR 66326
ANPRM Comment Period Extended End | 12/05/13 |
NPRM | 08/01/14 | 79 FR 45015
NPRM Comment Period End | 09/30/14 |
Final Rule | 03/00/15 |

Regulatory Flexibility Analysis Required:No.

Small Entities Affected: No.

Government Levels Affected: None.

Additional Information:HM-251; SB-Y, IC-Y, SLT-N; This rulemaking will provide the greatest opportunity for public participation in the development of regulatory amendments, and promote greater exchange of information and perspectives among the various stakeholders. The rulemaking will lead to more focused and well-developed amendments that reflect the views of all regulated entities. Comments received to the NPRM were used in our evaluation and development of future regulatory action on these issues.

URL for More Information: www.regulations.gov.

URL for Public Comments: www.regulations.gov.

Agency Contact: Ben Supko, Transportation Regulations Specialist, Department of Transportation, Pipeline and Hazardous Materials Safety Administration, 1200 New Jersey Avenue SE., Washington, DC 20590, Phone: 202-366-8553, Email: ben.supko@dot.gov.

RIN: 2137-AE91

BILLING CODE 4910-9X-P

DEPARTMENT OF THE TREASURY

Statement of Regulatory Priorities

The primary missions of the Department of the Treasury are:

• To promote prosperous and stable American and world economies, including promoting domestic economic growth and maintaining our Nation's leadership in global economic issues, supervising national banks and thrift institutions, and helping to bring residents of distressed communities into the economic mainstream.

• To manage the Government's finances by protecting the revenue and collecting the correct amount of revenue under the Internal Revenue Code, overseeing customs revenue functions, financing the Federal Government and managing its fiscal operations, and producing our Nation's coins and currency.

• To safeguard the U.S. and international financial systems from those who would use these systems for illegal purposes or to compromise U.S. national security interests, while keeping them free and open to legitimate users.

Consistent with these missions, most regulations of the Department and its constituent bureaus are promulgated to interpret and implement the laws as enacted by the Congress and signed by the President. It is the policy of the Department to comply with applicable requirements to issue a notice of proposed rulemaking and carefully consider public comments before adopting a final rule. Also, the Department invites interested parties to submit views on rulemaking projects while a proposed rule is being developed.

To the extent permitted by law, it is the policy of the Department to adhere to the regulatory philosophy and principles set forth in Executive Orders 12866, 13563, and 13609 and to develop regulations that maximize aggregate net benefits to society while minimizing the economic and paperwork burdens imposed on persons and businesses subject to those regulations.

Alcohol and Tobacco Tax and Trade Bureau

The Alcohol and Tobacco Tax and Trade Bureau (TTB) issues regulations to implement and enforce the Federal laws relating to alcohol, tobacco, firearms, and ammunition excise taxes and certain non-tax laws relating to alcohol. TTB's mission and regulations are designed to:

(1) Collect the taxes on alcohol, tobacco, firearms and ammunition;

(2) Protect the consumer by ensuring the integrity of alcohol products; and

(3) Prevent unfair and unlawful market activity for alcohol and tobacco products.

In the last several years, TTB has recognized the changes in the industries it regulates, as well as the modernized enforcement tools available to it. As a consequence, TTB has focused on revising its regulations to ensure that it accomplishes its mission in a way that facilitates industry growth, while at the same time protecting the revenue and consumers of alcohol beverages. This modernization effort has resulted in the updating of Parts 9 (American Viticultural Areas) and 19 (Distilled Spirits Plants) of Title 27 of the Code of Federal Regulations. In addition to its beverage alcohol regulations, TTB published in fiscal year (FY) 2013, a temporary rule and concurrent NPRM pertaining to permits for importers of tobacco products and processed tobacco that would extend the duration of new permits from three years to five years. Furthermore, TTB published an NPRM concerning denatured alcohol and products made with industrial alcohol. The proposed amendments would remove unnecessary regulatory burdens on the industrial alcohol industry as well as TTB, and would align the regulations with current industry practice. These latter three rules all published in June 2013.

In fiscal year 2014, TTB published a direct final rule amending its regulations in 27 CFR part 73 regarding the electronic submission of forms and other documents. To streamline the application process through TTB's secure, web-based applications (Permits Online, COLAs Online, and Formulas Online) and to enable current and prospective industry members to submit all required application forms electronically, TTB amended part 73 to provide for the electronic submission to TTB of forms requiring third-party signatures, such as bond forms and powers of attorney. Copies of such forms, bearing all required signatures and seals, may now be submitted electronically, along with a certification that the copy is an exact copy of the original, provided the submitter maintains the original along with other records and makes it available or submits it to TTB upon request. TTB further amended part 73 to provide that any requirement in the TTB regulations to submit a document to another agency may be met by the electronic submission of the document to the other agency, as long as the other agency provides for, and authorizes, the electronic submission of such document.

In that same final rule, TTB amended its regulations in 27 CFR part 19 governing the records that distilled spirits plant (DSP) proprietors must keep of finished products, by removing the requirement that DSP proprietors keep a daily summary record of the kind of distilled spirits bottled or packaged. Finally, TTB amended its regulations in 27 CFR parts 26 and 27 regarding closures that must be affixed to containers of imported distilled spirits products or of such products brought into the United States from Puerto Rico or the Virgin Islands. The amendments remove a requirement that a part of the closure remain attached to the container when opened, thereby aligning the regulations for such products with those applicable to domestic distilled spirits products. In summary, the amendments made by this final rule have lessened the regulatory burden on industry members by, among other changes: (1) providing for the electronic submission of documents requiring third-party signatures or corporate seals and of documents that the TTB regulations require be submitted to other agencies; (2) removing a recordkeeping requirement in 27 CFR 19.601 for DSP proprietors; and (3) removing a regulatory requirement related to the types of closures that must be used on certain distilled spirits containers.

In FY 2015, TTB will continue its multi-year Regulations Modernization effort by finalizing its Specially Denatured and Completely Denatured Alcohol regulations and prioritizing projects that will update its Labeling Requirements regulations, Import and Export regulations, Nonbeverage Products regulations, and Distilled Spirits Plant Reporting Requirements.

This fiscal year TTB plans to give priority to the following regulatory matters:

Revisions to Specially Denatured and Completely Denatured Alcohol Regulations. TTB proposed changes to regulations for specially denatured alcohol (SDA) and completely denatured alcohol (CDA) that would result in cost savings for both TTB and regulated industry members. These amendments are necessary because they provide a reduction in regulatory burden while posing no risk to the revenue.

Under the authority of the Internal Revenue Code of 1986, as amended (IRC), TTB regulates denatured alcohol that is unfit for beverage use, which may be removed from a regulated distilled spirits plant free of tax. SDA and CDA are widely used in the American fuel, medical, and manufacturing sectors. The industrial alcohol industry far exceeds the beverage alcohol industry in size and scope, and it is a rapidly growing industry in the United States. Some concerns have been raised that the current regulations may create significant roadblocks for industry members in getting products to the marketplace quickly and efficiently. To help alleviate these concerns, TTB plans to issue a final rule that will reclassify certain SDA formulas as CDA and issue new general-use formulas for articles made with SDA. As a result of these changes, industry members would need to seek formula approval from TTB less frequently, and, in turn, TTB could decrease the resources it dedicates to formula review.

TTB estimates that these changes will result in an 80 percent reduction in the formula approval submissions currently required from industry members and will reduce total annual paperwork burden hours on affected industry members from 2,415 to 517 hours. The reduction in formula submissions will enable TTB to redirect its resources to address backlogs that exist in other areas of TTB's mission activities, such as analyses of compliance samples for industrial/fuel alcohol to protect the revenue and working with industry to test and approve new and more environmentally friendly denaturants. Additionally, the reclassification of certain SDA formulas to CDA formulas will not jeopardize the revenue because it is more difficult to separate potable alcohol from CDA than it is from SDA, and because CDA has an offensive taste and is less likely to be used for beverage purposes. Similarly, authorizing new general-use formulas will not jeopardize the revenue because it will be difficult to remove potable alcohol from articles made with the specific SDA formulations. Other changes made by this final rule will remove unnecessary regulatory burdens and update the regulations to align them with current industry practice.

Revisions to the Labeling Requirements (Parts 4 (Wine), 5 (Distilled Spirits), and 7 (Malt Beverages)). The Federal Alcohol Administration Act requires that alcohol beverages introduced in interstate commerce have a label issued and approved under regulations prescribed by the Secretary of the Treasury. In accordance with the mandate of Executive Order 13563 of January 18, 2011, regarding improving regulation and regulatory review, TTB has conducted an analysis of its regulations to identify any that might be outmoded, ineffective, insufficient, or excessively burdensome, and to modify, streamline, expand, or repeal them in accordance with what has been learned. As a result of its review, TTB has near-term plans to revise the regulations concerning the approval of labels for wine, distilled spirits, and malt beverages, to reduce the cost to TTB of reviewing and approving an ever-increasing number of applications for label approval (well over 130,000 per year). The regulations are being reviewed to assess their relevance in the 21st century. Revisions will provide clarity to industry to improve voluntary compliance. Currently, the review and approval process requires a staff of at least 13 people for the pre-approval of labels, in addition to management review. The goal of these regulatory changes, to be developed with industry input, is to accelerate the approval process, which will result in the regulated industries being able to bring products to market without undue delay.

Selected Revisions to Export and Import Regulations Related to the International Trade Data System. TTB is currently preparing for the implementation of the International Trade Data System (ITDS) and, specifically, the transition to an all-electronic import and export environment. The ITDS, as described in section 405 of the Security and Accountability for Every Port Act of 2006 (the “SAFE Port Act”) (Public Law 109-347), is an electronic information exchange capability, or “single window,” through which businesses will transmit data required by participating agencies for the importation or exportation of cargo. To enhance Federal coordination associated with the development of the ITDS and put in place specific deadlines for implementation, President Obama, on February 19, 2014, signed an Executive Order (EO) on Streamlining the Export/Import Process for America's Businesses. In line with section 3(e) of the EO, TTB was required to develop an implementation timeline for ITDS implementation. Regulatory review for transition to the all-electronic environment is part of that process.

TTB has completed its review of the regulatory requirements and identified those that it intends to update to account for the new all-electronic environment. TTB has not only focused on identifying requirements in order to align them with the new environment (such as amending requirements that reference submission of paper documents at entry), but also is reviewing existing requirements and processes to determine where modifications could better take advantage of the all-electronic capability while reducing burden. TTB is planning to publish rulemaking on its import and export regulations in FY15, for example, this rulemaking will address the collection of TTB F 5100.31 (Application for and Certification/Exemption of Label/Bottle Approval) and foreign certificate data in the ITDS environment.

In recent years, TTB has identified selected sections of its export regulations (27 CFR part 28) that should be amended to assist industry members in complying with the regulations. Current regulations require industry members to obtain documents and follow procedures that are outdated and not entirely consistent with current industry practices regarding exportation. As part of its effort to accommodate implementation of ITDS, TTB's proposed regulatory revisions will also provide industry members with clear and updated procedures for removal of alcohol for exportation without having to pay excise taxes (under the IRC, beverage alcohol may be removed for exportation without payment of tax), thus increasing their willingness and ability to export their products. Increasing American exports benefits the American economy and is consistent with Treasury and Administration priorities.

Revision of the Part 17 Regulations, “Drawback on Taxpaid Distilled Spirits Used in Manufacturing Nonbeverage Products,” to Allow Self-Certification of Nonbeverage Product Formulas. TTB is considering revisions to the regulations in 27 CFR part 17 governing nonbeverage products made with taxpaid distilled spirits. These nonbeverage products include foods, medicines, and flavors. This proposal offers a new method of formula certification by incorporating quantitative standards into the regulations and establishing new voluntary procedures that would further streamline the formula review process for products that meet the standards. These proposals pose no risk to the revenue because TTB will continue to review the formulas; however, TTB will not take action on certified formula submissions unless the formulas require correction. This proposal would nearly eliminate the need for TTB to formally approve all nonbeverage product formulas by proposing to allow for self-certification of such formulas. The changes would result in significant cost savings for an important industry, which currently must obtain formula approval from TTB, and some savings for TTB, which must review and take action to approve or disapprove each formula.

Revisions to Distilled Spirits Plant Reporting Requirements. In FY 2012, TTB published an NPRM proposing to revise regulations in 27 CFR part 19 to replace the current four report forms used by distilled spirits plants to report their operations on a monthly basis with two new report forms that would be submitted on a monthly basis. (Plants that file taxes on a quarterly basis would submit the new reports on a quarterly basis.) This project, which was included in the President's FY 2012 budget for TTB as a cost-saving item, will address numerous concerns and desires for improved reporting by the affected distilled spirits industry and result in cost savings to the industry and TTB by significantly reducing the number of monthly plant operations reports that must be completed and filed by industry members and processed by TTB. TTB preliminarily estimates that this project will result in an annual savings of approximately 23,218 paperwork burden hours (or 11.6 staff years) for industry members and 629 processing hours (or 0.3 staff years) and $12,442 per year for TTB in contractor time. In addition, TTB estimates that this project will result in additional savings in staff time (approximately 3 staff years) equaling $300,000 annually based on the more efficient and effective processing of reports and the use of report data to reconcile industry member tax accounts. Based on comments received in response to the NPRM, TTB plans to revise the proposal and re-notice the issue.

Bureau of the Fiscal Service

The Bureau of the Fiscal Service (Fiscal Service) administers regulations pertaining to the Government's financial activities, including: (1) Implementing Treasury's borrowing authority, including regulating the sale and issue of Treasury securities, (2) Administering Government revenue and debt collection, (3) Administering Governmentwide accounting programs, (4) Managing certain Federal investments, (5) Disbursing the majority of Government electronic and check payments, (6) Assisting Federal agencies in reducing the number of improper payments, and (7) Providing administrative and operational support to Federal agencies through franchise shared services.

During fiscal year 2015, the Fiscal Service will accord priority to the following regulatory projects:

Amendment to Large Position Reporting Requirements. On behalf of Treasury (Financial Markets), the Fiscal Service plans to amend the Government Securities Act regulations (17 CFR chapter IV) to modify the large position reporting rules to improve the information reported so that Treasury can better understand supply and demand dynamics in certain Treasury securities.

Notice of Proposed Rulemaking for Publishing Delinquent Debtor Information. The Debt Collection Improvement Act of 1996, Pub. L. 104-134, 110 Stat. 1321 (DCIA) authorizes Federal agencies to publish or otherwise publicly disseminate information regarding the identity of persons owing delinquent nontax debts to the United States for the purpose of collecting the debts, provided certain criteria are met. Treasury proposes to issue a notice of proposed rulemaking seeking comments on a proposed rule that would establish the procedures Federal agencies must follow before promulgating their own rules to publish information about delinquent debtors and the standards for determining when use of this debt collection remedy is appropriate.

Community Development Financial Institutions Fund

The Community Development Financial Institutions Fund (CDFI Fund) was established by the Community Development Banking and Financial Institutions Act of 1994 (12 U.S.C. 4701 et seq.). The mission of the CDFI Fund is to increase economic opportunity and promote community development investments for underserved populations and in distressed communities in the United States. The CDFI Fund currently administers the following programs: The Community Development Financial Institutions (CDFI) Program, the Bank Enterprise Award (BEA) Program, the Native American CDFI Assistance (NACA) Program, and the New Markets Tax Credit (NMTC) Program, the Financial Education and Counseling Pilot Program (FEC), the Capital Magnet Fund (CMF), and the CDFI Bond Guarantee Program (BGP).

In FY 2015, the CDFI Fund will publish updated regulations for its BEA Program and CDFI Program to incorporate the requirements of the Uniform Administrative Requirements, Cost Principles, and Audit Requirements for Federal Awards (2 CFR part 200). In December 2013, the Office of Management and Budget (OMB) published a final rule that provides a government-wide framework for grants management, with the goal of combining several OMB guidance circulars, reducing administrative burden for award Recipients, and reducing the risk of waste, fraud and abuse of Federal financial assistance. The Uniform Federal Award Requirements codifies financial, administrative, procurement, and program management standards that Federal award agencies must follow. Each Federal agency is anticipated to codify these requirements by the end of calendar year 2014.

Customs Revenue Functions

The Homeland Security Act of 2002 (the Act) provides that the Secretary of the Treasury retains sole legal authority over the customs revenue functions. The Act also authorizes the Secretary of the Treasury to delegate any of the retained authority over customs revenue functions to the Secretary of Homeland Security. By Treasury Department Order No. 100-16, the Secretary of the Treasury delegated to the Secretary of Homeland Security authority to prescribe regulations pertaining to the customs revenue functions subject to certain exceptions. This Order further provided that the Secretary of the Treasury retained the sole authority to approve such regulations.

During the past fiscal year, among the customs-revenue function regulations issued were the United States--Colombia Trade Promotion Agreement final rule, the United States—Panama Trade Promotion Agreement final rule, and the African Growth and Opportunity Act (AGOA) and Generalized System of Preferences and Trade Benefits under AGOA final rule. On October 1, 2013, U.S. Customs and Border Protection (CBP) published the United States--Colombia Trade Promotion Agreement final rule (78 FR 60191) that adopted interim amendments (77 FR 59064) of September 26, 2012, to the CBP regulations which implemented the preferential tariff treatment and other customs-related provisions of the United States—Colombia Trade Promotion Agreement Implementation Act. On May 21, 2014, CBP issued the United States—Panama Trade Promotion Agreement final rule (79 FR 29077) that adopted interim amendments (78 FR 63052) of October 23, 2013, to the CBP regulations, which implemented the preferential tariff treatment and other customs-related provisions of the United States-Panama Trade Promotion Agreement Implementation Act that took effect on October 31, 2012. In addition, CBP issued the African Growth and Opportunity Act (AGOA) and Generalized System of Preferences and Trade Benefits under AGOA final rule (79 FR 30356) on May 27, 2014, that adopted the interim amendments (65 FR 59668 and 68 FR 13820) of October 5, 2000, and March 21, 2003, respectively, to the CBP regulations.

On December 18, 2013, Treasury and CBP published a final rule titled Members of a Family for Purposes of Filing a CBP Family Declaration (78 FR 76529) that amended the regulations by expanding the definition of the term, “members of a family residing in one household,” to allow more U.S. returning residents traveling as a family upon their arrival in the United States to be eligible to group their duty exemptions and file a single customs declaration for articles acquired abroad.

This past fiscal year, consistent with the goals of Executive Orders 12866 and 13563, Treasury and CBP proposed changes to Documentation Related to Goods Imported From U.S. Insular Possessions on January 14, 2014 (79 FR 2395), to eliminate the requirement that a customs officer at the port of export verify and sign CBP Form 3229, Certificate of Origin for U.S. Insular Possessions, and to require instead that the importer present this form, upon CBP's request, rather than submit it with each entry as the current regulations require. The changes proposed would streamline the entry process by making it more efficient as it would reduce the overall administrative burden on both the trade and CBP. If the importer does not maintain CBP Form 3229 in its possession, the importer may be subject to a recordkeeping penalty. CBP plans to finalize this rule during fiscal year 2015.

During fiscal year 2015, CBP and Treasury also plan to give priority to the following regulatory matters involving the customs revenue functions:

In-Bond Process. Consistent with the practice of continuing to move forward with Customs Modernization provisions of the North American Free Trade Implementation Act to improve its regulatory procedures, Treasury and CBP plan to finalize this fiscal year the proposal to change the in-bond process by issuing final regulations to amend the in-bond regulations that were proposed on February 22, 2012 (77 FR 10622). The proposed changes, including the automation of the in-bond process, would modernize, simplify, and facilitate the in-bond process while enhancing CBP's ability to regulate and track in-bond merchandise to ensure that in-bond merchandise is properly entered or exported.

Free Trade Agreements. Treasury and CBP also plan to issue final regulations this fiscal year to implement the preferential trade benefit provisions of the United States-Singapore Free Trade Agreement Implementation Act. Treasury and CBP also expect to issue interim regulations implementing the preferential trade benefit provisions of the United States-Australia Free Trade Agreement Implementation Act.

Customs and Border Protection's Bond Program. Treasury and CBP plan to publish a final rule amending the regulations to reflect the centralization of the continuous bond program at CBP's Revenue Division. The changes proposed would support CBP's bond program by ensuring an efficient and uniform approach to the approval, maintenance, and periodic review of continuous bonds, as well as accommodating the use of information technology and modern business practices.

Disclosure of Information for Certain Intellectual Property Rights Enforced at the Border. Treasury and CBP plan to finalize interim amendments to the CBP regulations which provides a pre-seizure notice procedure for disclosing information appearing on the imported merchandise and/or its retail packing suspected of bearing a counterfeit mark to an intellectual property right holder for the limited purpose of obtaining the right holder's assistance in determining whether the mark is counterfeit or not.

Internal Revenue Service

The Internal Revenue Service (IRS), working with the Office of Tax Policy, promulgates regulations that interpret and implement the Internal Revenue Code and related tax statutes. The purpose of these regulations is to carry out the tax policy determined by Congress in a fair, impartial, and reasonable manner, taking into account the intent of Congress, the realities of relevant transactions, the need for the Government to administer the rules and monitor compliance, and the overall integrity of the Federal tax system. The goal is to make the regulations practical and as clear and simple as possible.

During fiscal year 2015, the IRS will accord priority to the following regulatory projects:

Tax-Related Affordable Care Act Provisions. On March 23, 2010, the President signed the Patient Protection and Affordable Care Act of 2010 (Pub. L. 111-148) and on March 30, 2010, the President signed the Health Care and Education Reconciliation Act of 2010 (Pub. L. 111-152) (referred to collectively as the Affordable Care Act (ACA)). The ACA's reform of the health insurance system affects individuals, families, employers, health care providers, and health insurance providers. The ACA provides authority for Treasury and the IRS to issue regulations and other guidance to implement tax provisions in the ACA, some of which are already effective and some of which will become effective over the next several years. Since enactment of the ACA, Treasury and the IRS have issued a series of temporary, proposed, and final regulations implementing over a dozen provisions of the ACA, including the premium tax credit under section 36B, the small-business health coverage tax credit under section 45R, new requirements for charitable hospitals under section 501(r), limits on tax preferences for remuneration provided by certain health insurance providers under section 162(m)(6), the employer shared responsibility provisions under section 4980H, the individual shared responsibility provisions under section 5000A, insurer and employer reporting under sections 6055 and 6056, and several revenue-raising provisions, including fees on branded prescription drugs under section 9008 of the ACA, fees on health insurance providers under section 9010 of the ACA, the tax on indoor tanning services under 5000B, the net investment income tax under section 1411, and the additional Medicare tax under sections 3101 and 3102.

In fiscal year 2015, Treasury and the IRS will continue to provide guidance to implement tax provisions of the ACA, including:

• Final regulations related to numerous aspects of the premium tax credit under section 36B, including the determination of minimum value of eligible-employer-sponsored plans;

• Final regulations on application for recognition of tax exemption as a qualified nonprofit health insurer under section 501(c)(29);

• Final regulations on new requirements for charitable hospitals under section 501(r);

• Final regulations regarding issues related to the net investment income tax under section 1411; and

• Final regulations concerning minimum essential coverage and other rules regarding the individual shared responsibility provision under section 5000A.

Interest on Deferred Tax Liability for Contingent Payment Installment Sales. Section 453 of the Internal Revenue Code generally allows taxpayers to report the gain from a sale of property in the taxable year or years in which payments are received, rather than in the year of sale. Section 453A of the Code imposes an interest charge on the tax liability that is deferred as a result of reporting the gain when payments are received. The interest charge generally applies to installment obligations that arise from a sale of property using the installment method if the sales price of the property exceeds $150,000, and the face amount of all such installment obligations held by a taxpayer that arose during, and are outstanding as of the close of, a taxable year exceeds $5,000,000. The interest charge provided in section 453A cannot be determined under the terms of the statute if an installment obligation provides for contingent payments. Accordingly, in section 453A(c)(6), Congress authorized the Secretary of the Treasury to issue regulations providing for the application of section 453A in the case of installment sales with contingent payments. Treasury and the IRS intend to issue proposed regulations that, when finalized, will provide guidance and reduce uncertainty regarding the application of section 453A to contingent payments.

Rules for Home Construction Contracts. In general, section 460(a) requires taxpayers to use the percentage-of-completion method (PCM) to account for taxable income from any long-term contract. Under the PCM, income is generally reported in installments as work is performed, and expenses are generally deducted in the taxable year incurred. However, taxpayers with contracts that meet the definition of a “home construction contract,” under section 460(e)(4), are not required to use the PCM for those contracts and may, instead, use an exempt method. Exempt methods include the completed contract method (CCM) and the accrual method. Under the CCM, for example, a taxpayer generally takes into account the entire gross contract price and all incurred allocable contract costs in the taxable year the taxpayer completes the contract. Treasury and the IRS believe that amended rules are needed to reduce uncertainty and controversy, including litigation, regarding when a contract qualifies as a “home construction contract” and when the income and allocable deductions are taken into account under the CCM. On August 4, 2008, Treasury and the IRS published proposed regulations on the types of contracts that are eligible for the home construction contract exemption. The preamble to those regulations stated that Treasury and the IRS expected to propose additional rules specific to home construction contracts accounted for using the CCM. After considering comments received and the need for additional and clearer rules to reduce ongoing uncertainty and controversy, Treasury and the IRS have determined that it would be beneficial to taxpayers to present all of the proposed changes to the current regulations in a single document. Treasury and the IRS plan to withdraw the 2008 proposed regulations and replace them with new, more comprehensive proposed regulations.

Research Expenditures. Section 41 of the Internal Revenue Code provides a credit against taxable income for certain expenses paid or incurred in conducting research activities. To assist in resolving areas of controversy and uncertainty with respect to research expenses, Treasury and the IRS plan to issue regulations with respect to the definition and credit eligibility of expenditures for internal use software, the election of the alternative simplified credit, and the allocation of the credit among members of a controlled group.

Estate Tax Portability of Decedent's Unused Exclusion Amount. The Tax Relief, Unemployment Insurance Reauthorization, and Job Creation Act of 2010 (TRA of 2010) amended sections 2010 and 2505 of the Internal Revenue Code to provide an estate of a decedent survived by a spouse the opportunity to transfer, or port, unused applicable exclusion amount to and for the benefit of the surviving spouse. Although the portability provisions of TRA of 2010 were originally scheduled to expire on December 31, 2012, the American Taxpayer Relief Act of 2012 made the portability provisions permanent. Treasury and the IRS plan to issue final regulations on or before June 15, 2015, to replace sunsetting temporary regulations. The final regulations will provide rules for electing portability, determining the unused exclusion amount available from the estate of the first-to-die spouse to the surviving spouse, and applying the ported unused exclusion amount to the surviving spouse's subsequent transfers.

Arbitrage Investment Restrictions on Tax-Exempt Bonds. The arbitrage investment restrictions on tax-exempt bonds under section 148 generally limit issuers from investing bond proceeds in higher-yielding investments. On September 16, 2013, Treasury and the IRS published proposed regulations (78 FR 56842) to address selected current issues involving the arbitrage investment restrictions, including guidance on the issue price definition used in the computation of bond yield, working capital financings, grants, investment valuation, modifications, terminations of qualified hedging transactions, and selected other issues. Treasury and the IRS plan to provide additional guidance on the arbitrage investment restrictions, including guidance on the issue price definition used in the computation of bond yield.

Guidance on the Definition of Political Subdivision for Tax-Exempt, Tax-Credit, and Direct-Pay Bonds. A political subdivision may be a valid issuer of tax-exempt, tax-credit, and direct-pay bonds. Concerns have been raised about what is required for an entity to be a political subdivision. Treasury and the IRS plan to provide additional guidance under section 103 for determining when an entity is a political subdivision.

Contingent Notional Principal Contract Regulations. Notice 2001-44 (2001-2 CB 77) outlined four possible approaches for recognizing nonperiodic payments made or received on a notional principal contract (NPC) when the contract includes a nonperiodic payment that is contingent in fact or in amount. The Notice solicited further comments and information on the treatment of such payments. After considering the comments received in response to Notice 2001-44, Treasury and the IRS published proposed regulations (69 FR 8886) (the 2004 proposed regulations) that would amend section 1.446-3 and provide additional rules regarding the timing and character of income, deduction, gain, or loss with respect to such nonperiodic payments, including termination payments. On December 7, 2007, Treasury and IRS released Notice 2008-2 requesting comments and information with respect to transactions frequently referred to as prepaid forward contracts. Treasury and the IRS plan to re-propose regulations to address issues relating to the timing and character of nonperiodic contingent payments on NPCs, including termination payments and payments on prepaid forward contracts.

Tax Treatment of Distressed Debt. A number of tax issues relating to the amount, character, and timing of income, expense, gain, or loss on distressed debt remain unresolved. In addition, the tax treatment of distressed debt, including distressed debt that has been modified, may affect the qualification of certain entities for tax purposes or result in additional taxes on the investors in such entities, such as regulated investment companies, real estate investment trusts (REITs), and real estate mortgage investment conduits (REMICs). During fiscal year 2014, Treasury and the IRS addressed some of these issues through published guidance, including guidance on an entity's qualification as a REIT in the context of transactions involving distressed mortgage loans. Treasury and the IRS plan to address more of these issues in published guidance.

Definition of Real Property and Qualifying Income for REIT Purposes. A taxpayer must satisfy certain asset and income requirements to qualify as a REIT under section 856. REITs have sought to invest in various types of assets that are not directly addressed by the current regulations or other published guidance. On May 14, 2014, Treasury and the IRS published proposed regulations (79 FR 27508) to update and clarify the definition of real property for REIT qualification purposes, including guidance addressing whether a component of a larger item is tested on its own or only as part of the larger item, the scope of the asset to be tested, and whether certain intangible assets qualify as real property. Treasury and the IRS plan to finalize the proposed regulations in the fiscal year. Treasury and the IRS also plan to provide guidance clarifying the definition of income for purposes of section 856.

Corporate Spin-offs and Split-offs. Section 355 and related provisions of the Internal Revenue Code allow for the tax-free distribution of stock or securities of a controlled corporation if certain requirements are met. For example, the distributing corporation must distribute a controlling interest in the controlled corporation, and both the distributing and controlled corporations must be engaged in the active conduct of a trade or business immediately after the distribution. The Treasury Department and the IRS intend to provide guidance on the qualification of a distribution for tax-free treatment under section 355, including (1) final regulations that address when a corporation is treated as engaged in an active trade or business, and (2) final regulations that define predecessor or successor corporation for purposes of the exception to tax-free treatment under section 355(e). The Treasury Department and the IRS also intend to provide guidance relating to the tax treatment of other transactions undertaken as part of a plan that includes a distribution of stock or securities of a controlled corporation, such as changes to the voting power of the controlled corporation's stock in anticipation of the distribution, the issuance of debt of the distributing corporation and retirement of such debt using stock or securities of the controlled corporation, and the transfer of cash or property between a distributing or controlled corporation and its shareholder(s) in connection with the distribution.

Disguised Sale and Allocation of Liabilities. A contribution of property by a partner to a partnership may be recharacterized as a sale under section 707(a)(2)(B) if the partnership distributes to the contributing partner cash or other property that is, in substance, consideration for the contribution. The allocation of partnership liabilities to the partners under section 752 may impact the determination of whether a disguised sale has occurred and whether gain is otherwise recognized upon a distribution. Treasury and the IRS issued proposed regulations to address certain issues that arise in the disguised sale context and other issues regarding the partners' shares of partnership liabilities. Treasury and the IRS are considering comments on the proposed regulations and expect to issue regulations in fiscal year 2015.

Certain Partnership Distributions Treated as Sales or Exchanges. In 1954, Congress enacted section 751 to prevent the use of a partnership to convert potential ordinary income into capital gain. In 1956, Treasury and the IRS issued regulations implementing section 751. The current regulations, however, do not always achieve the purpose of the statute. In 2006, Treasury and the IRS published Notice 2006-14 (2006-1 CB 498) to propose and solicit alternative approaches to section 751 that better achieve the purpose of the statute while providing greater simplicity. Treasury and the IRS are currently working on proposed regulations following up on Notice 2006-14. These regulations will provide guidance on determining a partner's interest in a partnership's section 751 property and how a partnership recognizes income required by section 751.

Penalties and Limitation Periods. Congress amended several penalty provisions in the Internal Revenue Code in the past several years. Treasury and the IRS intend to publish a number of guidance projects in fiscal year 2015 addressing these penalty provisions. Specifically, Treasury and the IRS intend to publish final regulations under section 6708 regarding the penalty for failure to make available upon request a list of advisees that is required to be maintained under section 6112. The proposed regulations were published on March 8, 2013. Treasury and the IRS also intend to publish proposed regulations under sections 6662, 6662A, and 6664 to provide further guidance on the circumstances under which a taxpayer could be subject to the accuracy related penalty on underpayments or reportable transaction understatements and the reasonable cause exception. Further, Treasury and the IRS intend to publish (1) final regulations under section 6501(c)(10) regarding the extension of the period of limitations to assess any tax with respect to a listed transaction that was not disclosed as required under section 6011, and (2) proposed regulations under section 6707A addressing statutory changes to the method of computing the penalty for failure to disclose reportable transactions.

Inversion Transactions. On September 22, 2014, Treasury and the IRS issued Notice 2014-52, addressing the application of sections 7874 and 367 to inversions, as well as certain tax avoidance transactions that are undertaken after an inversion transaction. In this fiscal year, Treasury and the IRS expect to issue regulations implementing the rules described in Notice 2014-52. Also in this fiscal year, Treasury and the IRS expect to issue additional guidance to further limit inversion transactions that are contrary to the purposes of section 7874 and the benefits of post-inversion tax avoidance transactions. In addition, under the terms of the statute, section 7874 will not apply to an inversion if the post-transaction group has substantial business activities in the country in which the foreign acquiring corporation is organized when compared to the total business activities of the group. On June 7, 2012, Treasury and the IRS issued temporary regulations regarding the determination of whether a group satisfies the substantial business activities test. During fiscal year 2015, Treasury and the IRS intend to finalize these regulations.

Information Reporting for Foreign Accounts of U.S. Persons. In March 2010, chapter 4 (sections 1471 to 1474) was added to subtitle A of the Internal Revenue Code as part of the Hiring Incentives to Restore Employment Act (HIRE Act) (Pub. L. 111-147). Chapter 4 was enacted to address concerns with offshore tax evasion by U.S. citizens and residents and generally requires foreign financial institutions (FFIs) to enter into an agreement (FFI Agreement) with the IRS to report information regarding financial accounts of U.S. persons and certain foreign entities with significant U.S. ownership. An FFI that does not enter into an FFI Agreement, or that is not otherwise deemed compliant with FATCA, generally will be subject to a withholding tax on the gross amount of certain payments from U.S. sources. The Treasury Department and the IRS have issued proposed, temporary, and final regulations under chapter 4; and proposed and temporary regulations under chapters 3 and 61, and section 3406, to coordinate with those chapter 4 regulations; as well as implementing revenue procedures and other guidance. The Treasury Department and the IRS expect to issue further guidance with respect to FATCA and related provisions in this fiscal year.

Withholding on Certain Dividend Equivalent Payments on Certain Equity Derivatives. The HIRE Act also added section 871(l) to the Code (now section 871(m)), which designates certain substitute dividend payments in security lending and sale-repurchase transactions and dividend-referenced payments made under certain notional principal contracts as U.S.-source dividends for Federal tax purposes. In response to this legislation, on May 20, 2010, the IRS issued Notice 2010-46, addressing the requirements for determining the proper withholding in connection with substitute dividends paid in foreign-to-foreign security lending and sale-repurchase transactions. On January 23, 2012, Treasury and the IRS issued temporary and proposed regulations addressing cases in which dividend equivalents will be found to arise in connection with notional principal contracts and other financial derivatives. On December 5, 2013, Treasury and the IRS released final regulations relating to the 2012 temporary and proposed regulations. At the same time, Treasury and the IRS issued new proposed regulations based on comments received with respect to the 2012 proposed regulations. Treasury and the IRS expect to finalize these regulations in this fiscal year.

International Tax Provisions of the Education Jobs and Medicaid Assistance Act. On August 10, 2010, the Education Jobs and Medicaid Assistance Act of 2010 (EJMAA) (Pub. L. 111-226) was signed into law. The law includes a significant package of international tax provisions, including limitations on the availability of foreign tax credits in certain cases in which U.S. tax law and foreign tax law provide different rules for recognizing income and gain, and in cases in which income items treated as foreign source under certain tax treaties would otherwise be sourced in the United States. The legislation also limits the ability of multinationals to reduce their U.S. tax burdens by using a provision intended to prevent corporations from avoiding U.S. income tax on repatriated corporate earnings. Other new provisions under this legislation limit the ability of multinational corporations to use acquisitions of related party stock to avoid U.S. tax on what would otherwise be taxable distributions of dividends. The statute also includes a new provision intended to tighten the rules under which interest expense is allocated between U.S.- and foreign-source income within multinational groups of related corporations when a foreign corporation has significant amounts of U.S.-source income that is effectively connected with a U.S. business. Treasury and the IRS published temporary and proposed regulations addressing foreign tax credits under section 909 in 2012, published temporary and proposed regulations in 2012 and final regulations in 2014 updating the interest allocation regulations to conform to the 2010 amendments to section 864(e)(5)(A), and issued two notices providing guidance under section 901(m) in 2014. Treasury and the IRS expect to issue additional guidance on EJMAA in this fiscal year, including additional guidance under section 901(m), final regulations under section 909, and temporary and proposed regulations under section 304(b)(5)(B).

Transfers of Intangibles to Foreign Corporations. Section 367(d) of the Internal Revenue Code requires, except as provided in regulations, a U.S. person who transfers intangible property to a foreign corporation in an exchange described in section 351 or section 361 of the Code to treat the transfer as a sale for payments which are contingent upon the productivity, use, or disposition of such property, and to take into account amounts which reasonably reflect the amounts which would have been received annually in the form of such payments over the useful life of such property, or at the time of the disposition of the property. The amounts so taken into account must be commensurate with the income attributable to the intangible. Under existing temporary regulations issued in 1986, section 367(d) is made inapplicable to the transfer of “foreign goodwill or going concern value,” as defined in the regulations. The existing regulations provide general guidance regarding the application of section 367(d), although controversy regarding the application of section 367(d) to certain transfers led the Treasury and the IRS to publish Notice 2012-39 on July 13, 2012. Treasury and the IRS intend to issue additional guidance in this fiscal year to reduce uncertainty and controversy in this area.

Section 501(c) guidance. After reviewing over 150,000 comments submitted on the proposed regulations under section 501(c)(4) published in fiscal year 2014, Treasury and the IRS plan to issue revised proposed regulations that provide guidance under section 501(c) relating to limitations on political campaign activities of certain tax-exempt organizations.

Guidance responding to the SEC's money market reform rule. On July 23, 2014, the SEC adopted a final rule to reduce the systemic risk that money market funds present to the national economy. Later that day, IRS and the Treasury Department issued simplifying guidance designed to ameliorate the tax compliance difficulties that the SEC rule would otherwise pose to certain money market funds and their shareholders. In fiscal year 2015, the Treasury Department and the IRS intend to finalize the portion of this simplifying guidance that is only proposed.

Guidance Relating to Publicly Traded Partnerships. Section 7704 of the Internal Revenue Code provides that a partnership whose interests are traded on either an established securities market or on a secondary market (a “publicly traded partnership”) is generally treated as a corporation for Federal tax purposes. However, section 7704(c) permits publicly traded partnerships to be treated as partnerships for Federal tax purposes if 90 percent or more of partnership income consists of “qualifying income.” Section 7704(d) provides that income is generally qualifying income if it is passive income or is derived from exploration, development, mining or production, processing, refining, transportation, or marketing of a mineral or natural resource. Legislative history accompanying section 7704(d) provides little insight into the intended scope of this natural resource exception, and no administrative guidance has been issued. As technologies and commercial practices in the natural resource industries have evolved, uncertainty has arisen about the proper interpretation of the natural resource exception. Treasury and the IRS intend to issue guidance in this fiscal year to reduce uncertainty in this area.

Financial Crimes Enforcement Network

As chief administrator of the Bank Secrecy Act (BSA), the Financial Crimes Enforcement Network (FinCEN) is responsible for developing and implementing regulations that are the core of the Department's anti-money laundering and counter-terrorism financing efforts. FinCEN's responsibilities and objectives are linked to, and flow from, that role. In fulfilling this role, FinCEN seeks to enhance U.S. national security by making the financial system increasingly resistant to abuse by money launderers, terrorists and their financial supporters, and other perpetrators of crime.

The Secretary of the Treasury, through FinCEN, is authorized by the BSA to issue regulations requiring financial institutions to file reports and keep records that are determined to have a high degree of usefulness in criminal, tax, or regulatory matters or in the conduct of intelligence or counter-intelligence activities to protect against international terrorism. The BSA also authorizes requiring designated financial institutions to establish anti-money laundering programs and compliance procedures. To implement and realize its mission, FinCEN has established regulatory objectives and priorities to safeguard the financial system from the abuses of financial crime, including terrorist financing, money laundering, and other illicit activity. These objectives and priorities include: (1) issuing, interpreting, and enforcing compliance with regulations implementing the BSA; (2) supporting, working with, and as appropriate, overseeing compliance examination functions delegated to other Federal regulators; (3) managing the collection, processing, storage, and dissemination of data related to the BSA; (4) maintaining a government-wide access service to that same data and for network users with overlapping interests; (5) conducting analysis in support of policymakers, law enforcement, regulatory and intelligence agencies, and the financial sector; and (6) coordinating with and collaborating on anti-terrorism and anti-money laundering initiatives with domestic law enforcement and intelligence agencies, as well as foreign financial intelligence units.

During fiscal year 2014, FinCEN issued the following regulatory actions:

Amendments to the Definitions of Funds Transfer and Transmittal of Funds in the Bank Secrecy Act (BSA) Regulations. On December 5, 2013, FinCEN issued a Final Rule jointly with the Board of Governors of the Federal Reserve System amending the regulatory definitions of “funds transfer” and “transmittal of funds” under the regulations implementing the BSA. The changes maintain the existing scope to the definitions and were necessary in light of changes to the Electronic Fund Transfer Act that would have resulted in certain currently covered transactions being excluded from BSA requirements.

Anti-Money Laundering Program and Suspicious Activity Reporting (SAR) Requirements for Housing Government-Sponsored Enterprises. On February 25, 2014, FinCEN issued a Final Rule defining certain housing government-sponsored enterprises as financial institutions for the purpose of requiring them to establish anti-money laundering programs and report suspicious activity to FinCEN pursuant to the BSA.

Imposition of Special Measure against FBME Bank Ltd., formerly known as Federal Bank of the Middle East, Ltd., as a Financial Institution of Primary Money Laundering Concern. On July 22, 2014, FinCEN issued a finding that FBME Bank Ltd. (FBME) is a financial institution operating outside of the United States that is of primary money laundering concern under section 311 of the USA PATRIOT Act. On July 22, 2014, FinCEN issued an NPRM to impose the fifth special measure against the institution. The fifth special measure prohibits or conditions the opening or maintaining of correspondent or payable-through accounts for the designated institution by U.S. financial institutions. In conjunction with the NPRM, FinCEN issued an order imposing certain recordkeeping and reporting obligations on covered financial institutions and principal money transmitters with respect to transactions involving FBME.

Customer Due Diligence Requirements. On August 4, 2014, FinCEN issued a Notice of Proposed Rulemaking (NPRM) to solicit public comment on proposed rules under the BSA to clarify and strengthen customer due diligence requirements for banks, brokers or dealers in securities, mutual funds, and futures commission merchants and introducing brokers in commodities. The proposed rules contain explicit customer due diligence requirements and include a new regulatory requirement to identify beneficial owners of legal entity customers, subject to certain exemptions.

Administrative Rulings and Written Guidance. FinCEN published 13 administrative rulings and written guidance pieces, and provided 45 responses to written inquiries/correspondence interpreting the BSA and providing clarity to regulated industries.

FinCEN's regulatory priorities for fiscal year 2015 include finalizing any initiatives mentioned above that are not finalized by fiscal year end, as well as the following in-process and potential projects:

Amendment to the BSA Regulations—Definition of Monetary Instrument. On October 17, 2011, FinCEN published an NPRM regarding international transport of prepaid access devices because of the potential to substitute prepaid access for cash and other monetary instruments as a means to smuggle the proceeds of illegal activity into and out of the United States. FinCEN continues to consider the issue based on comments received and developments in the prepaid industry. FinCEN intends to issue a supplemental NPRM to provide additional information for consideration and comment by the public.

Anti-Money Laundering Program and SAR Requirements for Investment Advisers. FinCEN has drafted an NPRM that would prescribe minimum standards for anti-money laundering programs to be established by certain investment advisers and to require such investment advisers to report suspicious activity to FinCEN. FinCEN has been working closely with the Securities and Exchange Commission on issues related to the draft NPRM.

Report of Foreign Bank and Financial Accounts. FinCEN has drafted an NPRM to address requests from filers for clarification of certain requirements regarding the Report of Foreign Bank and Financial Accounts (FBAR) including requirements with respect to employees, who have signature authority over, but no financial interest in, the foreign financial accounts of their employers.

Cross Border Electronic Transmittal of Funds. On September 27, 2010, FinCEN issued an NPRM in conjunction with the feasibility study prepared pursuant to the Intelligence Reform and Terrorism Prevention Act of 2004 concerning the issue of obtaining information about certain cross-border funds transfers and transmittals of funds. As FinCEN has continued to work on developing the system to receive, store, and use this data, FinCEN has drafted a Supplemental NPRM to update the previously published proposed rule and provide additional information to those banks and money transmitters that will become subject to the rule.

Anti-Money Laundering Program Requirements for Banks Lacking a Federal Functional Regulator. FinCEN has drafted an NPRM to remove the anti-money laundering (AML) program exemption for banks that lack a Federal functional regulator, including, but not limited to, private banks, non-federally insured credit unions, and certain trust companies. The proposed rule prescribes minimum standards for AML programs and would ensure that all banks, regardless of whether they are subject to Federal regulation and oversight, are required to establish and implement AML programs.

Amendments to the Definitions of Broker or Dealer in Securities. FinCEN has drafted an NPRM that proposes amendments to the regulatory definitions of broker or dealer in securities under the BSA regulations. The proposed changes would expand the current scope of the definitions to include funding portals and would require them to implement policies and procedures reasonably designed to achieve compliance with all of the BSA requirements that are currently applicable to brokers or dealers in securities.

Amendment to the Bank Secrecy Act Regulations—Registration, Recordkeeping, and Reporting of Money Services Businesses. FinCEN is considering issuing an NPRM to amend the requirements for money services businesses with respect to registering with FinCEN and with respect to the information reported during the registration process.

Changes to the Travel and Recordkeeping Requirements for Funds Transfers and Transmittals of Funds. FinCEN is considering changes to require that more information be collected and maintained by financial institutions on funds transfers and transmittals of funds and to lower the threshold to $1,000 from $3,000, which would bring the United States into greater compliance with several criteria in the Financial Action Task Force (FATF) standards for cross-border wire transfers.

Other Requirements. FinCEN also will continue to issue proposed and final rules pursuant to section 311 of the USA PATRIOT Act, as appropriate. Finally, FinCEN expects that it may propose various technical and other regulatory amendments in conjunction with its ongoing, comprehensive review of existing regulations to enhance regulatory efficiency, and as a result of the efforts of an interagency task force currently focusing on improvements to the U.S. regulatory framework for anti-money laundering.

Office of the Comptroller of the Currency

The primary mission of the Office of the Comptroller of the Currency (OCC) is to charter, regulate, and supervise all national banks and Federal Savings Associations (FSAs). The agency also supervises the Federal branches and agencies of foreign banks. The OCC's goal in supervising the financial institutions subject to its jurisdiction is to ensure that they operate in a safe and sound manner and in compliance with laws requiring fair treatment of their customers and fair access to credit and financial products.

Significant rules issued during fiscal year 2014 include:

Regulatory Capital Rules—Basel III (12 CFR parts 3, 5, 6, 165, 167). The OCC and the Board of Governors of the Federal Reserve System (FRB) issued a final rule that revises the risk-based and leverage capital requirements for banking organizations. (The Federal Deposit Insurance Corporation (FDIC) separately issued an interim final rule that is substantively the same as the final rule issued by the OCC and the FRB.) The final rule consolidates three separate proposed rules that were published jointly by the OCC, FRB and FDIC (the banking agencies) on August 30, 2012, 77 FR 52792, 52888, 52978, into one final rule. The final rule implements a revised definition of regulatory capital, a new common equity tier 1 minimum capital requirement, a higher minimum tier 1 capital requirement, and, for banking organizations subject to the advanced approaches risk-based capital rules, a supplementary leverage ratio that incorporates a broader set of exposures in the denominator. The final rule incorporates new requirements into the banking agencies' prompt corrective action framework and establishes limits on a banking organization's capital distributions and certain discretionary bonus payments if the banking organization does not hold a specified amount of common equity tier 1 capital in addition to the amount necessary to meet its minimum risk-based capital requirements. The final rule amends the methodologies for determining risk-weighted assets for all banking organizations and introduces disclosure requirements that would apply to top-tier banking organizations domiciled in the United States with $50 billion or more in total assets. The final rule also adopts changes required by the Dodd-Frank Wall Street Reform and Consumer Protection Act of 2010 (Pub. L. 111-203) (the Dodd-Frank Act) to implement more stringent capital and leverage requirements and to replace regulatory references to credit ratings with new creditworthiness measures. The final rule was published on October 11, 2013, 78 FR 62018.

Enhanced Supplementary Leverage Ratio (12 CFR part 3). The banking agencies issued a final rule to strengthen the leverage ratio standards for large, interconnected U.S. banking organizations. The rule applies to any U.S. top-tier bank holding company (BHC) with at least $700 billion in total consolidated assets or at least $10 trillion in assets under custody (covered BHC) and any insured depository institution (IDI) subsidiary of these BHCs. In the Basel III final rule, the banking agencies established a minimum supplementary leverage ratio of 3 percent (supplementary leverage ratio), consistent with the minimum leverage ratio adopted by the Basel Committee on Banking Supervision, for banking organizations subject to the advanced approaches risk-based capital rules. In this final rule, the banking agencies establish a “well capitalized” threshold of 6 percent for the supplementary leverage ratio for any IDI that is a subsidiary of a covered BHC, under the agencies' prompt corrective action framework. The final rule was issued on May 1, 2014, 79 FR 24528.

Supplementary Leverage Ratio (12 CFR part 3). The banking agencies issued a final rule to revise the denominator of the supplementary leverage ratio (total leverage exposure) that the agencies adopted in July 2013 as part of comprehensive revisions to the agencies' regulatory capital rules (2013 capital rule). The rule revises the treatment of on- and off-balance sheet exposures for purposes of determining total leverage exposure, and more closely aligning the agencies' rules on the calculation of total leverage exposure with international leverage ratio standards. The proposed rule was issued on May 1, 2014, 79 FR 24596. The final rule was issued on September 26, 2014, 79 FR 57725.

Integration of National Bank and Federal Savings Association Regulations: Licensing Rules (12 CFR parts 4, 5, 7, 14, 32, 34, 100, 116, 143, 144, 145, 146, 150, 152, 159, 160, 161, 162, 163, 174, 192, 193). The OCC issued a proposed rule to integrate its rules relating to policies and procedures for corporate activities and transactions involving national banks and FSAs. The proposed rule also revises some of these rules in order to eliminate unnecessary requirements, consistent with safety and soundness, and to make other technical and conforming changes. The proposal also included amendments to update OCC rules for agency organization and function. The proposed rule was issued on June 10, 2014, 79 FR 33260.

Assessment of Fees (12 CFR part 8). The OCC issued a final rule to increase assessments for national banks and FSAs with assets of more than $40 billion. The increase ranges between 0.32 percent and approximately 14 percent, depending on the total assets of the institution as reflected in its June 30, 2014, Consolidated Report of Condition and Income. The average increase in assessments for affected banks and FSAs will be 12 percent. The final rule will not increase assessments for banks or FSAs with $40 billion or less in total assets. The OCC will implement the increase in assessments by issuing an amended Notice of Office of the Comptroller of the Currency Fees and Assessments, which will become effective as of the semiannual assessment due on September 30, 2014. In conjunction with the increase in assessments, the final rule updates the OCC's assessment rule to conform with section 318 of the Dodd-Frank Act, which reaffirmed the authority of the Comptroller of the Currency to set the amount of, and methodology for, assessments. The proposed rule was issued on April 28, 2014, 79 FR 23297. The final rule was issued on July 9, 2014 (79 FR 38769).

Flood Insurance (12 CFR parts 22 and 172). The banking agencies, Farm Credit Administration (FCA), and the National Credit Union Administration (NCUA) proposed revisions to their regulations regarding loans in areas having special flood hazards to implement provisions of the Biggert-Waters Flood Insurance Reform Act of 2012 (Biggert-Waters) and the OCC issued a proposed rule to integrate its flood insurance regulations for national banks, 12 CFR part 22, and FSAs, 12 CFR part 172. The proposed rule was issued on October 30, 2013, 78 FR 65108.

OCC Guidelines Establishing Heightened Standards for Certain Large Insured National Banks, Insured Federal Savings Associations, and Insured Federal Branches; Integration of Regulations (12 CFR part 30). The OCC issued a final rule adopting new Guidelines as an appendix to its safety and soundness standards regulations that establish minimum standards for the design and implementation of a risk governance framework for large insured national banks, insured FSAs, and insured Federal branches of foreign banks with average total consolidated assets of $50 billion or more and minimum standards for a board of directors in overseeing the framework's design and implementation. The standards contained in the Guidelines are enforceable by the terms of a Federal statute that authorizes the OCC to prescribe operational and managerial standards for national banks and FSAs. The proposed rule was issued on January 27, 2014, 79 FR 4282. The final rule was issued on September 11, 2014, 79 FR 54518.

Appraisals for Higher-Risk Mortgages (12 CFR parts 34, 164). The banking agencies, the Consumer Financial Protection Bureau (CFPB), Federal Housing Finance Agency (FHFA), and the NCUA, issued a final rule on February 13, 2013, 78 FR 10368, to amend Regulation Z and its official interpretation. The rule revised Regulation Z to implement a new Truth in Lending Act (TILA) provision requiring appraisals for any “higher-risk mortgage” that was added to TILA as part of the Dodd-Frank Act. For mortgages with an annual percentage rate that exceeds market-based prime mortgage rate benchmarks by a specified percentage, the rule generally requires creditors to obtain an appraisal or appraisals meeting certain specified standards, provide applicants with a notification regarding the use of the appraisals, and give applicants a copy of the written appraisals used. The agencies issued a supplemental rule that would exempt from the requirements of the final rule: (i) transactions secured by existing manufactured homes and not land; (ii) certain streamlined refinancings; and (iii) transactions of $25,000 or less. The supplemental final rule was issued on December 26, 2013, 78 FR 78520.

Appraisal Management Companies (12 CFR part 34). The banking agencies, FHFA, NCUA and CFPB, issued a proposed rule that would set minimum standards for state registration and regulation of appraisal management companies. The rule would implement the minimum requirements in section 1473 of the Dodd-Frank Act to be applied by states in the registration of appraisal management companies. It also would implement the requirement in section 1473 of the Dodd-Frank Act for States to report to the Appraisal Subcommittee (ASC) of the Federal Financial Institutions Examination Council the information needed by the ASC to administer the national registry of appraisal management companies. The proposed rule was issued on April 9, 2014, 79 FR 19521.

Prohibition and Restrictions on Proprietary Trading and Certain Interests In, and Relationships with, Hedge Funds and Private Equity Funds (12 CFR part 44). The banking agencies, the Securities & Exchange Commission (SEC), and the Commodity Futures Trading Commission (CFTC) issued final rules to implement section 619 of the Dodd-Frank Act, which contains certain prohibitions and restrictions on the ability of banking entities and nonbank financial companies supervised by the FRB to engage in proprietary trading and have certain investments in, or relationships with, hedge funds or private equity funds. The final rule was issued on January 31, 2014, 79 FR 5536.

Treatment of Certain Collateralized Debt Obligations Backed Primarily by Trust Preferred Securities With Regard to Prohibitions and Restrictions on Certain Interests in, and Relationships With, Hedge Funds and Private Equity Funds (12 CFR part 44). The banking agencies, the CFTC, and the SEC issued an interim final rule that would permit banking entities to retain investments in certain pooled investment vehicles that invested their offering proceeds primarily in certain securities issued by community banking organizations of the type grandfathered under section 171 of the Dodd-Frank Act. The interim final rule was issued on January 31, 2014, 79 FR 5223.

Margin and Capital Requirements for Covered Swap Entities (12 CFR part 45). The banking agencies, FCA, and the FHFA issued a proposed rule to establish minimum margin and capital requirements for registered swap dealers, major swap participants, security-based swap dealers, and major security-based swap participants for which one of the agencies is the prudential regulator. The proposed rule will implement sections 731 and 764 of the Dodd-Frank Act, which require the agencies to adopt rules jointly to establish capital requirements and initial and variation margin requirements for such entities on all non-cleared swaps and non-cleared security-based swaps in order to offset the greater risk to such entities and the financial system arising from the use of swaps and security-based swaps that are not cleared. The proposed rule was issued on September 24, 2014, 79 FR 57347).

Liquidity Coverage Ratio (12 CFR 50). The banking agencies issued a final rule to implement a quantitative liquidity requirement consistent with the liquidity coverage ratio standard established by the Basel Committee on Banking Supervision. The requirement is designed to promote improvements in the measurement and management of liquidity risk. The final rule applies to all internationally active banking organizations, that is, banking organizations with more than $250 billion in total assets or more than $10 billion in on-balance sheet foreign exposure, and to consolidated subsidiary depository institutions of internationally active banking organizations with $10 billion or more in total consolidated assets. The proposed rule was issued on November 29, 2013, 78 FR 71818. The final rule was issued on October 10, 2014, 79 FR 61439.

Regulatory Publication and Review Under the Economic Growth and Regulatory Paperwork Reduction Act of 1996 (12 CFR chapter I). The banking agencies are conducting a review of the regulations they have issued to identify outdated, unnecessary, or unduly burdensome regulations for insured depository institutions. This review is required by section 2222 of the Economic Growth and Regulatory Paperwork Reduction Act of 1996 (EGRPRA). The first of four Federal Register requests for comment was issued on June 4, 2014, 79 FR 32172.

Regulatory priorities for fiscal year 2015 include finalizing the proposals and interim final rules listed above as well as the following rulemakings:

Flood Insurance (12 CFR parts 22 and 172). The banking agencies, FCA, and NCUA plan to issue a proposed rule to amend their regulations regarding loans in areas having special flood hazards to implement certain provisions of the Homeowner Flood Insurance Affordability Act of 2014 (HFIAA), which amends some of the changes to the Flood Disaster Protection Act of 1973 mandated by Biggert-Waters. The proposal would establish requirements with respect to the escrow of flood insurance payments, consistent with the changes set forth in HFIAA. The proposal also would implement an exclusion in HFIAA for certain detached structures from the mandatory flood insurance purchase requirement.

Automated Valuation Models (Parts 34, 164). The banking agencies, NCUA, FHFA and CFPB, in consultation with the Appraisal Subcommittee and the Appraisal Standards Board of the Appraisal Foundation, are required to promulgate regulations to implement quality-control standards required for automated valuation models. Section 1473(q) of the Dodd-Frank Act requires that automated valuation models used to estimate collateral value for mortgage lending comply with quality-control standards designed to: ensure a high level of confidence in the estimates produced by automated valuation models; protect against manipulation of data; seek to avoid conflicts of interest; require random sample testing and reviews and account for other factors the agencies deem appropriate. The agencies plan to issue a proposed rule to implement the requirement for quality-control standards.

Incentive-Based Compensation Arrangements (12 CFR part 42). Section 956 of the Dodd-Frank Act requires the banking agencies, NCUA, SEC, and FHFA, to jointly prescribe regulations or guidance prohibiting any type of incentive-based payment arrangement, or any feature of any such arrangement, that the regulators determine encourages inappropriate risks by covered financial institutions by providing an executive officer, employee, director, or principal shareholder with excessive compensation, fees or benefits, or that could lead to material financial loss to the covered financial institution. The Dodd-Frank Act also requires such agencies to jointly prescribe regulations or guidance requiring each covered financial institution to disclose to its regulator the structure of all incentive-based compensation arrangements offered by such institution sufficient to determine whether the compensation structure provides any officer, employee, director, or principal shareholder with excessive compensation or could lead to material financial loss to the institution. The proposed rule was issued on April 14, 2011, 76 FR 21170. Work on a final rule is underway.

Credit Risk Retention (12 CFR part 43). The banking agencies, SEC, FHFA, and the Department of Housing and Urban Development proposed rules to implement the credit risk retention requirements of section 15G of the Securities Exchange Act of 1934 (15 U.S.C. 78o-11), as added by section 941 of the Dodd-Frank Act. Section 15G generally requires the securitizer of asset-backed securities to retain not less than 5 percent of the credit risk of the assets collateralizing the asset-backed securities. Section 15G includes a variety of exemptions from these requirements, including an exemption for asset-backed securities that are collateralized exclusively by residential mortgages that qualify as “qualified residential mortgages,” as such term is defined by the agencies by rule. The proposal was issued on September 20, 2013, 78 FR 57928. Work on a final rule is underway.

Source of Strength (12 CFR part 47). The banking agencies plan to issue a proposed rule to implement section 616(d) of the Dodd-Frank Act. Section 616(d) requires that bank holding companies, savings and loan holding companies and companies that directly or indirectly control an insured depository institution serve as a source of strength for the insured depository institution. The appropriate Federal banking agency for the insured depository institution may require that the company submit a report that would assess the company's ability to comply with the provisions of the statute and its compliance.

Terrorism Risk Insurance Program Office

The Terrorism Risk Insurance Act of 2002 (TRIA) was signed into law on November 26, 2002. The law, which was enacted as a consequence of the events of September 11, 2001, established a temporary Federal reinsurance program under which the Federal Government shares the risk of losses associated with certain types of terrorist acts with commercial property and casualty insurers. The Act, originally scheduled to expire on December 31, 2005, was extended to December 31, 2007, by the Terrorism Risk Insurance Extension Act of 2005 (TRIEA). The Act has since been extended to December 31, 2014, by the Terrorism Risk Insurance Program Reauthorization Act of 2007 (TRIPRA). Congress is currently considering extending the Act for an additional period of time.

The Office of the Assistant Secretary for Financial Institutions is responsible for developing and promulgating regulations implementing TRIA, as extended and amended by TRIEA and TRIPRA. The Terrorism Risk Insurance Program Office, which is part of the Office of the Assistant Secretary for Financial Institutions, is responsible for operational implementation of TRIA. The purposes of this legislation are to address market disruptions, ensure the continued widespread availability and affordability of commercial property and casualty insurance for terrorism risk, and to allow for a transition period for the private markets to stabilize and build capacity while preserving State insurance regulation and consumer protections.

In the event Congress extends the Program Treasury will continue the ongoing work of implementing TRIA and any changes contained in the extension of the Act.

BILLING CODE 4810-25-P

DEPARTMENT OF VETERANS AFFAIRS (VA)

Statement of Regulatory Priorities

The Department of Veterans Affairs (VA) administers benefit programs that recognize the important public obligations to those who served this Nation. VA's regulatory responsibility is almost solely confined to carrying out mandates of the laws enacted by Congress relating to programs for veterans and their families. VA's major regulatory objective is to implement these laws with fairness, justice, and efficiency.

Most of the regulations issued by VA involve at least one of three VA components: The Veterans Benefits Administration, the Veterans Health Administration, and the National Cemetery Administration. The primary mission of the Veterans Benefits Administration is to provide high-quality and timely nonmedical benefits to eligible veterans and their dependents. The primary mission of the Veterans Health Administration is to provide high-quality health care on a timely basis to eligible veterans through its system of medical centers, nursing homes, domiciliaries, and outpatient medical and dental facilities. The primary mission of the National Cemetery Administration is to bury eligible veterans, members of the Reserve components, and their dependents in VA National Cemeteries and to maintain those cemeteries as national shrines in perpetuity as a final tribute of a grateful Nation to commemorate their service and sacrifice to our Nation.

VA Regulatory Priorities

VA's regulatory priorities include a special project to undertake a comprehensive review and improvement of its existing regulations. The first portion of this project is devoted to reviewing, reorganizing, and rewriting the VA's compensation and pension regulations found in 38 CFR part 3. The goal of the Regulation Rewrite Project is to improve the clarity and consistency of these regulations to make them easier to find, read, understand, and apply.

A second VA regulatory priority is to implement title I of the Veterans Access, Choice, and Accountability Act of 2014, which was signed into law on August 7, 2014. The purpose of the new law is to establish a program to furnish hospital care and medical services through non-VA health care providers to veterans who either cannot be seen within VA's wait time goals or who live far from any VA medical facility. The statute requires that VA publish an interim final rule by November 5, 2014, and VA met this deadline when we published AP24, Expanded Access to Non-VA Care through the Veterans Choice Program.

A third VA regulatory priority is to codify Section 707 of the Act, which gives the Secretary more authority to dismiss members of the Senior Executive Service based on performance or misconduct. As VA announced on October 6, 2014, the Secretary is already implementing that provision. To codify the new statute into the Code of Federal Regulations, VA plans to publish a rulemaking, AP30, Changes to Expedited Senior Executive Removal Authority, as an interim final rule.

VA is also drafting regulation AP29 to implement Section 702 of the Act which requires that public colleges charge in-state tuition for veterans under certain circumstances.

Retrospective Review of Existing Regulations

Pursuant to section 6 of Executive Order 13563 “Improving Regulation and Regulatory Review” (Jan. 18, 2011), the following Regulatory Identifier Numbers (RINs) have been identified as associated with retrospective review and analysis in the Department's final retrospective review of regulations plan. Some of these entries on this list may be completed actions, which do not appear in The Regulatory Plan. However, more information can be found about these completed rulemakings in past publications of the Unified Agenda on Reginfo.gov in the Completed Actions section for that agency. These rulemakings can also be found on Regulations.gov. The final agency plans can be found at: http://www.va.gov/ORPM/docs/RegMgmt_VA_EO13563_RegRevPlan20110810.docx.

RIN | Title | Significantly reduce burdens on small businesses
2900-AO13* | VA Compensation and Pension Regulation Rewrite Project | No
*Consolidating Proposed Rules: 2900-AL67, AL70, AL71, AL72, AL74, AL76, AL82, AL83, AL84, AL87, AL88, AL89, AL94, AL95, AM01, AM04, AM05, AM06, AM07, AM16.

VA

Final Rule Stage

121. • Expedited Senior Executive Removal Authority

Priority: Other Significant.

Legal Authority: Pub. L. 113-146 (title VII, sec 707).

CFR Citation: Not Yet Determined.

Legal Deadline: None.

Abstract: VA will amend its regulations to provide that the Secretary may immediately remove or demote any individual from the Senior Executive Service (SES), and title 38 SES equivalents, if the Secretary determines the performance of the individual warrants such removal. The senior executive would be allowed an opportunity for an expedited review by the MSPB be conducted by an Administrative Judge at the MSPB, and if the MSPB Administrative Judge does not conclude their review within 21 days then the removal or demotion is final. (MSPB is conducting a rulemaking to establish and implement a process to conduct expedited reviews.)

VA regulations would also state that if the senior executive is removed, and then appeals VA's decision, the senior executive is not entitled to any type of pay, bonus, or benefit while appealing the decision of removal. Also, VA regulations would state that if a senior executive is demoted, and then appeals VA's decision, the employee may only receive any type of pay, bonus, or benefit at the rate appropriate for the position they were demoted to, and only if the individual shows up for duty, while appealing the decision of demotion.

VA regulations would also include “misconduct” along with “poor performance” as a reason to remove or demote a senior executive.

Statement of Need:

Summary of Legal Basis: Section 707 of the Veterans Access, Choice, and Accountability Act of 2014, which was signed into law on August 7, 2014, gives the Secretary more authority to dismiss members of the Senior Executive Service based on performance or misconduct. As VA announced on October 6, 2014, the Secretary is already implementing that provision. To codify the new statute into the Code of Federal Regulations, VA plans to publish a rulemaking as an interim final rule.

Alternatives:

Anticipated Cost and Benefits:

Risks:

Timetable:

Action | Date | FR Cite
Interim Final Rule | 07/00/15 |

Regulatory Flexibility Analysis Required: No.

Small Entities Affected: No.

Government Levels Affected: None.

URL For More Information: www.regulations.gov.

URL For Public Comments: www.regulations.gov.

Agency Contact: Kimberly McLeod, Deputy Assistant General Counsel, Department of Veterans Affairs, 810 Vermont Avenue NW., DC 20420, Phone: 202 461-7630.

RIN: 2900-AP30

BILLING CODE 8320-01-P

ARCHITECTURAL AND TRANSPORTATION BARRIERS COMPLIANCE BOARD

Statement of Regulatory and Deregulatory Priorities

The Architectural and Transportation Barriers Compliance Board (Access Board) is an independent federal agency established by section 502 of the Rehabilitation Act (29 U.S.C. 792). The Access Board is responsible for developing accessibility guidelines and standards under various laws to ensure that individuals with disabilities have access to and use of buildings and facilities, transportation vehicles, information and communication technology, and medical diagnostic equipment. Other Federal agencies adopt the accessibility guidelines and standards issued by the Access Board as mandatory requirements for entities under their jurisdiction.

This plan highlights five rulemaking priorities for the Access Board in FY 2015: (A) Information and Communication Technology Accessibility Standards and Guidelines; (B) Americans with Disabilities Act (ADA) Accessibility Guidelines for Transportation Vehicles; (C) Medical Diagnostic Equipment Accessibility Standards; (D) Accessibility Guidelines for Pedestrian Facilities in the Public Right-of-Way; and (E) Americans with Disabilities (ADA) Accessibility Guidelines for Passenger Vessels. The guidelines and standards would enable individuals with disabilities to achieve greater participation in our society, independent living, and economic self-sufficiency, and would promote our national values of equity, human dignity, and fairness, the benefits of which are difficult to quantify.

The rulemakings are summarized below.

A. Information and Communication Technology Accessibility Standards and Guidelines (RIN: 3014-AA37)

This rulemaking would update in a single document the accessibility standards for electronic and information technology covered by section 508 of the Rehabilitation Act of 1973, as amended (29 U.S.C. 794d) (Section 508), and the accessibility guidelines for telecommunications equipment and customer premises equipment covered by section 255 of the Communications Act of 1934 (47 U.S.C. 255) (Section 255). Section 508 requires the Federal Acquisition Regulatory Council (FAR Council) and each appropriate Federal department or agency to revise their procurement policies and directives no later than 6 months after the Access Board's publication of standards. The FAR Council has incorporated the accessibility standards for electronic and information technology in the Federal Acquisition Regulation (48 CFR Chapter 1). Under Section 255, the Federal Communications Commission (FCC) is responsible for issuing implementing regulations and enforcing Section 255. The FCC has promulgated enforceable standards (47 CFR parts 6 and 7) implementing Section 255 that are consistent with the Access Board's accessibility guidelines for telecommunications equipment and customer premises equipment.

The Access Board's 2010 ANPRM included a proposal to amend Section 220 of the Americans with Disabilities Act Accessibility Guidelines (ADAAG), but, based on public comments, the ADAAG proposal is no longer included in this rulemaking and will be pursued separately at a later date.

A.1. Statement of Need: The Access Board issued the Electronic and Information Technology Accessibility Standards in 2000 (65 FR 80500, December 21, 2000), and the Telecommunications Act Accessibility Guidelines for telecommunications equipment and customer premises equipment in 1998 (63 FR 5608, February 3, 1998). Since the standards and the guidelines were issued, technology has evolved and changed. Telecommunications products and electronic and information technology products have converged. For example, smartphones can perform many of the same functions as computers. Real time text technologies and video relay services are replacing TTY's (text telephones). The Access Board is updating the standards and guidelines together to address changes in technology and to make them consistent.

A.2. Summary of the Legal Basis: Section 508 and Section 255 require the Access Board to develop accessibility standards for electronic and information technology and accessibility guidelines for telecommunications equipment and customer premises equipment, and to periodically review and update the standards and guidelines to reflect technological advances and changes.

Section 508 requires that when developing, procuring, maintaining, or using electronic and information technology, each Federal department or agency must ensure, unless an undue burden would be imposed on the department or agency, that electronic and information technology (regardless of the type of medium) allows individuals with disabilities to have access to and use of information and data that is comparable to the access and use of the information and data by others without disabilities. Section 255 requires telecommunications manufacturers to ensure that telecommunications equipment and customer premises equipment are designed, developed, and fabricated to be accessible to and usable by individuals with disabilities when it is readily achievable to do so.

A.3. Alternatives: The Access Board established a Telecommunications and Electronic and Information Technology Advisory Committee to recommend changes to the existing standards and guidelines. The advisory committee was comprised of a broad cross-section of stakeholders, including representatives from industry, disability groups, and government agencies from the U.S., the European Commission, Canada, Australia, and Japan. Recognizing the importance of standardization across markets worldwide, the advisory committee coordinated its work with standard-setting bodies in the U.S. and abroad, such as the World Wide Web Consortium (W3C). The Access Board published Advance Notices of Proposed Rulemaking (ANPRMs) in the Federal Register in 2010 and 2011 requesting public comments on draft updates to the standards and guidelines (75 FR 13457, March 22, 2010; and 76 FR 76640, December 8, 2011). The Notice of Proposed Rulemaking (NPRM) will be based on the advisory committee's report and public comments on the ANPRMs.

The Access Board expects that the Information and Communication Technology Standards and Guidelines will have international influence, and has engaged extensive outreach efforts to standard-setting bodies in the U.S. and abroad such as the World Wide Web Consortium and to other countries, including the European Commission, Canada, Australia, and Japan.

A.4. Anticipated Costs and Benefits: The Access Board is working with a contractor to assess costs and benefits and prepare a preliminary regulatory impact assessment to accompany the NPRM. Baseline cost estimates of complying with Section 508 and Section 255 are made, and incremental costs due to the revised or new requirements are estimated for federal agencies and telecommunications equipment manufacturers. Anticipated benefits are also numerous, including hard-to quantify benefits such as increased ability for people with disabilities to obtain information and conduct transactions electronically. The preliminary regulatory impact assessment will be available at www.access-board.gov once the NPRM is published.

B. Americans With Disabilities Act (ADA) Accessibility Guidelines for Transportation Vehicles (RIN: 3014-AA38)

This rulemaking would update the accessibility guidelines for buses, over-the-road buses, and vans covered by the Americans with Disabilities Act (ADA). The accessibility guidelines for other transportation vehicles covered by the ADA, including vehicles operated in fixed guideway systems (e.g., rapid rail, light rail, commuter rail, high speed rail and intercity rail) would be updated in a future rulemaking. The guidelines ensure that transportation vehicles covered by the ADA are readily accessible to and usable by individuals with disabilities. The U.S. Department of Transportation (DOT) has issued enforceable standards (49 CFR part 37) that apply to the acquisition of new, used, and remanufactured transportation vehicles, and the remanufacture of existing transportation vehicles covered by the ADA. DOT is expected to update its standards in a separate rulemaking to be consistent with the updated guidelines.

B.1. Statement of Need: The Access Board issued the ADA Accessibility Guidelines for Transportation Vehicles in 1991, and amended the guidelines in 1998 to include additional requirements for over-the-road buses. Level boarding bus systems were introduced in the U.S. after the 1991 guidelines were issued. We are revising the 1991 guidelines to include new requirements for level boarding bus systems, automated stop and route announcements, and other changes.

B.2. Summary of the Legal Basis: Title II of the ADA applies to State and local governments and Title III of the ADA applies to places of public accommodation operated by private entities. The ADA covers designated public transportation services provided by State and local governments and specified public transportation services provided by private entities that are primarily engaged in the business of transporting people and whose operations affect commerce. (See 42 U.S.C. 12141 to 12147 and 12184.) Bus rapid transit systems, including level boarding bus systems, that provide public transportation services, are covered by the ADA.

The Access Board is required by the ADA and the Rehabilitation Act to establish and maintain guidelines for the accessibility standards adopted by DOT for transportation vehicles acquired or manufactured by entities covered by the ADA. Compliance with the new guidelines is not required until DOT revises its accessibility standards for transportation vehicles acquired or remanufactured by entities covered by the ADA to be consistent with the new guidelines.

B.3. Alternatives: The Access Board issued a proposed rule to revise the 1991 guidelines for buses, over-the-road buses, and vans in 2010. The proposed rule, comments on the proposed rule, correspondence received after the close of the initial comment period, and records and transcripts of meetings on the new ramp designs are available in the rulemaking docket at: http://www.regulations.gov/#!docketDetail;D=ATBCB-2010-0004. The final rule is based on the NPRM and public comments on the NPRM.

B.4. Anticipated Costs and Benefits: Incremental compliance costs are estimated for new requirements for over-the-road buses, such as displaying the International Symbol of Accessibility on the window adjacent to wheelchair spaces and displaying the destination or route signs on the front as well as the boarding side of the vehicles. This rulemaking would enable persons who have mobility disabilities, persons who have difficulty hearing or are deaf, and persons who have difficulty seeing or are blind to use transportation services. A full regulatory impact analysis will be available at www.access-board.gov, once the final rule is published.

C. Medical Diagnostic Equipment Accessibility Standards (RIN: 3014-AA40)

The Access Board plans to issue a final rule establishing accessibility standards for medical diagnostic equipment used in or in conjunction with medical settings such as physicians' offices, clinics, emergency rooms, and hospitals. The standards will contain minimum technical criteria to ensure that medical diagnostic equipment, including examination tables, examination chairs, weight scales, mammography equipment, and other imaging equipment used by health care providers for diagnostic purposes are accessible to and usable by individuals with disabilities. The Access Board published a NPRM in the Federal Register in 2012, 77 FR 6916, February 9, 2012.

C.1. Statement of Need: A national survey of a diverse sample of individuals with a wide range of disabilities, including mobility and sensory disabilities, showed that the respondents had difficulty getting on and off examination tables and chairs, radiology equipment and weight scales, and experienced problems with physical comfort, safety and communication. Focus group studies of individuals with disabilities also provided information on barriers that affect the accessibility and usability of various types of medical diagnostic equipment. The national survey and focus group studies are discussed in the NPRM.

C.2. Summary of the Legal Basis: Section 4203 of the Patient Protection and Affordable Care Act (Pub. L. 111-148, 124 Stat. 570) amended Title V of the Rehabilitation Act, which establishes rights and protections for individuals with disabilities, by adding section 510 to the Rehabilitation Act (29 U.S.C. 794f) (Section 510). Section 510 requires the Access Board, in consultation with the Commissioner of the Food and Drug Administration (FDA), to develop standards that contain minimum technical criteria to ensure that medical diagnostic equipment used in or in conjunction with medical settings such as physicians' offices, clinics, emergency rooms, and hospitals are accessible to and usable by individuals with disabilities.

Section 510 does not address who is required to comply with the standards. However, the Americans with Disabilities Act require health care providers to provide individuals with disabilities full and equal access to their health care services and facilities. The U.S. Department of Justice (DOJ) is responsible for issuing regulations to implement the Americans with Disabilities Act and enforcing the law. The NPRM discusses DOJ activities related to health care providers and medical diagnostic equipment.

C.3. Alternatives: The Access Board worked with the FDA and DOJ in developing the standards. The Access Board considered the Association for the Advancement of Medical Instrumentation's ANSI/AAMI HE 75:2009, “Human factors engineering—Design of medical devices,” which includes recommended practices to provide accessibility for individuals with disabilities. The Access Board also established a Medical Diagnostic Equipment Accessibility Standards Advisory Committee that included representatives from the disability community and manufacturers of medical diagnostic equipment to make recommendations on issues raised in public comments and responses to questions in the NPRM. The final rule will be based on the public comments and recommendations of the advisory committee.

C.4. Anticipated Costs and Benefits: The Access Board is working to assess costs and benefits and prepare a preliminary regulatory impact assessment to accompany the final rule. The standards would address many of the barriers that have been identified as affecting the accessibility and usability of diagnostic equipment by individuals with disabilities. The standards would facilitate independent transfers by individuals with disabilities onto and off of diagnostic equipment, and enable them to maintain their independence, confidence, and dignity, lessening the need for health care personnel to assist individuals with disabilities when transferring on and off of diagnostic equipment. The standards would improve the quality of health care for individuals with disabilities and ensure that they receive examinations, diagnostic procedures, and other health care services equivalent to those received by individuals without disabilities.

D. Accessibility Guidelines for Pedestrian Facilities in the Public Right-of-Way (RIN: 3014-AA26)

The rulemaking would establish accessibility guidelines to ensure that sidewalks and pedestrian facilities in the public right-of-way are accessible to and usable by individuals with disabilities. A Supplemental Notice of Proposed Rulemaking consolidated this rulemaking with RIN 3014-AA41; accessibility guidelines for shared use paths (which are multi-use paths designed primarily for use by bicyclists and pedestrians, including persons with disabilities, for transportation and recreation purposes). The U.S. Department of Justice, U.S. Department of Transportation, and other Federal agencies are expected to adopt the accessibility guidelines for pedestrian facilities in the public right-of-way and for shared use paths, as enforceable standards in separate rulemakings for the construction and alteration of facilities covered by the Americans with Disabilities Act, section 504 of the Rehabilitation Act, and the Architectural Barriers Act.

D.1. Statement of Need: While the Access Board has issued accessibility guidelines for the design, construction, and alteration of buildings and facilities covered by the Americans with Disabilities Act (ADA) and the Architectural Barriers Act (ABA) (36 CFR part 1191), these guidelines were developed primarily for buildings and facilities on sites. Some of the provisions in these guidelines can be readily applied to pedestrian facilities in the public right-of-way such as curb ramps. However, other provisions need to be adapted or new provisions developed for pedestrian facilities that are built in the public right-of-way as well as shared use paths.

D.2. Summary of the Legal Basis: Section 502(b)(3) of the Rehabilitation Act of 1973, as amended, 29 U.S.C. 792(b)(3), requires the Access Board to establish and maintain minimum guidelines for the standards issued by other agencies pursuant to the ADA and ABA. In addition, section 504 of the ADA, 42 U.S.C. 12204, required the Access Board to issue accessibility guidelines for buildings and facilities covered by that law.

D.3. Alternatives: The Access Board established a Public Rights-of-Way Access Advisory Committee to make recommendations for the guidelines. The advisory committee was comprised of a broad cross-section of stakeholders, including representatives for State and local government agencies responsible for constructing facilities in the public right-of-way, transportation engineers, disability groups, and bicycling and pedestrian organizations. The Access Board released two drafts of the guidelines for public comment and an NPRM based on the advisory committee report and public comments on the draft guidelines. The final rule will be based on the NPRM and public comments on the NPRM.

D.4. Anticipated Costs and Benefits: The Access Board identified four provisions in the NPRM that were expected to have more than minimal monetary impacts on State and local governments. Three of these four requirements are related to: (1) detectable warning surfaces on newly constructed and altered curb ramps and blended transitions at pedestrian street crossings; (2) accessible pedestrian signals and pushbuttons when pedestrian signals are newly installed or replaced at signalized intersections; and (3) pedestrian activated signals at roundabouts with multi-lane pedestrian crossings. In addition, the fourth requirement for provision of a two percent maximum cross slope on pedestrian access routes within pedestrian street crossings with yield or stop control was estimated to have more than minimal monetary impacts on State and local governments when constructing roadways with pedestrian crossings in hilly areas. The NPRM included questions requesting information to assess the costs and benefits of these provisions, as well as other provisions that may have cost impacts. The Access Board will prepare a final regulatory impact assessment to accompany the final rule based on information provided in response to questions in the NPRM and other sources.

E. Americans With Disabilities Act (ADA) Accessibility Guidelines for Passenger Vessels (RIN: 3014-AA11)

The rulemaking would establish accessibility guidelines to ensure that newly constructed and altered passenger vessels covered by the Americans with Disabilities Act (ADA) are accessible to and usable by individuals with disabilities. The U.S. Department of Transportation and U.S. Department of Justice are expected to adopt the guidelines as enforceable standards in separate rulemakings for the construction and alteration of passenger vessels covered by the ADA.

E.1. Statement of Need: Section 504 of the ADA requires the Access Board to issue accessibility guidelines for the construction and alteration of passenger vessels covered by the law to ensure that the vessels are readily accessible to and usable by individuals with disabilities (42 U.S.C. 12204).

E.2. Summary of the Legal Basis: Title II of the ADA applies to State and local governments and title III of the ADA applies to places of public accommodation operated by private entities. The ADA covers designated public transportation services provided by State and local governments and specified public transportation services provided by private entities that are primarily engaged in the business of transporting people and whose operations affect commerce. (See 42 U.S.C. 12141 to 12147 and 12184.)

Titles II and III of the ADA require the DOT and DOJ to issue accessibility standards for the construction and alteration of passenger vessels covered by the law that are consistent with the guidelines issued by the Access Board. (See 42 U.S.C. 12134(c), 12149(b), 12186(c).) The DOT has reserved a subpart in its ADA regulations for accessibility standards for passenger vessels in anticipation of the Access Board issuing these guidelines. (See 49 CFR part 39, subpart E.) Once DOT and DOJ issue accessibility standards for the construction and alteration of passenger vessels covered by the ADA, vessel owners and operators are then required to comply with the standards.

E.3. Alternatives: In developing the proposed accessibility guidelines, the Access Board has received and considered extensive input from passenger vessel owners and operators, individuals with disabilities, and other interested parties for more than a decade. The Access Board convened an advisory committee comprised of passenger vessel industry trade groups, passenger vessel owners and operators, disability advocacy groups, and State and local government agencies to advise how to develop the accessibility guidelines. The committee submitted its report to the Access Board in 2000. In addition, over the years, the Access Board issued an ANPRM and three versions of draft accessibility guidelines and conducted in-depth case studies on various passenger vessels. The Access Board solicited and analyzed public comments on these documents in developing the proposed guidelines and regulatory impact analysis. All the published documents together with public comments are available at: http://www.access-board.gov.

E.4. Anticipated Costs and Benefits: The proposed guidelines would address the discriminatory effects of architectural, transportation, and communication barriers encountered by individuals with disabilities on passenger vessels. The estimated compliance costs for certain types of vessels include: (1) the incremental impact of constructing a vessel in compliance with the guidelines; and (2) any additional costs attributable to the operation and maintenance of accessible features. For certain large cruise ships, the compliance costs would include loss of guest rooms and gross revenues attributed to a proposed requirement for a minimum number of guest rooms that provide mobility features. The proposed guidelines would significantly benefit individuals with disabilities by affording them equal opportunity to travel on passenger vessels for employment, transportation, public accommodation, and leisure. Other benefits, which are difficult to quantify, include equity, human dignity, and fairness values.

BILLING CODE 8150-01-P

ENVIRONMENTAL PROTECTION AGENCY (EPA)

Statement of Priorities

Overview

For more than 40 years, the U.S. Environmental Protection Agency (EPA) has worked to protect people's health and the environment. By taking advantage of the best thinking, the newest technologies and the most cost-effective, sustainable solutions, EPA has fostered innovation and cleaned up pollution in the places where people live, work, play and learn.

With a renewed focus on the challenges ahead, science, law and transparency continue to guide EPA decisions. EPA will leverage resources with grant- and incentive-based programs, sound scientific advice, technical and compliance assistance and tools that support states, tribes, cities, towns, rural communities and the private sector in their efforts to address our shared challenges, including:

• making a visible difference in communities across the country;

• addressing climate change and improving air quality;

• taking action on toxics and chemical safety;

• protecting water: a precious, limited resource;

• launching a new era of state, tribal and local partnership; and

• working toward a sustainable future.

EPA and its federal, state, local, and community partners have made enormous progress in protecting the nation's health and environment. From reducing mercury and other toxic air pollution to reducing greenhouse gas (GHG) emissions, doubling the fuel efficiency of our cars and trucks, the Agency is working to save lives and protect the environment. In addition, while removing a billion tons of pollution from the air, the Agency has produced hundreds of billions of dollars in benefits for the American people.

Highlights of EPA'S Regulatory Plan

EPA's more than forty years of protecting human health and the environment demonstrates our nation's commitment to reducing pollution that can threaten the air we breathe, the water we use and the communities we live in. This Regulatory Plan contains information on some of our most important upcoming regulatory actions. As always, our Semiannual Regulatory Agenda contains information on a broader spectrum of EPA's upcoming regulatory actions.

Six Guiding Priorities

The EPA's success depends on supporting innovation and creativity in both what we do and how we do it. To guide the agency's efforts, the Agency has established several guiding priorities. These priorities are enumerated in the list that follows, along with recent progress and future objectives for each.

1. Making a Visible Difference in Communities Across the Country

Safe Disposal and Management of Coal Combustion Residuals. Coal combustion residuals (CCRs), often referred to as coal ash, are currently considered Bevill exempt wastes under the Resource Conservation and Recovery Act (RCRA). They are residues from the combustion of coal in power plants and are captured by pollution control technologies, like scrubbers. Potential environmental concerns from coal ash management include groundwater contamination from leaking surface impoundments and landfills and structural failures of surface impoundments. The need for national criteria was emphasized by the December 2008 spill of coal ash from a surface impoundment at the Tennessee Valley Authority's plant in Kingston, TN. The tragic spill flooded more than 300 acres of land with coal ash, which flowed into the Emory and Clinch rivers. On June 21, 2010, the EPA proposed to regulate for the first time coal ash to address the risks from the management of these wastes that are generated by electric utilities and independent power producers. The Agency received over 450,000 comments on the proposal. Under a consent decree, a final rule must be signed by the Administrator no later than December 19, 2014.

Environmental Justice in Rulemaking. The year 2014 represents the 20th anniversary of President Clinton's issuance of the Executive order directing all Federal agencies to engage in a Governmentwide effort and issue strategies to address environmental justice issues.

EPA has made significant progress in areas critical to advancing environmental justice and making a visible difference in communities, including rulemaking, permitting, compliance and enforcement, community-based programs and our work with other federal agencies. We have developed the critical legal, science, and screening tools to help support our efforts in working with and in communities.

2. Addressing Climate Change and Improving Air Quality

The Agency will continue to deploy existing regulatory tools where appropriate and warranted. Addressing climate change calls for coordinated national and global efforts to reduce emissions and develop new technologies that can be deployed. Using the Clean Air Act, EPA will continue to develop greenhouse gas standards for both mobile and stationary sources.

Greenhouse Gas Emission Standards for Power Plants. As part of the President's Climate Action Plan, in September 2013, the EPA proposed standards to limit carbon pollution from new power plants yet to be built. This past June, we proposed carbon pollution standards for existing power plants, the Clean Power Plan. We plan to finalize standards for both new and existing plants in 2015. When finalized, these standards and guidelines will establish achievable limits of carbon pollution from future plants. By 2030 carbon emissions from existing plants are estimated to be reduced by 30% from 2005 levels.

Heavy-Duty Vehicles GHG Emission Standards. In 2011, in cooperation with the Department of Transportation (DOT), EPA issued the first-ever Greenhouse Gas Emissions Standards and Fuel Efficiency Standards for Medium- and Heavy-Duty Engines and Vehicles for model years 2014-2018. In 2015, EPA and DOT will propose a second set of standards to further reduce greenhouse gas emissions and fuel consumption from a wide range of on-road vehicles from semi-trucks to the largest pickup trucks and vans and all types and sizes of work trucks and buses. This action is another important component of the President's Climate Action Plan.

Reviewing and Implementing Air Quality Standards. Despite progress, millions of Americans still live in areas that exceed one or more of the national air pollution standards. This year's regulatory plan describes efforts to review the primary National Ambient Air Quality Standards (NAAQS) for ozone and lead, as well as a rule to guide States in implementing the ozone, particulate matter, and other air quality standards.

Cleaner Air from Improved Technology. EPA continues to address hazardous air pollution under authority of the Clean Air Act Amendments of 1990. The centerpiece of this effort is the “Maximum Achievable Control Technology” (MACT) program, which requires that all major sources of a given type use emission controls that better reflect the current state of the art. In May of 2015, EPA expects to complete a review of existing MACT standards for Petroleum Refineries to reduce residual risk and assure that the standards reflect current technology.

3. Taking Action on Toxics and Chemical Safety

One of EPA's highest priorities is to make significant progress in assuring the safety of chemicals. Using sound science as a compass, EPA protects individuals, families, and the environment from potential risks of pesticides and other chemicals. In its implementation of these programs, EPA uses several different statutory authorities, including the Federal Insecticide, Fungicide and Rodenticide Act (FIFRA), the Federal Food, Drug and Cosmetic Act (FFDCA), the Toxic Substances Control Act (TSCA) and the Pollution Prevention Act (PPA), as well as collaborative and voluntary activities. In FY 2014, the Agency will continue to satisfy its overall directives under these authorities and highlights the following actions in this Regulatory Plan:

EPA's Existing Chemicals Management Program Under TSCA. As part of EPA's ongoing efforts to ensure the safety of chemicals, EPA plans to take a range of identified regulatory actions for certain chemicals and assess other chemicals to determine if risk reduction action is needed to address potential concerns.

Addressing Formaldehyde Used in Composite Wood Products. As directed by the Formaldehyde Standards for Composite Wood Products Act of 2010, EPA is developing final regulations to address formaldehyde emissions from hardwood plywood, particleboard and medium-density fiberboard that is sold, supplied, offered for sale, or manufactured in the United States.

Lead in Public and Commercial Buildings. As directed by TSCA section 402(c)(3), EPA is developing a proposed rule to address renovation or remodeling activities that create lead-based paint hazards in pre-1978 public buildings and commercial buildings. EPA previously issued a final rule to address lead-based paint hazards created by these activities in target housing and child-occupied facilities.

Reassessment of PCB Use Authorizations. When enacted in 1978, TSCA banned the manufacture, processing, distribution in commerce, and use of polychlorinated biphenyls (PCBs), except when uses would pose no unreasonable risk of injury to health or the environment. EPA is reassessing certain ongoing, authorized uses of PCBs that were established by regulation in 1979, including the use, distribution in commerce, marking and storage for reuse of liquid PCBs in electric equipment, to determine whether those authorized uses still meet TSCA's “no unreasonable risk” standard. EPA plans to propose the revocation or revision of any PCBs use authorizations included in this reassessment that no longer meet the TSCA standard.

Enhancing Agricultural Worker Protection. Based on years of extensive stakeholder engagement and public meetings, EPA is acting to enhance the pesticide worker safety program. EPA plans to issue final amendments to the agricultural worker protection regulation that strengthens protections for agricultural farm workers and pesticide handlers. The rule is expected improve pesticide safety training and agricultural workers' ability to protect themselves and their families from potential secondary exposure to pesticides and pesticide residues. The proposed revisions will address key environmental justice concerns for a population that may be disproportionately affected by pesticide exposure. Other changes under development are intended to bring hazard communication requirements more in line with Occupational Safety and Health Administration requirements and seek to clarify current requirements to facilitate program implementation and enforcement.

Strengthening Pesticide Applicator Safety. As part of EPA's effort to enhance the pesticide worker safety program, the Agency is also developing a proposal to revise the existing regulation concerning the certification of applicators of restricted-use pesticides to ensure that the federal certification program standards adequately protect applicators, the public and the environment from potential risks associated with use of restricted use pesticides. The proposed changes are intended to improve the competency of certified applicators of restricted use pesticides, increase protection for noncertified applicators of restricted use pesticides operating under the direct supervision of a certified applicator through enhanced pesticide safety training and standards for supervision of noncertified applicators, and establish a minimum age requirement for such noncertified applicators. Also, in keeping with EPA's commitment to work more closely with tribal governments to strengthen environmental protection in Indian Country, certain changes are intended to provide more practical options for establishing certification programs in Indian Country.

Improving Chemical Facility Safety and Security. Executive Order 13650 on Improving Chemical Facility Safety and Security directs federal agencies to work with stakeholders to improve chemical safety and security through agency programs, private sector initiatives, federal guidance, standards, and regulations. During the course of implementing this Executive order, EPA, along with the Department of Homeland Security (including the National Protection and Programs Directorate, the Transportation Security Agency and the United States Coast Guard); the Occupational Safety and Health Administration; the United States Department of Justice, Bureau of Alcohol, Tobacco, and Firearms; the United States Department of Agriculture; and the United States Department of Transportation, will assess whether its regulations should be modified or new regulations developed to improve upon chemical safety and security. EPA issued in July 2014 a request for information on how to strengthen its Risk Management Plan program. EPA plans to develop a proposed rule to modernize the Risk Management Plan.

4. Protecting Water: A Precious, Limited Resource

Despite considerable progress, America's waters remain imperiled. Water quality protection programs face complex challenges, from nutrient loadings and stormwater runoff to invasive species and drinking water contaminants. These challenges demand both traditional and innovative strategies.

Improving Water Quality. EPA plans to address challenging water quality issues in several rulemakings during FY 2015.

Definition of “Waters of the United States” Under the Clean Water Act. After U.S. Supreme Court decisions in SWANCC and Rapanos, the scope of “waters of the US” protected under Clean Water Act (CWA) programs has been an issue of considerable debate and uncertainty. The Act does not distinguish among programs as to what constitutes “waters of the United States.” As a result, these decisions affect the geographic scope of all CWA programs. SWANCC and Rapanos did not invalidate the current regulatory definition of “waters of the United States.” However, the decisions established important considerations for how those regulations should be interpreted. Experience implementing the regulations following the two court cases has identified several areas that could benefit from additional clarification through rulemaking.

Steam Electric Power Plants. Steam electric power plants contribute over half of all toxic pollutants discharged to surface waters by all industrial categories currently regulated in the United States under the Clean Water Act. Discharges of these toxic pollutants are linked to cancer and neurological damage in humans and ecological damage. EPA will establish national technology-based regulations called effluent guidelines to reduce discharges of these pollutants from industries to waters of the U.S. and publicly owned treatment works. These guidelines would set the first Federal limits on the levels of toxic metals in wastewater that can be discharged from power plants, based on technology improvements in the industry over the last three decades. The steam electric effluent guidelines apply to steam electric power plants using nuclear or fossil fuels, such as coal, oil and natural gas.

Water Quality Standards Regulatory Revisions. EPA will finalize updates to the Water Quality Standards regulation, which provides a strong foundation for water quality-based controls, including water quality assessments, impaired waters lists, total maximum daily loads, and water quality-based effluent limits (WQBELs) in NPDES discharge permits. These updates aim to clarify and resolve a number of policy and technical issues that have recurred over the past 30 years. They will assure greater public transparency, better stakeholder information, and more effective implementation of the Water Quality Standards program.

Responding to Oil Spills in U.S. Waters. The Clean Water Act (CWA), as amended by the Oil Pollution Act (OPA), requires that the National Contingency Plan (NCP) include a schedule identifying “dispersants, other chemicals, and other spill mitigating devices and substances, if any, that may be used in carrying out” the NCP. EPA is considering amending subpart J of the NCP (the Product Schedule) for a manufacturer to have chemical, biological, or other spill-mitigating substances listed on the Product Schedule, updating the listing requirements to reflect new advancements in scientific understanding, and, to the extent practicable, considering and addressing concerns regarding the use of dispersants raised during the Deepwater Horizon oil spill.

5. Launching a New Era of State, Tribal and Local Partnership

EPA's success depends more than ever on working with increasingly capable and environmentally conscious partners. States have demonstrated leadership on managing environmental challenges, and EPA wants to build on and complement their work. EPA supports state and tribal capacity to ensure that programs are consistently delivered nationwide. This provides EPA and its intergovernmental partners with an opportunity to further strengthen their working relationship and, thereby, more effectively pursue their shared goal of national environmental and public health protection. The history and future of environmental protection will be built on this type of collaboration.

In July 2014, EPA's Administrator Gina McCarthy signed the Environmental Justice Policy for Working with Tribes and Indigenous Peoples, reinforcing the agency's commitment to work with tribes on a government-to-government basis when issues of environmental justice arise. This policy allows EPA to reinforce its commitment to tribal communities, especially in addressing issues of environmental justice. The policy integrates 17 environmental justice and civil rights principles and identifies existing informational and resource tools to support EPA in addressing environmental justice concerns raised by Federally Recognized Tribes and Indigenous Peoples throughout the United States.

In addition, 2014 marks 30 years of EPA's 1984 Indian Policy. EPA was the first to formally adopt such a Policy, reiterating the importance of EPA's tribal programs and our unique government-to-government relationship with tribes.

6. Working Toward a Sustainable Future

Just as today's economy is vastly different from that of 40 years before, EPA's regulatory program is evolving to recognize the progress that has already been made in environmental protection and to incorporate new technologies and approaches that allow us to provide for an environmentally sustainable future more efficiently and effectively.

Establishing User Fees for the Use of RCRA Manifests. The e-Manifest Final rule of February 7, 2014 codified certain provisions of the “Hazardous Waste Electronic Manifest Establishment Act” (or the Act), which directed EPA to adopt a regulation that authorized the use of electronic manifests to track hazardous waste shipments nationwide. The Act also instructed EPA to develop a user-fee-funded e-Manifest system. Since the Act grants broad discretion to EPA to determine the fees and gives the Agency authority to collect such fees for both electronic manifests and any paper manifests that continue in use, EPA plans to issue rulemaking to establish the appropriate electronic and paper manifest fees. The initial fees established in the final rule are expected to cover the operation and maintenance costs for the system, as well as the costs associated with the development of the system. EPA plans to also announce in the final rule the date on which the system will be implemented and available to users. Once the national e-Manifest system becomes available, hazardous waste handlers will be able to complete, sign, transmit, and store electronic manifests through the national IT system, or they can elect to continue tracking the hazardous waste under the paper manifest system. Further, waste handlers that currently submit manifests to the States will no longer be required to do so, unless required by the State, as EPA will collect both the remaining paper manifest copies and electronic manifests in the national system and will disseminate the manifest data to those States that want it.

Strengthening the Underground Storage Tanks Program. EPA plans to revise the 1988 federal underground storage tank (UST) regulations by increasing emphasis on properly operating and maintaining UST equipment. These revisions will help improve prevention and detection of UST releases, which are one of the leading sources of groundwater contamination. The revisions will also help ensure all USTs in the United States, including those in Indian country, meet the same minimum standards.

Retrospective Review of Existing Regulations

Pursuant to section 6 of Executive Order 13563 “Improving Regulation and Regulatory Review” (Jan. 18, 2011), the following Regulatory Identifier Numbers (RINs) have been identified as associated with retrospective review and analysis in the Agency's final retrospective review of regulations plan. Some of these entries on this list may be completed actions, which do not appear in The Regulatory Plan. However, more information can be found about these completed rulemakings in past publications of the Unified Agenda on Reginfo.gov in the Completed Actions section for that agency. These rulemakings can also be found on Regulations.gov. EPA's final agency plan can be found at: http://www.epa.gov/regdarrt/retrospective/.

Regulatory identifier number (RIN) | Rulemaking title
2060-AO60 | New Source Performance Standards (NSPS) Review under CAA-111(b)(1)(B)
2060-AP06 | New Source Performance Standards for Grain Elevators—Amendments
2040-AF15 | National Primary Drinking Water Regulations for Lead and Copper: Regulatory Revisions
2040-AF16 | Water Quality Standards Regulatory Clarifications
2040-AF25 | National Pollutant Discharge Elimination System (NPDES) Application and Program Updates Rule
2040-AF29 | National Primary Drinking Water Regulations: Group Regulation of Carcinogenic Volatile Organic Compound (VOCs)
2050-AG39 | Management Standards for Hazardous Waste Pharmaceuticals
2050-AG72 | Hazardous Waste Requirements for Retail Products; Clarifying and Making the Program More Effective
2070-AK02 | Lead; Lead-based Paint Program; Amendment to Jurisdiction-Specific Certification and Accreditation Requirements and Renovator Refresher Training Requirements

Burden Reduction

As described above, EPA continues to review its existing regulations in an effort to achieve its mission in the most efficient means possible. To this end, the Agency is committed to identifying areas in its regulatory program where significant savings or quantifiable reductions in paperwork burdens might be achieved, as outlined in Executive Order 13610, while protecting public health and our environment.

Rules Expected to Affect Small Entities

By better coordinating small business activities, EPA aims to improve its technical assistance and outreach efforts, minimize burdens to small businesses in its regulations, and simplify small businesses' participation in its voluntary programs. Actions that may affect small entities can be tracked on EPA's Regulatory Development and Retrospective Review Tracker (http://www.epa.gov/regdarrt/) at any time. This Plan includes the following rules that may be of particular interest to small entities:

Regulatory identifier number (RIN) | Rulemaking title
2070-AJ92 | Formaldehyde Emission Standards for Composite Wood Products
2060-AS16 | Greenhouse Gas Emissions and Fuel Efficiency Standards for Medium- and Heavy-Duty Engines and Vehicles—Phase 2

International Regulatory Cooperation Activities

EPA has considered international regulatory cooperation activities as described in Executive Order 13609 and has identified two international activities that are anticipated to lead to significant regulations in the following year:

Regulatory identifier number (RIN) | Rulemaking Title
2070-AJ44 | Formaldehyde; Third-Party Certification Framework for the Formaldehyde Standards for Composite Wood Products
2070-AJ92 | Formaldehyde Emission Standards for Composite Wood Products

Streamlining the Export/Import Process for America's Businesses

EPA has considered import and export streamlining activities as described in Executive Order 13659 and identified the following rulemaking activity:

Regulatory identifier number (RIN) | Rulemaking title
2050-AG77 | Hazardous Waste Export-Import Revisions Rule

EPA—AIR AND RADIATION(AR)

Proposed Rule Stage

122. Review of the National Ambient Air Quality Standards for Ozone

Priority: Economically Significant. Major under 5 U.S.C. 801.

Legal Authority: 42 U.S.C. 7408; 42 U.S.C. 7409

CFR Citation: 40 CFR 50.

Legal Deadline: NPRM, Judicial, December 1, 2014, Court-ordered Deadline. Final, Judicial, October 1, 2015, Court-ordered Deadline. Must be proposed by December 1

Abstract: Under the Clean Air Act, the EPA is required to review and, if appropriate, revise the air quality criteria for the primary (health-based) and secondary (welfare-based) national ambient air quality standards (NAAQS) every 5 years. On March 23, 2008, the EPA published a final rule to revise the primary and secondary NAAQS for ozone to provide increased protection of public health and welfare. With regard to the primary standard for ozone, the EPA revised the level of the 8-hour ozone standard to 0.075 ppm. With regard to the secondary ozone standard, the EPA made it identical in all respects to the primary ozone standard, as revised. The DC Circuit upheld the primary standard, but remanded the secondary standard back to the EPA. The EPA initiated the current review in October 2008 with a workshop to discuss key policy-relevant issues around which EPA would structure the review. This review included the preparation of an Integrated Science Assessment, Risk/Exposure Assessment, and a Policy Assessment Document by the EPA, with opportunities for review by EPA's Clean Air Scientific Advisory Committee and the public.

Statement of Need: Under the Clean Air Act Amendments of 1977, EPA is required to review and if appropriate revise the air quality criteria for the primary (health-based) and secondary (welfare-based) national ambient air quality standards (NAAQS) every 5 years.

Summary of Legal Basis: Review of the NAAQS is authorized by Clean Air Act Sections 108 and 109.

Alternatives: The main alternative for the Administrator's decision on the review of the primary and secondary national ambient air quality standards for ozone is whether to retain or revise the existing standards.

Anticipated Cost and Benefits: The Clean Air Act makes clear that the economic and technical feasibility of attaining standards are not to be considered in setting or revising the NAAQS, although such factors may be considered in the development of State plans to implement the standards. Accordingly, when the Agency proposes revisions to the standards, the Agency prepares cost and benefit information in order to provide States information that may be useful in considering different implementation strategies for meeting proposed or final standards. In those instances, cost and benefit information is generally included in the regulatory analysis accompanying the final rule.

Risks: Health and welfare risks associated with exposure to O3 in the ambient air have been assessed. The final health and welfare Risk and Exposure Assessments for Ozone were released in August 2014, and are available at: http://www.epa.gov/ttn/naaqs/standards/ozone/data/20140829healthrea.pdf.

Timetable:

Action | Date | FR Cite
Notice | 04/28/11 | 76 FR 23755
NPRM | 12/00/14 |
Final Rule | 11/00/15 |

Regulatory Flexibility Analysis Required: No.

Small Entities Affected: No.

Government Levels Affected: Federal, Local, State, Tribal.

Additional Information: Docket #: EPA-HQ-OAR-2008-0699.

URL For More Information: http://www.epa.gov/ozone/.

Agency Contact: Susan Stone, Environmental Protection Agency, Air and Radiation, C504-06, Research Triangle Park, NC 27711, Phone: 919 541-1146, Fax: 919 541-0237, Email: stone.susan@epa.gov.

Karen Wesson, Environmental Protection Agency, Air and Radiation, C504-06, RTP, NC 27711, Phone: 919 541-3515, Email: wesson.karen@epa.gov.

RIN: 2060-AP38

EPA—AR

123. Review of the National Ambient Air Quality Standards for Lead

Priority: Other Significant. Major status under 5 U.S.C. 801 is undetermined.

Legal Authority: 42 U.S.C. 7408; 42 U.S.C. 7409

CFR Citation: 40 CFR 50.

Legal Deadline: None.

Abstract: Under the Clean Air Act Amendments of 1977, the EPA is required to review and if appropriate revise the air quality criteria for the primary (health-based) and secondary (welfare-based) national ambient air quality standards (NAAQS) every 5 years. On November 12, 2008, the EPA published a final rule to revise the primary and secondary NAAQS for lead to provide increased protection for public health and welfare. The EPA has now initiated the next review. This new review includes the preparation of an Integrated Review Plan, an Integrated Science Assessment, and, if warranted, a Risk/Exposure Assessment, and also a Policy Assessment Document by the EPA, with opportunities for review by EPA's Clean Air Scientific Advisory Committee and the public. These documents inform the Administrator's proposed decision as to whether to retain or revise the standards. This decision will be published in the Federal Register with opportunity provided for public comment. The Administrator's final decisions will take into consideration these documents and public comment on the proposed decision.

Statement of Need: Under the Clean Air Act Amendments of 1977, EPA is required to review and if appropriate revise the air quality criteria for the primary (health-based) and secondary (welfare-based) national ambient air quality standards (NAAQS) every 5 years. In the last lead NAAQS review, EPA published a final rule on November 12, 2008, to revise the primary and secondary NAAQS for lead to provide increased protection for public health and welfare.

Summary of Legal Basis: Under the Clean Air Act Amendments of 1977, EPA is required to review and if appropriate revise the air quality criteria for the primary (health-based) and secondary (welfare-based) national ambient air quality standards (NAAQS) every 5 years.

Alternatives: The main alternative for the Administrator's decision on the review of the national ambient air quality standards for lead is whether to retain or revise the existing standards.

Anticipated Cost and Benefits: The Clean Air Act makes clear that the economic and technical feasibility of attaining standards are not to be considered in setting or revising the NAAQS, although such factors may be considered in the development of State plans to implement the standards. Accordingly, when the Agency proposes revisions to the standards, the Agency prepares cost and benefit information in order to provide States information that may be useful in considering different implementation strategies for meeting proposed or final standards. In those instances, cost and benefit information is generally included in the regulatory analysis accompanying the final rule.

Risks: As part of the review, the EPA prepares an Integrated Review Plan, an Integrated Science Assessment, and, if warranted, a Risk/Exposure Assessment, and also a Policy Assessment Document, with opportunities for review by the EPA's Clean Air Scientific Advisory Committee and the public. These documents inform the Administrator's proposed decision as to whether to retain or revise the standards. The proposed decision will be published in the Federal Register with opportunity provided for public comment. The Administrator's final decisions will take into consideration these documents and public comment on the proposed decision.

Timetable:

Action | Date | FR Cite
NPRM | 12/00/14 |
Final Rule | To Be Determined

Regulatory Flexibility Analysis Required:No.

Small Entities Affected: No.

Government Levels Affected: Undetermined.

Additional Information: Docket #: EPA-HQ-OAR-2010-0108.

URL for More Information: http://www.epa.gov/ttn/naaqs/standards/pb/s_pb_index.html.

Agency Contact: Deirdre Murphy, Environmental Protection Agency, Air and Radiation, C539-02, Research Triangle Park, NC 27709, Phone: 919 541-0729, Fax: 919 541-0840, Email: murphy.deirdre@epa.gov.

Ginger Tennant, Environmental Protection Agency, Air and Radiation, C504-06, Research Triangle Park, NC 27711, Phone: 919 541-4072, Fax: 919 541-0237, Email: tennant.ginger@epa.gov.

RIN: 2060-AQ44

EPA—AR

124. Carbon Pollution Emission Guidelines for Existing Stationary Sources: EGUS in Indian Country and U.S. Territories

Priority: Economically Significant. Major under 5 U.S.C. 801.

Legal Authority: CAA 111

CFR Citation: .40 CFR 60

Legal Deadline: None.

Abstract: On June 25, 2013, President Obama issued a Presidential Memorandum directing the Environmental Protection Agency (EPA) to work expeditiously to complete greenhouse gas (GHG) standards for the power sector. The agency is using its authority under section 111(d) of the Clean Air Act (CAA) to issue emission guidelines to address GHG emissions from existing power plants. The Presidential Memorandum directs the EPA to issue proposed GHG guidelines for existing power plants by no later than June 1, 2014, and issue final guidelines by no later than June 1, 2015. In addition, the Presidential Memorandum directs the EPA to, in the guidelines, require states to submit to EPA the implementation plans required under section 111(d) of the CAA by no later than June 30, 2016. On June 18, 2014, the EPA proposed emission guidelines for states to follow in developing plans to address GHG emissions from existing fossil fired EGU, using its authority under CAA 111(d). This action is a supplemental proposal and will propose emission guidelines to address GHG emissions from existing fossil fuel-fired EGUs on tribal lands and in U.S. territories.

Statement of Need: President Obama's Climate Action Plan called for EPA to complete carbon pollution standards for existing fossil fuel-fired power plants by June 1, 2015. This action will propose those standards for existing fossil fuel-fired power plants in Indian country and U.S. territories.

Summary of Legal Basis: CO2 is a regulated pollutant and thus is subject to regulation under section 111 of the Clean Air Act as Amended in 1990.

Alternatives: Alternatives will be presented in the proposal preamble.

Anticipated Cost and Benefits: Cost and benefits information will be presented in the proposal preamble.

Risks: The risk addressed is the current and future threat of climate change to public health and welfare, as demonstrated in the 2009 Endangerment and Cause or Contribute Findings for Greenhouse Gases Under Section 202(a) of the Clean Air Act. The EPA made this determination based primarily upon the recent, major assessments by the U.S. Global Change Research Program (USGCRP), the National Research Council (NRC) of the National Academies and the Intergovernmental Panel on Climate Change (IPCC).

Timetable:

Action | Date | FR Cite
NPRM | 06/18/14 | 79 FR 34829
NPRM Comment Period Extended | 09/25/14 | 79 FR 57492
NPRM Comment Period Extended End | 12/01/14 |
Supplemental NPRM | 11/04/14 | 79 FR 65481
Final Rule | 07/00/15 |
NODA | 10/30/14 | 79 FR 64543
Notice | 11/13/14 | 79 FR 67406

Regulatory Flexibility Analysis Required:Undetermined.

Government Levels Affected: Federal, State, Tribal.

Federalism: This action may have federalism implications as defined in EO 13132.

Energy Effects: Statement of Energy Effects planned as required by Executive Order 13211.

Additional Information: Docket #: EPA-HQ-OAR-2013-0602. Split from RIN 2060-AQ91.

Agency Contact: Melanie King, Environmental Protection Agency, Air and Radiation, D243-01, Research Triangle Park, NC 27711, Phone: 919 541-2469, Email: king.melanie@epamail.epa.gov.

Robert Wayland, Environmental Protection Agency, Air and Radiation, D243-01, Research Triangle Park, NC 27711, Phone: 919 541-1045, Fax: 919 541-5450, Email: Wayland.RobertJ@epamail.epa.gov.

Related RIN: Split from 2060-AQ91

RIN: 2060-AR33

EPA—AR

125. Greenhouse Gas Emissions and Fuel Efficiency Standards for Medium-and Heavy-Duty Engines and Vehicles—Phase 2

Priority: Economically Significant. Major under 5 U.S.C. 801.

Legal Authority: Clean Air Act sec 202(a)

CFR Citation: 40 CFR 1036; 40 CFR 1037; 40 CFR 86.

Legal Deadline: None.

Abstract: During the President's second term, EPA and the Department of Transportation, in close coordination with the California Air Resources Board, will develop a comprehensive National Program for Medium- and Heavy-Duty Vehicle Greenhouse Gas Emission and Fuel Efficiency Standards for model years beyond 2018. These second sets of standards would further reduce greenhouse gas emissions and fuel consumption from a wide range of on-road vehicles from semi-trucks to the largest pickup trucks and vans, and all types and sizes of work trucks and buses. This action will be in continued response to the President's directive to take coordinated steps to produce a new generation of clean vehicles. This action follows the first ever Greenhouse Gas Emissions Standards and Fuel Efficiency Standards for Medium- and Heavy-Duty Engines and Vehicles (75 FR September 15, 2011).

Statement of Need: Under Clean Air Act authority, EPA has determined that emissions of greenhouse gases from new motor vehicles and engines cause or contribute to air pollution that may reasonably be anticipated to endanger public health and welfare. Therefore, there is a need to reduce GHG emissions from medium- and heavy-duty vehicles to protect public health and welfare. The medium- and heavy-duty truck sector accounts for approximately 18 percent of the U.S. mobile source GHG emissions and is the second largest mobile source sector. GHG emissions from this sector are forecast to continue increasing rapidly; reflecting the anticipated impact of factors such as economic growth and increased movement of freight by trucks. This rulemaking would significantly reduce GHG emissions from future medium- and heavy-duty vehicles by setting GHG standards that will lead to the introduction of GHG reducing vehicle and engine technologies.

Summary of Legal Basis: The Clean Air Act section 202(a)(1) states that The Administrator shall by regulation prescribe (and from time to time revise) in accordance with the provisions of this section, standards applicable to the emission of any air pollutant from any class or classes of new motor vehicles or new motor vehicle engines, which in his judgment cause, or contribute to, air pollution which may reasonably be anticipated to endanger public health or welfare. Section 202(a) covers all on-highway vehicles including medium- and heavy-duty trucks. In April 2007, the Supreme Court found in Massachusetts v. EPA that greenhouse gases fit well within the Acts definition of air pollutant and that EPA has statutory authority to regulate emission of such gases from new motor vehicles. Lastly, in April 2009, EPA issued the Proposed Endangerment and Cause-or-Contribute Findings for Greenhouse Gases under the Clean Air Act. The endangerment proposal stated that greenhouse gases from new motor vehicles and engines cause or contribute to air pollution that may reasonably be anticipated to endanger public health and welfare.

Alternatives: The rulemaking proposal will include an evaluation of regulatory alternatives. In addition, the proposal is expected to include tools such as averaging, banking, and trading of emissions credits as an alternative approach for compliance with the proposed program.

Anticipated Cost and Benefits: Detailed analysis of economy-wide cost impacts, greenhouse gas emission reductions, and societal benefits will be performed during development of the proposed rule.

Risks: The failure to set new GHG standards for medium- and heavy-duty trucks is likely to result in cumulative increases in GHG emissions from the trucking industry over time and therefore increased the risk of unacceptable climate change impacts.

Timetable:

Action | Date | FR Cite
NPRM | 03/00/15 |
Final Rule | 02/00/16 |

Regulatory Flexibility Analysis Required:Yes.

Small Entities Affected: Businesses.

Government Levels Affected: Federal, State.

Agency Contact: Matt Spears, Environmental Protection Agency, Air and Radiation, Mail Code: ASD1, Ann Arbor, MI 48105, Phone: 734 214-4921, Fax: 734 214-4816, Email: spears.mattew@epa.gov.

Charles Moulis, Environmental Protection Agency, Air and Radiation, NFEVL, Ann Arbor, MI 48105, Phone: 734 214-4826.

RIN: 2060-AS16

EPA—AR

126. Renewable Fuel 2015 Volume Standards

Priority: Other Significant.

Legal Authority: Clean Air Act sec 211(o)

CFR Citation: 40 CFR 80.1401.

Legal Deadline: None.

Abstract: In response to the Energy Independence and Security Act (EISA) which amended the Clean Air Act Section 211(o), EPA finalized the RFS2 Program regulations. The new provisions also require EPA to promulgate regulations that specify the annual statutory volume requirements for renewable fuels, including cellulosic, biofuel, bio-mass-based diesel, advanced biofuel, and total renewable fuel that must be used in transportation fuel annually. In the case of the cellulosic biofuel standard, the act specifically requires that the standard be set based on the volume projected to be available during the following year. If the volumes are lower than those specified under the act, then EPA may also lower the advanced biofuel and total renewable fuel standards each year accordingly. Further, the act requires the Administrator to promulgate rules establishing the applicable volumes of biomass-based diesel for 2013 and beyond and to do so no later than 14 months before the year for which such applicable volume would apply. The actions summarized here will propose and finalize the 2016 biomass based diesel (BBD) volume along with the 2015 standards. This regulatory action will establish, as required, the annual statutory volume requirements for the RFS2 fuel categories (cellulosic, biomass-based diesel, advanced biofuel, and renewable fuel) that apply to all gasoline and diesel produced or imported in 2015 and set, at minimum, the 2016 requirement. Entities potentially affected by this rule are those involved with the production, distribution, and sale of transportation fuels, including gasoline and diesel fuel or renewable fuels such as ethanol and biodiesel.

Statement of Need: EPA is developing this rule under the Congressional mandate in the Energy Independence and Security Act (EISA) of 2007.

Summary of Legal Basis: EPA is developing this rule under Clean Air Act Section 211(o).

Alternatives: Alternatives are being developed as part of the forthcoming proposal.

Anticipated Cost and Benefits: Cost and benefit information is being developed as part of the forthcoming proposal.

Risks: The risks are those addressed by EISA—i.e., energy insecurity and dependence on foreign sources.

Timetable:

Action | Date | FR Cite
NPRM | 05/00/15
Final Rule | 08/00/15

Regulatory Flexibility Analysis Required: No.

Small Entities Affected: No.

Government Levels Affected: None.

Energy Effects: Statement of Energy Effects planned as required by Executive Order 13211.

International Impacts: This regulatory action will be likely to have international trade and investment effects, or otherwise be of international interest.

Sectors Affected: 325199 All Other Basic Organic Chemical Manufacturing; 325193 Ethyl Alcohol Manufacturing; 424690 Other Chemical and Allied Products Merchant Wholesalers; 454319 Other Fuel Dealers; 424710 Petroleum Bulk Stations and Terminals; 324110 Petroleum Refineries; 424720 Petroleum and Petroleum Products Merchant Wholesalers (except Bulk Stations and Terminals)

URL for More Information: http://www.epa.gov/otaq/fuels/renewablefuels/.

Agency Contact: David Korotney, Environmental Protection Agency, Air and Radiation, N27, Ann Arbor, MI 48105, Phone: 734 214-4507, Email: korotney.david@epa.gov.

Paul Argyropoulos, Environmental Protection Agency, Air and Radiation, 6401A, Washington, DC 20460, Phone: 202 564-1123, Email: argyropoulos.paul@epa.gov.

RIN: 2060-AS22

EPA—OFFICE OF CHEMICAL SAFETY AND POLLUTION PREVENTION (OCSPP)

Proposed Rule Stage

127. Pesticides; Certification of Pesticide Applicators

Priority: Other Significant.

Legal Authority: 7 U.S.C. 136 7 U.S.C. 136i 7 U.S.C. 136w.

CFR Citation: 40 CFR 156; 40 CFR 171.

Legal Deadline: None.

Abstract: EPA is developing a proposed rule to revise the federal regulations governing the certified pesticide applicator program, based on years of extensive stakeholder engagement and public meetings, to ensure that they adequately protect applicators, the public, and the environment from potential harm due to exposure to restricted use pesticides (RUPs). This action is intended to improve the training and awareness of certified applicators of RUPs and to increase protection for noncertified applicators of RUPs operating under the direct supervision of a certified applicator through enhanced pesticide safety training and standards for supervision of noncertified applicators.

Statement of Need: Change is needed to strengthen the protections for pesticide applicators, the public, and the environment from harm due to pesticide exposure.

Summary of Legal Basis: This action is issued under the authority of the Federal Insecticide, Fungicide, and Rodenticide Act (FIFRA), as amended, 7 U.S.C.s 136-136y, particularly sections 136a(d), 136i, and 136w.

Alternatives: In the years prior to the development of this rulemaking, EPA pursued non-regulatory approaches to protect applicators, the public, and the environment from potential harm due to exposure to RUPs. For example, the Agency developed mechanisms to improve applicator trainers and make training materials more accessible. EPA has also developed nationally relevant training and certification materials to preserve state resources while improving competency. However, the non-regulatory approaches did not address other requisite needs for improving protections, such as the requirements for determining competency and recertification that are being considered in this rulemaking.

Anticipated Cost and Benefits: Although subject to change as the proposal is developed, EPA currently estimates incremental costs of about $44 million annually and unquantified, long term health benefits to certified applicators, the noncertified applicators they supervise, and their families. These benefits arise from reducing their daily risk of pesticide exposures and reduced risk of chronic illness. This information will be updated once the proposal is issued.

Risks: Applicators are at risk from exposure to pesticides they handle for their work. The public and the environment may also be at risk from misapplication by applicators without appropriate training. Revisions to the regulations are expected to minimize these risks by ensuring the competency of certified applicators.

Timetable:

Action | Date | FR Cite
NPRM | 05/00/15

Regulatory Flexibility Analysis Required: No.

Small Entities Affected: No.

Government Levels Affected: Federal, State, Local, Tribal.

Additional Information: Docket #: EPA-HQ-OPP-2005-0561. http://epa.gov/sbrefa/pesticide-applicators.html. This action includes retrospective review under EO 13563; see: http://www.epa.gov/regdarrt/retrospective/history.html.

Sectors Affected: 111 Crop Production; 32532 Pesticide and Other Agricultural Chemical Manufacturing; 5617 Services to Buildings and Dwellings; 9241 Administration of Environmental Quality Programs.

URL for More Information: http://www.epa.gov/pesticides/health/worker.htm.

Agency Contact: Kathy Davis, Environmental Protection Agency, Office of Chemical Safety and Pollution Prevention, 7506P, Washington, DC 20460, Phone: 703 308-7002, Fax: 703 308-2962, Email: davis.kathy@epa.gov.

Jeanne Kasai, Environmental Protection Agency, Office of Chemical Safety and Pollution Prevention, PYS1162, Washington, DC 20460, Phone: 703 308-3240, Fax: 703 308-3259, Email: kasai.jeanne@epa.gov.

RIN: 2070-AJ20

EPA—OCSPP

128. Polychlorinated Biphenyls (PCBS); Reassessment of Use Authorizations

Priority: Other Significant. Major status under 5 U.S.C. 801 is undetermined.

Unfunded Mandates: Undetermined.

Legal Authority: 15 U.S.C. 2605 “TSCA 6(e)”.

CFR Citation: 40 CFR 761.

Legal Deadline: None.

Abstract: The EPA's regulations governing the use of Polychlorinated Biphenyls (PCBs) in electrical equipment and other applications were first issued in the late 1970s and have not been updated since 1998. The EPA has initiated rulemaking to reassess the ongoing authorized uses of PCBs to determine whether certain use authorizations should be ended or phased out because they can no longer be justified under section 6(e) of the Toxic Substances Control Act, which requires that the authorized use will not present an unreasonable risk of injury to health and the environment. As the first step in this reassessment, the EPA published an Advanced Notice of Proposed Rulemaking (ANPRM) on April 7, 2010 and took comment through August 20, 2010. The EPA reviewed and considered all comments received on the ANPRM in planning the current rulemaking. This action will address the following specific areas: (1) The use, distribution in commerce, marking and storage for reuse of liquid PCBs in electric equipment; (2) improvements to the existing use authorization for natural gas pipelines; and (3) definitional and other regulatory “fixes”. The reassessment of use authorizations related to liquid PCBs in equipment will focus on small capacitors in fluorescent light ballasts, large capacitors, transformers and other electrical equipment. In addition, revised testing, characterization, and reporting requirements for PCBs in natural gas pipeline systems to provide more transparency for the Agency and the public when PCB releases occur will be considered. Consistent with Executive Order 13563, “Improving Regulation and Regulatory Review”, wherever possible and consistent with the overall objectives of this rulemaking, the Agency will also eliminate or fix regulatory inefficiencies noted by the Agency or in public comments on the ANPRM.

Statement of Need: EPA is reassessing authorized uses of PCBs to determine whether certain uses should be ended or phased out because they can no longer be justified under section 6(e) of the Toxic Substances Control Act, which requires that the authorized use will not present an unreasonable risk of injury to health and the environment. A rulemaking is needed to revise or revoke any PCB use authorizations that no longer meet the TSCA unreasonable risk standard.

Summary of Legal Basis: The authority for this action comes from TSCA section 6(e)(2)(B) and (C) of TSCA (15 U.S.C. 605(e)(2)(B) and (C)), as well as TSCA section 6(e)(1)(B) (15 U.S.C. 2605(e)(1)(B)).

Alternatives: EPA published an Advanced Notice of Proposed Rulemaking (ANPRM) on April 7, 2010 and took comment through August 20, 2010. EPA reviewed and considered all comments received on the ANPRM in planning the current rulemaking. If EPA determines that certain authorized uses of PCBs can no longer be justified under TSCA section 6(e), EPA will evaluate options for ending or phasing out those uses.

Anticipated Cost and Benefits: In developing a proposed rule, EPA will also evaluate the costs and benefits of the options under consideration, which will be used to inform the decision-makers of the potential impacts. Once decisions regarding the proposed rule are made, information on the potential costs and benefits of the action will be available.

Risks: PCBs are toxic, persist in the environment and bioaccumulate in food chains and, thus, pose risks to human health and ecosystems. Once in the environment, PCBs do not readily break down and therefore may remain for long periods of time cycling between air, water, and soil. PCBs can be carried long distances and have been found in snow and sea water in areas far away from where they were released into the environment. As a consequence, PCBs are found all over the world. In general, the lighter the form of PCB, the further it can be transported from the source of contamination. PCBs can accumulate in the leaves and above-ground parts of plants and food crops. They are also taken up into the bodies of small organisms and fish. Humans may be exposed to PCBs through diet by eating contaminated fish and shellfish, and consuming contaminated milk, meat, and their by-products. Infants may be exposed through breast milk, and unborn children may exposed while in the womb. In addition, humans may exposed by breathing contaminated indoor air in buildings where electrical equipment contains PCBs or by coming into contact with PCB-contaminated liquids that have leaked from electrical equipment. Health effects associated with exposure to PCBs in humans and/or animals include liver, thyroid, dermal and ocular changes, immunological alterations, neurodevelopmental changes, reduced birth weight, reproductive toxicity, and cancer. EPA is currently evaluating the possible risks presented by ongoing uses of PCBs that may be addressed by this action.

Timetable:

Action | Date | FR Cite
ANPRM | 04/07/10 | 75 FR 17645
ANPRM Comment Period Extended | 06/16/10 | 75 FR 34076
NPRM | 07/00/15

Regulatory Flexibility Analysis Required: Undetermined.

Government Levels Affected: Local, State, Tribal.

Federalism: This action may have federalism implications as defined in EO 13132.

Additional Information: Docket #: EPA-HQ-OPPT-2009-0757.

Sectors Affected: 22 Utilities; 31-33 Manufacturing; 48-49 Transportation and Warehousing; 53 Real Estate and Rental and Leasing; 54 Professional, Scientific, and Technical Services; 562 Waste Management and Remediation Services; 811 Repair and Maintenance; 92 Public Administration.

URL For More Information: http://www.epa.gov/pcb.

Agency Contact: Sara Kemme, Environmental Protection Agency, Office of Chemical Safety and Pollution Prevention, 7404T, Washington, DC 20460, Phone: 202 566-0511, Fax: 202 566-0473, Email: kemme.sara@epa.gov.

Peter Gimlin, Environmental Protection Agency, Office of Chemical Safety and Pollution Prevention, 7404T, Washington, DC 20460, Phone: 202 566-0515, Fax: 202 566-0473, Email: gimlin.peter@epa.gov.

RIN: 2070-AJ38

EPA—OCSPP

129. Lead; Renovation, Repair, and Painting Program for Public and Commercial Buildings

Priority: Economically Significant. Major under 5 U.S.C. 801.

Unfunded Mandates: Undetermined.

Legal Authority: 15 U.S.C. 2682(c)(3)

CFR Citation: 40 CFR 745.

Legal Deadline: Other, Judicial, April 22, 2010, ANPRM—2009 Settlement agreement.

NPRM, Judicial, July 1, 2015, Deadline from 2012 amended; Settlement agreement.

Final, Judicial, January 1, 2017, Deadline from 2012 amended; Settlement agreement.

Per 9/7/2012 Amended Settlement Agreement in National Assoc. of Homebuilders v. EPA.

Abstract: Section 402(c)(3) of the Toxic Substances Control Act (TSCA) requires the EPA to regulate renovation or remodeling activities in target housing (most pre-1978 housing), pre-1978 public buildings, and commercial buildings that create lead-based paint hazards. On April 22, 2008, the EPA issued a final rule to address lead-based paint hazards created by these activities in target housing and child-occupied facilities (child-occupied facilities are a subset of pre-1978 public and commercial buildings where children under age 6 spend a significant amount of time). The 2008 rule established requirements for training renovators, other renovation workers, and dust sampling technicians; for certifying renovators, dust sampling technicians, and renovation firms; for accrediting providers of renovation and dust sampling technician training; for renovation work practices; and for recordkeeping. After the 2008 rule was published, the EPA was sued, in part, for failing to address potential hazards created by the renovation of public and commercial buildings. In the settlement agreement and subsequent amendments, the EPA agreed to commence proceedings to determine whether or not renovations of public and commercial buildings create hazards. Further, if these activities do create hazards, the EPA agreed to propose work practice and other requirements by July 1, 2015, and to take final action, if appropriate, no later than 18 months after the proposal.

Statement of Need: This rulemaking is being undertaken in response to a settlement agreement and is designed to help insure that individuals and firms conducting renovation, repair, and painting activities in and on public and commercial buildings will do so in a way that safeguards the environment and protects the health of building occupants and nearby residents, especially children under 6 years old. EPA has conducted several studies and reviewed additional information that indicates that the renovation of buildings containing lead-based paint can create health hazards in the form of lead-based paint dust under typical industry work practices.

Summary of Legal Basis: Section 402(c)(3) of the Toxic Substances Control Act (TSCA) requires EPA to regulate renovation or remodeling activities that create lead-based paint hazards in target housing, public buildings built before 1978, and commercial buildings.

Alternatives: For those activities that EPA determines create lead-based paint hazards, EPA will evaluate options to address the hazards. These options are likely to include different combinations of work practices and worker training and certification.

Anticipated Cost and Benefits: Not yet determined. A detailed analysis of costs and benefits will be performed during development of the proposed rule.

Risks: Lead is known to cause deleterious health effects on multiple organ systems through diverse mechanisms of action in both adults and children. This array of health effects includes effects on heme biosynthesis and related functions, neurological development and function, reproduction and physical development, kidney function, cardiovascular function, and immune function. EPA is evaluating information on renovation activity patterns in public and commercial buildings to estimate exposures to lead dust from RRP activities in those buildings.

Timetable:

Action | Date | FR Cite
ANPRM | 05/06/10 | 75 FR 24848
Notice | 12/31/12 | 77 FR 76996
Notice | 05/13/13 | 78 FR 27906
Notice | 05/30/14 | 79 FR 31072
Notice | 08/06/14 | 79 FR 45796
NPRM | 07/00/15
Final Rule | To Be Determined

Regulatory Flexibility Analysis Required: Undetermined.

Government Levels Affected: Undetermined.

Federalism: Undetermined.

Additional Information: Docket #: EPA-HQ-OPPT-2010-0173.

Sectors Affected: 236210 Industrial Building Construction; 236220 Commercial and Institutional Building Construction; 238150 Glass and Glazing Contractors; 238170 Siding Contractors; 238210 Electrical Contractors and Other Wiring Installation Contractors; 238220 Plumbing, Heating, and Air-Conditioning Contractors; 238310 Drywall and Insulation Contractors; 238320 Painting and Wall Covering Contractors; 238340 Tile and Terrazzo Contractors; 238350 Finish Carpentry Contractors; 238390 Other Building Finishing Contractors; 531120 Lessors of Nonresidential Buildings (except Miniwarehouses); 531312 Nonresidential Property Managers; 921190 Other General Government Support.

URL for More Information: http://www2.epa.gov/lead.

Agency Contact: Hans Scheifele, Environmental Protection Agency, Office of Chemical Safety and Pollution Prevention, 7404T, Washington, DC 20460, Phone: 202 564-3122, Email: Scheifele.Hans@epa.gov.

Cindy Wheeler, Environmental Protection Agency, Office of Chemical Safety and Pollution Prevention, 7404T, Washington, DC 20460, Phone: 202 566-0484, Email: wheeler.cindy@epa.gov.

RIN: 2070-AJ56

EPA—SOLID WASTE AND EMERGENCY RESPONSE (SWER)

Proposed Rule Stage

130. Revisions to the National Oil and Hazardous Substances Pollution Contingency Plan; Subpart J Product Schedule Listing Requirements

Priority: Other Significant.

Legal Authority:33 U.S.C. 1321(d)(2); 33 U.S.C. 1321(b)(3); 33 U.S.C. 1321(j)

CFR Citation: 40 CFR 300; 40 CFR 110.

Legal Deadline: None.

Abstract:The Clean Water Act requires EPA to prepare a schedule identifying dispersants, other chemicals, and other spill mitigating devices and substances, if any, that may be used in carrying out the National Contingency Plan (NCP); and the waters and quantities in which they may be used. The EPA is considering revising subpart J of the NCP to address the efficacy, toxicity, and environmental monitoring of dispersants, other chemical and biological agents, and other spill mitigating substances, as well as public, state, local, and federal officials concerns on their authorization and use. Specifically, the Agency is considering revisions to the technical product requirements under subpart J, including amendments to the effectiveness and toxicity testing protocols, and establishing new effectiveness and toxicity thresholds for listing certain products on the Schedule. Additionally, the Agency is considering amendments to area planning requirements for agent use authorization and advanced monitoring techniques. The Agency is also considering revisions to harmonize 40 CFR part 110.4 with the definitions for chemical and biological agents proposed for subpart J. These changes, if finalized, will help ensure that chemical and biological agents have met rigorous efficacy and toxicity requirements, that product manufacturers provide important use and safety information, and that the planning and response community is equipped with the proper information to authorize and use the products in a judicious and effective manner.

Statement of Need: The use of dispersants in response to the Deepwater Horizon incident, both on surface slicks and injected directly into the oil from the well riser, raised many questions about efficacy, toxicity, environmental trade-offs, and monitoring challenges. The Agency is considering amendments to subpart J that would increase the overall scientific soundness of the data collected on mitigation agents, take into consideration not only the efficacy but also the toxicity, long-term environmental impacts, endangered species protection, and human health concerns raised during responses to oil discharges, including the Deepwater Horizon incident. The additional data requirements being considered would aid On-Scene Coordinators (OSCs) and Regional Response Teams (RRTs) when evaluating specific product information and when deciding whether and which products to use to mitigate hazards caused by discharges or threatened discharges of oil. Additionally, the Agency is considering amendments to area planning requirements for dispersant use authorization, toxicity thresholds and advanced monitoring techniques. This action is a major component of the EPA's effort to inform the use of dispersants and other chemical or biological agents when responding to oil discharges, based on lessons learned from the federal government's experiences in responding to off-shore oil discharges, including the Deepwater Horizon incident, in the Gulf of Mexico and anticipation of the expansion of oil exploration and production activities in the Arctic.

Summary of Legal Basis: The Federal Water Pollution Control Act (FWPCA) requires the President to prepare and publish a National Contingency Plan (NCP) for the removal of oil and hazardous substances. In turn, the President delegated the authority to implement this section of the FWPCA to the EPA through Executive Order 12777 (56 FR 54757; October 22, 1991). Section 311(d)(2)(G)(i) of the FWPCA (a.k.a., Clean Water Act), as amended by the OPA, requires that the NCP include a schedule identifying “dispersants, other chemicals, and other spill mitigating devices and substances, if any, that may be used in carrying out” the NCP. Currently, the use of dispersants, other chemicals, and other oil spill mitigating devices and substances (e.g., bioremediation agents) to respond to oil discharges in U.S. waters is governed by subpart J of the NCP (40 CFR part 300 series 900).

Alternatives:The Agency will consider alternatives via the proposal that address the efficacy, toxicity, and environmental monitoring of dispersants, and other chemical and biological agents, as well as public, state, local, and federal officials' concerns regarding their use. Specifically, the alternative requirements for the NCP Product Schedule (Schedule) consider new listing criteria, revisions to the efficacy and toxicity testing protocols, and clarifications to the evaluation criteria for removing products from the Schedule. EPA is also considering alternatives to the requirements for the authorities, notifications, monitoring, and data reporting when using chemical or biological agents in response to oil discharges in waters of the U.S. The alternatives being considered are intended to encourage the development of safer and more effective spill mitigating products, to better target the use of these products in order to reduce the risks to human health and the environment, and to ensure that On-Scene Coordinators (OSCs), Regional Response Teams (RRTs), and Area Committees have sufficient information to support agent preauthorization or authorization of use decisions.

Anticipated Cost and Benefits: The Agency expects the proposed rule, if finalized, would provide overall net benefits as a result of having more effective products on the Schedule, as well as from avoided costs of oil spill response and cleanup. Costs to product manufacturers would be incremental annual costs for product testing and labor. For certain discharges, costs to the party responsible for the spill would be added for monitoring requirements. A detailed costs and benefits analysis will be available with the proposal.

Risks:Although major catastrophic oil discharges where chemical or biological agents may be used are relatively infrequent, this proposed rulemaking under subpart J should lead to the manufacture and use of less toxic, more effective oil spill mitigating products. The use of these products may reduce the potential for human and environmental impact, emergency response duration, and costs associated with any oil discharge. However, the impacts will vary greatly depending on factors that include the size, location and duration of an oil discharge, as well as, the type of oil being discharged. While the reduction in environmental impacts associated with the use of oil spill mitigating agents driven by this action are likely small for typical oil discharges, they could be significant in the event of a large oil discharge.

Timetable:

Action | Date | FR Cite
NPRM | 12/00/14 |

Regulatory Flexibility Analysis Required:No.

Small Entities Affected:No.

Government Levels Affected:Federal, Local, State, Tribal.

Additional Information:Docket #: EPA-HQ-OPA-2006-0090.

Sectors Affected:325 Chemical Manufacturing; 424 Merchant Wholesalers, Nondurable Goods; 211 Oil and Gas Extraction; 541 Professional, Scientific, and Technical Services; 562 Waste Management and Remediation Services.

URL For More Information: http://www.epa.gov/oem/.

Agency Contact:Vanessa Principe, Environmental Protection Agency, Solid Waste and Emergency Response, 5104A, Washington, DC 20460, Phone: 202 564-7913, Fax: 202 564-2625, Email: principe.vanessa@epa.gov.

Craig Matthiessen, Environmental Protection Agency, Solid Waste and Emergency Response, 5104A, Washington, DC 20460, Phone: 202 564-8016, Fax: 202 564-2625, Email: mattheissen.craig@epa.gov.

RIN: 2050-AE87

EPA—SWER

131. • User Fee Schedule for Electronic Hazardous Waste Manifest

Priority:Other Significant. Major status under 5 U.S.C. 801 is undetermined.

Legal Authority:Pub. L. 112-195

CFR Citation:Undetermined.

Legal Deadline:None.

Abstract: After promulgation of the first e-Manifest regulation in February 2014 to authorize the use of electronic manifests and to codify key provisions of the Hazardous Waste Electronic Manifest Establishment Act (or Act), the EPA is moving forward on the development of the separate e-Manifest User Fee Schedule Regulation. The Act authorizes the EPA to impose on manifest users reasonable service fees that are necessary to pay costs incurred in developing, operating, maintaining and upgrading the system, including costs incurred in collecting and processing data from any paper manifest submitted to the system after the date on which the system enters operation. EPA plans to issue both a proposed and final rule in setting the appropriate electronic manifest and manifest fees. The EPA intends to propose for comment the fee methodology for establishing the electronic manifest and paper service fees. The EPA plans in a final rule to establish a program of fees that will be imposed on users of the e-Manifest system and announce the user fee schedule for manifest-related activities, including activities associated with the collection and processing of paper manifests submitted to the EPA. EPA also plans in that final rule to announce (1) the date upon which the EPA will be ready to transmit and receive manifests through the national e-Manifest system and (2) the date upon which the user community must comply with the new e-Manifest regulation.

Statement of Need: On February 7, 2014, the EPA promulgated the e-Manifest Final rule, in order to comply with the Hazardous Waste Electronic Manifest Establishment Act, which required the EPA to issue a regulation authorizing electronic manifests by October 5, 2013. In issuing that rule, the EPA completed an important step that must precede the development of a national e-Manifest system, as required by the Hazardous Waste Electronic Manifest Establishment Act. This rule is the second regulation that must precede the development of the e-Manifest system. This action will implement the broad discretion granted on the Agency to establish reasonable user fees for the various activities associated with using and submitting electronic and paper manifests to the national system. Additionally, OMB Circular A-25 on User Charges provides that agencies of the executive branch must generally set user fee charges or fees through regulation.

Summary of Legal Basis:Section 2(c) of the e-Manifest Act authorizes the EPA to impose on manifest users reasonable user fees to pay any costs incurred in developing, operating, maintaining, and upgrading the system, including any costs incurred in collecting and processing data from any paper manifest submitted to the system. Thus, this Action will implement the broad discretion granted on the Agency to establish reasonable user fees for the various activities associated with using and submitting electronic and paper manifests to the national system.

Alternatives:The EPA plans to issue rulemaking to establish the appropriate electronic manifest and paper manifest fees. Specifically, EPA will explore options for who will pay user fees, the most efficient point in the process for collecting the fees, and the fee methodologies and fee formulas that relate to setting the fees.

Anticipated Cost and Benefits:When the e-Manifest Final Rule was published in February 2014, the Agency deferred the development of the detailed risk impact analysis (RIA) for the e-Manifest system until the User Fee Schedule Rule. Thus, the RIA for the proposed User Fee Schedule Rule will not be limited to the impacts of the user fees announced in the rule, but will also estimate the costs and benefits of the overall e-Manifest system. The primary costs in the e-Manifest RIA will be the cost to build the system, the costs for industry and state governments to connect to the system, and the cost to run the system. The most significant benefit of the e-Manifest system estimated in the RIA will be reduced burden for industry to comply with RCRA manifesting requirements, and the reduced burden on states that collect and utilize manifest data for program management purposes.

Risks:This action does not address any particular risks in the EPA's jurisdiction as it does not change existing requirements for manifesting hazardous waste shipments. It will merely propose for comment our fee methodology for setting the appropriate fees of electronic manifests, and paper manifests that continue in use, at such time as the system to receive them is built and operational.

Timetable:

Action | Date | FR Cite
NPRM | 10/00/15 |

Regulatory Flexibility Analysis Required:Undetermined.

Government Levels Affected: Federal, Local, State.

Additional Information:Docket #: EPA-HQ-RCRA-2001-0032.

Sectors Affected:11 Agriculture, Forestry, Fishing and Hunting; 23 Construction; 51 Information; 31-33 Manufacturing; 21 Mining, Quarrying, and Oil and Gas Extraction; 92 Public Administration; 44-45 Retail Trade; 48-49 Transportation and Warehousing; 22 Utilities; 562 Waste Management and Remediation Services; 42 Wholesale Trade.

URL for More Information: http://www.epa.gov/epawaste/hazard/transportation/manifest/e-man.htm.

Agency Contact:Rich LaShier, Environmental Protection Agency, Solid Waste and Emergency Response, 5304P, Washington, DC 20460, Phone: 703 308-8796, Fax: 703 308-0514, Email: LaShier.Rich@epa.gov.

Bryan Groce, Environmental Protection Agency, Solid Waste and Emergency Response, 5304P, Washington, DC 20460, Phone: 703 308-8750, Fax: 703 308-0514, Email: Groce.Bryan@epa.gov.

RIN: 2050-AG80

EPA—SWER

132. • Modernization of the Accidental Release Prevention Regulations Under Clean Air Act

Priority:Other Significant. Major status under 5 U.S.C. 801 is undetermined.

Unfunded Mandates:Undetermined.

Legal Authority:42 U.S.C. 7412(r)

CFR Citation:40 CFR 68.

Legal Deadline:None.

Abstract:In response to Executive Order 13650, the EPA is considering potential revisions to its Risk Management Program regulations and related programs. The Agency may consider changes to the list of regulated substances and threshold quantities, addition of new accident prevention or emergency response program elements and/or changes to existing elements, and/or other changes to the existing regulatory provisions.

Statement of Need:On August 1, 2013, President Obama signed Executive order 13650, entitled Improving Chemical Facility Safety and Security. The Executive order establishes the Chemical Facility Safety and Security Working Group (“Working Group”), co-chaired by the Secretary of Homeland Security, the Administrator of the EPA, and the Secretary of Labor or their designated representatives at the Assistant Secretary level or higher, and composed of senior representatives of other Federal departments, agencies, and offices. The Executive order requires the Working Group to carry out a number of tasks whose overall aim is to prevent chemical accidents, such as the explosion that occurred at the West Fertilizer facility in West, Texas, on April 17, 2013. Section 6 of the Executive order is entitled “Policy, Regulation, and Standards Modernization”, and among other things, requires certain federal agencies to consider possible changes to existing chemical safety and security regulations. On July 31, 2014, the EPA issued a Request for Information (RFI) to solicit stakeholder feedback on a number of potential modifications to the RMP regulations. This NPRM is expected to contain a number of proposed modifications to the RMP regulations based on stakeholder feedback received from the RFI.

Summary of Legal Basis:The statutory authority for this action is provided by section 112(r) of the Clean Air Act (CAA) as amended (42 U.S.C. 7412(r)).

Alternatives:Alternatives will be considered during the development of the proposal.

Anticipated Cost and Benefits:Benefits and costs will be examined in detail during the development of the proposal. For any proposed regulatory changes, EPA expects that benefits will be due to prevented costs of accidental releases (e.g., through covering additional hazardous chemical processes, or addition or improvement of accident prevention program requirements), or reduced costs of accidental releases that do occur (e.g., due to improvements in release detection or emergency response procedures). Costs will relate to coverage of any additional sources or implementation of any additional accident prevention or emergency response program requirements that are imposed.

Risks:Risks will be examined during the development of the proposal.

Timetable:

Action | Date | FR Cite
NPRM | 09/00/15 |

Regulatory Flexibility Analysis Required:Undetermined.

Government Levels Affected:Federal, Local, State.

Federalism:Undetermined.

Sectors Affected:11 Agriculture, Forestry, Fishing and Hunting; 444 Building Material and Garden Equipment and Supplies Dealers; 325 Chemical Manufacturing; 445 Food and Beverage Stores; 45431 Fuel Dealers; 424 Merchant Wholesalers, Nondurable Goods; 21 Mining, Quarrying, and Oil and Gas Extraction; 32411 Petroleum Refineries; 486 Pipeline Transportation; 3221 Pulp, Paper, and Paperboard Mills; 482 Rail Transportation; 488 Support Activities for Transportation; 221 Utilities; 493 Warehousing and Storage; 562 Waste Management and Remediation Services.

URL For More Information: http://www2.epa.gov/rmp.

Agency Contact:James Belke, Environmental Protection Agency, Solid Waste and Emergency Response, 5104A, Washington, DC 20460, Phone: 202 564-8023, Fax: 202 564-8444, Email: belke.jim@epa.gov.

Kathy Franklin, Environmental Protection Agency, Solid Waste and Emergency Response, 5104A, Washington, DC 20460, Phone: 202 564-7987, Fax: 202 564-2625, Email: Franklin.Kathy@epa.gov.

RIN: 2050-AG82

EPA—AIR AND RADIATION (AR)

Final Rule Stage

133. Petroleum Refinery Sector Risk and Technology Review and New Source Performance Standards

Priority: Other Significant. Major under 5 U.S.C. 801.

Legal Authority: Clean Air Act sec 111 and 112

CFR Citation: 40 CFR 60; 40 CFR 63.

Legal Deadline: NPRM, Judicial, May 15, 2014, Consent decree deadline for proposed rule—Air Alliance Houston, et al. v. McCarthy; 12-1607 (RMC); USDC for the District of Columbia filed 1/13/14.

Final, Judicial, April 17, 2015, Consent decree deadline for final rule—Air Alliance Houston, et al. v. McCarthy; 12-1607 (RMC); USDC for the District of Columbia filed 1/13/14.

Abstract: This action pertains to the Petroleum Refining industry and specifically to petroleum refinery sources that are subject to maximum achievable control technology (MACT) standards in 40 CFR part 63, subparts CC (Refinery MACT 1) and UUU (Refinery MACT 2) and new source performance standards (NSPS) in 40 CFR part 60, subpart Ja. This action is the Petroleum Refining Sector Rulemaking which will address our obligation to perform Risk and Technology Reviews (RTR) for Petroleum Refinery MACT 1 and 2 source categories and will address issues related to the reconsideration of Petroleum Refinery New Source Performance Standard (NSPS) subpart Ja. Petroleum refineries are facilities engaged in refining and producing products made from crude oil or unfinished petroleum derivatives. Emission sources include petroleum refinery-specific process units unique to the industry, such as fluid catalytic cracking units (FCCU) and catalytic reforming units (CRU), as well as units and processes commonly found at other types of manufacturing facilities (including petroleum refineries), such as storage vessels and wastewater treatment plants. Refinery MACT 1 regulates hazardous air pollutant (HAP) emissions from common processes such as miscellaneous process vents (e.g., delayed coking vents), storage vessels, wastewater, equipment leaks, loading racks, marine tank vessel loading and heat exchange systems at petroleum refineries. Refinery MACT 2 regulates HAP from those processes that are unique to the industry including sulfur recovery units (SRU) and from catalyst regeneration in FCCU and CRU. A proposed rule was signed on 5/15/14 and published in the Federal Register on 6/30/14 (79 FR 36880). The EPA is reviewing comments and preparing a final rule for signature in 2015.

Statement of Need: This proposal is required by Clean Air Act Section 112 to review technology-based standards and revise them as necessary but no less frequently than every eight years under 112 (d)(6) and to review and reduce remaining risk (ie., residual) according to Section 112 (f).

Summary of Legal Basis: Environmental and other public health groups filed a lawsuit alleging that EPA missed statutory deadlines to review and revise Refinery MACT 1 and 2. The EPA reached an agreement to settle this litigation, and in a consent decree filed January 13, 2014 in the U.S. District Court for the District of Columbia, EPA committed to perform the risk and technology review for Refinery MACT 1 and 2 by May 15, 2014 to either propose any regulations or propose that addiitonal regulations are not necessary. Under the consent decree, EPA comitted to take final action by April 17, 2015, establishing regulations pursuant to the risk and technology review or to issue a final determination that revision to the existing rules is not necessary.

Alternatives: Alternatives were discussed in the proposal preamble published on June 30, 2014, at 79 FR 36879.

Anticipated Cost and Benefits: For the proposal, estimated total capital investment—240 million, total annualized cost—42 million; Projected reductions of 52,000 tons VOC, 5,560 tons of HAP.

Risks: The risk addressed is human health risk. The proposal estimated that cancer incidence would be reduced by 15% over the current baseline as a result of proposed amendments.

Timetable:

Action | Date | FR Cite
NPRM | 06/30/14 | 79 FR 36879
NPRM Comment Period Extended | 08/15/14 | 79 FR 48111
Final Rule | 05/00/15 |

Regulatory Flexibility Analysis Required: No.

Small Entities Affected: No.

Government Levels Affected: Federal, Local, State.

Additional Information: Docket #: EPA-HQ-OAR-2010-0682.

Sectors Affected: 324110 Petroleum Refineries.

URL For More Information: http://www.epa.gov/ttn/atw/petrefine/petrefpg.html.

Agency Contact: Brenda Shine, Environmental Protection Agency, Air and Radiation, E143-01, Research Triangle Park, NC 27711, Phone: 919 541-3608, Fax: 919 541-0246, Email: shine.brenda@epamail.epa.gov.

Penny Lassiter, Environmental Protection Agency, Air and Radiation, E143-01, Research Triangle Park, NC 27711, Phone: 919 541-5396, Fax: 919 541-0246, Email: lassiter.penny@epa.gov.

RIN: 2060-AQ75

EPA—AR

134. Standards of Performance for Greenhouse Gas Emissions From New Stationary Sources: Electric Utility Generating Units

Priority: Other Significant.

Legal Authority: CAA 111

CFR Citation: 40 CFR 60.

Legal Deadline: None.

Abstract: This final rule will establish the first new source performance standards for greenhouse gas emissions. This rule will establish carbon dioxide (CO2) emission standards for certain new fossil fuel-fired electric generating units.

Statement of Need: EGU GHG NSPS is the first action item in President Obama's Climate Action Plan (CAP). The CAP called for the EPA to issue a proposal by September 20, 2013 to regulate carbon emissions from fossil fuel-fired power plants.

Summary of Legal Basis: CO2 is a regulated pollutant and this is subject to regulation under section 111 of the Clean Air Act as amended in 1990.

Alternatives: The three alternatives the EPA considered in the BSER analysis for new fossil fuel-fired utility boilers and IGCC units are: (1) Highly efficient new generation that does not include CCS technology, (2) highly efficient new generation with “full capture” CCS and (3) highly efficient new generation with “partial capture” CCS.

We considered two alternatives in evaluating the BSER for new fossil fuel-fired stationary combustion turbines: (1) Modern, efficient NGCC units and (2) modern, efficient NGCC units with CCS.

Anticipated Cost and Benefits: Under a wide range of electricity market conditions—including the EPA's baseline scenario as well as multiple sensitivity analyses—EPA projects that the industry will choose to construct new units that already meet these standards, regardless of this proposal. As a result, the EPA anticipates that the proposed EGU New Source GHG Standards will result in negligible CO2 emission changes, energy impacts, benefits or costs for new units constructed by 2020.

Risks: The risk addressed is the current and future threat of climate change to public health and welfare, as demonstrated in the 2009 Endangerment and Cause or Contribute Finding for Greenhouse Gases Under Section 202(a) of the Clean Air Act. The EPA made this determination based primarily upon the recent, major assessments by the U.S. Global Change Research Program (USGCRP), the National Research Council (NRC) of the National Academies and the Intergovernmental Panel on Climate Change (IPCC).

Timetable:

Action | Date | FR Cite
NPRM | 04/13/12 | 77 FR 22392
NPRM Comment Period Extended | 05/04/12 | 77 FR 26476
Notice | 01/08/14 | 79 FR 1352
Second NPRM | 01/08/14 | 79 FR 1429
Notice | 02/26/14 | 79 FR 10750
Comment Period Extended | 03/06/14 | 79 FR 12681
Final Rule | 01/00/15 |

Regulatory Flexibility Analysis Required: No.

Small Entities Affected: No.

Government Levels Affected: Federal, State, Tribal.

Additional Information: Docket #: EPA-HQ-OAR-2011-0660.

Sectors Affected: 221 Utilities.

URL For Public Comments: http://www.regulations.gov/#!documentDetail;D=EPA-HQ-OAR-2011-0660-0001.

Agency Contact: Nick Hutson, Environmental Protection Agency, Air and Radiation, D243-01, Research Triangle Park, NC 27711, Phone: 919 451-2968, Fax: 919 541-5450, Email: hutson.nick@epa.gov.

Christian Fellner, Environmental Protection Agency, Air and Radiation, D243-01, Research Triangle Park, NC 27711, Phone: 919 541-4003, Fax: 919 541-5450, Email: fellner.christian@epa.gov.

RIN: 2060-AQ91

EPA—AR

135. Implementation of the 2008 National Ambient Air Quality Standards for Ozone: State Implementation Plan Requirements

Priority: Other Significant.

Legal Authority: 42 U.S.C. 7409; 42 U.S.C. 7410; 42 U.S.C. 7511 to 7511f; 42 U.S.C. 7601(a)(1)

CFR Citation: 40 CFR 50; 40 CFR 51; 40 CFR 70; 40 CFR 71.

Legal Deadline: None.

Abstract: This final rule will address a range of state implementation requirements for the 2008 National Ambient Air Quality Standards (NAAQS) for ozone, including requirements pertaining to attainment demonstrations, reasonable further progress, reasonably available control technology, reasonably available control measures, nonattainment new source review, emission inventories, and the timing of State Implementation Plan (SIP) submissions and compliance with emission control measures in the SIP. Other issues also addressed in this final rule are the revocation of the 1997 ozone NAAQS for purposes other than transportation conformity; anti-backsliding requirements that would apply when the 1997 NAAQS are revoked; and the section 185 fee program.

Statement of Need: This rule is needed to establish requirements for what states must include in their state implementation plans (SIPs) to bring nonattainment areas into compliance with the 2008 ozone NAAQS. There is no court-ordered deadline for this final rule. However, the CAA requires the nonattainment area plans addressed by this rule to be developed and submitted by states within 2 to 3 years after the July 20, 2012 date of nonattainment designations.

Summary of Legal Basis: CAA section 110 authorizes EPA to require state planning to attain the NAAQS and to help states implement their plans.

Alternatives: The rule included several alternatives for meeting implementation requirements, including but not limited to options for SIP submittal dates, NOX substitution for VOC in RFP SIPs, alternative baseline years for RFP and alternatives for addressing anti-backsliding requirements once the 1997 ozone NAAQS has been revoked. The EPA solicited comments on a number of topics, including alternative approaches to achieving RFP, RACT flexibility and alternate revocation dates for the 1997 ozone NAAQS.

Anticipated Cost and Benefits: The annual burden for this information collection averaged over the first 3 years is estimated to be a total of 120,000 labor hours per year at an annual labor cost of $2.4 million (present value) over the 3-year period or approximately $91,000 per state for the 26 state respondents, including the District of Columbia. The average annual reporting burden is 690 hours per response, with approximately 2 responses per state for 58 state respondents. There are no capital or operating and maintenance costs associated with the proposed rule requirements. Burden is defined at 5 CFR 1320.3(b).

Risks: Ozone concentrations that exceed the National Ambient Air Quality Standards (NAAQS) to can cause adverse public health and welfare effects, as discussed in the March 27, 2008 Final Rule for NAAQS for Ozone (73 FR 16436).

Timetable:

Action | Date | FR Cite
NPRM | 06/06/13 | 78 FR 34177
NPRM Comment Period Extended | 07/24/13 | 78 FR 44485
Final Rule | 03/00/15 |

Regulatory Flexibility Analysis Required: No.

Small Entities Affected: No.

Government Levels Affected: Federal, Local, State, Tribal.

Additional Information: Docket #: EPA-HQ-OAR-2010-0885.

URL For More Information: http://www.epa.gov/air/ozonepollution/actions.html#impl.

Agency Contact: Karl Pepple, Environmental Protection Agency, Air and Radiation, C539-01, Research Triangle Park, NC 27711, Phone: 206 553-1778, Fax: 919 541-0824, Email: pepple.karl@epa.gov.

Megan Brachtl, Environmental Protection Agency, Air and Radiation, C539-01, Research Triangle Park, NC 27711, Phone: 919 541-2648, Fax: 919 541-5315, Email: brachtl.megan@epa.gov.

RIN: 2060-AR34

EPA—AR

136. Carbon Pollution Standards for Modified and Reconstructed Stationary Sources: Electric Utility Generating Units

Priority: Other Significant.

Legal Authority: CAA 111

CFR Citation: 40 CFR 60.

Legal Deadline: None.

Abstract: This final rule will amend the electric generating units (EGU) New Source Performance Standards for modified and reconstructed facilities for greenhouse gas (GHG) under Clean Air Act section 111(b).

Statement of Need: The issuance of standards of performance for modified and reconstructed power plants is an action item in President Obama's Climate Action Plan (CAP). The CAP calls for the EPA to issue a proposal by no later than June 1, 2014 and to issue a final rule by no later than June 1, 2015.

Summary of Legal Basis: CO2 is a regulated pollutant and thus is subject to regulation under section 111 of the Clean Air Act as amended in 1990.

Alternatives: Alternatives were discussed in the proposal preamble published on June 18, 2014, at 79 FR 34959.

Anticipated Cost and Benefits: The EPA anticipates few covered units will trigger the reconstruction or modification provisions in the period of analysis (through 2025). As a result, we do not anticipate any significant costs or benefits associated with this proposal.

Risks: The risk addressed is the current and future threat of climate change to public health and welfare, as demonstrated in the 2009 Endangerment and Cause or Contribute Findings for Greenhouse Gases under section 202(a) of the Clean Air Act.

Timetable:

Action | Date | FR Cite
NPRM | 06/18/14 | 79 FR 34959
NPRM Comment Period End | 10/16/14 |
Final Rule | 06/00/15 |

Regulatory Flexibility Analysis Required: No.

Small Entities Affected: No.

Government Levels Affected: Federal, State, Tribal.

Additional Information: Docket #: EPA-HQ-OAR-2013-0603.

Agency Contact: Christian Fellner, Environmental Protection Agency, Air and Radiation, D243-01, Research Triangle Park, NC 27711, Phone: 919 541-4003, Fax: 919 541-5450, Email: fellner.christian@epa.gov.

Nick Hutson, Environmental Protection Agency, Air and Radiation, D243-01, Research Triangle Park, NC 27711, Phone: 919 451-2968, Fax: 919 541-5450, Email: hutson.nick@epa.gov.

Related RIN: Related to 2060-AQ91, Related to 2060-AR33

RIN: 2060-AR88

EPA—OFFICE OF CHEMICAL SAFETY AND POLLUTION PREVENTION (OCSPP)

Final Rule Stage

137. Pesticides; Agricultural Worker Protection Standard Revisions

Priority: Other Significant.

Legal Authority: 7 U.S.C. 136w

CFR Citation: 40 CFR 170.

Legal Deadline: None.

Abstract: On March 19, 2014, the EPA proposed to revise the federal regulations issued under the Federal Insecticide, Fungicide, and Rodenticide Act (FIFRA) that direct agricultural worker protection (40 CFR 170). The proposed changes are in response to extensive stakeholder review of the regulation and its implementation since 1992, and reflect current research on how to mitigate occupational pesticide exposure to agricultural workers and pesticide handlers. The EPA is proposing to strengthen the protections provided to agricultural workers and handlers under the worker protection standard by improving elements of the existing regulation, such as training, notification, communication materials, use of personal protective equipment, and decontamination supplies. The EPA expects the revisions, once final, to prevent unreasonable adverse effects from exposure to pesticides among agricultural workers and pesticide handlers; vulnerable groups, such as minority and low-income populations, child farmworkers, and farmworker families; and the general public. The EPA recognizes the importance and independence of family farms and is proposing to expand the immediate family exemption to the WPS.

Statement of Need: Stakeholders have identified gaps in the protections in the current worker protection regulations. Revisions to the regulations are necessary to better protect agricultural workers and pesticide handlers from unreasonable adverse effects of pesticide exposure.

Summary of Legal Basis: This rulemaking is being developed under the authority of sections 2 through 35 of the Federal Insecticide, Fungicide, and Rodenticide Act (FIFRA), 7 U.S.C. 136-136y, and particularly section 25(a), 7 U.S.C. 136w(a).

Alternatives: EPA proposed several amendments to the existing WPS requirements, including: amending the existing pesticide safety training content, retraining interval (frequency), and qualifications of trainers; ensuring workers receive safety information before entering any pesticide treated area by amending the existing grace period and expanding the training required during the grace period; establishing a minimum age of 16 for handlers and for workers who enter an area under an re-entry interval (REI); establishing requirements for specific training and notification for workers who enter an area under an REI; restricting persons' entry into areas adjacent to a treated area during an application; enhancing the requirement for employers to post warning signs around treated areas; modifying the content of the warning sign; adding information employers must keep under the requirement to maintain application-specific information; requiring recordkeeping for pesticide safety training and worker entry into areas under an REI; ensuring the immediate family exemption includes an exemption from the proposed minimum age requirements for handlers and early-entry workers; and expanding the definition of immediate family to allow more family-owned operations to qualify for the exemptions to the WPS requirements. EPA considered a variety of alternatives for each of the proposed changes. The published NPRM describes each of the alternatives considered in detail.

Anticipated Cost and Benefits: The Economic Analysis issued with the proposed rule provides the EPA's analysis of the potential costs and impacts associated with the proposed rule. As proposed, the estimated cost is between $62 and $73 million annually, with most of the cost on the agricultural employer; and the quantified benefits are estimated between $5-$14 million annually, from avoided acute illnesses. A break even analysis of the potential reduction in chronic illnesses indicates that only 53 cases of several chronic illnesses (Parkinson's disease, non-Hodgkin's lymphoma, prostate cancer, lung cancer, chronic bronchitis, and asthma) would satisfy the gap between the quantified benefits and the cost.

Risks: Agricultural workers and pesticide handlers are at risk from pesticide exposure through their work activities, and may put their families at risk of secondary exposures. In order to address exposure risks to workers, pesticide handlers, and their families, the Agency has proposed revisions identified by stakeholders.

Timetable:

Action | Date | FR Cite
NPRM | 03/19/14 | 79 FR 15443
NPRM Comment Period Extended | 05/14/14 | 79 FR 27546
NPRM Comment Period End | 06/17/14 |
NPRM Comment Period Extended End | 08/18/14 |
Final Rule | 05/00/15 |

Regulatory Flexibility Analysis Required: No.

Small Entities Affected: No.

Government Levels Affected: Federal, Local, State, Tribal.

Additional Information: Docket #: EPA-HQ-OPP-2011-0184-0119.

Sectors Affected: 111 Crop Production; 115 Support Activities for Agriculture and Forestry; 32532 Pesticide and Other Agricultural Chemical Manufacturing; 541690 Other Scientific and Technical Consulting Services; 541712 Research and Development in the Physical, Engineering, and Life Sciences (except Biotechnology); 8133 Social Advocacy Organizations

URL For More Information: http://www.epa.gov/pesticides/health/worker.htm.

URL For Public Comments: http://www.regulations.gov/#!docketDetail;D=EPA-HQ-OPP-2011-0184.

Agency Contact: Kathy Davis, Environmental Protection Agency, Office of Chemical Safety and Pollution Prevention, 7506P, Washington, DC 20460, Phone: 703 308-7002, Fax: 703 308-2962, Email: davis.kathy@epa.gov.

Richard Pont, Environmental Protection Agency, Office of Chemical Safety and Pollution Prevention, 7506P, Washington, DC 20460, Phone: 703 305-6448, Fax: 703 308-2962, Email: pont.richard@epa.gov.

RIN: 2070-AJ22

EPA—OCSPP

138. Formaldehyde; Third-Party Certification Framework for the Formaldehyde Standards for Composite Wood Products

Priority: Other Significant.

Legal Authority: 15 U.S.C. 2697; TSCA sec 601.

CFR Citation: 40 CFR 770.

Legal Deadline: Final, Statutory, January 1, 2013, Deadline for promulgation of regulations, per 15 U.S.C. 2697(d).

Abstract: The EPA is developing a final rule under the Formaldehyde Standards for Composite Wood Products Act was enacted in 2010 as title VI of Toxic Substances Control Act (TSCA), 15 U.S.C. 2697, to establish specific formaldehyde emission limits for hardwood plywood, particleboard, and medium-density fiberboard, which are identical to the California emission limits for these products. In 2013, the EPA issued a proposed rule under TSCA title VI to establish a framework for a TSCA title VI Third-Party Certification Program whereby third-party certifiers (TPCs) are accredited by accreditation bodies (ABs) so that they may certify composite wood product panel producers under TSCA title VI. The proposed rule identifies the roles and responsibilities of the groups involved in the TPC process (EPA, ABs, and TPCs), as well as the criteria for participation in the program. This proposal contains general requirements for TPCs, such as conducting and verifying formaldehyde emission tests, inspecting and auditing panel producers, and ensuring that panel producers' quality assurance and quality control procedures comply with the regulations set forth in the proposed rule. A separate Regulatory Agenda entry (RIN 2070-AJ92) covers the other proposed regulation to implement the statutory formaldehyde emission standards for hardwood plywood, medium-density fiberboard, and particleboard sold, supplied, offered for sale, or manufactured (including imported) in the United States. EPA may decide to issue a single final rule to promulgate the final requirements related to both proposed rules.

Statement of Need: TSCA title VI directs the EPA to promulgate regulations to implement the statutory formaldehyde emission standards and emissions testing requirements for composite wood products (hardwood plywood, particleboard, and medium-density fiberboard). It also directs the EPA to include regulatory provisions relating to third-party testing and certification in addition to the auditing and reporting of third-party certifiers.

Summary of Legal Basis: The EPA is issuing this rule under title VI of the Toxic Substances Control Act (TSCA), 15 U.S.C. 2697, enacted in the Formaldehyde Standards for Composite Wood Products Act of 2010, which provides authority for the EPA to “Â`Â`promulgate regulations to implement the standards required under subsection (b) of the Act. This provision includes authority to promulgate regulations relating to Â`Â`third-party testing and certification' and Â`Â`auditing and reporting of third-party certifiers.”

Alternatives: As explained in the proposed rule, EPA considered a variety of alternatives. EPA considered directly operating a program for the accreditation of TPCs instead of entering into recognition agreements with ABs for that purpose. EPA considered increasing the amount of time for receiving accreditations under TSCA Title VI that was proposed to be afforded to TPCs that are already recognized by the California Air Resources Board (CARB). In addition, EPA considered requiring TPCs to be reaccredited every 2 years (which would align with CARB's requirements) instead of every 3 year years, and requiring Abs to audit TPCs once every 3 years instead of every 2 years (which would align with the proposed 3 year accreditation period). EPA also considered alternative retailer recordkeeping provisions for records related to the manufacture of component parts and finished goods prior to the effective date of the final rule. Finally, while the Agency did not propose mandatory electronic reporting for information that ABs and TPCs would be required to submit under the proposed rule, EPA sought public comment on such a requirement. EPA is evaluating public comments concerning the proposed rule and alternatives as it formulates the final rule.

Anticipated Cost and Benefits: Issued with the proposed rule, the Economic Analysis provides the EPA analysis of the potential costs and impacts associated with this rulemaking. As proposed, the annualized costs are estimated at approximately $34,000 per year using either a 3% discount rate or a 7% discount rate. This rule would impact an estimated 9 small entities, of which 8 are expected to have impacts of less than 1% of revenues or expenses, and 1 is expected to have impacts between 1% and 3%. State, Local, and Tribal Governments are not expected to be subject to the rule's requirements, which apply to third-party certifiers and accreditation bodies. The rule does not have a significant intergovernmental mandate, significant or unique effect on small governments, or have Federalism implications.

Risks: At room temperature, formaldehyde is a colorless, flammable gas that has a distinct, pungent smell. Small amounts of formaldehyde are naturally produced by plants, animals and humans. Formaldehyde is used widely by industry to manufacture a range of building materials and numerous household products. It is in resins used to manufacture some composite wood products (e.g., hardwood plywood, particleboard and medium-density fiberboard). Everyone is exposed to small amounts of formaldehyde in the air, some foods, and products, including composite wood products. The primary way you can be exposed to formaldehyde is by breathing air containing it. Formaldehyde can cause irritation of the skin, eyes, nose, and throat. High levels of exposure may cause some types of cancers.

Timetable:

Action | Date | FR Cite
ANPRM | 12/03/08 | 73 FR 73620
Second ANPRM | 01/30/09 | 74 FR 5632
NPRM | 06/10/13 | 78 FR 34795
NPRM Comment Period Extended | 07/23/13 | 78 FR 44090
NPRM Comment Period Extended | 08/21/13 | 78 FR 51696
Final Rule | 02/00/15 |

Regulatory Flexibility Analysis Required: No.

Small Entities Affected: No.

Government Levels Affected: None.

International Impacts: This regulatory action will be likely to have international trade and investment effects, or otherwise be of international interest.

Additional Information: Docket #: ANPRM stage: EPA-HQ-OPPT-2008-0627; NPRM Stage: EPA-HQ-OPPT-2011-0380. See also RIN 2070-AJ92.

Sectors Affected: 541611 Administrative Management and General Management Consulting Services; 541990 All Other Professional, Scientific, and Technical Services; 561990 All Other Support Services; 813910 Business Associations; 541330 Engineering Services; 813920 Professional Organizations; 321219 Reconstituted Wood Product Manufacturing; 541380 Testing Laboratories; 3212 Veneer, Plywood, and Engineered Wood Product Manufacturing

URL For More Information: http://www.epa.gov/opptintr/chemtest/formaldehyde/index.html.

URL For Public Comments: http://www.regulations.gov/#!documentDetail;D=EPA-HQ-OPPT-2011-0380-0001.

Agency Contact:Robert Courtnage, Environmental Protection Agency, Office of Chemical Safety and Pollution Prevention, 7404T, Washington, DC 20460, Phone: 202 566-1081, Email: courtnage.robert@epa.gov.

Toiya Goodlow, Environmental Protection Agency, Office of Chemical Safety and Pollution Prevention, Mail Code 7404T, 1200 Pennsylvania Ave NW, Washington, DC 20460, Phone: 202 566-2305, Email: goodlow.toiya@epa.gov.

RIN: 2070-AJ44

EPA—OCSPP

139. Formaldehyde Emissions Standards for Composite Wood Products

Priority:Other Significant. Major under 5 U.S.C. 801.

Unfunded Mandates:This action may affect the private sector under Pub. L. 104-4.

Legal Authority:15 U.S.C. 2697; TSCA sec 601.

CFR Citation:40 CFR 770.

Legal Deadline:Final, Statutory, January 1, 2013, Statutory Deadline. NPRM, Statutory, January 1, 2013, Deadline is for issuance of FINAL Rule.

Abstract:The EPA is developing a final rule under the Formaldehyde Standards for Composite Wood Products Act that was enacted in 2010 as title VI of Toxic Substances Control Act (TSCA), 15 U.S.C. 2697, and requires that the EPA promulgate implementing regulations to establish specific formaldehyde emission limits for hardwood plywood, particleboard, and medium-density fiberboard, which limits are identical to the California emission limits for these products. In 2013, the EPA proposed regulations to implement emissions standards established by TSCA title VI for composite wood products sold, supplied, offered for sale, or manufactured in the United States. Pursuant to TSCA section 3(7), the definition of “manufacture” includes import. As required by title VI, these regulations apply to hardwood plywood, medium-density fiberboard, and particleboard. TSCA title VI also directs EPA to promulgate supplementary provisions to ensure compliance with the emissions standards, including provisions related to labeling; chain of custody requirements; sell-through provisions; ULEF resins; no-added formaldehyde-based resins; finished goods; third-party testing and certification; auditing and reporting of third-party certifiers; recordkeeping; enforcement; laminated products; and exceptions from the requirements of regulations promulgated pursuant to this subsection for products and components containing de minimis amounts of composite wood products. A separate Regulatory Agenda entry (RIN 2070-AJ44) addresses requirements for accrediting bodies and third-party certifiers. EPA may decide to issue a single final rule to promulgate the final requirements related to both proposed rules.

Statement of Need:TSCA title VI directs the EPA to promulgate regulations to implement the statutory formaldehyde emission standards and emissions testing requirements for composite wood products (hardwood plywood, particleboard, and medium-density fiberboard).

Summary of Legal Basis:The EPA is issuing this rule under title VI of the Toxic Substances Control Act (TSCA), 15 U.S.C. 2697, enacted in the Formaldehyde Standards for Composite Wood Products Act of 2010, which directs EPA to promulgate regulations to implement the formaldehyde emission standards and emissions testing requirements established by the Act. Congress directed the EPA to consider a number of elements for inclusion in the implementing regulations, many of which are aspects of the California Air Resources Board (CARB) program. These elements include: (a) labeling, (b) chain of custody requirements, (c) sell-through provisions, (d) ultra low-emitting formaldehyde resins, (e) no-added formaldehyde-based resins, (f) finished goods, (g) third-party testing and certification, (h) auditing and reporting of TPCs, (i) recordkeeping, (j) enforcement, (k) laminated products, and (l) exceptions from the requirements of regulations promulgated for products and components containing de minimis amounts of composite wood products.

Alternatives:TSCA Title VI establishes national formaldehyde emission standards for composite wood products and the EPA has not been given the authority to change those standards. EPA considered various alternatives to other proposed requirements. With respect to a definition of hardwood plywood, EPA considered exempting all laminated products from the definition, exempting all laminated products except architectural panels and custom plywood, exempting laminated products made using no-added formaldehyde (NAF) resins to attach veneer to platforms certified as NAF, and exempting laminated products made using NAF resins to attach veneer to compliant and certified platforms. EPA also considered allowing certifications for ultra-low emitting formaldehyde. Furthermore, EPA considered reduced recordkeeping requirements for firms that do not qualify as manufacturers under TSCA, not requiring notification to suppliers that the products supplied must comply with TSCA Title VI, and allowing to tested lots to be shipped before test results are available. EPA is evaluating implementation alternatives in this rulemaking and public comments.

Anticipated Cost and Benefits:Issued with the proposed rule, the Economic Analysis provides the EPA's analysis of the potential costs and benefits associated with this rulemaking. As proposed, this rulemaking will reduce exposures to formaldehyde, resulting in benefits from avoided adverse health effects. For the subset of health effects where the results were quantified, the estimated annualized benefits (due to avoided incidence of eye irritation and nasopharyngeal cancer) are $20 million to $48 million per year using a 3% discount rate, and $9 million to $23 million per year using a 7% discount rate. There are additional unquantified benefits due to other avoided health effects. The annualized costs are estimated at $72 million to $81 million per year using a 3% discount rate, and $80 million to $89 million per year using a 7% discount rate. Government entities are not expected to be subject to the rule's requirements, which apply to entities that manufacture (including import), fabricate, distribute, or sell composite wood products. EPA also estimated that the rulemaking would impact nearly 879,000 small businesses: Over 851,000 have costs impacts less than 1% of revenues, over 23,000 firms have impacts between 1% and 3%, and over 4,000 firms have impacts greater than 3% of revenues. Most firms with impacts over 1% have annualized costs of less than $250 per year. This rule increases the level of environmental protection for all affected populations without having any disproportionately high and adverse human health or environmental effects on any population, including any minority or low-income population or children. The estimated costs of the proposed rule exceed the quantified benefits. There are additional unquantified benefits due to other avoided health effects. After assessing both the costs and the benefits of the proposal, including the unquantified benefits, EPA has made a reasoned determination that the benefits of the proposal justify its costs.

Risks:At room temperature, formaldehyde is a colorless, flammable gas that has a distinct, pungent smell. Small amounts of formaldehyde are naturally produced by plants, animals and humans. Formaldehyde is used widely by industry to manufacture a range of building materials and numerous household products. It is in resins used to manufacture some composite wood products (e.g., hardwood plywood, particleboard and medium-density fiberboard). Everyone is exposed to small amounts of formaldehyde in the air, some foods, and products, including composite wood products. The primary way you can be exposed to formaldehyde is by breathing air containing it. Formaldehyde can cause irritation of the skin, eyes, nose, and throat. High levels of exposure may cause some types of cancers.

Timetable:

Action | Date | FR Cite
NPRM | 06/10/13 | 78 FR 34820
NPRM Comment Period Extended | 07/23/13 | 78 FR 44089
NPRM Comment Period Extended | 08/21/13 | 78 FR 51695
Notice | 04/08/14 | 79 FR 19305
NPRM Comment Period Extended | 05/09/14 | 79 FR 26678
NPRM Comment Period Extended End | 05/26/14 |
Final Rule | 02/00/15

Regulatory Flexibility Analysis Required:Yes.

Small Entities Affected:Businesses.

Government Levels Affected:None.

International Impacts:This regulatory action will be likely to have international trade and investment effects, or otherwise be of international interest.

Additional Information:Docket #: EPA-HQ-OPPT-2012-0018. See also RIN 2070-AJ44.

Sectors Affected:325199 All Other Basic Organic Chemical Manufacturing; 337212 Custom Architectural Woodwork and Millwork Manufacturing; 321213 Engineered Wood Member (except Truss) Manufacturing; 423210 Furniture Merchant Wholesalers; 442110 Furniture Stores; 444130 Hardware Stores; 321211 Hardwood Veneer and Plywood Manufacturing; 444110 Home Centers; 337127 Institutional Furniture Manufacturing; 423310 Lumber, Plywood, Millwork, and Wood Panel Merchant Wholesalers; 453930 Manufactured (Mobile) Home Dealers; 321991 Manufactured Home (Mobile Home) Manufacturing; 336213 Motor Home Manufacturing; 337122 Nonupholstered Wood Household Furniture Manufacturing; 444190 Other Building Material Dealers; 423390 Other Construction Material Merchant Wholesalers; 325211 Plastics Material and Resin Manufacturing; 321992 Prefabricated Wood Building Manufacturing; 321219 Reconstituted Wood Product Manufacturing; 441210 Recreational Vehicle Dealers; 337215 Showcase, Partition, Shelving, and Locker Manufacturing; 321212 Softwood Veneer and Plywood Manufacturing; 336214 Travel Trailer and Camper Manufacturing; 337121 Upholstered Household Furniture Manufacturing; 337110 Wood Kitchen Cabinet and Countertop Manufacturing; 337211 Wood Office Furniture Manufacturing; 337129 Wood Television, Radio, and Sewing Machine Cabinet Manufacturing

URL for More Information: http://www.epa.gov/opptintr/chemtest/formaldehyde/index.html.

URL for Public Comments: http://www.regulations.gov/#!documentDetail;D=EPA-HQ-OPPT-2012-0018-0001.

Agency Contact: Cindy Wheeler, Environmental Protection Agency, Office of Chemical Safety and Pollution Prevention, 7404T, Washington, DC 20460, Phone: 202 566-0484, Email: wheeler.cindy@epa.gov.

Robert Courtnage, Environmental Protection Agency, Office of Chemical Safety and Pollution Prevention, 7404T, Washington, DC 20460, Phone: 202 566-1081, Email: courtnage.robert@epa.gov.

RIN: 2070-AJ92

EPA—Solid Waste and Emergency Response (SWER)

Final Rule Stage

140. Standards for the Management of Coal Combustion Residuals Generated by Commercial Electric Power Producers

Priority: Economically Significant. Major under 5 U.S.C. 801.

Unfunded Mandates: This action may affect State, local or tribal governments and the private sector.

Legal Authority: 42 U.S.C. 6905; 42 U.S.C. 6906; 42 U.S.C. 6907(a)(3); 42 U.S.C. 6912; 42 U.S.C. 6912(a); 42 U.S.C. 6912(a)(1); 42 U.S.C. 6921; 42 U.S.C. 6922; 42 U.S.C. 6923; 42 U.S.C. 6924; 42 U.S.C. 6925; 42 U.S.C. 6925(j); 42 U.S.C. 6935; 42 U.S.C. 6936; 42 U.S.C. 6937; 42 U.S.C. 6944(a); 42 U.S.C. 6949a(c); 33 U.S.C. 1345(d); 33 U.S.C. 1345(e)

CFR Citation: 40 CFR 257; 261; 264; 265; 268; 271; 302.

Legal Deadline: Final, Judicial, December 19, 2014, Signature date.

Abstract: On June 21, 2010, the EPA proposed, under the Resource Conservation and Recovery Act (RCRA) to regulate coal combustion residuals (CCRs) generated from the combustion of coal at electric utilities and independent power producers to address risks from the disposal of CCRs in surface impoundments and landfills. The EPA sought public comments on two regulatory approaches. One proposed option would be to list these residuals as “special wastes,” and draws from remedies available under subtitle C of RCRA, which creates a comprehensive program of federally enforceable requirements for waste management and disposal. The other proposed option included remedies under subtitle D of RCRA, which gives the EPA authority to set disposal standards for waste management facilities. Under both options, the EPA proposed not to regulate the beneficial use of CCRs, such as its use in concrete. In addition, this rule did not address CCRs generated from non-utility boilers burning coal, nor would it address the placement of coal combustion residuals in mines or non-minefill uses of CCRs at coal mine sites. Since the publication of the proposed rule, EPA has issued three Notices of Data Availability (NODAs) seeking public comment on additional data and information obtained by the EPA. In the most recent NODA, issued on August 2, 2013, the EPA invited comment on additional information to supplement the Regulatory Impact Analysis and risk assessment; information on large scale fill; and data on the surface impoundment structural integrity assessments. With this NODA, the EPA also sought comment on two issues associated with the requirements for CCR management units, closure and the construction of new units over pre-existing CCR landfills and surface impoundments. Under a consent decree, a final rule must be signed no later than December 19, 2014.

Statement of Need: The EPA is proposing to regulate for the first time, coal combustion residuals under the Resource Conservation and Recovery Act (RCRA) to address the risks from the disposal of coal combustion residuals in surface impoundments and landfills, generated from the combustion of coal at electric utilities and by independent power producers.

Summary of Legal Basis: The CCR rule was proposed under the authority of sections 1008(a), 2002(a), 3001, 3004, 3005, and 4004 of the Solid Waste Disposal Act of 1970, as amended by RCRA and as amended by the hazardous and Solid Waste Amendments of 1984 (HSWA). These statutes, combined, are commonly referred to as “RCRA.” RCRA section 1008(a) authorizes the EPA to publish “suggested guidelines for solid waste management.” Such guidelines must provide a technical and economic descriptions of the level of performance that can be achieved by available solid waste management practices that provide for the protection of human health and the environment. RCRA section 2002 grants the EPA broad authority to prescribe, in consultation with federal, state and regional authorities, such regulations as are necessary to carry out the function under federal solid waste disposal laws. RCRA section 3001(b) requires EPA to list particular wastes that will be subject to the requirements established under subtitle C. Section 3001(b)(3)(A) generally establishes a temporary exemption for CCRs primarily from the combustion of coal or other fossil fuels and requires the EPA to conduct a study to determine whether these waste should be regulated under Subtitle C or RCRA. Section 3004 generally requires EPA to establish standards for the treatment, storage, and disposal of hazardous waste to ensure protection of human health and the environment. RCRA section 3004(x) allows the Administrator to tailor certain specified requirements for particular categories of wastes. RCRA section 3005 generally requires that any facility that treats, stores, or disposes of wastes identified or listed under subtitle C, to have a permit. RCRA section 4004 requires the EPA to promulgate regulations containing criteria for determining which facilities shall be classified as sanitary landfills (and not open dumps).

Alternatives: In the proposed rule EPA considered two options for the regulation of CCRs. Under the first option, the EPA would reverse its August 1993 and May 2000 Bevill Regulatory Determinations regarding CCRs and list these residuals as special wastes subject to regulation under subtitle C of RCRA, when they are destined for disposal in landfills or surface impoundments. Under the second option, the EPA would leave the Bevill determination in place and regulate the disposal of such materials under subtitle D of RCRA by issuing national minimum criteria. Under both options, the EPA considered establishing dam safety requirements to address the structural integrity of surface impoundment to prevent catastrophic releases. The EPA also solicited comment on a number of alternatives including several combination approaches, such as regulating surface impoundments under subtitle C of RCRA while regulating landfills under subtitle D or RCRA.

Anticipated Cost and Benefits: The EPA estimated the potential costs and benefits of the proposed CCR rule in a regulatory impact analysis (RIA) dated April 2010. Although in June 2010 the EPA co-proposed two regulatory options (i.e., subtitle C and subtitle D options) for the CCR rule, the RIA evaluated three regulatory approaches to the proposed rule: subtitle C, subtitle D, and subtitle “D Prime” options. The RIA is available from the regulatory docket as document ID number EPA-HQ-RCRA-2009-0640-0003. Based on a 50-year future period of analysis using a 7% discount rate at year 2009 price level, the RIA estimated the potential average annual future costs of these three options to range between $1,474 million, $587 million, and $236 million per year, respectively. These costs are associated with 12 to 19 different combinations of pollution controls (i.e., engineering controls & ancillary requirements) proposed for each option such as groundwater monitoring, landfill and impoundment bottom liners, fugitive dust controls, and location restrictions, to name a few.

Based on three monetized benefit categories consisting of (a) avoided future groundwater contamination from CCR landfills and impoundments, (b) avoided future CCR impoundment structural failures, and (c) induced future increase in the beneficial uses of CCR as a substitute ingredient in concrete, cement, wallboard, and about a dozen other markets, the RIA estimated the potential future average annual benefits of the three options to range between $6,320 to $7,405, $2,533 to $3,026 and $1,023 to $1,268 per year, respectively. Because some stakeholders during the development of the CCR proposed rule asserted to the EPA a potential future stigma effect in beneficial use markets under the Subtitle C option, the RIA also evaluated a potential dis-benefit decrease in CCR beneficial uses under an alternative scenario, as well as under a no change in beneficial use scenario.

Risks: The EPA's damage cases and risk assessments all indicated the potential for CCR landfills and surface impoundments to leach hazardous constituents into groundwater, impairing drinking water supplies and causing adverse impacts on human health and the environment. Indeed, groundwater contamination is one of the key environmental risks the EPA has identified with CCR landfills and surface impoundments. Furthermore, as mentioned previously, the legislative history of RCRA specifically evidences concerns over groundwater contamination from disposal units. Composite liners, as modeled in the 2010 draft risk assessment, effectively reduce risks from all constituents to below the risk criteria for both landfills and surface impoundments at the 90th and 50th percentiles. Thus, the requirements for new units to be composite lined will reduce future risks significantly. However, the EPA proposed several regulatory alternatives that may or may not require existing units without composite liners to close.

To this end, groundwater monitoring is a key mechanism for facilities to verify that the existing containment structures, such as liners and leachate collection and removal systems, are functioning as intended. Thus, the EPA believes that, in order for a CCR landfill or surface impoundment to meet RCRA's protection standard, a system of routine groundwater monitoring to detect any such contamination from a disposal unit, and corrective action requirements to address identified contamination, is necessary. EPA's proposed groundwater monitoring criteria require a system of monitoring wells be installed at new and existing CCR landfills and surface impoundments. The proposed criteria also provide procedures for sampling these wells and methods for statistical analysis of the analytical data derived from the well samples to detect the presence of hazardous constituents released from these facilities. The Agency proposed a groundwater monitoring program consisting of detection monitoring, assessment monitoring, and a corrective action program. This phased approach to groundwater monitoring and corrective action programs provide for a graduated response over time to the problem of groundwater contamination as the evidence of such contamination increases. This allows for proper consideration of the transport characteristics of CCR constituents in ground water, while protecting human health and the environment, and minimizing unnecessary costs.

Timetable:

Action | Date | FR Cite
Notice | 08/29/07 | 72 FR 49714
NPRM | 06/21/10 | 75 FR 35128
Notice | 07/15/10 | 75 FR 41121
Notice | 10/12/11 | 76 FR 63252
Notice | 08/02/13 | 78 FR 46940
Final Rule | 12/00/14 |

Regulatory Flexibility Analysis Required: No.

Small Entities Affected: No.

Government Levels Affected: Federal, Local, State, Tribal.

Federalism: This action may have federalism implications as defined in EO 13132.

Additional Information: Docket #:EPA-HQ-RCRA-2009-0640, EPA-HQ-RCRA-2011-0392. http://www.regulations.gov/#!docketDetail;D=EPA-HQ-RCRA-2009-0640.

Sectors Affected: 221112 Fossil Fuel Electric Power Generation.

URL for More Information: http://www.epa.gov/epawaste/nonhaz/industrial/special/fossil/ccr-rule/index.htm.

URL for Public Comments: http://www.regulations.gov/#!docketDetail;D=EPA-HQ-RCRA-2011-0392.

Agency Contact: Alexander Livnat, Environmental Protection Agency, Solid Waste and Emergency Response, 5304P, Washington, DC 20460, Phone: 703 308-7251, Fax: 703 605-0595, Email: Livnat.Alexander@epa.gov.

Steve Souders, Environmental Protection Agency, Solid Waste and Emergency Response, 5304P, Washington, DC 20460, Phone: 703 308-8431, Fax: 703 605-0595, Email: souders.steve@epa.gov.

RIN: 2050-AE81

EPA—SWER

141. Revising Underground Storage Tank Regulations—Revisions to Existing Requirements and New Requirements for Secondary Containment and Operator Training

Priority:Economically Significant. Major under 5 U.S.C. 801.

Unfunded Mandates:This action may affect the private sector under Pub. L. 104-4.

Legal Authority:42 U.S.C. 6991et seq.

CFR Citation:40 CFR 280-281.

Legal Deadline:None.

Abstract: The Underground Storage Tank (UST) regulations were first promulgated in 1988 primarily to prevent releases from retail petroleum marketers (gas stations) and other facilities into the environment. These regulations have reduced the incidents of contamination. However, there is a need to revise the regulations to incorporate changes to the UST program from the Energy Policy Act of 2005, as well as to update outdated portions of the regulations due to changes in technology since the 1980s. On August 8, 2005, President Bush signed the Energy Policy Act of 2005 (EPAct). Title XV, Subtitle B of this act (entitled the Underground Storage Tank Compliance Act of 2005), amends Subtitle I of the Solid Waste Disposal Act, the original legislation that created the UST program. There are key provisions of the EPAct that apply to states receiving federal UST funding but do not apply in Indian Country, including requirements for secondary containment and operator training. The EPA will also use our knowledge of the program gained over the last 20 years to update and revise the regulations to make targeted changes to improve implementation and prevent UST releases. In the NPRM, the EPA proposed: adding secondary containment requirements for new and replaced tanks and piping; adding operator training requirements; adding periodic operation and maintenance requirements for UST systems; removing certain deferrals; adding new release prevention and detection technologies; updating codes of practice; making editorial and technical corrections; and updating state program approval requirements to incorporate these new changes.

Statement of Need:The Underground Storage Tank (UST) regulations were first promulgated in 1988 primarily to prevent releases from retail petroleum marketers (gas stations) and other facilities into the environment. These regulations have reduced the incidents of contamination. However, there is a need to revise the regulations to incorporate changes to the UST program from the Energy Policy Act of 2005, as well as to update outdated portions of the regulations due to changes in technology since the 1980s. On August 8, 2005, President Bush signed the Energy Policy Act of 2005 (EPAct). Title XV, Subtitle B of this act (entitled the Underground Storage Tank Compliance Act of 2005), amends Subtitle I of the Solid Waste Disposal Act, the original legislation that created the UST program. There are key provisions of the EPAct that apply to states receiving federal UST funding but do not apply in Indian Country, including requirements for secondary containment and operator training. EPA also used its knowledge of the program gained over the last 20 years to propose revisions to the regulations to make targeted changes to improve implementation and prevent UST releases.

Summary of Legal Basis:The legal basis for this rulemaking comes from 42 U.S.C. 6912, 6991, 6991(a), 6991(b), 6991(c), 6991(d), 6991(e), 6991(f), 6991(g), and 6991(h).

Alternatives:Anticipated Cost and Benefits: The EPA prepared an analysis of the potential incremental costs and benefits associated with the revisions to the UST regulation. The RIA estimated regulatory implementation and compliance costs, as well as benefits for the regulatory options considered. A substantial portion of the beneficial impacts associated with the final UST regulation are avoided cleanup costs as a result of preventing releases and reducing the severity of releases. Due to data and resource constraints, the EPA was unable to quantify some of the final UST regulation's benefits, including avoidance of human health risks, ecological benefits, and mitigation of acute exposure events and large-scale releases, such as those from airport hydrant systems and field-constructed tanks. This regulation will increase the protection of groundwater throughout the country, but the EPA was unable to place a value on the groundwater protected by this UST regulation.

Under the proposed rule, on an annualized basis, the estimated regulatory compliance costs are $210 million (Selected Option), $520 million (Option 1) and $130 million (Option 2). Separately, the proposed rule allows for annual cost savings related to avoided costs of $300-470 million (Selected Option), $310-770 million (Option 1) and $110-590 million (Option 2).

Risks:There are approximately 575,000 underground storage tanks (USTs) nationwide that store petroleum or hazardous substances. The greatest potential threat from a leaking UST is contamination of groundwater, the source of drinking water for nearly half of all Americans.

Timetable:

Action | Date | FR Cite
NPRM | 11/18/11 | 76 FR 71708
NPRM Comment Period Extended | 02/15/12 | 77 FR 8757
Final Rule | 02/00/15 |

Regulatory Flexibility Analysis Required:No

Small Entities Affected:No

Government Levels Affected:Federal, Local, State, Tribal

Additional Information:Docket #:EPA-HQ-UST-2011-0301

Sectors Affected:72 Accommodation and Food Services; 481 Air Transportation; 48811 Airport Operations; 112 Animal Production; 111 Crop Production; 2211 Electric Power Generation, Transmission and Distribution; 447 Gasoline Stations; 622 Hospitals; 31-33 Manufacturing; 486 Pipeline Transportation; 44-45 Retail Trade; 485 Transit and Ground Passenger Transportation; 484 Truck Transportation; 483 Water Transportation; 42 Wholesale Trade

URL for More Information: http://www.epa.gov/oust/fedlaws/proposedregs.html

URL for Public Comments: http://www.regulations.gov/#!documentDetail;D=EPA-HQ-UST-2011-0301-0001

Agency Contact:Elizabeth McDermott, Environmental Protection Agency, Solid Waste and Emergency Response, 5401P, Washington, DC 20460,

Phone: 703 603-7175 Fax: 703 603-0175 Email: McDermott.Elizabeth@epamail.epa.gov

Paul Miller, Environmental Protection Agency, Solid Waste and Emergency Response, 5401P, Washington, DC 20460, Phone: 703 603-7165, Fax: 703 603-0175, Email: Miller.Paul@epamail.epa.gov.

RIN: 2050-AG46

EPA—WATER (WATER)

Final Rule Stage

142. Effluent Limitations Guidelines and Standards for the Steam Electric Power Generating Point Source Category

Priority:Economically Significant. Major under 5 U.S.C. 801.

Unfunded Mandates:This action may affect State, local or tribal governments and the private sector.

Legal Authority:33 U.S.C. 1311; 33 U.S.C. 1314; 33 U.S.C. 1316; 33 U.S.C. 1317; 33 U.S.C. 1318; 33 U.S.C. 1342; 33 U.S.C. 1361

CFR Citation:40 CFR 423 revision.

Legal Deadline:NPRM, Judicial, April 19, 2013, Consent Decree.

Final, Judicial, September 30, 2015, 9/30/2015—Consent Decree deadline for Final Action—Defenders of Wildlife v. Jackson, 10-1915, D. DC

Abstract:The EPA establishes national technology-based regulations, called effluent limitations guidelines and standards, to reduce discharges of pollutants from industries to waters of the U.S. These requirements are incorporated into National Pollutant Discharge Elimination System (NPDES) discharge permits issued by the EPA and states and through the national pretreatment program. The steam electric effluent limitations guidelines and standards apply to steam electric power plants using nuclear or fossil fuels, such as coal, oil and natural gas. There are about 1,200 nuclear- and fossil-fueled steam electric power plants nationwide; approximately 500 of these power plants are coal-fired. In a study completed in 2009, EPA found that the current regulations, which were last updated in 1982, do not adequately address the pollutants being discharged and have not kept pace with changes that have occurred in the electric power industry over the last three decades. The rulemaking may address discharges associated with coal ash waste and flue gas desulfurization (FGD) air pollution controls, as well as other power plant waste streams. Power plant discharges can have major impacts on water quality, including reduced organism abundance and species diversity, contamination of drinking water sources, and contamination of fish. Pollutants of concern include metals (e.g., mercury, arsenic and selenium), nutrients, and total dissolved solids. The proposed rule was published in the Federal Register on June 7, 2013 (“Effluent Limitations Guidelines and Standards for the Steam Electric Power Generating Point Source Category, ” 78 FR 34431).

Statement of Need:Steam electric power plants contribute over half of all toxic pollutants discharged to surface waters by all industrial categories currently regulated in the United States under the Clean Water Act. For example, steam electric plants annually discharge: 64,400 lb. of lead Ä•2,820 lb. of mercury Ä•79,200 lb. of arsenic Ä•225,000 lb. of selenium Ä• 1,970,000 lb. of aluminum Ä•4,990,000 lb. of zinc Ä•30,000,000 lb. of nitrogen Ä•682,000 lb. of phosphorus 14,500,000 lb. of manganese Ä•158,000 lb. of vanadium; and Ä•27 other pollutants. Discharges of these toxic pollutants are linked to cancer, neurological damage, and ecological damage. Many of these toxic pollutants, once in the environment, remain there for years. These pollutant discharges contribute to: over 160 water bodies not meeting State quality standards Ä•185 waters for which there are fish consumption advisories; and Ä•degradation of 399 water bodies across the country that are drinking water supplies. The revised steam electric rule would strengthen the existing controls on discharges from these plants. It would set the first Federal limits on the levels of toxic metals in wastewater that can be discharged from power plants, based on technology improvements in the industry over the last three decades.

Summary of Legal Basis:Section 301(b)(2) of the Clean Water Act (“CWA”) requires the EPA to promulgate effluent limitations for categories of point sources, using technology-based standards that govern the sources' discharge of certain pollutants. 33 U.S.C. 1311(b)(2). Section 304(b) directs the EPA to develop effluent guidelines that identify certain technologies and control measures available to achieve effluent reductions for each point source category, specifying factors to be taken into account in identifying those technologies and control measures. 33 U.S.C. 1314(b). Since the 1970s, the EPA has formulated effluent limitations and effluent guidelines in tandem through a single administrative process. Am. Frozen Food Inst. v. Train, 539 F.2d 107 (D.C. Cir. 1976). For new sources, the CWA authorizes the EPA to set Standards of Performance for categories of sources. 33 U.S.C. 1316. For new and existing facilities that introduce pollutants into Publicly Owned Treatment Works, the EPA promulgates pretreatment standards. 33 U.S.C. 1317(b), (c). Together, effluent limitations guidelines, standards of performance, and pretreatment standards are called “Effluent Limitations Guidelines and Standards,” or “ELGs.” The CWA also requires the EPA to perform an annual review of existing effluent guidelines and to revise them, if appropriate. 33 U.S.C. 1314(b); see also 33 U.S.C. 1314(m)(1)(A). The EPA originally established effluent limitations guidelines and standards for the steam electric generating point source category in 1974 and last updated them in 1982. 47 FR 52,290 (Nov. 19, 1982). As described above, the EPA determined the existing regulations do not adequately address the pollutants being discharged and that revisions are appropriate.

Alternatives:This analysis will cover various sizes and types of potentially regulated pollutant discharges and associated control technologies. For example, the proposal identified four preferred regulatory options that differ in the number of waste streams covered, size of the units controlled, and stringency of controls.

Anticipated Cost and Benefits:The EPA's proposed revisions to the steam electric rule identified a range of preferred regulatory options. The EPA's estimates of the annual social costs of the steam electric rule range from $185 million to $954 million with associated annual pollutant discharge reductions of 470 million to 2.62 billion pounds and water use reductions of 50 billion to 103 billion gallons. The EPA's estimate of the monetized benefits, which only includes a portion of the benefits, range from $139 million to $483 million. The range reflects that different regulatory options would control different wastestreams and provide different stringency of controls.

Risks:Effluent limitations guidelines and standards are technology based discharge requirements. As such, EPA has not assessed risk associated with this action. However, as detailed in the Statement of Need, toxic pollutant discharges from steam electric plants are linked to cancer, neurological damage, and ecological damage.

Timetable:

Action | Date | FR Cite
NPRM | 06/07/13 | 78 FR 34431
NPRM Comment Period Extended | 07/12/13 | 78 FR 41907
Final Rule | 09/00/15

Regulatory Flexibility Analysis Required: No.

Small Entities Affected:No.

Government Levels Affected:Local, State.

Federalism:This action may have federalism implications as defined in EO 13132.

Additional Information:Docket #:EPA-HQ-OW-2009-0819.

Sectors Affected:22111 Electric Power Generation; 221112 Fossil Fuel Electric Power Generation; 221113 Nuclear Electric Power Generation.

URL for More Information: http://water.epa.gov/scitech/wastetech/guide/steam_index.cfm.

Agency Contact:Ronald Jordan, Environmental Protection Agency, Water, Mail Code 4303T,1200 Pennsylvania Ave. NW., Washington, DC 20460, Phone: 202 566-1003, Fax: 202 566-1053, Email: jordan.ronald@epamail.epa.gov.

Jezebele Alicea, Environmental Protection Agency, Water, Mail Code 4303T, 1200 Pennsylvania Ave. NW., Washington, DC 20460, Phone: 202 566-1755, Fax: 202 566-1053, Email: alicea.jezebele@epamail.epa.gov.

RIN: 2040-AF14

EPA—WATER

143. Water Quality Standards Regulatory Revisions

Priority:Other Significant.

Legal Authority:33 U.S.C. 1251 et seq.

CFR Citation:40 CFR 131 (revision).

Legal Deadline:None.

Abstract:The EPA proposed changes to the water quality standards (WQS) regulation to improve its effectiveness in helping restore and maintain the Nation's Waters. The core of the current WQS regulation has been in place since 1983. Since then, a number of issues have been raised by stakeholders or identified by the EPA in the implementation process that will benefit from clarification and greater specificity. The proposed rule addresses the following six key areas: 1) Administrator's determination that new or revised WQS are necessary, 2) designated uses, 3) triennial review requirements, 4) antidegradation, 5) variances to water quality standards, and 6) compliance schedule authorizing provisions. These revisions will allow the EPA, states and authorized tribes to better achieve program goals by providing clearer more streamlined requirements to facilitate enhanced water resource protection.

Statement of Need: The core requirements of the current WQS regulation have been in place for over 30 years. These requirements have provided a strong foundation for water quality-based controls, including water quality assessments, impaired waters lists, and total maximum daily loads (TMDLs) under CWA section 303(d), as well as for water quality-based effluent limits (WQBELs) in NPDES discharge permits under CWA section 402. As with the development and operation of any program, however, a number of policy and technical issues have recurred over the past 30 years in individual standards reviews, stakeholder comments, and litigation that the EPA believes would be addressed and resolved more efficiently by clarifying, updating and revising the federal WQS regulation to assure greater public transparency, better stakeholder information, and more effective implementation.

The basic structure of the water quality standards regulation (40 CFR part 131) was last revised in November 1983. The EPA added tribal provisions in 1991, “Alaska rule” provisions in 2000, and BEACH Act rule provisions in 2004. At the 15-year point (July 1998), the EPA issued a comprehensive advance notice of proposed rulemaking (ANPRM) and conducted an extensive dialogue with states and the public on over 130 discrete issues. The ANPRM led to some program redirections, but EPA did not revise the regulation itself at that time. The EPA has proposed targeted changes to the WQS regulation that aim to improve the regulation's effectiveness in restoring and maintaining the chemical, physical and biological integrity of the Nation's waters, and to clarify and simplify regulatory requirements.

Summary of Legal Basis:The CWA establishes the basis for the current WQS regulation and program. Section 303(c) of the Act addresses the development of state and authorized tribal WQS and provides for the following: (1) WQS shall consist of designated uses and water quality criteria based upon such uses; (2) States and authorized tribes shall establish WQS considering the following possible uses for their waters-propagation of fish, shellfish and wildlife, recreational purposes, public water supply, agricultural and industrial water supplies, navigation, and other uses; (3) State and tribal standards must protect public health or welfare, enhance the quality of water, and serve the purposes of the Act; (4) States and tribes must review their standards at least once every 3 years; and (5) the EPA is required to review any new or revised state and tribal standards, and is also required to promulgate federal standards where the EPA finds that new or revised state or tribal standards are not consistent with applicable requirements of the Act or in situations where the Administrator determines that federal standards are necessary to meet the requirements of the Act.

The EPA established the core of the current WQS regulation in a final rule issued in 1983. This rule strengthened previous provisions that had been in place since 1977 and moved them to a new 40 CFR part 131 (54 FR 51400, November 8, 1983). The resulting regulation describes how the WQS envisioned in the CWA are to be administered. It clarifies the content of standards and establishes more detailed provisions for implementing the provisions of the Act.

Alternatives:In support of the 1983 regulation, the EPA has issued a number of guidance documents that have provided guidance on the interpretation and implementation of the WQS regulation, and on scientific and technical analyses that are used in making decisions that would impact WQS. In 1998, the EPA issued an Advance Notice of Proposed Rulemaking (ANPRM) to discuss and invite comment on over 130 aspects of the federal WQS regulation and program, with a goal of identifying specific changes that might strengthen water quality protection and restoration, facilitate watershed management initiatives, and incorporate evolving water quality criteria and assessment science into state and tribal WQS programs. (63 FR 36742, July 7, 1998). In response, the EPA received over 3,200 specific written comments from over 150 comment letters. The EPA also held three public meetings during the 180-day comment period where additional comments were received and discussed. Although the EPA chose not to move forward with a rulemaking after the ANRPM, as a result of the input received, the EPA identified a number of high priority issue areas for which the Agency has developed guidance, provided technical assistance and continued further discussion and dialogue to assure more effective program implementation. As with the development and operation of any program, however, a number of policy and technical issues have recurred over the past 30 years that the EPA believes would be addressed and resolved more efficiently by clarifying, updating and revising the Federal WQS regulation to assure greater public transparency, better stakeholder information, and more effective implementation.

Anticipated Cost and Benefits:Because this proposal will not establish any requirements directly applicable to regulated entities, the focus of the EPA's economic analysis is to estimate the potential administrative burden and costs to state, tribal, and territorial governments, and the EPA. In the proposal the EPA is considering whether to include a requirement that antidegradation implementation methods be formally adopted as WQS and thus subject to the EPA's review and approval or disapproval. This additional requirement would require affected entities to develop or revise antidegradation implementation methods, and adopt the implementation methods in WQS, resulting in one-time (nonrecurring) burden and costs. The total annual costs for this proposal with the requirement to adopt antidegradation implementation methods as WQS is estimated to range from $5.98 million to $9.27 million per year. The total annual costs for this proposal without the requirement to adopt antidegradation implementation methods as WQS is estimated to range from $5.84 million to $9.01 million per year.

States, tribes, stakeholders, and the public will benefit from the proposed clarifications of the WQS regulations by ensuring better utilization of available WQS tools that allow states and tribes the flexibility to implement their WQS in an efficient manner while providing transparency and open public participation. Although associated with potential administrative burden and costs in some areas, this proposal has the potential to partially offset these costs by reducing regulatory uncertainty and consequently increasing overall program efficiency. Furthermore, more efficient and effective implementation of state and tribal WQS has the potential to provide a variety of economic benefits associated with cleaner water including the availability of clean, safe, and affordable drinking water, water of adequate quality for agricultural and industrial use, and water quality that supports the commercial fishing industry and higher property values. Nonmarket benefits of this proposal include the protection and improvement of public health and greater recreational opportunities. The EPA acknowledges that achievement of any benefits associated with cleaner water would involve additional control measures, and thus costs to regulated entities and non-point sources, that have not been included in the economic analyses for this proposed rule. The EPA has not attempted to quantify either the costs of such control measures that might ultimately be required as a result of this rule, or the benefits they would provide.

Risks:Reducing regulatory uncertainty has the impact of increasing overall program efficiency.

Timetable:

Action | Date | FR Cite
Notice | 07/30/10 | 75 FR 44930
NPRM | 09/04/13 | 78 FR 54517
NPRM Comment Period Extended | 11/27/13 | 78 FR 70905
NPRM Comment Period Extended End | 01/02/14 |
Final Rule | 05/00/15 |

Regulatory Flexibility Analysis Required:No.

Small Entities Affected:No.

Government Levels Affected: Federal, State, Tribal.

Additional Information:Docket #: EPA-HQ-OW-2010-0606.

URL for More Information: http://water.epa.gov/scitech/swguidance/standards/index.cfm.

Agency Contact:Shari Barash, Environmental Protection Agency, Water, Mail Code 4305T, 1200 Pennsylvania Ave. NW., Washington, DC 20460, Phone: 202 566-0996, Fax: 202 566-1053, Email: barash.shari@epa.gov.

Janita Aguirre, Environmental Protection Agency, Water, Mail Code 4305T, 1200 Pennsylvania Ave. NW., Washington, DC 20460, Phone: 202 566-1149 Fax: 202 566-0409 Email: aguirre.janita@epa.gov.

RIN: 2040-AF16

EPA—WATER

144. Definition of “Waters of the United States” Under the Clean Water Act

Priority: Other Significant.

Legal Authority:33 U.S.C. 1251

CFR Citation:40 CFR 110; 40 CFR 112; 40 CFR 116; 40 CFR 117; 40 CFR 122; 40 CFR 230; 40 CFR 232; 40 CFR 300; 40 CFR 302; 40 CFR 401; 33 CFR 328

Legal Deadline:None.

Abstract:After U.S. Supreme Court decisions in SWANCC and Rapanos, the scope of “waters of the US” protected under all CWA programs has been an issue of considerable debate and uncertainty. The Act has a single definition for “waters of the United States.” As a result, these decisions affect the geographic scope of all CWA programs. SWANCC and Rapanos did not invalidate the current regulatory definition of “waters of the United States.” However, the decisions established important considerations for how those regulations should be interpreted, and experience implementing the regulations has identified several areas that could benefit from additional clarification through rulemaking. U.S. EPA and the U.S. Army Corps of Engineers proposed a rule for determining whether a water is protected by the Clean Water Act. This rule will make clear which waterbodies are protected under the Clean Water Act.

Statement of Need:After U.S. Supreme Court decisions in SWANCC (Solid Waste Agency of Northern Cook County v. U.S. Army Corps of Engineers, 531 U.S. 159 (2001)) and Rapanos (Rapanos v. United States , 547 U.S. 715 (2006)), the scope of waters of the US protected under all CWA programs has been an issue of considerable debate and uncertainty. The Act has a single definition for waters of the United States. As a result, these decisions affect the geographic scope of all CWA programs. SWANCC and Rapanos did not invalidate the current regulatory definition of waters of the United States. However, the decisions established important considerations for how those regulations should be interpreted, and experience implementing the regulations has identified several areas that could benefit from additional clarification through rulemaking. EPA and the U.S. Army Corps of Engineers are developing a proposed rule for determining whether a water is protected by the Clean Water Act. This rule would clarify which water bodies are protected under the Clean Water Act.

Summary of Legal Basis:The EPA and the U.S. Army Corps of Engineers (Corps) publish for public comment a proposed rule defining the scope of waters protected under the CWA, in light of the U.S. Supreme Court cases in U.S. v. Riverside Bayview Homes, Solid Waste Agency of Northern Cook County v. U.S. Army Corps of Engineers (SWANCC), and Rapanos v. United States (Rapanos). The goal of the agencies is to ensure the regulatory definition is consistent with the CWA, as interpreted by the Supreme Court, and as supported by science, and to provide maximum clarity to the public, as the agencies work to fulfill the CWA's objectives and policy to protect water quality, public health, and the environment.

Alternatives:The agencies solicited comment on a number of issues throughout the proposed rule preamble. In particular, the agencies requested comment on alternate approaches to determining whether “other waters” are similarly situated and have a “significant nexus” to a traditional navigable water, interstate water, or the territorial seas. Just as the agencies are seeking comment on a variety of approaches, or combination of approaches, as to which waters are jurisdictional, the agencies also request comment on determining which waters should be determined non-jurisdictional. In addition, the agencies are seeking comment on alternate approaches to define “neighboring.”

Anticipated Cost and Benefits:The EPA and the Corps of Engineers prepared an analysis of the potential costs and benefits associated with this action. The definition of “waters of the U.S.,” by itself, imposes no direct costs. The potential costs and benefits incurred as a result of this proposed action are considered indirect because the action involves a definitional change to a term that is used in the implementation of a variety of CWA programs. Each of these programs may subsequently impose direct or indirect costs as a result of implementation of their specific regulations. The proposed rule would provide an estimated $388 million to $514 million annually of benefits to the public, including reducing flooding, filtering pollution, providing wildlife habitat, supporting hunting and fishing, and recharging groundwater. The public benefits outweigh the costs of about $162 million to $278 million per year for mitigating impacts to streams and wetlands, and taking steps to reduce pollution to waterways.

Risks:This proposal would enhance protection for the nation's public health and aquatic resources, and increase CWA program predictability and consistency by increasing clarity as to the scope of “waters of the United States” protected under the Act.

Timetable:

Action | Date | FR Cite
NPRM | 04/21/14 | 79 FR 22187
NPRM Comment Period Extended | 06/24/14 | 79 FR 35712
NPRM Comment Period End | 07/21/14 |
NPRM Comment Period Extended End | 10/21/14 |
Final Rule | 04/00/15 |

Regulatory Flexibility Analysis Required: No.

Small Entities Affected: No.

Government Levels Affected: None.

URL For More Information: http://water.epa.gov/lawsregs/guidance/wetlands/CWAwaters.cfm.

Agency Contact: Donna Downing, Environmental Protection Agency, Water, 4502T, Washington, DC 20460, Phone: 202 566-2428, Email: cwawaters@epa.gov.

Rose Kwok, Environmental Protection Agency, Water, 1200 Pennsylvania Ave NW., Mail Code 4502T, Washington, DC 20460, Phone: 202 566-0657, Email: cwawaters@epa.gov.

RIN: 2040-AF30

BILLING CODE 6560-50-P

EQUAL EMPLOYMENT OPPORTUNITY COMMISSION (EEOC)

Statement of Regulatory and Deregulatory Priorities

The mission of the Equal Employment Opportunity Commission (EEOC, Commission, or Agency) is to ensure equality of opportunity in employment by vigorously enforcing and educating the public about the following Federal statutes: Title VII of the Civil Rights Act of 1964, as amended (prohibits employment discrimination on the basis of race, color, sex (including pregnancy), religion, or national origin); the Equal Pay Act of 1963, as amended (makes it illegal to pay unequal wages to men and women performing substantially equal work under similar working conditions at the same establishment); the Age Discrimination in Employment Act of 1967, as amended (prohibits employment discrimination based on age of 40 or older); Titles I and V of the Americans with Disabilities Act, as amended, and sections 501 and 505 of the Rehabilitation Act, as amended (prohibit employment discrimination based on disability); Title II of the Genetic Information Nondiscrimination Act (prohibits employment discrimination based on genetic information and limits acquisition and disclosure of genetic information); and section 304 of the Government Employee Rights Act of 1991 (protects certain previously exempt state & local government employees from employment discrimination on the basis of race, color, religion, sex, national origin, age, or disability).

The first item in this Regulatory Plan is entitled “The Federal Sector's Obligation To Be a Model Employer of Individuals with Disabilities.” The EEOC's regulations implementing section 501, as set forth in 29 CFR part 1614, require Federal agencies and departments to be “model employers” of individuals with disabilities. The Commission issued an Advanced Notice of Proposed Rulemaking (ANPRM) on May 15, 2014, (79 FR 27824), and intends to issue a proposed rule to revise the regulations regarding the Federal government's affirmative employment obligations in 29 CFR part 1614 to include a more detailed explanation of how Federal agencies and departments should “give full consideration to the hiring, placement, and advancement of qualified individuals with disabilities.” Any revisions would be informed by Management Directive 715, and may include goals consistent with Executive Order 13548. Furthermore, any revisions would result in costs only to the Federal Government; would contribute to increasing the employment of individuals with disabilities; and would not affect risks to public health, safety, or the environment.

The second item is entitled “Federal Sector Equal Employment Opportunity Process.” In July 2012, the Commission published a final rule containing fifteen discrete changes to various parts of the Federal sector EEO process, and indicated that the rule was the Commission's initial step in a broader review of the Federal sector EEO process. The Commission intends to develop an ANPRM which would seek public input on additional issues associated with the Federal sector EEO process.

The third item is entitled “Amendments to Regulations Under the Americans With Disabilities Act.” This proposed rule would amend the regulations to implement the equal employment provisions of the Americans with Disabilities Act (ADA) to address the interaction between title I of the ADA and financial inducements and/or penalties as part of wellness programs offered through health plans. EEOC also plans to address other aspects of wellness programs that may be subject to the ADA's nondiscrimination provisions in this NPRM.

The fourth item is entitled “Amendments to Regulations Under the Genetic Information Nondiscrimination Act of 2008.” This proposed rule would amend the regulations on the Genetic Information Nondiscrimination Act of 2008 to address inducements to employees' spouses or other family members who respond to questions about their current or past medical conditions on health risk assessments. This NPRM will also correct a typographical error in the rule's discussion of wellness programs and add references to the Affordable Care Act, where appropriate.

Consistent with section 4(c) of Executive Order 12866, this statement was reviewed and approved by the Chair of the Agency. The statement has not been reviewed or approved by the other members of the Commission.

Retrospective Review of Existing Regulations

Pursuant to section 6 of Executive Order 13563, “Improving Regulation and Regulatory Review” (Jan. 18, 2011), the following Regulatory Identifier Numbers (RINs) have been identified as associated with retrospective review and analysis in the EEOC's final retrospective review of regulations plan. Some of the entries on this list may be completed actions, which do not appear in The Regulatory Plan. However, more information can be found about these completed rulemakings in past publications of the Unified Agenda on Reginfo.gov (http://reginfo.gov/) in the Completed Actions section. These rulemakings can also be found on Regulations.gov (http://regulations.gov). The EEOC's final Plan for Retrospective Analysis of Existing Rules can be found at: http://www.eeoc.gov/laws/regulations/retro_review_plan_final.cfm.

RIN | Title | Effect on small business
3046-AA91 | REVISIONS TO PROCEDURES FOR COMPLAINTS OR CHARGES OF EMPLOYMENT DISCRIMINATION BASED ON DISABILITY SUBJECT TO THE AMERICANS WITH DISABILITIES ACT AND SECTION 504 OF THE REHABILITATION ACT OF 1973 | This rulemaking may decrease burdens on small businesses by making the charge/complaint process more efficient.
3046-AA92 | REVISIONS TO PROCEDURES FOR COMPLAINTS/CHARGES OF EMPLOYMENT DISCRIMINATION BASED ON DISABILITY FILED AGAINST EMPLOYERS HOLDING GOVERNMENT CONTRACTS OR SUBCONTRACTS | This rulemaking may decrease burdens on small businesses by making the charge/complaint process more efficient.
3046-AA93 | REVISIONS TO PROCEDURES FOR COMPLAINTS OF EMPLOYMENT DISCRIMINATION FILED AGAINST RECIPIENTS OF FEDERAL FINANCIAL ASSISTANCE | This rulemaking may decrease burdens on small businesses by making the charge/complaint process more efficient.
3046-AB00 | FEDERAL SECTOR EQUAL EMPLOYMENT OPPORTUNITY | This rulemaking pertains to the Federal Sector equal employment opportunity process and thus is not expected to affect small businesses.

EEOC

Prerule Stage

145. Federal Sector Equal Employment Opportunity Process

Priority: Other Significant.

Legal Authority: 29 U.S.C. 206(d); 29 U.S.C. 633a; 29 U.S.C. 791; 29 U.S.C. 794; 42 U.S.C. 2000e-16; EO 10577; EO 11222; EO 11478; EO 12106; Reorganization Plan No. 1 of 1978; 42 U.S.C. 2000ff-6(e)

CFR Citation: 29 CFR 1614.

Legal Deadline: None.

Abstract: In July 2012, the Commission published a final rule containing 15 discrete changes to various parts of the Federal sector EEO complaint process, and indicated that the rule was the Commission's initial step in a broader review of the Federal sector EEO process. The Commission intends to develop an Advance Notice of Proposed Rulemaking (ANPRM), which would seek public input on additional issues associated with the Federal sector EEO process.

Statement of Need: Any proposals contained in an ANPRM would be aimed at making the process more fair and efficient.

Summary of Legal Basis: Title VII of the Civil Rights Act of 1964 authorizes EEOC “to issue such rules, regulations, orders, and instructions as it deems necessary and appropriate to carry out its responsibilities under . . . section [717].” 42 U.S.C. 2000e-16(b).

Alternatives: The EEOC would consider all alternatives offered by public commenters.

Anticipated Cost and Benefits: Based on the information currently available, we anticipate that most of the changes will have no cost and will benefit users of the process by correcting or clarifying the requirements. Any cost that might result would only be borne by the Federal Government.

Risks: Any proposed revisions would not affect risks to the public health, safety, or the environment

Timetable:

Action | Date | FR Cite
ANPRM | 03/00/15

Regulatory Flexibility Analysis Required: No.

Small Entities Affected: No.

Government Levels Affected: Federal.

Agency Contact: Thomas J. Schlageter, Assistant Legal Counsel, Office of Legal Counsel, Equal Employment Opportunity Commission, 131 M Street NE., Washington, DC 20507, Phone: 202 663-4668, Fax: 202 653-6034, Email: thomas.schlageter@eeoc.gov.

Gary Hozempa, Senior Attorney Advisor, Office of Legal Counsel, Equal Employment Opportunity Commission, 131 M Street NE., Washington, DC 20507, Phone: 202 663-4666, Fax: 202 653-6034, Email: gary.hozempa@eeoc.gov.

RIN: 3046-AB00

EEOC

Proposed Rule Stage

146. The Federal Sector's Obligation To Be a Model Employer of Individuals With Disabilities

Priority: Other Significant.

Legal Authority: 29 U.S.C. 791(b)

CFR Citation: 29 CFR 1614.203(a).

Legal Deadline: None.

Abstract: Section 501 of the Rehabilitation Act, as amended (Section 501), prohibits discrimination against individuals with disabilities in the Federal Government. The EEOC's regulations implementing section 501, as set forth in 29 CFR part 1614, require Federal agencies and departments to be “model employers” of individuals with disabilities.¹

¹ 29 CFR 1614.203(a).

On May 15, 2014, the Commission issued an Advance Notice of Proposed Rulemaking (79 FR 27824) that sought public comments on whether and how the existing regulations could be improved to provide more detail on what being a “model employer” means and how Federal agencies and departments should “give full consideration to the hiring, placement and advancement of qualified individuals with disabilities.” ² The EEOC's review of the comments and potential revisions was informed by the discussion in Management Directive 715 of the tools Federal agencies should use to establish goals for the employment and advancement of individuals with disabilities. The EEOC's review of the comments and potential revisions was also informed by, and consistent with, the goals of Executive Order 13548 to increase the employment of individuals with disabilities and the employment of individuals with targeted disabilities.

² Id.

Statement of Need: Pursuant to section 501 of the Rehabilitation Act, the Commission is authorized to issue such regulations as it deems necessary to carry out its responsibilities under this Act. Executive Order 13548 called for increased efforts by Federal agencies and departments to recruit, hire, retain, and return individuals with disabilities to the Federal workforce.

Summary of Legal Basis:

Section 501 of the Rehabilitation Act of 1973, as amended (section 501), 29 U.S.C. 791, in addition to requiring nondiscrimination with respect to Federal employees and applicants for Federal employment who are individuals with disabilities, also requires Federal agencies to maintain, update annually, and submit to the Commission an affirmative action program plan for the hiring, placement, and advancement of individuals with disabilities. As part of its responsibility for the administration and enforcement of equal opportunity in Federal employment, the Commission is authorized under 29 U.S.C. 794a(a)(1) to issue rules, regulations, orders, and instructions pursuant to section 501.

Alternatives: The EEOC considered all alternatives offered by ANPRM public commenters. The EEOC will consider all alternatives offered by future public commenters.

Anticipated Cost and Benefits: Any costs that might result would only be borne by the Federal Government. The revisions would contribute to increased employment of individuals with disabilities.

Risks: The proposed changes do not affect risks to public health, safety, or the environment.

Timetable:

Action | Date | FR Cite
ANPRM | 05/15/14 | 79 FR 27824
ANPRM Comment Period End | 07/14/14
NPRM | 01/00/15

Regulatory Flexibility Analysis Required: No.

Small Entities Affected: No.

Government Levels Affected: Federal.

Agency Contact: Christopher Kuczynski, Assistant Legal Counsel, Office of Legal Counsel, Equal Employment Opportunity Commission, 131 M Street NE., Washington, DC 20507, Phone: 202 663-4665, TDD Phone: 202 663-7026, Fax: 202 653-6034, Email: christopher.kuczynski@eeoc.gov.

Aaron Konopasky, Senior Attorney Advisor, Office of Legal Counsel, Equal Employment Opportunity Commission, 131 M Street NE., Washington, DC 20507, Phone: 202 663-4127, Fax: 202 653-6034, Email: aaron.konopasky@eeoc.gov.

Related RIN: Related to 3046-AA73

RIN: 3046-AA94

EEOC

147. Amendments to Regulations Under the Americans With Disabilities Act

Priority: Other Significant.

Legal Authority: 42 U.S.C. 12101 et seq.

CFR Citation: 29 CFR 1630.

Legal Deadline: None.

Abstract: This proposed rule would amend the regulations to implement the equal employment provisions of the Americans with Disabilities Act (ADA) to address the interaction between title I of the ADA and financial inducements and/or penalties as part of wellness programs offered through health plans. EEOC also plans to address other aspects of wellness programs that may be subject to the ADA's nondiscrimination provisions in this NPRM.

Statement of Need: The revision to 29 CFR 1630.14(d) is needed to address numerous inquiries EEOC has received about whether an employer that complies with regulations implementing the final Health Insurance Portability and Accountability Act (HIPAA) rules concerning wellness program incentives, as amended by the Affordable Care Act (ACA), will be in compliance with the ADA.

Summary of Legal Basis: The ADA requires the EEOC to issue regulations implementing title I of the Act. The EEOC initially issued regulations in 1991 on the law's requirements and prohibited practices with respect to employment and issued amended regulations in 2011 to conform to changes to the ADA made by the ADA Amendments Act of 2008. These proposed revisions are based on that statutory requirement.

Alternatives: The EEOC will consider all alternatives offered by public commenters.

Anticipated Cost and Benefits: Based on the information currently available, the Commission does not anticipate that the rule will impose additional costs on employers, beyond minimal costs to train human resource professionals. The regulation does not impose any new employer reporting or recordkeeping obligations. We anticipate that the changes will benefit entities covered by title I of the ADA by generally promoting consistency between the ADA and HIPAA, as amended by the ACA, and result in greater predictability and ease of administration.

Risks: The proposed rule imposes no new or additional risks to employers. The proposal does not address risks to public safety or the environment.

Timetable:

Action | Date | FR Cite
NPRM | 02/00/15

Regulatory Flexibility Analysis Required: No.

Small Entities Affected: Businesses, Governmental Jurisdictions, Organizations.

Government Levels Affected: Federal, Local, State.

Agency Contact: Christopher Kuczynski, Assistant Legal Counsel, Office of Legal Counsel, Equal Employment Opportunity Commission, 131 M Street NE., Washington, DC 20507, Phone: 202 663-4665, TDD Phone: 202 663-7026, Fax: 202 653-6034, Email: christopher.kuczynski@eeoc.gov.

Joyce Walker-Jones, Senior Attorney Advisor, Office of Legal Counsel, Equal Employment Opportunity Commission, 131 M Street NE., Washington, DC 20507, Phone: 202 663-7031, Fax: 202 653-6034, Email: joyce.walker-jones@eeoc.gov.

RIN: 3046-AB01

EEOC

148. Amendments to Regulations Under the Genetic Information Nondiscrimination Act of 2008

Priority: Other Significant.

Legal Authority: 42 U.S.C. 2000ff

CFR Citation: 29 CFR 1635.

Legal Deadline: None.

Abstract: This proposed rule would amend the regulations on the Genetic Information Nondiscrimination Act of 2008 to address inducements to employees' spouses or other family members who respond to questions about their current or past medical conditions on health risk assessments. This NPRM will also correct a typographical error in the rule's discussion of wellness programs and add references to the Affordable Care Act, where appropriate.

Statement of Need: The revision to 29 CFR 1635.8 is needed to address numerous inquiries received by EEOC about whether an employer will violate the Genetic Information Nondiscrimination Act of 2008 by offering an employee a financial inducement if the employee's family member completes an HRA that asks about the family member's current health status. Technical amendments are also needed to correct a typographical error and to include references to the ACA, where appropriate.

Summary of Legal Basis: GINA, section 211, 42 U.S.C. 2000ff-10, requires the EEOC to issue regulations implementing title II of the Act. The EEOC issued regulations on November 9, 2010. These proposed revisions are based on that statutory requirement.

Alternatives: The EEOC will consider all alternatives offered by public commenters.

Anticipated Cost and Benefits: Based on the information currently available, the Commission does not anticipate that the rule will impose additional costs on employers, beyond minimal costs to train human resource professionals. The regulation does not impose any new employer reporting or recordkeeping obligations. We anticipate that the changes will benefit entities covered by title II of GINA by clarifying that employers who offer wellness programs are free to adopt a certain type of inducement without violating GINA, as well as correcting an internal citation, and providing citations to the ACA.

Risks: The proposed rule imposes no new or additional risks to employers. The proposal does not address risks to public safety or the environment.

Timetable:

Action | Date | FR Cite
NPRM | 02/00/15 |

Regulatory Flexibility Analysis Required: No.

Small Entities Affected: Businesses, Governmental Jurisdictions, Organizations.

Government Levels Affected: Federal, Local, State.

Agency Contact: Christopher Kuczynski, Assistant Legal Counsel, Office of Legal Counsel, Equal Employment Opportunity Commission, 131 M Street NE., Washington, DC 20507, Phone: 202 663-4665, TDD Phone: 202 663-7026, Fax: 202 653-6034, Email: christopher.kuczynski@eeoc.gov.

Kerry Leibig, Senior Attorney Advisor, Office of the Legal Counsel, Equal Employment Opportunity Commission, 131 M Street NE., Washington, DC 20507, Phone: 202 663-4516, Fax: 202 653-6034, Email: kerry.leibig@eeoc.gov.

RIN: 3046-AB02

BILLING CODE 6570-01-P

GENERAL SERVICES ADMINISTRATION (GSA)—REGULATORY PLAN—OCTOBER 2014

I. Mission and Overview

GSA oversees the business of the Federal Government. The acquisition solutions GSA implements provides Federal purchasers with cost-effective, high-quality products and services from commercial vendors, while helping to keep the Nation safe by providing tools, equipment, and non-tactical vehicles to the U.S. military, and providing State and local governments with law enforcement equipment, firefighting and rescue equipment, and disaster recovery products and services. We provide workplaces for Federal employees and oversee the preservation of historic Federal properties.

Our Agency serves the public by delivering services directly to its Federal customers through the Federal Acquisition Service (FAS), the Public Buildings Service (PBS), and the Office of Government-wide Policy (OGP). With a continuing commitment to its Federal customers and the U.S. taxpayers, GSA provides its services in the most cost-effective manner possible.

Federal Acquisition Service (FAS)

FAS is the lead organization for procurement of products and services (other than real property) for the Federal Government. The FAS organization leverages the buying power of the Government by consolidating Federal agencies' requirements for common goods and services. FAS provides a range of high-quality and flexible acquisition services that increase overall Government effectiveness and efficiency. FAS business operations are organized into four business portfolios based on the product or service provided to customer agencies: Integrated Technology Services (ITS); Assisted Acquisition Services (AAS); General Supplies and Services (GSS); and Travel, Motor Vehicles, and Card Services (TMVCS). The FAS portfolio structure enables GSA and FAS to provide best value services, products, and solutions to its customers by aligning resources around key functions.

Public Buildings Service (PBS)

PBS is the largest public real estate organization in the United States, providing facilities and workspace solutions to more than 60 Federal agencies. PBS aims to provide a superior workplace for the Federal worker and superior value for the U.S. taxpayer. Balancing these two objectives is PBS' greatest management challenge. PBS' activities fall into two broad areas. The first is space acquisition through both leases and construction. PBS translates general needs into specific requirements, marshals the necessary resources, and delivers the space necessary to meet the respective missions of its Federal clients. The second area is management of space. This involves making decisions on maintenance, servicing tenants, and ultimately, deciding when and how to dispose of a property at the end of its useful life.

Office of Government-Wide Policy (OGP)

OGP sets Government-wide policy in the areas of personal and real property, travel and transportation, information technology, regulatory information, and use of Federal advisory committees. OGP also helps direct how all Federal supplies and services are acquired as well as GSA's own acquisition programs. OGP's regulatory function fully incorporates the provisions of the President's priorities and objectives under Executive Order 12866 and 13563 with policies covering acquisition, travel, and property and management practices to promote efficient Government operations. OGP's strategic direction is to ensure that Government-wide policies encourage agencies to develop and utilize the best, most cost effective management practices for the conduct of their specific programs. To reach the goal of improving Government-wide management of property, technology, and administrative services, OGP builds and maintains a policy framework by (1) incorporating the requirements of Federal laws, Executive orders, and other regulatory material into policies and guidelines; (2) facilitating Government-wide reform to provide Federal managers with business-like incentives and tools and flexibility to prudently manage their assets; (3) identifying, evaluating, and promoting best practices to improve efficiency of management processes; and (4) performing ongoing analysis of existing rules that may be obsolete, unnecessary, unjustified, excessively burdensome, or counterproductive.

OGP's policy regulations are described in the following subsections:

Office of Asset and Transportation Management (Federal Travel Regulation)

Federal Travel Regulation (FTR) enumerates the travel and relocation policy for all title 5 Executive agency employees. The Code of Federal Regulations (CFR) is available at www.gpoaccess.gov/cfr. Each version is updated as official changes are published in the Federal Register (FR). FR publications and complete versions of the FTR are available at www.gsa.gov/ftr.

The FTR is the regulation contained in 41 Code of Federal Regulations (CFR), chapters 300 through 304, that implements statutory requirements and executive branch policies for travel by Federal civilian employees and others authorized to travel at Government expense.

The Administrator of General Services promulgates the FTR to: (a) Interpret statutory and other policy requirements in a manner that balances the need to ensure that official travel is conducted in a responsible manner with the need to minimize administrative costs and (b) communicate the resulting policies in a clear manner to Federal agencies and employees.

Office of Asset and Transportation Management (Federal Management Regulation)

Federal Management Regulation (FMR) establishes policy for aircraft, transportation, personal property, real property, and mail management. The FMR is the successor regulation to the Federal Property Management Regulation (FPMR), and it contains updated regulatory policies originally found in the FPMR. However, it does not contain FPMR material that describes how to do business with the GSA.

Office of Acquisition Policy (General Services Administration Acquisition Manual (GSAM) and the General Services Administration Acquisition Regulation (GSAR))

GSA's internal rules and practices on how it buys goods and services from its business partners are covered by the General Services Administration Acquisition Manual (GSAM), which implements and supplement the Federal Acquisition Regulation at GSA. The GSAM comprises both a non-regulatory portion (GSAM), which reflects policies with no external impact, and a regulatory portion, the General Services Administration Acquisition Regulation (GSAR). The GSAR establishes agency acquisition regulations that affect GSA's business partners (e.g. prospective offerors and contractors) and acquisition of leasehold interests in real property. The latter are established under the authority of 40 U.S.C. 490. The GSAR implements contract clauses, solicitation provisions, and forms that control the relationship between GSA and contractors and prospective contractors.

II. Statement of Regulatory and Deregulatory Priorities

FTR Regulatory Priorities

In fiscal year 2014, GSA plans to amend the FTR by:

• Revising Chapter 301, Temporary Duty Travel, ensuring accountability and transparency. This revision will ensure agencies' travel for missions is efficient and effective, reduces costs, promotes sustainability, and incorporates industry best practices at the lowest logical travel cost.

• Revising Chapter 302, Relocation Allowances for miscellaneous items to address current Government relocation needs which the last major rewrite (FTR Amendment 2011-01) did not update. This will include revising the Relocation Income Tax (RIT) Allowance; amending coverage on family relocation; and amending the calculations regarding the commuted rate for employee-managed household goods shipments.

FMR Regulatory Priorities

In fiscal year 2014, GSA plans to amend the FMR by:

• Revising rules regarding management of Government aircraft;

• Revising rules regarding management of Federal real property;

• Revising rules regarding management of Federal personal property.

GSAR Regulatory Priorities

GSA plans, to update the GSAR to maintain consistency with the Federal Acquisition Regulation (FAR) and to implement streamlined and innovative acquisition procedures that contractors, offerors, and GSA contracting personnel can utilize when entering into and administering contractual relationships. Currently, GSA is focusing on clarifying the GSAR by—

• Providing consistency with the FAR;

• Eliminating coverage that duplicates the FAR or creates inconsistencies within the GSAR;

• Correcting inappropriate references listed to indicate the basis for the regulation;

• Rewriting sections that have become irrelevant because of changes in technology or business processes or that place unnecessary administrative burdens on contractors and the Government;

• Streamlining or simplifying the regulation;

• Rolling up coverage from the services and regions/zones that should be in the GSAR;

• Providing new and/or augmented coverage; and

• Deleting unnecessary burdens on small businesses.

Regulations of Concern to Small Businesses

FAR and GSAR rules are relevant to small businesses who do or wish to do business with the Federal Government. Approximately 18,000 businesses, most of whom are small, have GSA schedule contracts. GSA assists its small businesses by providing assistance through its Office of Small Business Utilization. In addition, GSA extensively utilizes its regional resources, within FAS and PBS, to provide grassroots outreach to small business concerns, through hosting such outreach events, or participating in a vast array of other similar presentations hosted by others.

Regulations Which Promote Open Government and Disclosure

RIN 3090-AJ30; Federal Management Regulation (FMR); FMR Case 2012-102-4, Disposal and Reporting of Federal Electronic Assets (FEA):

The GSA is considering comments received during the publication of the Proposed Rule FMR 102-36 in developing its Final Rule. As envisioned, this policy directs agencies to dispose of non-functional electronics through more sustainable means, and will require publication of agency disposal data on www.data.gov for public viewing into Federal activities.

III. Retrospective Review of Existing Regulations

Pursuant to section 6 of Executive Order 13563 “Improving Regulation and Regulatory Review” (July, 2013), the GSA retrospective review and analysis final and updated regulations plan can be found at www.gsa.gov/improvingregulations. The FAR retrospective review and analysis final and updated regulations plan can be found at www.acquisition.gov.

Regulation Identifier No. | Title
Proposed Rule Stage
3090-AI76 | General Services Administration Acquisition Regulation (GSAR); GSAR Case 2008-G506, Rewrite of GSAR Part 515, Contracting by Negotiation.
3090-AI81 | General Services Administration Acquisition Regulation (GSAR); GSAR Case 2008-G509, Rewrite GSAR 536, Construction and Architect-Engineer Contracts.
3090-AI82 | General Services Administration Acquisition Regulation (GSAR); GSAR Case 2006-G506, Environment, Conservation, Occupational Safety, and Drug-Free Workplace.
3090-AJ29 | Federal Management Regulation (FMR); FMR Case 2012-102-3; Government Domain Registration and Management.
3090-AJ41 | General Services Administration Acquisition Regulation (GSAR); GSAR Case 2013-G502, Federal Supply Schedule Contracting (Administrative Changes).
Final Rule Stage
3090-AI79 | Federal Management Regulation (FMR); FMR Case 2008-102-4, Mail Management, Financial Requirements for All Agencies.
3090-AI95 | Federal Travel Regulation (FTR); FTR Case 2009-307, Temporary Duty (TDY) Travel Allowances (Taxes); Relocation Allowances (Taxes).
3090-AJ23 | Federal Travel Regulation (FTR); FTR Case 2011-310; Telework Travel Expenses Test Programs.
3090-AJ26 | Federal Management Regulation (FMR); FMR Case 2012-102-2; Donation of Surplus Personal Property.
3090-AJ27 | Federal Travel Regulation (FTR); FTR Case 2012-301; Removal of Conference Lodging Allowance Provisions.
3090-AJ30 | Federal Management Regulation (FMR); FMR Case 2012-102-4, Disposal and Reporting of Federal Electronic Assets (FEA).
3090-AJ34 | Federal Management Regulation (FMR); FMR Case 2012-102-5, Restrictions on International Transportation of Freight and Household Goods.
3090-AJ46 | General Services Administration Acquisition Regulation (GSAR); GSAR Case 2013-G501; Qualifications of Offerors.
3090-AJ47 | General Services Administration Acquisition Regulation (GSAR); GSAR Case 2014-G501; Progressive Awards and Monthly Quantity Allocations.
Completed Actions
3090-AJ06 | Federal Travel Regulation (FTR); FTR Case 2010-303; Terms and Definitions for “Dependent,” “Domestic Partner,” “Domestic Partnership,” and “Immediate Family.”
3090-AJ11 | Federal Travel Regulation (FTR); FTR Case 2011-301; Per Diem, Miscellaneous Amendments.
3090-AJ21 | Federal Travel Regulation (FTR); FTR Case 2011-308; Payment of Expenses Connected with the Death of Certain Employees.
3090-AJ22 | Federal Travel Regulation (FTR); FTR Case 2011-309, Lodging Reimbursement.
3090-AJ31 | General Service Administration Acquisition Regulation (GSAR); GSAR Case 2012-G503, Industrial Funding Fee (IFF) and Sales Reporting.
3090-AJ35 | Federal Management Regulation (FMR); FMR Case 2013-102-1; Obligating Authority.
3090-AJ36 | General Services Administration Acquisition Regulation (GSAR); GSAR Case 2012-G501, Electronic Contracting Initiative.
3090-AJ42 | General Services Administration Acquisition Regulation (GSAR); GSAR Case 2010-G511, Purchasing by Non-Federal Entities.

Dated: September 23, 2014.
Christine Harada,
Associate Administrator, Office of Government-wide Policy.

BILLING CODE 6820-34-P

NATIONAL AERONAUTICS AND SPACE ADMINISTRATION (NASA)

Statement of Regulatory Priorities

For this statement of priorities, NASA has no recent legislative and programmatic activities that affect its regulations. There are no rulemakings that are expected to have high net benefits. All of the Agency's rulemaking promotes open government as the public is given an opportunity to review and comment on these rulemakings prior to promulgation. The Agency has no rulemakings that reduce unjustified burdens with no particular concern to small businesses, and there are no significant international impacts.

NASA continues to implement programs according to its 2014 Strategic Plan. NASA's mission is to “Drive advances in science, technology, aeronautics, and space exploration to enhance knowledge, education, innovation, economic vitality, and stewardship of the Earth.” The FY 2014 Strategic Plan, (available at http://www.nasa.gov/sites/default/files/files/2014_NASA_Strategic_Plan.pdf), guides NASA's program activities through a framework of the following three strategic goals:

• Strategic Goal 1: Expand the frontiers of knowledge, capability, and opportunity in space.

• Strategic Goal 2: Advance understanding of Earth and develop technologies to improve the quality of life on our home planet.

• Strategic Goal 3: Serve the American public and accomplish our mission by effectively managing our people, technical capabilities, and infrastructure.

In the decades since Congress enacted the National Aeronautics and Space Act of 1958, NASA has challenged its scientific and engineering capabilities in pursuing its mission, generating tremendous results and benefits for humankind. NASA will continue to push scientific and technical boundaries in pursuit of these goals.

The Federal Acquisition Regulation (FAR), 48 CFR chapter 1, contains procurement regulations that apply to NASA and other Federal agencies. NASA implements and supplements FAR requirements through the NASA FAR Supplement (NFS), 48 CFR chapter 18. NASA is in the process of reviewing and updating the entire NFS with a projected completion date of December 2015. Concurrently, NASA will continue to make routine changes to the NFS to implement NASA initiatives and Federal procurement policy.

Retrospective Review of Existing Regulations

Pursuant to section 6 of Executive Order 13579 “Regulation and Independent Regulatory Agencies” (Jul. 11, 2011), NASA regulations associated with its retrospective review and analysis are described in the Agency's final retrospective plan of existing regulations. Nineteen of these regulations were completed and are described below. NASA's final plan and updates can be found at http://www.nasa.gov/open, under the Compliance Documents Section.

Rulemaking That Was Streamlined and Reduced Unjustified Burdens

1. Supplemental Standards of Ethical Conduct for Employees of the National Aeronautics and Space Administration [5 CFR 6901]—NASA, with the concurrence of the Office of Government Ethics, amended its Supplemental Standards of Ethical Conduct for Employees of the National Aeronautics and Space Administration that permits student interns to seek prior approval to engage in outside employees with a NASA Contractor, subcontractor, grantee, or party to a NASA agreement in connect with work performed by that entity or under that agreement. The amendments clarified the types of outside employment activities that require approval, streamlined the process for approval, eliminated obsolete position titles, and extended the permissible time period of approval. The revision to NASA's supplemental outside activity regulation liberalizes a general restriction prohibiting NASA employees from outside jobs performing work under NASA's contracts, grants and other agreements to allow student interns to do so if the work complies with Federal ethics laws and U.S. Office of Government Ethics regulations. This modification helps insure that students in STEM (science, technology, engineering, and math) disciplines have full access to NASA development opportunities to maintain U.S. leadership in these fields. The revision also narrows the scope of employee-owned businesses that NASA personnel must obtain prior agency approval to undertake to those that will perform or seek to perform Federal government-related work. This change enhances workforce development by reducing burdens associated with pursuing outside activities that may help NASA employees develop new skills. Finally, the revision decentralizes and streamlines the approval process [79 FR 49225].

Rulemakings That Were Modified, Streamlined, Expanded, or Repealed

2. Removal of Obsolete Regulations: Space Flight Mission Critical Systems Personnel Reliability Program [14 CFR 1204]—NASA amended is regulations to make nonsubstantive changes by removing a regulation that was obsolete and no longer used [79 FR 7391].

3. Removal of Redundant Regulatory Text [14 CFR parts 1204, 1230, and 1232]—NASA amended its regulations to make nonsubstantive changes by removing redundant regulatory language that is already captured in statutes that govern NASA activities related to delegation of authority of certain civil rights functions, protection of human subjects, and care and use of animals in the conduct of NASA activities [78 FR 76057].

4. Removal of Obsolete Regulation: Use of Centennial of Flight Commission Name [14 CFR 1204.506]—NASA amended its regulations to make nonsubstantive changes to remove a regulation that is obsolete and no longer used [77 FR 60619].

Rulemaking That Promotes Open Government and Uses Disclosure as a Regulatory Tool

5. Procedures for Disclosure of Records Freedom of Information Act Regulations [14 CFR 1206]—NASA revised its Freedom of Information Act (FOIA) regulations to clarify and update procedures for requesting information from the Agency, as well as procedures that the Agency follows in responding to requests from the public. These revisions also incorporate clarifications and update results from changes to the FOIA and case law, as well as include current cost figures to be used in calculating and charging fees and increase the amount of information that members of the public may receive from the Agency without being charged processing fees. This rule is a ‘how to’ guide for submitting requests for Agency records, if these records are not currently on a public-facing Web site. The rule, which comports with the law, is an information access tool for disclosure of Agency records. Providing access details to the public through the FOIA rule is an effective means to promote open government and ensure the public has the knowledge of how to submit a request for Agency documents and what to expect once that request is received by the Agency [79 FR 46676].

Rulemakings That Are of Particular Concerns to Small Business

6. Small Business Policy [14 CFR 1204]—NASA amended its regulations to make nonsubstantive changes to update offices names and titles, described the role of the Small Business Technical Advisor, add more small business categories to include small disadvantaged business HUBZone small business, women-owned small business concerns, veteran-owned small business, and service-and disabled veteran-owned small business in accordance with and required by the Small Business Act (15 U.S.C. 631). NASA certifies that this rule is not subject to the Regulatory Flexibility Act (5 U.S.C. 601), because it would not have a significant economic impact on a substantial number of small businesses [78 FR 77352].

7. Nonprocurement Rule, Suspension, and Debarment [2 CFR 1880]—NASA has adopted as final, with no change, a proposed rule to extend coverage of non-procurement suspension and debarment to all tiers of procurement and non-procurement actions under all grants and cooperative agreements. NASA certifies that this rule does not have a significant economic impact on a substantial number of small entities within the meaning of the Regulatory Flexibility Act, 5 U.S.C. 601 et seq. Small entities are already required to check the Excluded Parties List System (EPLS) prior to making first-tier, procurement subawards under a grant or cooperative agreement. They will now be required to ensure that none of their potential subrecipients are on the EPLS. The EPLS is an easy-to-access and easy to-use on-line resources [78 FR 13211].

Rulemaking That Has Significant International Impacts

8. Tracking and Data Relay Satellite System [14 CFR 1215]—NASA amended its regulations to make nonsubstantive changes to the policy governing the Tracking and Data Relay Satellite System (TDRSS) services provided to non-U.S. Government users and the reimbursement for rendering such services. TDRSS, also known as the Space Network, provides command, tracking, data, voice, and video services to the International Space Station, NASA's space and Earth science missions, and other Federal agencies, including the Department of Defense and the National Science Foundation. For a fee, commercial users can also have access to TDRSS for tracking and data acquisition purposes. Over the last 25 years, TDRSS has delivered pictures, television, scientific, and voice data to the scientific community and the general public, including data from more than 100 Space Shuttle and International Space Station missions and the Hubble Space Telescope. A principal advantage of TDRSS is providing communications services, which previously have been provided by multiple worldwide ground stations, with much higher data rates and lower latency to the user missions. The rule is designed for NASA to sell unused TDRSS time to non-U.S. Government customers. The main class of current users of this rule is expendable launch vehicle providers. The United Launch Alliance (Atlas and Delta rockets), SpaceX (Falcon rocket), and Sea Launch (rocket) all use TDRSS to support their launch operations. The TDRSS allows them to receive data from their launch vehicles through most of the critical aspects of flight (mark events such as pre-launch testing, ignition, stage separations, engine start and stop, etc.). This service could be useful to international customers such as Arianespace (for their Vega or Ariane 5 launches out of French Guiana) or JAXA (for their H-IIA rocket), which has used TDRSS in the past. They would have to have TDRSS compatible transmitters on their vehicles in order to use the service. Low earth orbit (LEO) international customers not associated with NASA by international agreement would find it difficult to book unused TDRSS time, due to limited capacity on the system. ELVs are one-time, short duration events and much more likely to fit into the TDRSS schedule than a multiyear mission requiring many contacts per day [77 FR 6949].

Other Rulemakings

9. NASA Protective Services Enforcement [14 CFR 1204]—NASA amended is regulations by adding a subpart to establish traffic enforcement authority and procedures at all NASA Centers and component facilities [79 FR 54902].

10. Aeronautics and Space—Statement of Organization and General Information [14 CFR 1201]—NASA amended its regulations to make nonsubstantive changes to provide current information of NASA's organization and to redesignate the Dryden Flight Research Center as the Armstrong Flight Research Center per H.R. 667 signed by the President on January 3, 2014 [79 FR 18443].

11. Delegation and Designations [14 CFR 1204]—NASA amended its regulations to make nonsubstantive changes to correct citations and title throughout [79 FR 11318].

12. Inventions and Contributions [14 CFR 1240] NASA amended its regulations to clarify and update the procedures for board recommended awards and the procedures and requirements for recommended special initial awards, including patent application awards, software release awards, and Tech Brief awards, and to update citations and the information on the systems used for reporting inventions and issuing award payments [77 FR 27365].

13. Information Security Protection [14 CFR 1203]—NASA amended its regulations to make nonsubstantive changes to align with and implement the provisions of Executive Order (E.O.) 13526, Classified National Security Information, and appropriately to correspond with NASA's internal requirements, NPR 1600.2, Classified National Security Information, that establishes the Agency's requirements for the proper implementation and management of a uniform system for classifying, accounting, safeguarding, and declassifying national security information generated by or in the possession of NASA [78 FR 5116].

14. Claims for Patent and Copyright Infringement [14 CFR 1245]—NASA finalized its regulations relating to requirements for the filing of claims against NASA where a potential claimant believes NASA is infringing privately owned rights in patented inventions or copyrighted works. The requirements for filing an administrative claim are important since the filing of a claim carries with it certain rights relating to the applicable statute of limitations for filing suit against the Government. The regulations set forth guidelines as to what NASA considers necessary to file a claim for patent or copyright infringement, and they also provide for written notification to the claimant upon completion of an investigation by NASA [77 FR 14686].

15. Procedures for Implementing the National Environmental Policy Act [14 CFR 1216]—NASA amended its regulations governing compliance with the National Environmental Policy Act of 1969 (NEPA) and the Council on Environmental Quality's (CEQ) Code of Federal Regulations (CFR) (40 CFR parts 1500-1508). This rule replaces procedures contained in NASA's current regulations. The revised regulations are intended to improve NASA's efficiency in implementing NEPA requirements by reducing costs and preparation time while maintaining quality. In addition, NASA's experience in applying the NASA NEPA regulations since they were issued in 1988 suggested the need for NASA to make changes in its NEPA regulations. [77 FR 3102]

16. Boards and Committees [14 CFR 1209]—NASA amended its regulations to make nonsubstantive changes to correct and remove citations referenced in NASA's Contract Adjustment Board rule [78 FR 20422].

17. Research Misconduct [14 CFR 1275]—NASA amended its regulations to make nonsubstantive changes to the policy governing the handling of allegations of research misconduct and updates to reflect organizational changes that have occurred in the Agency [77 FR 44439].

18. Updating of Existing Privacy Act—NASA Regulations [14 CFR 1212]—NASA amended its regulations to make nonsubstantive changes to its rules governing implementation of the Privacy Act by updating statute citations, position titles, terminology, and adjusting appellate responsibility for records for records held by the NASA Office of the Inspective General [77 FR 60620].

19. NASA Security and Protective Service Enforcement [14 CFR 1203a, 1203b, 1204]—NASA amended its regulations to make nonsubstantive changes to its regulations to clarify the procedures for establishing controlled/secure areas and to revise the definitions for these areas and the process for granting access to these areas, as well as denying or revoking access to such areas. Arrest powers and authority of NASA security force personnel are also updated and clarified to include the carrying of weapons and the use of such weapons should a circumstance require it [78 FR 5122].

Abstracts for other regulations that will be amended or repealed between October 2014 and October 2015 are reported in the fall 2014 edition of Unified Agenda of Federal Regulatory and Deregulation actions.

BILLING CODE 7510-13-P

NATIONAL ARCHIVES AND RECORDS ADMINISTRATION (NARA)

Statement of Regulatory Priorities

Overview

The National Archives and Records Administration (NARA) primarily issues regulations directed to other Federal agencies and to the public. These regulations include records management, information services, access to and use of NARA holdings, and grant programs. For example, records management regulations directed to Federal agencies concern the proper management and disposition of Federal records. Through the Information Security Oversight Office (ISOO), NARA also issues Government-wide regulations concerning information security classification and declassification programs. NARA regulations directed to the public address access to and use of our historically valuable holdings, including archives, donated historical materials, Nixon Presidential materials, and Presidential records. NARA also issues regulations relating to the National Historical Publications and Records Commission (NHPRC) grant programs.

NARA has two regulatory priorities for Fiscal Year 2015, which are included in The Regulatory Plan. The first are NARA's continuing revisions to the Federal records management regulations found at 36 CFR chapter XII, subchapter B. The proposed changes include changes resulting from the 2011 Presidential Memorandum on Managing Government Records and the 2012 Managing Government Records Directive (M-12-18). The proposed rules will affect Federal agencies' records management programs relating to proper records creation and maintenance, adequate documentation, electronic recordkeeping requirements, use of the Electronic Records Archive (ERA) for records transfer, and records disposition. The proposed revisions have begun with changes to provisions at 36 CFR parts 1222, 1223, 1224, 1227, 1229, 1232, 1233, 1235, 1237, and 1239. These provisions were substantially revamped and began undergoing public comment beginning in September 2014. Additional proposed revisions to the subchapter will be published for public comment later this fiscal year as well.

The second priority is a new regulation on Controlled Unclassified Information (CUI). The Information Security Oversight Office (ISOO), a component of NARA, is proposing this rule pursuant to Executive Order 13556. The Order establishes an open and uniform program for managing information requiring safeguarding or dissemination controls. This rule sets forth guidance to agencies on safeguarding, disseminating, marking, and decontrolling CUI, self-inspection and oversight requirements, and other facets of the program.

BILLING CODE 7515-01-P

2014 OPM

Statement of Regulatory Priorities

Personnel Management in Agencies

The Chief Human Capital Act of 2002 requires OPM to develop systems, standards, and metrics for strategic human capital management in agencies. This rule promulgates these systems, standards, and metrics.

Human Resources Management Reporting Requirements

This rule was a Presidential initiative as part of paperwork reduction and eliminating burdensome and unnecessary reporting. It enables agencies to focus on strategic human capital management rather than administrative reporting. We have been building new leadership and accountability mechanisms around its requirements. This rule also supports Strategic Goal 3 as OPM is building internal data and reporting capabilities to replace these burdensome reporting requirements on agencies.

Performance Appraisal System Certification for Pay Purposes

This rule establishes certification criteria and procedures for agencies to follow to have their Senior Executive and Senior Professional's appraisal system certified by OPM. An agency appraisal system is certified only when a review of that system's design (i.e., system documentation), implementation (i.e., performance plans), and application (i.e., results) reveals that the agency meets the certification criteria. The appraisal process must make meaningful distinctions based on relative performance. The law requires OPM and OMB to jointly regulate the criteria and process used for appraisal system certification.

Managing Senior Executive Performance

This rule fosters an effective enterprise approach to the performance management of Senior Executive Service (SES) members. In January 2012, OPM and OMB released a basic SES appraisal system to provide a more consistent and uniform framework to communicate expectations and evaluate the performance of SES members. The system focuses on the role and responsibility of SES members to achieve results through effective executive leadership. This rule includes the requirements of this system.

Federal Employees Health Benefits Program

OPM will make several amendments to the Federal Employees Health Benefits (FEHB) regulations to adhere to the provisions of the Affordable Care Act of 2010. These amendments include enrollments for eligible employees of Tribes and Tribal organizations, changes to resolutions of disputed health claims and external reviews, rate settings for community-rated plans, enrollment options following the termination of a plan or plan option, and the expansion of eligibility to certain employees on temporary appointments and certain employees on seasonal and intermittent schedules.

BILLING CODE 6325-44-P

PENSION BENEFIT GUARANTY CORPORATION (PBGC)

Statement of Regulatory and Deregulatory Priorities

The Pension Benefit Guaranty Corporation (PBGC) protects the pensions of more than 40 million people in more than 25,000 private-sector defined benefit plans. PBGC receives no tax revenues. Operations are financed by insurance premiums, investment income, assets from pension plans trusteed by PBGC, and recoveries from the companies formerly responsible for the trusteed plans.

To carry out these functions, PBGC issues regulations on such matters as termination, payment of premiums, reporting and disclosure, and assessment and collection of employer liability. The Corporation is committed to issuing simple, understandable, flexible, and timely regulations to help affected parties.

PBGC continues to follow a regulatory approach that does not inadvertently discourage the maintenance of existing defined benefit plans or the establishment of new plans. Thus, in developing new regulations and reviewing existing regulations, the focus, to the extent possible, is to avoid placing burdens on plans, employers, and participants, and to ease and simplify employer compliance. PBGC particularly strives to meet the needs of small businesses that sponsor defined benefit plans.

PBGC develops its regulations in accordance with the principles set forth in Executive Order 13563 “Improving Regulation and Regulatory Review” (Jan. 18, 2011), and PBGC's Plan for Regulatory Review (Regulatory Review Plan).¹ This Statement of Regulatory and Deregulatory Priorities reflects PBGC's ongoing implementation of its Regulatory Review Plan.

¹ http://www.pbgc.gov/documents/plan-for-regulatory-review.pdf . Progress reports on the plan can be found at http://www.pbgc.gov/res/laws-and-regulations/reducing-regulatory-burden.html.

PBGC Insurance Programs

PBGC administers two insurance programs for privately defined benefit plans under title IV of the Employee Retirement Income Security Act of 1974 (ERISA):

• Single-Employer Program. Under the single-employer program, when a plan terminates with insufficient assets to cover all plan benefits (distress and involuntary terminations), PBGC pays plan benefits that are guaranteed under title IV. PBGC also pays nonguaranteed plan benefits to the extent funded by plan assets or recoveries from employers.

• Multiemployer Program. The smaller multiemployer program covers more than 1,450 collectively bargained plans involving more than one unrelated employer. PBGC provides financial assistance (in the form of a loan) to the plan if the plan is unable to pay benefits at the guaranteed level. Guaranteed benefits are less than single-employer guaranteed benefits.

At the end of fiscal year 2013, PBGC had a deficit of about $36 billion in its insurance programs. Current PBGC premiums are insufficient.

Regulatory Objectives and Priorities

PBGC's regulatory objectives and priorities are developed in the context of the Corporation's statutory purposes:

• To encourage voluntary private pension plans.

• To provide for the timely and uninterrupted payment of pension benefits.

• To keep premiums at the lowest possible levels.

Pensions and the statutory framework in which they are maintained and terminate are complex. Despite this complexity, PBGC is committed to issuing simple, understandable, flexible, and timely regulations and other guidance that do not impose undue burdens that could impede maintenance or establishment of defined benefit plans.

Through its regulations and other guidance, PBGC strives to minimize burdens on plans, plan sponsors, and plan participants; simplify filing; provide relief for small businesses and plans; and assist plans in complying with applicable requirements. To enhance policy-making through collaboration, PBGC also plans to expand opportunities for public participation in rulemaking (see Open Government and Public Participation below).

PBGC's current regulatory objectives and priorities are to simplify its regulations and reduce burden, particularly in the areas of premiums and reporting, enhance retirement security, and complete implementation of the Pension Protection Act of 2006 (PPA 2006).

Rethinking Existing Regulations

Pursuant to section 6 of Executive Order 13563 “Improving Regulation and Regulatory Review” (Jan. 18, 2011), the following Regulatory Identifier Numbers (RINs) have been identified as associated with retrospective review and analysis in the Department's final retrospective review of regulations plan. The regulatory actions associated with these RINs, as well as other regulatory review projects, are described below.

Title | RIN | Effect on small business
Reportable Events | 1212-AB06 | Expected to reduce burden on small business.
Premium Rates; Payment of Premiums; Reducing Regulatory Burden | 1212-AB26 | Reduces the burden on small business.
Multiemployer Plans; Valuation and Notice Requirements | 1212-AB25 | Little effect on small business.
Allocation of Assets in Single-Employer Plans; Valuation of Benefits and Assets | 1212-AA55 | Undetermined.

Reportable events. PPA 2006 affected certain provisions in PBGC's reportable events regulation, which requires employers to notify PBGC of certain plan or corporate events. In November 2009, PBGC published a proposed rule to conform the regulation to the PPA 2006 changes and make other changes.² In response to Executive Order 13563 and comments on the proposed rule, in April 2013, PBGC published a new proposal that would exempt more than 90 percent of plans and sponsors from many reporting requirements. The new proposal takes advantage of other existing reporting requirements and methods to avoid burdening companies and plans and expands waivers and redefines events to reduce reporting. The new proposal implements stakeholder suggestions that different reporting requirements should apply in circumstances where the risk to PBGC is low or compliance is especially burdensome. PBGC is developing the final rule, taking into account the public comments.

² 74 FR 61248 (Nov. 23, 2009), http://www.pbgc.gov/Documents/E9-28056.pdf .

Premiums. In January and March 2014 PBGC published final rules to make its premium rules more effective and less burdensome. ³ PBGC developed the rules in response to regulatory review and public comments. The changes simplify due dates, coordinate the due date for terminating plans with the termination process, make conforming and clarifying changes to the variable-rate premium rules, and provide for relief from penalties. Large plans no longer have to pay flat-rate premiums early; small plans get more time to value benefits. The changes were favorably received by the pension community.

³ 79 FR 347 (Jan. 3, 2014), http://www.pbgc.gov/documents/2013-31109.pdf; 79 FR 13547 (Mar. 11, 2014), http://www.pbgc.gov/documents/2014-05212.pdf .

Multiemployer plans. In May 2014, PBGC published a final rule amending PBGC's multiemployer regulations.⁴ The changes were developed as a result of PBGC's regulatory review. The amendments reduce the number of actuarial valuations required for certain small terminated but not insolvent plans, shorten the advance notice filing requirements for mergers in situations that do not involve a compliance determination, and remove certain insolvency notice and update requirements.

⁴ 79 FR 30459 (May 28, 2014), http://www.pbgc.gov/documents/2014-12154.pdf .

Allocation of Assets in Single-Employer Plans; Valuation of Benefits and Assets. In FY 2014, PBGC began an internal process to establish routine, periodic review of PBGC regulations and policies to ensure that the actuarial and economic content remains current.

ERISA section 4062(e). The statutory provision requires reporting of, and liability for, certain substantial cessations of operations by employers that maintain single-employer plans. In August 2010, PBGC issued a proposed rule to provide guidance on the applicability and enforcement of section 4062(e).⁵ In light of comments on the proposal and PBGC's enforcement practices, in November 2012, PBGC announced a 4062(e) enforcement pilot program under which it did not enforce in the case of small plans or financially strong sponsors (90 percent of plans are small or have financially strong sponsors). In July 2014, PBGC announced a moratorium, until the end of 2014, on the enforcement of 4062(e) cases.⁶ The moratorium will enable PBGC to further target at-risk plans and work with the business community, labor, and other stakeholders to minimize effects on necessary business activities. At this time, PBGC is withdrawing RIN 1212-AB20 from its regulatory agenda.

⁵ 75 FR 48283 (Aug. 10, 2010), http://www.pbgc.gov/Documents/2010-19627.pdf .

⁶ http://www.pbgc.gov/news/press/releases/pr14-09.html .

ERISA section 4010. PBGC is reviewing its regulation on Annual Financial and Actuarial Information Reporting (part 4010) and the related e-filing application to consider ways of reducing reporting burden and ensuring that PBGC receives the critical information it needs.

Retirement Security

DC to DB plan rollovers.

In April 2014, PBGC published a proposed rule that would clarify the treatment of benefits resulting from a rollover distribution from a defined contribution plan to a defined benefit plan, if the defined benefit plan was terminated and trusteed by PBGC.⁷ Under the proposal, a benefit resulting from rollover amounts generally would not be subject to PBGC's maximum guaranteeable benefit or phase-in limitations and would be in the second highest priority category of benefits in the allocation of assets. The proposed rule was well-received by the public, and PBGC expects to publish a final rule early in FY 2015. This rulemaking is part of PBGC's efforts to enhance retirement security by promoting lifetime income options.

⁷ 79 FR 18483 (Apr. 2, 2014), http://www.pbgc.gov/documents/2014-07323.pdf .

PPA 2006 Implementation

Cash balance plans. PPA 2006 changed the rules for determining benefits in cash balance plans and other statutory hybrid plans. In October 2011, PBGC published a proposed rule implementing the changes in both PBGC-trusteed plans and in plans that close out in the private sector.⁸ The final rule is on hold until Treasury issues final regulations.

⁸ 76 FR 67105 (Oct. 31, 2011), http://www.pbgc.gov/Documents/2011-28124.pdf .

Missing participants. A major focus of PBGC's current regulatory efforts is the development of a proposal to improve and expand our missing participants program. The expanded program will cover terminating defined contribution plans, non-covered defined benefit plans, and multiemployer plans. The proposal will take into account comments received from employers, plans, and other stakeholders in response to a 2013 Request for Information. PBGC is working with IRS and DOL to coordinate government requirements for dealing with missing participant issues. PBGC expects to publish a proposed regulation early in FY 2015.

Shutdown benefits. Under PPA 2006, the phase-in period for the guarantee of a benefit payable solely by reason of an “unpredictable contingent event,” such as a plant shutdown, starts no earlier than the date of the shutdown or other unpredictable contingent event. PBGC published a final rule implementing this statutory change in May 2014.⁹

⁹ 79 FR 25667 (May 6, 2014), http://www.pbgc.gov/documents/2014-10357.pdf

Small Businesses

PBGC takes into account the special needs and concerns of small businesses in making policy. A large percentage of the plans insured by PBGC are small or maintained by small employers. PBGC has issued or is considering several proposed rules that will focus on small businesses:

Small plan premium due date. The March 2014 final rule discussed above under Retrospective Review of Existing Regulations addresses concerns that some small plans determine funding levels too late in the year to be able to use current-year figures for the variable-rate premium by the new uniform due date. Under the final rule, small plans generally use prior-year figures for the variable-rate premium (with a provision for opting to use current-year figures).

Reportable events. The reportable events proposed rule discussed above under Retrospective Review of Existing Regulations would waive many reporting requirements for plans with fewer than 100 participants.

Missing participants. The missing participants proposed rule discussed above under PPA 2006 Implementation would benefit small businesses by simplifying and streamlining current requirements, better coordinating with requirements of other agencies, and providing more options for sponsors of terminating non-covered plans.

Open Government and Increased Public Participation

PBGC is doing more to encourage public participation in the regulatory process. For example, PBGC's current efforts to reduce regulatory burden are in substantial part a response to public comments. Regulatory projects discussed above, such as reportable events, ERISA section 4062(e), and ERISA section 4010, highlight PBGC's customer-focused efforts to reduce regulatory burden.

PBGC's Regulatory Review Plan sets forth ways to expand opportunities for public participation in the regulatory process. For example, in June 2013, PBGC held its first ever regulatory hearing on the reportable events proposed rule, so that the agency would have a better understanding of the needs and concerns of plan administrators and plan sponsors. PBGC's 2013 Request for Information on missing participants in individual account plans is another example of PBGC's efforts to solicit public participation in the regulatory process.

PBGC plans to provide additional means for public involvement, including on-line town hall meetings, social media, and continuing opportunity for public comment on PBGC's Web site.

PBGC also invites comments on the Regulatory Review Plan on an on-going basis as we engage in the review process. Comments should be sent to regs.comments@pbgc.gov.

PBGC will continue to look for ways to further improve its regulations.

BILLING CODE 7709-01-P

U.S. SMALL BUSINESS ADMINISTRATION (SBA)

Statement of Regulatory Priorities

Overview

The mission of the U.S. Small Business Administration (SBA) is to maintain and strengthen the Nation's economy by enabling the establishment and viability of small businesses and by assisting in economic recovery of communities after disasters. In carrying out this mission, SBA strives to improve the economic environment for small businesses, including those in areas that have significantly higher unemployment and lower income levels than the Nation's averages and those in traditionally underserved markets. The Agency serves as a guarantor of small business loans, and also provides management and technical assistance to existing or potential small business owners through various grants, cooperative agreements or contracts. This access to capital and other assistance provides a crucial foundation for those starting a new business, or growing an existing business and ultimately creating new jobs. SBA also provides direct financial assistance to homeowners, renters, and small business owners to help communities to rebuild in the aftermath of a disaster.

Reducing Burden on Small Businesses

SBA's regulatory policy reflects a commitment to developing regulations that reduce or eliminate the burden on the public, especially the Agency's core constituents—small businesses. SBA's regulatory process generally includes an assessment of the costs and benefits of the regulations as required by Executive Order 12866, “Regulatory Planning and Review”; Executive Order 13563, “Improving Regulation and Regulatory Review”; and the Regulatory Flexibility Act. SBA's program offices are particularly invested in finding ways to reduce the burden imposed by the Agency's core activities in its loan, innovation, and procurement programs.

Openness and Transparency

SBA promotes transparency, collaboration, and public participation in its rulemaking process. To that end, SBA routinely solicits comments on its regulations, even those that are not subject to the public notice and comment requirement under the Administrative Procedure Act. Where appropriate, SBA also conducts hearings, webinars, and other public events as part of its regulatory process.

Regulatory Framework

The SBA's FY 2014 to FY 2018 strategic plan serves as the foundation for the regulations that the Agency will develop during the next 12 months. The strategic plan proposes three strategic goals: (1) Growing businesses and creating jobs; (2) serving as the voice for small business; and (3) building an SBA that meets the needs of today's and tomorrow's small businesses. In order to achieve these goals SBA will, among other objectives, focus on:

• Expanding access to capital through SBA's extensive lending network;

• Ensuring Federal contracting goals are met or exceeded by collaborating across the Federal Government to expand opportunities for small businesses and strengthen the integrity of the Federal contracting data and certification process;

• Strengthening SBA's relevance to high growth entrepreneurs and small businesses to more effectively drive innovation and job creation; and

• Mitigating risk and improving program oversight.

The regulations reported in SBA's semi-annual regulatory agenda and plan are intended to facilitate achievement of these goals and objectives. Over the next 12 months, SBA's highest regulatory priority is to implement the Mentor-Protégé Programs, which were authorized by the Small Business Jobs Act, for participants in the HUBZone, Women Owned Small Business (WOSB) Contracting, and Service-Disabled Veteran-Owned Small Business (SDVOSB) Programs and expanded to all small business concerns by the National Defense Authorization Act for FY 2013.

(1) Small Business Mentor-Protégé Programs (RIN: 3245-AG24):

SBA currently has a mentor-protégé program for the 8(a) Business Development Program that is intended to enhance the capabilities of the protégé and to improve its ability to successfully compete for Federal contracts. The Small Business Jobs Act authorized SBA to use this model to establish similar mentor-protégé programs for the Service Disabled Veteran Owned, HUBZone and Women-Owned Small Business Programs. The National Defense Authorization Act for FY 2013 further authorized SBA to extend the availability of mentor-protégé programs to all small business concerns. During the next 12 months, one of SBA's priorities will be to issue regulations establishing these newly authorized mentor-protégé programs. The various types of assistance that a mentor will be expected to provide to a protégé include technical and/or management assistance; financial assistance in the form of equity investment and/or loans; subcontracts and/or assistance in performing prime contracts with the Government in the form of joint venture arrangements.

Retrospective Review of Existing Regulations

Pursuant to section 6 of Executive Order 13563 “Improving Regulation and Regulatory Review” (Jan. 18, 2011), SBA developed a plan for the retrospective review of its regulations. Since that date SBA has issued several updates to this plan to reflect the Agency's ongoing efforts in carrying out this executive order. The final agency plan and review updates can be found at http://www.sba.gov/about-sba/sba_performance/open_government/retrospective_review_of_regulations.

BILLING CODE 8025-01-P

SOCIAL SECURITY ADMINISTRATION (SSA)

Statement of Regulatory Priorities

We administer the Retirement, Survivors, and Disability Insurance programs under title II of the Social Security Act (Act), the Supplemental Security Income (SSI) program under title XVI of the Act, and the Special Veterans Benefits program under title VIII of the Act. As directed by Congress, we also assist in administering portions of the Medicare program under title XVIII of the Act. Our regulations codify the requirements for eligibility and entitlement to benefits and our procedures for administering these programs. Generally, our regulations do not impose burdens on the private sector or on State or local governments, except for the States' disability determination services. We fully fund the disability determination services in advance or by way of reimbursement for necessary costs in making disability determinations.

The ten entries in our regulatory plan (plan) represent issues of major importance to the Agency. We describe the individual initiatives more fully in the attached plan.

Improving the Disability Process

Since the continued improvement of the disability program is of vital concern to us, we have initiatives in the plan addressing disability-related issues. They include:

One proposed rule and five final rules update the medical listings used to determine disability—evaluating digestive disorders, neurological impairments, hematological disorders, growth disorders and weight loss in children, human immunodeficiency virus infection for evaluating functional limitation in immune system disorders, and cancer (malignant neoplastic diseases). The revisions reflect our adjudicative experience and advances in medical knowledge, diagnosis, and treatment.

Enhance Public Service

Another proposed rule will require our claimants to inform us or to submit all evidence known to them that relates to their disability claim.

We are revising our rules to allow applicants for a Social Security number card to apply by completing a prescribed application and submitting the required evidence, rather than completing a paper application.

There is one proposed rule that will enhance claims processing. The rule will strengthen the integrity of our programs by clarifying our expectations about the obligations representatives have in representing their clients.

Retrospective Review of Existing Regulations

Pursuant to section 6 of Executive Order 13563 “Improving Regulation and Regulatory Review” (January 18, 2011), the following Regulatory Identifier Numbers (RINs) have been identified as associated with retrospective review and analysis in our final retrospective review of regulations plan. Some of the entries on this list may be completed actions, which do not appear in The Regulatory Plan. However, you can find more information about these completed rulemakings in past publications of the Unified Agenda at: www.Reginfo.gov in the Completed Actions section for the Social Security Administration. You can also find these rulemakings at: www.Regulations.gov. The agency final plans are located at: www.socialsecurity.gov/open/regsreview/EO-13563-Final-Plan.html.

RIN | Title | Expected to significantly reduce burdens on small businesses
0960-AF35 | Revised Medical Criteria for Evaluating Neurological Impairments | No.
0960-AF58 | Revised Medical Criteria for Evaluating Respiratory System Disorders | No.
0960-AF69 | Revised Medical Criteria for Evaluating Mental Disorders | No.
0960-AF88 | Revised Medical Criteria for Evaluating Hematological Disorders | No.
0960-AG21 | New Medical Criteria for Evaluating Language and Speech Disorders | No.
0960-AG28 | Revised Medical Criteria for Evaluating Growth Impairments | No.
0960-AG38 | Revised Medical Criteria for Evaluating Musculoskeletal Disorders | No.
0960-AG65 | Revised Medical Criteria for Evaluating Digestive Disorders | No.
0960-AG74 | Revised Medical Criteria for Evaluating Cardiovascular Disorders | No.
0960-AG91 | Revised Medical Criteria for Evaluating Skin Disorders | No.
0960-AH04 | Revised Medical Criteria for Evaluating Congenital Disorders That Affect Multiple Body Systems | No.
0960-AH28 | Revised Medical Criteria for Evaluating Visual Disorders | No.
0960-AH43 | Revised Medical Criteria for Evaluating Cancer (Malignant Neoplastic Diseases) | No.
0960-AH54 | Revised Medical Criteria for Evaluating Hearing Loss and Disturbances of Labyrinthine-Vestibular Function | No.

SSA

Proposed Rule Stage

149. Revised Medical Criteria for Evaluating Digestive Disorders (3441P)

Priority: Other Significant.

Legal Authority: 42 U.S.C. 402; 42 U.S.C. 405(a); 42 U.S.C. 405(b); 42 U.S.C. 405(d) to 405(h); 42 U.S.C. 416(i); 42 U.S.C. 421(a); 42 U.S.C. 421(i); 42 U.S.C. 423; 42 U.S.C. 902(a)(5); 42 U.S.C. 1381a; 42 U.S.C. 1382c; 42 U.S.C. 1383; 42 U.S.C. 1383b.

CFR Citation: 20 CFR 404.1500, app 1.

Legal Deadline: None.

Abstract: Sections 5.00 and 105.00, Digestive Systems, of appendix 1 to subpart P of part 404 of our regulations describe those digestive disorders that we consider severe enough to prevent a person from doing any gainful activity, or that cause marked and severe functional limitations for a child claiming Supplemental Security Income payments under title XVI. We are proposing to revise the criteria in these sections to ensure that the medical evaluation criteria are up-to-date and consistent with the latest advances in medical knowledge and treatment.

Statement of Need: These proposed rules will update, simplify, and clarify our rules.

Summary of Legal Basis: Administrative—not required by statute or court order.

Alternatives: We could continue to use our current criteria. However, we believe these proposed revisions are necessary because of our program experience, information we received from medical experts we consulted, and comments we received at the Listings Symposium and in response to the ANPRM.

Anticipated Cost and Benefits: Presently under review.

Risks: None.

Timetable:

Action | Date | FR Cite
ANPRM | 12/12/07 | 72 FR 70527
ANPRM Comment Period End | 02/11/08 |
NPRM | 01/00/15 |

Regulatory Flexibility Analysis Required: No.

Small Entities Affected: No.

Government Levels Affected: None.

Additional Information: Includes Retrospective Review under E.O. 13563.

URL for Public Comments: www.regulations.gov.

Agency Contact: Cheryl A. Williams, Director, Social Security Administration, Office of Medical Listings Improvement, 6401 Security Boulevard, Baltimore, MD 21235-6401, Phone: 410 965-1020.

Shawnette Ashburne, Social Insurance Specialist, Social Security Administration, Office of Medical Listings Improvement, 6401 Security Boulevard, Baltimore, MD 21235-6401, Phone: 410 966-5788.

Brian J. Rudick, Social Insurance Specialist, Regulations Writer, Social Security Administration, Office of Regulations and Reports Clearance, 6401 Security Boulevard, Baltimore, MD 21235-6401, Phone: 410 965-7102.

RIN: 0960-AG65

SSA

150. Revisions to Representative Code of Conduct (3835P)

Priority: Other Significant. Major status under 5 U.S.C. 801 is undetermined.

Unfunded Mandates: Undetermined.

Legal Authority: Not Yet Determined.

CFR Citation: Not Yet Determined.

Legal Deadline: None.

Abstract: This regulatory change adds several affirmative duties and prohibited actions for representatives, including the requirement to assist claimants with complying with the directive to submit all evidence. We will also clarify some of our rules regarding processing representative sanction actions at the hearing and Appeals Council levels and change the timeframe for suspended representatives to request reinstatement when the Appeals Council denies an initial request for reinstatement from 1 to 3 years.

Statement of Need: We revised the rules of conduct in 2011 and are further clarifying our expectations about the obligations of representatives to competently represent their clients. These changes are necessary because our current regulations do not address some representative conduct that we find inappropriate. We are also updating procedures we use when we bring charges against a representative for violating our rules of conduct. These changes will allow us to better protect the integrity of our administrative process and further clarify representatives' responsibilities in their conduct with us and claimants.

Summary of Legal Basis: Administrative-not required by statute or court order.

Alternatives: Based on our program experience, there are no alternatives at this time. These rules will be based on recommendations.

Anticipated Cost and Benefits: The administrative effect of this regulation is negligible.

Risks: Undetermined.

Timetable:

Action | Date | FR Cite
NPRM | 01/00/15 |

Regulatory Flexibility Analysis Required: Undetermined.

Government Levels Affected: Undetermined.

URL for Public Comments: www.regulations.gov.

Agency Contact: William P. Gibson, Social Insurance Specialist, Regulations Writer, Social Security Administration, Office of Regulations and Reports Clearance, 6401 Security Boulevard, Baltimore, MD 21235-6401, Phone: 410 966-9039.

RIN: 0960-AH63

SSA

Final Rule Stage

151. Revised Medical Criteria for Evaluating Neurological Impairments (806F)

Priority: Other Significant.

Legal Authority: 42 U.S.C. 402; 42 U.S.C. 405(a); 42 U.S.C. 405(b); 42 U.S.C. 405(d) to 405(h); 42 U.S.C. 416(i); 42 U.S.C. 421(a); 42 U.S.C. 421(i); 42 U.S.C. 423; 42 U.S.C. 902(a)(5); 42 U.S.C. 1381a; 42 U.S.C. 1382c; 42 U.S.C. 1383; 42 U.S.C. 1383b.

CFR Citation: 20 CFR 404.1500, app 1.

Legal Deadline: None.

Abstract: Sections 11.00 and 111.00, Neurological Impairments, of appendix 1 to subpart P of part 404 of our regulations describe neurological impairments that we consider severe enough to prevent a person from doing any gainful activity, or that cause marked and severe functional limitations for a child claiming Supplemental Security Income payments under title XVI. We will revise these sections to ensure that the medical evaluation criteria are up-to-date and consistent with the latest advances in medical knowledge and treatment.

Statement of Need: These final rules are necessary to update the listings for evaluating neurological impairments to reflect advances in medical knowledge, treatment, and methods of evaluating these impairments. The changes will ensure that determinations of disability have a sound medical basis, that claimants receive equal treatment through the use of specific criteria, and that people who are disabled can be readily identified and awarded benefits if all other factors of entitlement or eligibility are met.

Summary of Legal Basis: Administrative-not required by statute or court order.

Alternatives: We considered not revising the listings and continuing to use our current criteria. However, we believe that these revisions are preferable because of the medical advances that have been made in treating and evaluating these types of impairments.

Anticipated Cost and Benefits: Estimated Savings-low.

Risks: None.

Timetable:

Action | Date | FR Cite
ANPRM | 04/13/05 | 70 FR 19356
ANPRM Comment Period End | 06/13/05 |
NPRM | 02/25/14 | 79 FR 10636
NPRM Comment Period End | 04/28/14 |
NPRM Comment Period Reopened | 05/01/14 | 79 FR 24634
NPRM Comment Period Reopened End | 06/02/14 |
Final Action | 07/00/15 |

Regulatory Flexibility Analysis Required: No.

Small Entities Affected: No.

Government Levels Affected: None.

Additional Information: Includes Retrospective Review under E.O. 13563.

URL for Public Comments: www.regulations.gov.

Agency Contact: Cheryl A. Williams, Director, Social Security Administration, Office of Medical Listings Improvement, 6401 Security Boulevard, Baltimore, MD 21235-6401, Phone: 410 965-1020.

Shawnette Ashburne, Social Insurance Specialist, Social Security Administration, Office of Medical Listings Improvement, 6401 Security Boulevard, Baltimore, MD 21235-6401, Phone: 410 966-5788.

William P. Gibson, Social Insurance Specialist, Regulations Writer, Social Security Administration, Office of Regulations and Reports Clearance, 6401 Security Boulevard, Baltimore, MD 21235-6401, Phone: 410 966-9039.

RIN: 0960-AF35

SSA

152. Revised Medical Criteria for Evaluating Hematological Disorders (974F)

Priority: Other Significant.

Legal Authority: 42 U.S.C. 402; 42 U.S.C. 405(a); 42 U.S.C. 405(b); 42 U.S.C. 405(d) to 405(h); 42 U.S.C. 416(i); 42 U.S.C. 421(a); 42 U.S.C. 421(i); 42 U.S.C. 423; 42 U.S.C. 902(a)5)); 42 U.S.C. 1381a; 42 U.S.C. 1382c; 42 U.S.C. 1383; 42 U.S.C. 1383b.

CFR Citation: 20 CFR 404.1500, app 1.

Legal Deadline: None.

Abstract: Sections 7.00 and 107.00, Hematological Disorders, of appendix 1 to subpart P of part 404 of our regulations, describe hematological disorders that we consider severe enough to prevent a person from performing any gainful activity or that cause marked and severe functional limitation for a child claiming Supplemental Security Income payments under title XVI. We are proposing to revise the criteria in these sections to ensure that the medical evaluation criteria are up-to-date and consistent with the latest advances in medical knowledge and treatment.

Statement of Need: These final rules are necessary to update the hematological listings to reflect advances in medical knowledge, treatment, and methods of evaluating hematological disorders. The changes ensure that determinations of disability have a sound medical basis, that claimants receive equal treatment through the use of specific criteria, and that people who are disabled can be readily identified and awarded benefits if all other factors of entitlement or eligibility are met.

Summary of Legal Basis: Administrative-not required by statute or court order.

Alternatives: We considered not revising the listings or making only minor technical changes and continuing to use our current criteria. However, we believe that these revisions are preferable because of the medical advances that have been made in treating and evaluating these types of impairments.

Anticipated Cost and Benefits: Estimated savings-low.

Risks: None.

Timetable:

Action | Date | FR Cite
NPRM | 11/19/13 | 78 FR 69324
NPRM Comment Period End | 01/21/14 |
Final Action | 09/00/15 |

Regulatory Flexibility Analysis Required: No.

Small Entities Affected: No.

Government Levels Affected: None.

Additional Information: Includes Retrospective Review under E.O. 13563.

URL for Public Comments: www.regulations.gov.

Agency Contact: Cheryl A. Williams, Director, Social Security Administration, Office of Medical Listings Improvement, 6401 Security Boulevard, Baltimore, MD 21235-6401, Phone: 410 965-1020.

Mark Kuhn, Social Insurance Specialist, Social Security Administration, Office of Medical Listings Improvement, 6401 Security Boulevard, Baltimore, MD 21235-6401, Phone: 410 966-6109.

Helen Droddy, Social Insurance Specialist, Regulations Writer, Social Security Administration, Office of Regulations and Reports Clearance, 6401 Security Boulevard, Baltimore, MD 21235-6401, Phone: 410 965-1483.

RIN: 0960-AF88

SSA

153. Revised Medical Criteria for Evaluating Growth Disorders and Weight Loss in Children (3163F)

Priority: Other Significant.

Legal Authority: 42 U.S.C. 402; 42 U.S.C. 405(a); 42 U.S.C. 405(b); 42 U.S.C. 405(d) to 405(h); 42 U.S.C. 416(i); 42 U.S.C. 421(a); 42 U.S.C. 421(i); 42 U.S.C. 423; 42 U.S.C. 902(a)(5); 42 U.S.C. 1381a; 42 U.S.C. 1382c; 42 U.S.C. 1383; 42 U.S.C. 1383b.

CFR Citation: 20 CFR 404.1500, app 1.

Legal Deadline: None.

Abstract: Section 100.00, Growth Impairments, of appendix 1 to subpart P of part 404 of our regulations describes growth impairments that we consider severe enough to prevent a person from doing any gainful activity, or that cause marked and severe functional limitations for a child claiming Supplemental Security Income payments under title XVI. We will revise the criteria in this section to ensure that the medical evaluation criteria are up-to-date and consistent with the latest advances in medical knowledge and treatment.

Statement of Need: These final rules are necessary to update several body systems that contain listings for children based on impairment of linear growth or weight loss to reflect advances in medical knowledge, treatment, and methods of evaluating impairments. The changes ensure that determinations of disability have a sound medical basis, that claimants receive equal treatment through the use of specific criteria, and that people who are disabled can be readily identified and awarded benefits if all other factors of eligibility are met.

Summary of Legal Basis: Administrative-not required by statute or court order.

Alternatives: We considered not revising the listings or making only minor technical changes and continuing to use our current criteria. However, we believe that these revisions are preferable because of the medical advances that have been made in treating and evaluating these types of impairments.

Anticipated Cost and Benefits: Estimated savings-low.

Risks: None.

Timetable:

Action | Date | FR Cite
ANPRM | 09/08/05 | 70 FR 53323
ANPRM Comment Period End | 11/07/05 |
NPRM | 05/22/13 | 78 FR 30249
NPRM Comment Period End | 07/22/13 |
Final Action | 12/00/14 |

Regulatory Flexibility Analysis Required: No.

Small Entities Affected: No.

Government Levels Affected: None.

Additional Information: Includes Retrospective Review under E.O. 13563.

URL for Public Comments: www.regulations.gov.

Agency Contact: Cheryl A. Williams, Director, Social Security Administration, Office of Medical Listings Improvement, 6401 Security Boulevard, Baltimore, MD 21235-6401, Phone: 410 965-1020.

Tiya Marshall, Social Insurance Specialist, Social Security Administration, Office of Medical Listings Improvement, 6401 Security Boulevard, Baltimore, MD 21235-6401, Phone: 410 965-9291.

Helen Droddy, Social Insurance Specialist, Regulations Writer, Social Security Administration, Office of Regulations and Reports Clearance, 6401 Security Boulevard, Baltimore, MD 21235-6401, Phone: 410 965-1483.

RIN: 0960-AG28

SSA

154. Use of Date of Written Statement as Filing Date (3431F)

Priority: Other Significant.

Legal Authority: 42 U.S.C. 402(i); 42 U.S.C. 402(j); 42 U.S.C. 402(o); 42 U.S.C. 402(p); 42 U.S.C. 402(r); 42 U.S.C. 405(a); 42 U.S.C. 416(i)(2); 42 U.S.C. 423(b); 42 U.S.C. 428(a); 42 U.S.C. 902(a)(5).

CFR Citation: 20 CFR 404.630.

Legal Deadline: None.

Abstract: We are revising our rules for protective filing after we receive a written statement of intent to claim Social Security benefits under title II of the Social Security Act (Act). Specifically, we are revising from 6 months to 60 days the time period during which a claimant must file an application for benefits after the date of a notice we send explaining the need to file an application. We are revising our rules to make this time period used in the title II program consistent with the time period used in our other programs.

Statement of Need: We believe that eliminating the difference between the time periods in our programs will make it easier for the public to understand and follow our rules.

Summary of Legal Basis: Administrative-not required by statute or court order.

Alternatives: None.

Anticipated Cost and Benefits: Estimated savings-low.

Risks: None.

Timetable:

Action | Date | FR Cite
NPRM | 12/17/08 | 73 FR 76573
NPRM Comment Period End | 02/17/09 |
Final Action | 01/00/15 |

Regulatory Flexibility Analysis Required: No.

Small Entities Affected: No.

Government Levels Affected: None.

URL for Public Comments: www.regulations.gov.

Agency Contact: Helen Droddy, Social Insurance Specialist, Regulations Writer, Social Security Administration, Office of Regulations and Reports Clearance, 6401 Security Boulevard, Baltimore, MD 21235-6401, Phone: 410 965-1483.

RIN: 0960-AG58

SSA

155. Revised Medical Criteria for Evaluating Immune (HIV) System Disorders (3466F)

Priority: Other Significant

Legal Authority: 42 U.S.C. 402; 42 U.S.C. 405(a); 42 U.S.C. 405(b); 42 U.S.C. 42 U.S.C. 405(d) to 405(h); 42 U.S.C. 416(i); 42 U.S.C. 421(a); 42 U.S.C. 421(i); 42 U.S.C. 423; 42 U.S.C. 902(a)(5); 42 U.S.C. 1381a; 42 U.S.C. 1382c; 42 U.S.C. 1383; 42 U.S.C. 1383b.

CFR Citation: 20 CFR 404.1500, app 1.

Legal Deadline: None.

Abstract: Sections 14.00 and 114.00, Immune System, of appendix 1 to subpart P of part 404 of our regulations describe immune system disorders that we consider severe enough to prevent an individual from doing any gainful activity, or that cause marked and severe functional limitations for a child claiming Supplemental Security Income payments under title XVI. We will revise the criteria in these sections to ensure that the medical evaluation criteria are up-to-date and consistent with the latest advances in medical knowledge and treatment.

Statement of Need: These final rules are necessary in order to update the HIV evaluation listings to reflect advances in medical knowledge, treatment, and evaluation methods. The changes that determinations of disability have a sound medical basis, that claimants receive equal treatment through the use of specific criteria, and that individuals who are disabled can be readily identified and awarded benefits if all other factors of entitlement or eligibility are met.

Summary of Legal Basis: Administrative-not required by statute or court order.

Alternatives: Undetermined at this time.

Anticipated Cost and Benefits: Cost/savings estimate-negligible.

Risks: Undetermined at this time.

Timetable:

Action | Date | FR Cite
ANPRM | 03/18/08 | 73 FR 14409
ANPRM Comment Period End | 05/19/08 |
NPRM | 02/26/14 | 79 FR 10730
NPRM Comment Period End | 04/28/14 |
NPRM Correction and NPRM Comment Period Extended | 03/25/14 | 79 FR 16250
NPRM Comment Period Extended End | 05/27/14 |
Final Action | 05/00/15 |

Regulatory Flexibility Analysis Required: No.

Government Levels Affected: None.

Additional Information: Includes Retrospective Review under E.O. 13563.

URL for Public Comments: www.regulations.gov.

Agency Contact: Cheryl A. Williams, Director, Social Security Administration, Office of Medical Listings Improvement, 6401 Security Boulevard, Baltimore, MD 21235-6401, Phone: 410 965-1020.

Paul J. Scott, Social Insurance Specialist, Social Security Administration, Office of Medical Listings Improvement, 6401 Security Boulevard, Baltimore, MD 21235-6401, Phone: 410 966-1192.

Helen Droddy, Social Insurance Specialist, Regulations Writer, Social Security Administration, Office of Regulations and Reports Clearance, 6401 Security Boulevard, Baltimore, MD 21235-6401, Phone: 410 965-1483.

RIN: 0960-AG71

SSA

156. Revised Medical Criteria for Evaluating Cancer (Malignant Neoplastic Diseases) (3757F)

Priority: Other Significant.

Legal Authority: 42 U.S.C. 402; 42 U.S.C. 405(a); 42 U.S.C. 405(b); 42 U.S.C. 405(d) to 405(h); 42 U.S.C. 405(h); 42 U.S.C. 416(i); 42 U.S.C. 421(a); 42 U.S.C. 421(i); 42 U.S.C. 423; 42 U.S.C. 902(a)(5); 42 U.S.C. 1381a; 42 U.S.C. 1382c; 42 U.S.C. 1383; 42 U.S.C. 1383b.

CFR Citation: 20 CFR 404.1500, app 1.

Legal Deadline: None.

Abstract: Sections 13.00 and 113.00, Malignant Neoplastic Diseases, of appendix 1 to subpart P of our regulations describe malignant neoplastic diseases that we consider severe enough to prevent an individual from doing any gainful activity or that cause marked and severe functional limitations for a child claiming SSI payments under title XVI. We will revise these sections to ensure that the medical evaluation criteria are up-to-date and consistent with the latest advances in medical knowledge and treatment.

Statement of Need: These final regulations are necessary to update the Malignant Neoplastic Diseases listings to reflect advances in medical knowledge, treatment, and methods of evaluating malignant neoplastic diseases. The changes will ensure that determinations of disability have a sound medical basis, that claimants receive equal treatment through the use of specific criteria, and that people who are disabled can be readily identified and awarded benefits if all other factors of entitlement or eligibility are met.

Summary of Legal Basis: Administrative—not required by statute or court order.

Alternatives: We considered not revising the listings and continuing to use our current criteria. However, we believe that these revisions are preferable because of the medical advances that have been made in treating and evaluating these malignant neoplastic diseases and because of our adjudicative experience.

Anticipated Cost and Benefits: Estimated costs—low.

Risks: None.

Timetable:

Action | Date | FR Cite
NPRM | 12/17/13 | 78 FR 76508
NPRM Comment Period End | 02/18/14 |
Final Action | 06/00/15 |

Regulatory Flexibility Analysis Required:No.

Small Entities Affected: No.

Government Levels Affected: None.

URL for Public Comments: www.regulations.gov.

Agency Contact: Cheryl A. Williams, Director, Social Security Administration, Office of Medical Listings Improvement, 6401 Security Boulevard, Baltimore, MD 21235-6401, Phone: 410 965-1020.

Mark Kuhn, Social Insurance Specialist, Social Security Administration, Office of Medical Listings Improvement, 6401 Security Boulevard, Baltimore, MD 21235-6401, Phone: 410 966-6109.

Helen Droddy, Social Insurance Specialist, Regulations Writer, Social Security Administration, Office of Regulations and Reports Clearance, 6401 Security Boulevard, Baltimore, MD 21235-6401, Phone: 410 965-1483.

RIN: 0960-AH43

SSA

157. Submission of Evidence in Disability Claims (3802F)

Priority: Other Significant.

Legal Authority: 42 U.S.C. 405(a); 42 U.S.C. 405(d); 42 U.S.C. 423(d)(5); 42 U.S.C. 1383c(a)(3)(H); 42 U.S.C. 1383(d)(1)

CFR Citation: 20 CFR 404.900; 20 CFR 404.935; 20 CFR 404.1512; 20 CFR 404.1740; 20 CFR 405.1; 20 CFR 405.331; 20 CFR 416.912; 20 CFR 416.1400; 20 CFR 416.1435; 20 CFR 416.1540.

Legal Deadline: None.

Abstract: We will require claimants to inform us about or submit all evidence known to them that relates to their disability claim, subject generally to two exceptions for privileged communications and work product. This requirement would include the duty to submit all evidence obtained from any source in its entirety, unless subject to an exception. We will also require a representative to help the claimant obtain the information or evidence that the claimant must submit under our regulations.

Statement of Need: These final rules will protect the integrity of the programs by clarifying a claimant's duty to submit all relevant evidence and enabling us to have a more complete case record on which to make more accurate disability determinations or decisions.

Summary of Legal Basis: Administrative—not required by statute or court order.

Alternatives: Based on our program experience, there are no alternatives at this time. These final rules are based on recommendations by the Administrative Conference of the United States.

Anticipated Cost and Benefits: Undetermined.

Risks: None.

Timetable:

Action | Date | FR Cite
NPRM | 02/20/14 | 79 FR 9663
NPRM Comment Period End | 04/21/14 |
Final Rule | 12/00/14 |

Regulatory Flexibility Analysis Required:No.

Small Entities Affected: No.

Government Levels Affected: None.

URL for Public Comments: www.regulations.gov.

Agency Contact: Janet Truhe, Social Insurance Specialist, Social Security Administration, Office of Disability Programs, 6401 Security Boulevard, Baltimore, MD 21235-6401, Phone: 410 966-7203.

William P. Gibson, Social Insurance Specialist, Regulations Writer, Social Security Administration, Office of Regulations and Reports Clearance, 6401 Security Boulevard, Baltimore, MD 21235-6401, Phone: 410 966-9039, RIN: 0960-AH53.

SSA

158. • Social Security Number Card Applications (3855I)

Priority: Other Significant. Major status under 5 U.S.C. 801 is undetermined.

Legal Authority: Not Yet Determined.

CFR Citation: 20 CFR 422.103; 20 CFR 422.107; 20 CFR 422.110.

Legal Deadline: None.

Abstract: We are revising our regulations to allow applicants for a Social Security number (SSN) card to apply by completing a prescribed application and submitting the required evidence without completing a paper for SS-5. We are also removing the word “documentary” from our description of certain evidence requirements. These administrative changes will simplify the SSN card application and provide flexibility to allow for the use of electronic processes which would result in greater access and ease of use for card applicants. In addition, we are replacing “Immigration and Naturalization Service” with “Department of Homeland Security” to reflect that agency's name change. These changes are administrative in nature and do not substantively affect eligibility or evidentiary requirements.

Statement of Need: These administrative changes will simplify the SSN card application and provide flexibility to allow for the use of electronic processes, which would result in greater access and ease of use for card applicants.

Summary of Legal Basis: Administrative—not required by statute or court order.

Alternatives: None.

Anticipated Cost and Benefits: To be determined.

Risks: None.

Timetable:

Action | Date | FR Cite
Interim Final Rule | 12/00/14 |

Regulatory Flexibility Analysis Required:No.

Small Entities Affected: No.

Government Levels Affected: Federal.

URL for Public Comments: www.regulations.gov.

Agency Contact: Arthur LaVeck, Social Insurance Specialist, Social Security Administration, Office of Retirement and Disability Policy, Office of Income Security Programs, 6401 Security Boulevard, Baltimore, MD 21235-6401, Phone: 410 966-5665.

Helen Droddy, Social Insurance Specialist, Regulations Writer, Social Security Administration, Office of Regulations and Reports Clearance, 6401 Security Boulevard, Baltimore, MD 21235-6401, Phone: 410 965-1483.

RIN: 0960-AH68

BILLING CODE 4191-02-P

FALL 2014 STATEMENT OF REGULATORY PRIORITIES

CFPB Purposes and Functions

The Bureau of Consumer Financial Protection (CFPB) was established as an independent bureau of the Federal Reserve System by the Dodd-Frank Wall Street Reform and Consumer Protection Act (Public Law 111-203, 124 Stat. 1376) (Dodd-Frank Act). Pursuant to the Dodd-Frank Act, the CFPB has rulemaking, supervisory, enforcement, and other authorities relating to consumer financial products and services. Among these are the consumer financial protection authorities that transferred to the CFPB from seven Federal agencies on the designated transfer date, July 21, 2011. These authorities include the ability to issue regulations under more than a dozen Federal consumer financial laws.

As provided in section 1021 of the Dodd-Frank Act, the purpose of the CFPB is to implement and enforce Federal consumer financial laws consistently for the purpose of ensuring that all consumers have access to markets for consumer financial products and services and that such markets are fair, transparent, and competitive. The CFPB is authorized to exercise its authorities for the purpose of ensuring that:

(1) Consumers are provided with timely and understandable information to make responsible decisions about transactions involving consumer financial products and services;

(2) Consumers are protected from unfair, deceptive, or abusive acts and practices and from discrimination;

(3) Outdated, unnecessary, or unduly burdensome regulations concerning consumer financial products and services are regularly identified and addressed in order to reduce unwarranted regulatory burdens;

(4) Federal consumer financial law is enforced consistently, without regard to status as a depository institution, in order to promote fair competition; and

(5) Markets for consumer financial products and services operate transparently and efficiently to facilitate access and innovation.

CFPB Regulatory Priorities

The CFPB's regulatory priorities for the period from November 1, 2014, to October 31, 2015, include continuing work to implement Dodd-Frank Act mortgage protections, a series of rulemakings to address critical issues in other markets for consumer financial products and services, and following up on earlier efforts to streamline and modernize regulations that the Bureau has inherited from other federal agencies.

Implementing Dodd-Frank Act Mortgage Protections

As reflected in the CFPB's semiannual regulatory agenda, a principal focus of the CFPB is the Bureau's continuing efforts to implement critical consumer protections under the Dodd-Frank Act to guard against mortgage market practices that contributed to the nation's most significant financial crisis in several decades.

A major rulemaking priority for the Bureau continues to be the implementation of the Dodd-Frank Act amendments to the Home Mortgage Disclosure Act (HMDA) and other revisions to the HMDA regulations. The Dodd-Frank Act amendments augment existing data reporting requirements regarding housing-related loans and applications for such loans. In addition to obtaining data that is critical to the purposes of HMDA—which include providing the public and public officials with information that can be used to help determine whether financial institutions are serving the housing needs of their communities, assisting public officials in the distribution of public sector investments, and assisting in identifying possible discriminatory lending patterns and enforcing antidiscrimination statutes—the Bureau views this rulemaking as an opportunity to streamline and modernize HMDA data collection and reporting, in furtherance of its mission under the Dodd-Frank Act to reduce unwarranted regulatory burden. The Bureau published a proposed HMDA rule in the Federal Register on August 29, 2014 to add several new reporting requirements and to clarify several existing requirements. Publication of the proposal followed initial outreach efforts and the convening of a panel under the Small Business Regulatory Enforcement Fairness Act in conjunction with the Office of Management and Budget and the Small Business Administration's Chief Counsel for Advocacy, to consult with small lenders who may be affected by the rulemaking. As the Bureau develops a final rule, it expects to review and consider public comments on the proposed rule, consult with other agencies and coordinate with them on implementation efforts, conduct additional outreach to build and refine operational capacity, and prepare to assist financial institutions in their compliance efforts.

A major effort of the Bureau is the implementation of its final rule combining several federal mortgage disclosures that consumers receive in connection with applying for and closing on a mortgage loan under the Truth in Lending Act (TILA) and the Real Estate Settlement Procedures Act (RESPA). This project is mandated under the Dodd-Frank Act both to increase consumer understanding of mortgage transactions and to facilitate compliance by industry. The integrated forms are the cornerstone of the Bureau's broader “Know Before You Owe” initiative. These new “Know Before You Owe” mortgage forms and their implementing regulations will replace several pages of existing federal disclosures with two simpler, streamlined forms that will help consumers understand their options, choose the deal that is best for them, and avoid costly surprises at the closing table. The Bureau conducted extensive qualitative testing of the new forms prior to issuing a proposal, and also conducted a post-proposal quantitative study to validate the results of the new forms. The results of the quantitative testing showed that consumers of all different experience levels, with different loan types—whether focused on buying a home or refinancing—were able to understand the Bureau's new forms better than the current forms.

The rule was issued in November 2013 and takes effect in August 2015. The Bureau is working intensively to support implementation efforts and prepare consumer education materials and initiatives to help consumers understand and use the new forms. To facilitate implementation, the Bureau has released two compliance guides, sample forms, and additional materials. The Bureau also has been conducting extensive industry outreach to identify interpretive questions or implementation challenges with the rule, and hosting ongoing webinars to address common questions. In addition, in late 2014, the Bureau plans to issue a small proposed rule to make technical corrections, allow for certain language related to new construction loans to be added to the Loan Estimate form, and modify the same-day redisclosure requirement for floating interest rates that are locked after the Loan Estimate is first provided.

In addition, the Bureau is working to support the full implementation of, and facilitate compliance with, various mortgage-related final rules issued by the Bureau in January 2013 to strengthen consumer protections involving the origination and servicing of mortgages. These rules, implementing requirements under the Dodd-Frank Act, were all effective by January 2014. The Bureau is working diligently to monitor the market and plans to make clarifications and adjustments to the rules where warranted. The Bureau is planning to issue rules in fall 2014 to provide certain adjustments to its rules for certain nonprofit entities and to provide a cure mechanism for lenders seeking to make “qualified mortgages” under rules requiring assessment of consumers' ability to repay their mortgage loans where the mortgages exceed certain limitations on points and fees. The Bureau also anticipates issuing a proposal in fall 2014 to amend various provisions of its mortgage servicing rules, in both Regulation X and Regulation Z, including further clarification of the applicability of certain provisions when the borrower is in bankruptcy, possible additional enhancements to loss mitigation requirements, and other topics. In addition, in order to promote access to credit, the Bureau is currently engaged in further research to assess the impact of certain provisions implemented under the Dodd-Frank Act that modify general requirements for small creditors that operate predominantly in “rural or underserved” areas, and expects to release a notice of proposed rulemaking in early 2015.

Further, the Bureau continues to participate in a series of interagency rulemakings to implement various Dodd-Frank Act amendments to TILA and the Financial Institutions Reform, Recovery and Enforcement Act (FIRREA) relating to mortgage appraisals. These include implementing certain other Dodd-Frank Act amendments to FIRREA concerning regulation of appraisal management companies and automated valuation models.

Bureau Regulatory Efforts in Other Consumer Financial Markets

In addition to the implementation of the Dodd-Frank Act mortgage related amendments, the Bureau is also working on a number of rulemakings to address important consumer protection issues in other markets for consumer financial products and services. Much of this effort will be based on previous work of the Bureau such as Requests for Information, Advance Notices of Proposed Rulemaking (ANPRMs), and previously issued Bureau studies and reports.

First, the Bureau anticipates in fall 2014 issuing a proposed rule to create a comprehensive set of protections for General Purpose Reloadable (GPR) cards and other prepaid products, such as payroll cards and student loan disbursement cards, which are increasingly being used by consumers in place of a traditional deposit account or credit card. The proposal will build on comments received by the Bureau in response to a 2012 ANPRM seeking comment, data, and information from the public about GPR cards. The proposed rule will seek to expand coverage in Regulation E (implementing the Electronic Fund Transfer Act) to prepaid accounts, including GPR cards, by extending and in some cases modifying disclosure, periodic statement, and error resolution requirements that apply to consumer asset accounts that are currently subject to Regulation E. The Bureau also expects the proposal to address treatment of overdraft services and credit features in connection with prepaid accounts under both Regulation Z (Truth in Lending Act) and Regulation E.

Building on Bureau research and other sources, the Bureau is also considering what rules may be appropriate for addressing the sustained use of short-term, high-cost credit products such as payday loans and deposit advance products. The Bureau issued a white paper on these products in April 2013 and a data point providing additional research in March 2014, and is continuing to analyze other consumer protection concerns associated with the use of high-cost, small-dollar credit products. Rulemaking might include disclosures or address acts or practices in connection with these products.

The Bureau is also continuing to develop research on other critical consumer protection markets to help assess whether regulation may be warranted. For example, the Bureau issued research on bank and credit union overdraft programs in 2013 and 2014 and is planning to release the results of further studies on overdraft programs and their effects on consumers.

In addition, the Bureau has launched research initiatives to build on its November 2013 ANPRM on debt collection. These efforts include undertaking a survey to obtain information from consumers about their experiences with debt collection and launching consumer testing initiatives to determine what information would be useful for consumers to have about debt collection and their debts and how that information should be provided to them.

Bureau work is also continuing on a number of earlier initiatives concerning consumer payment services. In addition to the prepaid rulemaking discussed above, in 2014, the Bureau engaged in a rulemaking to make further amendments to its existing rule that applies to consumer remittance transfers to foreign countries. The primary purpose of the rulemaking was to address whether to extend a provision under the Dodd-Frank Act that allows insured depository institutions to estimate certain information for purposes of consumer disclosures. The provision would have expired in July 2015 unless the Bureau exercises authority to extend it for up to five years. The Bureau's final rule extended the provision to July 2020.

The Bureau is continuing rulemaking activities that will further establish the Bureau's nonbank supervisory authority by defining larger participants of certain markets for consumer financial products and services. Larger participants of such markets, as the Bureau defines by rule, are subject to the Bureau's supervisory authority. In fall 2014, the Bureau issued a final rule that amended the regulation defining larger participants of certain consumer financial products and services markets by adding a new section to define larger participants of a market for international money transfers, and began a rulemaking that would define larger participants of a market for automobile financing and define certain automobile leasing activity as a financial product or service.

Bureau Regulatory Streamlining Efforts

Another priority for the Bureau is continuing work on an earlier initiative to consider opportunities to modernize and streamline regulations that it inherited from other agencies pursuant to a transfer of rulemaking authority under the Dodd-Frank Act. In connection with the HMDA rulemaking described above, the Bureau has identified potential opportunities to reduce unwarranted regulatory burden concerning reporting of mortgage application, origination, and purchase activity, as described in the proposed rule. Similarly, the Bureau took the opportunity when streamlining federal mortgage forms as mandated by the Dodd-Frank Act and discussed above, to clarify existing regulations to address longstanding compliance concerns. The Bureau also issued a final rule in fall 2014 to allow financial institutions that restrict their information sharing practices and meet other requirements to post their annual privacy notices to customers under the Gramm-Leach-Bliley Act online rather than delivering them individually. The rulemaking addresses longstanding concerns that the annual mailings are a source of unwarranted regulatory burden and unwanted paperwork for consumers.

Additional Analysis, Planning, and Prioritization

The Bureau is continuing to assess timelines for the issuance of additional Dodd-Frank Act related rulemakings and rulemakings inherited by the CFPB from other agencies as part of the transfer of authorities under the Dodd-Frank Act. The Bureau is also continuing to conduct outreach and research to assess issues in various other markets for consumer financial products and services. For example, as directed by Congress, the Bureau is conducting a study on the use of agreements providing for arbitration of consumer disputes in connection with the offering or providing of consumer financial products or services. Upon completion of this study, the Bureau will evaluate possible policy responses, including possible rulemaking actions, the findings of which shall be consistent with the study. The Bureau will similarly evaluate policy responses to other ongoing research and outreach, taking into account the critical need for and effectiveness of various policy tools. The Bureau will update its regulatory agenda in spring 2015 to reflect the results of further analysis, planning, and prioritization.

BILLING CODE 4810-AM-P

CONSUMER PRODUCT SAFETY COMMISSION (CPSC)

Statement of Regulatory Priorities

The U.S. Consumer Product Safety Commission is charged with protecting the public from unreasonable risks of death and injury associated with consumer products. To achieve this goal, the CPSC:

• develops mandatory product safety standards or bans when other efforts are inadequate to address a safety hazard, or where required by statute;

• obtains repair, replacement, or refunds for defective products that present a substantial product hazard;

• develops information and education campaigns about the safety of consumer products;

• participates in the development or revision of voluntary product safety standards; and

• follows statutory mandates.

Unless directed otherwise by congressional mandate, when deciding which of these approaches to take in any specific case, the CPSC gathers and analyzes data about the nature and extent of the risk presented by the product. The Commission's rules at 16 CFR 1009.8 require the Commission to consider, among other factors, the following criteria when deciding the level of priority for any particular project:

• frequency and severity of injury;

• causality of injury;

• chronic illness and future injuries;

• costs and benefits of Commission action;

• unforeseen nature of the risk;

• vulnerability of the population at risk;

• probability of exposure to the hazard; and

• additional criteria that warrant Commission attention.

Significant Regulatory Actions:

Currently, the Commission is considering one rule that would constitute a “significant regulatory action” under the definition of that term in Executive Order 12866:

1. Flammability Standard for Upholstered Furniture

Under section 4 of the Flammable Fabrics Act (FFA), the Commission may issue a flammability standard or other regulation for a product of interior furnishing if the Commission determines that such a standard is needed to adequately protect the public against unreasonable risk of the occurrence of fire leading to death or personal injury, or significant property damage. The Commission's regulatory proceeding could result in several actions, one of which could be the development of a mandatory standard requiring that upholstered furniture meet mandatory requirements specified in the standard.

BILLING CODE 6355-01-P

FEDERAL TRADE COMMISSION (FTC)

Statement of Regulatory and Deregulatory Priorities

I. Regulatory and Deregulatory Priorities

Background

The Federal Trade Commission (“FTC” or “Commission”) is an independent agency charged by its enabling statute, the Federal Trade Commission Act, with protecting American consumers from “unfair methods of competition” and “unfair or deceptive acts or practices” in the marketplace. The Commission strives to ensure that consumers benefit from a vigorously competitive marketplace. The Commission's work is rooted in a belief that competition, based on truthful and non-misleading information about products and services, provides consumers the best choice of products and services at the lowest prices.

The Commission pursues its goal of promoting competition in the marketplace through two different but complementary approaches. Unfair or deceptive acts or practices injure both consumers and honest competitors alike and undermine competitive markets. Through its consumer protection activities, the Commission seeks to ensure that consumers receive accurate, truthful, and non-misleading information in the marketplace. At the same time, for consumers to have a choice of products and services at competitive prices and quality, the marketplace must be free from anticompetitive business practices. Thus, the second part of the Commission's basic mission—antitrust enforcement—is to prohibit anticompetitive mergers or other anticompetitive business practices without unduly interfering with the legitimate activities of businesses. These two complementary missions make the Commission unique insofar as it is the Nation's only Federal agency to be given this combination of statutory authority to protect consumers.

The Commission is, first and foremost, a law enforcement agency. It pursues its mandate primarily through case-by-case enforcement of the Federal Trade Commission Act and other statutes. In addition, the Commission is also charged with the responsibility of issuing and enforcing regulations under a number of statutes. Pursuant to the FTC Act, the Commission currently has in place 16 trade regulation rules. Other examples include the regulations enforced pursuant to credit, financial and marketing practice statutes ¹ and to energy laws.² The Commission also has adopted a number of voluntary industry guides. Most of the regulations and guides pertain to consumer protection matters and are intended to ensure that consumers receive the information necessary to evaluate competing products and make informed purchasing decisions.

¹ For example, the Controlling the Assault of Non-Solicited Pornography and Marketing Act of 2003 (CAN-SPAM Act) (15 U.S.C. sections 7701-7713) and the Telemarketing and Consumer Fraud and Abuse Prevention Act (15 U.S.C. sections 6101-6108).

² For example, the Energy Policy Act of 1992 (106 Stat. 2776, codified in scattered sections of the U.S. Code, particularly 42 U.S.C. section 6201 et seq. and the Energy Independence and Security Act of 2007 (EISA)).

Commission Initiatives

The Commission protects consumers through a variety of tools, including both regulatory and non-regulatory approaches. It has encouraged industry self-regulation, developed a corporate leniency policy for certain rule violations, and established compliance partnerships where appropriate.

As detailed below, protecting consumer privacy, containing the rising costs of health care and prescription drugs, fostering competition and innovation in cutting-edge, high-tech industries, challenging deceptive advertising and marketing, and safeguarding the interests of potentially vulnerable consumers, such as children and the financially distressed, continue to be at the forefront of the Commission's consumer protection and competition programs. By subject area, the FTC discusses some of the major workshops, reports,³ and initiatives it has pursued since the 2013 Regulatory Plan was published.

³ The FTC also prepares a number of annual and periodic reports on the statutes it administers. These are not discussed in this plan.

(a) Protecting Consumer Privacy. As the nation's top enforcer on the consumer privacy beat, the FTC works to ensure that consumers can take advantage of the benefits of a dynamic and ever-changing digital marketplace without compromising their privacy. The FTC achieves that goal through civil law enforcement, policy initiatives, and consumer and business education. For example, the FTC's unparalleled experience in consumer privacy enforcement has addressed practices offline, online, and in the mobile environment by large, well-known companies and lesser-known players alike. Data security is an important focus of the Commission's privacy work. Since 2002, the FTC has brought over 50 cases against companies that have engaged in unfair or deceptive practices that the Commission alleged put consumers' personal data at unreasonable risk.

The Commission's recent policy initiatives to promote privacy included a three-part “Spring Privacy Series” ⁴ that examined the privacy implications of three new areas of technology or business practices that have garnered considerable attention for the possible privacy concerns they raise for consumers.

⁴ See press release “FTC to Host Spring Seminars on Emerging Consumer Privacy Issues” dated December 2, 2013, at http://www.ftc.gov/news-events/press-releases/2013/12/ftc-host-spring-seminars-emerging-consumer-privacy-issues.

• The first event on February 19, 2014, focused on the privacy and security implications of mobile device tracking, which involves physically tracking consumers in retail and other businesses using signals from their smartphones.

• The second seminar on March 19, 2014, examined alternative scoring products, which are scores increasingly used by businesses for a wide variety of purposes, ranging from identity verification and fraud prevention to marketing and advertising. The event discussed the privacy ramifications of such predictive scores, which may fall outside the Fair Credit Reporting Act.

• The final seminar on May 7, 2014, examined consumers' use of connected health and fitness devices that regularly collect information about them and may transmit this information to other entities.

In November 2013, the Commission held a workshop entitled Internet of Things—Privacy and Security in a Connected World to explore consumer privacy and security issues posed by the growing connectivity of consumer devices, such as cars, home appliances, and health and fitness devices.⁵

⁵ See workshop agenda and conference description at http://www.ftc.gov/news-events/events-calendar/2013/11/internet-things-privacy-security-connected-world.

(b) Protecting Children. Children increasingly use the Internet for entertainment, information and schoolwork. The Children's Online Privacy Protection Act (COPPA) and the FTC's COPPA Rule protect children's privacy when they are online by putting their parents in charge of who gets to collect personal information about their preteen kids. The FTC enforces COPPA by ensuring that parents have the tools they need to protect their children's privacy.

The Commission is actively litigating to protect children and their parents when children use mobile apps that appeal to children and offer virtual goods for sale. On August 1, 2014, the FTC filed a court complaint alleging that Amazon.com, Inc. billed parents and other account holders for millions of dollars in unauthorized in-app charges incurred by children.⁶ Amazon offers many children's apps in its app store for download to mobile devices such as the Kindle Fire. The lawsuit seeks a court order requiring refunds to consumers for the unauthorized charges and permanently banning the company from billing parents and other account holders for in-app charges without their consent. This is the FTC's third case relating to children's in-app purchases; Apple and Google both settled FTC complaints concerning the issue in 2014.⁷

⁶ FTC v. Amazon.com, Inc., No. 2:14-cv-01038 (W.D. Wash.) (Complaint For Permanent Injunction And Other Equitable Relief filed on July 10, 2014).

⁷ In the Matter of Apple Inc., Docket No. C-4444, Decision and Order, March 25, 2014; In the Matter of Google Inc., Docket No. 122 3237, Proposed Agreement Containing Consent Order, September 4, 2014.

The Commission has issued an updated version of the popular free consumer guide, “Net Cetera: Chatting with Kids About Being Online.” ⁸ The revised publication contains updated information for parents and other adults to use when talking with kids about how to be safe, secure and responsible online. The revision adds new topics that reflect changes in the online world since the guide was first issued in 2009. In the revised booklet, adults can find advice on how to talk with kids about mobile apps, using public Wi-Fi securely and how to recognize text message spam. The booklet also includes information about the recent changes to the COPPA Rule.

⁸ See “Net Cetera: Chatting with Kids About Being Online” at http://www.consumer.ftc.gov/articles/pdf-0001-netcetera.pdf.

(c) Protecting Seniors. The Commission works vigilantly to fight telephone scams that harm millions of Americans. The agency has aggressively used law enforcement tools ⁹ as well as efforts to educate consumers about these scams and to find technological solutions that will make it more difficult for scammers to operate and hide from law enforcement. FTC education and outreach programs reach tens of millions of people every year. Among them is the recently created “Pass It On” program that provides seniors with information, in English and Spanish, on a variety of scams targeting the elderly. The agency also works with the Elder Justice Coordinating Council to help protect seniors and with the AARP Foundation, whose peer counselors provided fraud-avoidance advice last year to more than a thousand seniors who had filed complaints with the FTC about certain frauds, including lottery, prize promotion, and grandparent scams. The Commission is also promoting initiatives to make it harder for scammers to fake or “spoof” their caller Identification information and the more widespread availability of technology that will block calls from fraudsters, essentially operating as a spam filter for the telephone.

⁹ The FTC has brought more than 130 cases involving telemarketing fraud against more than 800 defendants during the past decade.

(d) Protecting Financially Distressed Consumers. Even as the economy recovers, some consumers continue to face financial challenges. The FTC acts to ensure that consumers are protected from deceptive and unfair credit practices and get the information they need to make informed financial choices. The Commission has continued its enforcement efforts by bringing law enforcement actions to curb deceptive and unfair practices in mortgage rescue, debt relief, auto financing and debt collection.

In October 2014, the FTC also co-hosted a roundtable on debt collection issues with the Consumer Financial Protection Bureau (CFPB). The roundtable specifically examined how debt collection issues affect Latino consumers, especially those who have limited English proficiency (LEP). The event brought together consumer advocates, industry representatives, State and Federal regulators, and academics to exchange information on a range of issues. Topics included an overview of the Latino community, its finances, and the collectors who contact members of this community; pre-litigation collection from Latino consumers; the experience of LEP Latinos in debt collection litigation; credit reporting issues among LEP Latinos; and developing improved strategies for educating and reaching out to LEP Latinos about debt collection.

(e) Ensuring Consumers Benefit from New Technologies While Also Protecting Them.

• Mobile Cramming. The widespread adoption of mobile devices has provided many important benefits to consumers, including the convenience of paying for goods and services using a mobile phone. Recently, the FTC has brought a number of law enforcement actions in addition to policy and education activities designed to combat mobile cramming that are part of the Commission's overall work to protect consumers in the mobile environment. In the Commission's six mobile cramming cases brought since the spring of 2013, the three that have been fully or partially resolved have resulted in strong relief for consumers. The agency has obtained judgments totaling more than $160 million, as well as court orders preventing the defendants from further illegal cramming. The Commission also has two ongoing cases against two other merchants who crammed charges onto consumers' bills, along with its case against wireless carrier T-Mobile filed earlier in July 2014.¹⁰

¹⁰ FTC v. T-Mobile USA, Inc., No. 2:14-cv-00967 (W.D. Wash.) (Complaint For Permanent Injunction And Other Equitable Relief filed on July 1, 2014).

• Mobile Billing. One mobile payment option is known as “carrier billing”—the ability to charge a good or service directly to a mobile phone account. In a report issued on July 28, 2014, FTC staff recommended steps that mobile carriers and other companies should take to prevent consumers from being stuck with unauthorized charges on their mobile phone bills, an unlawful practice known as mobile cramming.¹¹ FTC staff set out five recommended best practices for industry participants to protect consumers against unwanted charges while enabling innovation and consumer access to another payment mechanism. The FTC will continue to monitor and, where appropriate, investigate industry participants—carriers, billing intermediaries, and merchants—involved in third-party mobile billing and bring further enforcement actions. Further, the FTC will continue to monitor the issue of cramming on mobile phone accounts and evaluate whether other potential solutions—including legislative measures and additional regulatory changes—are necessary to ensure consumers are protected from unwanted and unauthorized charges.

¹¹ See “Mobile Cramming: A Federal Trade Commission Staff Report (July 2014)” at http://www.ftc.gov/system/files/documents/reports/mobile-cramming-federal-trade-commission-staff-report-july-2014/140728mobilecramming.pdf.

• Mobile Shopping Apps. A new staff report issued on August 1, 2014, by the Commission finds that many mobile apps for use in shopping do not provide consumers with important information—such as how the apps manage payment-related disputes or handle consumer data—prior to download. The report, “What's the Deal? An FTC Study on Mobile Shopping Apps,” ¹² looked at some of the most popular apps used by consumers to comparison shop, collect and redeem deals and discounts, and pay in-store with their mobile devices. The report builds on the findings of the Commission's 2012 workshop on mobile payments and the report from that workshop, which raised concerns about consumers' potential financial liability—as well as the privacy and security of their data—when using mobile payment services. The report is part of the Commission's work to ensure that consumers are fully protected in the growing mobile space, which has included workshops and other initiatives to study cutting-edge issues in this area, along with a number of law enforcement cases.

¹² See “What's the Deal? An FTC Study on Mobile Shopping Apps (August 2014)” at http://www.ftc.gov/system/files/documents/reports/whats-deal-federal-trade-commission-study-mobile-shopping-apps-august-2014/140801mobileshoppingapps.pdf.

• Use of Big Data. The Commission hosted a public workshop entitled “Big Data: A Tool for Inclusion or Exclusion?” on September 15, 2014, which explored the use of “big data” and its impact on American consumers, including low-income and underserved consumers. A growing number of companies are increasingly using big data analytics techniques to categorize consumers and make predictions about their behavior. As part of the FTC's ongoing work to shed light on the full scope of big data practices, the workshop examined the potentially positive and negative effects of big data on low income and underserved populations.

(f) Promoting Competition in Health Care. The FTC continues to work to eliminate anticompetitive settlements featuring payments by branded drug firms to a generic competitor to keep generic drugs off the market (so-called, “pay-for-delay” agreements). It's a practice where the pharmaceutical industry wins, but consumers lose. The brand company protects its drug franchise, and the generic competitor shares in the monopoly profits preserved by avoiding competition. The Commission supports legislation to ban these harmful agreements while actively litigating Federal court challenges to invalidate individual agreements. In a significant victory on June 17, 2013, the U.S. Supreme Court reversed a lower court ruling and held that pay-for-delay agreements between brand and generic drug companies are subject to antitrust scrutiny under an antitrust “rule of reason” analysis. FTC v. Actavis, Inc., 570 U.S. 756 (2013). The FTC now has three active pay-for-delay litigations underway in federal courts. Two of them involve the blockbuster male testosterone replacement drug Androgel, including the Actavis case on remand to the U.S. District Court for the Northern District of Georgia and FTC v. AbbVie, Inc., in the U.S. District Court for the Eastern District of Pennsylvania.¹³ The third, underway in the U.S. District Court for the Eastern District of Pennsylvania, FTC v. Cephalon, Inc., involves the billion-dollar narcolepsy drug Provigil.¹⁴ However, solving this problem through the courts will take considerable time, during which American consumers and governments will continue to pay high prices for prescription drugs.

¹³ FTC v. AbbVie, Inc., No. 2:14-cv-05151-RK (E.D. Pa.) (Complaint For Injunctive And Other Equitable Relief filed on September 8, 2014).

¹⁴ FTC v. Cephalon, Inc., No. 2:08-CV-02141 (E.D. Pa.).

The FTC also continues to vigorously challenge anticompetitive acquisitions in health care provider markets. For example, in January 2014, a federal court in Idaho issued a permanent injunction enjoining St. Luke's Health System's acquisition of Saltzer Medical Group, Idaho's largest independent, multi-specialty physician practice group, and requiring full divestiture of Saltzer's physicians and assets in an action brought by the FTC, together with the Idaho Attorney General. The complaint charged that the combination of St. Luke's employed primary care physicians and Saltzer's physicians would give the merged firm the market power to demand higher rates for primary care physician services in Nampa, Idaho, and surrounding areas. This case is on appeal. Moreover, in April 2014, in the first appellate decision in a health care provider merger in 15 years, the U.S. Court of Appeals for the Sixth Circuit upheld the Commission's 2012 decision finding that ProMedica Health System, Inc. acquisition of a rival, St. Luke's Hospital in the Toledo, Ohio area, violated the antitrust laws. The Commission's order requires ProMedica to divest St. Luke's Hospital to an FTC-approved buyer.

(g) Fostering Innovation & Competition. For more than two decades, the Commission has examined difficult issues at the intersection of antitrust and intellectual property law—issues related to innovation, standard-setting, and patents. The Commission's work in this area is grounded in the recognition that intellectual property and competition laws share the fundamental goals of promoting innovation and consumer welfare. The Commission has authored several seminal reports on competition and patent law and conducted workshops to learn more about emerging practices and trends.

For instance, the FTC and DOJ held a joint workshop in December 2012 to explore the impact of patent assertion entity (PAE) activities ¹⁵ and encouraged efforts of the Patent Trade Office to provide the public with more complete information regarding patent ownership.¹⁶ The FTC and DOJ also received public comments in conjunction with the workshop. While workshop panelists and commenters identified potential harms and efficiencies of PAE activity, they noted a lack of empirical data in this area and recommended that FTC use its authority under Section 6(b) of the Federal Trade Commission Act. After public notice and comment, on August 8, 2014, the Commission received authority from the Office of Management and Budget to issue compulsory process orders to PAEs and other industry participants for the purpose of gathering information to examine how PAEs do business and develop a better understanding of how they impact innovation and competition.

¹⁵ See press release “Federal Trade Commission, Department of Justice to Hold Workshop on Patent Assertion Entity Activities” dated November 19, 2012, at http://www.ftc.gov/opa/2012/11/paeworkshop.shtm.

¹⁶ See Comments of the Antitrust Division of the United States Department of Justice And the United States Federal Trade Commission, February 1, 2013, Before the United States Department of Commerce Patent and Trademark Office, In the Matter of Notice of Roundtable on Proposed Requirements for Recordation of Real-Party-in-Interest Information Throughout Application Pendency and Patent Term, Docket No. PTO-P-2012-0047, at http://www.ftc.gov/os/2013/02/130201pto-rpi-comment.pdf.

(h) Alcohol Advertising. On February 1, 2012, the Office of Management and Budget (OMB) gave the Commission approval, under the Paperwork Reduction Act, to issue compulsory process orders to up to 14 alcohol companies. On April 16, 2012, the Commission issued the orders, seeking information on company brands, sales, and marketing expenses; compliance with advertising placement codes; and use of social media and other digital marketing.¹⁷ On March 20, 2014, the Commission released a report, setting forth the results of its study.¹⁸ The Commission also continues to promote the “We Don't Serve Teens” consumer education program, supporting the legal drinking age.¹⁹

¹⁷ A copy of the order, a list of the target companies, and the press release are available online at http://www.ftc.gov/opa/2012/04/alcoholstudy.shtm.

¹⁸ See Self-Regulation in the Alcohol Industry (March 2014), available at http://www.ftc.gov/system/files/documents/reports/self-regulation-alcohol-industry-report-federal-trade-commission/140320alcoholreport.pdf.

¹⁹ More information can be found at http://www.dontserveteens.gov/.

(i) Gasoline Prices. Given the impact of energy prices on consumer budgets, the energy sector continues to be a major focus of FTC law enforcement and study. In November 2009, the FTC's Petroleum Market Manipulation Rule became final.²⁰ Our staff continues to examine all communications from the public about potential violations of this Rule, which prohibits manipulation in wholesale markets for crude oil, gasoline, and petroleum distillates. Other activities complement these efforts, including merger enforcement and an agreement with the Commodity Futures Trading Commission to share investigative information. In view of the fundamental importance of oil, natural gas, and other energy resources to the overall vitality of the United States and world economy, we expect that FTC review and oversight of the oil and natural gas industries will remain a centerpiece of our work for years to come.

²⁰ 16 CFR part 317; See press release: “New FTC Rule Prohibits Petroleum Market Manipulation” (Aug. 6, 2009), available at http://www.ftc.gov/opa/2009/08/mmr.shtm; “FTC Issues Compliance Guide for Its Petroleum Market Manipulation Regulations,” News Release (Nov. 13, 2009), available at http://www.ftc.gov/opa/2009/11/mmr.shtm.

(j) Fraud Surveys. The FTC's Bureau of Economics (BE) continues to conduct fraud surveys and related research on consumer susceptibility to fraud. For example, BE conducted an exploratory experimental study in a university economics laboratory to see whether we could identify characteristics of consumers who might be more likely to fall victim to fraud. A second exploratory study of susceptibility to fraud was conducted using an Internet panel. The results of that study are currently being analyzed. The most recent survey of the incidence of consumer fraud was conducted between late November 2011 and early February 2012, and a report describing the findings was released in April 2013. The results of these efforts may aid the FTC to better target its enforcement actions and consumer education initiatives and improve future fraud surveys.

(k) Protecting Consumers from Cross-Border Harm. The FTC continues to focus on combatting cross-border violations of law that affect consumers. For example, this year the Commission approved fourteen settlements with U.S. businesses that had falsely claimed they were abiding by an international privacy framework known as the U.S.-European Union Safe Harbor that enables U.S. companies to transfer consumer data from the European Union (EU) to the United States in compliance with EU law.²¹ Additionally, the FTC, with the help of counterparts in Canada, Slovakia, and Austria, brought an action against a notorious multi-million dollar international business directory scam in FTC v. Construct Data.²² Building on the FTC's work with African consumer agencies, the FTC signed a memorandum of understanding (MOU) with Nigeria's Consumer Protection Council and its Economic and Financial Crimes Commission.²³ It is the first FTC MOU of this kind to include a foreign criminal enforcement authority.

²¹ See press release “FTC Approves Final Orders Settling Charges of U.S.-EU Safe Harbor Violations Against 14 Companies” dated June 25, 2014, at http://www.ftc.gov/news-events/press-releases/2014/06/ftc-approves-final-orders-settling-charges-us-eu-safe-harbor.

²² FTC v. Construct Data Publishers, a.s. d/b/a Fair Guide, Civil Action Number: 13 cv 1999 (N.D. Ill.) Default Judgment and Order for Permanent Injunction and Other Equitable Relief Against Construct Data Publishers A.S., Wolfgang Valvoda, and Susanne Anhorn (March 7, 2014).

²³ See press release “FTC Signs Memorandum of Understanding with Nigerian Consumer Protection and Criminal Enforcement Authorities” dated August 28, 2013, at http://www.ftc.gov/news-events/press-releases/2013/08/ftc-signs-memorandum-understanding-nigerian-consumer-protection.

The FTC strives to promote sound approaches to common problems by building relationships with sister agencies around the world. With over 130 jurisdictions enforcing competition laws, the FTC continues to lead efforts to develop strong mutual enforcement cooperation and sound policy with its international partners. We continue to strengthen cooperation and coordination with agencies to reach compatible results on cases of mutual interest, such as Thermo Fisher/Life Technologies, in which the FTC recently cooperated with antitrust agencies in nine jurisdictions to reach consistent results.²⁴ We also work to develop improved tools to facilitate cooperation. This year, FTC and Department of Justice Antitrust Division staff jointly released a model waiver of confidentiality that is designed to streamline the waiver negotiation process, facilitating deeper communication between cooperating agencies.²⁵ During the past year the FTC held bilateral meetings with key partners, including competition agencies in the EU, Canada, Mexico, Japan, China and India, and continued to play a lead role in the International Competition Network, including co-leading the Agency Effectiveness Working Group and its Investigative Process Project.

²⁴ See press release “FTC Puts Conditions on Thermo Fisher Scientific Inc.'s Proposed Acquisition of Life Technologies Corporation” dated January 31, 2014, at http://www.ftc.gov/news-events/press-releases/2014/01/ftc-puts-conditions-thermo-fisher-scientific-incs-proposed.

²⁵ See press release “Federal Trade Commission and Justice Department Issue Updated Model Waiver of Confidentiality for International Civil Matters and Accompanying FAQ” dated September 25, 2013, at http://www.ftc.gov/news-events/press-releases/2013/09/federal-trade-commission-and-justice-department-issue-updated.

(l) Self-Regulatory and Compliance Initiatives With Industry. The Commission continues to engage industry in compliance partnerships in the funeral and franchise industries. Specifically, the Commission's Funeral Rule Offender Program, conducted in partnership with the National Funeral Directors Association, is designed to educate funeral home operators found in violation of the requirements of the Funeral Rule, 16 CFR 453, so that they can meet the rule's disclosure requirements. Almost 460 funeral homes have participated in the program since its inception in 1996. In addition, the Commission established the Franchise Rule Alternative Law Enforcement Program in partnership with the International Franchise Association (IFA), a nonprofit organization that represents both franchisors and franchisees. This program is designed to assist franchisors found to have a minor or technical violation of the Franchise Rule, 16 CFR 436, in complying with the rule. Violations involving fraud or other section 5 violations are not candidates for referral to the program. The IFA teaches the franchisor how to comply with the rule and monitors its business for a period of years. Where appropriate, the program offers franchisees the opportunity to mediate claims arising from the law violations. Since December 1998, 21 companies have agreed to participate in the program.

Rulemakings and Studies Required by Statute

Congress has enacted laws requiring the Commission to undertake rulemakings and studies. This section discusses required rules and studies. The final actions section below describes actions taken on the required rulemakings and studies since the 2013 Regulatory Plan was published.

FACTA Rules. The Commission has issued all of the rules required by FACTA (Fair and Accurate Credit Transactions Act). These rules are codified in several parts of 16 CFR 602 et seq., amending or supplementing regulations relating to the Fair Credit Reporting Act.

FACTA Studies. On March 27, 2009, the Commission issued compulsory information requests to the nine largest private providers of homeowner insurance in the nation. The purpose was to help the FTC collect data for its study on the effects of credit-based scores in the homeowner insurance market, a study mandated by section 215 of the FACTA. During the summer of 2009, these nine insurers submitted responses to the Commission's requests. FTC staff has reviewed the large policy-level data files included in these submissions and has identified a sample set of data to be used for the study. The insurance companies then worked with their vendor to ensure the security of delivering the data set to the FTC's own and separate vendor. That data was sent to the FTC's vendor, which then sent the data, stripped of any personally identifiable information, to the FTC. The FTC's vendor also sent other data to the Social Security Administration (SSA), which will provide the FTC with additional data for the Report. The FTC hopes to receive the SSA data soon. Staff expects the Report will be submitted to Congress during the spring of 2015. This study is not affected by the Consumer Financial Protection Act.

Section 319 of FACTA requires the FTC to study the accuracy and completeness of information in consumers' credit reports and to consider methods for improving the accuracy and completeness of such information. Section 319 of the Act also requires the Commission to issue a series of biennial reports to Congress over a period of 11 years. The Commission's December 2012 report to Congress on credit reporting accuracy focused on identifying potential errors that could have a material effect on a person's credit standing. Any participants who identified a potentially material error on their report were encouraged to dispute the erroneous information. The study found that 26 percent of consumers reported a potential material error on one or more of their three reports and filed a dispute with at least one credit reporting agency (CRA), and half of these consumers experienced a change in their credit scores. For five percent of consumers, the errors on their credit reports could lead to them paying more for products such as auto loans and insurance. Congress instructed the FTC to complete this study by December 2014, when a final report is due.

Retrospective Review of Existing Regulations

In 1992, the Commission implemented a program to review its rules and guides regularly. The Commission's review program is patterned after provisions in the Regulatory Flexibility Act, 5 U.S.C. 601-612. Under the Commission's program, rules are reviewed on a 10-year schedule. For many rules, this has resulted in more frequent reviews than are generally required by section 610 of the Regulatory Flexibility Act. This program is also broader than the review contemplated under the Regulatory Flexibility Act, in that it provides the Commission with an ongoing systematic approach for seeking information about the costs and benefits of its rules and guides and whether there are changes that could minimize any adverse economic effects, not just a “significant economic impact upon a substantial number of small entities.” 5 U.S.C. 610.

As part of its continuing 10-year review plan, the Commission examines the effect of rules and guides on small businesses and on the marketplace in general. These reviews may lead to the revision or rescission of rules and guides to ensure that the Commission's consumer protection and competition goals are achieved efficiently and at the least cost to business. In a number of instances, the Commission has determined that existing rules and guides were no longer necessary or in the public interest. Most of the matters currently under review pertain to consumer protection and are intended to ensure that consumers receive the information necessary to evaluate competing products and make informed purchasing decisions. Pursuant to this program, the Commission has rescinded 37 rules and guides promulgated under the FTC's general authority and updated dozens of others since the early 1990s.

In light of Executive Orders 13563 and 13579, the FTC continues to take a fresh look at its long-standing regulatory review process. The Commission is taking a number of steps to ease burdens on business and promote transparency in its regulatory review program:

• The Commission recently issued a revised 10-year review schedule (see next paragraph below) and is accelerating the review of a number of rules and guides in response to recent changes in technology and the marketplace. The Commission is currently reviewing 20 of the 65 rules and guides within its jurisdiction.

• The Commission continues to request and review public comments on the effectiveness of its regulatory review program and suggestions for its improvement.

• The FTC maintains a Web page at http://www.ftc.gov/regreview that serves as a one-stop shop for the public to obtain information and provide comments on individual rules and guides under review as well as the Commission's regulatory review program generally.

In addition, the Commission's 10-year periodic review schedule includes initiating reviews for the following rules and guides (79 FR 14199, March 13, 2014) during 2014 and 2015:

(1) Standards for Safeguarding Customer Information, 16 CFR 314,

(2) Contact Lens Rule, 16 CFR 315,

(3) CAN-SPAM Rule, 16 CFR 316, and

(4) Ophthalmic Practice Rules (Eyeglass Rule), 16 CFR 456.

As set out below under Ongoing Rule and Guide Reviews, the Commission recently initiated reviews of the Telemarketing Sales Rule (TSR), 16 CFR 308, and the Hobby Rules, 16 CFR 304.

Ongoing Rule and Guide Reviews

The Commission is continuing review of a number of rules and guides, which are discussed below.

(a) Rules

Premerger Notification Rules and Report Form (or HSR Rules), 16 CFR 801-803. The Premerger Office is considering recommending amendments to the HSR Rules regarding standards for the valuation of potentially reportable transactions, regarding the instructions to the HSR Form to update information related to NAICS (North American Industry Classification System) codes, recent rule changes, and a change of address for delivery of filings to the FTC Premerger Office. The proposed amendments may be issued during the first quarter of 2015. The Premerger Office is also considering amendments to the Instructions to the HSR Form to update information related to NAICS codes and recent rule changes and allow the submission of filings on electronic media.²⁶

²⁶ See Final Actions for information about a separate final rule proceeding for HSR Rules.

Fuel Rating Rule, 16 CFR 306. First issued in 1979, the Fuel Rating Rule (or Automotive Fuel Ratings, Certification and Posting Rule) enables consumers to buy gasoline with an appropriate octane rating for their vehicle and establishes standard procedures for determining, certifying, and posting octane ratings. On March 27, 2014, the Commission proposed amendments to the Rule that would adopt and revise rating, certification, and labeling requirements for blends of gasoline with more than 10 percent ethanol and would allow an alternative octane rating method that would lower compliance costs. 79 FR 18850. The comment period closed on July 2, 2014. Staff is reviewing comments and anticipates sending a recommendation to the Commission by the end of the first quarter of 2015.

Telemarketing Sales Rule (TSR), 16 CFR 308. Anti-Fraud Provisions—Commission staff are considering proposed “Anti-Fraud” amendments to the TSR concerning, among other things, the misuse of novel payment methods by telemarketers and sellers. On May 21, 2013, the Commission issued a Notice of Proposed Rulemaking (“NPRM”), which was published in the Federal Register on July 9, 2013. 78 FR 41200. After a short extension, the comment period closed on August 8, 2013. Commission staff is reviewing the comments submitted in response to the NPRM, and anticipates making a recommendation to the Commission by the end of 2014.

Periodic Rule Review—On August 11, 2014, Commission initiated periodic review of the TSR as set out on the 10-year review schedule. 79 FR 46732. The comment period as extended will close on November 13, 2014. 79 FR 61267 (Oct. 10, 2014).

Hobby Rules, 16 CFR 304. As part of the systematic rule review process, on July 14, 2014, the Commission requested public comments on, among other things, the economic impact and benefits of the Hobby Rules (Rules and Regulations under the Hobby Protection Act); possible conflict between the Rules and State, local, or other Federal laws or regulations; and the effect on the Rules of any technological, economic, or other industry changes. 79 FR 40691. The comment period closed on September 22, 2014. The Hobby Protection Act, 16 U.S.C. 2101-2106, prohibits manufacturing or importing imitation numismatic and collectible political items unless they are marked in accordance with regulations prescribed by the Federal Trade Commission. The implementing Rules prescribe that imitation political items—such as buttons, posters or coffee mugs—must be marked with the calendar year in which they were manufactured, and imitation numismatic items—including coins, tokens and paper money—must be marked with the word “copy.” Staff anticipates sending a recommendation to the Commission by May 2015.

The Fair Packaging and Labeling Act (“FPLA”) Rules, 16 CFR 500-502. The FPLA requires consumer commodities to be marked with statements of: (1) Identity; (2) net quantity of contents; and (3) name and place of the business of manufacturer, packer, or distributor. These requirements serve FPLA's stated purpose of “enabling consumers to obtain accurate information as to the quantity of the contents and . . . to facilitate value comparisons.” As part of its ongoing systematic review process, the Commission requested comments on March 19, 2014, regarding, among other things, the economic impact and benefits of the FPLA Rules; possible conflict between the Rules and State, local, or other Federal laws or regulations; and the effect on the Rules of any technological, economic, or other industry changes. The comment period closed on May 21, 2014. Staff is reviewing the comments and anticipates forwarding a recommendation to the Commission by the end of 2014.

Care Labeling Rule, 16 CFR 423. Promulgated in 1971, the Rule on Care Labeling of Textile Apparel and Certain Piece Goods as Amended (the Care Labeling Rule) makes it an unfair or deceptive act or practice for manufacturers and importers of textile wearing apparel and certain piece goods to sell these items without attaching care labels stating “what regular care is needed for the ordinary use of the product.” The Rule also requires that the manufacturer or importer possess, prior to sale, a reasonable basis for the care instructions and allows the use of approved care symbols in lieu of words to disclose care instructions. After reviewing the comments from a periodic rule review (76 FR 41148; July 13, 2011), the Commission concluded on September 20, 2012, that the Rule continued to benefit consumers and would be retained, and sought comments on potential updates to the Rule, including changes that would: Allow garment manufacturers and marketers to include instructions for professional wetcleaning on labels; permit the use of ASTM Standard D5489-07, “Standard Guide for Care Symbols for Care Instructions on Textile Products,” or ISO 3758:2005(E), “Textiles—Care labeling code using symbols,” in lieu of terms; clarify what can constitute a reasonable basis for care instructions; and update the definition of “dryclean.” 77 FR 58338. On March 28, 2014, the Commission hosted a public roundtable in Washington, DC, that analyzed proposed changes to the Rule. Staff anticipates forwarding a recommendation to the Commission action during early 2015.

Used Car Rule, 16 CFR 455. The Used Motor Vehicle Trade Regulation Rule (“Used Car Rule”), 16 CFR 455, sets out the general duties of a used vehicle dealer; requires that a completed Buyers Guide be posted at all times on the side window of each used car a dealer offers for sale; and mandates disclosure of whether the vehicle is covered by a dealer warranty and, if so, the type and duration of the warranty coverage, or whether the vehicle is being sold “as is-no warranty.” The Commission published a notice seeking public comments on the effectiveness and impact of the rule. See 73 FR 42285 (July 21, 2008). The comment period, as extended and then reopened, ended on June 15, 2009. In response to comments, the Commission published a Notice of Proposed Rulemaking on December 17, 2012 (See 77 FR 74746) and a final rule revising the Spanish translation of the window form on December 12, 2012. See 77 FR 73912. The extended comment period on the NPRM ended on March 13, 2012. The Commission is currently considering staff's recommendation relating to the next step in this rulemaking.

Consumer Warranty Rules, 16 CFR 701-703. The Rule Governing the Disclosure of Written Consumer Product Warranty Terms and Conditions (Rule 701) establishes requirements for warrantors for disclosing the terms and conditions of written warranties on consumer products actually costing the consumer more than $15.00. The Rule Governing the Pre-Sale Availability of Written Warranty Terms, 16 CFR part 702 (Rule 702) requires sellers and warrantors to make the terms of a written warranty available to the consumer prior to sale. The Rule Governing Informal Dispute Settlement Procedures (IDSM) (Rule 703) establishes minimum requirements for those informal dispute settlement mechanisms that are incorporated by the warrantor into its consumer product warranty. By incorporating the IDSM into the warranty, the warrantor requires the consumer to use the IDSM before pursuing any legal remedies in court. On August 23, 2011, as part of its ongoing systematic review of all FTC rules and guides, the Commission requested comments on, among other things, the economic impact and benefits of these Rules, Guides, and Interpretations; ²⁷ possible conflict between the Rules, Guides, and Interpretations and state, local, or other federal laws or regulations; and the effect on the Rules, Guides, and Interpretations of any technological, economic, or other industry changes. See 76 FR 52596. The comment period closed on October 24, 2011. Staff anticipates sending a recommendation to the Commission by the fall of 2014.

²⁷ The Federal Register Notice also announced the review of the related Guides for the Advertising of Warranties and Guarantees, 16 CFR 239, and the Interpretations of Magnuson-Moss Warranty Act, 16 CFR 700.

Cooling-Off Rule, 16 CFR 429. The Cooling-Off Rule requires that a consumer be given a 3-day right to cancel certain sales greater than $25.00 that occur at a place other than a seller's place of business. The rule also requires a seller to notify buyers orally of the right to cancel, to provide buyers with a dated receipt or copy of the contract containing the name and address of the seller and notice of cancellation rights, and to provide buyers with forms which buyers may use to cancel the contract. As part of its systematic regulatory review process and following public comment, the Commission announced that it was retaining the Cooling-Off Rule and proposed increasing its $25 exclusionary limit to $130 to account for inflation. 78 FR 3855 (Jan. 17, 2013). The comment period closed on March 4, 2013. Staff reviewed the comments, and the Commission is currently reviewing its recommendation.

Unavailability Rule, 16 CFR 424. The Unavailability Rule states that it is a violation of section 5 of the FTC Act for retail stores of food, groceries, or other merchandise to advertise products for sale at a stated price if those stores do not have the advertised products in stock and readily available to customers during the effective period of the advertisement, unless the advertisement clearly discloses that supplies of the advertised products are limited or are available only at some outlets. This Rule is intended to benefit consumers by ensuring that advertised items are available, that advertising-induced purchasing trips are not fruitless, and that store prices accurately reflect the prices appearing in the ads. On August 12, 2011, the Commission announced an ANPRM and a request for comment on the Rule as part of its systematic periodic review of current rules. The comment period closed on October 19, 2011. Staff has reviewed the comments and expects to submit a recommendation to the Commission by the winter of 2015.

(b) Guides

Jewelry Guides, 16 CFR 23. The Commission sought public comments on its Guides for the Jewelry, Precious Metals, and Pewter Industries, which are commonly known as the Jewelry Guides. 77 FR 39202 (July 2, 2012). Since completing its last review of the Jewelry Guides in 1996, the Commission revised sections of the Guides and addressed other issues raised in petitions from jewelry trade associations. The Guides explain to businesses how to avoid making deceptive claims about precious metal, pewter, diamond, gemstone, and pearl products and when they should make disclosures to avoid unfair or deceptive trade practices. The comment period initially set to close on August 27, 2012, was subsequently extended until September 28, 2012. Staff also conducted a public roundtable to examine possible modifications to the Guides in June 2013. Staff is currently reviewing the record, including comments and the roundtable transcript.

Used Auto Parts Guides, 16 CFR 20. On July 14, 2014, the Commission completed its review of the Guides for the Rebuilt, Reconditioned and Other Used Automobile Parts Industry (Used Auto Parts Guides or Guides), which are designed to prevent the unfair or deceptive marketing of used motor vehicle parts and assemblies, such as engines and transmissions, containing used parts. 79 FR 40623. The Guides prohibit misrepresentations that a part is new or about the condition, extent of previous use, reconstruction, or repair of a part. Previously used parts must be clearly and conspicuously identified as such in advertising and packaging and, if the part appears new, on the part itself. In May 2012, the Commission sought public comments on the Used Auto Parts Guides. 77 FR 29922. After considering the comments, the Commission decided to retain and amend the Guides. Significant amendments include providing that the term “remanufactured,” like the term “factory rebuilt,” should be used only if the product was rebuilt “at a factory generally engaged in the rebuilding of such products;” applying the Guides to used tires; and shortening and updating the sample list of parts that may be industry products.

Final Actions

Since the publication of the 2013 Regulatory Plan, the Commission has issued the following final rules or taken other actions to close other rulemaking proceedings.

Mail or Telephone Order Merchandise Rule, 16 CFR 435. The Mail or Telephone Order Rule requires that, when sellers advertise merchandise, they must have a reasonable basis for stating or implying that they can ship within a certain time. On September 11, 2014, the Commission announced it was adopting final amendments to its Trade Regulation Rule previously entitled “Mail or Telephone Order Merchandise,” including revising its name to “Mail, Internet, or Telephone Order Merchandise” (the “Rule”). 79 FR 55615 (Sept. 17, 2014). The final rule is based upon the comments received in response to an Advance Notice of Proposed Rulemaking, a Notice of Proposed Rulemaking, a Staff Report, and other information. Other final amendments clarify that the Rule covers all orders placed over the Internet; revise the Rule to allow sellers to provide refunds and refund notices by any means at least as fast and reliable as first class mail; clarify sellers' obligations when buyers use payment systems not enumerated in the Rule; and require that refunds be made within seven working days for purchases made using third-party credit cards. The final rule is effective on December 8, 2014.

Wool Rules, 16 CFR 300. On June 4, 2014, the Commission amended the Wool Rules (Rules and Regulations Under The Wool Products Labeling Act of 1939) to conform to the 2006 amendments to the Wool Suit Fabric Labeling Fairness and International Standards Conforming Act (the Wool Act) and the amended Textile Rules. The changes included incorporating the Wool Act's new definitions for cashmere and very fine wools, clarifying descriptions of products containing virgin or new wool, and allowing certain hang-tags disclosing fiber trademarks and performance even if they do not disclose the product's full fiber content. The amended Rules were effective on July 7, 2014.

Fur Rules, 16 CFR 301. The Commission published amendments to the Fur Rules (or Rules and Regulations under the Fur Products Labeling Act) on May 28, 2014, to update the Fur Products Name Guide, provide more labeling flexibility, incorporate Truth in Fur Labeling Act provisions, and conform the guaranty provisions to those governing the Rules under the Textile Fiber Products Identification Act. 79 FR 30445. The amendments are effective November 19, 2014. More specifically, the changes eliminate unnecessary requirements on companies that sell fur products to give them more flexibility on labeling, update the Fur Products Name Guide that lists common animal names allowed on fur labels, incorporate provisions of a fur labeling law passed by Congress in 2010, the Truth in Fur Labeling Act of 2010 (“TFLA”), including the elimination of the Commission's discretion to exempt fur products of “relatively small quantity or value” from disclosure requirements; and providing that the Fur Act would not apply to products covered by the hunter/trapper exemption.

Textile Labeling Rules, 16 CFR 303. These Rules implement Textile Fiber Identification Act requirements that apparel and other covered household textile articles be marked with (1) the generic names and percentages by weight of the constituent fibers present in the textile fiber product; (2) the name under which the manufacturer or another responsible USA company does business, or in lieu thereof, the registered identification number (RIN) of such a company; and (3) the name of the country where the textile product was processed or manufactured. After notice and comment, the Commission amended the Rules on April 4, 2014, to clarify and update its provisions and provide more flexibility, giving businesses more compliance options without imposing significant new obligations. 79 FR 18766.

Premerger Notification Rules and Report Form (or HSR Rules), 16 CFR 801-803. On April 25, 2014, the Commission, in conjunction with the Department of Justice's Antitrust Division, issued amendments to the HSR Rules, updating the Instructions to the HSR Form with the address for the Premerger Office's new location in the Constitution Center. The effective date of the new address was May 6, 2014. 79 FR 25662.

Prenotification Negative Option Rule, 16 CFR 425. On July 25, 2014, the Commission announced it was closing the periodic Regulatory Review and retaining the Negative Option Rule (the Trade Regulation Rule on Prenotification Negative Option Plans) as currently written. 79 FR 44271 (July 31, 2014). The Negative Option Rule governs the operation of prenotification subscription plans. Under these plans, sellers ship merchandise automatically to their subscribers and bill them for the merchandise within a prescribed time. The Negative Option Rule protects consumers by requiring the disclosure of the terms of membership clearly and conspicuously and establishes procedures for administering the subscription plans.

Energy Labeling Rule, 16 CFR 305. On April 9, 2014, the Commission issued conforming amendments to the Rule requiring a new Department of Energy (“DOE”) test procedure for televisions and establishing data reporting requirements for those products. 79 FR 19464.²⁸

²⁸ See Ongoing Rule and Guide Reviews for information about a separate ongoing rulemaking proceeding for the Energy Labeling Rule.

Telemarketing Sales Rule, 16 CFR 310. Caller ID—After reviewing the public comments elicited by an Advance Notice of Proposed Rulemaking, 75 FR 78179 (Dec. 15, 2010) seeking suggestions on ways to enhance the effectiveness and enforceability of the caller identification (“Caller ID”) requirements of the TSR as well as technical presentations at the FTC's 2012 Robocall Summit, the Commission determined that amending the TSR would not reduce the incidence of the falsification, or “spoofing,” of Caller ID information in telemarketing calls. The Commission issued a Federal Register Notice closing this proceeding, effective December 5, 2013. 78 FR 77024 (Dec. 20, 2014).

Fred Meyer Guides, 16 CFR 240. On September 18, 2014, the Commission completed its review of the Fred Meyer Guides (officially the Guides for Advertising Allowances and Other Merchandising Payments and Services) and is retaining the Guides with updates that, among other revisions, clarify that the Guides apply to Internet commerce and bring the Guides into conformity with current case law regarding the applicability of Sections 2(d) and (e) of the Robinson-Patman Act to knowing inducement of disproportional promotional allowances. 79 FR 58245 (Sept. 29, 2014). The Guides assist businesses in complying with sections 2(d) and 2(e) of the Robinson-Patman Act, which proscribe certain discriminations in the provision of promotional allowances and services to customers. Broadly put, the Guides provide that unlawful discrimination may be avoided by providing promotional allowances and services to customers on “proportionally equal terms.”

Vocational Schools Guides, 16 CFR 254. On November 18, 2013, the Commission amended the Vocational Schools Guides (or the Private Vocational and Distance Education Schools Guides) to address more specifically misrepresentations commonly used in recruitment, including those regarding completion/dropout rates and post-graduation job prospects; about whether completion of a program will qualify students to take a licensing exam; concerning a student's score on an admissions test, how long it takes to complete a course or program, or a student's likelihood of success; and regarding the likelihood of financial aid or help with language barriers or learning disabilities, or how much credit students will receive for courses completed elsewhere. 78 FR 68987. The Vocational School Guides address marketing practices by businesses that offer vocational training.

Summary

In both content and process, the FTC's ongoing and proposed regulatory actions are consistent with the President's priorities. The actions under consideration inform and protect consumers, while minimizing the regulatory burdens on businesses. The Commission will continue working toward these goals. The Commission's 10-year review program is patterned after provisions in the Regulatory Flexibility Act and complies with the Small Business Regulatory Enforcement Fairness Act of 1996. The Commission's 10-year program also is consistent with section 5(a) of Executive Order 12866, which directs executive branch agencies to develop a plan to reevaluate periodically all of their significant existing regulations. 58 FR 51735 (Sept. 30, 1993). In addition, the final rules issued by the Commission continue to be consistent with the President's Statement of Regulatory Philosophy and Principles, Executive Order 12866, section 1(a), which directs agencies to promulgate only such regulations as are, inter alia, required by law or are made necessary by compelling public need, such as material failures of private markets to protect or improve the health and safety of the public.

The Commission continues to identify and weigh the costs and benefits of proposed actions and possible alternative actions and to receive the broadest practicable array of comment from affected consumers, businesses, and the public at large. In sum, the Commission's regulatory actions are aimed at efficiently and fairly promoting the ability of “private markets to protect or improve the health and safety of the public, the environment, or the well-being of the American people.” Executive Order 12866, section 1.

II. Regulatory and Deregulatory Actions

The Commission has no proposed rules that would be a “significant regulatory action” under the definition in Executive Order 12866.²⁹ The Commission has no proposed rules that would have significant international impacts under the definition in Executive Order 13609. Also, there are no international regulatory cooperation activities that are reasonably anticipated to lead to significant regulations under Executive Order 13609.

²⁹ Section 3(f) of Executive Order 12866 defines a regulatory action to be “significant” if it is likely to result in a rule that may:

(1) Have an annual effect on the economy of $100 million or more or adversely affect in a material way the economy; a sector of the economy; productivity; competition; jobs; the environment; public health or safety; or State, local, or tribal governments or communities;

(2) Create a serious inconsistency or otherwise interfere with an action taken or planned by another agency;

(3) Materially alter the budgetary impact of entitlements, grants, user fees, or loan programs, or the rights and obligations of recipients thereof; or

(4) Raise novel legal or policy issues arising out of legal mandates, the President's priorities, or the principles set forth in this Executive order.

BILLING CODE 6750-01-P

NATIONAL INDIAN GAMING COMMISSION (NIGC)

Statement of Regulatory Priorities

In 1988, Congress adopted the Indian Gaming Regulatory Act (IGRA) (Pub L. 100-497, 102 Stat. 2475) with a primary purpose of providing “a statutory basis for the operation of gaming by Indian tribes as a means of promoting tribal economic development, self-sufficiency, and strong tribal governments.” IGRA established the National Indian Gaming Commission (NIGC or the Commission) to protect such gaming, amongst other things, as a means of generating tribal revenue.

At its core, Indian gaming is a function of sovereignty exercised by tribal governments. In addition, the Federal government maintains a government-to-government relationship with the tribes—a responsibility of the NIGC. Thus, while the Agency is committed to strong regulation of Indian gaming, the Commission is equally committed to strengthening government-to-government relations by engaging in meaningful consultation with tribes to fulfill IGRA's intent. The NIGC's vision is to adhere to principles of good government, including transparency to promote agency accountability and fiscal responsibility, to operate consistently to ensure fairness and clarity in the administration of IGRA, and to respect the responsibilities of each sovereign in order to fully promote tribal economic development, self-sufficiency, and strong tribal governments. The NIGC is fully committed to working with tribes to ensure the integrity of the industry by exercising its regulatory responsibilities through technical assistance, compliance, and enforcement activities.

Retrospective Review of Existing Regulations

As an independent regulatory agency, the NIGC has been performing a retrospective review of its existing regulations well before Executive Order 13579 was issued on July 11, 2011. The NIGC, however, recognizes the importance of Executive Order 13579 and its regulatory review is being conducted in the spirit of Executive Order 13579, to identify those regulations that may be outmoded, ineffective, insufficient, or excessively burdensome and to modify, streamline, expand, or repeal them in accordance with input from the public. In addition, as required by Executive Order 13175, the Commission has been conducting government-to-government consultations with tribes regarding each regulation's relevancy, consistency in application, and limitations or barriers to implementation, based on the tribes' experiences. The consultation process is also intended to result in the identification of areas for improvement and needed amendments, if any, new regulations, and the possible repeal of outdated regulations.

The following Regulatory Identifier Numbers (RINs) have been identified as associated with the review:

RIN | Title
3141-AA32 | Amendment of Definitions.
3141-AA55 | Minimum Internal Control Standards.
3141-AA58 | Amendment of Approval of Management Contracts.
3141-AA60 | Class II Minimum Internal Control Standards.
3143-AA61 | Self-Regulation of Class II Gaming.

More specifically, the NIGC is currently considering promulgating new regulations in the following areas: (i) Amendments to its regulatory definitions to conform to the newly promulgated rules; (ii) the removal, revision, or suspension of the existing minimum internal control standards (MICS) in part 542; (iii) updates or revisions to its management contract regulations to address the current state of the industry; (iv) updates and revisions to its Self-Regulation of Class II Gaming regulations; and (v) the review and revision of the minimum internal control standards for Class II gaming. The NIGC anticipates that the ongoing consultations with regulated tribes will continue to play an important role in the development of the NIGC's rulemaking efforts.

BILLING CODE 7565-01-P

U.S. NUCLEAR REGULATORY COMMISSION'S FISCAL YEAR 2014 REGULATORY PLAN

A. Statement of Regulatory Priorities

Under the authority of the Atomic Energy Act of 1954, as amended, and the Energy Reorganization Act of 1974, as amended, the U.S. Nuclear Regulatory Commission (NRC) regulates the possession and use of source, byproduct, and special nuclear material. The NRC's regulatory mission is to license and regulate the Nation's civilian use of byproduct, source, and special nuclear materials, to ensure adequate protection of public health and safety, promote the common defense and security, and protect the environment. As part of its mission, the NRC regulates the operation of nuclear power plants and fuel-cycle plants; the safeguarding of nuclear materials from theft and sabotage; the safe transport, storage, and disposal of radioactive materials and wastes; the decommissioning and safe release for other uses of licensed facilities that are no longer in operation; and the medical, industrial, and research applications of nuclear material. In addition, the NRC licenses the import and export of radioactive materials.

As part of its regulatory process, the NRC routinely conducts comprehensive regulatory analyses that examine the costs and benefits of contemplated regulations. The NRC has developed internal procedures and programs to ensure that it imposes only necessary requirements on its licensees and to review existing regulations to determine whether the requirements imposed are still necessary.

The NRC's Regulatory Plan contains a statement of: (1) The major rules that the NRC expects to publish in final form in fiscal year (FY) 2014 and FY 2015; (2) the other significant rulemakings that the NRC expects to publish in final form in FY 2014; and (3) the other significant rulemakings that the NRC expects to publish in final form in FY 2015 and beyond. For each rule and rulemaking, the NRC is including a citation to an applicable Federal Register notice, which provides further information, a summary of the legal basis for the rule or rulemaking, an explanation of why the NRC is pursuing the rule or rulemaking, the rulemaking's schedule, and contact information.

B.1. Major Rules (FY 2014)

The NRC will have published one major rule in final form by the end of FY 2014.

Revision of Fee Schedules; Fee Recovery for FY 2014 (Regulation Identifier Number (RIN) 3150-AJ32)

Through this rule, the NRC will amend the licensing, inspection, and annual fees charged to its applicants and licensees. The amendments are necessary to implement the Omnibus Budget Reconciliation Act of 1990, as amended, which requires the NRC to recover through fees approximately 90 percent of its budget authority in FY 2014, not including amounts appropriated for Waste Incidental to Reprocessing and amounts appropriated for generic homeland security activities. These fees represent the cost of the NRC's services provided to applicants and licensees. The proposed rule was published in the Federal Register (FR) on April 14, 2014 (79 FR 21036), and the comment period ended on May 14, 2014.

B.2. Major Rules (FY 2015)

The NRC anticipates publishing one major rule in final form in FY 2015.

Revision of Fee Schedules; Fee Recovery for FY 2015—The NRC will update its requirement to recover approximately 90 percent of its budget authority in FY 2015.

C.1. Other Significant Rulemakings (FY 2014)

The NRC has published four other significant rulemakings in final form in FY 2014. All four rules update the NRC's list of approved spent fuel storage casks to include amendments to Certificates of Compliance (CoC). Final rules were published in the FR as follows:

Transnuclear, Inc. Standardized NUHOMS® Cask System; Amendment No. 11 to CoC No. 1004 (RIN 3150-AJ10), was published on December 27, 2013 (78 FR 78693), and effective on January 7, 2014.

HI-STORM 100 Cask System; Amendment No. 9 to CoC No. 1014 (RIN 3150-AJ12), was published on December 26, 2013 (78 FR 78165), and effective on March 11, 2014.

Transnuclear, Inc. Standardized NUHOMS® Cask System; Amendment No. 13 to CoC No. 1004 (RIN 3150-AJ28), was published on March 10, 2014 (79 FR 13192). The final rule will be effective on May 24, 2014.

Transnuclear, Inc. Standardized Advanced NUHOMS® Horizontal Modular Storage System; Amendment No. 3 to CoC No. 1029 (RIN 3150-AJ31), was published on April 15, 2014 (79 FR 21121). The NRC is in the process of considering comments received on this direct final rule.

The NRC will have published two CoC rules in final form in FY 2014.

Two CoC Rulemakings (RIN 3150-AJ30; and RIN 3150-AJ39)—These rulemakings allow a power reactor licensee to store spent fuel in approved cask designs under a general license.

C.2. Other Significant Rulemakings (FY 2015 and Beyond)

The other significant rulemakings that the NRC anticipates publishing in final form in FY 2015 and beyond are listed below. Some of these regulatory priorities are a result of recommendations from the Fukushima Dai-ichi Near-Term Task Force. In 2011, the NRC established this task force to examine regulatory requirements, programs, processes, and implementation based on information from the Fukushima Dai-ichi site in Japan, following the March 11, 2011, earthquake and tsunami (see “Recommendations for Enhancing Reactor Safety in the 21st Century: The Near-Term Task Force Review of Insights from the Fukushima Dai-ichi Accident,” dated July 12, 2011 (Agencywide Documents Access and Management System (ADAMS) Accession No. ML111861807)).

Station Blackout Mitigation Strategies (RIN 3150-AJ08)

This rulemaking addresses Fukushima Dai-ichi Near-Term Task Force Recommendations 4 and 7. The NRC published a draft regulatory basis for public comment in the Federal Register on April 10, 2013 (78 FR 21275), supporting the potential amendment of its regulations for nuclear power plant licensees and their station blackout mitigation strategies. The NRC issued a final regulatory basis for rulemaking in a document published in the Federal Register on July 23, 2013 (78 FR 44035).

Performance-Based Emergency Core Cooling System Acceptance Criteria (RIN 3150-AH42)

The proposed rule was published in the Federal Register on March 24, 2014 (79 FR 16106). The proposed rule would replace prescriptive requirements with performance-based requirements, incorporate recent research findings, and expand applicability to all fuel designs and cladding materials. Further, the proposed rule would allow licensees to use an alternative risk-informed approach to evaluate the effects of debris on long-term cooling. The proposed rule addresses two petitions for rulemaking (PRMs). On April 22, 2014 (79 FR 22456), a document was published in the FR extending the comment period until August 21, 2014.

Strengthening and Integrating Onsite Emergency Response Capabilities (RIN 3150-AJ11)

This rulemaking addresses Fukushima Dai-ichi Near-Term Task Force Recommendation 8. The draft regulatory basis for this rulemaking was published in the FR on January 8, 2013 (78 FR 1154). The NRC solicited stakeholder feedback on why the NRC finds rulemaking necessary to revise its regulations governing the integration and enhancement of requirements for onsite emergency response capabilities. The final regulatory basis for this rulemaking was published in the FR on October 25, 2013 (78 FR 63901). Preliminary proposed rule language was made available in a document published in the FR on November 15, 2013 (78 FR 68774).

Medical Use of Byproduct Material (Formerly Titled: Preceptor Attestation Requirements) (RIN 3150-AI63)

The proposed rule would amend medical use regulations related to medical event definitions for permanent implant brachytherapy; training and experience requirements for authorized users, medical physicists, Radiation Safety Officers, and nuclear pharmacists; and requirements for the testing and reporting of failed molybdenum/technetium and rubidium generators. This rule would also make changes that would allow Associate Radiation Safety Officers to be named on a medical license, and make other clarifications. This rulemaking would also consider a request filed in a PRM, PRM-35-20, to “grandfather” certain board-certified individuals, and per Commission direction in the Staff Requirements Memorandum dated August 13, 2012, to SECY-12-0053 (ADAMS Accession No. ML12072A299), subsume a proposed rule previously published under RIN 3150-AI26, “Medical Use of Byproduct Material-Amendments/Medical Event Definition” [NRC-2008-0071].

10 CFR Part 26 Drug and Alcohol Testing (RIN 3150-AJ15)

This proposed rule would amend the drug testing requirements of 10 CFR part 26, “Fitness-for-Duty Programs,” to incorporate lessons learned from implementing the 2008 10 CFR part 26 final rule; enhance the identification of new testing subversion methods; and require the evaluation and testing of semi-synthetic opiates, synthetic drugs and urine, and use of chemicals or multiple prescriptions that could result in a person being unfit for duty.

Enhanced Weapons, Firearms Background Checks, and Security Event Notifications (RIN 3150-AI49)

The proposed rule was published in the FR on February 2, 2011 (76 FR 6200). A supplemental proposed rule was published in the FR on January 10, 2013 (78 FR 2214). This proposed rule would implement the NRC's authority under the new Section 161A of the Atomic Energy Act of 1954, as amended, and revise existing regulations governing security event notifications.

Cyber Event Notification Rule (RIN 3150-AJ37)

This rule would establish a new section in 10 CFR part 73, “Physical Protection of Plants and Materials,” for cyber security event notifications. This rule was originally proposed as part of the Enhanced Weapons rulemaking (RIN 3150-AI49).

Site-Specific Analysis (Disposal of Unique Waste Streams) (RIN 3150-AI92)

The proposed rule would amend the Commission's regulations to require both currently operating and future low-level radioactive waste disposal facilities to enhance safe disposal of low-level radioactive waste by conducting a performance assessment and an intruder assessment to demonstrate compliance with performance objectives in 10 CFR part 61, “Licensing Requirements for Land Disposal of Radioactive Waste.” Preliminary proposed rule language was made available in a document published in the FR on May 3, 2011 (76 FR 24831). The regulatory basis for rulemaking was made available in a document published in the FR on December 7, 2012 (77 FR 72997). On January 8, 2013 (78 FR 1155), the NRC published a document correcting the title and the ADAMS accession number of the regulatory basis document referenced in the document that was published on December 7, 2012.

10 CFR Part 26 Drug Testing—U.S. Department of Health and Human Services (HHS) Guidelines (RIN 3150-AI67)

The proposed rule would amend the Commission's regulations to selectively align drug testing requirements in 10 CFR part 26 with Federal drug testing guidelines issued by HHS. The regulatory basis was published in the FR on July 1, 2013 (78 FR 39190).

NRC

Proposed Rule Stage

159. • Revision of Fee Schedules: Fee Recovery for FY 2015 [NRC-2014-0200]

Priority: Economically Significant. Major under 5 U.S.C. 801.

Legal Authority: 42 U.S.C. 2201; 42 U.S.C. 5841

CFR Citation: 10 CFR 170; 10 CFR 171.

Legal Deadline: NPRM, Statutory, September 30, 2015.

The Omnibus Budget Reconciliation Act of 1990 (OBRA-90), as amended, requires that the NRC recover approximately 90 percent of its budget authority in Fiscal Year (FY) 2015, less the amounts appropriated from the Waste Incidental to Reprocessing, and generic homeland security activities. The OBRA-90 requires that the fees for FY 2015, must be collected by September 30, 2015.

Abstract: This proposed rulemaking would amend the licensing, inspection, and annual fees that the Commission charges its applicants and licensees. These amendments would implement the Omnibus Budget Reconciliation Act of 1990 (OBRA-90) as amended, which requires that the NRC recover approximately 90 percent of its budget authority in Fiscal Year (FY) 2015, less the amounts appropriated from the Waste Incidental to Reprocessing, and generic homeland security activities.

Statement of Need: This rulemaking would amend the licensing inspection, and annual fees charged to the NRC's licensees and applicants for an NRC license. The amendments are necessary to recover approximately 90 percent of the NRC's budget authority for FY 2015 less the amounts appropriated for non-fee items. The OBRA-90, as amended, requires that the NRC accomplish the 90 percent recovery through the assessment of fees. The NRC assesses two types of fees to recover its budget authority. License and inspection fees are assessed under the authority of the Independent Offices Appropriation Act of 1952 (IOAA) to recover the costs of providing individually identifiable services to specific applicants and licensees (10 CFR part 170). IOAA requires that the NRC recover the full cost to the NRC of all identifiable regulatory services that each applicant or licensee receives. The NRC recovers generic and other regulatory costs not recovered from fees imposed under 10 CFR part 170 through the assessment of annual fees under the authority of OBRA-90 (10 CFR part 171). Annual fee charges are consistent with the guidance in the Conference Committee Report on OBRA-90. The NRC assesses annual charges under the principle that licensees who require the greatest expenditure of the Agency's resources should pay the greatest annual fee.

Summary of Legal Basis: The OBRA-90, as amended, requires that the fees for FY 2015 must be collected by September 30, 2015.

Alternatives: Because this action is mandated by statute and the fees must be assessed through rulemaking, the NRC did not consider alternatives to this action.

Anticipated Cost and Benefits: The cost to the NRC's licensees is approximately 90 percent of the NRC FY 2015 budget authority less the amounts appropriated for non-fee items. The estimated dollar amount to be billed to licensees as fees to the NRC's applicants and licensees for FY 2015 is approximately $925.2 million.

Risks: Not applicable.

Timetable:

Action | Date | FR Cite
NPRM | 03/00/15 |

Regulatory Flexibility Analysis Required: Yes.

Small Entities Affected: Businesses, Governmental Jurisdictions, Organizations.

Government Levels Affected: Local, State.

Federalism: Undetermined.

Agency Contact: Arlette P. Howard, Nuclear Regulatory Commission, Office of the Chief Financial Officer, Washington, DC 20555-0001, Phone: 301 415-1481, Email: arlette.howard@nrc.gov.

RIN: 3150-AJ44

BILLING CODE 7590-01-P

FEDERAL ACQUISITION REGULATION (FAR)

I. Mission and Overview

The Federal Acquisition Regulation (FAR) was established to codify uniform policies for acquisition of supplies and services by executive agencies. It is issued and maintained jointly, pursuant to the Office of Federal Procurement Policy (OFPP) Reauthorization Act, under the statutory authorities granted to the Secretary of Defense, Administrator of General Services, and the Administrator, National Aeronautics and Space Administration. Statutory authorities to issue and revise the FAR have been delegated to the procurement executives in Department of Defense (DoD), GSA, and National Aeronautics and Space Administration (NASA). The FAR Council formulated a plan for a retrospective analysis of existing rules and a paperwork burden plan in response to the President's Executive Orders 13563 and 13610. The plan conducts a periodic review of existing significant regulations and also focuses on reducing the paperwork burdens on small business. The plan is located at http://www.acquisition.gov.

II. Statement of Regulatory and Deregulatory Priorities

Federal Acquisition Regulation Priorities

Specific FAR cases that the FAR Council plans to address in Fiscal Year 2015 include:

Regulations of Concern to Small Businesses

Small Business Subcontracting Improvements—This case implements statutory requirements from the Small Business Jobs Act of 2010 aimed at protecting small business subcontractors and increasing subcontracting opportunities for small business. (FAR Case 2014-003)

Set-Asides under Multiple Award Contracts—This case implements statutory requirements from the Small Business Jobs Act of 2010 and is aimed at providing agencies with clarifying guidance on how to use multiple award contracts as a tool to increase Federal contracting opportunities for small businesses. (FAR Case 2014-002)

Payment of Subcontractors—This case implements section 1334 of the Small Business Jobs Act of 2010 and the Small Business Administration's (SBA) Final Rule 78 FR 42391, Small Business Subcontracting. The rule requires prime contractors of contracts requiring a subcontracting plan to notify the contracting officer in writing if the prime contractor pays a reduced price to a subcontractor or if payment is more than 90 days past due. A contracting officer will then use his or her best judgment in determining whether the late or reduced payment was justified and if not the contracting officer will record the identity of a prime contractor with a history of unjustified untimely payments to subcontractors in the Federal Awardee Performance and Integrity Information System (FAPIIS) or any successor system. (FAR Case 2014-004)

Consolidation of Contract Requirements—This case implements section 1313 of the Small Business Jobs Act of 2010 and SBA's final rule to ensure that decisions made by Federal agencies regarding consolidation of contract requirements are made with a view to providing small businesses with appropriate opportunities to participate as prime and subcontractors. (FAR Case 2014-015)

Clarification of Requirement for Justifications for 8(a) Sole-Source Contracts—This case amends the FAR in response to GAO Report to the Chairman, Subcommittee on Contracting Oversight, Committee on Homeland Security and Governmental Affairs, U.S. Senate, entitled Federal Contracting: Slow Start to Implementation of Justifications for 8(a) Sole-Source Contracts (GAO-13-118 dated December 2012). The GAO report indicated that the FAR is not clear on whether a justification is required and suggested that clarifying guidance is needed to help ensure that agencies are applying the justification requirement consistently. Based on GAO's recommendation, this case further clarifies the processes and procedures in the FAR to ensure uniform, consistent, and coherent guidance regarding the use of sole-source 8(a) justifications. (FAR Case 2013-018)

Contracts under the Small Business Administration 8(a) Program—This case clarifies FAR subpart 19.8, “Contracting with the Small Business Administration (The 8(a) Program).” Clarifications include the evaluation, offering, and acceptance process for requirements under the 8(a) program, procedures for acquiring SBA's consent to procure an 8(a) requirement outside the 8(a) program, and the impact of exiting the 8(a) program in terms of the firm's ability to receive future 8(a) requirements and its current contractual commitments. (FAR Case 2012-022)

Regulations Which Promote Fiscal Responsibility

Notification of Pass-Through Contracts—This case implements section 802 of the NDAA for FY 2013. Section 802 requires in those instances where an offeror for a contract, task order, or delivery order informs the agency pursuant to FAR 52.215-22 of their intention to award subcontracts for more than 70 percent of the total cost of work to be performed under the contract, task order, or delivery order, the contracting officer is required to (1) consider the availability of alternative contract vehicles and the feasibility of contracting directly with a subcontractor or subcontractors that will perform the bulk of the work; (2) make a written determination that the contracting approach selected is in the best interest of the Government; and (3) document the basis for such determination. (FAR Case 2013-012)

Limitation on Allowable Government Contractor Compensation Costs—This interim rule implements section 702 of the Bipartisan Budget Act of 2013. In accordance with section 702, the interim rule revises the allowable cost limit relative to the compensation of contractor and subcontractor employees. Also, in accordance with section 702, this interim rule implements the possible exception to this allowable cost limit for scientists, engineers, or other specialists upon an agency determination that such exceptions are needed to ensure that the executive agency has continued access to needed skills and capabilities. (FAR Case 2014-012)

Regulations Which Promote Ethics and Integrity in Contractor Performance

Information on Corporate Contractor Performance and Integrity—This case implements section 852 of the NDAA for FY 2013 (Pub. L. 112-239). Section 852 requires that the Federal Awardee Performance and Integrity Information System (FAPPIIS) include, to the extent practicable, identification of any immediate owner or subsidiary, and all predecessors of an offeror that held a Federal contract or grant within the last three years. The objective is to provide a more comprehensive understanding of the performance and integrity of a contractor in awarding a Federal contract. (FAR Case 2013-020)

Trafficking in Persons—This case implements Executive Order 13627, and title XVII of the NDAA for FY 2013, to strengthen protections against trafficking in persons in Federal contracts. The case creates a stronger framework and additional requirements related to awareness, compliance, and enforcement. Contractors and subcontractors must disclose to employees the key conditions of employment, starting with wages and work location. (FAR Case 2013-001)

Prohibition on Contracting with Corporations with Delinquent Taxes or a Felony Conviction—This case implements multiple sections of the Consolidated Appropriations Act, 2014 (Pub. L. 113-76) to prohibit using any of the funds appropriated by the Act to enter into a contract with any corporation with a delinquent Federal tax liability or a felony conviction. (FAR case 2014-019)

Prohibition On Contracting with Inverted Domestic Corporations—This case implements section 733 of Division E of the Consolidated Appropriations Act, 2014 (Pub. L. 113-76), which prohibits expenditure of appropriated funds for contracts with a foreign incorporated entity that is treated as an inverted domestic corporation or any subsidiary of such entity. The FAR is being updated to (1) revise the methods used to implement the inverted domestic corporation contracting prohibition; (2) amend the definition to clarify entities considered to be an inverted domestic corporation; (3) revise the representation to require two affirmative yes/no representations with respect to inverted domestic corporation status; and require a contractor to promptly inform the contracting officer, in writing, in the event the contractor becomes either an inverted domestic corporation or a subsidiary of an inverted domestic corporation during the performance of the contract. (FAR Case 2014-017)

Regulations Which Promote Accountability and Transparency

Commercial and Government Entity (CAGE) Code—This case requires the use of CAGE codes, an alpha-numeric identifier used extensively throughout the Government, for awards valued greater than the micropurchase threshold. The case also requires identification of the immediate corporate/organization parent and highest level corporate/organization parent during contractor registration for Federal contracts. The goal is to provide for standardization across the Federal government, and to facilitate data collection as means of promoting increased traceability and transparency. (FAR Case 2012-014)

Uniform Procurement Identification—This case requires the use of a unique identifier for contracting offices and a standard unique Procurement Instrument Identification Number for transactions. The goal is to provide for standardization across the Federal government and to facilitate data tracking and collection. (FAR Case 2012-023)

Uniform Use of Line Items—This case establishes a requirement for use of a standardized uniform line item numbering structure in Federal procurement. This case is one component of the effort to implement Federal spending data standards in Federal procurement. This effort will help improve analysis and management decision that can reduce duplication in Federal spending, reduce costs for recipients of Federal dollars by reducing variations in standards for reporting and billing purposes, and provide greater transparency on outcomes of spending. (FAR Case 2013-014)

Privacy Training—This case creates a FAR clause to require contractors that (1) need access to a system of records, (2) handle personally identifiable information, or (3) design, develop, maintain, or operate a system of records on behalf of the Government have their personnel complete privacy training. This addition complies with subsections (e) (agency requirements) and (m) (Government contractors) of the Privacy Act (5 U.S.C. 552a). (FAR Case 2010-013)

Regulations That Promote Protection of Government Information and Systems

Basic Safeguarding of Contractor Information Systems—This case amends the FAR to implement procedures for safeguarding contractor information systems that contain information provided by or generated for the Government. The purpose of these safeguards is to provide the Government with the necessary assurance that contractors are taking basic security measures on their information systems containing Government information. (FAR Case 2011-020)

Expanded Reporting of Nonconforming Items—This case expands Government and contractor requirements for reporting of nonconforming items. A nonconforming item includes items that are likely to result in failure of the supplies or services, or materially reduces the usability of the supplies or services for their intended purpose. It is a partial implementation of section 818 of the NDAA for FY 2012. (FAR Case 2013-002)

Higher-Level Contract Quality Requirements—This case clarifies when to use higher-level quality standards in solicitations and contracts. The rule also updates the examples of higher-level quality standards by removing obsolete standards and adding new industry standards that pertain to quality assurance for avoidance of counterfeit items. (FAR Case 2012-032)

Regulations Which Promote Fair Labor Practices

Fair Pay and Safe Workplaces—This rule implements Executive Order 13673, Fair Pay and Safe Workplaces, seeks to increase efficiency in the work performed by Federal contractors by ensuring that they understand and comply with labor laws designed to promote safe, healthy, fair and effective workplaces. (FAR Case 2014-025)

Minimum wage for contractors—This rule implements Executive Order 13658, Establishing a Minimum Wage for Contractors, requires agencies, to the extent permitted by law, to include a clause in new solicitations and resultant contract specifying, as a condition of payment, that the minimum wage to be paid to workers, in the performance of the contract or any subcontract there under, shall be at least $10.10 per hour beginning January 1, 2015.

Equal Employment and Affirmative Action for Veterans and Individuals with Disabilities—This rule implements DOL regulations at 41 CFR 60-250 and 60-300 designed to promote equal opportunity for veterans and individuals with disabilities. (FAR case 2014-013)

Regulations That Promote Environmental Goals

EPEAT Items—This case expands the Federal requirement to procure EPEAT®-registered products beyond personal computer products to cover imaging equipment (i.e., copiers, digital duplicators, facsimile machines, mailing machines, multifunction devices, printers, and scanners) and televisions and modify the existing FAR requirements to recognize the revised standard applicable to computer products. (FAR Case 2013-016)

High Global Warming Potential Hydrofluorocarbons— This case implements the President's Climate Action Plan by setting forth policies and procedures for the acquisition of items that contain, use, or are manufactured with ozone-depleting substances; or contain or use high global warming potential hydrofluorocarbons. Contractors shall refer to EPA's Significant New Alternatives Policy (SNAP) program (available at http://www.epa.gov/ozone/snap) which has additional information and a list of alternatives to ozone-depleting substances and lower global warming hydrofluorocarbons. (FAR Case 2014-026)

Dated: September 19, 2014
Jeffrey A. Koses,
Senior Procurement Executive/Deputy CAO, Office of Acquisition Policy, U.S. General Services Administration.

[FR Doc. 2014-28927 Filed 12-19-14; 8:45 am]

BILLING CODE 6820-EP-P